DEPARTMENT OF HOMELAND SECURITY

Federal Emergency Management Agency

Compendium of Flood Map Changes

AGENCY: Federal Emergency Management Agency (FEMA), Emergency Preparedness and Response Directorate, Department of Homeland Security.

ACTION: Notice.

SUMMARY: This notice provides listings of changes made to the National Flood Insurance Program (NFIP) maps effective during the first 6 months of 2003.

DATES: The listings include changes to NFIP maps that became effective January 1, 2003, through June 30, 2003.

FOR FURTHER INFORMATION CONTACT: Doug Bellomo, Hazard Study Branch, Mitigation Division, FEMA, 500 C Street S.W., Washington, DC 20472, (202) 646-2903.

SUPPLEMENTARY INFORMATION: In accordance with Section 1360(i) of the National Flood Insurance Reform Act of 1994, this notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: August 8, 2003.
Anthony S. Lowe,
Mitigation Division Director, Emergency Preparedness and Response Directorate.

Two listings are provided below. The first listing includes all Letters of Map Change issued by FEMA from January 1 through June 30, 2003. The following types of letters are included in the listing:

Type | Description
01 | Letter of Map Revision Based on Fill
02 | Letter of Map Amendment
05 | Letter of Map Revision With Base Flood Elevation Changes
06 | Letter of Map Revision Without Base Flood Elevation Changes
08 | Denial
12 | Floodway Revision
17 | Letter of Map Revision-Inadvertent Inclusion in Floodway
18 | Letter of Map Revision-Inadvertent Inclusion in V Zone
19 | Letter of Map Change Revalidation

The second listing includes map panels that FEMA physically revised and republished from January 1 through June 30, 2003. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

For both listings, a single asterisk is shown to the right of each county name that appears in the ”Community” column. This asterisk indicates the area covered is the unincorporated areas of that county.

Region | State | Community | Map panel | Determination date | Case No. | Type
01 | CT | BARKHAMSTED, TOWN OF | 0901340010B | 03-APR-2003 | 03-01-0800A | 02
01 | CT | BERLIN, TOWN OF | 0900220010D | 30-JAN-2003 | 03-01-0498A | 02
01 | CT | BRANFORD, TOWN OF | 0900730005C | 03-JAN-2003 | 03-01-0084A | 02
01 | CT | BRIDGEPORT, CITY OF | 0900020001B | 10-FEB-2003 | 03-01-0628A | 02
01 | CT | CHESHIRE, TOWN OF | 0900740003E | 10-MAR-2003 | 03-01-0776A | 02
01 | CT | CHESHIRE, TOWN OF | 0900740012E | 10-JAN-2003 | 03-01-0450A | 02
01 | CT | CHESHIRE, TOWN OF | 0900740012E | 06-MAR-2003 | 03-01-0692A | 17
01 | CT | CLINTON, TOWN OF | 0900610003D | 20-FEB-2003 | 03-01-0652A | 02
01 | CT | DANBURY, CITY OF | 0900040005B | 16-JAN-2003 | 03-01-0294A | 02
01 | CT | EAST HAVEN, TOWN OF | 0900760002E | 03-JAN-2003 | 03-01-0548V | 19
01 | CT | EAST HAVEN, TOWN OF | 0900760002E | 28-APR-2003 | 03-01-1018A | 02
01 | CT | EAST HAVEN, TOWN OF | 0900760005E | 03-JAN-2003 | 03-01-0548V | 19
01 | CT | EAST HAVEN, TOWN OF | 0900760007E | 03-JAN-2003 | 03-01-0548V | 19
01 | CT | EAST HAVEN, TOWN OF | 0900760009E | 03-JAN-2003 | 03-01-0548V | 19
01 | CT | EAST HAVEN, TOWN OF | 0900760010E | 03-JAN-2003 | 03-01-0548V | 19
01 | CT | FAIRFIELD, TOWN OF | 0900070008C | 20-MAR-2003 | 03-01-0782A | 02
01 | CT | GREENWICH, TOWN OF | 0900080018C | 18-FEB-2003 | 03-01-0682A | 02
01 | CT | GREENWICH, TOWN OF | 0900080024C | 01-APR-2003 | 03-01-003P | 05
01 | CT | GREENWICH, TOWN OF | 0900080024C | 28-APR-2003 | 03-01-023P | 05
01 | CT | GUILFORD, TOWN OF | 0900770005B | 20-MAR-2003 | 03-01-0814A | 02
01 | CT | GUILFORD, TOWN OF | 0900770010B | 03-FEB-2003 | 03-01-0626A | 02
01 | CT | GUILFORD, TOWN OF | 0900770010B | 13-FEB-2003 | 03-01-0676A | 02
01 | CT | GUILFORD, TOWN OF | 0900770015B | 18-FEB-2003 | 03-01-0434A | 02
01 | CT | GUILFORD, TOWN OF | 0900770015B | 07-APR-2003 | 03-01-0802A | 02
01 | CT | GUILFORD, TOWN OF | 0900770017B | 21-JAN-2003 | 03-01-0444A | 18
01 | CT | KENT, TOWN OF | 0901860010B | 02-JAN-2003 | 03-01-0396A | 02
01 | CT | MADISON, TOWN OF | 0900790013C | 02-JAN-2003 | 03-01-0414A | 02
01 | CT | MANSFIELD, TOWN OF | 0901280020C | 27-MAR-2003 | 03-01-0480A | 01
01 | CT | MERIDEN, CITY OF | 0900810003C | 25-FEB-2003 | 03-01-011P | 05
01 | CT | MERIDEN, CITY OF | 0900810005C | 27-MAR-2003 | 03-01-0420A | 02
01 | CT | NEW BRITAIN, CITY OF | 0900320005D | 24-APR-2003 | 03-01-0932A | 02
01 | CT | NEWTOWN, TOWN OF | 0900110010C | 17-APR-2003 | 03-01-0906V | 19
01 | CT | NEWTOWN, TOWN OF | 0900110019C | 17-APR-2003 | 03-01-0906V | 19
01 | CT | NEWTOWN, TOWN OF | 0900110056C | 17-APR-2003 | 03-01-0906V | 19
01 | CT | NOANK FIRE DISTRICT | 0901290002B | 24-APR-2003 | 03-01-0934A | 02
01 | CT | OLD LYME, TOWN OF | 0901030016D | 10-APR-2003 | 03-01-0700A | 02
01 | CT | OLD SAYBROOK, TOWN OF | 0900690004D | 10-JAN-2003 | 03-01-0428A | 02
01 | CT | OLD SAYBROOK, TOWN OF | 0900690004D | 27-MAR-2003 | 03-01-0400A | 02
01 | CT | SHELTON, CITY OF | 0900140012C | 06-MAR-2003 | 03-01-0740A | 02
01 | CT | STAMFORD, CITY OF | 0900150009D | 16-JAN-2003 | 03-01-0458A | 01
01 | CT | STRATFORD, TOWN OF | 0900160002C | 31-MAR-2003 | 03-01-0698A | 02
01 | CT | THOMPSON, TOWN OF | 0901170010B | 06-MAR-2003 | 03-01-0594A | 02
01 | CT | WALLINGFORD, TOWN OF | 0900900009B | 07-APR-2003 | 03-01-0858A | 02
01 | CT | WEST HARTFORD,TOWN OF | 0950820004C | 24-FEB-2003 | 03-01-0688A | 02
01 | CT | WEST HARTFORD,TOWN OF | 0950820004C | 24-APR-2003 | 03-01-0750A | 02
01 | CT | WESTON, TOWN OF | 0900180003C | 03-FEB-2003 | 03-01-0148A | 02
01 | CT | WESTON, TOWN OF | 0900180005C | 03-FEB-2003 | 03-01-0148A | 02
01 | CT | WETHERSFIELD, TOWN OF | 0900400001B | 10-FEB-2003 | 03-01-0492A | 02
01 | CT | WINDSOR, TOWN OF | 0900410005D | 10-JAN-2003 | 03-01-0426A | 17
01 | CT | WOODSTOCK, TOWN OF | 0901200015B | 06-MAR-2003 | 03-01-0474A | 02
01 | MA | ADAMS, TOWN OF | 2500160005B | 16-JAN-2003 | 03-01-0196A | 02
01 | MA | ADAMS, TOWN OF | 2500160005B | 24-FEB-2003 | 03-01-0722A | 02
01 | MA | AMESBURY, TOWN OF | 2500750003D | 24-MAR-2003 | 03-01-0462A | 02
01 | MA | ASHBURNHAM, TOWN OF | 2502900010B | 08-JAN-2003 | 03-01-0272A | 02
01 | MA | ASHLAND, TOWN OF | 2501790002B | 13-MAR-2003 | 03-01-0568A | 02
01 | MA | ATTLEBORO, CITY OF | 2500490005C | 24-MAR-2003 | 03-01-0674A | 17
01 | MA | ATTLEBORO, CITY OF | 2500490010C | 20-FEB-2003 | 03-01-0540A | 02
01 | MA | AUBURN, TOWN OF | 2502920005C | 08-JAN-2003 | 03-01-0418A | 01
01 | MA | AVON, TOWN OF | 2502310001C | 24-MAR-2003 | 03-01-0670A | 02
01 | MA | BELLINGHAM, TOWN OF | 2502320003B | 08-JAN-2003 | 03-01-0264A | 02
01 | MA | BERKLEY, TOWN OF | 2500500001B | 31-MAR-2003 | 03-01-0772A | 02
01 | MA | BOURNE, TOWN OF | 2552100008F | 08-JAN-2003 | 03-01-0062A | 02
01 | MA | BRAINTREE, TOWN OF | 2502330004D | 24-FEB-2003 | 03-01-0546A | 02
01 | MA | BRAINTREE, TOWN OF | 2502330005D | 27-MAR-2003 | 03-01-0714A | 02
01 | MA | CHELMSFORD, TOWN OF | 2501880010B | 17-MAR-2003 | 03-01-0596A | 02
01 | MA | CHELMSFORD, TOWN OF | 2501880010B | 20-MAR-2003 | 03-01-0774A | 02
01 | MA | CONCORD, TOWN OF | 2501890005B | 20-FEB-2003 | 03-01-0634A | 02
01 | MA | CONCORD, TOWN OF | 2501890010B | 13-FEB-2003 | 03-01-0384A | 02
01 | MA | CUMMINGTON, TOWN OF | 2501590002B | 27-FEB-2003 | 03-01-0738A | 02
01 | MA | DARTMOUTH, TOWN OF | 2500510020C | 27-JAN-2003 | 03-01-0116A | 02
01 | MA | DIGHTON, TOWN OF | 2500520020B | 27-MAR-2003 | 03-01-0826A | 02
01 | MA | DUDLEY, TOWN OF | 2503020007B | 27-MAR-2003 | 03-01-0324A | 02
01 | MA | EASTON, TOWN OF | 2500530005C | 03-APR-2003 | 03-01-0502A | 02
01 | MA | EASTON, TOWN OF | 2500530005C | 10-APR-2003 | 03-01-0898A | 02
01 | MA | EASTON, TOWN OF | 2500530010E | 17-APR-2003 | 03-01-0848A | 02
01 | MA | FOXBOROUGH, TOWN OF | 2502390001B | 23-JAN-2003 | 03-01-0334A | 02
01 | MA | FREETOWN, TOWN OF | 2500560030B | 16-JAN-2003 | 03-01-0274A | 02
01 | MA | GLOUCESTER, CITY OF | 2500820002D | 28-APR-2003 | 03-01-0884A | 02
01 | MA | HANOVER, TOWN OF | 2502660001B | 03-FEB-2003 | 03-01-0454A | 02
01 | MA | HOLLISTON, TOWN OF | 2501950004C | 30-JAN-2003 | 03-01-0504A | 02
01 | MA | HULL, TOWN OF | 2502690004B | 10-MAR-2003 | 03-01-0572A | 02
01 | MA | LAWRENCE, CITY OF | 2500870002B | 20-MAR-2003 | 03-01-0638A | 02
01 | MA | MALDEN, CITY OF | 2502020005C | 20-FEB-2003 | 03-01-0696A | 02
01 | MA | MALDEN, CITY OF | 2502020006C | 08-JAN-2003 | 03-01-0452A | 02
01 | MA | MARSHFIELD, TOWN OF | 2502730003D | 08-JAN-2003 | 03-01-0406A | 02
01 | MA | MELROSE , CITY OF | 2502060001B | 30-JAN-2003 | 03-01-0448A | 02
01 | MA | MELROSE , CITY OF | 2502060003B | 03-APR-2003 | 03-01-0570A | 02
01 | MA | METHUEN, CITY OF | 2500930005C | 17-MAR-2003 | 03-01-0486A | 02
01 | MA | MIDDLEBOROUGH, TOWN OF | 2502750030B | 24-MAR-2003 | 03-01-0808A | 02
01 | MA | NAHANT, TOWN OF | 2500950004B | 30-JAN-2003 | 03-01-0380A | 02
01 | MA | NEW BEDFORD, CITY OF | 2552160005B | 20-FEB-2003 | 03-01-0194A | 01
01 | MA | NORFOLK, TOWN OF | 2552170005C | 17-MAR-2003 | 03-01-0168A | 02
01 | MA | NORWOOD, TOWN OF | 2502480005B | 10-APR-2003 | 03-01-0886A | 02
01 | MA | OAK BLUFFS, TOWN OF | 2500720001D | 03-APR-2003 | 03-01-0710A | 02
01 | MA | PEABODY, CITY OF | 2500990010B | 16-JAN-2003 | 03-01-0446A | 17
01 | MA | PEMBROKE, TOWN OF | 2502770010C | 03-APR-2003 | 03-01-0464A | 02
01 | MA | PITTSFIELD, CITY OF | 2500370015D | 30-JAN-2003 | 03-01-0364A | 02
01 | MA | PITTSFIELD, CITY OF | 2500370020C | 20-FEB-2003 | 03-01-0442A | 02
01 | MA | PLYMOUTH, TOWN OF | 2502780012C | 01-APR-2003 | 03-01-013P | 05
01 | MA | PLYMOUTH, TOWN OF | 2502780045C | 07-APR-2003 | 03-01-0790A | 02
01 | MA | QUINCY, CITY OF | 2552190004C | 18-FEB-2003 | 03-01-0686A | 02
01 | MA | QUINCY, CITY OF | 2552190004C | 24-FEB-2003 | 03-01-0598A | 02
01 | MA | QUINCY, CITY OF | 2552190012C | 10-APR-2003 | 03-01-0876A | 02
01 | MA | RANDOLPH, TOWN OF | 2502510002D | 30-JAN-2003 | 03-01-0254A | 02
01 | MA | REVERE, CITY OF | 2502880004C | 10-JAN-2003 | 03-01-0190A | 02
01 | MA | REVERE, CITY OF | 2502880004C | 16-JAN-2003 | 03-01-0518A | 02
01 | MA | REVERE, CITY OF | 2502880004C | 20-MAR-2003 | 03-01-0870A | 02
01 | MA | SALISBURY, TOWN OF | 2501030004C | 20-FEB-2003 | 03-01-0460A | 02
01 | MA | SCITUATE, TOWN OF | 2502820003D | 21-APR-2003 | 03-01-1028A | 02
01 | MA | SCITUATE, TOWN OF | 2502820003D | 21-APR-2003 | 03-01-1030A | 02
01 | MA | SCITUATE, TOWN OF | 2502820003D | 21-APR-2003 | 03-01-1032A | 02
01 | MA | SHEFFIELD, TOWN OF | 2500410014B | 30-JAN-2003 | 03-01-0198A | 02
01 | MA | STURBRIDGE, TOWN OF | 2503370006B | 24-FEB-2003 | 03-01-0550A | 02
01 | MA | SUDBURY, TOWN OF | 2502170005C | 17-MAR-2003 | 03-01-0534A | 02
01 | MA | TOPSFIELD, TOWN OF | 2501060002D | 21-JAN-2003 | 03-01-0284A | 02
01 | MA | WAKEFIELD, TOWN OF | 2502210005B | 24-MAR-2003 | 03-01-0520A | 17
01 | MA | WALPOLE, TOWN OF | 2502540005B | 27-JAN-2003 | 03-01-0292A | 02
01 | MA | WAREHAM, TOWN OF | 2552230002B | 07-APR-2003 | 03-01-0790AD | 02
01 | MA | WAREHAM, TOWN OF | 2552230007D | 20-MAR-2003 | 03-01-0636A | 02
01 | MA | WAREHAM, TOWN OF | 2552230011D | 27-MAR-2003 | 03-01-0828A | 02
01 | MA | WELLESLEY, TOWN OF | 2502550005B | 20-FEB-2003 | 03-01-0388A | 02
01 | MA | WESTWOOD, TOWN OF | 2552250002D | 06-FEB-2003 | 03-01-0424A | 02
01 | MA | WEYMOUTH, TOWN OF | 2502570007C | 23-JAN-2003 | 03-01-0314A | 02
01 | MA | WILMINGTON, TOWN OF | 2502270002C | 10-MAR-2003 | 03-01-0262A | 02
01 | MA | WORCESTER, CITY OF | 2503490002B | 17-JAN-2003 | 03-01-0544V | 19
01 | MA | WORCESTER, CITY OF | 2503490011B | 17-JAN-2003 | 03-01-0544V | 19
01 | MA | WORCESTER, CITY OF | 2503490015B | 27-JAN-2003 | 03-01-0354A | 02
01 | MA | YARMOUTH, TOWN OF | 2500150005D | 08-JAN-2003 | 03-01-0276A | 02
01 | ME | ACTON, TOWN OF | 2301900001B | 06-FEB-2003 | 03-01-0506A | 02
01 | ME | ACTON, TOWN OF | 2301900010B | 06-MAR-2003 | 03-01-0694A | 02
01 | ME | ALBION, TOWN OF | 230231—02A | 14-APR-2003 | 03-01-0862A | 02
01 | ME | ALFRED, TOWN OF | 2301910025C | 13-MAR-2003 | 03-01-0716A | 02
01 | ME | ALFRED, TOWN OF | 2301910036C | 03-FEB-2003 | 03-01-0482A | 02
01 | ME | ARUNDEL, TOWN OF | 2301920005C | 24-APR-2003 | 03-01-0888A | 02
01 | ME | BAR HARBOR, TOWN OF | 2300640005B | 10-MAR-2003 | 03-01-0708A | 18
01 | ME | BAR HARBOR, TOWN OF | 2300640005B | 03-APR-2003 | 03-01-0736A | 02
01 | ME | BAR HARBOR, TOWN OF | 2300640010B | 04-APR-2003 | 03-01-005P | 05
01 | ME | BATH, CITY OF | 2301180003B | 16-JAN-2003 | 03-01-0374A | 02
01 | ME | BELGRADE, TOWN OF | 2302320005B | 18-FEB-2003 | 03-01-0608A | 02
01 | ME | BOOTHBAY HARBOR, TOWN OF | 2302130003B | 27-MAR-2003 | 03-01-0660A | 18
01 | ME | BOOTHBAY, TOWN OF | 2302120013B | 31-MAR-2003 | 03-01-0786A | 02
01 | ME | BREWER, CITY OF | 2301040005B | 27-FEB-2003 | 03-01-0640A | 02
01 | ME | BREWER, CITY OF | 2301040005B | 28-APR-2003 | 03-01-0866A | 02
01 | ME | BRIDGTON, TOWN OF | 2300410005B | 06-MAR-2003 | 03-01-0684A | 02
01 | ME | BRISTOL, TOWN OF | 2302150015C | 24-MAR-2003 | 03-01-0650A | 18
01 | ME | BROOKLIN,TOWN OF | 230275—11 A | 03-JAN-2003 | 03-01-0342A | 02
01 | ME | BURNHAM, TOWN OF | 2301300015B | 03-FEB-2003 | 03-01-0378A | 02
01 | ME | BUXTON, TOWN OF | 2301460010B | 06-MAR-2003 | 03-01-0488A | 02
01 | ME | BUXTON, TOWN OF | 2301460010B | 06-MAR-2003 | 03-01-0666A | 02
01 | ME | CANAAN, TOWN OF | 230356—04 B | 21-JAN-2003 | 03-01-0410A | 02
01 | ME | CANTON, TOWN OF | 2300910009B | 16-JAN-2003 | 03-01-0408A | 02
01 | ME | CASTINE, TOWN OF | 2302770010B | 13-MAR-2003 | 03-01-0796A | 02
01 | ME | CHINA, TOWN OF | 2302350005B | 17-APR-2003 | 03-01-0878A | 02
01 | ME | CHINA, TOWN OF | 2302350015B | 31-MAR-2003 | 03-01-0760A | 02
01 | ME | DEDHAM, TOWN OF | 230279—04 | 21-APR-2003 | 03-01-0840A | 02
01 | ME | ELLSWORTH, CITY OF | 2300660015B | 17-APR-2003 | 03-01-0890A | 02
01 | ME | FRANKFORT, TOWN OF | 2302540005A | 24-FEB-2003 | 03-01-0582A | 02
01 | ME | FREEDOM, TOWN OF | 230255—01A | 13-MAR-2003 | 03-01-0720A | 02
01 | ME | FREEPORT, TOWN OF | 2300460012B | 16-JAN-2003 | 03-01-0224A | 02
01 | ME | FREEPORT, TOWN OF | 2300460014B | 16-JAN-2003 | 03-01-0224A | 02
01 | ME | GRAY, TOWN OF | 2300480010A | 08-JAN-2003 | 03-01-0352A | 02
01 | ME | HARPSWELL, TOWN OF | 2301690003B | 20-MAR-2003 | 03-01-0580A | 18
01 | ME | HARPSWELL, TOWN OF | 2301690005B | 06-MAR-2003 | 03-01-0556A | 02
01 | ME | HARPSWELL, TOWN OF | 2301690006B | 03-APR-2003 | 03-01-0422A | 18
01 | ME | HARPSWELL, TOWN OF | 2301690011B | 10-APR-2003 | 03-01-0810A | 18
01 | ME | HARPSWELL, TOWN OF | 2301690014D | 20-MAR-2003 | 03-01-0764A | 18
01 | ME | HARTLAND, TOWN OF | 230361—02A | 06-FEB-2003 | 03-01-0514A | 02
01 | ME | JEFFERSON, TOWN OF | 2300850010B | 21-JAN-2003 | 03-01-0440A | 02
01 | ME | KITTERY, TOWN OF | 2301710005D | 30-JAN-2003 | 03-01-0210A | 02
01 | ME | LAMOINE, TOWN OF | 2302850010A | 10-APR-2003 | 03-01-0372A | 02
01 | ME | LAMOINE, TOWN OF | 2302850010A | 24-APR-2003 | 03-01-0306A | 02
01 | ME | LEBANON, TOWN OF | 2301930040A | 20-MAR-2003 | 03-01-0728A | 02
01 | ME | LINCOLN, TOWN OF | 2301090015B | 08-JAN-2003 | 03-01-0412A | 02
01 | ME | LINCOLN, TOWN OF | 2301090015B | 06-MAR-2003 | 03-01-0616A | 02
01 | ME | LINCOLNVILLE, TOWN OF | 2301720015A | 03-FEB-2003 | 03-01-0470A | 02
01 | ME | MADISON, TOWN OF | 2301260014C | 03-FEB-2003 | 03-01-0466A | 02
01 | ME | MADISON, TOWN OF | 2301260019C | 03-FEB-2003 | 03-01-0468A | 02
01 | ME | MEXICO, TOWN OF | 2300950004B | 03-MAR-2003 | 03-01-0584A | 02
01 | ME | MOUNT CHASE TOWN | 230462—01A | 27-FEB-2003 | 03-01-0622A | 02
01 | ME | MT. VERNON, TOWN OF | 2302410005B | 06-FEB-2003 | 03-01-0508A | 02
01 | ME | NEWCASTLE, TOWN OF | 2302180002A | 30-JAN-2003 | 03-01-0242A | 02
01 | ME | NEWPORT, TOWN OF | 230398—08B | 02-JAN-2003 | 03-01-0310A | 02
01 | ME | NEWPORT, TOWN OF | 230398—10 B | 30-JAN-2003 | 03-01-0308A | 01
01 | ME | NORTH BERWICK, TOWN OF | 2301970007C | 06-FEB-2003 | 03-01-0562A | 02
01 | ME | ORLAND,TOWN OF | 230288—08 A | 03-JAN-2003 | 03-01-0370A | 02
01 | ME | PERU, TOWN OF | 2300980025B | 06-FEB-2003 | 03-01-0530A | 02
01 | ME | RANDOLPH, TOWN OF | 2302440001B | 14-APR-2003 | 03-01-0798A | 02
01 | ME | RANGELEY, TOWN OF | 2303520007B | 13-FEB-2003 | 03-01-0602A | 02
01 | ME | RAYMOND, TOWN OF | 2302050020B | 13-FEB-2003 | 03-01-0554A | 02
01 | ME | ROCKPORT, TOWN OF | 2300770005B | 17-MAR-2003 | 03-01-0746A | 02
01 | ME | ROME, TOWN OF | 2302460005B | 03-JAN-2003 | 03-01-0376A | 02
01 | ME | ROME, TOWN OF | 2302460005B | 16-JAN-2003 | 03-01-0438A | 02
01 | ME | SEBAGO, TOWN OF | 2302060018B | 06-FEB-2003 | 03-01-0516A | 02
01 | ME | SEBAGO, TOWN OF | 2302060018B | 07-APR-2003 | 03-01-0824A | 02
01 | ME | SOUTH BRISTOL, TOWN OF | 2302200015B | 05-MAR-2003 | 03-01-017P | 05
01 | ME | SOUTHWEST HARBOR, TOWN OF | 2302930015B | 21-APR-2003 | 03-01-0756A | 02
01 | ME | ST. ALBANS, TOWN OF | 230369—04A | 17-MAR-2003 | 03-01-0718A | 02
01 | ME | ST. ALBANS, TOWN OF | 230369—04A | 17-APR-2003 | 03-01-0844A | 02
01 | ME | ST. ALBANS, TOWN OF | 230369——04A | 13-MAR-2003 | 03-01-0744A | 02
01 | ME | STANDISH, TOWN OF | 2302070025B | 31-MAR-2003 | 03-01-0806A | 02
01 | ME | STANDISH, TOWN OF | 2302070030B | 25-FEB-2003 | 03-01-001P | 05
01 | ME | STANDISH, TOWN OF | 2302070040B | 24-MAR-2003 | 03-01-0512A | 02
01 | ME | STEUBEN, TOWN OF | 230323—02 A | 13-FEB-2003 | 03-01-0176A | 02
01 | ME | STOW, TOWN OF | 2301860001B | 27-MAR-2003 | 03-01-0758A | 02
01 | ME | SULLIVAN, TOWN OF | 230295—01 A | 16-JAN-2003 | 03-01-0528A | 02
01 | ME | SWANS ISLAND,TOWN OF | 230297—09A | 10-JAN-2003 | 03-01-0122A | 02
01 | ME | SWANS ISLAND,TOWN OF | 230297—10A | 10-JAN-2003 | 03-01-0122A | 02
01 | ME | T17 R04 WELS, TOWNSHIP OF | 230453—01A | 06-MAR-2003 | 03-01-0604A | 02
01 | ME | T17 R04 WELS, TOWNSHIP OF | 230453—01A | 27-MAR-2003 | 03-01-0730A | 02
01 | ME | TRENTON, TOWN OF | 2302990010A | 03-APR-2003 | 03-01-0822A | 18
01 | ME | TRENTON, TOWN OF | 2302990010A | 10-APR-2003 | 03-01-0860A | 18
01 | ME | WAYNE, TOWN OF | 2301880005B | 31-MAR-2003 | 03-01-0706A | 02
01 | ME | WAYNE, TOWN OF | 2301880005B | 21-APR-2003 | 03-01-0792A | 02
01 | ME | WELD, TOWN OF | 230353—04A | 27-MAR-2003 | 03-01-0302A | 02
01 | ME | WINDHAM, TOWN OF | 2301890015B | 13-MAR-2003 | 03-01-0328A | 02
01 | ME | WINDHAM, TOWN OF | 2301890035B | 13-MAR-2003 | 03-01-0328A | 02
01 | ME | WINN, TOWN OF | 230404—01A | 13-FEB-2003 | 03-01-0560A | 02
01 | ME | YORK, TOWN OF | 2301590024D | 03-FEB-2003 | 03-01-0026A | 02
01 | ME | YORK, TOWN OF | 2301590024D | 10-APR-2003 | 03-01-0830A | 02
01 | NH | ALTON, TOWN OF | 3300010030B | 24-FEB-2003 | 03-01-0510A | 02
01 | NH | AMHERST, TOWN OF | 3300810004B | 27-MAR-2003 | 03-01-0836A | 02
01 | NH | BRENTWOOD, TOWN OF | 3301250001C | 21-APR-2003 | 03-01-0904A | 02
01 | NH | CONWAY, TOWN OF | 3300110040C | 03-FEB-2003 | 03-01-0578A | 02
01 | NH | DEERING, TOWN OF | 3300850010A | 03-APR-2003 | 03-01-0850A | 02
01 | NH | DURHAM, TOWN OF | 3301460010C | 18-FEB-2003 | 03-01-0642A | 02
01 | NH | ERROL, TOWN OF | 3302060030B | 17-APR-2003 | 03-01-0908V | 19
01 | NH | FREEDOM, TOWN OF | 3300130010C | 24-MAR-2003 | 03-01-0752A | 02
01 | NH | GREENLAND, TOWN OF | 3302100005B | 03-JAN-2003 | 03-01-0184A | 02
01 | NH | HILLSBOROUGH, TOWN OF | 3300900005B | 30-JAN-2003 | 03-01-0432A | 02
01 | NH | HOLDERNESS, TOWN OF | 3300590004C | 13-MAR-2003 | 02-01-015P | 05
01 | NH | HUDSON, TOWN OF | 3300920005B | 13-MAR-2003 | 03-01-0644A | 02
01 | NH | JACKSON, TOWN OF | 3300140025B | 24-FEB-2003 | 03-01-0618A | 02
01 | NH | KEENE, CITY OF | 3300230008D | 28-APR-2003 | 03-01-1016A | 02
01 | NH | LOUDON, TOWN OF | 3301170003B | 02-JAN-2003 | 03-01-0322A | 02
01 | NH | LOUDON, TOWN OF | 3301170003B | 21-APR-2003 | 03-01-0902A | 02
01 | NH | MEREDITH, TOWN OF | 3300060005B | 24-MAR-2003 | 03-01-0784A | 02
01 | NH | MILFORD, TOWN OF | 3300960002B | 10-MAR-2003 | 03-01-0788A | 02
01 | NH | MILTON, TOWN OF | 3301490006B | 06-FEB-2003 | 03-01-0552A | 02
01 | NH | MOULTONBOROUGH, TOWN OF | 3300150002C | 17-APR-2003 | 03-01-0818A | 02
01 | NH | NASHUA, CITY OF | 3300970039C | 03-APR-2003 | 03-01-0868A | 02
01 | NH | NASHUA, CITY OF | 3300970040C | 21-APR-2003 | 03-01-0936A | 02
01 | NH | NASHUA, CITY OF | 3300970075C | 02-JAN-2003 | 03-01-0346A | 02
01 | NH | NASHUA, CITY OF | 3300970075C | 02-JAN-2003 | 03-01-0362A | 02
01 | NH | NASHUA, CITY OF | 3300970075C | 30-JAN-2003 | 03-01-0436A | 02
01 | NH | NASHUA, CITY OF | 3300970075C | 20-FEB-2003 | 03-01-0712A | 02
01 | NH | NORTH HAMPTON, TOWN OF | 3302320003B | 31-MAR-2003 | 03-01-0834A | 02
01 | NH | OSSIPEE, TOWN OF | 3300160008C | 28-APR-2003 | 03-01-1014A | 02
01 | NH | RAYMOND, TOWN OF | 3301400005D | 24-FEB-2003 | 03-01-0600A | 02
01 | NH | RINDGE, TOWN OF | 3301890010B | 20-FEB-2003 | 03-01-0690A | 02
01 | NH | SALISBURY, TOWN OF | 330121—08B | 30-JAN-2003 | 03-01-0484A | 02
01 | NH | SOMERSWORTH, CITY OF | 3301510005B | 13-MAR-2003 | 03-01-0812A | 02
01 | NH | SOMERSWORTH, CITY OF | 3301510005B | 04-APR-2003 | 03-01-402P | 06
01 | NH | TUFTONBORO, TOWN OF | 3302340015B | 21-JAN-2003 | 03-01-0404A | 02
01 | NH | WAKEFIELD, TOWN OF | 3300190005A | 17-MAR-2003 | 03-01-0794A | 02
01 | NH | WEARE, TOWN OF | 3302350010B | 21-JAN-2003 | 03-01-0472A | 02
01 | RI | BARRINGTON, TOWN OF | 44001C0006F | 03-MAR-2003 | 03-01-0350A | 02
01 | RI | CHARLESTOWN, TOWN OF | 4453950020C | 02-JAN-2003 | 03-01-0152A | 02
01 | RI | CRANSTON, CITY OF | 4453960009B | 02-JAN-2003 | 03-01-0392A | 02
01 | RI | CRANSTON, CITY OF | 4453960009B | 13-MAR-2003 | 03-01-0610A | 02
01 | RI | CRANSTON, CITY OF | 4453960009B | 17-MAR-2003 | 03-01-0766A | 01
01 | RI | CRANSTON, CITY OF | 4453960009B | 27-MAR-2003 | 03-01-0842A | 02
01 | RI | EAST PROVIDENCE, CITY OF | 4453980007C | 20-FEB-2003 | 03-01-0588A | 01
01 | RI | GLOCESTER, TOWN OF | 4400340005C | 03-FEB-2003 | 03-01-0558A | 02
01 | RI | JOHNSTON, TOWN OF | 4400180010C | 30-JAN-2003 | 03-01-0576A | 02
01 | RI | NORTH KINGSTOWN, TOWN OF | 4454040008B | 20-FEB-2003 | 03-01-0338A | 02
01 | RI | NORTH KINGSTOWN, TOWN OF | 4454040012B | 03-APR-2003 | 03-01-0726A | 02
01 | RI | NORTH PROVIDENCE, TOWN OF | 4400200001C | 24-APR-2003 | 03-01-1064A | 02
01 | RI | NORTH PROVIDENCE, TOWN OF | 4400200002C | 27-MAR-2003 | 03-01-0360A | 02
01 | RI | SOUTH KINGSTOWN, TOWN OF | 4454070026D | 03-FEB-2003 | 03-01-0574A | 02
01 | RI | WARWICK, CITY OF | 4454090002D | 30-JAN-2003 | 03-01-0188A | 02
01 | RI | WARWICK, CITY OF | 4454090006E | 07-APR-2003 | 03-01-0894A | 02
01 | VT | BERLIN, TOWN OF | 5001060009B | 02-JAN-2003 | 03-01-0358A | 02
01 | VT | BRISTOL, TOWN OF | 5000010015B | 13-FEB-2003 | 03-01-0532A | 02
01 | VT | CALAIS, TOWN OF | 500109—04B | 21-JAN-2003 | 03-01-0586A | 02
01 | VT | ESSEX, TOWN OF | 5000340012B | 13-FEB-2003 | 03-01-0664A | 02
01 | VT | JEFFERSONVILLE, VILLAGE OF | 5000620001A | 21-APR-2003 | 03-01-0914A | 02
01 | VT | LUNENBURG, TOWN OF | 500048—09A | 21-JAN-2003 | 03-01-0368A | 02
01 | VT | MONTPELIER, CITY OF | 5055180002A | 06-FEB-2003 | 03-01-0630A | 02
01 | VT | MONTPELIER, CITY OF | 5055180002A | 06-FEB-2003 | 03-01-0648A | 02
01 | VT | MONTPELIER, CITY OF | 5055180002A | 20-FEB-2003 | 03-01-0656A | 02
01 | VT | MONTPELIER, CITY OF | 5055180002A | 24-FEB-2003 | 03-01-0754A | 02
01 | VT | MONTPELIER, CITY OF | 5055180002A | 27-FEB-2003 | 03-01-0646A | 02
01 | VT | MONTPELIER, CITY OF | 5055180002A | 10-MAR-2003 | 03-01-0804A | 02
01 | VT | MONTPELIER, CITY OF | 5055180002A | 21-APR-2003 | 03-01-0592A | 02
01 | VT | MORGAN, TOWN OF | 500255—02 | 10-JAN-2003 | 03-01-0456A | 02
01 | VT | MORGAN, TOWN OF | 500255—02 | 13-MAR-2003 | 03-01-0780A | 02
01 | VT | MORGAN, TOWN OF | 500255—02 | 27-MAR-2003 | 03-01-0820A | 02
01 | VT | NEWBURY, TOWN OF | 5002370005C | 02-JAN-2003 | 03-01-0394A | 02
01 | VT | NEWFANE, TOWN AND VILLAGE OF | 5001330010B | 23-JAN-2003 | 03-01-0494A | 02
01 | VT | NORTHFIELD, TOWN OF | 5001180002B | 03-FEB-2003 | 03-01-0612A | 02
01 | VT | NORTHFIELD, TOWN OF | 5001180002B | 24-APR-2003 | 03-01-0982A | 02
01 | VT | NORWICH, TOWN OF | 5002950003C | 31-MAR-2003 | 03-01-0846A | 02
01 | VT | RICHMOND, TOWN OF | 5000400008B | 10-JAN-2003 | 03-01-0356A | 02
01 | VT | RICHMOND, TOWN OF | 5000400010B | 07-APR-2003 | 03-01-0892A | 02
01 | VT | SHAFTSBURY, TOWN OF | 500019—11C | 20-FEB-2003 | 03-01-0704A | 02
01 | VT | STRAFFORD, TOWN OF | 5002400015C | 28-APR-2003 | 03-01-1046A | 02
01 | VT | SUTTON, TOWN OF | 500198—07A | 24-APR-2003 | 03-01-0984A | 02
01 | VT | TINMOUTH, TOWN OF | 500270—02H | 18-FEB-2003 | 03-01-0662A | 02
01 | VT | UNDERHILL, TOWN OF | 5000420017B | 13-FEB-2003 | 03-01-0678A | 02
01 | VT | WALLINGFORD, TOWN OF | 5001030005B | 24-APR-2003 | 03-01-0950A | 02
01 | VT | WELLS, TOWN OF | 5002710001B | 18-FEB-2003 | 03-01-0136A | 02
01 | VT | WELLS, TOWN OF | 5002710001B | 28-APR-2003 | 03-01-0992A | 02
01 | VT | WILLIAMSTOWN, TOWN OF | 5000800005B | 06-FEB-2003 | 03-01-0478A | 17
01 | VT | WILLIAMSTOWN, TOWN OF | 5000800005B | 06-MAR-2003 | 03-01-0778A | 01
01 | VT | WILLIAMSTOWN, TOWN OF | 5000800005B | 14-APR-2003 | 03-01-0948A | 01
01 | VT | WILMINGTON, TOWN OF | 5001420005B | 17-APR-2003 | 03-01-0880A | 02
01 | VT | WOODBURY, TOWN OF | 500314—04A | 24-APR-2003 | 03-01-0918A | 02
02 | NJ | BEACHWOOD, BOROUGH OF | 3403680001B | 17-APR-2003 | 03-02-0574A | 02
02 | NJ | BERKELEY HEIGHTS, TOWNSHIP OF | 3404590001E | 30-JAN-2003 | 03-02-0362A | 02
02 | NJ | BERKELEY HEIGHTS, TOWNSHIP OF | 3404590001E | 13-FEB-2003 | 03-02-0356A | 02
02 | NJ | BERKELEY HEIGHTS, TOWNSHIP OF | 3404590001E | 10-MAR-2003 | 03-02-0458A | 02
02 | NJ | BERKELEY HEIGHTS, TOWNSHIP OF | 3404590001E | 17-MAR-2003 | 03-02-0532A | 02
02 | NJ | BERKELEY HEIGHTS, TOWNSHIP OF | 3404590001E | 31-MAR-2003 | 03-02-0366A | 01
02 | NJ | BERKELEY HEIGHTS, TOWNSHIP OF | 3404590001E | 23-APR-2003 | 02-02-025P | 06
02 | NJ | BERKELEY HEIGHTS, TOWNSHIP OF | 3404590003E | 23-APR-2003 | 02-02-025P | 06
02 | NJ | BERKELEY HEIGHTS, TOWNSHIP OF | 3404590003E | 28-APR-2003 | 03-02-0956A | 02
02 | NJ | BERNARDS, TOWNSHIP OF | 3404280005B | 16-JAN-2003 | 03-02-0452A | 02
02 | NJ | BERNARDS, TOWNSHIP OF | 3404280010B | 20-FEB-2003 | 03-02-0470A | 02
02 | NJ | BERNARDSVILLE, BOROUGH OF | 3404290001B | 10-FEB-2003 | 03-02-0340A | 02
02 | NJ | BERNARDSVILLE, BOROUGH OF | 3404290001B | 13-FEB-2003 | 03-02-0336A | 02
02 | NJ | BERNARDSVILLE, BOROUGH OF | 3404290001B | 13-FEB-2003 | 03-02-0338A | 02
02 | NJ | BERNARDSVILLE, BOROUGH OF | 3404290001B | 10-MAR-2003 | 03-02-0234A | 02
02 | NJ | BERNARDSVILLE, BOROUGH OF | 3404290002C | 18-MAR-2003 | 03-02-0920V | 19
02 | NJ | BERNARDSVILLE, BOROUGH OF | 3404290005C | 18-MAR-2003 | 03-02-0920V | 19
02 | NJ | CARNEYS POINT, TOWNSHIP OF | 3404240010B | 08-JAN-2003 | 03-02-0302A | 02
02 | NJ | CARNEYS POINT, TOWNSHIP OF | 3404240010B | 03-APR-2003 | 03-02-0682A | 02
02 | NJ | CHATHAM, TOWNSHIP OF | 3405040006C | 24-FEB-2003 | 03-02-0428A | 02
02 | NJ | CLIFTON, CITY OF | 3403980005B | 24-MAR-2003 | 03-02-0496A | 01
02 | NJ | CRANFORD, TOWNSHIP OF | 3452910001B | 13-FEB-2003 | 03-02-0092A | 02
02 | NJ | DENVILLE, TOWNSHIP OF | 3452920005B | 02-JAN-2003 | 03-02-0238A | 02
02 | NJ | DOVER, TOWNSHIP OF | 3452930008D | 03-JAN-2003 | 03-02-0242A | 02
02 | NJ | FAIR LAWN, BOROUGH OF | 34003C0167F | 06-MAR-2003 | 03-02-0528A | 02
02 | NJ | HAMILTON, TOWNSHIP OF | 3402460005B | 23-JAN-2003 | 03-02-0246A | 02
02 | NJ | HAMILTON, TOWNSHIP OF | 3402460005B | 30-JAN-2003 | 03-02-0370A | 02
02 | NJ | HAMILTON, TOWNSHIP OF | 3402460015C | 02-JAN-2003 | 03-02-0288A | 02
02 | NJ | HAMILTON, TOWNSHIP OF | 3402460015C | 13-FEB-2003 | 03-02-0372A | 02
02 | NJ | HAMILTON, TOWNSHIP OF | 3402460015C | 27-FEB-2003 | 03-02-0374A | 02
02 | NJ | HAMMONTON, TOWN OF | 3400100015C | 13-FEB-2003 | 03-02-0492A | 02
02 | NJ | HARDING, TOWNSHIP OF | 3403440004D | 24-FEB-2003 | 03-02-0402A | 02
02 | NJ | LACEY, TOWNSHIP OF | 340376—09A | 27-FEB-2003 | 03-02-0342A | 02
02 | NJ | MANASQUAN, BOROUGH OF | 3453030001C | 03-JAN-2003 | 03-02-0290A | 02
02 | NJ | MANASQUAN, BOROUGH OF | 3453030001C | 17-MAR-2003 | 03-02-0670A | 02
02 | NJ | MEDFORD LAKES, BOROUGH OF | 3401030001B | 27-JAN-2003 | 03-02-0144A | 02
02 | NJ | MEDFORD, TOWNSHIP OF | 3401040005B | 14-APR-2003 | 03-02-0634A | 02
02 | NJ | MEDFORD, TOWNSHIP OF | 3401040010B | 03-MAR-2003 | 03-02-0386A | 02
02 | NJ | MEDFORD, TOWNSHIP OF | 3401040010B | 24-MAR-2003 | 03-02-0126A | 02
02 | NJ | MIDLAND PARK, BOROUGH OF | 34003C0157G | 10-JAN-2003 | 03-02-0272A | 02
02 | NJ | MILLVILLE, CITY OF | 3401730020B | 24-APR-2003 | 03-02-0618A | 02
02 | NJ | MONROE, TOWNSHIP OF | 3402690006C | 06-MAR-2003 | 03-02-0722A | 02
02 | NJ | MOUNT LAUREL, TOWNSHIP OF | 3401070010E | 21-APR-2003 | 03-02-0692A | 02
02 | NJ | NEPTUNE, TOWNSHIP OF | 3403170002C | 24-MAR-2003 | 03-02-0750A | 02
02 | NJ | NEPTUNE, TOWNSHIP OF | 3403170003C | 24-MAR-2003 | 03-02-0784A | 02
02 | NJ | NEW MILFORD, BOROUGH OF | 34003C0192F | 17-MAR-2003 | 03-02-0516A | 02
02 | NJ | NEW PROVIDENCE, BOROUGH OF | 3453060001D | 30-JAN-2003 | 03-02-0416A | 02
02 | NJ | PALMYRA, BOROUGH OF | 3401100001C | 16-JAN-2003 | 03-02-0466A | 01
02 | NJ | PARAMUS, BOROUGH OF | 34003C0191F | 24-APR-2003 | 03-02-0248A | 02
02 | NJ | PATERSON, CITY OF | 3404040004A | 31-MAR-2003 | 03-02-0344A | 02
02 | NJ | PAULSBORO, BOROUGH OF | 3402100001B | 20-FEB-2003 | 03-02-0350A | 02
02 | NJ | PLUMSTED, TOWNSHIP OF | 3403860010B | 21-APR-2003 | 03-02-0326A | 02
02 | NJ | RAMSEY, BOROUGH OF | 34003C0067F | 06-MAR-2003 | 03-02-0378A | 02
02 | NJ | READINGTON, TOWNSHIP OF | 3405140016B | 20-MAR-2003 | 03-02-0814A | 02
02 | NJ | RUMSON, BOROUGH OF | 3453160001D | 14-APR-2003 | 03-02-0662A | 02
02 | NJ | SUMMIT, CITY OF | 3404760001B | 24-FEB-2003 | 03-02-0292A | 02
02 | NJ | SUMMIT, CITY OF | 3404760001B | 24-MAR-2003 | 03-02-0136A | 02
02 | NJ | SUMMIT, CITY OF | 340476001B | 17-MAR-2003 | 03-02-0562A | 02
02 | NJ | UNION BEACH, BOROUGH OF | 3403310001D | 31-MAR-2003 | 03-02-0450A | 02
02 | NJ | WALL, TOWNSHIP OF | 3403330003A | 17-MAR-2003 | 03-02-0630A | 02
02 | NJ | WANTAGE, TOWNSHIP OF | 3405620030A | 13-FEB-2003 | 03-02-0380A | 02
02 | NJ | WANTAGE, TOWNSHIP OF | 3405620030A | 14-APR-2003 | 03-02-0868X | 02
02 | NJ | WAYNE, TOWNSHIP OF | 3453270007B | 24-MAR-2003 | 03-02-0628A | 02
02 | NJ | WEST DEPTFORD, TOWNSHIP OF | 3402140003B | 27-FEB-2003 | 03-02-0444A | 02
02 | NJ | WEYMOUTH, TOWNSHIP OF | 3405360028C | 17-JAN-2003 | 03-02-0570V | 19
02 | NJ | WEYMOUTH, TOWNSHIP OF | 3405360036C | 17-JAN-2003 | 03-02-0570V | 19
02 | NY | AMHERST, TOWN OF | 3602260004D | 06-FEB-2003 | 03-02-0282A | 02
02 | NY | AMHERST, TOWN OF | 3602260004D | 10-FEB-2003 | 03-02-0122A | 02
02 | NY | AMHERST, TOWN OF | 3602260004D | 13-FEB-2003 | 03-02-0244A | 02
02 | NY | AMHERST, TOWN OF | 3602260004D | 21-APR-2003 | 03-02-0650A | 02
02 | NY | AMHERST, TOWN OF | 3602260006E | 16-JAN-2003 | 03-02-0166A | 02
02 | NY | AMHERST, TOWN OF | 3602260006E | 03-FEB-2003 | 03-02-0094A | 02
02 | NY | AMHERST, TOWN OF | 3602260006E | 20-FEB-2003 | 03-02-0482A | 02
02 | NY | AMHERST, TOWN OF | 3602260006E | 06-MAR-2003 | 03-02-0500A | 02
02 | NY | AMHERST, TOWN OF | 3602260006E | 13-MAR-2003 | 03-02-0544A | 02
02 | NY | AMHERST, TOWN OF | 3602260006E | 24-APR-2003 | 03-02-0830A | 02
02 | NY | AMHERST, TOWN OF | 3602260007E | 30-JAN-2003 | 03-02-0180A | 02
02 | NY | AMHERST, TOWN OF | 3602260007E | 06-FEB-2003 | 03-02-0294A | 02
02 | NY | AMHERST, TOWN OF | 3602260007E | 18-FEB-2003 | 03-02-0418A | 02
02 | NY | AMHERST, TOWN OF | 3602260007E | 10-MAR-2003 | 03-02-0388A | 02
02 | NY | AMHERST, TOWN OF | 3602260007E | 10-MAR-2003 | 03-02-0580A | 02
02 | NY | AMHERST, TOWN OF | 3602260007E | 10-MAR-2003 | 03-02-0656A | 02
02 | NY | AMHERST, TOWN OF | 3602260007E | 03-APR-2003 | 03-02-0542A | 02
02 | NY | AMHERST, TOWN OF | 3602260007E | 14-APR-2003 | 03-02-0700A | 02
02 | NY | AMHERST, TOWN OF | 3602260009E | 03-APR-2003 | 03-02-0602A | 02
02 | NY | ARCADE, VILLAGE OF | 3615550005D | 16-JAN-2003 | 03-02-0124A | 02
02 | NY | ATHENS, VILLAGE OF | 3602850002B | 13-MAR-2003 | 03-02-0394A | 02
02 | NY | BALLSTON, TOWN OF | 36091C0553E | 10-MAR-2003 | 03-02-0280A | 02
02 | NY | BEDFORD, TOWN OF | 3609030010C | 21-APR-2003 | 03-02-0732A | 02
02 | NY | BELLMONT, TOWN OF | 361392A | 21-APR-2003 | 03-02-0658A | 02
02 | NY | BOLTON, TOWN OF | 3608690005D | 31-MAR-2003 | 03-02-0462A | 02
02 | NY | BRIGHTWATERS, VILLAGE OF | 36103C0859G | 14-APR-2003 | 03-02-0436A | 02
02 | NY | BUFFALO, CITY OF | 3602300010C | 13-FEB-2003 | 03-02-0448A | 02
02 | NY | BUFFALO, CITY OF | 3602300010C | 21-APR-2003 | 03-02-0770A | 02
02 | NY | CHAMPLAIN, TOWN OF | 3613110020B | 31-MAR-2003 | 03-02-0588A | 02
02 | NY | CICERO, TOWN OF | 3605720005D | 24-MAR-2003 | 03-02-0506A | 02
02 | NY | CLARENCE, TOWN OF | 3602320005C | 30-JAN-2003 | 03-02-0212A | 02
02 | NY | CLARENCE, TOWN OF | 3602320005C | 03-FEB-2003 | 03-02-0430A | 01
02 | NY | CLARENCE, TOWN OF | 3602320005C | 13-FEB-2003 | 03-02-0052A | 02
02 | NY | CLARENCE, TOWN OF | 3602320005C | 18-FEB-2003 | 03-02-0368A | 01
02 | NY | CLARENCE, TOWN OF | 3602320005C | 31-MAR-2003 | 03-02-0600A | 01
02 | NY | CLARENCE, TOWN OF | 3602320005C | 03-APR-2003 | 03-02-0554A | 02
02 | NY | CLARENCE, TOWN OF | 3602320005C | 14-APR-2003 | 03-02-0598A | 02
02 | NY | CLARENCE, TOWN OF | 3602320011C | 06-FEB-2003 | 03-02-0276A | 02
02 | NY | CLARENCE, TOWN OF | 3602320011C | 24-APR-2003 | 03-02-0184A | 01
02 | NY | CLARENCE, TOWN OF | 3602320013C | 13-MAR-2003 | 03-02-0058A | 01
02 | NY | CLARENCE, TOWN OF | 3602320013C | 17-MAR-2003 | 03-02-0194A | 02
02 | NY | CLARENCE, TOWN OF | 3602320013C | 24-APR-2003 | 03-02-0744A | 02
02 | NY | CLAY, TOWN OF | 3605730005B | 23-JAN-2003 | 03-02-0204A | 02
02 | NY | CLAY, TOWN OF | 3605730005B | 28-APR-2003 | 03-02-0794A | 02
02 | NY | CONCORD, TOWN OF | 3602350010C | 27-MAR-2003 | 03-02-0200A | 02
02 | NY | COXSACKIE, TOWN OF | 3611150009A | 10-APR-2003 | 03-02-0564A | 02
02 | NY | DRESDEN, TOWN OF | 3614100015B | 20-MAR-2003 | 03-02-0790A | 02
02 | NY | DRESDEN, TOWN OF | 3614100015B | 03-APR-2003 | 03-02-0604A | 02
02 | NY | EAST AURORA, VILLAGE OF | 3653350003C | 16-JAN-2003 | 03-02-0328A | 02
02 | NY | EAST HAMPTON,TOWN OF | 36103C0576G | 13-FEB-2003 | 03-02-0008A | 02
02 | NY | EAST ROCKAWAY, VILLAGE OF | 36059C0218F | 03-MAR-2003 | 03-02-0258A | 02
02 | NY | ELLENBURG, TOWN OF | 361382—07A | 18-FEB-2003 | 03-02-0284A | 02
02 | NY | EVANS, TOWN OF | 3602400009F | 20-MAR-2003 | 03-02-0440A | 02
02 | NY | FREEPORT, VILLAGE OF | 36059C0238F | 10-APR-2003 | 03-02-0552A | 02
02 | NY | GLENVILLE,TOWN OF | 3607380041B | 13-FEB-2003 | 03-02-0060A | 02
02 | NY | GORHAM, TOWN OF | 3606010001C | 08-JAN-2003 | 03-02-0230A | 02
02 | NY | GORHAM, TOWN OF | 3606010001C | 06-FEB-2003 | 03-02-0100A | 02
02 | NY | GOSHEN, TOWN OF | 3606170015B | 23-JAN-2003 | 03-02-0352AD | 02
02 | NY | GREECE, TOWN OF | 3604170002D | 03-MAR-2003 | 03-02-0522A | 02
02 | NY | GREEN ISLAND, VILLAGE OF | 3600090001B | 30-JAN-2003 | 03-02-0108A | 01
02 | NY | GREENBURGH,TOWN OF | 3609110010B | 31-MAR-2003 | 03-02-0652A | 02
02 | NY | GREENVILLE, TOWN OF | 3606150010B | 27-FEB-2003 | 03-02-0062A | 02
02 | NY | GROVELAND, TOWN OF | 3603850005C | 31-MAR-2003 | 03-02-0540A | 02
02 | NY | GUILFORD, TOWN OF | 3610880003A | 13-FEB-2003 | 03-02-0548A | 02
02 | NY | HAMBURG, TOWN OF | 3602440019D | 30-JAN-2003 | 03-02-0192A | 02
02 | NY | HAMBURG, VILLAGE OF | 3602430002B | 03-FEB-2003 | 03-02-0040A | 02
02 | NY | HAMPTONBURGH, TOWN OF | 360617 0015 | 23-JAN-2003 | 03-02-0352A | 02
02 | NY | ISLAND PARK, VILLAGE OF | 36059C0307F | 13-MAR-2003 | 03-02-0260A | 02
02 | NY | JOHNSON CITY, VILLAGE OF | 360047—1B | 18-FEB-2003 | 03-02-0422A | 01
02 | NY | LAKE GEORGE, TOWN OF | 3608760010B | 10-APR-2003 | 03-02-0702A | 02
02 | NY | LANCASTER, TOWN OF | 3602490009C | 20-MAR-2003 | 03-02-0068A | 02
02 | NY | LENOX, TOWN OF | 3604040003C | 18-APR-2003 | 03-02-0550A | 02
02 | NY | LIMA, TOWN OF | 361286—01A | 16-JAN-2003 | 03-02-0232A | 02
02 | NY | LINDENHURST, VILLAGE OF | 36103C0861G | 24-APR-2003 | 03-02-0620A | 02
02 | NY | LOCKPORT, TOWN OF | 3610130006D | 07-APR-2003 | 03-02-0514A | 02
02 | NY | LONG BEACH, CITY OF | 36059C0308F | 03-APR-2003 | 03-02-0582A | 02
02 | NY | MANLIUS, TOWN OF | 3605840010D | 24-FEB-2003 | 03-02-0304A | 02
02 | NY | MINA, TOWN OF | 3613710025B | 03-JAN-2003 | 03-02-0510V | 19
02 | NY | MONROE, TOWN OF | 3606210005C | 28-APR-2003 | 03-02-0802A | 02
02 | NY | NELSON, TOWN OF | 361293—04B | 30-JAN-2003 | 03-02-0364A | 02
02 | NY | NEW ROCHELLE, CITY OF | 3609220006C | 17-MAR-2003 | 03-02-0502A | 02
02 | NY | NEW YORK, CITY OF | 3604970108C | 17-APR-2003 | 03-02-0666A | 02
02 | NY | NEW YORK, CITY OF | 3604970111C | 17-MAR-2003 | 03-02-0478A | 02
02 | NY | NEW YORK, CITY OF | 3604970125E | 20-FEB-2003 | 03-02-0104A | 02
02 | NY | NEW YORK, CITY OF | 3604970125E | 03-MAR-2003 | 03-02-0250A | 02
02 | NY | NEW YORK, CITY OF | 3604970133E | 06-MAR-2003 | 03-02-0266A | 02
02 | NY | NEW YORK, CITY OF | 3604970139E | 30-JAN-2003 | 03-02-0188A | 02
02 | NY | NEW YORK, CITY OF | 3604970139E | 10-APR-2003 | 03-02-0594A | 02
02 | NY | NEW YORK, CITY OF | 3604970144E | 03-MAR-2003 | 03-02-0454A | 02
02 | NY | NEW YORK, CITY OF | 3604970148E | 10-MAR-2003 | 03-02-0498A | 02
02 | NY | NEW YORK, CITY OF | 3604970149E | 10-JAN-2003 | 03-02-0090A | 02
02 | NY | NEW YORK, CITY OF | 3604970149E | 24-FEB-2003 | 03-02-0098A | 18
02 | NY | NEW YORK, CITY OF | 3604970153E | 10-MAR-2003 | 03-02-0498A | 02
02 | NY | NEWSTEAD, TOWN OF | 3602510010D | 08-JAN-2003 | 03-02-0324A | 02
02 | NY | NIAGARA FALLS, CITY OF | 3605060002B | 18-FEB-2003 | 03-02-0278A | 02
02 | NY | NORTH GREENBUSH,TOWN OF | 3611640002A | 06-MAR-2003 | 03-02-0644A | 02
02 | NY | OGDEN, TOWN OF | 3604240005B | 20-MAR-2003 | 03-02-0128A | 01
02 | NY | ONEIDA, CITY OF | 360408003D | 13-FEB-2003 | 03-02-0220A | 02
02 | NY | ORLEANS, TOWN OF | 3603450001B | 06-MAR-2003 | 03-02-0508A | 02
02 | NY | OSWEGO, CITY OF | 3606560002D | 06-MAR-2003 | 03-02-0556A | 02
02 | NY | OYSTER BAY, TOWN OF | 36059C0261F | 28-APR-2003 | 03-02-0376A | 02
02 | NY | OYSTER BAY, TOWN OF | 36059C0264F | 10-MAR-2003 | 03-02-0526A | 02
02 | NY | PERU,TOWN OF | 3613840030B | 30-JAN-2003 | 03-02-0286A | 02
02 | NY | PLATTSBURGH, CITY OF | 3601680001B | 24-APR-2003 | 03-02-0638A | 02
02 | NY | PREBLE, TOWN OF | 360185—01B | 03-FEB-2003 | 03-02-0004A | 02
02 | NY | RICHLAND, TOWN OF | 3606600001D | 08-JAN-2003 | 03-02-0164A | 02
02 | NY | ROTTERDAM, TOWN OF | 3607400009B | 17-MAR-2003 | 02-02-027P | 05
02 | NY | ROTTERDAM, TOWN OF | 3607400012B | 27-FEB-2003 | 03-02-0406A | 02
02 | NY | ROTTERDAM, TOWN OF | 3607400012B | 27-FEB-2003 | 03-02-0408A | 02
02 | NY | ROTTERDAM, TOWN OF | 3607400012B | 27-FEB-2003 | 03-02-0410A | 02
02 | NY | ROTTERDAM, TOWN OF | 3607400012B | 27-FEB-2003 | 03-02-0412A | 02
02 | NY | SALINA, TOWN OF | 3605910002A | 20-MAR-2003 | 03-02-0538A | 02
02 | NY | SARATOGA, TOWN OF | 36091C0465E | 20-FEB-2003 | 03-02-0252A | 01
02 | NY | SARDINIA, TOWN OF | 3602560017C | 17-JAN-2003 | 03-02-0572V | 19
02 | NY | SIDNEY, VILLAGE OF | 3602110001C | 03-FEB-2003 | 03-02-0014A | 02
02 | NY | SOUTHOLD,TOWN OF | 36103C0176G | 13-MAR-2003 | 03-02-0568A | 02
02 | NY | STONY POINT, TOWN OF | 3606930011C | 13-MAR-2003 | 03-02-0384A | 02
02 | NY | STONY POINT, TOWN OF | 3606930011C | 03-APR-2003 | 03-02-0490A | 02
02 | NY | SYLVAN BEACH, VILLAGE OF | 3610420001D | 24-FEB-2003 | 03-02-0306A | 02
02 | NY | SYLVAN BEACH, VILLAGE OF | 3610420001D | 06-MAR-2003 | 03-02-0614A | 02
02 | NY | URBANA, TOWN OF | 3607830004B | 13-FEB-2003 | 03-02-0392A | 02
02 | NY | WAYNE, TOWN OF | 3607850001B | 06-MAR-2003 | 03-02-0236A | 02
02 | NY | WEBSTER, TOWN OF | 3604360007C | 21-JAN-2003 | 03-02-0176A | 02
02 | NY | WELLS, TOWN OF | 361112—03A | 21-APR-2003 | 03-02-0530A | 02
02 | NY | WEST SENECA, TOWN OF | 3602620001B | 06-FEB-2003 | 03-02-0214A | 02
02 | NY | WEST SENECA, TOWN OF | 3602620003B | 20-FEB-2003 | 03-02-0228A | 01
02 | NY | WHEATFIELD, TOWN OF | 3605130004D | 27-JAN-2003 | 03-02-0442A | 02
02 | NY | WHEATFIELD, TOWN OF | 3605130004D | 10-FEB-2003 | 03-02-0082A | 02
02 | NY | WHEATFIELD, TOWN OF | 3605130004D | 13-FEB-2003 | 03-02-0446A | 02
02 | NY | WHEATFIELD, TOWN OF | 3605130004D | 31-MAR-2003 | 03-02-0772A | 02
02 | NY | WHEATFIELD, TOWN OF | 3605130004D | 21-APR-2003 | 03-02-0106A | 02
02 | NY | WILLSBORO, TOWN OF | 3602670015B | 28-APR-2003 | 03-02-0808A | 02
02 | NY | WOLCOTT, TOWN OF | 360901—03C | 13-FEB-2003 | 03-02-0012A | 02
02 | PR | PUERTO RICO, COMMONWEALTH OF | 7200000045E | 28-APR-2003 | 03-02-0708A | 01
02 | PR | PUERTO RICO, COMMONWEALTH OF | 7200000206C | 25-APR-2003 | 02-02-035P | 05
02 | PR | PUERTO RICO, COMMONWEALTH OF | 7200000250D | 21-APR-2003 | 03-02-0660X | 02
02 | PR | PUERTO RICO, COMMONWEALTH OF | 7200000292D | 03-APR-2003 | 03-02-0420A | 02
02 | PR | PUERTO RICO, COMMONWEALTH OF | 7200000292D | 17-APR-2003 | 03-02-0314A | 01
02 | PR | PUERTO RICO, COMMONWEALTH OF | 7200000292D | 21-APR-2003 | 03-02-0316A | 01
02 | VI | VIRGIN ISLANDS, TERRITORY OF THE | 7800000085D | 14-APR-2003 | 03-02-0610A | 02
03 | DE | DELAWARE CITY, CITY OF | 10003C0255G | 21-APR-2003 | 03-03-1156A | 02
03 | DE | KENT COUNTY * | 1000010020B | 27-FEB-2003 | 03-03-0936A | 02
03 | DE | KENT COUNTY * | 1000010075B | 31-MAR-2003 | 03-03-0706A | 02
03 | DE | KENT COUNTY * | 1000010075B | 03-APR-2003 | 03-03-0862A | 02
03 | DE | KENT COUNTY * | 1000010090B | 17-APR-2003 | 03-03-0940A | 02
03 | DE | KENT COUNTY * | 1000010130C | 23-JAN-2003 | 03-03-0402A | 02
03 | DE | KENT COUNTY * | 1000010175B | 16-JAN-2003 | 03-03-0288A | 02
03 | DE | KENT COUNTY * | 1000010200B | 21-JAN-2003 | 03-03-0246A | 02
03 | DE | KENT COUNTY * | 100001030C | 23-JAN-2003 | 03-03-0402A | 02
03 | DE | NEW CASTLE COUNTY * | 10003C0059G | 06-MAR-2003 | 03-03-0514A | 02
03 | DE | NEW CASTLE COUNTY * | 10003C0086G | 21-JAN-2003 | 03-03-0368A | 02
03 | DE | NEW CASTLE COUNTY * | 10003C0120H | 27-FEB-2003 | 03-03-0386A | 02
03 | DE | NEW CASTLE COUNTY * | 10003C0145G | 06-FEB-2003 | 03-03-0584A | 02
03 | DE | NEW CASTLE COUNTY * | 10003C0145G | 03-APR-2003 | 03-03-0720A | 02
03 | DE | NEW CASTLE COUNTY * | 10003C0225G | 21-FEB-2003 | 03-03-065P | 05
03 | DE | SUSSEX COUNTY* | 10005C0104F | 03-JAN-2003 | 03-03-0230A | 02
03 | DE | SUSSEX COUNTY* | 10005C0252F | 16-JAN-2003 | 03-03-0272A | 02
03 | DE | SUSSEX COUNTY* | 10005C0253F | 16-JAN-2003 | 03-03-0334A | 02
03 | MD | ALLEGANY COUNTY * | 2400010041B | 03-JAN-2003 | 03-03-0212A | 02
03 | MD | ALLEGANY COUNTY * | 2400010300A | 13-FEB-2003 | 03-03-0752A | 02
03 | MD | ANNE ARUNDEL COUNTY * | 2400080031C | 13-MAR-2003 | 03-03-0548A | 02
03 | MD | ANNE ARUNDEL COUNTY * | 2400080031C | 13-MAR-2003 | 03-03-1098A | 02
03 | MD | ANNE ARUNDEL COUNTY * | 2400080044D | 03-FEB-2003 | 03-03-0538A | 02
03 | MD | BALTIMORE COUNTY* | 2400100290B | 21-JAN-2003 | 03-03-0442A | 02
03 | MD | BALTIMORE COUNTY* | 2400100360B | 17-MAR-2003 | 03-03-0774A | 02
03 | MD | BALTIMORE COUNTY* | 2400100380B | 21-JAN-2003 | 03-03-0360A | 02
03 | MD | BALTIMORE COUNTY* | 2400100455B | 03-MAR-2003 | 03-03-0562A | 02
03 | MD | BALTIMORE COUNTY* | 2400100455B | 24-APR-2003 | 03-03-1084A | 02
03 | MD | BALTIMORE COUNTY* | 2400100510B | 13-FEB-2003 | 03-03-0670A | 02
03 | MD | CALVERT COUNTY* | 2400110032B | 16-JAN-2003 | 03-03-0482A | 02
03 | MD | CAROLINE COUNTY * | 2401300215B | 28-APR-2003 | 03-03-0898A | 02
03 | MD | CECIL COUNTY* | 2400190008A | 24-FEB-2003 | 03-03-0802A | 02
03 | MD | DORCHESTER COUNTY * | 2400260075A | 03-MAR-2003 | 03-03-0874A | 02
03 | MD | ELKTON, TOWN OF | 2400220003C | 16-JUN-2003 | 03-03-041P | 05
03 | MD | FREDERICK, CITY OF | 2400270180A | 24-JAN-2003 | 02-03-117P | 05
03 | MD | FREDERICK, CITY OF | 2400300003C | 24-JAN-2003 | 02-03-117P | 05
03 | MD | FREDERICK, CITY OF | 2400300004C | 24-JAN-2003 | 02-03-117P | 05
03 | MD | HARFORD COUNTY * | 24025C0258D | 18-APR-2003 | 02-03-195P | 05
03 | MD | HOWARD COUNTY* | 2400440028C | 21-MAR-2003 | 03-03-097P | 05
03 | MD | HOWARD COUNTY* | 2400440033B | 07-APR-2003 | 03-03-1006A | 02
03 | MD | MONTGOMERY COUNTY * | 2400490175C | 27-JAN-2003 | 03-03-0496A | 17
03 | MD | POCOMOKE CITY, CITY OF | 2400840001C | 07-APR-2003 | 03-03-0828A | 02
03 | MD | PRINCE GEORGE'S COUNTY * | 245080045D | 15-JAN-2003 | 03-03-0530A | 02
03 | MD | QUEEN ANNES COUNTY* | 2400540047B | 21-APR-2003 | 03-03-0776A | 02
03 | MD | ST. MARYS COUNTY* | 2400640040C | 18-FEB-2003 | 03-03-0594A | 02
03 | MD | ST. MARYS COUNTY* | 2400640042B | 27-JAN-2003 | 03-03-0462A | 02
03 | MD | ST. MARYS COUNTY* | 2400640055C | 28-APR-2003 | 03-03-0990A | 02
03 | MD | ST. MICHAELS, TOWN OF | 2400690001B | 21-JAN-2003 | 03-03-0570A | 02
03 | MD | TALBOT COUNTY * | 2400660037A | 21-JAN-2003 | 03-03-0582A | 02
03 | MD | TALBOT COUNTY * | 2400660037A | 03-APR-2003 | 03-03-0520A | 02
03 | MD | WASHINGTON COUNTY * | 2400700070A | 17-APR-2003 | 03-03-0568A | 02
03 | MD | WASHINGTON COUNTY * | 2400700085B | 10-JAN-2003 | 03-03-0362A | 02
03 | MD | WASHINGTON COUNTY * | 2400700090B | 25-APR-2003 | 02-03-171P | 05
03 | MD | WICOMICO COUNTY * | 2400780022C | 30-JAN-2003 | 03-03-0632A | 02
03 | PA | ADAMS, TOWNSHIP OF | 4214150003B | 19-MAR-2003 | 03-03-0974A | 02
03 | PA | ADDISON, TOWNSHIP OF | 4225080001A | 03-APR-2003 | 03-03-0588A | 02
03 | PA | AVONDALE, BOROUGH OF | 42029C0458E | 23-JAN-2003 | 03-03-0668A | 02
03 | PA | BEDMINSTER, TOWNSHIP OF | 42017C0158F | 23-JAN-2003 | 03-03-0662A | 02
03 | PA | BEDMINSTER, TOWNSHIP OF | 42017C0159F | 07-APR-2003 | 03-03-0696A | 17
03 | PA | BERWICK, BOROUGH OF | 4203380002B | 23-JAN-2003 | 03-03-0330A | 02
03 | PA | BLOOMSBURG, TOWN OF | 4203390005B | 03-FEB-2003 | 03-03-0656A | 02
03 | PA | BOWMANSTOWN, BOROUGH OF | 42025C0291D | 10-MAR-2003 | 03-03-0712A | 02
03 | PA | BRADDOCK, BOROUGH OF | 42003C0388E | 13-MAR-2003 | 03-03-1076A | 02
03 | PA | BRADFORD, CITY OF | 4218550010B | 03-MAR-2003 | 03-03-0820A | 02
03 | PA | BRADFORD, TOWNSHIP OF | 4215160009A | 27-FEB-2003 | 03-03-1004A | 02
03 | PA | CAMBRIDGE, TOWNSHIP OF | 4215640002C | 06-MAR-2003 | 03-03-0728A | 02
03 | PA | CAMBRIDGE, TOWNSHIP OF | 4215640005C | 06-MAR-2003 | 03-03-0728A | 02
03 | PA | CHALFONT, BOROUGHS OF | 42017C0287F | 07-APR-2003 | 03-03-0822A | 02
03 | PA | CONEMAUGH, TOWNSHIP OF | 4220470010A | 03-FEB-2003 | 03-03-0348A | 02
03 | PA | CONYNGHAM, TOWNSHIP OF | 4206000003B | 20-FEB-2003 | 03-03-0644A | 02
03 | PA | COVINGTON, TOWNSHIP OF | 4211750010B | 06-FEB-2003 | 03-03-0498A | 01
03 | PA | CRANESVILLE, BOROUGH OF | 4213560001A | 18-FEB-2003 | 03-03-0920A | 02
03 | PA | DELAWARE, TOWNSHIP OF | 4210100010B | 19-MAR-2003 | 03-03-0964A | 02
03 | PA | EARL, TOWNSHIP OF | 42011C0552E | 20-FEB-2003 | 03-03-0666A | 02
03 | PA | EAST BRADFORD TOWNSHIP OF | 42029C0334E | 24-MAR-2003 | 03-03-0518A | 02
03 | PA | ELIZABETH, TOWNSHIP OF | 4217730005C | 03-FEB-2003 | 03-03-0382AD | 02
03 | PA | EMMAUS, BOROUGH OF | 42077C0244D | 18-FEB-2003 | 03-03-0930A | 02
03 | PA | EXETER, TOWNSHIP OF | 42011C0517E | 06-FEB-2003 | 03-03-0890A | 02
03 | PA | FALLS, TOWNSHIP OF | 42017C0458F | 27-MAR-2003 | 03-03-0560A | 01
03 | PA | FALLS, TOWNSHIP OF | 42017C0462F | 20-MAR-2003 | 03-03-0868A | 02
03 | PA | FALLS, TOWNSHIP OF | 42017C0466F | 27-MAR-2003 | 03-03-0560A | 01
03 | PA | FERGUSON, TOWNSHIP OF | 4202600005D | 27-MAR-2003 | 03-03-0610A | 02
03 | PA | FINDLAY, TOWNSHIP OF | 42003C0284E | 17-MAR-2003 | 03-03-0464A | 02
03 | PA | GILPIN, TOWNSHIP OF | 4213060005C | 20-MAR-2003 | 03-03-1056A | 02
03 | PA | GREENE, TOWNSHIP OF | 4216490010C | 27-MAR-2003 | 03-03-1190A | 02
03 | PA | GREENSBURG, CITY OF | 42129C0409 | 27-MAR-2003 | 03-03-1108A | 02
03 | PA | HAMILTON, TOWNSHIP OF | 4200020004B | 13-FEB-2003 | 03-03-0784A | 02
03 | PA | HANOVER, TOWNSHIP OF | 4206080010C | 13-MAR-2003 | 03-03-039P | 05
03 | PA | HEMPFIELD, TOWNSHIP OF | 42129C0417D | 03-APR-2003 | 03-03-1222A | 02
03 | PA | HUNLOCK, TOWNSHIP OF | 4209940010A | 06-MAR-2003 | 03-03-1048A | 02
03 | PA | HUNTINGDON, BOROUGH OF | 4204860005C | 07-MAR-2003 | 03-03-083P | 05
03 | PA | JERSEY SHORE, BOROUGH OF | 4206420001B | 24-FEB-2003 | 03-03-0240A | 02
03 | PA | JOHNSTOWN, CITY OF | 4202310010C | 06-FEB-2003 | 03-03-0278A | 02
03 | PA | LOWER MERION, TOWNSHIP OF | 42091C0432E | 13-MAR-2003 | 03-03-0708A | 02
03 | PA | LOWER TOWAMENSING, TOWNSHIP OF | 42025C0284D | 16-JAN-2003 | 03-03-0276A | 02
03 | PA | LUMBER, TOWNSHIP OF | 4211290004B | 08-JAN-2003 | 03-03-0440A | 02
03 | PA | LYNN, TOWNSHIP OF | 42077C0115D | 16-JAN-2003 | 03-03-0590A | 02
03 | PA | MAIDENCREEK, TOWNSHIP OF | 42011C0378E | 17-APR-2003 | 03-03-1340A | 02
03 | PA | MARPLE, TOWNSHIP OF | 42045C0014D | 27-JAN-2003 | 03-03-0782A | 02
03 | PA | MARPLE, TOWNSHIP OF | 42045C0014D | 03-MAR-2003 | 03-03-0614A | 02
03 | PA | MARYSVILLE, BOROUGH OF | 4207510001B | 19-MAR-2003 | 03-03-0490A | 02
03 | PA | MIFFLIN, TOWNSHIP OF | 4225900003A | 23-JAN-2003 | 03-03-0134A | 02
03 | PA | MOON, TOWNSHIP OF | 42003C0308E | 14-JAN-2003 | 02-03-043P | 05
03 | PA | MUHLENBERG, TOWNSHIP OF | 42011C0367F | 06-FEB-2003 | 03-03-0558A | 17
03 | PA | NEW BRITAIN, TOWNSHIP OF | 42017C0288F | 24-APR-2003 | 03-03-1426A | 02
03 | PA | NORTH FAYETTE, TOWNSHIP OF | 42003C0308E | 14-JAN-2003 | 02-03-043P | 05
03 | PA | NORTH HEIDELBERG, TOWNSHIP OF | 42011C0320F | 20-FEB-2003 | 03-03-0944A | 02
03 | PA | NORTH WOODBURY, TOWNSHIP OF | 4213920004A | 13-JAN-2003 | 03-03-027P | 05
03 | PA | NORTHAMPTON, TOWNSHIP OF | 42017C0429F | 10-FEB-2003 | 03-03-0884A | 02
03 | PA | PERKIOMEN, TOWNSHIP OF | 42091C0227F | 17-MAR-2003 | 03-03-0502A | 01
03 | PA | PHILADELPHIA, CITY OF | 4207570183F | 24-FEB-2003 | 03-03-0988A | 02
03 | PA | POLK, TOWNSHIP OF | 4218930005A | 03-MAR-2003 | 03-03-0960A | 02
03 | PA | READING, TOWNSHIP OF | 4200040015B | 07-APR-2003 | 03-03-0718A | 02
03 | PA | RICHLAND, TOWNSHIP OF | 42017C0136F | 17-MAR-2003 | 03-03-1150A | 02
03 | PA | RICHMOND, TOWNSHIP OF | 4215690003B | 20-FEB-2003 | 03-03-0882A | 02
03 | PA | ROBINSON, TOWNSHIP OF | 42003C0308E | 14-JAN-2003 | 02-03-043P | 05
03 | PA | RUSH, TOWNSHIP OF | 4219430002B | 17-APR-2003 | 03-03-0786A | 02
03 | PA | SALISBURY, TOWNSHIP OF | 42077C0254D | 30-JAN-2003 | 03-03-0506A | 02
03 | PA | SALTLICK, TOWNSHIP OF | 4216360014A | 19-MAR-2003 | 03-03-1000A | 02
03 | PA | SILVER LAKE, TOWNSHIP OF | 422091—01A | 30-JAN-2003 | 03-03-0764A | 02
03 | PA | SMITHFIELD, TOWNSHIP OF | 4204940005C | 07-MAR-2003 | 03-03-083P | 05
03 | PA | SOUTH HEIDELBERG, TOWNSHIP OF | 42011C0491E | 17-APR-2003 | 03-03-1226A | 01
03 | PA | SOUTH WHITEHALL, TOWNSHIP OF | 42077C0231D | 21-APR-2003 | 03-03-1320A | 02
03 | PA | SPRING GARDEN, TOWNSHIP OF | 4209370001B | 28-MAR-2003 | 02-03-123P | 05
03 | PA | SPRINGETTSBURY, TOWNSHIP OF | 4210310001A | 28-MAR-2003 | 02-03-123P | 05
03 | PA | SPRINGFIELD, TOWNSHIP OF | 42091C0377E | 03-FEB-2003 | 03-03-0766A | 02
03 | PA | SPRINGFIELD, TOWNSHIP OF | 42091C0379E | 08-JAN-2003 | 03-03-0508A | 02
03 | PA | STATE COLLEGE, BOROUGH OF | 4202700005B | 10-MAR-2003 | 03-03-0350A | 01
03 | PA | THORNBURY, TOWNSHIP OF | 42045C0029D | 10-JAN-2003 | 03-03-0068A | 02
03 | PA | THORNBURY, TOWNSHIP OF | 42045C0039D | 10-MAR-2003 | 03-03-0298A | 02
03 | PA | TIONESTA, TOWNSHIP OF | 4204680015D | 24-MAR-2003 | 03-03-0912A | 02
03 | PA | TUNKHANNOCK, BOROUGH OF | 4209170001C | 23-APR-2003 | 03-03-061P | 05
03 | PA | TUNKHANNOCK, TOWNSHIP OF | 4222060004C | 23-APR-2003 | 03-03-061P | 05
03 | PA | UPPER MAKEFIELD, TOWNSHIP OF | 42017C0345F | 10-APR-2003 | 03-03-0734A | 02
03 | PA | UPPER MERION, TOWNSHIP OF | 42091C0353F | 27-JAN-2003 | 03-03-0710A | 02
03 | PA | UPPER SALFORD, TOWNSHIP OF | 42091C0116F | 28-APR-2003 | 03-03-1324A | 02
03 | PA | UPPER SAUCON, TOWNSHIP OF | 42077C0267D | 24-FEB-2003 | 03-03-0612A | 02
03 | PA | VERONA, BOROUGH OF | 42003C0238G | 13-FEB-2003 | 03-03-0910A | 02
03 | PA | WARWICK, TOWNSHIP OF | 4217860001B | 03-FEB-2003 | 03-03-0382A | 02
03 | PA | WATSON, TOWNSHIP OF | 4206610010B | 21-JAN-2003 | 03-03-0608A | 02
03 | PA | WEST BRANDYWINE, TOWNSHIP OF | 42029C0166D | 06-MAR-2003 | 03-03-0914A | 02
03 | PA | WEST GOSHEN, TOWNSHIP OF | 42029C0352D | 11-FEB-2003 | 03-03-053P | 05
03 | PA | WEST GOSHEN, TOWNSHIP OF | 42029C0353D | 24-APR-2003 | 03-03-0946A | 02
03 | PA | WEST GOSHEN, TOWNSHIP OF | 42029C0354D | 27-FEB-2003 | 03-03-0698A | 02
03 | PA | WESTTOWN, TOWNSHIP OF | 42029C0362D | 13-MAR-2003 | 03-03-0732A | 02
03 | PA | WHITE OAK, BOROUGH OF | 42003C0508E | 13-FEB-2003 | 03-03-011P | 05
03 | PA | WHITE, TOWNSHIP OF | 4217250004A | 08-JAN-2003 | 03-03-0554A | 01
03 | PA | WHITEHALL, TOWNSHIP OF | 42077C0163D | 08-JAN-2003 | 03-03-0492A | 02
03 | PA | WHITEMARSH, TOWNSHIP OF | 42091C0358E | 03-APR-2003 | 03-03-0466A | 02
03 | PA | WRIGHTSTOWN, TOWNSHIP OF | 42017C0317F | 03-APR-2003 | 03-03-0664A | 02
03 | PA | WRIGHTSTOWN, TOWNSHIP OF | 42017C0319F | 03-APR-2003 | 03-03-0664A | 02
03 | PA | WYOMISSING, BOROUGH OF | 42011C0503E | 19-MAR-2003 | 03-03-1184A | 02
03 | PA | YORK, TOWNSHIP OF | 4210320001B | 26-FEB-2003 | 03-03-023P | 05
03 | PA | ZELIENOPLE, BOROUGH OF | 4202260001B | 28-APR-2003 | 03-03-1388A | 02
03 | VA | ACCOMACK COUNTY * | 5100010125C | 28-APR-2003 | 03-03-1444A | 02
03 | VA | ALEXANDRIA, CITY OF | 5155190005D | 31-MAR-2003 | 03-03-0434A | 02
03 | VA | ALLEGHANY COUNTY* | 5100090150B | 10-APR-2003 | 03-03-1036A | 02
03 | VA | AMELIA COUNTY* | 5103140004B | 24-MAR-2003 | 03-03-0646A | 02
03 | VA | BEDFORD COUNTY * | 5100160100A | 03-JAN-2003 | 03-03-0144A | 02
03 | VA | BEDFORD COUNTY * | 5100160100A | 10-APR-2003 | 03-03-1096A | 02
03 | VA | BEDFORD COUNTY * | 5100160100A | 24-APR-2003 | 03-03-1120A | 02
03 | VA | BEDFORD COUNTY * | 5100160175A | 10-JAN-2003 | 03-03-0182A | 02
03 | VA | BEDFORD COUNTY * | 5100160175A | 16-JAN-2003 | 03-03-0622A | 02
03 | VA | BEDFORD COUNTY * | 5100160175A | 24-FEB-2003 | 03-03-0070A | 02
03 | VA | BEDFORD COUNTY * | 5100160175A | 24-FEB-2003 | 03-03-0626A | 02
03 | VA | BRISTOL, CITY OF | 5100220003C | 30-JAN-2003 | 03-03-0684A | 02
03 | VA | BRUNSWICK COUNTY * | 5102360175B | 23-JAN-2003 | 03-03-0420A | 02
03 | VA | BUCHANAN COUNTY* | 51027C0409E | 06-MAR-2003 | 03-03-0536A | 02
03 | VA | CEDAR BLUFF, TOWN OF | 5101620001C | 28-APR-2003 | 03-03-1272A | 02
03 | VA | CHESAPEAKE, CITY OF | 5100340021C | 03-FEB-2003 | 03-03-0400A | 02
03 | VA | CHESAPEAKE, CITY OF | 5100340021C | 17-MAR-2003 | 03-03-0344A | 02
03 | VA | CHESAPEAKE, CITY OF | 5100340022C | 27-FEB-2003 | 03-03-0194A | 02
03 | VA | CHESAPEAKE, CITY OF | 5100340032C | 10-APR-2003 | 03-03-0080A | 02
03 | VA | CHESAPEAKE, CITY OF | 5100340034C | 16-JAN-2003 | 03-03-0078A | 01
03 | VA | CHESAPEAKE, CITY OF | 5100340050C | 16-JAN-2003 | 03-03-0292A | 02
03 | VA | CHESTERFIELD COUNTY * | 5100350008B | 28-APR-2003 | 03-03-1146A | 02
03 | VA | COLONIAL HEIGHTS, CITY OF | 5100390004B | 25-MAR-2003 | 03-03-101P | 05
03 | VA | COURTLAND, TOWN OF | 51175C0280C | 10-APR-2003 | 03-03-1042A | 02
03 | VA | COURTLAND, TOWN OF | 51175C0280C | 10-APR-2003 | 03-03-1044A | 02
03 | VA | COURTLAND, TOWN OF | 51175C0285C | 10-FEB-2003 | 03-03-0596A | 02
03 | VA | COURTLAND, TOWN OF | 51175C0285C | 07-APR-2003 | 03-03-0850A | 02
03 | VA | COURTLAND, TOWN OF | 51175C0285C | 10-APR-2003 | 03-03-0948A | 02
03 | VA | COURTLAND, TOWN OF | 51175C0285C | 28-APR-2003 | 03-03-1090A | 02
03 | VA | ELKTON, TOWN OF | 5101370001C | 27-JAN-2003 | 03-03-0532A | 02
03 | VA | FAIRFAX COUNTY * | 5155250025D | 30-JAN-2003 | 03-03-0376A | 02
03 | VA | FAIRFAX COUNTY * | 5155250025D | 03-FEB-2003 | 03-03-0216A | 02
03 | VA | FAIRFAX COUNTY * | 5155250025D | 03-FEB-2003 | 03-03-0748A | 02
03 | VA | FAIRFAX COUNTY * | 5155250025D | 27-FEB-2003 | 03-03-0602A | 02
03 | VA | FAIRFAX COUNTY * | 5155250025D | 06-MAR-2003 | 03-03-0742A | 02
03 | VA | FAIRFAX COUNTY * | 5155250025D | 17-MAR-2003 | 03-03-0810A | 02
03 | VA | FAIRFAX COUNTY * | 5155250025D | 24-MAR-2003 | 03-03-1132A | 02
03 | VA | FAIRFAX COUNTY * | 5155250025D | 24-MAR-2003 | 03-03-1154A | 02
03 | VA | FAIRFAX COUNTY * | 5155250025D | 31-MAR-2003 | 03-03-0886A | 02
03 | VA | FAIRFAX COUNTY * | 5155250050D | 10-JAN-2003 | 03-03-0424A | 02
03 | VA | FAIRFAX COUNTY * | 5155250050D | 06-MAR-2003 | 03-03-0742A | 02
03 | VA | FAIRFAX COUNTY * | 5155250050D | 27-MAR-2003 | 03-03-0578A | 02
03 | VA | FAIRFAX COUNTY * | 5155250075D | 10-FEB-2003 | 03-03-0410A | 02
03 | VA | FAIRFAX COUNTY * | 5155250075D | 24-APR-2003 | 03-03-0688A | 02
03 | VA | FAIRFAX COUNTY * | 5155250075D | 25-JUN-2003 | 03-03-1572A | 02
03 | VA | FAIRFAX COUNTY * | 5155250075D | 27-JUN-2003 | 03-03-1588A | 02
03 | VA | FAIRFAX COUNTY * | 5155250079D | 17-MAR-2003 | 03-03-0522A | 02
03 | VA | FAIRFAX COUNTY * | 5155250087D | 10-APR-2003 | 03-03-1038A | 02
03 | VA | FAIRFAX COUNTY * | 5155250100D | 23-JAN-2003 | 03-03-0454A | 02
03 | VA | FAIRFAX COUNTY * | 5155250100D | 06-FEB-2003 | 03-03-0760A | 02
03 | VA | FAIRFAX COUNTY * | 5155250100D | 28-APR-2003 | 03-03-1104A | 02
03 | VA | FAIRFAX COUNTY * | 5155250100D | 28-MAY-2003 | 03-03-1562A | 02
03 | VA | FAIRFAX COUNTY * | 5155250125D | 24-FEB-2003 | 03-03-0852A | 01
03 | VA | FAIRFAX COUNTY * | 5155250125D | 24-FEB-2003 | 03-03-0932A | 01
03 | VA | FAIRFAX COUNTY * | 5155250125D | 10-APR-2003 | 03-03-1112A | 02
03 | VA | FAIRFAX COUNTY * | 5155250150D | 30-JAN-2003 | 03-03-0324A | 02
03 | VA | FAIRFAX COUNTY * | 5155250150D | 06-MAR-2003 | 03-03-0724A | 02
03 | VA | FAUQUIER COUNTY * | 5100550050A | 10-APR-2003 | 03-03-1160A | 02
03 | VA | FAUQUIER COUNTY * | 5100550215A | 20-FEB-2003 | 02-03-155P | 05
03 | VA | FAUQUIER COUNTY * | 5100550215A | 27-MAR-2003 | 03-03-0980A | 02
03 | VA | FAUQUIER COUNTY * | 5100550285B | 20-FEB-2003 | 02-03-155P | 05
03 | VA | FAUQUIER COUNTY * | 5100550285B | 06-MAR-2003 | 03-03-0860A | 02
03 | VA | FAUQUIER COUNTY * | 5100550305A | 20-FEB-2003 | 02-03-155P | 05
03 | VA | FAUQUIER COUNTY * | 5100550360A | 13-FEB-2003 | 02-03-185P | 05
03 | VA | FRANKLIN COUNTY * | 5100610090B | 03-FEB-2003 | 03-03-0374A | 02
03 | VA | FRANKLIN COUNTY * | 5100610090B | 10-APR-2003 | 03-03-0872A | 02
03 | VA | FRANKLIN COUNTY * | 5100610095B | 03-JAN-2003 | 03-03-0084A | 02
03 | VA | FRANKLIN COUNTY * | 5100610095B | 03-APR-2003 | 03-03-0308A | 02
03 | VA | FRANKLIN COUNTY * | 5100610210B | 03-JAN-2003 | 03-03-0480A | 02
03 | VA | FRANKLIN COUNTY * | 5100610210B | 08-JAN-2003 | 03-03-0254A | 02
03 | VA | FRANKLIN COUNTY * | 5100610210B | 06-FEB-2003 | 03-03-0256A | 02
03 | VA | FRANKLIN COUNTY * | 5100610210B | 18-FEB-2003 | 03-03-0486A | 02
03 | VA | FRANKLIN COUNTY * | 5100610215B | 03-APR-2003 | 03-03-0290A | 02
03 | VA | FRANKLIN COUNTY * | 5100610215B | 24-APR-2003 | 03-03-0790A | 02
03 | VA | FRANKLIN COUNTY * | 5100610215B | 24-APR-2003 | 03-03-0878A | 02
03 | VA | FRANKLIN COUNTY * | 5100610220B | 03-JAN-2003 | 03-03-0372A | 02
03 | VA | FRANKLIN COUNTY * | 5100610220B | 16-JAN-2003 | 03-03-0320A | 02
03 | VA | FRANKLIN COUNTY * | 5100610220B | 27-MAR-2003 | 03-03-0436A | 02
03 | VA | FRANKLIN COUNTY * | 5100610220B | 27-MAR-2003 | 03-03-0958A | 02
03 | VA | FRANKLIN COUNTY * | 5100610220B | 03-APR-2003 | 03-03-1046A | 02
03 | VA | FRANKLIN COUNTY * | 5100610220B | 10-APR-2003 | 03-03-1062A | 02
03 | VA | FRANKLIN COUNTY * | 5100610240 | 27-MAR-2003 | 03-03-0736A | 02
03 | VA | FRANKLIN COUNTY * | 5100610240B | 10-APR-2003 | 03-03-0396A | 02
03 | VA | FRONT ROYAL, TOWN OF | 5101670002B | 03-MAR-2003 | 03-03-0716A | 02
03 | VA | GLOUCESTER COUNTY* | 5100710036B | 23-JAN-2003 | 03-03-0122A | 02
03 | VA | GLOUCESTER COUNTY* | 5100710037B | 24-APR-2003 | 03-03-1060A | 02
03 | VA | GLOUCESTER COUNTY* | 5100710039B | 07-APR-2003 | 03-03-0102A | 02
03 | VA | GLOUCESTER COUNTY* | 5100710060B | 24-MAR-2003 | 03-03-0624A | 02
03 | VA | HANOVER COUNTY * | 5102370375A | 23-JAN-2003 | 03-03-0460A | 02
03 | VA | HENRICO COUNTY * | 5100770025B | 13-FEB-2003 | 03-03-0150A | 02
03 | VA | HENRICO COUNTY * | 5100770025B | 28-APR-2003 | 03-03-1174A | 02
03 | VA | ISLE OF WIGHT COUNTY * | 51093C0155D | 23-JAN-2003 | 03-03-0364A | 02
03 | VA | ISLE OF WIGHT COUNTY * | 51093C0155D | 18-FEB-2003 | 03-03-0744A | 02
03 | VA | ISLE OF WIGHT COUNTY * | 51093C0155D | 24-FEB-2003 | 03-03-0574A | 02
03 | VA | ISLE OF WIGHT COUNTY * | 51093C0155D | 24-FEB-2003 | 03-03-0794A | 02
03 | VA | ISLE OF WIGHT COUNTY * | 51093C0155D | 27-FEB-2003 | 03-03-0488A | 02
03 | VA | ISLE OF WIGHT COUNTY * | 51093C0155D | 27-FEB-2003 | 03-03-0772A | 02
03 | VA | ISLE OF WIGHT COUNTY * | 51093C0155D | 06-MAR-2003 | 03-03-0604A | 02
03 | VA | ISLE OF WIGHT COUNTY * | 51093C0155D | 06-MAR-2003 | 03-03-0922A | 02
03 | VA | ISLE OF WIGHT COUNTY * | 51093C0155D | 20-MAR-2003 | 03-03-0934A | 02
03 | VA | ISLE OF WIGHT COUNTY * | 51093C0155D | 24-MAR-2003 | 03-03-0956A | 02
03 | VA | ISLE OF WIGHT COUNTY * | 51093C0155D | 27-MAR-2003 | 03-03-0672A | 02
03 | VA | ISLE OF WIGHT COUNTY * | 51093C0155D | 27-MAR-2003 | 03-03-0726A | 02
03 | VA | ISLE OF WIGHT COUNTY * | 51093C0155D | 27-MAR-2003 | 03-03-0972A | 02
03 | VA | ISLE OF WIGHT COUNTY * | 51093C0155D | 28-APR-2003 | 03-03-1232A | 02
03 | VA | ISLE OF WIGHT COUNTY * | 51093C0160D | 23-JAN-2003 | 03-03-0364A | 02
03 | VA | ISLE OF WIGHT COUNTY * | 51093C0160D | 24-APR-2003 | 03-03-0916A | 02
03 | VA | ISLE OF WIGHT COUNTY * | 51093C0170D | 18-FEB-2003 | 03-03-0636A | 02
03 | VA | JAMES CITY COUNTY * | 5102010030B | 30-JAN-2003 | 03-03-0390A | 01
03 | VA | JAMES CITY COUNTY * | 5102010030B | 30-JAN-2003 | 03-03-0798A | 02
03 | VA | JAMES CITY COUNTY * | 5102010030B | 10-FEB-2003 | 03-03-0800A | 01
03 | VA | JAMES CITY COUNTY * | 5102010030B | 27-FEB-2003 | 03-03-0692A | 01
03 | VA | JAMES CITY COUNTY * | 5102010045B | 13-FEB-2003 | 03-03-0694A | 02
03 | VA | LOUDOUN COUNTY * | 51107C0050D | 06-MAR-2003 | 03-03-0740A | 02
03 | VA | LOUDOUN COUNTY * | 51107C0380D | 21-MAR-2003 | 03-03-047P | 05
03 | VA | MANASSAS, CITY OF | 51153C0113D | 27-MAR-2003 | 03-03-0846A | 02
03 | VA | MATHEWS COUNTY* | 5100960012C | 18-FEB-2003 | 03-03-0412A | 02
03 | VA | MECKLENBURG COUNTY * | 5101890150A | 24-FEB-2003 | 03-03-0534A | 02
03 | VA | MIDDLESEX COUNTY * | 5100980025B | 13-MAR-2003 | 03-03-0700A | 02
03 | VA | MONTGOMERY COUNTY * | 5100990050B | 21-APR-2003 | 03-03-1152A | 01
03 | VA | NEWPORT NEWS, CITY OF | 5101030006C | 10-APR-2003 | 03-03-1058A | 02
03 | VA | NORFOLK, CITY OF | 5101040014C | 31-MAR-2003 | 03-03-0690A | 02
03 | VA | PETERSBURG, CITY OF | 5101120001B | 25-MAR-2003 | 03-03-101P | 05
03 | VA | PITTSYLVANIA COUNTY * | 5101130115B | 18-FEB-2003 | 03-03-0342A | 02
03 | VA | PORTSMOUTH, CITY OF | 5155290025B | 17-APR-2003 | 03-03-1134A | 01
03 | VA | PRINCE WILLIAM COUNTY * | 51153C0186D | 13-FEB-2003 | 03-03-0168A | 02
03 | VA | PRINCE WILLIAM COUNTY * | 51153C0238D | 03-APR-2003 | 03-03-1092A | 02
03 | VA | PULASKI COUNTY * | 5101250200B | 10-APR-2003 | 03-03-0188A | 02
03 | VA | RICHMOND COUNTY * | 5103100050A | 24-APR-2003 | 03-03-0918A | 02
03 | VA | ROANOKE, CITY OF | 51161C0023D | 03-MAR-2003 | 03-03-0638A | 02
03 | VA | ROANOKE, CITY OF | 51161C0046D | 20-MAR-2003 | 03-03-0616A | 02
03 | VA | ROCKBRIDGE COUNTY * | 51163C0175C | 28-APR-2003 | 03-03-0780A | 02
03 | VA | ROCKBRIDGE COUNTY * | 51163C0375C | 17-MAR-2003 | 03-03-0196A | 02
03 | VA | ROCKINGHAM COUNTY* | 5101330028B | 14-APR-2003 | 03-03-0618A | 02
03 | VA | ROCKINGHAM COUNTY* | 5101330029B | 14-APR-2003 | 03-03-0618A | 02
03 | VA | SALEM, CITY OF | 51161C0037D | 17-MAR-2003 | 03-03-0148A | 02
03 | VA | SALEM, CITY OF | 51161C0043D | 03-FEB-2003 | 03-03-0394X | 01
03 | VA | SHENANDOAH COUNTY * | 5101470100B | 03-JAN-2003 | 03-03-0074A | 02
03 | VA | SMITHFIELD, TOWN OF | 51093C0135D | 13-FEB-2003 | 03-03-0524A | 02
03 | VA | SMITHFIELD, TOWN OF | 51093C0135D | 10-APR-2003 | 03-03-1010A | 02
03 | VA | SMITHFIELD, TOWN OF | 51093C0155D | 18-FEB-2003 | 03-03-0572A | 02
03 | VA | SOUTHAMPTON COUNTY * | 51175C0160C | 13-MAR-2003 | 03-03-0642A | 02
03 | VA | SPOTSYLVANIA COUNTY* | 5103080125C | 10-APR-2003 | 03-03-1110A | 02
03 | VA | SPOTSYLVANIA COUNTY* | 5103080275C | 24-APR-2003 | 03-03-1172A | 02
03 | VA | SUFFOLK, CITY OF | 5101560022B | 27-MAR-2003 | 03-03-0902A | 02
03 | VA | SURRY COUNTY * | 51181C0045C | 24-APR-2003 | 03-03-1228A | 02
03 | VA | VIENNA, TOWN OF | 5100530002B | 13-MAR-2003 | 03-03-1094A | 02
03 | VA | VIRGINIA BEACH, CITY OF | 5155310014E | 30-JAN-2003 | 03-03-0446A | 02
03 | VA | VIRGINIA BEACH, CITY OF | 5155310023E | 16-JAN-2003 | 03-03-0478A | 02
03 | VA | VIRGINIA BEACH, CITY OF | 5155310029E | 06-FEB-2003 | 03-03-0640A | 02
03 | VA | WAYNESBORO, CITY OF | 5155320010B | 18-FEB-2003 | 03-03-0356A | 02
03 | VA | WESTMORELAND COUNTY* | 5102500025C | 30-APR-2003 | 03-03-1168A | 02
03 | VA | WINCHESTER, CITY OF | 5101730005B | 03-APR-2003 | 03-03-0892A | 02
03 | VA | WISE COUNTY * | 5101740084A | 13-MAR-2003 | 03-03-1050A | 02
03 | VA | YORK COUNTY * | 5101820043B | 13-MAR-2003 | 03-03-0678A | 02
03 | VA | YORK COUNTY * | 5101820043B | 21-APR-2003 | 03-03-1128A | 02
03 | WV | ALDERSON, TOWN OF | 54063C0007C | 03-JAN-2003 | 03-03-0264A | 02
03 | WV | BELLE, TOWN OF | 5400710001C | 10-MAR-2003 | 03-03-0650A | 02
03 | WV | BOONE COUNTY * | 54005C0045B | 24-MAR-2003 | 03-03-0448A | 02
03 | WV | BOONE COUNTY * | 54005C0070C | 24-APR-2003 | 03-03-0942A | 02
03 | WV | BOONE COUNTY * | 54005C0090B | 21-JAN-2003 | 03-03-0296A | 02
03 | WV | BRAXTON COUNTY * | 54007C0040C | 14-APR-2003 | 03-03-0380A | 02
03 | WV | BRAXTON COUNTY * | 54007C0070C | 03-MAR-2003 | 03-03-0580A | 02
03 | WV | BUCKHANNON, CITY OF | 5401990001C | 17-APR-2003 | 03-03-1070A | 02
03 | WV | BUFFALO, TOWN OF | 5401660001B | 31-MAR-2003 | 03-03-0880A | 02
03 | WV | CABELL COUNTY * | 5400160049A | 14-APR-2003 | 03-03-1016A | 02
03 | WV | CABELL COUNTY * | 5400160066A | 23-JAN-2003 | 03-03-0474A | 02
03 | WV | CHARLESTON, CITY OF | 5400730004C | 16-JAN-2003 | 03-03-0228A | 02
03 | WV | CHARLESTON, CITY OF | 5400730004C | 23-JAN-2003 | 03-03-0406A | 02
03 | WV | CHARLESTON, CITY OF | 5400730004C | 24-FEB-2003 | 03-03-0210A | 02
03 | WV | CHARLESTON, CITY OF | 5400730004C | 21-APR-2003 | 03-03-0166A | 02
03 | WV | CHARLESTON, CITY OF | 5400730008C | 24-MAR-2003 | 03-03-0928A | 02
03 | WV | CLAY, COUNTY * | 54015C0025B | 06-FEB-2003 | 03-03-0866A | 17
03 | WV | EAST BANK, TOWN OF | 5400770001B | 07-APR-2003 | 03-03-0842A | 02
03 | WV | GRANT COUNTY* | 5400380050B | 16-JAN-2003 | 03-03-0128AD | 02
03 | WV | HAMPSHIRE COUNTY* | 54027C0232C | 21-APR-2003 | 03-03-1020A | 02
03 | WV | HARDY COUNTY * | 5400510275C | 27-FEB-2003 | 03-03-0770A | 02
03 | WV | HARRISON COUNTY* | 5400530079B | 16-JAN-2003 | 03-03-0392A | 02
03 | WV | HARRISON COUNTY* | 5400530106C | 30-JAN-2003 | 03-03-0248A | 02
03 | WV | JACKSON COUNTY * | 5400630075B | 27-FEB-2003 | 03-03-0220A | 02
03 | WV | JACKSON COUNTY * | 5400630075B | 31-MAR-2003 | 03-03-1204A | 02
03 | WV | JEFFERSON COUNTY * | 5400650010B | 31-MAR-2003 | 03-03-0114A | 02
03 | WV | JEFFERSON COUNTY * | 5400650044B | 07-APR-2003 | 03-03-0938A | 02
03 | WV | KANAWHA COUNTY * | 5400700083C | 07-APR-2003 | 03-03-0704A | 02
03 | WV | KANAWHA COUNTY * | 5400700243C | 14-APR-2003 | 03-03-0472A | 02
03 | WV | LOGAN COUNTY * | 5455360021B | 20-MAR-2003 | 03-03-0818A | 02
03 | WV | MCDOWELL COUNTY * | 5401140125B | 16-APR-2003 | 02-03-159P | 05
03 | WV | MERCER COUNTY* | 5401240104B | 27-FEB-2003 | 03-03-0338A | 02
03 | WV | MERCER COUNTY* | 5401240112C | 03-APR-2003 | 03-03-0542A | 02
03 | WV | MINERAL COUNTY * | 5401290100A | 16-JAN-2003 | 03-03-0128A | 02
03 | WV | MINGO COUNTY * | 5401330033C | 03-JAN-2003 | 03-03-0126A | 02
03 | WV | MINGO COUNTY * | 5401330123C | 27-FEB-2003 | 03-03-0500A | 02
03 | WV | MONONGALIA COUNTY * | 5401390106C | 07-APR-2003 | 03-03-0576A | 02
03 | WV | NICHOLAS COUNTY* | 5401460137B | 23-JAN-2003 | 03-03-0476A | 02
03 | WV | NITRO, CITY OF | 5400810003B | 23-JAN-2003 | 03-03-0408A | 02
03 | WV | OHIO COUNTY * | 5401490050C | 14-APR-2003 | 03-03-0516A | 02
03 | WV | PUTNAM COUNTY* | 5401640061A | 03-APR-2003 | 03-03-0816A | 02
03 | WV | PUTNAM COUNTY* | 5401640095B | 13-FEB-2003 | 03-03-0162A | 02
03 | WV | RANDOLPH COUNTY * | 5401750185A | 23-JAN-2003 | 03-03-0252A | 02
03 | WV | WARDENSVILLE, TOWN OF | 540245—01B | 20-MAR-2003 | 03-03-0836A | 02
03 | WV | WAYNE COUNTY* | 5402000102B | 17-JAN-2003 | 03-03-001P | 05
03 | WV | WAYNE COUNTY* | 5402000102B | 10-APR-2003 | 03-03-0768A | 01
03 | WV | WETZEL COUNTY * | 5402070029A | 17-APR-2003 | 03-03-1066A | 02
03 | WV | WHEELING, CITY OF | 5401520010C | 10-JAN-2003 | 03-03-0250A | 02
03 | WV | WHEELING, CITY OF | 5401520015D | 24-APR-2003 | 03-03-0986A | 02
03 | WV | WIRT COUNTY* | 5402110003B | 06-MAR-2003 | 03-03-0652A | 02
03 | WV | WOOD COUNTY * | 5402130016A | 07-APR-2003 | 03-03-0994A | 02
03 | WV | WOOD COUNTY * | 5402130126A | 20-MAR-2003 | 03-03-0676A | 02
04 | AL | ALABASTER, CITY OF | 0101920002B | 31-JAN-2003 | 03-04-1698A | 01
04 | AL | ANNISTON, CITY OF | 0100200001C | 30-JAN-2003 | 03-04-1562A | 02
04 | AL | BALDWIN COUNTY* | 01003C0842K | 14-FEB-2003 | 03-04-2888A | 02
04 | AL | BESSEMER, CITY OF | 01073C0462E | 25-APR-2003 | 03-04-4790A | 01
04 | AL | BIRMINGHAM, CITY OF | 01073C0318E | 07-MAR-2003 | 03-04-3340A | 02
04 | AL | BOAZ, CITY OF | 010276A—01 | 02-JAN-2003 | 03-04-1272A | 02
04 | AL | CHEROKEE COUNTY* | 0102340100B | 21-FEB-2003 | 03-04-3060A | 02
04 | AL | CHEROKEE COUNTY* | 0102340100B | 18-APR-2003 | 03-04-4086A | 02
04 | AL | CHEROKEE COUNTY* | 0102340125B | 17-JAN-2003 | 03-04-2192A | 02
04 | AL | CHEROKEE COUNTY* | 0102340125B | 07-FEB-2003 | 03-04-2552A | 02
04 | AL | CHEROKEE COUNTY* | 0102340125B | 17-APR-2003 | 03-04-4326A | 02
04 | AL | CHEROKEE COUNTY* | 0102340175B | 24-APR-2003 | 03-04-4082A | 02
04 | AL | CHICKASAW, CITY OF | 01097C0439J | 31-JAN-2003 | 03-04-2262A | 02
04 | AL | COLBERT COUNTY | 0103180125B | 23-JAN-2003 | 03-04-2000A | 02
04 | AL | COLBERT COUNTY | 0103180125B | 17-APR-2003 | 03-04-4710A | 02
04 | AL | COLBERT COUNTY | 0103180150B | 13-MAR-2003 | 03-04-2848A | 02
04 | AL | CULLMAN COUNTY * | 0102470175B | 10-APR-2003 | 03-04-4768A | 02
04 | AL | DAPHNE, CITY OF | 01003C0393K | 24-JAN-2003 | 03-04-1130A | 01
04 | AL | DAPHNE, CITY OF | 01003C0506K | 30-JAN-2003 | 03-04-2264A | 02
04 | AL | DAPHNE, CITY OF | 01003C0508K | 08-JAN-2003 | 03-04-1692A | 02
04 | AL | DAPHNE, CITY OF | 01003C0508K | 28-FEB-2003 | 03-04-3144A | 02
04 | AL | DAPHNE, CITY OF | 01003C0508K | 28-MAR-2003 | 03-04-4042A | 02
04 | AL | DAPHNE, CITY OF | 01003C0508K | 03-APR-2003 | 03-04-3842A | 02
04 | AL | DECATUR, CITY OF | 01103C0060D | 16-JAN-2003 | 03-04-1502A | 02
04 | AL | DECATUR, CITY OF | 01103C0060D | 17-APR-2003 | 03-04-4574A | 02
04 | AL | DECATUR, CITY OF | 01103C0070D | 20-MAR-2003 | 03-04-3776A | 02
04 | AL | DOTHAN, CITY OF | 01069C0064E | 28-MAR-2003 | 03-04-4142A | 02
04 | AL | DOTHAN, CITY OF | 01069C0202E | 28-MAR-2003 | 03-04-4142A | 02
04 | AL | ELMORE COUNTY* | 0104060100C | 10-JAN-2003 | 03-04-1958A | 02
04 | AL | ELMORE COUNTY* | 0104060100C | 24-JAN-2003 | 03-04-2110A | 02
04 | AL | ELMORE COUNTY* | 0104060100C | 30-JAN-2003 | 03-04-1674A | 02
04 | AL | ELMORE COUNTY* | 0104060100C | 13-MAR-2003 | 03-04-3586A | 02
04 | AL | ELMORE COUNTY* | 0104060100C | 17-MAR-2003 | 03-04-1840A | 02
04 | AL | ELMORE COUNTY* | 0104060100C | 27-MAR-2003 | 03-04-3338A | 02
04 | AL | ELMORE COUNTY* | 0104060100C | 03-APR-2003 | 03-04-3778A | 02
04 | AL | ELMORE COUNTY* | 0104060100C | 14-APR-2003 | 03-04-4188A | 02
04 | AL | ELMORE COUNTY* | 0104060100C | 17-APR-2003 | 03-04-4582A | 02
04 | AL | ELMORE COUNTY* | 0104060125C | 06-FEB-2003 | 03-04-1528A | 02
04 | AL | ELMORE COUNTY* | 0104060200C | 20-MAR-2003 | 03-04-3186A | 01
04 | AL | FLORENCE, CITY OF | 0101400006C | 03-APR-2003 | 03-04-3190A | 01
04 | AL | GADSDEN, CITY OF | 0100800015C | 27-MAR-2003 | 03-04-3914A | 02
04 | AL | GULF SHORES, TOWN OF | 01003C0814K | 08-JAN-2003 | 03-04-0428A | 02
04 | AL | GULF SHORES, TOWN OF | 01003C0814K | 13-MAR-2003 | 03-04-0810A | 02
04 | AL | HOKES BLUFF, TOWN OF | 0102540001A | 17-APR-2003 | 03-04-4578A | 02
04 | AL | HUNTSVILLE, CITY OF | 01089C0326D | 20-MAR-2003 | 03-04-3774A | 02
04 | AL | HUNTSVILLE, CITY OF | 01089C0329D | 11-APR-2003 | 03-04-4382A | 02
04 | AL | HUNTSVILLE, CITY OF | 01089C0340D | 10-APR-2003 | 03-04-3178A | 01
04 | AL | HUNTSVILLE, CITY OF | 01089C0341D | 06-MAR-2003 | 03-04-2314A | 02
04 | AL | HUNTSVILLE, CITY OF | 01089C0343D | 20-MAR-2003 | 03-04-3772A | 02
04 | AL | HUNTSVILLE, CITY OF | 01089C0365D | 08-JAN-2003 | 03-04-1672A | 01
04 | AL | HUNTSVILLE, CITY OF | 01089C0456D | 13-MAR-2003 | 03-04-3656A | 02
04 | AL | JACKSONVILLE, CITY OF | 0100220002B | 06-FEB-2003 | 03-04-1220A | 02
04 | AL | JEFFERSON COUNTY * | 01073C0203E | 19-FEB-2003 | 03-04-171P | 05
04 | AL | JEFFERSON COUNTY * | 01073C0250E | 06-FEB-2003 | 03-04-1506A | 02
04 | AL | LAMAR COUNTY * | 0102710175B | 06-MAR-2003 | 03-04-3520A | 02
04 | AL | LANETT, CITY OF | 0100290010B | 20-MAR-2003 | 03-04-3958A | 02
04 | AL | LANETT, CITY OF | 0100290010B | 10-APR-2003 | 03-04-2396A | 02
04 | AL | LANETT, CITY OF | 0100290010B | 10-APR-2003 | 03-04-2398A | 02
04 | AL | LAUDERDALE COUNTY * | 0103230050B | 07-MAR-2003 | 03-04-2656A | 02
04 | AL | LAUDERDALE COUNTY * | 0103230105B | 27-MAR-2003 | 03-04-3850A | 02
04 | AL | LAUDERDALE COUNTY * | 0103230180C | 03-JAN-2003 | 03-04-1526A | 02
04 | AL | LEE COUNTY * | 0102500125C | 21-FEB-2003 | 03-04-3106A | 02
04 | AL | LEE COUNTY * | 0102500125C | 18-APR-2003 | 03-04-4804A | 02
04 | AL | LEE COUNTY * | 0102500140C | 13-FEB-2003 | 03-04-3262A | 02
04 | AL | LEEDS, CITY OF | 01073C0366E | 28-FEB-2003 | 03-04-2936A | 02
04 | AL | LIMESTONE COUNTY * | 0103070025B | 23-JAN-2003 | 03-04-1620A | 02
04 | AL | LIMESTONE COUNTY * | 0103070075B | 06-MAR-2003 | 03-04-1530A | 02
04 | AL | LIMESTONE COUNTY * | 0103070150B | 06-FEB-2003 | 03-04-1592A | 02
04 | AL | MADISON COUNTY * | 01089C0485D | 13-FEB-2003 | 03-04-0426A | 02
04 | AL | MARSHALL COUNTY * | 0102750150B | 07-MAR-2003 | 03-04-1966A | 02
04 | AL | MOBILE COUNTY* | 01097C0650J | 28-MAR-2003 | 03-04-3660A | 02
04 | AL | MOBILE COUNTY* | 01097C0654J | 20-MAR-2003 | 03-04-3848A | 02
04 | AL | MONTGOMERY COUNTY * | 01101C0060F | 28-MAR-2003 | 03-04-3846A | 01
04 | AL | MONTGOMERY COUNTY * | 01101C0120F | 03-APR-2003 | 03-04-2938A | 02
04 | AL | MONTGOMERY COUNTY * | 01101C0200F | 21-FEB-2003 | 03-04-3108A | 02
04 | AL | MONTGOMERY COUNTY * | 01101C0200F | 03-APR-2003 | 03-04-2938A | 02
04 | AL | MONTGOMERY, CITY OF | 01101C0065F | 06-FEB-2003 | 03-04-2714A | 02
04 | AL | MONTGOMERY, CITY OF | 01101C0070F | 23-JAN-2003 | 03-04-2116A | 02
04 | AL | MONTGOMERY, CITY OF | 01101C0070F | 24-APR-2003 | 03-04-4580A | 02
04 | AL | MONTGOMERY, CITY OF | 01101C0070F | 25-APR-2003 | 03-04-4840A | 01
04 | AL | MONTGOMERY, CITY OF | 01101C0135F | 30-JAN-2003 | 03-04-2434A | 02
04 | AL | MUSCLE SHOALS, CITY OF | 0100470005C | 02-JAN-2003 | 03-04-0808A | 17
04 | AL | MUSCLE SHOALS, CITY OF | 0100470005C | 27-MAR-2003 | 03-04-3472A | 02
04 | AL | MUSCLE SHOALS, CITY OF | 0100470005C | 28-MAR-2003 | 03-04-191P | 05
04 | AL | MUSCLE SHOALS, CITY OF | 0100470005C | 10-APR-2003 | 03-04-4190A | 02
04 | AL | MUSCLE SHOALS, CITY OF | 0100470005C | 24-APR-2003 | 03-04-4910A | 02
04 | AL | ORANGE BEACH, CITY OF | 01003C0841K | 31-JAN-2003 | 03-04-1134A | 02
04 | AL | ORANGE BEACH, CITY OF | 01003C0842K | 30-JAN-2003 | 03-04-2500A | 02
04 | AL | ORANGE BEACH, CITY OF | 01003C0842K | 03-MAR-2003 | 03-04-2718A | 02
04 | AL | PELHAM, CITY OF | 0101930001B | 24-JAN-2003 | 03-04-0614A | 02
04 | AL | PHENIX CITY, CITY OF | 0101840010B | 24-APR-2003 | 03-04-4818A | 02
04 | AL | RAINBOW CITY, CITY OF | 0103510001C | 30-JAN-2003 | 03-04-2436A | 02
04 | AL | RUSSELL COUNTY * | 0102870227B | 20-FEB-2003 | 03-04-2908A | 02
04 | AL | SHEFFIELD, CITY OF | 0100480002C | 24-JAN-2003 | 03-04-2108A | 02
04 | AL | SHELBY COUNTY* | 0101910195B | 17-JAN-2003 | 03-04-2194A | 02
04 | AL | SHELBY COUNTY* | 0101910195B | 23-JAN-2003 | 03-04-1462A | 02
04 | AL | ST. CLAIR COUNTY * | 0102900300B | 10-APR-2003 | 03-04-4460A | 02
04 | AL | TALLADEGA COUNTY * | 0102970100B | 17-APR-2003 | 03-04-4576A | 02
04 | AL | TALLADEGA COUNTY * | 0102970125B | 03-JAN-2003 | 03-04-1670A | 02
04 | AL | TALLADEGA COUNTY * | 0102970200B | 06-MAR-2003 | 03-04-2816A | 02
04 | AL | TALLADEGA COUNTY * | 0102970225B | 20-MAR-2003 | 03-04-3522A | 02
04 | AL | TALLADEGA COUNTY * | 0102970275B | 13-MAR-2003 | 03-04-2316A | 02
04 | AL | TUSCALOOSA, CITY OF | 01125C0529E | 07-MAR-2003 | 03-04-3550A | 02
04 | AL | TUSCALOOSA, CITY OF | 01125C0700E | 23-JAN-2003 | 03-04-1456A | 02
04 | AL | WALKER COUNTY * | 0103010055B | 02-JAN-2003 | 03-04-0640A | 02
04 | AL | WALKER COUNTY * | 0103010055B | 23-JAN-2003 | 03-04-2594A | 02
04 | AL | WALKER COUNTY * | 0103010055B | 10-APR-2003 | 03-04-3342A | 02
04 | AL | WALKER COUNTY * | 0103010055B | 11-APR-2003 | 03-04-4242A | 02
04 | AL | WALKER COUNTY * | 0103010140B | 28-MAR-2003 | 03-04-3532A | 02
04 | AL | WALKER COUNTY * | 0103010215B | 13-FEB-2003 | 03-04-2712A | 02
04 | AL | WALKER COUNTY * | 0103010220B | 06-FEB-2003 | 03-04-1322A | 02
04 | AL | WETUMPKA, CITY OF | 0100700002C | 17-APR-2003 | 03-04-4244A | 02
04 | AL | WINSTON COUNTY * | 0103040009B | 30-JAN-2003 | 03-04-1026A | 02
04 | AL | WINSTON COUNTY * | 0103040009B | 26-FEB-2003 | 03-04-0688A | 02
04 | AL | WINSTON COUNTY * | 0103040009B | 03-MAR-2003 | 03-04-2196A | 02
04 | FL | ALACHUA COUNTY* | 1200010259A | 20-MAR-2003 | 03-04-2992A | 02
04 | FL | ALACHUA COUNTY* | 1200010269A | 30-JAN-2003 | 03-04-2428A | 02
04 | FL | ALTAMONTE SPRINGS, CITY OF | 12117C0120E | 08-JAN-2003 | 03-04-1398A | 02
04 | FL | ALTAMONTE SPRINGS, CITY OF | 12117C0120E | 27-MAR-2003 | 03-04-2130A | 02
04 | FL | ALTAMONTE SPRINGS, CITY OF | 12117C0140E | 26-FEB-2003 | 03-04-3038A | 02
04 | FL | ALTAMONTE SPRINGS, CITY OF | 12117C0140E | 13-MAR-2003 | 03-04-3566A | 01
04 | FL | ALTAMONTE SPRINGS, CITY OF | 12117C0140E | 03-APR-2003 | 03-04-3768A | 02
04 | FL | ALTAMONTE SPRINGS, CITY OF | 12117C0140E | 04-APR-2003 | 03-04-3992A | 02
04 | FL | APOPKA, CITY OF | 12095C0110E | 24-APR-2003 | 03-04-4860A | 01
04 | FL | APOPKA, CITY OF | 12095C0120E | 24-APR-2003 | 03-04-4642A | 01
04 | FL | APOPKA, CITY OF | 12095C0140E | 20-MAR-2003 | 03-04-1954A | 02
04 | FL | AUBURNDALE, CITY OF | 12105C0335F | 14-FEB-2003 | 03-04-2770A | 02
04 | FL | BAY COUNTY* | 12005C0164G | 20-FEB-2003 | 03-04-1916A | 02
04 | FL | BAY COUNTY* | 12005C0220G | 03-APR-2003 | 03-04-3936A | 02
04 | FL | BAY COUNTY* | 12005C0233G | 27-MAR-2003 | 03-04-3232A | 02
04 | FL | BAY COUNTY* | 12005C0310G | 15-JAN-2003 | 03-04-0674A | 02
04 | FL | BAY COUNTY* | 12005C0329G | 13-FEB-2003 | 03-04-2282A | 02
04 | FL | BAY COUNTY* | 12005C0329G | 24-MAR-2003 | 03-04-3078A | 02
04 | FL | BAY COUNTY* | 12005C0329G | 03-APR-2003 | 03-04-4378A | 02
04 | FL | BAY COUNTY* | 12005C0331G | 16-JAN-2003 | 03-04-1682A | 02
04 | FL | BAY COUNTY* | 12005C0338G | 13-MAR-2003 | 03-04-4006A | 02
04 | FL | BAY COUNTY* | 12005C0338G | 04-APR-2003 | 03-04-3882A | 02
04 | FL | BAY COUNTY* | 12005C0351G | 10-JAN-2003 | 03-04-1434A | 01
04 | FL | BAY COUNTY* | 12005C0353G | 23-JAN-2003 | 03-04-1512A | 02
04 | FL | BOCA RATON, CITY OF | 1201950007C | 07-MAR-2003 | 03-04-2558A | 02
04 | FL | BOYNTON BEACH, CITY OF | 1201960005C | 20-FEB-2003 | 03-04-1922A | 02
04 | FL | BREVARD COUNTY * | 12009C0100E | 17-JAN-2003 | 03-04-2336A | 02
04 | FL | BREVARD COUNTY * | 12009C0100E | 03-APR-2003 | 03-04-4128A | 01
04 | FL | BREVARD COUNTY * | 12009C0190F | 14-FEB-2003 | 03-04-2372A | 02
04 | FL | BREVARD COUNTY * | 12009C0190F | 27-MAR-2003 | 03-04-4110A | 02
04 | FL | BREVARD COUNTY * | 12009C0190F | 10-APR-2003 | 03-04-4248A | 01
04 | FL | BREVARD COUNTY * | 12009C0260E | 08-JAN-2003 | 03-04-1910A | 02
04 | FL | BREVARD COUNTY * | 12009C0260E | 31-JAN-2003 | 03-04-1710A | 02
04 | FL | BREVARD COUNTY * | 12009C0260E | 13-MAR-2003 | 03-04-3648A | 02
04 | FL | BREVARD COUNTY * | 12009C0260E | 20-MAR-2003 | 03-04-3354A | 02
04 | FL | BREVARD COUNTY * | 12009C0260E | 24-MAR-2003 | 03-04-3440A | 02
04 | FL | BREVARD COUNTY * | 12009C0270E | 07-MAR-2003 | 03-04-4250A | 02
04 | FL | BREVARD COUNTY * | 12009C0275E | 08-JAN-2003 | 03-04-1850A | 02
04 | FL | BREVARD COUNTY * | 12009C0275E | 17-MAR-2003 | 03-04-2568A | 02
04 | FL | BREVARD COUNTY * | 12009C0290E | 10-APR-2003 | 03-04-4468A | 02
04 | FL | BREVARD COUNTY * | 12009C0313E | 03-APR-2003 | 03-04-3146A | 02
04 | FL | BREVARD COUNTY * | 12009C0360E | 24-JAN-2003 | 03-04-2100A | 02
04 | FL | BREVARD COUNTY * | 12009C0365E | 30-JAN-2003 | 03-04-2472A | 02
04 | FL | BREVARD COUNTY * | 12009C0365E | 20-MAR-2003 | 03-04-3116A | 01
04 | FL | BREVARD COUNTY * | 12009C0365E | 28-MAR-2003 | 03-04-1888A | 01
04 | FL | BREVARD COUNTY * | 12009C0430E | 13-MAR-2003 | 03-04-3696A | 02
04 | FL | BREVARD COUNTY * | 12009C0430E | 17-MAR-2003 | 03-04-3742A | 02
04 | FL | BREVARD COUNTY * | 12009C0430E | 27-MAR-2003 | 03-04-3480A | 01
04 | FL | BREVARD COUNTY * | 12009C0430E | 03-APR-2003 | 03-04-3552A | 01
04 | FL | BREVARD COUNTY * | 12009C0430E | 10-APR-2003 | 03-04-4634A | 02
04 | FL | BREVARD COUNTY * | 12009C0430E | 25-APR-2003 | 03-04-5008A | 02
04 | FL | BREVARD COUNTY * | 12009C0435E | 17-JAN-2003 | 03-04-2334A | 02
04 | FL | BREVARD COUNTY * | 12009C0435E | 30-JAN-2003 | 03-04-2492A | 02
04 | FL | BREVARD COUNTY * | 12009C0435E | 06-FEB-2003 | 03-04-2794A | 02
04 | FL | BREVARD COUNTY * | 12009C0435E | 20-MAR-2003 | 03-04-3890A | 01
04 | FL | BREVARD COUNTY * | 12009C0435E | 25-APR-2003 | 03-04-4602A | 01
04 | FL | BREVARD COUNTY * | 12009C0439E | 17-APR-2003 | 03-04-4786A | 01
04 | FL | BREVARD COUNTY * | 12009C0440E | 08-JAN-2003 | 03-04-0782A | 01
04 | FL | BREVARD COUNTY * | 12009C0441F | 24-APR-2003 | 03-04-4864A | 02
04 | FL | BROWARD COUNTY* | 12011C0117G | 26-FEB-2003 | 03-04-0352A | 02
04 | FL | BROWARD COUNTY* | 12011C0195F | 10-APR-2003 | 03-04-4262A | 02
04 | FL | BROWARD COUNTY* | 12011C0195F | 14-APR-2003 | 03-04-4650A | 02
04 | FL | BROWARD COUNTY* | 12011C0195F | 24-APR-2003 | 03-04-4518A | 02
04 | FL | BROWARD COUNTY* | 12011C0306F | 07-MAR-2003 | 03-04-2566A | 02
04 | FL | BROWARD COUNTY* | 12011C0308F | 24-APR-2003 | 03-04-4220A | 02
04 | FL | CALLAHAN, TOWN OF | 1201700325C | 23-JAN-2003 | 03-04-1524A | 01
04 | FL | CALLAHAN, TOWN OF | 1201710001B | 23-JAN-2003 | 03-04-1524A | 01
04 | FL | CAPE CORAL, CITY OF | 1250950020C | 03-JAN-2003 | 03-04-1174A | 01
04 | FL | CAPE CORAL, CITY OF | 1250950020C | 08-JAN-2003 | 03-04-1382A | 01
04 | FL | CAPE CORAL, CITY OF | 1250950020C | 16-JAN-2003 | 03-04-1886A | 01
04 | FL | CAPE CORAL, CITY OF | 1250950020C | 16-JAN-2003 | 03-04-2166A | 01
04 | FL | CAPE CORAL, CITY OF | 1250950020C | 31-JAN-2003 | 03-04-1896A | 01
04 | FL | CAPE CORAL, CITY OF | 1250950020C | 13-FEB-2003 | 03-04-2426A | 01
04 | FL | CAPE CORAL, CITY OF | 1250950020C | 13-FEB-2003 | 03-04-2618A | 01
04 | FL | CAPE CORAL, CITY OF | 1250950020C | 14-FEB-2003 | 03-04-2546A | 01
04 | FL | CAPE CORAL, CITY OF | 1250950020C | 17-MAR-2003 | 03-04-3390A | 01
04 | FL | CAPE CORAL, CITY OF | 1250950020C | 20-MAR-2003 | 03-04-1754A | 01
04 | FL | CAPE CORAL, CITY OF | 1250950020C | 21-MAR-2003 | 03-04-2986A | 01
04 | FL | CAPE CORAL, CITY OF | 1250950020C | 18-APR-2003 | 03-04-4690A | 01
04 | FL | CAPE CORAL, CITY OF | 1250950020C | 25-APR-2003 | 03-04-4878A | 01
04 | FL | CAPE CORAL, CITY OF | 1250950030C | 08-JAN-2003 | 03-04-1380A | 01
04 | FL | CAPE CORAL, CITY OF | 1250950030C | 15-JAN-2003 | 03-04-1656A | 01
04 | FL | CAPE CORAL, CITY OF | 1250950030C | 16-JAN-2003 | 03-04-1886A | 01
04 | FL | CAPE CORAL, CITY OF | 1250950030C | 16-JAN-2003 | 03-04-2166A | 01
04 | FL | CAPE CORAL, CITY OF | 1250950030C | 07-FEB-2003 | 03-04-3346A | 01
04 | FL | CAPE CORAL, CITY OF | 1250950030C | 13-FEB-2003 | 03-04-2312A | 01
04 | FL | CAPE CORAL, CITY OF | 1250950030C | 13-FEB-2003 | 03-04-2618A | 01
04 | FL | CAPE CORAL, CITY OF | 1250950030C | 14-FEB-2003 | 03-04-2544A | 01
04 | FL | CAPE CORAL, CITY OF | 1250950030C | 14-FEB-2003 | 03-04-2546A | 01
04 | FL | CAPE CORAL, CITY OF | 1250950030C | 17-MAR-2003 | 03-04-3386A | 01
04 | FL | CAPE CORAL, CITY OF | 1250950030C | 20-MAR-2003 | 03-04-1754A | 01
04 | FL | CAPE CORAL, CITY OF | 1250950030C | 27-MAR-2003 | 03-04-3388A | 01
04 | FL | CAPE CORAL, CITY OF | 1250950030C | 03-APR-2003 | 03-04-3782A | 01
04 | FL | CAPE CORAL, CITY OF | 1250950030C | 18-APR-2003 | 03-04-4690A | 01
04 | FL | CAPE CORAL, CITY OF | 1250950035C | 03-JAN-2003 | 03-04-1174A | 01
04 | FL | CAPE CORAL, CITY OF | 1250950035C | 17-APR-2003 | 03-04-4516A | 01
04 | FL | CAPE CORAL, CITY OF | 1250950040C | 03-JAN-2003 | 03-04-1174A | 01
04 | FL | CAPE CORAL, CITY OF | 1250950040C | 17-MAR-2003 | 03-04-3386A | 01
04 | FL | CAPE CORAL, CITY OF | 1250950040C | 27-MAR-2003 | 03-04-3602A | 01
04 | FL | CAPE CORAL, CITY OF | 1250950040C | 25-APR-2003 | 03-04-4878A | 01
04 | FL | CAPE CORAL, CITY OF | 1250950045C | 16-JAN-2003 | 03-04-1886A | 01
04 | FL | CAPE CORAL, CITY OF | 1250950045C | 17-APR-2003 | 03-04-4516A | 01
04 | FL | CASSELBERRY, CITY OF | 12117C0140E | 26-FEB-2003 | 03-04-2380A | 17
04 | FL | CITRUS COUNTY * | 1200630115B | 15-JAN-2003 | 03-04-1760A | 02
04 | FL | CITRUS COUNTY * | 1200630115B | 07-MAR-2003 | 03-04-3524A | 02
04 | FL | CITRUS COUNTY * | 1200630210B | 27-MAR-2003 | 03-04-4090A | 02
04 | FL | CITRUS COUNTY * | 1200630260B | 08-JAN-2003 | 03-04-1056A | 02
04 | FL | CITRUS COUNTY * | 1200630260B | 10-JAN-2003 | 03-04-1532A | 02
04 | FL | CITRUS COUNTY * | 1200630260B | 27-MAR-2003 | 03-04-3740A | 02
04 | FL | CITRUS COUNTY * | 1200630260B | 03-APR-2003 | 03-04-4210A | 02
04 | FL | CITRUS COUNTY * | 1200630260B | 24-APR-2003 | 03-04-4656A | 02
04 | FL | CITRUS COUNTY * | 1200630270B | 21-MAR-2003 | 03-04-3818X | 02
04 | FL | CLAY COUNTY * | 1200640045D | 21-MAR-2003 | 03-04-3378A | 02
04 | FL | CLAY COUNTY * | 1200640065D | 17-JAN-2003 | 03-04-0350A | 02
04 | FL | CLAY COUNTY * | 1200640065D | 21-MAR-2003 | 03-04-3378A | 02
04 | FL | CLAY COUNTY * | 1200640120D | 13-MAR-2003 | 03-04-3360A | 02
04 | FL | CLAY COUNTY * | 1200640135D | 13-MAR-2003 | 03-04-3152A | 02
04 | FL | CLAY COUNTY * | 1200640140D | 06-MAR-2003 | 03-04-3270A | 02
04 | FL | CLAY COUNTY * | 1200640155D | 26-FEB-2003 | 03-04-3168A | 02
04 | FL | CLAY COUNTY * | 1200640155D | 24-APR-2003 | 03-04-4502A | 01
04 | FL | CLAY COUNTY * | 1200640350D | 20-FEB-2003 | 03-04-2038A | 02
04 | FL | CLAY COUNTY * | 1251240065D | 17-JAN-2003 | 03-04-0350A | 02
04 | FL | CLEARWATER, CITY OF | 1250960007D | 25-APR-2003 | 03-04-4264A | 02
04 | FL | CLEARWATER, CITY OF | 1250960008D | 06-FEB-2003 | 03-04-2406A | 02
04 | FL | CLEARWATER, CITY OF | 1250960014B | 13-MAR-2003 | 03-04-2886A | 02
04 | FL | CLERMONT, CITY OF | 12069C0545D | 07-FEB-2003 | 03-04-2474A | 02
04 | FL | CLERMONT, CITY OF | 12069C0545D | 13-FEB-2003 | 03-04-0298A | 02
04 | FL | CLERMONT, CITY OF | 12069C0545D | 21-MAR-2003 | 03-04-3640A | 02
04 | FL | CLERMONT, CITY OF | 12069C0545D | 21-MAR-2003 | 03-04-3642A | 02
04 | FL | CLERMONT, CITY OF | 12069C0565D | 30-JAN-2003 | 03-04-2138A | 02
04 | FL | CLERMONT, CITY OF | 12069C0565D | 30-JAN-2003 | 03-04-2190A | 02
04 | FL | CLERMONT, CITY OF | 12069C0565D | 07-FEB-2003 | 03-04-2418A | 02
04 | FL | CLERMONT, CITY OF | 12069C0565D | 10-APR-2003 | 03-04-4050A | 02
04 | FL | COCOA, CITY OF | 12009C0290E | 24-JAN-2003 | 03-04-2260A | 02
04 | FL | COLLIER COUNTY * | 1200670195D | 18-APR-2003 | 03-04-3790A | 01
04 | FL | COLLIER COUNTY * | 1200670812E | 13-MAR-2003 | 03-04-2606A | 02
04 | FL | COLUMBIA COUNTY* | 1200700175B | 17-APR-2003 | 03-04-4350A | 02
04 | FL | CORAL GABLES, CITY OF | 12025C0190J | 26-FEB-2003 | 03-04-1316A | 02
04 | FL | CORAL SPRINGS, CITY OF | 12011C0095F | 17-APR-2003 | 03-04-4214A | 02
04 | FL | CORAL SPRINGS, CITY OF | 12011C0115F | 03-JAN-2003 | 03-04-1274A | 02
04 | FL | DAVIE, CITY OF | 12011C0195F | 17-APR-2003 | 03-04-4288A | 02
04 | FL | DAVIE, CITY OF | 12011C0305F | 24-APR-2003 | 03-04-3928A | 02
04 | FL | DAYTONA BEACH, CITY OF | 12127C0353G | 20-MAR-2003 | 03-04-065P | 05
04 | FL | DAYTONA BEACH, CITY OF | 12127C0366G | 10-JAN-2003 | 03-04-1564A | 02
04 | FL | DEERFIELD BEACH, CITY OF | 12011C0108F | 18-APR-2003 | 03-04-4396A | 02
04 | FL | DEERFIELD BEACH, CITY OF | 12011C0109G | 02-JAN-2003 | 03-04-1284A | 02
04 | FL | DEERFIELD BEACH, CITY OF | 12011C0109G | 21-FEB-2003 | 03-04-2846A | 02
04 | FL | DEERFIELD BEACH, CITY OF | 12011C0109G | 27-MAR-2003 | 03-04-3734A | 02
04 | FL | DEERFIELD BEACH, CITY OF | 12011C0120F | 16-JAN-2003 | 03-04-1846A | 02
04 | FL | DEERFIELD BEACH, CITY OF | 12011C0120F | 21-MAR-2003 | 03-04-2778A | 02
04 | FL | DEFUNIAK SPRINGS, CITY OF | 12131C0275F | 21-MAR-2003 | 03-04-3304A | 02
04 | FL | DESTIN, CITY OF | 12091C0488H | 26-FEB-2003 | 03-04-2128A | 01
04 | FL | EAGLE LAKE, CITY OF | 12105C0510F | 07-MAR-2003 | 03-04-3598A | 02
04 | FL | EDGEWOOD, CITY OF | 12095C0410E | 11-APR-2003 | 03-04-4412A | 02
04 | FL | ESCAMBIA COUNTY* | 12033C0365F | 21-MAR-2003 | 03-04-3224A | 02
04 | FL | FLORIDA CITY, CITY OF | 12025C0365J | 20-MAR-2003 | 03-04-3310A | 02
04 | FL | FORT LAUDERDALE, CITY OF | 12011C0217F | 04-APR-2003 | 03-04-4648A | 02
04 | FL | FRUITLAND PARK, CITY OF | 12069C0308D | 07-FEB-2003 | 03-04-2376A | 02
04 | FL | GADSDEN COUNTY * | 1200910300A | 10-APR-2003 | 03-04-4052A | 02
04 | FL | GAINESVILLE, CITY OF | 1200010275A | 06-MAR-2003 | 03-04-3446A | 02
04 | FL | GILCHRIST COUNTY * | 12041C0175C | 21-MAR-2003 | 03-04-2738A | 02
04 | FL | GREEN COVE SPRINGS, CITY OF | 1200640165D | 02-JAN-2003 | 03-04-0998A | 02
04 | FL | GULF COUNTY * | 12045C0407C | 15-JAN-2003 | 03-04-1190A | 02
04 | FL | GULF COUNTY * | 12045C0407E | 07-FEB-2003 | 03-04-2402A | 02
04 | FL | GULF COUNTY * | 12045C0407E | 11-APR-2003 | 03-04-3638A | 02
04 | FL | GULF COUNTY * | 12045C0409E | 13-FEB-2003 | 03-04-2742A | 02
04 | FL | GULF COUNTY * | 12045C0437E | 07-MAR-2003 | 03-04-3484A | 02
04 | FL | HAINES CITY, CITY OF | 12105C0357F | 08-JAN-2003 | 02-04-9434A | 01
04 | FL | HERNANDO COUNTY * | 1201100225B | 17-MAR-2003 | 03-04-3050A | 02
04 | FL | HERNANDO COUNTY * | 1201100225B | 17-MAR-2003 | 03-04-3052A | 02
04 | FL | HIALEAH, CITY OF | 12025C0075J | 10-JAN-2003 | 03-04-1556A | 02
04 | FL | HIALEAH, CITY OF | 12025C0075J | 20-MAR-2003 | 03-04-3010A | 01
04 | FL | HIALEAH, CITY OF | 12025C0075J | 03-APR-2003 | 03-04-3784A | 01
04 | FL | HIALEAH, CITY OF | 12025C0075J | 25-APR-2003 | 03-04-5948A | 02
04 | FL | HIALEAH, CITY OF | 12025C0180J | 10-APR-2003 | 03-04-4258A | 02
04 | FL | HILLSBOROUGH COUNTY* | 1201120040C | 28-FEB-2003 | 03-04-3468A | 01
04 | FL | HILLSBOROUGH COUNTY* | 1201120045D | 06-FEB-2003 | 03-04-2112A | 01
04 | FL | HILLSBOROUGH COUNTY* | 1201120180F | 14-FEB-2003 | 03-04-3026A | 02
04 | FL | HILLSBOROUGH COUNTY* | 1201120180F | 26-FEB-2003 | 03-04-1740A | 01
04 | FL | HILLSBOROUGH COUNTY* | 1201120180F | 10-APR-2003 | 03-04-4336A | 02
04 | FL | HILLSBOROUGH COUNTY* | 1201120185F | 23-JAN-2003 | 03-04-2424A | 02
04 | FL | HILLSBOROUGH COUNTY* | 1201120185F | 24-JAN-2003 | 03-04-2450A | 02
04 | FL | HILLSBOROUGH COUNTY* | 1201120185F | 11-APR-2003 | 03-04-3820A | 02
04 | FL | HILLSBOROUGH COUNTY* | 1201120185F | 24-APR-2003 | 03-04-4212A | 01
04 | FL | HILLSBOROUGH COUNTY* | 1201120190D | 27-MAR-2003 | 03-04-0856A | 01
04 | FL | HILLSBOROUGH COUNTY* | 1201120192D | 17-APR-2003 | 03-04-4826A | 02
04 | FL | HILLSBOROUGH COUNTY* | 1201120195D | 08-JAN-2003 | 03-04-1244A | 02
04 | FL | HILLSBOROUGH COUNTY* | 1201120205D | 06-FEB-2003 | 03-04-2294A | 01
04 | FL | HILLSBOROUGH COUNTY* | 1201120205D | 14-MAR-2003 | 03-04-3786A | 01
04 | FL | HILLSBOROUGH COUNTY* | 1201120205D | 25-APR-2003 | 03-04-5916A | 02
04 | FL | HILLSBOROUGH COUNTY* | 1201120380E | 21-FEB-2003 | 03-04-3192A | 01
04 | FL | HILLSBOROUGH COUNTY* | 1201120389D | 31-JAN-2003 | 03-04-1110A | 01
04 | FL | HILLSBOROUGH COUNTY* | 1201120389D | 26-FEB-2003 | 03-04-3278A | 01
04 | FL | HILLSBOROUGH COUNTY* | 1201120389D | 26-FEB-2003 | 03-04-3280A | 01
04 | FL | HILLSBOROUGH COUNTY* | 1201120395E | 06-FEB-2003 | 03-04-2894A | 02
04 | FL | HILLSBOROUGH COUNTY* | 1201120511C | 07-FEB-2003 | 03-04-2008A | 01
04 | FL | HILLSBOROUGH COUNTY* | 1201120515B | 07-FEB-2003 | 03-04-2008A | 01
04 | FL | HOLLYWOOD, CITY OF | 12011C0304F | 16-JAN-2003 | 03-04-2182A | 02
04 | FL | HOLLYWOOD, CITY OF | 12011C0308F | 11-APR-2003 | 03-04-4286A | 02
04 | FL | HOLLYWOOD, CITY OF | 12011C0309F | 08-JAN-2003 | 03-04-1072A | 02
04 | FL | HOMESTEAD, CITY OF | 12025C0365J | 10-APR-2003 | 03-04-4000A | 01
04 | FL | INDIAN RIVER SHORES, TOWN OF | 12061C0091 | 21-MAR-2003 | 03-04-3008A | 02
04 | FL | JACKSONVILLE, CITY OF | 1200770050E | 25-FEB-2003 | 03-04-085P | 05
04 | FL | JACKSONVILLE, CITY OF | 1200770065E | 10-APR-2003 | 03-04-0440A | 01
04 | FL | JACKSONVILLE, CITY OF | 1200770134E | 24-APR-2003 | 03-04-4120A | 02
04 | FL | JACKSONVILLE, CITY OF | 1200770141E | 28-FEB-2003 | 03-04-2218A | 02
04 | FL | JACKSONVILLE, CITY OF | 1200770157E | 20-FEB-2003 | 03-04-2760A | 02
04 | FL | JACKSONVILLE, CITY OF | 1200770212E | 02-JAN-2003 | 03-04-1268A | 02
04 | FL | JACKSONVILLE, CITY OF | 1200770231E | 20-MAR-2003 | 03-04-1600A | 17
04 | FL | JACKSONVILLE, CITY OF | 1200770233E | 20-MAR-2003 | 03-04-1600A | 17
04 | FL | JACKSONVILLE, CITY OF | 1200770239E | 26-FEB-2003 | 03-04-0630A | 02
04 | FL | JACKSONVILLE, CITY OF | 1200770253F | 08-APR-2003 | 03-04-027P | 05
04 | FL | JUPITER, TOWN OF | 1251190006D | 13-MAR-2003 | 03-04-3350A | 02
04 | FL | KISSIMMEE, CITY OF | 12097C0065F | 23-JAN-2003 | 03-04-1602A | 01
04 | FL | KISSIMMEE, CITY OF | 12097C0065F | 26-FEB-2003 | 03-04-2626A | 01
04 | FL | KISSIMMEE, CITY OF | 12097C0066F | 15-JAN-2003 | 03-04-0862A | 01
04 | FL | KISSIMMEE, CITY OF | 12097C0066F | 11-APR-2003 | 03-04-4376A | 02
04 | FL | KISSIMMEE, CITY OF | 12097C0068F | 08-JAN-2003 | 03-04-1238A | 02
04 | FL | LADY LAKE, TOWN OF | 12069C0155D | 03-APR-2003 | 03-04-3348A | 02
04 | FL | LADY LAKE, TOWN OF | 12069C0155D | 17-APR-2003 | 03-04-3538A | 02
04 | FL | LADY LAKE, TOWN OF | 12069C0165D | 17-JAN-2003 | 03-04-1046A | 01
04 | FL | LADY LAKE, TOWN OF | 12069C0165D | 20-FEB-2003 | 03-04-2622A | 01
04 | FL | LAKE COUNTY * | 12069C0100D | 13-MAR-2003 | 03-04-2562A | 02
04 | FL | LAKE COUNTY * | 12069C0334D | 17-JAN-2003 | 03-04-1854A | 02
04 | FL | LAKE COUNTY * | 12069C0334D | 06-FEB-2003 | 03-04-2270A | 02
04 | FL | LAKE COUNTY * | 12069C0334D | 14-APR-2003 | 03-04-4596A | 02
04 | FL | LAKE COUNTY * | 12069C0345D | 23-JAN-2003 | 03-04-0576A | 02
04 | FL | LAKE COUNTY * | 12069C0345D | 20-FEB-2003 | 03-04-0758A | 02
04 | FL | LAKE COUNTY * | 12069C0362D | 03-APR-2003 | 03-04-3898A | 02
04 | FL | LAKE COUNTY * | 12069C0365D | 17-APR-2003 | 03-04-4594A | 02
04 | FL | LAKE COUNTY * | 12069C0370D | 26-FEB-2003 | 03-04-2746A | 01
04 | FL | LAKE COUNTY * | 12069C0370D | 24-APR-2003 | 03-04-4504A | 02
04 | FL | LAKE COUNTY * | 12069C0435D | 24-JAN-2003 | 03-04-1614A | 02
04 | FL | LAKE COUNTY * | 12069C0435D | 21-FEB-2003 | 03-04-1588A | 02
04 | FL | LAKE COUNTY * | 12069C0455D | 10-JAN-2003 | 03-04-1498A | 02
04 | FL | LAKE COUNTY * | 12069C0455D | 16-JAN-2003 | 03-04-1852A | 02
04 | FL | LAKE COUNTY * | 12069C0455D | 07-FEB-2003 | 03-04-1994A | 02
04 | FL | LAKE COUNTY * | 12069C0455D | 06-MAR-2003 | 03-04-3444A | 02
04 | FL | LAKE COUNTY * | 12069C0480D | 08-JAN-2003 | 03-04-1410A | 02
04 | FL | LAKE COUNTY * | 12069C0545D | 08-JAN-2003 | 03-04-1288A | 02
04 | FL | LAKE COUNTY * | 12069C0545D | 21-FEB-2003 | 03-04-2272A | 02
04 | FL | LAKE COUNTY * | 12069C0545D | 17-APR-2003 | 03-04-2578A | 02
04 | FL | LAKE COUNTY * | 12069C0560D | 17-JAN-2003 | 03-04-1856A | 02
04 | FL | LAKE COUNTY * | 12069C0565D | 26-FEB-2003 | 03-04-2726A | 02
04 | FL | LAKE COUNTY * | 12069C0625D | 13-FEB-2003 | 03-04-2740A | 02
04 | FL | LAKE COUNTY * | 12069C0625D | 17-MAR-2003 | 03-04-3644A | 01
04 | FL | LAKE WALES, CITY OF | 12105C0535F | 10-APR-2003 | 03-04-1980A | 01
04 | FL | LAKELAND, CITY OF | 12105C0294F | 10-APR-2003 | 03-04-077P | 05
04 | FL | LAKELAND, CITY OF | 12105C0313F | 19-FEB-2003 | 03-04-033P | 05
04 | FL | LAKELAND, CITY OF | 12105C0320F | 16-JAN-2003 | 03-04-1680A | 02
04 | FL | LAKELAND, CITY OF | 12105C0485F | 16-JAN-2003 | 03-04-1680A | 02
04 | FL | LAUDERDALE LAKES, CITY OF | 12011C0204F | 31-JAN-2003 | 03-04-2080A | 02
04 | FL | LAUDERDALE LAKES, CITY OF | 12011C0204F | 31-JAN-2003 | 03-04-2082A | 02
04 | FL | LAUDERDALE LAKES, CITY OF | 12011C0204F | 31-JAN-2003 | 03-04-2084A | 02
04 | FL | LAUDERDALE LAKES, CITY OF | 12011C0204F | 31-JAN-2003 | 03-04-2086A | 02
04 | FL | LAUDERDALE LAKES, CITY OF | 12011C0204F | 31-JAN-2003 | 03-04-2088A | 02
04 | FL | LAUDERDALE LAKES, CITY OF | 12011C0204F | 31-JAN-2003 | 03-04-2090A | 02
04 | FL | LAUDERDALE LAKES, CITY OF | 12011C0204F | 31-JAN-2003 | 03-04-2092A | 02
04 | FL | LAUDERDALE LAKES, CITY OF | 12011C0204F | 31-JAN-2003 | 03-04-2094A | 02
04 | FL | LAUDERDALE LAKES, CITY OF | 12011C0204F | 31-JAN-2003 | 03-04-2096A | 02
04 | FL | LAUDERHILL, CITY OF | 12011C0212F | 08-JAN-2003 | 03-04-1208A | 02
04 | FL | LEE COUNTY* | 1251240075D | 02-JAN-2003 | 03-04-1230A | 01
04 | FL | LEE COUNTY* | 1251240225C | 13-MAR-2003 | 03-04-2620A | 01
04 | FL | LEE COUNTY* | 1251240505E | 20-FEB-2003 | 03-04-1612A | 01
04 | FL | LEE COUNTY* | 1251240510D | 06-MAR-2003 | 03-04-1594A | 01
04 | FL | LEE COUNTY* | 1251240510D | 21-MAR-2003 | 03-04-2988A | 01
04 | FL | LEE COUNTY* | 1251240530C | 13-FEB-2003 | 03-04-2798A | 01
04 | FL | LEESBURG, CITY OF | 12069C0316D | 04-APR-2003 | 03-04-3998A | 02
04 | FL | LEESBURG, CITY OF | 12069C0317D | 06-FEB-2003 | 03-04-2430A | 02
04 | FL | LEON COUNTY * | 12073C0250D | 24-APR-2003 | 03-04-4114A | 02
04 | FL | LEON COUNTY * | 12073C0315D | 13-FEB-2003 | 03-04-2574A | 02
04 | FL | LEON COUNTY * | 12073C0350D | 10-APR-2003 | 03-04-3352A | 02
04 | FL | LONGWOOD, CITY OF | 12117C0130E | 26-FEB-2003 | 03-04-2274A | 02
04 | FL | LONGWOOD, CITY OF | 12117C0130E | 24-APR-2003 | 03-04-4624A | 02
04 | FL | MAITLAND, CITY OF | 12095C0165E | 31-JAN-2003 | 03-04-1726A | 17
04 | FL | MAITLAND, CITY OF | 12095C0165E | 28-MAR-2003 | 03-04-4106A | 02
04 | FL | MANATEE COUNTY * | 1201530014C | 20-FEB-2003 | 03-04-135P | 05
04 | FL | MANATEE COUNTY * | 1201530018C | 20-FEB-2003 | 03-04-135P | 05
04 | FL | MANATEE COUNTY * | 1201530307B | 25-APR-2003 | 03-04-4636A | 02
04 | FL | MANATEE COUNTY * | 1201530326B | 24-JAN-2003 | 03-04-2728A | 02
04 | FL | MANATEE COUNTY * | 1201530342C | 28-FEB-2003 | 03-04-0002A | 01
04 | FL | MANATEE COUNTY * | 1201530344C | 17-MAR-2003 | 03-04-2288A | 02
04 | FL | MANATEE COUNTY * | 1201530354C | 14-APR-2003 | 03-04-4788A | 02
04 | FL | MARGATE, CITY OF | 12011C0115F | 03-JAN-2003 | 03-04-1180A | 02
04 | FL | MARGATE, CITY OF | 12011C0115F | 04-APR-2003 | 03-04-2644A | 02
04 | FL | MARION COUNTY * | 1201600300B | 23-JAN-2003 | 03-04-1684A | 02
04 | FL | MARION COUNTY * | 1201600355B | 10-APR-2003 | 03-04-4670A | 02
04 | FL | MARION COUNTY * | 1201600650B | 17-APR-2003 | 03-04-3884A | 02
04 | FL | MARION COUNTY * | 1201600715B | 27-MAR-2003 | 03-04-1920A | 02
04 | FL | MARION COUNTY * | 1201600725B | 23-JAN-2003 | 03-04-0538A | 01
04 | FL | MARION COUNTY * | 1201600860B | 26-FEB-2003 | 03-04-3028A | 02
04 | FL | MARTIN COUNTY * | 12085C0132F | 27-MAR-2003 | 03-04-3698A | 02
04 | FL | MARTIN COUNTY * | 12085C0133F | 27-MAR-2003 | 03-04-1500A | 02
04 | FL | MARTIN COUNTY * | 12085C0145F | 25-APR-2003 | 03-04-4184A | 02
04 | FL | MARTIN COUNTY * | 12085C0282F | 04-APR-2003 | 03-04-4616A | 02
04 | FL | MARTIN COUNTY * | 12085C0310F | 06-FEB-2003 | 03-04-2290A | 02
04 | FL | MARTIN COUNTY * | 12085C0510F | 03-APR-2003 | 03-04-4246A | 02
04 | FL | MELBOURNE, CITY OF | 12009C0435E | 08-JAN-2003 | 03-04-1666A | 02
04 | FL | MIAMI DADE COUNTY* | 12025C0075J | 10-JAN-2003 | 03-04-0806A | 01
04 | FL | MIAMI DADE COUNTY* | 12025C0075J | 21-MAR-2003 | 03-04-2548A | 02
04 | FL | MIAMI DADE COUNTY* | 12025C0075J | 04-APR-2003 | 03-04-4256A | 01
04 | FL | MIAMI DADE COUNTY* | 12025C0080J | 16-JAN-2003 | 03-04-1718A | 02
04 | FL | MIAMI DADE COUNTY* | 12025C0080J | 06-MAR-2003 | 03-04-2268A | 02
04 | FL | MIAMI DADE COUNTY* | 12025C0080J | 21-MAR-2003 | 03-04-2548A | 02
04 | FL | MIAMI DADE COUNTY* | 12025C0081J | 26-FEB-2003 | 03-04-2994A | 02
04 | FL | MIAMI DADE COUNTY* | 12025C0090J | 16-JAN-2003 | 03-04-1722A | 02
04 | FL | MIAMI DADE COUNTY* | 12025C0090J | 21-MAR-2003 | 03-04-2548A | 02
04 | FL | MIAMI DADE COUNTY* | 12025C0160J | 06-MAR-2003 | 03-04-3308A | 02
04 | FL | MIAMI DADE COUNTY* | 12025C0165J | 17-JAN-2003 | 03-04-1858A | 02
04 | FL | MIAMI DADE COUNTY* | 12025C0255J | 18-APR-2003 | 03-04-4394A | 02
04 | FL | MIAMI DADE COUNTY* | 12025C0269J | 02-JAN-2003 | 03-04-1234A | 02
04 | FL | MIAMI DADE COUNTY* | 12025C0356J | 13-FEB-2003 | 03-04-1518A | 02
04 | FL | MIAMI DADE COUNTY* | 12025C0356J | 25-APR-2003 | 03-04-4934A | 02
04 | FL | MIAMI, CITY OF | 12025C0180J | 02-JAN-2003 | 03-04-1236A | 02
04 | FL | MINNEOLA, CITY OF | 12069C0555D | 17-JAN-2003 | 03-04-1626A | 02
04 | FL | MIRAMAR, CITY OF | 12011C0290F | 16-JAN-2003 | 03-04-1312A | 01
04 | FL | MIRAMAR, CITY OF | 12011C0295F | 08-JAN-2003 | 03-04-1306A | 01
04 | FL | MIRAMAR, CITY OF | 12011C0295F | 16-JAN-2003 | 03-04-1312A | 01
04 | FL | MIRAMAR, CITY OF | 12011C0295F | 10-APR-2003 | 03-04-3744A | 01
04 | FL | MIRAMAR, CITY OF | 12011C0315F | 08-JAN-2003 | 03-04-1894A | 02
04 | FL | MT. DORA, CITY OF | 12069C0378D | 06-FEB-2003 | 03-04-1950A | 02
04 | FL | MT. DORA, CITY OF | 12069C0378D | 10-APR-2003 | 03-04-2040A | 02
04 | FL | NAPLES, CITY OF | 1251300391C | 14-FEB-2003 | 03-04-2948A | 02
04 | FL | NAPLES, CITY OF | 1251300391C | 20-FEB-2003 | 03-04-2856A | 02
04 | FL | NAPLES, CITY OF | 1251300391C | 17-APR-2003 | 03-04-4496A | 02
04 | FL | NAPLES, CITY OF | 1251300391C | 24-APR-2003 | 03-04-4494A | 02
04 | FL | NAPLES, CITY OF | 1251300393C | 24-APR-2003 | 03-04-4354A | 01
04 | FL | NEW SMYRNA BEACH, CITY OF | 12127C0540G | 17-APR-2003 | 03-04-4380A | 02
04 | FL | NEW SMYRNA BEACH, CITY OF | 12127C0541G | 06-MAR-2003 | 03-04-2582A | 02
04 | FL | NEW SMYRNA BEACH, CITY OF | 12127C0541G | 14-APR-2003 | 03-04-4466A | 02
04 | FL | NICEVILLE, CITY OF | 12091C0370H | 06-FEB-2003 | 03-04-2910A | 02
04 | FL | NORTH LAUDERDALE, CITY OF | 12011C0205F | 20-MAR-2003 | 03-04-3312A | 02
04 | FL | NORTH LAUDERDALE, CITY OF | 12011C0205F | 10-APR-2003 | 03-04-4174A | 02
04 | FL | NORTH LAUDERDALE, CITY OF | 12011C0205F | 10-APR-2003 | 03-04-4176A | 02
04 | FL | OAKLAND, TOWN OF | 12095C0200E | 13-FEB-2003 | 03-04-2942A | 02
04 | FL | OCOEE, CITY OF | 12095C0210E | 12-MAR-2003 | 02-04-167P | 05
04 | FL | OKALOOSA COUNTY * | 12091C0418H | 30-APR-2003 | 03-04-275P | 05
04 | FL | OKALOOSA COUNTY * | 12091C0435H | 14-APR-2003 | 03-04-4392A | 02
04 | FL | OKALOOSA COUNTY * | 12091C0454H | 16-JAN-2003 | 03-04-1818A | 02
04 | FL | OKALOOSA COUNTY * | 12091C0458H | 16-JAN-2003 | 03-04-1818A | 02
04 | FL | ORANGE COUNTY * | 12095C0215E | 17-JAN-2003 | 03-04-2156A | 02
04 | FL | ORANGE COUNTY * | 12095C0220E | 06-MAR-2003 | 03-04-3216A | 01
04 | FL | ORANGE COUNTY * | 12095C0235E | 16-JAN-2003 | 03-04-0768A | 02
04 | FL | ORANGE COUNTY * | 12095C0255E | 17-APR-2003 | 03-04-4816A | 02
04 | FL | ORANGE COUNTY * | 12095C0260E | 16-JAN-2003 | 03-04-2134A | 02
04 | FL | ORANGE COUNTY * | 12095C0260E | 06-FEB-2003 | 03-04-2786A | 02
04 | FL | ORANGE COUNTY * | 12095C0260E | 21-FEB-2003 | 03-04-3236A | 02
04 | FL | ORANGE COUNTY * | 12095C0260E | 03-MAR-2003 | 03-04-3220A | 02
04 | FL | ORANGE COUNTY * | 12095C0260E | 17-APR-2003 | 03-04-1914A | 02
04 | FL | ORANGE COUNTY * | 12095C0270E | 03-MAR-2003 | 03-04-2570A | 02
04 | FL | ORANGE COUNTY * | 12095C0270E | 13-MAR-2003 | 03-04-3590A | 02
04 | FL | ORANGE COUNTY * | 12095C0280E | 30-JAN-2003 | 03-04-2330A | 01
04 | FL | ORANGE COUNTY * | 12095C0280E | 03-MAR-2003 | 03-04-3220A | 02
04 | FL | ORANGE COUNTY * | 12095C0285E | 08-JAN-2003 | 03-04-1774A | 02
04 | FL | ORANGE COUNTY * | 12095C0285E | 23-JAN-2003 | 03-04-2374A | 02
04 | FL | ORANGE COUNTY * | 12095C0285E | 17-APR-2003 | 03-04-3964A | 01
04 | FL | ORANGE COUNTY * | 12095C0295E | 06-MAR-2003 | 03-04-1952A | 01
04 | FL | ORANGE COUNTY * | 12095C0295E | 13-MAR-2003 | 03-04-3384A | 01
04 | FL | ORANGE COUNTY * | 12095C0305E | 24-APR-2003 | 03-04-4148A | 02
04 | FL | ORANGE COUNTY * | 12095C0385E | 30-JAN-2003 | 03-04-2332A | 02
04 | FL | ORANGE COUNTY * | 12095C0405E | 21-FEB-2003 | 03-04-3228A | 02
04 | FL | ORANGE COUNTY * | 12095C0405E | 28-MAR-2003 | 03-04-4104A | 02
04 | FL | ORANGE COUNTY * | 12095C0410E | 17-JAN-2003 | 03-04-1908A | 02
04 | FL | ORANGE COUNTY * | 12095C0410E | 06-MAR-2003 | 03-04-3150A | 02
04 | FL | ORANGE COUNTY * | 12095C0410E | 17-APR-2003 | 03-04-2340A | 01
04 | FL | ORANGE COUNTY * | 12095C0415E | 08-JAN-2003 | 03-04-1776A | 02
04 | FL | ORANGE COUNTY * | 12095C0415E | 04-APR-2003 | 03-04-3646A | 01
04 | FL | ORANGE COUNTY * | 12095C0420E | 13-MAR-2003 | 03-04-3588A | 02
04 | FL | ORANGE COUNTY * | 12095C0420E | 10-APR-2003 | 03-04-4508A | 02
04 | FL | ORANGE COUNTY * | 12095C0435E | 06-MAR-2003 | 03-04-3482A | 02
04 | FL | ORANGE COUNTY * | 12095C0465E | 13-FEB-2003 | 03-04-2940A | 02
04 | FL | ORANGE COUNTY * | 12095C0465E | 20-MAR-2003 | 03-04-3808A | 02
04 | FL | ORANGE COUNTY * | 12095C0465E | 03-APR-2003 | 03-04-3810A | 02
04 | FL | ORANGE COUNTY * | 12095C0585E | 11-APR-2003 | 03-04-3922A | 01
04 | FL | ORANGE COUNTY * | 12095C0625E | 15-JAN-2003 | 03-04-1128A | 02
04 | FL | ORANGE COUNTY * | 12095C0625E | 11-APR-2003 | 03-04-3922A | 01
04 | FL | ORANGE PARK, CITY OF | 1200660005B | 27-FEB-2003 | 03-04-2980A | 02
04 | FL | ORLANDO, CITY OF | 12095C0235E | 17-APR-2003 | 03-04-4348A | 02
04 | FL | ORLANDO, CITY OF | 12095C0240E | 16-JAN-2003 | 03-04-1550A | 01
04 | FL | ORLANDO, CITY OF | 12095C0240E | 06-FEB-2003 | 03-04-1546A | 17
04 | FL | ORLANDO, CITY OF | 12095C0240E | 27-MAR-2003 | 03-04-3046A | 01
04 | FL | ORLANDO, CITY OF | 12095C0265E | 16-JAN-2003 | 03-04-1898A | 02
04 | FL | ORLANDO, CITY OF | 12095C0265E | 23-JAN-2003 | 03-04-2368A | 02
04 | FL | ORLANDO, CITY OF | 12095C0265E | 14-FEB-2003 | 03-04-1300A | 01
04 | FL | ORLANDO, CITY OF | 12095C0265E | 07-MAR-2003 | 03-04-2572A | 02
04 | FL | ORLANDO, CITY OF | 12095C0265E | 28-MAR-2003 | 03-04-4102A | 02
04 | FL | ORLANDO, CITY OF | 12095C0270E | 24-APR-2003 | 03-04-4754A | 02
04 | FL | ORLANDO, CITY OF | 12095C0405E | 06-FEB-2003 | 03-04-1546A | 17
04 | FL | ORLANDO, CITY OF | 12095C0435E | 26-FEB-2003 | 03-04-2456A | 02
04 | FL | ORLANDO, CITY OF | 12095C0435E | 03-MAR-2003 | 03-04-2458A | 01
04 | FL | ORLANDO, CITY OF | 12095C0435E | 17-APR-2003 | 03-04-2460A | 01
04 | FL | ORLANDO, CITY OF | 12095C0455E | 03-MAR-2003 | 03-04-2458A | 01
04 | FL | ORLANDO, CITY OF | 12095C0455E | 17-APR-2003 | 03-04-2460A | 01
04 | FL | ORMOND BEACH, CITY OF | 12127C0194G | 24-APR-2003 | 03-04-4352A | 01
04 | FL | ORMOND BEACH, CITY OF | 12127C0212H | 20-FEB-2003 | 03-04-2884V | 19
04 | FL | ORMOND BEACH, CITY OF | 12127C0212H | 21-MAR-2003 | 03-04-3746A | 01
04 | FL | ORMOND BEACH, CITY OF | 12127C0212H | 04-APR-2003 | 03-04-3268A | 02
04 | FL | ORMOND BEACH, CITY OF | 12127C0213H | 20-FEB-2003 | 03-04-2884V | 19
04 | FL | OSCEOLA COUNTY * | 12097C0065F | 26-FEB-2003 | 03-04-1694A | 01
04 | FL | OSCEOLA COUNTY * | 12097C0090F | 18-APR-2003 | 03-04-4606A | 01
04 | FL | OSCEOLA COUNTY * | 12097C0120F | 26-FEB-2003 | 03-04-2140A | 02
04 | FL | OSCEOLA COUNTY * | 12097C0225F | 03-APR-2003 | 03-04-3994A | 02
04 | FL | OSCEOLA COUNTY * | 12097C0240F | 17-JAN-2003 | 03-04-1864A | 02
04 | FL | OSCEOLA COUNTY * | 12097C0240F | 23-JAN-2003 | 03-04-0292A | 17
04 | FL | OSCEOLA COUNTY * | 12097C0240F | 23-JAN-2003 | 03-04-1866A | 02
04 | FL | OSCEOLA COUNTY * | 12097C0240F | 23-JAN-2003 | 03-04-1868A | 02
04 | FL | OSCEOLA COUNTY * | 12097C0240F | 17-MAR-2003 | 03-04-3708A | 02
04 | FL | OSCEOLA COUNTY * | 12097C0240F | 17-MAR-2003 | 03-04-3710A | 02
04 | FL | OSCEOLA COUNTY * | 12097C0240F | 17-MAR-2003 | 03-04-3714A | 02
04 | FL | OSCEOLA COUNTY * | 12097C0240F | 21-MAR-2003 | 03-04-0290A | 01
04 | FL | OSCEOLA COUNTY * | 12097C0240F | 27-MAR-2003 | 03-04-3716A | 02
04 | FL | OSCEOLA COUNTY * | 12097C0240F | 27-MAR-2003 | 03-04-3720A | 02
04 | FL | OSCEOLA COUNTY * | 12097C0240F | 27-MAR-2003 | 03-04-3722A | 02
04 | FL | OSCEOLA COUNTY * | 12097C0240F | 18-APR-2003 | 03-04-4682A | 02
04 | FL | OSCEOLA COUNTY * | 12097C0240F | 24-APR-2003 | 03-04-4684A | 02
04 | FL | OSCEOLA COUNTY * | 12097C0240F | 24-APR-2003 | 03-04-4686A | 02
04 | FL | OSCEOLA COUNTY * | 12097C0400F | 17-JAN-2003 | 03-04-1862A | 02
04 | FL | OSCEOLA COUNTY * | 12097C0400F | 23-JAN-2003 | 03-04-1870A | 02
04 | FL | OSCEOLA COUNTY * | 12097C0400F | 07-MAR-2003 | 03-04-3534A | 02
04 | FL | OSCEOLA COUNTY * | 12097C0400F | 27-MAR-2003 | 03-04-3724A | 02
04 | FL | OSCEOLA COUNTY * | 12097C0400F | 27-MAR-2003 | 03-04-3726A | 02
04 | FL | OSCEOLA COUNTY * | 12097C0400F | 27-MAR-2003 | 03-04-3728A | 02
04 | FL | OSCEOLA COUNTY * | 12097C0400F | 24-APR-2003 | 03-04-4414A | 02
04 | FL | OVIEDO, CITY OF | 12117C0170E | 13-FEB-2003 | 03-04-2744A | 02
04 | FL | PALM BEACH COUNTY * | 1201920155B | 11-APR-2003 | 03-04-3814A | 02
04 | FL | PALM BEACH COUNTY * | 1201920190B | 18-APR-2003 | 03-04-4358A | 02
04 | FL | PALM BEACH GARDENS, CITY OF | 1202210001C | 23-JAN-2003 | 03-04-1106A | 02
04 | FL | PALM COAST, CITY OF | 1200850045B | 02-JAN-2003 | 03-04-0804A | 02
04 | FL | PANAMA CITY BEACH, CITY OF | 12005C0304G | 14-FEB-2003 | 03-04-1956A | 02
04 | FL | PANAMA CITY, CITY OF | 12005C0331G | 06-FEB-2003 | 03-04-2280A | 02
04 | FL | PANAMA CITY, CITY OF | 12005C0331G | 11-APR-2003 | 03-04-4390A | 02
04 | FL | PANAMA CITY, CITY OF | 12005C0335G | 06-FEB-2003 | 03-04-2280A | 02
04 | FL | PANAMA CITY, CITY OF | 12005C0342G | 20-FEB-2003 | 03-04-2736A | 02
04 | FL | PANAMA CITY, CITY OF | 12005C0342G | 07-MAR-2003 | 03-04-4096A | 02
04 | FL | PANAMA CITY, CITY OF | 12005C0344G | 24-MAR-2003 | 03-04-4152A | 02
04 | FL | PANAMA CITY, CITY OF | 12005C0344G | 03-APR-2003 | 03-04-3362A | 02
04 | FL | PANAMA CITY, CITY OF | 12005C0344G | 17-APR-2003 | 03-04-3924A | 02
04 | FL | PARKER, CITY OF | 12005C0426G | 20-FEB-2003 | 03-04-2854A | 02
04 | FL | PARKLAND, CITY OF | 12011C0085F | 02-APR-2003 | 03-04-203P | 05
04 | FL | PARKLAND, CITY OF | 12011C0105F | 02-APR-2003 | 03-04-203P | 05
04 | FL | PASCO COUNTY * | 1202300185D | 16-JAN-2003 | 03-04-1162A | 02
04 | FL | PASCO COUNTY * | 1202300185D | 17-JAN-2003 | 03-04-2170A | 02
04 | FL | PASCO COUNTY * | 1202300189C | 04-APR-2003 | 03-04-4002A | 02
04 | FL | PASCO COUNTY * | 1202300195D | 02-JAN-2003 | 03-04-0698A | 01
04 | FL | PASCO COUNTY * | 1202300195D | 14-FEB-2003 | 03-04-2782A | 02
04 | FL | PASCO COUNTY * | 1202300195D | 20-MAR-2003 | 03-04-3664A | 02
04 | FL | PASCO COUNTY * | 1202300195D | 04-APR-2003 | 03-04-3870A | 02
04 | FL | PASCO COUNTY * | 1202300205D | 24-APR-2003 | 03-04-4714A | 02
04 | FL | PASCO COUNTY * | 1202300215D | 07-FEB-2003 | 03-04-1844A | 02
04 | FL | PASCO COUNTY * | 1202300250E | 24-JAN-2003 | 03-04-1622A | 01
04 | FL | PASCO COUNTY * | 1202300335C | 28-FEB-2003 | 03-04-2106A | 01
04 | FL | PASCO COUNTY * | 1202300335C | 13-MAR-2003 | 03-04-3356A | 02
04 | FL | PASCO COUNTY * | 1202300335C | 13-MAR-2003 | 03-04-3366A | 02
04 | FL | PASCO COUNTY * | 1202300352C | 13-FEB-2003 | 02-04-8102A | 02
04 | FL | PASCO COUNTY * | 1202300352C | 21-MAR-2003 | 03-04-3488A | 02
04 | FL | PASCO COUNTY * | 1202300353C | 02-JAN-2003 | 03-04-1276A | 02
04 | FL | PASCO COUNTY * | 1202300353C | 24-APR-2003 | 03-04-4832A | 02
04 | FL | PASCO COUNTY * | 1202300354D | 03-JAN-2003 | 03-04-1164A | 02
04 | FL | PASCO COUNTY * | 1202300354D | 20-FEB-2003 | 03-04-2612A | 02
04 | FL | PASCO COUNTY * | 1202300360D | 02-JAN-2003 | 03-04-0954A | 02
04 | FL | PASCO COUNTY * | 1202300360D | 02-JAN-2003 | 03-04-1278A | 02
04 | FL | PASCO COUNTY * | 1202300360D | 17-JAN-2003 | 03-04-2220A | 01
04 | FL | PASCO COUNTY * | 1202300360D | 23-JAN-2003 | 03-04-1182A | 01
04 | FL | PASCO COUNTY * | 1202300360D | 14-FEB-2003 | 03-04-2608A | 02
04 | FL | PASCO COUNTY * | 1202300360D | 14-FEB-2003 | 03-04-2610A | 02
04 | FL | PASCO COUNTY * | 1202300360D | 20-FEB-2003 | 03-04-2852A | 02
04 | FL | PASCO COUNTY * | 1202300360D | 26-FEB-2003 | 03-04-2944A | 02
04 | FL | PASCO COUNTY * | 1202300360D | 20-MAR-2003 | 03-04-2796A | 01
04 | FL | PASCO COUNTY * | 1202300360D | 21-MAR-2003 | 03-04-3876A | 02
04 | FL | PASCO COUNTY * | 1202300360D | 28-MAR-2003 | 03-04-3872A | 02
04 | FL | PASCO COUNTY * | 1202300360D | 24-APR-2003 | 03-04-3516A | 01
04 | FL | PASCO COUNTY * | 1202300361C | 17-APR-2003 | 03-04-4422A | 02
04 | FL | PASCO COUNTY * | 1202300362D | 28-MAR-2003 | 03-04-3874A | 02
04 | FL | PASCO COUNTY * | 1202300362D | 03-APR-2003 | 03-04-2720A | 02
04 | FL | PASCO COUNTY * | 1202300370D | 23-JAN-2003 | 03-04-1182A | 01
04 | FL | PASCO COUNTY * | 1202300410E | 06-MAR-2003 | 03-04-2764A | 01
04 | FL | PASCO COUNTY * | 1202300410E | 16-APR-2003 | 03-04-4424A | 02
04 | FL | PASCO COUNTY * | 1202300425E | 10-JAN-2003 | 03-04-1210A | 01
04 | FL | PASCO COUNTY * | 1202300425E | 23-JAN-2003 | 03-04-0544A | 01
04 | FL | PASCO COUNTY * | 1202300430E | 30-JAN-2003 | 03-04-2014A | 01
04 | FL | PASCO COUNTY * | 1202300430E | 20-FEB-2003 | 03-04-2010A | 01
04 | FL | PASCO COUNTY * | 1202300450E | 30-JAN-2003 | 03-04-2014A | 01
04 | FL | PASCO COUNTY * | 1202300450E | 20-FEB-2003 | 03-04-2298A | 01
04 | FL | PASCO COUNTY * | 1202300450E | 27-MAR-2003 | 03-04-0008A | 01
04 | FL | PASCO COUNTY * | 1202300450E | 28-MAR-2003 | 03-04-2414A | 01
04 | FL | PASCO COUNTY * | 1202300450E | 17-APR-2003 | 03-04-5378A | 02
04 | FL | PEMBROKE PINES, CITY OF | 12011C0290F | 17-APR-2003 | 03-04-4290A | 02
04 | FL | PINELLAS COUNTY * | 1251390039C | 13-MAR-2003 | 03-04-3076A | 02
04 | FL | PINELLAS COUNTY * | 1251390069D | 17-APR-2003 | 03-04-3878A | 02
04 | FL | PINELLAS COUNTY * | 1251390079C | 02-JAN-2003 | 03-04-1290A | 02
04 | FL | PINELLAS COUNTY * | 1251390182C | 23-JAN-2003 | 03-04-1842A | 02
04 | FL | PINELLAS COUNTY * | 1251390286E | 19-FEB-2003 | 03-04-013P | 05
04 | FL | PLANTATION, CITY OF | 12011C0215F | 20-FEB-2003 | 03-04-1706A | 02
04 | FL | PLANTATION, CITY OF | 12011C0215F | 25-APR-2003 | 03-04-4410A | 02
04 | FL | POLK COUNTY* | 12105C0125F | 20-FEB-2003 | 03-04-051P | 05
04 | FL | POLK COUNTY* | 12105C0145F | 24-JAN-2003 | 03-04-0714A | 02
04 | FL | POLK COUNTY* | 12105C0175F | 06-MAR-2003 | 03-04-2880A | 02
04 | FL | POLK COUNTY* | 12105C0250F | 20-FEB-2003 | 03-04-051P | 05
04 | FL | POLK COUNTY* | 12105C0250F | 11-APR-2003 | 03-04-4372A | 02
04 | FL | POLK COUNTY* | 12105C0275F | 16-JAN-2003 | 03-04-0866A | 01
04 | FL | POLK COUNTY* | 12105C0275F | 26-FEB-2003 | 03-04-3122A | 01
04 | FL | POLK COUNTY* | 12105C0281F | 11-APR-2003 | 03-04-3082A | 02
04 | FL | POLK COUNTY* | 12105C0294F | 10-APR-2003 | 03-04-077P | 05
04 | FL | POLK COUNTY* | 12105C0302F | 10-JAN-2003 | 03-04-1496A | 02
04 | FL | POLK COUNTY* | 12105C0302F | 03-APR-2003 | 03-04-3760A | 02
04 | FL | POLK COUNTY* | 12105C0302F | 03-APR-2003 | 03-04-3996A | 02
04 | FL | POLK COUNTY* | 12105C0345F | 10-JAN-2003 | 03-04-0056A | 02
04 | FL | POLK COUNTY* | 12105C0425F | 16-JAN-2003 | 03-04-0866A | 01
04 | FL | POLK COUNTY* | 12105C0425F | 26-FEB-2003 | 03-04-3122A | 01
04 | FL | POLK COUNTY* | 12105C0425F | 06-MAR-2003 | 03-04-2516A | 02
04 | FL | POLK COUNTY* | 12105C0425F | 20-MAR-2003 | 03-04-3706A | 02
04 | FL | POLK COUNTY* | 12105C0425F | 27-MAR-2003 | 03-04-3718A | 02
04 | FL | POLK COUNTY* | 12105C0425F | 24-APR-2003 | 03-04-4688A | 02
04 | FL | POLK COUNTY* | 12105C0460F | 30-JAN-2003 | 03-04-1358A | 01
04 | FL | POLK COUNTY* | 12105C0460F | 13-MAR-2003 | 03-04-3544A | 02
04 | FL | POLK COUNTY* | 12105C0460F | 04-APR-2003 | 03-04-3940A | 02
04 | FL | POLK COUNTY* | 12105C0470F | 10-APR-2003 | 03-04-199P | 05
04 | FL | POLK COUNTY* | 12105C0480F | 24-JAN-2003 | 03-04-2104A | 02
04 | FL | POLK COUNTY* | 12105C0480F | 03-APR-2003 | 03-04-3812A | 02
04 | FL | POLK COUNTY* | 12105C0480F | 11-APR-2003 | 03-04-4362A | 02
04 | FL | POLK COUNTY* | 12105C0490F | 10-APR-2003 | 03-04-199P | 05
04 | FL | POLK COUNTY* | 12105C0510F | 10-JAN-2003 | 03-04-1442A | 02
04 | FL | POLK COUNTY* | 12105C0510F | 06-FEB-2003 | 03-04-2276A | 02
04 | FL | POLK COUNTY* | 12105C0510F | 13-FEB-2003 | 03-04-2616A | 02
04 | FL | POLK COUNTY* | 12105C0510F | 14-APR-2003 | 03-04-4464A | 02
04 | FL | POLK COUNTY* | 12105C0535F | 15-JAN-2003 | 03-04-1664A | 02
04 | FL | POLK COUNTY* | 12105C0535F | 22-JAN-2003 | 02-04-305P | 05
04 | FL | POLK COUNTY* | 12105C0535F | 18-APR-2003 | 03-04-4604A | 02
04 | FL | POLK COUNTY* | 12105C0590F | 16-JAN-2003 | 03-04-1712A | 02
04 | FL | POLK COUNTY* | 12105C0625F | 10-JAN-2003 | 03-04-1520A | 02
04 | FL | POLK COUNTY* | 12105C0710F | 30-JAN-2003 | 03-04-2214A | 02
04 | FL | POLK COUNTY* | 12105C0755F | 21-MAR-2003 | 03-04-3592A | 02
04 | FL | POLK COUNTY* | 12105C0760F | 06-FEB-2003 | 03-04-0958A | 02
04 | FL | POLK COUNTY* | 12105C0770F | 10-APR-2003 | 03-04-3194A | 02
04 | FL | POLK COUNTY* | 12105C0825F | 08-JAN-2003 | 02-04-9486A | 02
04 | FL | POLK COUNTY* | 12105C0885F | 10-JAN-2003 | 03-04-0072A | 02
04 | FL | POLK COUNTY* | 12105C0925F | 13-FEB-2003 | 03-04-2642A | 02
04 | FL | PORT ORANGE, CITY OF | 12127C0368G | 31-JAN-2003 | 03-04-1890A | 01
04 | FL | PORT ORANGE, CITY OF | 12127C0369G | 23-JAN-2003 | 03-04-1880A | 02
04 | FL | PORT ORANGE, CITY OF | 12127C0388G | 23-JAN-2003 | 03-04-1880A | 02
04 | FL | PORT ORANGE, CITY OF | 12127C0508G | 30-JAN-2003 | 03-04-1480A | 01
04 | FL | PORT ORANGE, CITY OF | 12127C0509G | 13-FEB-2003 | 03-04-1786A | 01
04 | FL | PORT ORANGE, CITY OF | 12127C0516G | 30-JAN-2003 | 03-04-1480A | 01
04 | FL | PORT ORANGE, CITY OF | 12127C0525G | 13-FEB-2003 | 03-04-1786A | 01
04 | FL | PORT ORANGE, CITY OF | 12127C0525G | 04-APR-2003 | 03-04-4426A | 01
04 | FL | PORT ORANGE, CITY OF | 12127C0528G | 14-FEB-2003 | 03-04-3100A | 02
04 | FL | PORT RICHEY, CITY OF | 1202340003B | 26-FEB-2003 | 03-04-2064A | 02
04 | FL | PUTNAM COUNTY * | 1202720150B | 24-APR-2003 | 03-04-4814A | 02
04 | FL | PUTNAM COUNTY * | 1202720205A | 03-APR-2003 | 03-04-4150A | 02
04 | FL | ROCKLEDGE, CITY OF | 12009C0365E | 28-MAR-2003 | 03-04-4124A | 01
04 | FL | ROCKLEDGE, CITY OF | 12009C0365E | 28-MAR-2003 | 03-04-4126A | 01
04 | FL | SANFORD, CITY OF | 12117C0040E | 08-JAN-2003 | 03-04-0382A | 01
04 | FL | SANFORD, CITY OF | 12117C0045E | 30-JAN-2003 | 03-04-2124A | 02
04 | FL | SANTA ROSA COUNTY * | 1202740280B | 03-APR-2003 | 03-04-3888A | 02
04 | FL | SANTA ROSA COUNTY * | 1202740341C | 14-APR-2003 | 03-04-4492A | 02
04 | FL | SANTA ROSA COUNTY * | 1202740358E | 14-APR-2003 | 03-04-3826A | 02
04 | FL | SARASOTA COUNTY * | 1251440151D | 27-MAR-2003 | 03-04-1152A | 01
04 | FL | SARASOTA COUNTY * | 1251440161E | 15-JAN-2003 | 03-04-0180A | 02
04 | FL | SARASOTA COUNTY * | 1251440163E | 06-MAR-2003 | 03-04-3016A | 02
04 | FL | SARASOTA COUNTY * | 1251440332E | 28-FEB-2003 | 03-04-1696A | 02
04 | FL | SARASOTA COUNTY * | 1251440334E | 25-APR-2003 | 03-04-4632A | 02
04 | FL | SARASOTA COUNTY * | 1251440342E | 13-MAR-2003 | 03-04-2146A | 02
04 | FL | SARASOTA COUNTY * | 1251440342E | 20-MAR-2003 | 03-04-3018A | 02
04 | FL | SARASOTA COUNTY * | 1251440342E | 25-APR-2003 | 03-04-2310A | 01
04 | FL | SARASOTA COUNTY * | 1251440451D | 31-JAN-2003 | 03-04-2022A | 02
04 | FL | SARASOTA, CITY OF | 1251500009B | 27-MAR-2003 | 03-04-3824A | 02
04 | FL | SEMINOLE COUNTY* | 12117C0140E | 08-JAN-2003 | 03-04-1280A | 02
04 | FL | SEMINOLE COUNTY* | 12117C0140E | 13-FEB-2003 | 03-04-2292A | 02
04 | FL | SEMINOLE COUNTY* | 12117C0145E | 16-JAN-2003 | 03-04-1770A | 02
04 | FL | SEMINOLE COUNTY* | 12117C0145E | 13-FEB-2003 | 03-04-2564A | 02
04 | FL | SEMINOLE COUNTY* | 12117C0145E | 26-FEB-2003 | 03-04-2502A | 02
04 | FL | SEMINOLE COUNTY* | 12117C0145E | 17-MAR-2003 | 03-04-3636A | 02
04 | FL | SEMINOLE COUNTY* | 12117C0145E | 27-MAR-2003 | 03-04-3230A | 02
04 | FL | SOUTH MIAMI, CITY OF | 12025C0276J | 16-JAN-2003 | 03-04-1758A | 02
04 | FL | ST. CLOUD, CITY OF | 12097C0252F | 20-FEB-2003 | 03-04-0506A | 02
04 | FL | ST. JOHNS COUNTY * | 1251470085D | 03-JAN-2003 | 03-04-0618A | 02
04 | FL | ST. JOHNS COUNTY * | 1251470085D | 21-MAR-2003 | 03-04-3256A | 02
04 | FL | ST. JOHNS COUNTY * | 1251470085D | 10-APR-2003 | 03-04-3764A | 02
04 | FL | ST. JOHNS COUNTY * | 1251470090D | 30-JAN-2003 | 03-04-1752A | 01
04 | FL | ST. JOHNS COUNTY * | 1251470090D | 14-FEB-2003 | 03-04-2154A | 02
04 | FL | ST. JOHNS COUNTY * | 1251470090D | 06-MAR-2003 | 03-04-1590A | 01
04 | FL | ST. JOHNS COUNTY * | 1251470090D | 06-MAR-2003 | 03-04-3112A | 01
04 | FL | ST. JOHNS COUNTY * | 1251470090D | 06-MAR-2003 | 03-04-3114A | 01
04 | FL | ST. JOHNS COUNTY * | 1251470090D | 03-APR-2003 | 03-04-2470A | 01
04 | FL | ST. JOHNS COUNTY * | 1251470090D | 18-APR-2003 | 03-04-4266C | 01
04 | FL | ST. JOHNS COUNTY * | 1251470095D | 30-JAN-2003 | 03-04-1752A | 01
04 | FL | ST. JOHNS COUNTY * | 1251470095D | 03-APR-2003 | 03-04-2470A | 01
04 | FL | ST. JOHNS COUNTY * | 1251470138D | 07-FEB-2003 | 03-04-1964A | 02
04 | FL | ST. LUCIE COUNTY * | 12111C0089G | 21-FEB-2003 | 03-04-0960A | 02
04 | FL | SUMTER COUNTY * | 1202960075B | 21-FEB-2003 | 03-04-1342A | 02
04 | FL | SUNRISE, CITY OF | 12011C0185F | 13-MAR-2003 | 03-04-2890A | 02
04 | FL | SUNRISE, CITY OF | 12011C0185F | 13-MAR-2003 | 03-04-2892A | 02
04 | FL | TALLAHASSEE, CITY OF | 12073C0282D | 25-MAR-2003 | 02-04-183X | 05
04 | FL | TALLAHASSEE, CITY OF | 12073C0282D | 03-APR-2003 | 03-04-3886A | 02
04 | FL | TALLAHASSEE, CITY OF | 12073C0284D | 25-MAR-2003 | 02-04-183X | 05
04 | FL | TAMARAC, CITY OF | 12011C0185F | 20-MAR-2003 | 03-04-4428A | 01
04 | FL | TAMARAC, CITY OF | 12011C0205F | 24-APR-2003 | 03-04-4692A | 01
04 | FL | TAMPA, CITY OF | 1201120095C | 18-APR-2003 | 03-04-4168A | 01
04 | FL | TAMPA, CITY OF | 1201140022C | 24-APR-2003 | 03-04-5216A | 02
04 | FL | TAMPA, CITY OF | 1201140026C | 20-MAR-2003 | 03-04-3788A | 01
04 | FL | TAMPA, CITY OF | 1201140038C | 02-JAN-2003 | 03-04-1042A | 01
04 | FL | TAMPA, CITY OF | 1201140043C | 13-FEB-2003 | 03-04-2844A | 02
04 | FL | TARPON SPRINGS, CITY OF | 1202590006B | 06-MAR-2003 | 03-04-2550A | 02
04 | FL | TAVARES, CITY OF | 12069C0345D | 14-FEB-2003 | 03-04-1030A | 02
04 | FL | TAVARES, CITY OF | 12069C0345D | 06-MAR-2003 | 03-04-2136A | 02
04 | FL | TAVARES, CITY OF | 12069C0345D | 17-MAR-2003 | 03-04-3442A | 02
04 | FL | TAVARES, CITY OF | 12069C0345D | 03-APR-2003 | 03-04-2792A | 02
04 | FL | TAVARES, CITY OF | 12069C0345D | 10-APR-2003 | 03-04-4094A | 02
04 | FL | TAVARES, CITY OF | 12069C0355D | 20-FEB-2003 | 03-04-2818A | 02
04 | FL | TAVARES, CITY OF | 12069C0361D | 03-APR-2003 | 03-04-2792A | 02
04 | FL | TAVARES, CITY OF | 12069C0362D | 10-JAN-2003 | 03-04-0760A | 02
04 | FL | TITUSVILLE, CITY OF | 12009C0180E | 08-JAN-2003 | 03-04-1848A | 02
04 | FL | TITUSVILLE, CITY OF | 12009C0180E | 08-JAN-2003 | 03-04-1912A | 02
04 | FL | TITUSVILLE, CITY OF | 12009C0180E | 16-JAN-2003 | 03-04-1494A | 02
04 | FL | TITUSVILLE, CITY OF | 12009C0180E | 23-JAN-2003 | 03-04-1414A | 01
04 | FL | VENICE, CITY OF | 1251440331E | 20-FEB-2003 | 03-04-1076A | 01
04 | FL | VENICE, CITY OF | 1251440332E | 20-FEB-2003 | 03-04-1076A | 01
04 | FL | VOLUSIA COUNTY* | 12127C0042G | 20-FEB-2003 | 03-04-2882V | 19
04 | FL | VOLUSIA COUNTY* | 12127C0044G | 20-FEB-2003 | 03-04-2882V | 19
04 | FL | VOLUSIA COUNTY* | 12127C0064G | 20-FEB-2003 | 03-04-2882V | 19
04 | FL | VOLUSIA COUNTY* | 12127C0200G | 20-FEB-2003 | 03-04-2882V | 19
04 | FL | VOLUSIA COUNTY* | 12127C0200H | 20-FEB-2003 | 03-04-2882V | 19
04 | FL | VOLUSIA COUNTY* | 12127C0202G | 20-FEB-2003 | 03-04-2882V | 19
04 | FL | VOLUSIA COUNTY* | 12127C0202H | 20-FEB-2003 | 03-04-2882V | 19
04 | FL | VOLUSIA COUNTY* | 12127C0203H | 24-APR-2003 | 03-04-5150A | 02
04 | FL | VOLUSIA COUNTY* | 12127C0211G | 20-FEB-2003 | 03-04-2882V | 19
04 | FL | VOLUSIA COUNTY* | 12127C0211H | 20-FEB-2003 | 03-04-2882V | 19
04 | FL | VOLUSIA COUNTY* | 12127C0212G | 20-FEB-2003 | 03-04-2882V | 19
04 | FL | VOLUSIA COUNTY* | 12127C0212H | 20-FEB-2003 | 03-04-2882V | 19
04 | FL | VOLUSIA COUNTY* | 12127C0213G | 20-FEB-2003 | 03-04-2882V | 19
04 | FL | VOLUSIA COUNTY* | 12127C0213H | 20-FEB-2003 | 03-04-2882V | 19
04 | FL | VOLUSIA COUNTY* | 12127C0325G | 20-FEB-2003 | 03-04-2882V | 19
04 | FL | VOLUSIA COUNTY* | 12127C0350G | 20-FEB-2003 | 03-04-2882V | 19
04 | FL | VOLUSIA COUNTY* | 12127C0363G | 20-FEB-2003 | 03-04-2882V | 19
04 | FL | VOLUSIA COUNTY* | 12127C0368G | 20-FEB-2003 | 03-04-2882V | 19
04 | FL | VOLUSIA COUNTY* | 12127C0389G | 20-FEB-2003 | 03-04-2882V | 19
04 | FL | VOLUSIA COUNTY* | 12127C0460G | 20-FEB-2003 | 03-04-2882V | 19
04 | FL | VOLUSIA COUNTY* | 12127C0470G | 20-FEB-2003 | 03-04-2882V | 19
04 | FL | VOLUSIA COUNTY* | 12127C0508G | 23-JAN-2003 | 03-04-0348A | 02
04 | FL | VOLUSIA COUNTY* | 12127C0508G | 20-FEB-2003 | 03-04-2882V | 19
04 | FL | VOLUSIA COUNTY* | 12127C0509G | 20-FEB-2003 | 03-04-2882V | 19
04 | FL | VOLUSIA COUNTY* | 12127C0516G | 20-FEB-2003 | 03-04-2882V | 19
04 | FL | VOLUSIA COUNTY* | 12127C0525G | 20-FEB-2003 | 03-04-2882V | 19
04 | FL | VOLUSIA COUNTY* | 12127C0540G | 20-FEB-2003 | 03-04-2882V | 19
04 | FL | VOLUSIA COUNTY* | 12127C0540G | 13-MAR-2003 | 03-04-2382A | 02
04 | FL | VOLUSIA COUNTY* | 12127C0543G | 20-FEB-2003 | 03-04-2882V | 19
04 | FL | VOLUSIA COUNTY* | 12127C0620G | 20-FEB-2003 | 03-04-2882V | 19
04 | FL | VOLUSIA COUNTY* | 12127C0650G | 20-FEB-2003 | 03-04-2882V | 19
04 | FL | VOLUSIA COUNTY* | 12127C0685G | 20-FEB-2003 | 03-04-2882V | 19
04 | FL | VOLUSIA COUNTY* | 12127C0700G | 20-FEB-2003 | 03-04-2882V | 19
04 | FL | VOLUSIA COUNTY* | 12127C0755G | 20-FEB-2003 | 03-04-2882V | 19
04 | FL | VOLUSIA COUNTY* | 12127C0760G | 20-FEB-2003 | 03-04-2882V | 19
04 | FL | VOLUSIA COUNTY* | 12127C0780G | 20-FEB-2003 | 03-04-2882V | 19
04 | FL | VOLUSIA COUNTY* | 12127C0795G | 27-FEB-2003 | 03-04-3020A | 02
04 | FL | VOLUSIA COUNTY* | 12127C0825G | 20-FEB-2003 | 03-04-2882V | 19
04 | FL | WAKULLA COUNTY * | 1203150250B | 23-JAN-2003 | 03-04-1970A | 02
04 | FL | WAKULLA COUNTY * | 1203150250B | 17-APR-2003 | 03-04-4342A | 02
04 | FL | WALTON COUNTY * | 12031C0737F | 16-JAN-2003 | 03-04-0854A | 02
04 | FL | WALTON COUNTY * | 12131C0543F | 02-JAN-2003 | 03-04-1112A | 02
04 | FL | WALTON COUNTY * | 12131C0543F | 06-MAR-2003 | 03-04-2748A | 02
04 | FL | WALTON COUNTY * | 12131C0543F | 04-APR-2003 | 03-04-3880A | 02
04 | FL | WALTON COUNTY * | 12131C0737F | 16-JAN-2003 | 03-04-0854A | 02
04 | FL | WALTON COUNTY * | 12131C0737F | 25-APR-2003 | 03-04-5006A | 02
04 | FL | WEST PALM BEACH, CITY OF | 1201920145B | 02-JAN-2003 | 02-04-9438A | 01
04 | FL | WEST PALM BEACH, CITY OF | 1201920150A | 26-FEB-2003 | 03-04-1304A | 01
04 | FL | WESTON, CITY OF | 12011C0190F | 10-APR-2003 | 03-04-4260A | 02
04 | FL | WESTON, CITY OF | 12011C0195F | 24-APR-2003 | 03-04-4216A | 02
04 | FL | WINDERMERE, TOWN OF | 12095C0385E | 14-FEB-2003 | 03-04-3024A | 02
04 | FL | WINTER GARDEN, CITY OF | 12095C0215E | 21-FEB-2003 | 03-04-3382A | 01
04 | FL | WINTER PARK, CITY OF | 12095C0165E | 14-FEB-2003 | 03-04-3118A | 02
04 | FL | WINTER SPRINGS, CITY OF | 12117C0145E | 10-JAN-2003 | 03-04-0054A | 02
04 | FL | WINTER SPRINGS, CITY OF | 12117C0145E | 06-MAR-2003 | 03-04-3526A | 02
04 | FL | WINTER SPRINGS, CITY OF | 12117C0165E | 16-JAN-2003 | 03-04-1708A | 02
04 | GA | ALBANY, CITY OF | 13095C0105D | 30-JAN-2003 | 03-04-2074A | 02
04 | GA | ALPHARETTA, CITY OF | 13121C0054E | 17-MAR-2003 | 03-04-2828AD | 02
04 | GA | ATLANTA, CITY OF | 13121C0163E | 21-APR-2003 | 03-04-4704A | 02
04 | GA | AUGUSTA, CITY OF | 1301580070E | 08-JAN-2003 | 03-04-0264A | 02
04 | GA | BALDWIN COUNTY* | 1300050050B | 06-FEB-2003 | 03-04-3176A | 02
04 | GA | BALDWIN COUNTY* | 1300050050B | 27-FEB-2003 | 03-04-3238A | 02
04 | GA | BALDWIN COUNTY* | 1300050075B | 06-FEB-2003 | 03-04-2432A | 02
04 | GA | BALDWIN COUNTY* | 1300050075B | 20-MAR-2003 | 03-04-3678A | 02
04 | GA | BARROW COUNTY* | 1304970050A | 28-MAR-2003 | 03-04-035P | 05
04 | GA | BARTOW COUNTY * | 13015C0095F | 27-FEB-2003 | 03-04-3454A | 02
04 | GA | BIBB COUNTY* | 1300110010D | 05-MAR-2003 | 03-04-103P | 05
04 | GA | BULLOCH COUNTY* | 1300190300B | 24-APR-2003 | 03-04-3676A | 02
04 | GA | BURKE COUNTY* | 130022300B | 27-FEB-2003 | 03-04-0312A | 02
04 | GA | CHATHAM COUNTY* | 1300300075C | 03-FEB-2003 | 03-04-2002A | 02
04 | GA | CHATHAM COUNTY* | 1300300075C | 20-MAR-2003 | 03-04-2360A | 02
04 | GA | CLAYTON COUNTY* | 1300410035C | 18-FEB-2003 | 03-04-1450A | 02
04 | GA | CLAYTON COUNTY* | 1300410065B | 24-APR-2003 | 03-04-4238A | 02
04 | GA | COBB COUNTY* | 13067C0025F | 23-JAN-2003 | 03-04-1660A | 02
04 | GA | COBB COUNTY* | 13067C0025F | 03-FEB-2003 | 03-04-2160A | 02
04 | GA | COBB COUNTY* | 13067C0025F | 06-FEB-2003 | 03-04-0556A | 02
04 | GA | COBB COUNTY* | 13067C0025F | 27-FEB-2003 | 03-04-1828A | 01
04 | GA | COBB COUNTY* | 13067C0025F | 07-APR-2003 | 03-04-2244A | 02
04 | GA | COBB COUNTY* | 13067C0030F | 20-MAR-2003 | 03-04-1328A | 02
04 | GA | COBB COUNTY* | 13067C0030F | 07-APR-2003 | 03-04-3838A | 02
04 | GA | COBB COUNTY* | 13067C0035F | 30-JAN-2003 | 03-04-2344A | 02
04 | GA | COBB COUNTY* | 13067C0035F | 03-MAR-2003 | 03-04-3414A | 02
04 | GA | COBB COUNTY* | 13067C0035F | 13-MAR-2003 | 03-04-3276A | 02
04 | GA | COBB COUNTY* | 13067C0035F | 20-MAR-2003 | 03-04-3456A | 02
04 | GA | COBB COUNTY* | 13067C0035F | 03-APR-2003 | 03-04-1122A | 02
04 | GA | COBB COUNTY* | 13067C0035F | 03-APR-2003 | 03-04-4316A | 02
04 | GA | COBB COUNTY* | 13067C0035F | 03-APR-2003 | 03-04-4318A | 02
04 | GA | COBB COUNTY* | 13067C0035F | 10-APR-2003 | 03-04-3462A | 01
04 | GA | COBB COUNTY* | 13067C0035F | 10-APR-2003 | 03-04-4232A | 02
04 | GA | COBB COUNTY* | 13067C0035F | 17-APR-2003 | 03-04-3952A | 02
04 | GA | COBB COUNTY* | 13067C0035F | 17-APR-2003 | 03-04-4322A | 02
04 | GA | COBB COUNTY* | 13067C0035F | 17-APR-2003 | 03-04-5184A | 02
04 | GA | COBB COUNTY* | 13067C0040F | 16-JAN-2003 | 03-04-1034A | 02
04 | GA | COBB COUNTY* | 13067C0040F | 06-FEB-2003 | 03-04-3164A | 02
04 | GA | COBB COUNTY* | 13067C0040F | 07-APR-2003 | 03-04-1504A | 02
04 | GA | COBB COUNTY* | 13067C0045F | 02-JAN-2003 | 03-04-1214A | 02
04 | GA | COBB COUNTY* | 13067C0045F | 30-JAN-2003 | 03-04-2498A | 02
04 | GA | COBB COUNTY* | 13067C0045F | 07-APR-2003 | 03-04-2934A | 02
04 | GA | COBB COUNTY* | 13067C0045F | 10-APR-2003 | 03-04-1816A | 02
04 | GA | COBB COUNTY* | 13067C0050F | 16-JAN-2003 | 03-04-0048A | 02
04 | GA | COBB COUNTY* | 13067C0050F | 21-JAN-2003 | 03-04-1830A | 02
04 | GA | COBB COUNTY* | 13067C0050F | 24-FEB-2003 | 03-04-2968A | 02
04 | GA | COBB COUNTY* | 13067C0050F | 20-MAR-2003 | 03-04-1742A | 02
04 | GA | COBB COUNTY* | 13067C0050F | 27-MAR-2003 | 03-04-3580A | 02
04 | GA | COBB COUNTY* | 13067C0050F | 03-APR-2003 | 03-04-4706A | 02
04 | GA | COBB COUNTY* | 13067C0055F | 13-FEB-2003 | 03-04-0820A | 02
04 | GA | COBB COUNTY* | 13067C0055F | 20-MAR-2003 | 03-04-3754A | 02
04 | GA | COBB COUNTY* | 13067C0060F | 28-APR-2003 | 03-04-5290A | 02
04 | GA | COBB COUNTY* | 13067C0070F | 23-JAN-2003 | 03-04-0274A | 02
04 | GA | COBB COUNTY* | 13067C0070F | 23-JAN-2003 | 03-04-2412A | 02
04 | GA | COBB COUNTY* | 13067C0075F | 27-MAR-2003 | 03-04-3840A | 02
04 | GA | COBB COUNTY* | 13067C0075F | 07-APR-2003 | 03-04-2114A | 02
04 | GA | COBB COUNTY* | 13067C0075F | 10-APR-2003 | 03-04-1962A | 17
04 | GA | COBB COUNTY* | 13067C0085F | 03-APR-2003 | 03-04-3986A | 02
04 | GA | COBB COUNTY* | 13067C0090F | 24-FEB-2003 | 03-04-2506A | 02
04 | GA | COBB COUNTY* | 13067C0090F | 13-MAR-2003 | 03-04-2932A | 02
04 | GA | COBB COUNTY* | 13067C0090F | 24-MAR-2003 | 03-04-1976A | 02
04 | GA | COBB COUNTY* | 13067C0095F | 03-APR-2003 | 03-04-3986A | 02
04 | GA | COLUMBIA COUNTY* | 1300590095B | 30-JAN-2003 | 03-04-1264A | 02
04 | GA | COLUMBIA COUNTY* | 1300590095B | 06-FEB-2003 | 03-04-1444A | 02
04 | GA | COLUMBIA COUNTY* | 1300590125A | 10-APR-2003 | 03-04-4442A | 02
04 | GA | COLUMBUS, CITY OF | 1351580045D | 03-JAN-2003 | 03-04-0186A | 02
04 | GA | COLUMBUS, CITY OF | 1351580045D | 23-JAN-2003 | 03-04-0838A | 02
04 | GA | COLUMBUS, CITY OF | 1351580050D | 06-FEB-2003 | 03-04-0836A | 02
04 | GA | COLUMBUS, CITY OF | 1351580050D | 24-FEB-2003 | 03-04-2930A | 02
04 | GA | COLUMBUS, CITY OF | 1351580050D | 17-APR-2003 | 03-04-4076A | 02
04 | GA | COVINGTON, CITY OF | 1301440004B | 27-JAN-2003 | 03-04-1586A | 02
04 | GA | COWETA COUNTY * | 1302980100A | 24-FEB-2003 | 03-04-1572A | 02
04 | GA | COWETA COUNTY * | 1302980125A | 20-MAR-2003 | 03-04-3286A | 02
04 | GA | CUMMING, CITY OF | 13117C0095C | 03-APR-2003 | 03-04-3432A | 02
04 | GA | DAWSON COUNTY | 1303040125A | 28-APR-2003 | 03-04-4948A | 02
04 | GA | DE KALB COUNTY * | 13089C0010H | 16-JAN-2003 | 03-04-0972A | 02
04 | GA | DE KALB COUNTY * | 13089C0016H | 27-MAR-2003 | 03-04-0744A | 02
04 | GA | DE KALB COUNTY * | 13089C0066H | 17-APR-2003 | 03-04-4138A | 02
04 | GA | DE KALB COUNTY * | 13089C0069H | 08-JAN-2003 | 03-04-2068A | 02
04 | GA | DE KALB COUNTY * | 13089C0086H | 06-FEB-2003 | 03-04-1826A | 02
04 | GA | DE KALB COUNTY * | 13089C0086H | 06-FEB-2003 | 03-04-2696A | 02
04 | GA | DE KALB COUNTY * | 13089C0086H | 17-MAR-2003 | 03-04-2964A | 02
04 | GA | DE KALB COUNTY * | 13089C0088H | 08-JAN-2003 | 03-04-0928A | 02
04 | GA | DE KALB COUNTY * | 13089C0112H | 24-MAR-2003 | 03-04-3490A | 02
04 | GA | DE KALB COUNTY * | 13089C0113H | 18-FEB-2003 | 03-04-2440A | 02
04 | GA | DE KALB COUNTY * | 13089C0113H | 27-MAR-2003 | 03-04-3852A | 02
04 | GA | DE KALB COUNTY * | 13089C0131H | 17-APR-2003 | 03-04-3422A | 02
04 | GA | DE KALB COUNTY * | 13089C0142H | 27-JAN-2003 | 03-04-2246A | 02
04 | GA | DE KALB COUNTY * | 13089C0162H | 13-MAR-2003 | 03-04-2690A | 02
04 | GA | DE KALB COUNTY * | 13089C0162H | 17-APR-2003 | 03-04-3954A | 02
04 | GA | DE KALB COUNTY * | 13089C0169H | 17-APR-2003 | 03-04-4654A | 02
04 | GA | DE KALB COUNTY * | 13089C0176H | 03-APR-2003 | 03-04-4400A | 02
04 | GA | DE KALB COUNTY * | 13089C0188H | 08-JAN-2003 | 03-04-2072A | 02
04 | GA | DOUGLAS COUNTY * | 1303060030A | 30-JAN-2003 | 03-04-0786A | 02
04 | GA | DUBLIN, CITY OF | 1302170002B | 10-MAR-2003 | 03-04-3258A | 02
04 | GA | DULUTH, CITY OF | 1300980001C | 30-JAN-2003 | 03-04-1064A | 02
04 | GA | DULUTH, CITY OF | 1300980001C | 24-APR-2003 | 03-04-2554A | 02
04 | GA | FANNIN COUNTY* | 13111C0185D | 06-MAR-2003 | 03-04-3460A | 02
04 | GA | FANNIN COUNTY* | 13111C0205D | 10-APR-2003 | 03-04-4320A | 02
04 | GA | FANNIN COUNTY* | 13111C0285D | 27-FEB-2003 | 03-04-3576A | 02
04 | GA | FAYETTE COUNTY * | 13113C0040D | 06-FEB-2003 | 03-04-1662A | 02
04 | GA | FAYETTE COUNTY * | 13113C0040D | 24-APR-2003 | 03-04-4234A | 02
04 | GA | FLOYD COUNTY* | 13115C0195D | 23-JAN-2003 | 03-04-1688A | 02
04 | GA | FORSYTH COUNTY * | 13117C0075C | 06-FEB-2003 | 03-04-2188A | 02
04 | GA | FORSYTH COUNTY * | 13117C0075C | 27-MAR-2003 | 03-04-0736A | 02
04 | GA | FORSYTH COUNTY * | 13117C0090C | 17-APR-2003 | 03-04-3856A | 02
04 | GA | FORSYTH COUNTY * | 13117C0125C | 16-JAN-2003 | 03-04-0330A | 02
04 | GA | FORSYTH COUNTY * | 13117C0125C | 23-JAN-2003 | 03-04-1750A | 02
04 | GA | FORSYTH COUNTY * | 13117C0125C | 20-MAR-2003 | 03-04-3800A | 02
04 | GA | FORSYTH COUNTY * | 13117C0125C | 10-APR-2003 | 03-04-3088A | 02
04 | GA | FORSYTH COUNTY * | 13117C0155C | 27-FEB-2003 | 03-04-3134A | 02
04 | GA | FORSYTH COUNTY * | 13117C0160C | 13-MAR-2003 | 03-04-2830A | 02
04 | GA | FORT OGLETHORPE, CITY OF | 1300280025D | 10-APR-2003 | 03-04-4448A | 01
04 | GA | FULTON COUNTY * | 13121C0054E | 17-MAR-2003 | 03-04-2828A | 02
04 | GA | FULTON COUNTY * | 13121C0087E | 24-JAN-2003 | 03-04-2250A | 02
04 | GA | FULTON COUNTY * | 13121C0317E | 03-FEB-2003 | 03-04-2592A | 01
04 | GA | GEORGETOWN, CITY OF | 1303790001B | 31-MAR-2003 | 03-04-4614A | 02
04 | GA | GILMER COUNTY* | 13123C0060C | 31-MAR-2003 | 03-04-4440A | 02
04 | GA | GILMER COUNTY* | 13123C0090B | 27-FEB-2003 | 03-04-3158A | 02
04 | GA | GILMER COUNTY* | 13123C0100B | 10-MAR-2003 | 03-04-2162A | 02
04 | GA | GWINNETT COUNTY * | 1303220055C | 03-MAR-2003 | 03-04-3528A | 02
04 | GA | GWINNETT COUNTY * | 1303220080C | 03-APR-2003 | 03-04-3214A | 01
04 | GA | GWINNETT COUNTY * | 1303220085C | 07-APR-2003 | 03-04-4324A | 02
04 | GA | GWINNETT COUNTY * | 1303220095C | 30-JAN-2003 | 03-04-2338A | 02
04 | GA | GWINNETT COUNTY * | 1303220095C | 10-FEB-2003 | 03-04-3032A | 02
04 | GA | GWINNETT COUNTY * | 1303220155D | 02-JAN-2003 | 03-04-1542A | 02
04 | GA | GWINNETT COUNTY * | 1303220160E | 21-FEB-2003 | 03-04-091P | 05
04 | GA | GWINNETT COUNTY * | 1303220160E | 03-APR-2003 | 03-04-4092A | 02
04 | GA | GWINNETT COUNTY * | 1303220165B | 10-APR-2003 | 03-04-3184A | 02
04 | GA | GWINNETT COUNTY * | 1303220180C | 22-JAN-2003 | 03-04-113P | 05
04 | GA | GWINNETT COUNTY * | 1303220185C | 10-JAN-2003 | 03-04-1066A | 02
04 | GA | GWINNETT COUNTY * | 1303220185C | 24-APR-2003 | 03-04-4736A | 02
04 | GA | GWINNETT COUNTY * | 1303220190C | 13-MAR-2003 | 03-04-3324A | 02
04 | GA | GWINNETT COUNTY * | 1303220280C | 10-MAR-2003 | 03-04-3054A | 02
04 | GA | GWINNETT COUNTY * | 1303220305C | 06-FEB-2003 | 03-04-2800A | 02
04 | GA | HABERSHAM COUNTY * | 1304580070B | 03-APR-2003 | 03-04-1262A | 02
04 | GA | HABERSHAM COUNTY * | 1304580075B | 30-JAN-2003 | 03-04-2874A | 02
04 | GA | HALL COUNTY * | 13139C0175E | 03-FEB-2003 | 03-04-2076A | 02
04 | GA | HARRIS COUNTY* | 1303380150A | 23-JAN-2003 | 03-04-1716A | 02
04 | GA | HARRIS COUNTY* | 1303380150A | 23-JAN-2003 | 03-04-2356A | 02
04 | GA | HARRIS COUNTY* | 1303380150A | 06-MAR-2003 | 03-04-2870A | 02
04 | GA | HARRIS COUNTY* | 1303380150A | 27-MAR-2003 | 03-04-3982A | 02
04 | GA | HARRIS COUNTY* | 1303380150A | 07-APR-2003 | 03-04-1714A | 02
04 | GA | HARRIS COUNTY* | 1303380150A | 10-APR-2003 | 03-04-2836A | 02
04 | GA | HARRIS COUNTY* | 1303380225A | 14-APR-2003 | 03-04-1978A | 02
04 | GA | HENRY COUNTY * | 1304680065B | 30-JAN-2003 | 03-04-1538A | 02
04 | GA | HENRY COUNTY * | 1304680150B | 27-FEB-2003 | 03-04-1188A | 02
04 | GA | HENRY COUNTY * | 13247C0162C | 27-FEB-2003 | 03-04-3392AD | 02
04 | GA | JACKSON COUNTY | 1303450200A | 10-APR-2003 | 03-04-057P | 05
04 | GA | JEFFERSON, CITY OF | 1301120005B | 10-APR-2003 | 03-04-057P | 05
04 | GA | LENOX, TOWN OF | 13075C0050B | 13-MAR-2003 | 03-04-3616A | 02
04 | GA | LILBURN, CITY OF | 1301000001B | 16-JAN-2003 | 03-04-0748A | 02
04 | GA | LILBURN, CITY OF | 1301000001B | 10-APR-2003 | 03-04-0930A | 02
04 | GA | LONG COUNTY * | 1301270125B | 10-APR-2003 | 03-04-2970A | 02
04 | GA | LUMPKIN COUNTY | 1303540145A | 16-JAN-2003 | 03-04-0214A | 02
04 | GA | MACON, CITY OF | 1300110020E | 06-MAR-2003 | 03-04-3030A | 02
04 | GA | MARIETTA, CITY OF | 13067C0035F | 17-APR-2003 | 03-04-5706A | 02
04 | GA | MARIETTA, CITY OF | 13067C0035F | 24-APR-2003 | 03-04-3282A | 02
04 | GA | MARIETTA, CITY OF | 13067C0050F | 13-FEB-2003 | 03-04-2164A | 02
04 | GA | MARIETTA, CITY OF | 13067C0050F | 27-MAR-2003 | 03-04-2488A | 02
04 | GA | MARIETTA, CITY OF | 13067C0050F | 24-APR-2003 | 03-04-2442A | 02
04 | GA | MONROE COUNTY* | 1301380025C | 19-FEB-2003 | 03-04-2960A | 02
04 | GA | MONROE COUNTY* | 1301380025C | 03-APR-2003 | 03-04-4478A | 02
04 | GA | MORGAN COUNTY* | 13211C0095A | 24-FEB-2003 | 03-04-1822A | 02
04 | GA | MORGAN COUNTY* | 13211C0180A | 23-JAN-2003 | 03-04-1762A | 02
04 | GA | MORGAN COUNTY* | 13211C0180A | 17-APR-2003 | 03-04-4368A | 02
04 | GA | MORGAN COUNTY* | 13211C0230A | 02-JAN-2003 | 03-04-1972A | 02
04 | GA | MORGAN COUNTY* | 13211C0350A | 23-JAN-2003 | 03-04-2364A | 02
04 | GA | MORGAN COUNTY* | 13211C0350A | 10-FEB-2003 | 03-04-2694A | 02
04 | GA | MURRAY COUNTY* | 1303660075B | 13-FEB-2003 | 03-04-2872A | 02
04 | GA | MURRAY COUNTY* | 1303660175B | 10-APR-2003 | 03-04-4048A | 02
04 | GA | NEWTON COUNTY * | 1301430085A | 02-JAN-2003 | 03-04-0432A | 02
04 | GA | PAULDING COUNTY * | 13223C0227B | 23-JAN-2003 | 03-04-1402A | 02
04 | GA | PAULDING COUNTY * | 13223C0251B | 24-MAR-2003 | 03-04-2832A | 02
04 | GA | PEACHTREE CITY, CITY OF | 13113C0080D | 30-JAN-2003 | 03-04-1360A | 02
04 | GA | PULASKI COUNTY | 13235C0150C | 24-APR-2003 | 03-04-2834A | 02
04 | GA | RABUN COUNTY * | 1301560050B | 17-APR-2003 | 03-04-3434A | 02
04 | GA | RICHMOND COUNTY* | 1301580020E | 27-FEB-2003 | 03-04-2774A | 02
04 | GA | RICHMOND COUNTY* | 1301580020E | 23-APR-2003 | 03-04-245P | 05
04 | GA | RICHMOND COUNTY* | 1301580020E | 28-APR-2003 | 03-04-4890A | 02
04 | GA | RICHMOND COUNTY* | 1301580060E | 24-FEB-2003 | 03-04-1308A | 02
04 | GA | RICHMOND COUNTY* | 1301580080E | 21-APR-2003 | 03-04-3910A | 02
04 | GA | RICHMOND HILL, CITY OF | 1300180001B | 06-MAR-2003 | 03-04-1242A | 02
04 | GA | ROCKDALE COUNTY * | 13247C0040C | 16-JAN-2003 | 03-04-1834A | 02
04 | GA | ROCKDALE COUNTY * | 13247C0162C | 27-FEB-2003 | 03-04-3392A | 02
04 | GA | ROSWELL, CITY OF | 13121C0034E | 10-APR-2003 | 03-04-3988A | 02
04 | GA | ROSWELL, CITY OF | 13121C0054E | 10-APR-2003 | 03-04-3912A | 02
04 | GA | ROSWELL, CITY OF | 13121C0054E | 24-APR-2003 | 03-04-4546A | 02
04 | GA | SMYRNA, CITY OF | 13067C0070F | 16-JAN-2003 | 03-04-0814A | 02
04 | GA | SMYRNA, CITY OF | 13067C0070F | 03-APR-2003 | 03-04-3684A | 02
04 | GA | SMYRNA, CITY OF | 13067C0075F | 30-JAN-2003 | 03-04-1724A | 02
04 | GA | SMYRNA, CITY OF | 13067C0075F | 03-MAR-2003 | 03-04-1334A | 02
04 | GA | SUMTER COUNTY* | 13261C0350B | 02-JAN-2003 | 03-04-0272A | 02
04 | GA | TRION, TOWN OF | 1300380005C | 10-FEB-2003 | 03-04-3104A | 02
04 | GA | UNION COUNTY* | 1302540025C | 27-FEB-2003 | 03-04-3328A | 02
04 | GA | WALTON COUNTY * | 13297C0060B | 07-APR-2003 | 03-04-3730A | 02
04 | GA | WALTON COUNTY * | 13297C0080B | 10-MAR-2003 | 03-04-2318A | 02
04 | GA | WALTON COUNTY * | 13297C0100B | 23-JAN-2003 | 03-04-0434A | 02
04 | GA | WALTON COUNTY * | 13297C0100B | 27-MAR-2003 | 03-04-1566A | 02
04 | GA | WALTON COUNTY * | 13297C0100B | 27-MAR-2003 | 03-04-3438A | 02
04 | GA | WALTON COUNTY * | 13297C0100B | 24-APR-2003 | 03-04-5390A | 02
04 | GA | WARNER ROBINS, CITY OF | 1301110005C | 03-APR-2003 | 03-04-4548A | 02
04 | GA | WHITFIELD COUNTY* | 1301930190C | 16-JAN-2003 | 03-04-1882A | 02
04 | GA | WOODSTOCK, CITY OF | 13057C0310C | 07-MAR-2003 | 03-04-2308A | 01
04 | KY | BOWLING GREEN, CITY OF | 21227C0092D | 08-JAN-2003 | 03-04-0550A | 17
04 | KY | CALLOWAY COUNTY * | 2103130005A | 24-MAR-2003 | 03-04-4062A | 02
04 | KY | CAMPBELL COUNTY * | 2100340065B | 17-APR-2003 | 03-04-4312A | 02
04 | KY | CAMPBELL COUNTY * | 2100340080B | 17-APR-2003 | 03-04-4618A | 02
04 | KY | CAMPBELL COUNTY * | 2100340085B | 03-FEB-2003 | 03-04-1616A | 02
04 | KY | CAMPBELL COUNTY * | 2100340090B | 17-APR-2003 | 03-04-4618A | 02
04 | KY | CARROLL COUNTY* | 2100450010B | 28-APR-2003 | 03-04-4848A | 02
04 | KY | CARTER COUNTY * | 2100500180B | 13-MAR-2003 | 03-04-2922A | 02
04 | KY | CLARK COUNTY* | 2102780057B | 16-JAN-2003 | 03-04-1748A | 02
04 | KY | DAVIESS COUNTY * | 21059C0085C | 07-APR-2003 | 03-04-3686A | 02
04 | KY | DAVIESS COUNTY * | 21059C0115C | 17-MAR-2003 | 03-04-2920A | 02
04 | KY | DAVIESS COUNTY * | 21059C0120C | 06-MAR-2003 | 03-04-3036A | 01
04 | KY | DAVIESS COUNTY * | 21059C0260C | 06-FEB-2003 | 03-04-2392A | 02
04 | KY | DAVIESS COUNTY * | 21059C0280C | 21-JAN-2003 | 03-04-1548A | 01
04 | KY | ELIZABETHTOWN, CITY OF | 21093C0153C | 03-FEB-2003 | 03-04-2540A | 02
04 | KY | FLOYD COUNTY * | 2100690030C | 17-MAR-2003 | 03-04-2534A | 01
04 | KY | GALLATIN COUNTY* | 2102810015A | 24-FEB-2003 | 03-04-3058A | 02
04 | KY | GALLATIN COUNTY* | 2102810015A | 20-MAR-2003 | 03-04-2210A | 01
04 | KY | GALLATIN COUNTY* | 2102810020A | 13-MAR-2003 | 03-04-3056A | 02
04 | KY | GALLATIN COUNTY* | 2102810020A | 07-APR-2003 | 03-04-2536A | 02
04 | KY | GALLATIN COUNTY* | 2102810020A | 07-APR-2003 | 03-04-2538A | 02
04 | KY | GREENUP, CITY OF | 2100880001B | 10-FEB-2003 | 03-04-1544A | 01
04 | KY | JEFFERSON COUNTY* | 21111C0010D | 06-MAR-2003 | 03-04-3174A | 02
04 | KY | JEFFERSON COUNTY* | 21111C0015D | 24-FEB-2003 | 03-04-1990A | 02
04 | KY | JEFFERSON COUNTY* | 21111C0020D | 10-JAN-2003 | 03-04-1384A | 02
04 | KY | JEFFERSON COUNTY* | 21111C0020D | 17-APR-2003 | 03-04-4702A | 02
04 | KY | JEFFERSON COUNTY* | 21111C0080D | 16-JAN-2003 | 03-04-1490A | 02
04 | KY | JEFFERSON COUNTY* | 21111C0080D | 13-FEB-2003 | 03-04-1440A | 02
04 | KY | JEFFERSON COUNTY* | 21111C0085D | 03-FEB-2003 | 03-04-2322A | 02
04 | KY | JEFFERSON COUNTY* | 21111C0105D | 06-FEB-2003 | 03-04-2366A | 02
04 | KY | JEFFERSON COUNTY* | 21111C0110D | 20-MAR-2003 | 03-04-3542A | 02
04 | KY | JEFFERSON COUNTY* | 21111C0110D | 24-MAR-2003 | 03-04-3540A | 02
04 | KY | JEFFERSON COUNTY* | 21111C0160D | 23-JAN-2003 | 03-04-1928A | 02
04 | KY | JEFFERSON COUNTY* | 21111C0165D | 16-JAN-2003 | 03-04-0682A | 02
04 | KY | JEFFERSON COUNTY* | 21111C0170D | 02-JAN-2003 | 03-04-0206A | 02
04 | KY | JEFFERSON COUNTY* | 21111C0170D | 06-FEB-2003 | 03-04-0684A | 02
04 | KY | JEFFERSON COUNTY* | 21111C0170D | 06-FEB-2003 | 03-04-2168A | 02
04 | KY | JEFFERSON COUNTY* | 21111C0170D | 10-FEB-2003 | 03-04-0110A | 02
04 | KY | JEFFERSON COUNTY* | 21111C0170D | 13-FEB-2003 | 03-04-2698A | 02
04 | KY | JEFFERSON COUNTY* | 21111C0170D | 24-FEB-2003 | 03-04-2972A | 01
04 | KY | JEFFERSON COUNTY* | 21111C0170D | 10-MAR-2003 | 03-04-3512A | 02
04 | KY | JEFFERSON COUNTY* | 21111C0170D | 14-APR-2003 | 03-04-4554A | 02
04 | KY | JEFFERSON COUNTY* | 21111C0205D | 10-JAN-2003 | 03-04-1492A | 02
04 | KY | JEFFERSON COUNTY* | 21111C0235D | 07-APR-2003 | 03-04-3048A | 02
04 | KY | JEFFERSON COUNTY* | 21111C0245D | 17-MAR-2003 | 03-04-3628A | 02
04 | KY | LEXINGTON-FAYETTE URBAN COUNTY GOVE | 2100670060C | 10-FEB-2003 | 03-04-2254A | 02
04 | KY | LEXINGTON-FAYETTE URBAN COUNTY GOVE | 2100670060C | 27-FEB-2003 | 03-04-2256A | 02
04 | KY | LEXINGTON-FAYETTE URBAN COUNTY GOVE | 2100670090C | 10-JAN-2003 | 03-04-1386A | 02
04 | KY | LEXINGTON-FAYETTE URBAN COUNTY GOVE | 2100670090C | 23-JAN-2003 | 03-04-1982A | 01
04 | KY | LEXINGTON-FAYETTE URBAN COUNTY GOVE | 2100670125C | 06-MAR-2003 | 03-04-3670A | 02
04 | KY | LOUISVILLE, CITY OF | 21111C0090D | 23-JAN-2003 | 03-04-1884A | 01
04 | KY | LOUISVILLE, CITY OF | 21111C0160D | 02-JAN-2003 | 03-04-1012A | 02
04 | KY | LOUISVILLE, CITY OF | 21111C0160D | 13-FEB-2003 | 03-04-1120A | 02
04 | KY | MARSHALL COUNTY * | 2102520050B | 28-APR-2003 | 03-04-4134A | 02
04 | KY | MARSHALL COUNTY * | 2102520100B | 10-JAN-2003 | 03-04-0202A | 02
04 | KY | MARSHALL COUNTY * | 2102520100B | 10-APR-2003 | 03-04-2172A | 02
04 | KY | MOREHEAD, CITY OF | 2102040005B | 20-FEB-2003 | 03-04-1984A | 02
04 | KY | OWENSBORO, CITY OF | 21059C0120C | 10-APR-2003 | 03-04-2258A | 1
04 | KY | OWENSBORO, CITY OF | 21059C0260C | 07-APR-2003 | 03-04-4310A | 02
04 | KY | PENDLETON COUNTY * | 210297—05A | 08-JAN-2003 | 03-04-0788A | 02
04 | KY | PENDLETON COUNTY * | 210297—05A | 24-FEB-2003 | 03-04-2974A | 02
04 | KY | PRESTONSBURG, CITY OF | 2100720001D | 14-APR-2003 | 03-04-0936A | 01
04 | KY | ROWAN COUNTY * | 2102030045B | 08-JAN-2003 | 03-04-0872A | 01
04 | KY | SILVER GROVE, CITY OF | 2100340045B | 17-MAR-2003 | 03-04-0942A | 01
04 | KY | SOUTHGATE, CITY OF | 210276—01 | 31-MAR-2003 | 03-04-2486A | 02
04 | KY | STANTON, CITY OF | 2101960001B | 10-JAN-2003 | 03-04-0324A | 02
04 | KY | STURGIS, CITY OF | 210217 B | 21-FEB-2003 | 03-04-147P | 05
04 | KY | TAYLOR MILL, CITY OF | 2102460001C | 24-MAR-2003 | 03-04-3798A | 02
04 | KY | WEST POINT, CITY OF | 21093C0005C | 06-MAR-2003 | 03-04-2842A | 02
04 | KY | WHITLEY COUNTY* | 21235C0110C | 17-APR-2003 | 03-04-5104V | 19
04 | KY | WORTHINGTON, CITY OF | 2100920001B | 10-JAN-2003 | 03-04-0934A | 02
04 | MS | BOONEVILLE, CITY OF | 280135—06A | 10-APR-2003 | 03-04-4408A | 02
04 | MS | FORREST COUNTY * | 28035C0150C | 13-MAR-2003 | 03-04-3234A | 02
04 | MS | GEORGE COUNTY * | 2802230025B | 31-MAR-2003 | 03-04-0620A | 02
04 | MS | GULFPORT, CITY OF | 2852530035D | 16-JAN-2003 | 03-04-2044A | 02
04 | MS | HINDS COUNTY* | 2800700250D | 06-FEB-2003 | 03-04-1942A | 02
04 | MS | JACKSON, CITY OF | 2800720030F | 26-FEB-2003 | 03-04-0512A | 02
04 | MS | LAUDERDALE COUNTY * | 28075C0085D | 25-APR-2003 | 03-04-4334A | 01
04 | MS | LINCOLN COUNTY | 2802730225B | 06-FEB-2003 | 03-04-2266A | 02
04 | MS | LONG BEACH, CITY OF | 2852570003C | 06-FEB-2003 | 03-04-2784A | 02
04 | MS | MADISON COUNTY * | 28089C0195D | 24-APR-2003 | 03-04-4332A | 02
04 | MS | MADISON, CITY OF | 28089C0310D | 18-APR-2003 | 03-04-4588A | 01
04 | MS | OLIVE BRANCH,CITY OF | 28033C0065E | 19-MAR-2003 | 03-04-021P | 05
04 | MS | OXFORD, CITY OF | 2800930100B | 06-FEB-2003 | 03-04-1554A | 01
04 | MS | PEARL RIVER COUNTY * | 28109C0100D | 13-FEB-2003 | 03-04-1104A | 02
04 | MS | PEARL RIVER VALLEY WATER SUPPLY DIS | 2803380070B | 27-MAR-2003 | 03-04-3916A | 02
04 | MS | RANKIN COUNTY * | 2801420070C | 20-FEB-2003 | 03-04-2850A | 01
04 | MS | RIDGELAND, CITY OF | 28089C0315D | 10-APR-2003 | 02-04-189P | 05
04 | MS | RIDGELAND, CITY OF | 28089C0320D | 03-APR-2003 | 03-04-3474A | 01
04 | MS | RIDGELAND, CITY OF | 28089C0320D | 10-APR-2003 | 02-04-189P | 05
04 | MS | RIDGELAND, CITY OF | 28089C0340D | 03-APR-2003 | 03-04-3474A | 01
04 | MS | SALTILLO, TOWN OF | 28081C0155D | 13-FEB-2003 | 03-04-1092A | 02
04 | MS | SALTILLO, TOWN OF | 28081C0155D | 13-FEB-2003 | 03-04-1292A | 02
04 | MS | SALTILLO, TOWN OF | 28081C0155D | 07-MAR-2003 | 03-04-3428A | 02
04 | MS | SALTILLO, TOWN OF | 28081C0155D | 28-MAR-2003 | 03-04-3110A | 02
04 | MS | SOUTHAVEN, CITY OF | 28033C0035F | 07-FEB-2003 | 03-04-1812A | 02
04 | MS | SOUTHAVEN, CITY OF | 28033C0035F | 10-APR-2003 | 03-04-4486A | 02
04 | MS | SOUTHAVEN, CITY OF | 28033C0041E | 20-MAR-2003 | 03-04-1876A | 02
04 | MS | TUPELO, CITY OF | 28081C0142D | 03-JAN-2003 | 03-04-1634A | 02
04 | MS | TUPELO, CITY OF | 28081C0227D | 02-JAN-2003 | 02-04-8514A | 01
04 | MS | WARREN COUNTY* | 2801980200B | 21-MAR-2003 | 03-04-2408A | 02
04 | NC | ALAMANCE COUNTY* | 37001C0200E | 13-MAR-2003 | 03-04-1204A | 02
04 | NC | ALEXANDER COUNTY* | 3703980003C | 13-MAR-2003 | 03-04-3404A | 02
04 | NC | ALEXANDER COUNTY* | 3703980003C | 24-APR-2003 | 03-04-4384A | 02
04 | NC | ASHE COUNTY * | 37009C0153F | 18-FEB-2003 | 03-04-2388A | 02
04 | NC | ASHEVILLE, CITY OF | 37021C0308C | 15-JAN-2003 | 02-04-485P | 05
04 | NC | AVERY COUNTY * | 3700100100B | 03-FEB-2003 | 03-04-1248A | 02
04 | NC | BEAUFORT COUNTY* | 3700130215B | 31-MAR-2003 | 03-04-3970A | 02
04 | NC | BLADEN COUNTY * | 3702930004B | 07-APR-2003 | 03-04-2524A | 02
04 | NC | BOONE, TOWN OF | 37189C0183E | 20-MAR-2003 | 03-04-3498A | 01
04 | NC | BRUNSWICK COUNTY* | 3702950130C | 31-MAR-2003 | 03-04-3612A | 02
04 | NC | BRUNSWICK COUNTY* | 3702950220C | 19-FEB-2003 | 03-04-111P | 05
04 | NC | BRUNSWICK COUNTY* | 3702950220C | 13-MAR-2003 | 03-04-3530A | 02
04 | NC | BRUNSWICK COUNTY* | 3702950300C | 13-FEB-2003 | 03-04-2238A | 02
04 | NC | BRUNSWICK COUNTY* | 3702950310E | 27-FEB-2003 | 03-04-1418A | 02
04 | NC | BRUNSWICK COUNTY* | 3702950310E | 27-FEB-2003 | 03-04-1420A | 02
04 | NC | BRUNSWICK COUNTY* | 3702950360E | 30-JAN-2003 | 03-04-1426A | 01
04 | NC | BRUNSWICK COUNTY* | 3702950360E | 31-MAR-2003 | 03-04-3750A | 02
04 | NC | BRYSON CITY, TOWN OF | 3702280005B | 31-MAR-2003 | 03-04-3002A | 02
04 | NC | BUNCOMBE COUNTY * | 37021C0326C | 14-APR-2003 | 03-04-1652A | 02
04 | NC | BURKE COUNTY * | 3700340100C | 17-APR-2003 | 03-04-3972A | 02
04 | NC | BURKE COUNTY * | 3700340250C | 03-FEB-2003 | 03-04-2228A | 02
04 | NC | CALDWELL COUNTY * | 37027C00050 | 30-JAN-2003 | 03-04-2394A | 02
04 | NC | CALDWELL COUNTY * | 37027C0045E | 16-JAN-2003 | 03-04-1060A | 01
04 | NC | CALDWELL COUNTY * | 37027C0050D | 16-JAN-2003 | 03-04-1488A | 02
04 | NC | CALDWELL COUNTY * | 37027C0050D | 13-FEB-2003 | 03-04-2346A | 02
04 | NC | CALDWELL COUNTY * | 37027C0050D | 17-APR-2003 | 03-04-5094A | 02
04 | NC | CALDWELL COUNTY * | 37027C0070D | 23-JAN-2003 | 03-04-1080A | 02
04 | NC | CALDWELL COUNTY * | 37027C0085E | 27-FEB-2003 | 03-04-2926A | 02
04 | NC | CARY, TOWN OF | 37183C0293E | 13-FEB-2003 | 03-04-1746A | 02
04 | NC | CARY, TOWN OF | 37183C0293E | 20-FEB-2003 | 03-04-3198A | 02
04 | NC | CARY, TOWN OF | 37183C0512E | 03-MAR-2003 | 03-04-2200A | 02
04 | NC | CATAWBA COUNTY * | 3700500075C | 30-JAN-2003 | 03-04-2348A | 02
04 | NC | CATAWBA COUNTY * | 3700500135B | 03-FEB-2003 | 03-04-2523A | 02
04 | NC | CATAWBA COUNTY * | 3700500200C | 18-FEB-2003 | 03-04-2810A | 02
04 | NC | CATAWBA COUNTY * | 3700500200C | 18-FEB-2003 | 03-04-3004A | 02
04 | NC | CATAWBA COUNTY * | 3700500200C | 03-MAR-2003 | 03-04-3126A | 02
04 | NC | CATAWBA COUNTY * | 3700500200C | 14-APR-2003 | 03-04-4480A | 02
04 | NC | CATAWBA COUNTY * | 3700500280B | 21-APR-2003 | 03-04-5040A | 02
04 | NC | CATAWBA COUNTY * | 3700500325B | 16-JAN-2003 | 03-04-0916A | 02
04 | NC | CATAWBA COUNTY * | 3700500325B | 21-JAN-2003 | 03-04-2028A | 02
04 | NC | CATAWBA COUNTY * | 3700500325B | 03-FEB-2003 | 03-04-1370A | 02
04 | NC | CATAWBA COUNTY * | 3700500325B | 10-FEB-2003 | 03-04-2630A | 02
04 | NC | CATAWBA COUNTY * | 3700500325B | 13-FEB-2003 | 03-04-2672A | 02
04 | NC | CATAWBA COUNTY * | 3700500325B | 13-FEB-2003 | 03-04-2680A | 02
04 | NC | CATAWBA COUNTY * | 3700500325B | 27-FEB-2003 | 03-04-3202A | 02
04 | NC | CATAWBA COUNTY * | 3700500325B | 03-MAR-2003 | 03-04-3204A | 02
04 | NC | CATAWBA COUNTY * | 3700500325B | 10-MAR-2003 | 03-04-2860A | 02
04 | NC | CATAWBA COUNTY * | 3700500325B | 20-MAR-2003 | 03-04-3556A | 02
04 | NC | CATAWBA COUNTY * | 3700500325B | 20-MAR-2003 | 03-04-3560A | 02
04 | NC | CATAWBA COUNTY * | 3700500325B | 03-APR-2003 | 03-04-4298A | 02
04 | NC | CATAWBA COUNTY * | 3700500325B | 07-APR-2003 | 03-04-4022A | 02
04 | NC | CATAWBA COUNTY * | 3700500325B | 21-APR-2003 | 03-04-5042A | 02
04 | NC | CATAWBA COUNTY * | 3700500325B | 28-APR-2003 | 03-04-4196A | 02
04 | NC | CATAWBA COUNTY * | 3700500350C | 02-JAN-2003 | 03-04-1020A | 02
04 | NC | CATAWBA COUNTY * | 3700500350C | 02-JAN-2003 | 03-04-1160A | 02
04 | NC | CATAWBA COUNTY * | 3700500350C | 08-JAN-2003 | 03-04-0598A | 02
04 | NC | CATAWBA COUNTY * | 3700500350C | 16-JAN-2003 | 03-04-0518A | 02
04 | NC | CATAWBA COUNTY * | 3700500350C | 16-JAN-2003 | 03-04-1136A | 02
04 | NC | CATAWBA COUNTY * | 3700500350C | 16-JAN-2003 | 03-04-1350A | 02
04 | NC | CATAWBA COUNTY * | 3700500350C | 16-JAN-2003 | 03-04-1368A | 02
04 | NC | CATAWBA COUNTY * | 3700500350C | 16-JAN-2003 | 03-04-1372A | 02
04 | NC | CATAWBA COUNTY * | 3700500350C | 16-JAN-2003 | 03-04-1646A | 02
04 | NC | CATAWBA COUNTY * | 3700500350C | 23-JAN-2003 | 03-04-2236A | 02
04 | NC | CATAWBA COUNTY * | 3700500350C | 03-FEB-2003 | 03-04-1352A | 02
04 | NC | CATAWBA COUNTY * | 3700500350C | 27-FEB-2003 | 03-04-3124A | 02
04 | NC | CATAWBA COUNTY * | 3700500350C | 17-MAR-2003 | 03-04-3398A | 02
04 | NC | CATAWBA COUNTY * | 3700500350C | 17-MAR-2003 | 03-04-3400A | 02
04 | NC | CATAWBA COUNTY * | 3700500350C | 20-MAR-2003 | 03-04-3558A | 02
04 | NC | CATAWBA COUNTY * | 3700500350C | 10-APR-2003 | 03-04-4020A | 02
04 | NC | CATAWBA COUNTY * | 3700500350C | 17-APR-2003 | 03-04-5096A | 02
04 | NC | CHARLOTTE, CITY OF | 3401590029B | 08-JAN-2003 | 03-04-1650A | 01
04 | NC | CHARLOTTE, CITY OF | 3701580185B | 17-APR-2003 | 03-04-3748A | 01
04 | NC | CHARLOTTE, CITY OF | 3701580190B | 08-JAN-2003 | 03-04-1650A | 02
04 | NC | CHARLOTTE, CITY OF | 3701590026B | 16-JAN-2003 | 03-04-1428A | 02
04 | NC | CONOVER, TOWN OF | 3700530001B | 16-JAN-2003 | 03-04-0724A | 02
04 | NC | CORNELIUS, TOWN OF | 3704980005A | 02-JAN-2003 | 03-04-1354A | 02
04 | NC | CORNELIUS, TOWN OF | 3704980005A | 02-JAN-2003 | 03-04-1792A | 02
04 | NC | CORNELIUS, TOWN OF | 3704980005A | 08-JAN-2003 | 03-04-1640A | 02
04 | NC | CORNELIUS, TOWN OF | 3704980005A | 21-JAN-2003 | 03-04-1016A | 02
04 | NC | CORNELIUS, TOWN OF | 3704980005A | 27-FEB-2003 | 03-04-1436A | 02
04 | NC | CORNELIUS, TOWN OF | 3704980005A | 06-MAR-2003 | 03-04-3252A | 02
04 | NC | CORNELIUS, TOWN OF | 3704980005A | 06-MAR-2003 | 03-04-3254A | 02
04 | NC | CORNELIUS, TOWN OF | 3704980005A | 06-MAR-2003 | 03-04-3296A | 02
04 | NC | CORNELIUS, TOWN OF | 3704980005A | 31-MAR-2003 | 03-04-3064A | 02
04 | NC | CORNELIUS, TOWN OF | 3704980005A | 31-MAR-2003 | 03-04-4018A | 02
04 | NC | CORNELIUS, TOWN OF | 3704980005A | 21-APR-2003 | 03-04-5044A | 02
04 | NC | CRAVEN COUNTY* | 3700720305B | 13-FEB-2003 | 03-04-2352A | 02
04 | NC | CRAVEN COUNTY* | 3700720330B | 03-FEB-2003 | 03-04-2208A | 02
04 | NC | CRAVEN COUNTY* | 3700720330B | 03-APR-2003 | 03-04-4166A | 02
04 | NC | CURRITUCK COUNTY * | 3700780070C | 31-MAR-2003 | 03-04-3610A | 02
04 | NC | CURRITUCK COUNTY * | 3700780201D | 14-APR-2003 | 03-04-3394A | 02
04 | NC | DALLAS, TOWN OF | 37071C0191E | 04-MAR-2003 | 03-04-3210V | 19
04 | NC | DARE COUNTY* | 3753480810E | 21-FEB-2003 | 03-04-101P | 05
04 | NC | DAVIDSON COUNTY * | 35057C0300D | 07-APR-2003 | 03-04-1644A | 02
04 | NC | DAVIDSON COUNTY * | 37057C0285D | 13-FEB-2003 | 03-04-2670A | 02
04 | NC | DAVIDSON COUNTY * | 37057C0285D | 03-APR-2003 | 03-04-3448A | 02
04 | NC | DAVIDSON COUNTY * | 37057C0285D | 07-APR-2003 | 03-04-4034A | 02
04 | NC | DAVIDSON COUNTY * | 37057C0300D | 10-JAN-2003 | 03-04-0728A | 02
04 | NC | DAVIDSON COUNTY * | 37057C0300D | 16-JAN-2003 | 03-04-1638A | 02
04 | NC | DAVIDSON COUNTY * | 37057C0300D | 03-MAR-2003 | 03-04-2864A | 02
04 | NC | DAVIDSON COUNTY * | 37057C0300D | 31-MAR-2003 | 03-04-3608A | 02
04 | NC | DAVIDSON COUNTY * | 37057C0325D | 02-JAN-2003 | 03-04-0596A | 02
04 | NC | DAVIDSON COUNTY * | 37057C0325D | 20-FEB-2003 | 03-04-3066A | 02
04 | NC | DAVIDSON COUNTY * | 37057C0400D | 03-JAN-2003 | 03-04-0204A | 02
04 | NC | DAVIDSON COUNTY * | 37057C0400D | 16-JAN-2003 | 03-04-0408A | 02
04 | NC | DAVIDSON COUNTY * | 37057C0400D | 16-JAN-2003 | 03-04-1804A | 02
04 | NC | DAVIE COUNTY * | 3703080045C | 17-MAR-2003 | 03-04-3298A | 02
04 | NC | DUPLIN COUNTY * | 3700830100B | 03-MAR-2003 | 03-04-3672A | 02
04 | NC | DUPLIN COUNTY * | 3700830175B | 03-FEB-2003 | 03-04-2494A | 02
04 | NC | DUPLIN COUNTY * | 3700830200B | 16-JAN-2003 | 03-04-1192A | 02
04 | NC | DUPLIN COUNTY * | 3700830220B | 31-MAR-2003 | 03-04-3966A | 02
04 | NC | DUPLIN COUNTY * | 3700830236B | 16-JAN-2003 | 03-04-1084A | 02
04 | NC | DUPLIN COUNTY * | 3700830236B | 30-JAN-2003 | 03-04-2386A | 02
04 | NC | DURHAM, CITY OF | 37063C0068G | 21-MAR-2003 | 03-04-053P | 05
04 | NC | DURHAM, CITY OF | 37063C0166H | 23-JAN-2003 | 03-04-1810A | 02
04 | NC | EASTERN BAND OF CHEROKEE INDIANS | 3704010014B | 03-FEB-2003 | 03-04-019P | 05
04 | NC | FAYETTEVILLE, CITY OF | 3700770009D | 17-APR-2003 | 03-04-1768A | 02
04 | NC | FAYETTEVILLE, CITY OF | 3700770014C | 13-FEB-2003 | 03-04-2302A | 01
04 | NC | FRANKLIN COUNTY* | 37069C0355D | 03-APR-2003 | 03-04-1582A | 02
04 | NC | FRANKLIN COUNTY* | 37069C0400D | 16-JAN-2003 | 03-04-0900A | 02
04 | NC | FRANKLINVILLE, TOWN OF | 370197—01B | 16-JAN-2003 | 03-04-0040A | 01
04 | NC | GASTON COUNTY * | 37071C0063E | 04-MAR-2003 | 03-04-3208V | 19
04 | NC | GASTON COUNTY * | 37071C0184E | 04-MAR-2003 | 03-04-3208V | 19
04 | NC | GASTON COUNTY * | 37071C0209E | 04-MAR-2003 | 03-04-3208V | 19
04 | NC | GASTON COUNTY * | 37071C0216E | 04-MAR-2003 | 03-04-3208V | 19
04 | NC | GASTON COUNTY * | 37071C0230E | 04-MAR-2003 | 03-04-3208V | 19
04 | NC | GASTON COUNTY * | 37071C0303E | 04-MAR-2003 | 03-04-3208V | 19
04 | NC | GASTON COUNTY * | 37071C0307E | 04-MAR-2003 | 03-04-3208V | 19
04 | NC | GASTON COUNTY * | 37071C0308E | 04-MAR-2003 | 03-04-3208V | 19
04 | NC | GASTONIA, CITY OF | 37071C0194E | 04-MAR-2003 | 03-04-3212V | 19
04 | NC | GASTONIA, CITY OF | 37071C0277E | 04-MAR-2003 | 03-04-3212V | 19
04 | NC | GASTONIA, CITY OF | 37071C0281E | 04-MAR-2003 | 03-04-3212V | 19
04 | NC | GASTONIA, CITY OF | 37071C0282E | 04-MAR-2003 | 03-04-3212V | 19
04 | NC | GASTONIA, CITY OF | 37071C0283E | 07-APR-2003 | 03-04-4158A | 02
04 | NC | GASTONIA, CITY OF | 37071C0284E | 04-MAR-2003 | 03-04-3212V | 19
04 | NC | GOLDSBORO, CITY OF | 3702550010C | 10-APR-2003 | 03-04-2664A | 01
04 | NC | GRANVILLE COUNTY* | 37077C0075C | 20-MAR-2003 | 03-04-3098A | 02
04 | NC | GREENSBORO, CITY OF | 3753510002C | 17-APR-2003 | 03-04-5400A | 01
04 | NC | GREENSBORO, CITY OF | 3753510018C | 13-FEB-2003 | 03-04-1808A | 02
04 | NC | GREENSBORO, CITY OF | 3753510019D | 24-JAN-2003 | 02-04-0149P | 08
04 | NC | GREENVILLE, CITY OF | 3701910010B | 03-FEB-2003 | 03-04-1904A | 02
04 | NC | GREENVILLE, CITY OF | 3701910010B | 20-FEB-2003 | 03-04-1806A | 02
04 | NC | HALIFAX COUNTY * | 3073270005B | 03-APR-2003 | 03-04-3974AD | 02
04 | NC | HALIFAX COUNTY * | 3703270005B | 07-APR-2003 | 03-04-4454A | 02
04 | NC | HALIFAX COUNTY * | 3703270010B | 17-MAR-2003 | 03-04-3506A | 02
04 | NC | HARNETT COUNTY * | 37085C0105D | 17-MAR-2003 | 03-04-1348A | 02
04 | NC | HAYWOOD COUNTY* | 3701200135B | 24-APR-2003 | 03-04-5038A | 02
04 | NC | HAYWOOD COUNTY* | 3701200160C | 17-APR-2003 | 03-04-4036A | 01
04 | NC | HICKORY, CITY OF | 3700540005B | 16-JAN-2003 | 03-04-1082A | 02
04 | NC | HICKORY, CITY OF | 3700540005B | 16-JAN-2003 | 03-04-1172A | 02
04 | NC | HICKORY, CITY OF | 3700540005B | 17-APR-2003 | 03-04-5190A | 02
04 | NC | HICKORY, CITY OF | 3700540015B | 17-MAR-2003 | 03-04-3396A | 02
04 | NC | HIGH POINT, CITY OF | 3701130003C | 14-APR-2003 | 03-04-4726A | 02
04 | NC | INDIAN TRAIL, TOWN OF | 37179C0015D | 13-FEB-2003 | 03-04-2422A | 02
04 | NC | IREDELL COUNTY * | 3703130150C | 02-JAN-2003 | 03-04-0716A | 02
04 | NC | IREDELL COUNTY * | 3703130150C | 17-APR-2003 | 03-04-3072A | 02
04 | NC | IREDELL COUNTY * | 3703130200C | 23-JAN-2003 | 03-04-1374A | 02
04 | NC | IREDELL COUNTY * | 3703130200C | 13-FEB-2003 | 03-04-2674A | 02
04 | NC | IREDELL COUNTY * | 3703130200C | 20-MAR-2003 | 03-04-2118A | 02
04 | NC | IREDELL COUNTY * | 3703130200C | 28-MAR-2003 | 03-04-213P | 05
04 | NC | IREDELL COUNTY * | 3703130200C | 21-APR-2003 | 03-04-2384A | 02
04 | NC | IREDELL COUNTY * | 3703130200C | 21-APR-2003 | 03-04-4940A | 02
04 | NC | JOHNSTON COUNTY * | 37101C0015D | 13-FEB-2003 | 03-04-1988A | 02
04 | NC | JOHNSTON COUNTY * | 37101C0255D | 13-FEB-2003 | 03-04-2032A | 02
04 | NC | JONES COUNTY * | 37103C0095C | 08-JAN-2003 | 03-04-0358A | 02
04 | NC | KINSTON, CITY OF | 3701450005C | 10-FEB-2003 | 03-04-2120A | 02
04 | NC | KITTY HAWK, TOWN OF | 3704390002D | 31-MAR-2003 | 03-04-3862A | 02
04 | NC | LEE COUNTY * | 37105C0050B | 06-MAR-2003 | 03-04-1628A | 02
04 | NC | LENOIR, CITY OF | 37027C0078D | 21-JAN-2003 | 03-04-2034A | 01
04 | NC | LINCOLN COUNTY * | 3701460075C | 03-FEB-2003 | 03-04-2522A | 02
04 | NC | LINCOLN COUNTY * | 3701460075C | 31-MAR-2003 | 03-04-3804A | 02
04 | NC | LONG BEACH, TOWN OF | 3753540003D | 16-JAN-2003 | 03-04-0414A | 02
04 | NC | LUMBERTON, CITY OF | 37155C0178D | 07-APR-2003 | 03-04-4436A | 02
04 | NC | LUMBERTON, CITY OF | 37155C0179D | 28-APR-2003 | 03-04-4038A | 02
04 | NC | LUMBERTON, CITY OF | 37155C0180D | 17-MAR-2003 | 03-04-2628A | 02
04 | NC | LUMBERTON, CITY OF | 37155C0186D | 17-MAR-2003 | 03-04-3866A | 02
04 | NC | MAGGIE VALLEY, TOWN OF | 3703890001B | 31-MAR-2003 | 03-04-3250A | 17
04 | NC | MECKLENBURG COUNTY * | 3701580030D | 03-FEB-2003 | 03-04-2232A | 02
04 | NC | MECKLENBURG COUNTY * | 3701580170C | 10-APR-2003 | 03-04-4296A | 02
04 | NC | MECKLENBURG COUNTY * | 3701580185B | 31-MAR-2003 | 03-04-3496A | 01
04 | NC | MONTGOMERY COUNTY* | 3703360025B | 02-JAN-2003 | 03-04-0038A | 02
04 | NC | MONTGOMERY COUNTY* | 3703360025B | 02-JAN-2003 | 03-04-0722A | 02
04 | NC | MONTGOMERY COUNTY* | 3703360025B | 16-JAN-2003 | 03-04-1636A | 02
04 | NC | MONTGOMERY COUNTY* | 3703360025B | 30-JAN-2003 | 03-04-0726A | 02
04 | NC | MONTGOMERY COUNTY* | 3703360025B | 13-FEB-2003 | 03-04-2658A | 02
04 | NC | MONTGOMERY COUNTY* | 3703360025B | 13-FEB-2003 | 03-04-2660A | 02
04 | NC | MONTGOMERY COUNTY* | 3703360025B | 18-FEB-2003 | 03-04-2788A | 02
04 | NC | MONTGOMERY COUNTY* | 3703360025B | 18-FEB-2003 | 03-04-3000A | 02
04 | NC | MONTGOMERY COUNTY* | 3703360025B | 31-MAR-2003 | 03-04-3968A | 02
04 | NC | MONTGOMERY COUNTY* | 3703360025B | 10-APR-2003 | 03-04-4294A | 02
04 | NC | MONTGOMERY COUNTY* | 3703360065B | 06-MAR-2003 | 03-04-3096A | 02
04 | NC | MOUNT HOLLY, CITY OF | 37071C0217E | 04-MAR-2003 | 03-04-3206V | 19
04 | NC | NAGS HEAD, TOWN OF | 3753560002F | 17-APR-2003 | 03-04-2600A | 18
04 | NC | NAGS HEAD, TOWN OF | 3753560008D | 17-APR-2003 | 03-04-3300A | 18
04 | NC | NEW BERN, CITY OF | 3700720320B | 17-MAR-2003 | 03-04-3222A | 02
04 | NC | NEW HANOVER COUNTY* | 3701680040D | 17-MAR-2003 | 03-04-4032A | 02
04 | NC | NEW HANOVER COUNTY* | 3701680045E | 03-MAR-2003 | 03-04-3128A | 02
04 | NC | NEW HANOVER COUNTY* | 3701680045E | 07-APR-2003 | 03-04-2814A | 02
04 | NC | NEW HANOVER COUNTY* | 3701680085E | 14-APR-2003 | 03-04-4744A | 02
04 | NC | NEWTON, CITY OF | 3700570005B | 23-JAN-2003 | 03-04-0920A | 02
04 | NC | NEWTON, CITY OF | 3700570005B | 14-APR-2003 | 03-04-3806A | 02
04 | NC | NORTHAMPTON COUNTY* | 3701730005C | 06-MAR-2003 | 03-04-3200A | 02
04 | NC | NORWOOD, TOWN OF | 37167C0275D | 21-JAN-2003 | 03-04-1202A | 02
04 | NC | OAK ISLAND, TOWN OF | 3753540003D | 16-JAN-2003 | 03-04-0034A | 02
04 | NC | OCEAN ISLE BEACH, TOWN OF | 3753570003C | 30-JAN-2003 | 03-04-1430A | 02
04 | NC | ONSLOW COUNTY* | 3703400180C | 17-MAR-2003 | 03-04-3450A | 02
04 | NC | ONSLOW COUNTY* | 3703400300C | 27-MAR-2003 | 03-04-3070A | 02
04 | NC | ONSLOW COUNTY* | 3703400315C | 10-APR-2003 | 03-04-4160A | 02
04 | NC | ONSLOW COUNTY* | 3703400360C | 14-APR-2003 | 03-04-4524A | 02
04 | NC | ONSLOW COUNTY* | 3703400460C | 10-APR-2003 | 03-04-4226A | 02
04 | NC | PAMLICO COUNTY* | 3701810145B | 24-MAR-2003 | 03-04-1424A | 02
04 | NC | PENDER COUNTY* | 3703440394B | 27-FEB-2003 | 03-04-3068A | 02
04 | NC | PENDER COUNTY* | 3703440525C | 23-JAN-2003 | 03-04-1642A | 02
04 | NC | PERQUIMANS COUNTY* | 3703150105B | 20-FEB-2003 | 03-04-2862A | 02
04 | NC | PLYMOUTH, TOWN OF | 3702490003C | 10-APR-2003 | 03-04-4224A | 02
04 | NC | RALEIGH, CITY OF | 37183C0160E | 03-FEB-2003 | 03-04-1944A | 01
04 | NC | RALEIGH, CITY OF | 37183C0328E | 20-FEB-2003 | 03-04-2226A | 01
04 | NC | RALEIGH, CITY OF | 37183C0329E | 31-MAR-2003 | 03-04-2668A | 01
04 | NC | RALEIGH, CITY OF | 37183C0352E | 03-MAR-2003 | 03-04-4028A | 02
04 | NC | RALEIGH, CITY OF | 37183C0526E | 30-JAN-2003 | 02-04-389P | 05
04 | NC | RALEIGH, CITY OF | 37183C0527E | 30-JAN-2003 | 02-04-389P | 05
04 | NC | RALEIGH, CITY OF | 37183C0531E | 30-JAN-2003 | 02-04-389P | 05
04 | NC | RANDOLPH COUNTY * | 3701950150B | 20-MAR-2003 | 03-04-2954A | 02
04 | NC | ROCKY MOUNT, CITY OF | 3700920004C | 10-APR-2003 | 03-04-2224A | 02
04 | NC | ROCKY MOUNT, CITY OF | 3700920005C | 30-JAN-2003 | 03-04-1654A | 02
04 | NC | SOUTHERN SHORES, TOWN OF | 3704300002C | 27-FEB-2003 | 03-04-3074A | 02
04 | NC | STANLY COUNTY * | 37167C0075D | 10-MAR-2003 | 03-04-3318A | 02
04 | NC | STANLY COUNTY * | 37167C0175D | 02-JAN-2003 | 03-04-1246A | 02
04 | NC | STANLY COUNTY * | 37167C0175D | 21-JAN-2003 | 03-04-1974A | 02
04 | NC | STANLY COUNTY * | 37167C0175D | 20-FEB-2003 | 03-04-2858A | 02
04 | NC | STANLY COUNTY * | 37167C0175D | 17-MAR-2003 | 03-04-3402A | 02
04 | NC | STATESVILLE, CITY OF | 3701350003A | 06-FEB-2003 | 03-04-2906A | 01
04 | NC | TRANSYLVANIA COUNTY * | 37175C0165C | 23-JAN-2003 | 03-04-1124A | 02
04 | NC | UNION COUNTY * | 37179C0020C | 20-FEB-2003 | 03-04-2790A | 02
04 | NC | UNION COUNTY * | 37179C0090C | 16-JAN-2003 | 03-04-0902A | 02
04 | NC | WAKE FOREST, TOWN OF | 37183C0177E | 16-JAN-2003 | 03-04-1560A | 01
04 | NC | WARREN COUNTY* | 3703960002C | 02-JAN-2003 | 03-04-1158A | 02
04 | NC | WARREN COUNTY* | 3703960002C | 03-JAN-2003 | 03-04-0526A | 02
04 | NC | WARREN COUNTY* | 3703960002C | 10-JAN-2003 | 03-04-1574A | 02
04 | NC | WARREN COUNTY* | 3703960002C | 10-JAN-2003 | 03-04-1794A | 02
04 | NC | WARREN COUNTY* | 3703960002C | 10-JAN-2003 | 03-04-1796A | 02
04 | NC | WARREN COUNTY* | 3703960002C | 10-JAN-2003 | 03-04-1798A | 02
04 | NC | WARREN COUNTY* | 3703960002C | 10-JAN-2003 | 03-04-1820A | 02
04 | NC | WARREN COUNTY* | 3703960002C | 16-JAN-2003 | 03-04-0476A | 02
04 | NC | WARREN COUNTY* | 3703960002C | 16-JAN-2003 | 03-04-0600A | 02
04 | NC | WARREN COUNTY* | 3703960002C | 16-JAN-2003 | 03-04-0914A | 02
04 | NC | WARREN COUNTY* | 3703960002C | 16-JAN-2003 | 03-04-1252A | 02
04 | NC | WARREN COUNTY* | 3703960002C | 16-JAN-2003 | 03-04-1486A | 02
04 | NC | WARREN COUNTY* | 3703960002C | 16-JAN-2003 | 03-04-1800A | 02
04 | NC | WARREN COUNTY* | 3703960002C | 16-JAN-2003 | 03-04-1874A | 02
04 | NC | WARREN COUNTY* | 3703960002C | 16-JAN-2003 | 03-04-2122A | 02
04 | NC | WARREN COUNTY* | 3703960002C | 16-JAN-2003 | 03-04-2240A | 02
04 | NC | WARREN COUNTY* | 3703960002C | 21-JAN-2003 | 03-04-1516A | 02
04 | NC | WARREN COUNTY* | 3703960002C | 21-JAN-2003 | 03-04-1872A | 02
04 | NC | WARREN COUNTY* | 3703960002C | 23-JAN-2003 | 03-04-2212A | 02
04 | NC | WARREN COUNTY* | 3703960002C | 23-JAN-2003 | 03-04-2354A | 02
04 | NC | WARREN COUNTY* | 3703960002C | 23-JAN-2003 | 03-04-2446A | 02
04 | NC | WARREN COUNTY* | 3703960002C | 23-JAN-2003 | 03-04-2490A | 02
04 | NC | WARREN COUNTY* | 3703960002C | 23-JAN-2003 | 03-04-2530A | 02
04 | NC | WARREN COUNTY* | 3703960002C | 23-JAN-2003 | 03-04-2596A | 02
04 | NC | WARREN COUNTY* | 3703960002C | 30-JAN-2003 | 03-04-0042A | 02
04 | NC | WARREN COUNTY* | 3703960002C | 30-JAN-2003 | 03-04-1086A | 02
04 | NC | WARREN COUNTY* | 3703960002C | 30-JAN-2003 | 03-04-2528A | 02
04 | NC | WARREN COUNTY* | 3703960002C | 30-JAN-2003 | 03-04-2678A | 02
04 | NC | WARREN COUNTY* | 3703960002C | 13-FEB-2003 | 03-04-2808A | 02
04 | NC | WARREN COUNTY* | 3703960002C | 18-FEB-2003 | 03-04-2320A | 02
04 | NC | WARREN COUNTY* | 3703960002C | 18-FEB-2003 | 03-04-2632A | 02
04 | NC | WARREN COUNTY* | 3703960002C | 18-FEB-2003 | 03-04-2928A | 02
04 | NC | WARREN COUNTY* | 3703960002C | 20-FEB-2003 | 03-04-2030A | 02
04 | NC | WARREN COUNTY* | 3703960002C | 24-FEB-2003 | 03-04-2624A | 02
04 | NC | WARREN COUNTY* | 3703960002C | 06-MAR-2003 | 03-04-2676A | 02
04 | NC | WARREN COUNTY* | 3703960002C | 06-MAR-2003 | 03-04-3130A | 02
04 | NC | WARREN COUNTY* | 3703960002C | 06-MAR-2003 | 03-04-3218A | 02
04 | NC | WARREN COUNTY* | 3703960002C | 06-MAR-2003 | 03-04-3408A | 02
04 | NC | WARREN COUNTY* | 3703960002C | 06-MAR-2003 | 03-04-3410A | 02
04 | NC | WARREN COUNTY* | 3703960002C | 06-MAR-2003 | 03-04-3412A | 02
04 | NC | WARREN COUNTY* | 3703960002C | 10-MAR-2003 | 03-04-2026A | 02
04 | NC | WARREN COUNTY* | 3703960002C | 10-MAR-2003 | 03-04-3948A | 02
04 | NC | WARREN COUNTY* | 3703960002C | 17-MAR-2003 | 03-04-2868A | 02
04 | NC | WARREN COUNTY* | 3703960002C | 17-MAR-2003 | 03-04-3320A | 02
04 | NC | WARREN COUNTY* | 3703960002C | 17-MAR-2003 | 03-04-3752A | 02
04 | NC | WARREN COUNTY* | 3703960002C | 17-MAR-2003 | 03-04-3868A | 02
04 | NC | WARREN COUNTY* | 3703960002C | 20-MAR-2003 | 03-04-4526A | 02
04 | NC | WARREN COUNTY* | 3703960002C | 24-MAR-2003 | 03-04-3248A | 02
04 | NC | WARREN COUNTY* | 3703960002C | 31-MAR-2003 | 03-04-1062A | 02
04 | NC | WARREN COUNTY* | 3703960002C | 31-MAR-2003 | 03-04-2058A | 02
04 | NC | WARREN COUNTY* | 3703960002C | 31-MAR-2003 | 03-04-3302A | 02
04 | NC | WARREN COUNTY* | 3703960002C | 31-MAR-2003 | 03-04-3570A | 02
04 | NC | WARREN COUNTY* | 3703960002C | 31-MAR-2003 | 03-04-3976A | 02
04 | NC | WARREN COUNTY* | 3703960002C | 31-MAR-2003 | 03-04-4170A | 02
04 | NC | WARREN COUNTY* | 3703960002C | 03-APR-2003 | 03-04-3974A | 02
04 | NC | WARREN COUNTY* | 3703960002C | 07-APR-2003 | 03-04-3044A | 02
04 | NC | WARREN COUNTY* | 3703960002C | 07-APR-2003 | 03-04-4418A | 02
04 | NC | WARREN COUNTY* | 3703960002C | 10-APR-2003 | 03-04-4666A | 02
04 | NC | WARREN COUNTY* | 3703960002C | 14-APR-2003 | 03-04-4024A | 02
04 | NC | WARREN COUNTY* | 3703960002C | 17-APR-2003 | 03-04-2806A | 02
04 | NC | WARREN COUNTY* | 3703960002C | 17-APR-2003 | 03-04-5000A | 02
04 | NC | WARREN COUNTY* | 3703960002C | 17-APR-2003 | 03-04-5412A | 02
04 | NC | WARREN COUNTY* | 3703960002C | 17-APR-2003 | 03-04-5414A | 02
04 | NC | WARREN COUNTY* | 3703960002C | 28-APR-2003 | 03-04-3062A | 02
04 | NC | WASHINGTON, CITY OF | 3700170006C | 18-FEB-2003 | 03-04-1902A | 02
04 | NC | WAYNE COUNTY* | 3702540025C | 17-MAR-2003 | 03-04-1790A | 02
04 | NC | WILMINGTON, CITY OF | 3701680105D | 16-JAN-2003 | 03-04-0364A | 02
04 | NC | WILMINGTON, CITY OF | 3701710010B | 24-MAR-2003 | 03-04-2520A | 02
04 | NC | WILMINGTON, CITY OF | 3701710010B | 10-APR-2003 | 03-04-4698A | 02
04 | NC | WINSTON-SALEM, CITY OF | 37067C0139H | 14-APR-2003 | 03-04-4846A | 02
04 | SC | AIKEN COUNTY* | 4500020040B | 24-APR-2003 | 03-04-4530A | 02
04 | SC | AIKEN COUNTY* | 4500020250B | 28-MAR-2003 | 03-04-219P | 05
04 | SC | ANDERSON COUNTY * | 4500130200B | 20-MAR-2003 | 03-04-2646A | 02
04 | SC | ANDERSON COUNTY * | 4500130370B | 06-MAR-2003 | 03-04-1028A | 02
04 | SC | BEAUFORT COUNTY* | 4500250095D | 06-MAR-2003 | 03-04-3242A | 02
04 | SC | BERKELEY COUNTY * | 4500290290C | 20-MAR-2003 | 03-04-3132A | 02
04 | SC | BERKELEY COUNTY * | 4500290290C | 31-MAR-2003 | 03-04-3452A | 02
04 | SC | BERKELEY COUNTY * | 4500290290C | 03-APR-2003 | 03-04-3738A | 02
04 | SC | CHARLESTON COUNTY* | 4554130225G | 24-FEB-2003 | 03-04-2588A | 02
04 | SC | CHARLESTON COUNTY* | 4554130400F | 23-JAN-2003 | 03-04-0844A | 02
04 | SC | CLARENDON COUNTY * | 4500510225B | 21-JAN-2003 | 03-04-1992A | 02
04 | SC | CLARENDON COUNTY * | 4500510225B | 13-MAR-2003 | 03-04-4054A | 02
04 | SC | CLARENDON COUNTY * | 4500510225B | 24-APR-2003 | 03-04-4308A | 02
04 | SC | EDGEFIELD COUNTY * | 4502290145C | 21-JAN-2003 | 03-04-0886A | 02
04 | SC | FOREST ACRES, CITY OF | 45079C0113G | 10-MAR-2003 | 03-04-3652A | 02
04 | SC | FORT MILL, TOWN OF | 4501950001B | 24-MAR-2003 | 03-04-1686A | 02
04 | SC | GOOSE CREEK, CITY OF | 4500290290C | 21-JAN-2003 | 03-04-1926A | 02
04 | SC | GOOSE CREEK, CITY OF | 4500290290C | 03-FEB-2003 | 03-04-2324A | 02
04 | SC | GREENVILLE COUNTY * | 4500890165B | 17-APR-2003 | 03-04-4274A | 02
04 | SC | GREENVILLE COUNTY * | 4500890185B | 24-APR-2003 | 03-04-2912A | 01
04 | SC | GREER, CITY OF | 4500890165B | 03-APR-2003 | 03-04-3510A | 01
04 | SC | HORRY COUNTY * | 45051C0582H | 27-FEB-2003 | 03-04-2704A | 01
04 | SC | HORRY COUNTY * | 45051C0601H | 27-FEB-2003 | 03-04-2704A | 01
04 | SC | HORRY COUNTY * | 45051C0665H | 20-MAR-2003 | 03-04-2918A | 02
04 | SC | KERSHAW COUNTY * | 45055C0394D | 17-MAR-2003 | 03-04-3274A | 02
04 | SC | KINGSTREE, TOWN OF | 450190 B | 06-MAR-2003 | 03-04-1266A | 02
04 | SC | LEXINGTON COUNTY * | 45063C0113G | 17-APR-2003 | 03-04-4056A | 02
04 | SC | LEXINGTON COUNTY * | 45063C0137G | 10-MAR-2003 | 03-04-4200A | 02
04 | SC | LEXINGTON COUNTY * | 45063C0142G | 16-JAN-2003 | 03-04-1168A | 02
04 | SC | LEXINGTON COUNTY * | 45063C0232G | 20-MAR-2003 | 03-04-3034A | 02
04 | SC | LEXINGTON COUNTY * | 45063C0258G | 16-JAN-2003 | 03-04-1194A | 02
04 | SC | LEXINGTON COUNTY * | 45063C0258G | 16-JAN-2003 | 03-04-1196A | 02
04 | SC | NEWBERRY COUNTY* | 4502240225B | 06-FEB-2003 | 03-04-2532A | 02
04 | SC | NEWBERRY COUNTY* | 4502240225B | 31-MAR-2003 | 03-04-3554A | 02
04 | SC | NEWBERRY COUNTY* | 4502240225B | 31-MAR-2003 | 03-04-3758A | 02
04 | SC | NEWBERRY, CITY OF | 4501530002B | 13-FEB-2003 | 03-04-2634A | 02
04 | SC | NORTH AUGUSTA, CITY OF | 4500070010D | 03-FEB-2003 | 03-04-1738A | 01
04 | SC | RICHLAND COUNTY* | 45079C0025H | 10-JAN-2003 | 03-04-1784A | 02
04 | SC | RICHLAND COUNTY* | 45079C0025H | 16-JAN-2003 | 03-04-0602A | 02
04 | SC | RICHLAND COUNTY* | 45079C0025H | 23-JAN-2003 | 03-04-1968A | 02
04 | SC | RICHLAND COUNTY* | 45079C0025H | 17-MAR-2003 | 03-04-3418A | 02
04 | SC | RICHLAND COUNTY* | 45079C0025H | 14-APR-2003 | 03-04-4272A | 02
04 | SC | RICHLAND COUNTY* | 45079C0025H | 14-APR-2003 | 03-04-4386A | 02
04 | SC | RICHLAND COUNTY* | 45079C0025H | 17-APR-2003 | 03-04-4668A | 02
04 | SC | RICHLAND COUNTY* | 45079C0025H | 28-APR-2003 | 03-04-4894A | 02
04 | SC | RICHLAND COUNTY* | 45079C0111G | 10-APR-2003 | 03-04-4536A | 02
04 | SC | ROCK HILL, CITY OF | 4501960004C | 21-JAN-2003 | 03-04-2730A | 01
04 | SC | ROCK HILL, CITY OF | 4501960004C | 21-JAN-2003 | 03-04-2732A | 01
04 | SC | SALUDA COUNTY* | 4502300002B | 02-JAN-2003 | 03-04-1314A | 02
04 | SC | SALUDA COUNTY* | 4502300002B | 03-FEB-2003 | 03-04-2062A | 02
04 | SC | SALUDA COUNTY* | 4502300002B | 13-FEB-2003 | 03-04-2602A | 02
04 | SC | SALUDA COUNTY* | 4502300002B | 06-MAR-2003 | 03-04-3918A | 02
04 | SC | SALUDA COUNTY* | 4502300002B | 31-MAR-2003 | 03-04-3794A | 02
04 | SC | SIMPSONVILLE, CITY OF | 4500920005B | 06-MAR-2003 | 03-04-2840A | 02
04 | SC | SIMPSONVILLE, CITY OF | 4500920005B | 17-MAR-2003 | 03-04-3094A | 02
04 | SC | SPARTANBURG COUNTY * | 4501760075B | 27-MAR-2003 | 03-04-2702A | 02
04 | SC | SPARTANBURG COUNTY * | 4501760075B | 31-MAR-2003 | 03-04-2046A | 02
04 | SC | SPARTANBURG COUNTY * | 4501760075B | 31-MAR-2003 | 03-04-2700A | 02
04 | SC | SUMTER COUNTY * | 4501820090C | 13-FEB-2003 | 03-04-1422A | 01
04 | SC | SUMTER, CITY OF | 4501840001C | 24-FEB-2003 | 03-04-2914A | 02
04 | SC | YORK COUNTY * | 4501930050B | 27-MAR-2003 | 03-04-3508A | 02
04 | SC | YORK COUNTY * | 4501930050B | 24-APR-2003 | 03-04-4420A | 02
04 | SC | YORK COUNTY * | 4501930125C | 20-JAN-2003 | 03-04-037P | 05
04 | SC | YORK COUNTY * | 4501930130D | 07-APR-2003 | 03-04-4058A | 02
04 | SC | YORK COUNTY * | 4501930136D | 24-MAR-2003 | 03-04-2504A | 01
04 | TN | ALCOA, CITY OF | 475421—01B | 07-APR-2003 | 03-04-2452A | 01
04 | TN | ALCOA, CITY OF | 475421—03B | 17-APR-2003 | 03-04-3022A | 01
04 | TN | ARLINGTON, TOWNSHIP OF | 47157C0120E | 10-JAN-2003 | 03-04-0780A | 01
04 | TN | BLOUNT COUNTY * | 4703560025B | 28-APR-2003 | 03-04-2444A | 02
04 | TN | BRADLEY COUNTY * | 4703570060B | 24-FEB-2003 | 03-04-1258A | 02
04 | TN | BRADLEY COUNTY * | 4703570125B | 16-JAN-2003 | 03-04-0848A | 02
04 | TN | BRENTWOOD, CITY OF | 47187C0085E | 06-MAR-2003 | 03-04-2898A | 02
04 | TN | BRENTWOOD, CITY OF | 47817C0035E | 17-JAN-2003 | 03-04-2180V | 19
04 | TN | BRENTWOOD, CITY OF | 47817C0040E | 17-JAN-2003 | 03-04-2180V | 19
04 | TN | BRENTWOOD, CITY OF | 47817C0085E | 17-JAN-2003 | 03-04-2180V | 19
04 | TN | BRISTOL, CITY OF | 4701820005B | 16-JAN-2003 | 03-04-1050A | 02
04 | TN | CHATTANOOGA, CITY OF | 47065C0237F | 17-APR-2003 | 03-04-4992A | 02
04 | TN | CHATTANOOGA, CITY OF | 47065C0238F | 28-APR-2003 | 03-04-4140A | 02
04 | TN | CHATTANOOGA, CITY OF | 47065C0239F | 21-APR-2003 | 03-04-4156A | 02
04 | TN | CHATTANOOGA, CITY OF | 47065C0334F | 28-APR-2003 | 03-04-4728A | 01
04 | TN | CHATTANOOGA, CITY OF | 47065C0343F | 21-JAN-2003 | 03-04-2604A | 02
04 | TN | CHATTANOOGA, CITY OF | 47065C0351F | 10-APR-2003 | 03-04-4568A | 01
04 | TN | CHATTANOOGA, CITY OF | 47065C0362F | 21-FEB-2003 | 03-04-119P | 05
04 | TN | CHATTANOOGA, CITY OF | 47065C0364F | 21-FEB-2003 | 03-04-119P | 05
04 | TN | CHATTANOOGA, CITY OF | 47065C0368F | 21-JAN-2003 | 03-04-2358A | 02
04 | TN | CLEVELAND, CITY OF | 4700150004D | 16-JAN-2003 | 03-04-2152A | 02
04 | TN | CLEVELAND, CITY OF | 4700150004D | 14-APR-2003 | 03-04-3568A | 02
04 | TN | COLLEGEDALE, CITY OF | 47065C0391F | 21-APR-2003 | 03-04-4730A | 01
04 | TN | COLLIERVILLE, TOWN OF | 47157C0240E | 08-JAN-2003 | 03-04-0218A | 01
04 | TN | COLLIERVILLE, TOWN OF | 47157C0240E | 03-APR-2003 | 03-04-2420A | 01
04 | TN | COLLIERVILLE, TOWN OF | 47157C0245E | 21-APR-2003 | 03-04-5166A | 01
04 | TN | COLUMBIA, CITY OF | 4754230004D | 03-APR-2003 | 03-04-0904A | 02
04 | TN | COVINGTON, CITY OF | 47167C0065E | 18-FEB-2003 | 03-04-0436A | 01
04 | TN | COVINGTON, CITY OF | 47167C0065E | 10-APR-2003 | 03-04-3650A | 02
04 | TN | DAYTON, CITY OF | 4701520005C | 30-JAN-2003 | 03-04-0458A | 02
04 | TN | DYERSBURG, CITY OF | 47045C0190D | 30-JAN-2003 | 03-04-1998A | 02
04 | TN | EAST RIDGE, CITY OF | 47065C0364F | 20-FEB-2003 | 03-04-1254A | 17
04 | TN | ENGLEWOOD, CITY OF | 470271—02B | 08-JAN-2003 | 03-04-0036A | 02
04 | TN | FAIRVIEW, CITY OF | 47187C0056E | 17-JAN-2003 | 03-04-2176V | 19
04 | TN | FAIRVIEW, CITY OF | 47187C0057E | 17-JAN-2003 | 03-04-2176V | 19
04 | TN | FRANKLIN COUNTY * | 4703440020B | 06-MAR-2003 | 03-04-3138A | 02
04 | TN | FRANKLIN, CITY OF | 47187C0072E | 17-JAN-2003 | 03-04-2178V | 19
04 | TN | FRANKLIN, CITY OF | 47187C0074E | 03-APR-2003 | 03-04-2904A | 02
04 | TN | FRANKLIN, CITY OF | 47187C0074E | 03-APR-2003 | 03-04-4678A | 02
04 | TN | FRANKLIN, CITY OF | 47187C0127E | 17-JAN-2003 | 03-04-2178V | 19
04 | TN | FRANKLIN, CITY OF | 47187C0131E | 17-JAN-2003 | 03-04-2178V | 19
04 | TN | FRANKLIN, CITY OF | 47187C0132E | 17-JAN-2003 | 03-04-2178V | 19
04 | TN | GERMANTOWN, CITY OF | 47157C0235E | 02-JAN-2003 | 03-04-1608A | 01
04 | TN | GERMANTOWN, CITY OF | 47157C0235E | 03-APR-2003 | 03-04-3426A | 17
04 | TN | GERMANTOWN, CITY OF | 47157C0235E | 10-APR-2003 | 03-04-3260A | 01
04 | TN | GERMANTOWN, CITY OF | 47157C0235E | 28-APR-2003 | 03-04-5420A | 01
04 | TN | GERMANTOWN, CITY OF | 47157C0240E | 10-APR-2003 | 03-04-3260A | 01
04 | TN | GOODLETTSVILLE, CITY OF | 47165C0381D | 13-FEB-2003 | 03-04-2024A | 02
04 | TN | HAMILTON COUNTY * | 47065C0388F | 10-APR-2003 | 03-04-3546A | 02
04 | TN | HARDIN COUNTY* | 4700820125C | 24-APR-2003 | 03-04-3314A | 17
04 | TN | JACKSON, CITY OF | 47113C0155D | 28-APR-2003 | 03-04-5742A | 01
04 | TN | JACKSON, CITY OF | 47113C0162D | 14-APR-2003 | 03-04-1270A | 02
04 | TN | JELLICO, CITY OF | 4754310002B | 21-APR-2003 | 03-04-5454A | 02
04 | TN | JELLICO, CITY OF | 4754310002B | 28-APR-2003 | 03-04-5956A | 02
04 | TN | JOHNSON CITY, CITY OF | 47179C0040C | 10-JAN-2003 | 03-04-0678A | 02
04 | TN | KNOX COUNTY * | 4754330075B | 16-JAN-2003 | 03-04-2230A | 02
04 | TN | KNOXVILLE, CITY OF | 4754340025B | 13-FEB-2003 | 03-04-1148A | 02
04 | TN | KNOXVILLE, CITY OF | 4754340025B | 10-APR-2003 | 03-04-4528A | 02
04 | TN | LEWISBURG, CITY OF | 47117C0134C | 03-JAN-2003 | 03-04-0746A | 01
04 | TN | LEXINGTON, CITY OF | 47077C0057C | 07-JAN-2003 | 03-04-1764A | 02
04 | TN | MADISON COUNTY * | 47113C0285D | 16-JAN-2003 | 03-04-1508A | 02
04 | TN | MARSHALL COUNTY* | 47117C0100C | 10-JAN-2003 | 03-04-1396A | 02
04 | TN | MCNAIRY COUNTY* | 4701270125D | 16-JAN-2003 | 03-04-1960A | 02
04 | TN | MEMPHIS, CITY OF | 47157C0170E | 03-APR-2003 | 03-04-0534A | 02
04 | TN | MEMPHIS, CITY OF | 47157C0185E | 02-JAN-2003 | 03-04-1678A | 02
04 | TN | MEMPHIS, CITY OF | 47157C0230E | 22-JAN-2003 | 02-04-523P | 05
04 | TN | MEMPHIS, CITY OF | 47157C0230E | 28-APR-2003 | 03-04-3334A | 01
04 | TN | MEMPHIS, CITY OF | 47157C0285E | 17-APR-2003 | 03-04-4566A | 02
04 | TN | MONTGOMERY COUNTY * | 4701360050B | 10-APR-2003 | 03-04-3978A | 02
04 | TN | MONTGOMERY COUNTY * | 4701360125B | 20-MAR-2003 | 03-04-2648A | 02
04 | TN | MONTGOMERY COUNTY * | 4701360165B | 21-JAN-2003 | 03-04-2390A | 02
04 | TN | MURFREESBORO, CITY OF | 47149C0140F | 07-APR-2003 | 03-04-2448A | 01
04 | TN | MURFREESBORO, CITY OF | 47149C0143G | 03-FEB-2003 | 03-04-1938A | 02
04 | TN | MURFREESBORO, CITY OF | 47149C0259G | 18-FEB-2003 | 03-04-0632A | 01
04 | TN | MURFREESBORO, CITY OF | 47149C0259G | 06-MAR-2003 | 03-04-2820A | 02
04 | TN | MURFREESBORO, CITY OF | 47149C0278F | 18-FEB-2003 | 03-04-0632A | 01
04 | TN | NASHVILLE & DAVIDSON COUNTY, CITY O | 47037C0119F | 07-APR-2003 | 03-04-3136A | 02
04 | TN | NASHVILLE & DAVIDSON COUNTY, CITY O | 47037C0227F | 28-APR-2003 | 03-04-4620A | 01
04 | TN | NASHVILLE & DAVIDSON COUNTY, CITY O | 47037C0229F | 13-FEB-2003 | 03-04-0676A | 02
04 | TN | NASHVILLE & DAVIDSON COUNTY, CITY O | 47037C0231F | 13-FEB-2003 | 03-04-2078A | 02
04 | TN | NASHVILLE & DAVIDSON COUNTY, CITY O | 47037C0231F | 06-MAR-2003 | 03-04-3288A | 02
04 | TN | NASHVILLE & DAVIDSON COUNTY, CITY O | 47037C0231F | 17-APR-2003 | 03-04-4562A | 02
04 | TN | NASHVILLE & DAVIDSON COUNTY, CITY O | 47037C0236F | 14-APR-2003 | 03-04-3674A | 02
04 | TN | NASHVILLE & DAVIDSON COUNTY, CITY O | 47037C0242F | 06-MAR-2003 | 03-04-0260A | 01
04 | TN | NASHVILLE & DAVIDSON COUNTY, CITY O | 47037C0253F | 13-FEB-2003 | 03-04-1366A | 01
04 | TN | NASHVILLE & DAVIDSON COUNTY, CITY O | 47037C0254F | 13-FEB-2003 | 03-04-1366A | 01
04 | TN | NASHVILLE & DAVIDSON COUNTY, CITY O | 47037C0261F | 06-MAR-2003 | 03-04-0260A | 01
04 | TN | NASHVILLE & DAVIDSON COUNTY, CITY O | 47037C0304F | 16-JAN-2003 | 03-04-1116A | 01
04 | TN | NASHVILLE & DAVIDSON COUNTY, CITY O | 47037C0326F | 16-JAN-2003 | 03-04-1766A | 02
04 | TN | NASHVILLE & DAVIDSON COUNTY, CITY O | 47037C0366F | 27-JAN-2003 | 03-04-0454A | 01
04 | TN | NASHVILLE & DAVIDSON COUNTY, CITY O | 47037C0368F | 16-JAN-2003 | 03-04-1860A | 19
04 | TN | NASHVILLE & DAVIDSON COUNTY, CITY O | 47037C0378F | 07-APR-2003 | 03-04-3330A | 02
04 | TN | OAK RIDGE, CITY OF | 4754410010D | 10-JAN-2003 | 03-04-1900A | 02
04 | TN | OBION COUNTY * | 4703610150B | 06-MAR-2003 | 03-04-2102A | 02
04 | TN | PULASKI, CITY OF | 4700670005C | 27-JAN-2003 | 03-04-2688A | 02
04 | TN | RHEA COUNTY* | 4701510075B | 07-APR-2003 | 03-04-4154A | 02
04 | TN | RIPLEY, TOWN OF | 4701000002C | 16-JAN-2003 | 03-04-1362A | 01
04 | TN | RIPLEY, TOWN OF | 4701000004C | 16-JAN-2003 | 03-04-1362A | 01
04 | TN | RIPLEY, TOWN OF | 4703330105C | 16-JAN-2003 | 03-04-1362A | 01
04 | TN | RIVES, CITY OF | 470235—01A | 03-FEB-2003 | 03-04-0200A | 02
04 | TN | RUTHERFORD COUNTY * | 47149C0045E | 07-APR-2003 | 03-04-1728A | 01
04 | TN | RUTHERFORD COUNTY * | 47149C0114E | 18-FEB-2003 | 03-04-1126A | 02
04 | TN | RUTHERFORD COUNTY * | 47149C0135E | 13-FEB-2003 | 03-04-1408A | 02
04 | TN | RUTHERFORD COUNTY * | 47149C0139F | 03-APR-2003 | 03-04-3854A | 02
04 | TN | RUTHERFORD COUNTY * | 47149C0380F | 16-JAN-2003 | 03-04-1256A | 02
04 | TN | SEVIER COUNTY* | 4702360050B | 16-JAN-2003 | 03-04-1598A | 02
04 | TN | SEVIER COUNTY* | 4702360065B | 30-JAN-2003 | 03-04-0546A | 02
04 | TN | SHELBY COUNTY * | 47157C0105E | 02-JAN-2003 | 03-04-1676A | 02
04 | TN | SHELBY COUNTY * | 47157C0145E | 07-APR-2003 | 03-04-0286A | 01
04 | TN | SHELBY COUNTY * | 47157C0160E | 17-APR-2003 | 03-04-3836A | 01
04 | TN | SHELBY COUNTY * | 47157C0185E | 07-APR-2003 | 03-04-0286A | 01
04 | TN | SHELBY COUNTY * | 47157C0195E | 10-FEB-2003 | 03-04-0826A | 01
04 | TN | SHELBY COUNTY * | 47157C0290E | 16-JAN-2003 | 03-04-1302A | 01
04 | TN | SHELBYVILLE, CITY OF | 4700080028C | 07-APR-2003 | 03-04-2878A | 17
04 | TN | SMYRNA, TOWN OF | 47149C0130F | 06-FEB-2003 | 03-04-0318A | 02
04 | TN | STEWART COUNTY * | 4701800005A | 10-JAN-2003 | 03-04-0562A | 02
04 | TN | UNICOI COUNTY * | 4702380005B | 28-APR-2003 | 03-04-4484A | 02
04 | TN | WILLIAMSON COUNTY * | 47187C0014E | 17-JAN-2003 | 03-04-2174V | 19
04 | TN | WILLIAMSON COUNTY * | 47187C0025E | 17-JAN-2003 | 03-04-2174V | 19
04 | TN | WILLIAMSON COUNTY * | 47187C0030E | 17-JAN-2003 | 03-04-2174V | 19
04 | TN | WILLIAMSON COUNTY * | 47187C0030E | 03-APR-2003 | 03-04-2900A | 01
04 | TN | WILLIAMSON COUNTY * | 47187C0030E | 03-APR-2003 | 03-04-4868A | 02
04 | TN | WILLIAMSON COUNTY * | 47187C0030E | 03-APR-2003 | 03-04-4870A | 02
04 | TN | WILLIAMSON COUNTY * | 47187C0030E | 03-APR-2003 | 03-04-4872A | 01
04 | TN | WILLIAMSON COUNTY * | 47187C0035E | 17-JAN-2003 | 03-04-2174V | 19
04 | TN | WILLIAMSON COUNTY * | 47187C0072E | 17-JAN-2003 | 03-04-2174V | 19
04 | TN | WILLIAMSON COUNTY * | 47187C0075E | 17-JAN-2003 | 03-04-2174V | 19
04 | TN | WILLIAMSON COUNTY * | 47187C0078E | 17-JAN-2003 | 03-04-2174V | 19
04 | TN | WILLIAMSON COUNTY * | 47187C0125E | 17-JAN-2003 | 03-04-2174V | 19
04 | TN | WILLIAMSON COUNTY * | 47187C0132E | 17-JAN-2003 | 03-04-2174V | 19
04 | TN | WILLIAMSON COUNTY * | 47187C0134E | 17-JAN-2003 | 03-04-2174V | 19
04 | TN | WILLIAMSON COUNTY * | 47187C0140E | 17-JAN-2003 | 03-04-2174V | 19
04 | TN | WILLIAMSON COUNTY * | 47187C0145E | 17-JAN-2003 | 03-04-2174V | 19
04 | TN | WILLIAMSON COUNTY * | 47187C0190E | 13-FEB-2003 | 03-04-2802A | 01
04 | TN | WILLIAMSON COUNTY * | 47187C0195E | 17-JAN-2003 | 03-04-2174V | 19
04 | TN | WILLIAMSON COUNTY * | 47187C0230E | 17-JAN-2003 | 03-04-2174V | 19
04 | TN | WILSON COUNTY * | 4702070040C | 03-APR-2003 | 03-04-2198A | 02
05 | IL | ADDISON, VILLAGE OF | 1701980004C | 10-JAN-2003 | 03-05-0024A | 02
05 | IL | ADDISON, VILLAGE OF | 1701980004C | 21-APR-2003 | 03-05-2140A | 02
05 | IL | ALGONQUIN, VILLAGE OF | 1704740001B | 31-JAN-2003 | 03-05-0519A | 17
05 | IL | ALGONQUIN, VILLAGE OF | 1704740001B | 20-JUN-2003 | 03-05-2444A | 01
05 | IL | ANTIOCH, VILLAGE OF | 17097C0026F | 26-MAR-2003 | 03-05-1121A | 02
05 | IL | ARTHUR, VILLAGE OF | 1705200001B | 11-JUN-2003 | 03-05-3796A | 02
05 | IL | AURORA, CITY OF | 17089C0319F | 24-JAN-2003 | 03-05-1227A | 01
05 | IL | AURORA, CITY OF | 17089C0385F | 24-JAN-2003 | 03-05-1227A | 01
05 | IL | AURORA, CITY OF | 1703200025E | 31-JAN-2003 | 03-05-1611A | 02
05 | IL | AURORA, CITY OF | 1703200015D | 09-MAY-2003 | 03-05-2888A | 02
05 | IL | AURORA, CITY OF | 1703200015D | 06-JUN-2003 | 03-05-3486A | 02
05 | IL | BATAVIA, CITY OF | 17089C0329F | 28-MAY-2003 | 03-05-3332A | 02
05 | IL | BEACH PARK, VILLAGE OF | 17097C0087G | 09-MAY-2003 | 03-05-2197A | 02
05 | IL | BEACH PARK, VILLAGE OF | 17097C0087G | 06-JUN-2003 | 03-05-3117A | 02
05 | IL | BEACH PARK, VILLAGE OF | 17097C0067G | 28-MAY-2003 | 03-05-3184A | 02
05 | IL | BELVIDERE, CITY OF | 1700080001B | 10-FEB-2003 | 03-05-0743A | 02
05 | IL | BIG ROCK, VILLAGE OF | 17089C0295F | 18-JUN-2003 | 03-05-3786A | 02
05 | IL | BLOOMINGTON, CITY OF | 17113C0504D | 09-MAY-2003 | 03-05-3119A | 02
05 | IL | BLOOMINGTON, CITY OF | 17113C0501D | 04-JUN-2003 | 03-05-3519A | 02
05 | IL | BLOOMINGTON, CITY OF | 17113C0482D | 18-JUN-2003 | 03-05-3609A | 02
05 | IL | BLOOMINGTON, CITY OF | 17113C0482D | 11-JUN-2003 | 03-05-3610A | 02
05 | IL | BOLINGBROOK, VILLAGE OF | 17197C0045F | 05-FEB-2003 | 03-05-0316A | 01
05 | IL | BOLINGBROOK, VILLAGE OF | 17197C0034E | 31-JAN-2003 | 03-05-0551A | 01
05 | IL | BOLINGBROOK, VILLAGE OF | 17197C0045F | 02-MAY-2003 | 03-05-2385A | 01
05 | IL | BOLINGBROOK, VILLAGE OF | 17197C0034E | 16-MAY-2003 | 03-05-2983A | 01
05 | IL | BOLINGBROOK, VILLAGE OF | 17197C0045F | 16-MAY-2003 | 03-05-2983A | 01
05 | IL | BOLINGBROOK, VILLAGE OF | 17097C0052E | 13-JUN-2003 | 03-05-3533A | 02
05 | IL | BOND COUNTY | 1709960100B | 23-APR-2003 | 03-05-2861A | 02
05 | IL | BRADLEY, VILLAGE OF | 1703380001B | 14-FEB-2003 | 03-05-1292A | 17
05 | IL | BRADLEY, VILLAGE OF | 1703380001B | 31-JAN-2003 | 03-05-1329A | 02
05 | IL | BUFFALO GROVE, VILLAGE OF | 17031C0063F | 28-FEB-2003 | 03-05-0723A | 17
05 | IL | BUFFALO GROVE, VILLAGE OF | 17097C0261F | 14-FEB-2003 | 03-05-1174A | 02
05 | IL | BUFFALO GROVE, VILLAGE OF | 17097C0262F | 12-MAR-2003 | 03-05-1419A | 02
05 | IL | BUFFALO GROVE, VILLAGE OF | 17097C0261F | 20-JUN-2003 | 03-05-3859A | 02
05 | IL | BUREAU COUNTY | 1707290250A | 04-APR-2003 | 03-05-1038A | 02
05 | IL | CALUMET CITY, CITY OF | 17031C0756F | 11-JUN-2003 | 03-05-3756A | 02
05 | IL | CARLOCK, VILLAGE OF | 17113C0260D | 16-MAY-2003 | 03-05-2939A | 02
05 | IL | CARLOCK, VILLAGE OF | 17113C0300D | 16-MAY-2003 | 03-05-2939A | 02
05 | IL | CARMI, CITY OF | 1706810005B | 14-MAY-2003 | 03-05-1477A | 02
05 | IL | CARMI, CITY OF | 1706810005B | 30-APR-2003 | 03-05-2537A | 02
05 | IL | CARMI, CITY OF | 1706810005B | 27-JUN-2003 | 03-05-3147A | 02
05 | IL | CARMI, CITY OF | 1706810005B | 13-JUN-2003 | 03-05-3205A | 02
05 | IL | CAROL STREAM, VILLAGE OF | 1702020005C | 10-MAR-2003 | 03-05-0035A | 02
05 | IL | CAROL STREAM, VILLAGE OF | 1702020005C | 13-MAR-2003 | 03-05-1088A | 02
05 | IL | CARROLL COUNTY | 1700190125B | 14-FEB-2003 | 03-05-1555A | 02
05 | IL | CHAMPAIGN COUNTY | 1708940175B | 07-MAR-2003 | 03-05-1436A | 02
05 | IL | CHAMPAIGN COUNTY | 1708940175B | 26-FEB-2003 | 03-05-1645A | 02
05 | IL | CHAMPAIGN COUNTY | 1708940150B | 18-JUN-2003 | 03-05-3474A | 02
05 | IL | CHAMPAIGN COUNTY * | 1708940205B | 06-FEB-2003 | 03-05-0389A | 02
05 | IL | CHAMPAIGN COUNTY * | 0708940150B | 17-MAR-2003 | 03-05-1079A | 02
05 | IL | CHAMPAIGN COUNTY * | 1708940205B | 17-MAR-2003 | 03-05-1080A | 02
05 | IL | CHAMPAIGN COUNTY * | 1708940095C | 03-JAN-2003 | 03-05-1081V | 19
05 | IL | CHAMPAIGN COUNTY * | 1708940100C | 03-JAN-2003 | 03-05-1081V | 19
05 | IL | CHAMPAIGN, CITY OF | 1700260010B | 08-JAN-2003 | 02-05-4726A | 02
05 | IL | CHARLESTON, CITY OF | 1700520005C | 14-MAR-2003 | 03-05-0724A | 02
05 | IL | CHERRY VALLEY, VILLAGE OF | 1707200020C | 24-JAN-2003 | 03-05-0909A | 02
05 | IL | CHICAGO RIDGE, VILLAGE OF | 17031C0609F | 14-MAY-2003 | 03-05-1712A | 02
05 | IL | CHICAGO RIDGE, VILLAGE OF | 17031C0608F | 02-APR-2003 | 03-05-2544A | 02
05 | IL | CLINTON COUNTY* | 170044—24B | 24-FEB-2003 | 03-05-1293A | 02
05 | IL | CLINTON COUNTY* | 170044—25B | 23-JAN-2003 | 03-05-1351X | 02
05 | IL | CLINTON, CITY OF | 17039C0190D | 21-APR-2003 | 03-05-1149A | 08
05 | IL | COAL VALLEY, VILLAGE OF | 17161C0329E | 02-JAN-2003 | 03-05-1041A | 02
05 | IL | COLLINSVILLE, CITY OF | 1704390005B | 07-MAY-2003 | 03-05-2692A | 02
05 | IL | COOK COUNTY | 17031C0209F | 14-FEB-2003 | 03-05-0916A | 02
05 | IL | COOK COUNTY | 17031C0612F | 09-APR-2003 | 03-05-1476A | 01
05 | IL | COOK COUNTY | 17031C0253F | 26-MAR-2003 | 03-05-1544A | 02
05 | IL | COOK COUNTY | 17031C0727F | 27-JUN-2003 | 03-05-3509A | 02
05 | IL | COOK COUNTY | 17031C0386F | 27-JUN-2003 | 03-05-4010A | 02
05 | IL | CREST HILL, CITY OF | 17197C0134E | 09-MAY-2003 | 03-05-2346A | 01
05 | IL | CREST HILL, CITY OF | 17197C0135F | 09-MAY-2003 | 03-05-2346A | 01
05 | IL | CRESTWOOD, VILLAGE OF | 17031C0617F | 21-MAR-2003 | 03-05-0745A | 02
05 | IL | CRESTWOOD, VILLAGE OF | 17031C0619F | 29-JAN-2003 | 03-05-1556A | 02
05 | IL | CRESTWOOD, VILLAGE OF | 17031C0617F | 21-MAR-2003 | 03-05-2272A | 02
05 | IL | CRESTWOOD, VILLAGE OF | 17031C0636F | 16-APR-2003 | 03-05-2687A | 02
05 | IL | CRESTWOOD, VILLAGE OF | 17031C0617F | 25-JUN-2003 | 03-05-3078A | 02
05 | IL | CRETE, VILLAGE OF | 17197C0359F | 26-MAR-2003 | 03-05-0244A | 02
05 | IL | CRYSTAL LAKE, CITY OF | 1704760001C | 21-MAR-2003 | 03-05-2077A | 02
05 | IL | CRYSTAL LAKE, CITY OF | 1704760003C | 07-MAY-2003 | 03-05-2922A | 02
05 | IL | CRYSTAL LAKE, CITY OF | 1704760003C | 06-JUN-2003 | 03-05-3506A | 02
05 | IL | CRYSTAL LAKE, CITY OF | 1707320330D | 20-JUN-2003 | 03-05-3808A | 02
05 | IL | DANVILLE, CITY OF | 1706620010C | 31-JAN-2003 | 03-05-1119A | 02
05 | IL | DARIEN, CITY OF | 1707500002A | 18-FEB-2003 | 03-05-0364A | 17
05 | IL | DE KALB COUNTY | 17037C0076D | 22-JAN-2003 | 03-05-1443A | 02
05 | IL | DE KALB COUNTY | 17037C0138D | 09-APR-2003 | 03-05-2319A | 02
05 | IL | DE KALB, CITY OF | 17037C0066D | 15-JAN-2003 | 02-05-4792A | 01
05 | IL | DECATUR, CITY OF | 1704290020C | 26-FEB-2003 | 03-05-1161A | 02
05 | IL | DEERFIELD, VILLAGE OF | 17097C0286F | 03-JAN-2003 | 03-05-0564A | 17
05 | IL | DEERFIELD, VILLAGE OF | 17097C0287F | 10-FEB-2003 | 03-05-0857A | 17
05 | IL | DEERFIELD, VILLAGE OF | 17097C0286F | 21-MAR-2003 | 03-05-1411A | 02
05 | IL | DEERFIELD, VILLAGE OF | 17097C0286F | 28-MAR-2003 | 03-05-2303A | 02
05 | IL | DEERFIELD, VILLAGE OF | 17097C0286F | 28-MAY-2003 | 03-05-3278A | 17
05 | IL | DEERFIELD, VILLAGE OF | 17097C0286F | 25-JUN-2003 | 03-05-3909A | 02
05 | IL | DES PLAINES, CITY OF | 17031C0216F | 14-FEB-2003 | 03-05-0820A | 02
05 | IL | DES PLAINES, CITY OF | 17031C0236F | 25-APR-2003 | 03-05-1925A | 01
05 | IL | DES PLAINES, CITY OF | 17031C0219F | 06-JUN-2003 | 03-05-2415A | 17
05 | IL | DES PLAINES, CITY OF | 17031C0216F | 09-APR-2003 | 03-05-2478A | 02
05 | IL | DES PLAINES, CITY OF | 17031C0219F | 30-APR-2003 | 03-05-2590A | 02
05 | IL | DES PLAINES, CITY OF | 17031C0219F | 25-JUN-2003 | 03-05-3850A | 02
05 | IL | DEWITT COUNTY | 17039C0235D | 16-MAY-2003 | 03-05-2065A | 02
05 | IL | DEWITT COUNTY | 17039C0190D | 14-MAY-2003 | 03-05-2797A | 02
05 | IL | DEWITT COUNTY | 17039C0300D | 18-JUN-2003 | 03-05-3623A | 02
05 | IL | DOLTON, VILLAGE OF | 17031C0751F | 21-MAY-2003 | 03-05-1616A | 01
05 | IL | DOUGLAS COUNTY | 1701940100B | 08-JAN-2003 | 03-05-0894A | 02
05 | IL | DOUGLAS COUNTY | 1701940100B | 28-MAR-2003 | 03-05-1116A | 02
05 | IL | DU PAGE COUNTY* | 1701970025B | 13-FEB-2003 | 03-05-0032A | 02
05 | IL | DU PAGE COUNTY* | 1701970010C | 21-JAN-2003 | 03-05-0762A | 02
05 | IL | DU PAGE COUNTY* | 1701970055B | 27-JAN-2003 | 03-05-0772A | 02
05 | IL | DU PAGE COUNTY* | 1701970020B | 27-JAN-2003 | 03-05-0777A | 02
05 | IL | DU PAGE COUNTY* | 1701970040B | 13-MAR-2003 | 03-05-1362A | 02
05 | IL | DU PAGE COUNTY* | 1701970035B | 27-FEB-2003 | 03-05-1399A | 02
05 | IL | DU PAGE COUNTY* | 1701970010C | 31-MAR-2003 | 03-05-1693A | 02
05 | IL | DU PAGE COUNTY* | 1701970055B | 14-APR-2003 | 03-05-1699A | 02
05 | IL | DU PAGE COUNTY* | 1701970040B | 28-APR-2003 | 03-05-2138A | 02
05 | IL | DU PAGE COUNTY* | 1701970045B | 14-APR-2003 | 03-05-2150A | 02
05 | IL | EAST PEORIA, CITY OF | 1706490005B | 29-JAN-2003 | 03-05-0998A | 01
05 | IL | EDWARDSVILLE, CITY OF | 1704410001C | 29-JAN-2003 | 03-05-1417A | 17
05 | IL | EDWARDSVILLE, CITY OF | 1704410001C | 05-MAR-2003 | 03-05-1970A | 02
05 | IL | EFFINGHAM, CITY OF | 170229—03B | 09-MAY-2003 | 03-05-3007A | 02
05 | IL | ELWOOD, VILLAGE OF | 17197C0286E | 08-JAN-2003 | 03-05-0314A | 17
05 | IL | FOX LAKE, VILLAGE OF | 17097C0015G | 26-MAR-2003 | 03-05-2114A | 02
05 | IL | FOX LAKE, VILLAGE OF | 17097C0015G | 23-APR-2003 | 03-05-2851A | 02
05 | IL | FOX LAKE, VILLAGE OF | 17097C0020F | 27-JUN-2003 | 03-05-3527A | 01
05 | IL | FOX RIVER VALLEY GARDENS, VILLAGE OF | 1704780001B | 10-FEB-2003 | 03-05-1410A | 02
05 | IL | FOX RIVER VALLEY GARDENS, VILLAGE OF | 1704780001B | 19-MAR-2003 | 03-05-2302A | 02
05 | IL | FRANKFORT, VILLAGE OF | 17197C0327E | 02-JAN-2003 | 03-05-0100A | 02
05 | IL | FRANKFORT, VILLAGE OF | 17197C0310E | 26-MAR-2003 | 03-05-0143P | 05
05 | IL | FRANKFORT, VILLAGE OF | 17197C0214E | 02-APR-2003 | 03-05-1018A | 02
05 | IL | FRANKFORT, VILLAGE OF | 17197C0331E | 05-FEB-2003 | 03-05-1433A | 02
05 | IL | FRANKFORT, VILLAGE OF | 17197C0310E | 28-MAR-2003 | 03-05-1740A | 02
05 | IL | FRANKFORT, VILLAGE OF | 17197C0310E | 26-FEB-2003 | 03-05-1965A | 02
05 | IL | FRANKFORT, VILLAGE OF | 17197C0213E | 21-MAR-2003 | 03-05-2256A | 02
05 | IL | FRANKFORT, VILLAGE OF | 17197C0331E | 28-MAR-2003 | 03-05-2347A | 02
05 | IL | FRANKFORT, VILLAGE OF | 17197C0310E | 09-MAY-2003 | 03-05-3128A | 02
05 | IL | FRANKLIN COUNTY | 1708990004B | 09-APR-2003 | 03-05-2427A | 02
05 | IL | FRANKLIN COUNTY | 1708990005B | 07-MAY-2003 | 03-05-2968A | 02
05 | IL | FRANKLIN PARK, VILLAGE OF | 17031C0367F | 22-JAN-2003 | 03-05-0977A | 02
05 | IL | GENOA, CITY OF | 17037C0009D | 10-JAN-2003 | 02-05-4162A | 02
05 | IL | GENOA, CITY OF | 17037C0030D | 02-MAY-2003 | 03-05-2843A | 02
05 | IL | GENOA, CITY OF | 17037C0009D | 21-MAY-2003 | 03-05-3318A | 02
05 | IL | GLEN ELLYN, VILLAGE OF | 1702070005C | 27-MAR-2003 | 03-05-1656A | 02
05 | IL | GLEN ELLYN, VILLAGE OF | 1702070005C | 10-APR-2003 | 03-05-2137A | 02
05 | IL | GLENWOOD, VILLAGE OF | 17031C0761F | 26-MAR-2003 | 03-05-2465A | 02
05 | IL | GREEN ROCK, CITY OF | 1702850001C | 16-MAY-2003 | 03-05-1958A | 02
05 | IL | GRUNDY COUNTY | 1702560075C | 10-JAN-2003 | 03-05-0746A | 02
05 | IL | GURNEE, VILLAGE OF | 17097C0068G | 04-APR-2003 | 03-05-1618A | 01
05 | IL | HARVARD, CITY OF | 1707320050B | 25-APR-2003 | 03-05-2752X | 02
05 | IL | HERRIN, CITY OF | 1707170003B | 02-APR-2003 | 03-05-0653A | 02
05 | IL | HEYWORTH, VILLAGE OF | 17113C0705D | 14-MAR-2003 | 03-05-2334A | 02
05 | IL | HIGHLAND PARK, CITY OF | 17097C0279F | 31-JAN-2003 | 02-05-4602A | 02
05 | IL | HIGHLAND PARK, CITY OF | 17097C0279F | 15-JAN-2003 | 03-05-0509A | 02
05 | IL | HIGHLAND PARK, CITY OF | 17097C0279F | 25-APR-2003 | 03-05-2609A | 02
05 | IL | HIGHLAND PARK, CITY OF | 17097C0279F | 09-APR-2003 | 03-05-2740A | 02
05 | IL | HIGHLAND PARK, CITY OF | 17097C0279F | 04-JUN-2003 | 03-05-3437A | 02
05 | IL | HOFFMAN ESTATES, VILLAGE OF | 17031C0186F | 29-JAN-2003 | 03-05-1516A | 02
05 | IL | HOFFMAN ESTATES, VILLAGE OF | 17031C0176F | 11-APR-2003 | 03-05-2070A | 01
05 | IL | HOLIDAY HILLS, VILLAGE OF | 1709360001B | 21-FEB-2003 | 03-05-1782A | 02
05 | IL | IROQUOIS COUNTY | 17075C0120D | 09-MAY-2003 | 03-05-1204A | 01
05 | IL | IROQUOIS COUNTY | 17075C0045D | 14-FEB-2003 | 03-05-1506A | 02
05 | IL | IROQUOIS COUNTY | 17075C0110D | 02-APR-2003 | 03-05-1749A | 02
05 | IL | IROQUOIS COUNTY | 17075C0105D | 05-MAR-2003 | 03-05-2025A | 02
05 | IL | IROQUOIS COUNTY | 17075C0110D | 05-MAR-2003 | 03-05-2025A | 02
05 | IL | ISLAND LAKE, VILLAGE OF | 1703700001B | 14-FEB-2003 | 03-05-0623A | 01
05 | IL | ISLAND LAKE, VILLAGE OF | 1703700001B | 16-APR-2003 | 03-05-1876A | 02
05 | IL | ISLAND LAKE, VILLAGE OF | 17097C0114F | 02-MAY-2003 | 03-05-2449A | 01
05 | IL | ISLAND LAKE, VILLAGE OF | 17097C0118F | 02-MAY-2003 | 03-05-2449A | 01
05 | IL | ISLAND LAKE, VILLAGE OF | 1703700001B | 25-APR-2003 | 03-05-2683A | 02
05 | IL | ISLAND LAKE, VILLAGE OF | 1703700001B | 27-JUN-2003 | 03-05-3663A | 02
05 | IL | JACKSONVILLE, CITY OF | 1705160005C | 09-MAY-2003 | 03-05-2360A | 17
05 | IL | JACKSONVILLE, CITY OF | 1709030085B | 09-MAY-2003 | 03-05-2360A | 17
05 | IL | JOHNSBURG, VILLAGE OF | 1707320095B | 02-APR-2003 | 03-05-2520A | 02
05 | IL | JOLIET, CITY OF | 17197C0130E | 28-FEB-2003 | 02-05-2033P | 06
05 | IL | JOLIET, CITY OF | 17197C0140E | 28-FEB-2003 | 02-05-2033P | 06
05 | IL | JOLIET, CITY OF | 17197C0137E | 10-JAN-2003 | 03-05-0691A | 01
05 | IL | JOLIET, CITY OF | 17197C0141E | 10-JAN-2003 | 03-05-0691A | 01
05 | IL | JOLIET, CITY OF | 17197C0142E | 24-JAN-2003 | 03-05-1309A | 02
05 | IL | JOLIET, CITY OF | 17197C0135F | 23-MAY-2003 | 03-05-1800A | 17
05 | IL | JOLIET, CITY OF | 17197C0135F | 11-APR-2003 | 03-05-2069A | 01
05 | IL | JOLIET, CITY OF | 17197C0141F | 11-APR-2003 | 03-05-2069A | 01
05 | IL | JOLIET, CITY OF | 17197C0135F | 21-MAR-2003 | 03-05-2076A | 01
05 | IL | JOLIET, CITY OF | 17197C0163E | 16-MAY-2003 | 03-05-2937A | 02
05 | IL | JUSTICE, VILLAGE OF | 17031C0489F | 05-MAR-2003 | 03-05-0656A | 02
05 | IL | KANE COUNTY | 17089C0233F | 29-JAN-2003 | 03-05-1264A | 02
05 | IL | KANE COUNTY | 17089C0130F | 05-FEB-2003 | 03-05-1276A | 02
05 | IL | KANE COUNTY | 17089C0163F | 14-FEB-2003 | 03-05-1449A | 02
05 | IL | KANE COUNTY | 17089C0305F | 16-MAY-2003 | 03-05-1736A | 01
05 | IL | KANE COUNTY | 17089C0130F | 21-MAY-2003 | 03-05-1929A | 02
05 | IL | KANE COUNTY | 17089C0326F | 25-APR-2003 | 03-05-2850A | 02
05 | IL | KANE COUNTY | 17089C0070F | 20-JUN-2003 | 03-05-3600A | 02
05 | IL | KANE COUNTY | 17089C0158F | 04-JUN-2003 | 03-05-3602A | 02
05 | IL | KANE COUNTY | 17089C0242F | 20-JUN-2003 | 03-05-3972A | 01
05 | IL | KANE COUNTY * | 17089C0233F | 16-JAN-2003 | 03-05-0754A | 02
05 | IL | KANE COUNTY * | 17089C0233F | 17-MAR-2003 | 03-05-0776A | 02
05 | IL | KANKAKEE COUNTY | 1703360170C | 26-FEB-2003 | 03-05-0591A | 17
05 | IL | KANKAKEE COUNTY | 1703360190C | 29-JAN-2003 | 03-05-0666A | 02
05 | IL | KANKAKEE COUNTY | 1703360170C | 22-JAN-2003 | 03-05-0729A | 02
05 | IL | KANKAKEE COUNTY | 1703360180C | 22-JAN-2003 | 03-05-1336A | 02
05 | IL | KANKAKEE COUNTY | 1703360190C | 29-JAN-2003 | 03-05-1547A | 02
05 | IL | KANKAKEE COUNTY | 1703360170C | 05-FEB-2003 | 03-05-1548A | 02
05 | IL | KANKAKEE COUNTY | 1703360065B | 05-FEB-2003 | 03-05-1635A | 02
05 | IL | KANKAKEE COUNTY | 1703360180C | 02-MAY-2003 | 03-05-1726A | 17
05 | IL | KANKAKEE COUNTY | 1703360185C | 02-MAY-2003 | 03-05-1726A | 17
05 | IL | KANKAKEE COUNTY | 1703360185C | 07-MAR-2003 | 03-05-1823A | 02
05 | IL | KANKAKEE COUNTY | 1703360185C | 28-MAR-2003 | 03-05-1824A | 17
05 | IL | KANKAKEE COUNTY | 1703360180C | 09-APR-2003 | 03-05-1877A | 02
05 | IL | KANKAKEE COUNTY | 1703360155B | 18-APR-2003 | 03-05-2062A | 02
05 | IL | KANKAKEE COUNTY | 1703360190C | 19-MAR-2003 | 03-05-2173A | 02
05 | IL | KANKAKEE COUNTY | 1703360170C | 16-APR-2003 | 03-05-2219A | 17
05 | IL | KANKAKEE COUNTY | 1703360170C | 06-JUN-2003 | 03-05-3262A | 17
05 | IL | KENDALL COUNTY | 1703410010C | 14-FEB-2003 | 03-05-1758A | 02
05 | IL | KENDALL COUNTY | 1703410020C | 11-JUN-2003 | 03-05-2616A | 02
05 | IL | KIRKLAND, VILLAGE OF | 17037C0015D | 14-MAY-2003 | 03-05-2908A | 02
05 | IL | KIRKLAND, VILLAGE OF | 17037C0004D | 11-JUN-2003 | 03-05-3361A | 02
05 | IL | LA SALLE COUNTY | 17099C0125E | 31-JAN-2003 | 03-05-1294A | 02
05 | IL | LAKE COUNTY | 17097C0020F | 10-JAN-2003 | 03-05-0731A | 02
05 | IL | LAKE COUNTY | 17097C0110H | 10-JAN-2003 | 03-05-0810A | 02
05 | IL | LAKE COUNTY | 17097C0132G | 28-MAR-2003 | 03-05-0981A | 02
05 | IL | LAKE COUNTY | 17097C0010F | 10-JAN-2003 | 03-05-1124A | 02
05 | IL | LAKE COUNTY | 17097C0010F | 22-JAN-2003 | 03-05-1126A | 02
05 | IL | LAKE COUNTY | 17097C0166G | 21-FEB-2003 | 03-05-1232A | 02
05 | IL | LAKE COUNTY | 17097C0205F | 21-MAR-2003 | 03-05-1346A | 02
05 | IL | LAKE COUNTY | 17097C0144F | 14-FEB-2003 | 03-05-1510A | 02
05 | IL | LAKE COUNTY | 17097C0205F | 21-FEB-2003 | 03-05-1792A | 02
05 | IL | LAKE COUNTY | 17097C0020F | 05-MAR-2003 | 03-05-1943A | 02
05 | IL | LAKE COUNTY | 17097C0110H | 21-MAR-2003 | 03-05-1986A | 02
05 | IL | LAKE COUNTY | 17097C0020F | 28-MAR-2003 | 03-05-2040A | 02
05 | IL | LAKE COUNTY | 17097C0266G | 19-MAR-2003 | 03-05-2240A | 02
05 | IL | LAKE COUNTY | 17097C0144F | 16-APR-2003 | 03-05-2352A | 02
05 | IL | LAKE COUNTY | 17097C0155G | 30-APR-2003 | 03-05-2693A | 02
05 | IL | LAKE COUNTY | 17097C0010F | 23-APR-2003 | 03-05-2824A | 02
05 | IL | LAKE COUNTY | 17097C0155G | 04-JUN-2003 | 03-05-2921A | 02
05 | IL | LAKE COUNTY | 17097C0020F | 09-MAY-2003 | 03-05-3093A | 02
05 | IL | LAKE COUNTY | 17097C0010F | 11-JUN-2003 | 03-05-3693A | 02
05 | IL | LAKE COUNTY | 17097C0020F | 13-JUN-2003 | 03-05-3704A | 02
05 | IL | LAKE COUNTY | 17097C0010F | 20-JUN-2003 | 03-05-3813A | 02
05 | IL | LAKE FOREST, CITY OF | 17097C0259F | 31-JAN-2003 | 03-05-0277A | 02
05 | IL | LAKE FOREST, CITY OF | 17097C0276F | 26-FEB-2003 | 03-05-1599A | 02
05 | IL | LAKE ZURICH, VILLAGE OF | 17097C0228F | 06-JAN-2003 | 02-05-2329P | 06
05 | IL | LAKE-IN-THE-HILLS, VILLAGE OF | 1704810003E | 05-FEB-2003 | 03-05-0585A | 02
05 | IL | LAKEMOOR, VILLAGE OF | 17097C0105H | 07-MAY-2003 | 03-05-2734A | 02
05 | IL | LAKEWOOD, VILLAGE OF | 1707320310C | 04-APR-2003 | 03-05-0419A | 01
05 | IL | LAKEWOOD, VILLAGE OF | 170805—01B | 04-APR-2003 | 03-05-0419A | 01
05 | IL | LAKEWOOD, VILLAGE OF | 170805—01B | 02-JAN-2003 | 03-05-1029A | 02
05 | IL | LANSING, VILLAGE OF | 17031C0759F | 14-FEB-2003 | 03-05-1418A | 02
05 | IL | LANSING, VILLAGE OF | 17031C0766F | 27-JUN-2003 | 03-05-2407A | 02
05 | IL | LAWRENCE COUNTY | 1704090040B | 06-JUN-2003 | 03-05-1632A | 02
05 | IL | LEE COUNTY | 17103C0100D | 05-MAR-2003 | 03-05-0852A | 02
05 | IL | LEE COUNTY | 17103C0075D | 28-FEB-2003 | 03-05-1776A | 02
05 | IL | LEE COUNTY | 17103C0175D | 23-APR-2003 | 03-05-2874A | 02
05 | IL | LEE COUNTY | 17103C0015D | 16-MAY-2003 | 03-05-3456A | 02
05 | IL | LENZBURG, VILLAGE OF | 1706160130A | 06-FEB-2003 | 03-05-1054A | 02
05 | IL | LIBERTYVILLE, VILLAGE OF | 17097C0164G | 26-FEB-2003 | 02-05-4007A | 01
05 | IL | LIBERTYVILLE, VILLAGE OF | 17097C0161F | 14-MAY-2003 | 02-05-4380A | 02
05 | IL | LIBERTYVILLE, VILLAGE OF | 17097C0164G | 24-JAN-2003 | 03-05-1280A | 02
05 | IL | LIBERTYVILLE, VILLAGE OF | 17097C0168G | 28-FEB-2003 | 03-05-1791A | 02
05 | IL | LIBERTYVILLE, VILLAGE OF | 17097C0164G | 16-APR-2003 | 03-05-2542A | 02
05 | IL | LIBERTYVILLE, VILLAGE OF | 17097C0161F | 20-JUN-2003 | 03-05-2836A | 01
05 | IL | LIBERTYVILLE, VILLAGE OF | 17097C0162G | 20-JUN-2003 | 03-05-2836A | 01
05 | IL | LILY LAKE, VILLAGE OF | 17089C0250F | 07-MAY-2003 | 03-05-2793A | 02
05 | IL | LINCOLNSHIRE, VILLAGE OF | 17097C0258G | 31-JAN-2003 | 03-05-1267A | 02
05 | IL | LISLE, VILLAGE OF | 1702110005B | 03-APR-2003 | 03-05-1383A | 02
05 | IL | LIVINGSTON COUNTY | 1709290009A | 09-APR-2003 | 03-05-0912A | 02
05 | IL | LIVINGSTON COUNTY | 1709290008A | 09-MAY-2003 | 03-05-2944A | 02
05 | IL | LIVINGSTON COUNTY | 1709290008A | 09-MAY-2003 | 03-05-2978A | 02
05 | IL | LOGAN COUNTY | 17107C0150C | 28-MAY-2003 | 03-05-1194A | 02
05 | IL | LOGAN COUNTY | 17107C0125C | 30-MAY-2003 | 03-05-3046A | 02
05 | IL | LOMBARD, VILLAGE OF | 1701970045B | 24-MAR-2003 | 03-05-0023A | 02
05 | IL | LONG GROVE, VILLAGE OF | 17097C0234F | 15-JAN-2003 | 03-05-0921A | 02
05 | IL | LONG GROVE, VILLAGE OF | 17097C0253F | 20-JUN-2003 | 03-05-2914A | 02
05 | IL | LONG GROVE, VILLAGE OF | 17097C0261F | 20-JUN-2003 | 03-05-2914A | 02
05 | IL | LYNWOOD, VILLAGE OF | 17031C0768F | 25-JUN-2003 | 03-05-3646A | 02
05 | IL | MACHESNEY PARK, VILLAGE OF | 1710090005A | 09-APR-2003 | 03-05-1974A | 17
05 | IL | MACHESNEY PARK, VILLAGE OF | 1710090005A | 16-MAY-2003 | 03-05-3059A | 02
05 | IL | MADISON COUNTY | 1704360085B | 24-JAN-2003 | 03-05-0992A | 02
05 | IL | MADISON COUNTY | 1704360085B | 10-JAN-2003 | 03-05-1129A | 02
05 | IL | MADISON COUNTY | 1704360105B | 07-MAR-2003 | 03-05-2000A | 02
05 | IL | MADISON COUNTY | 1704360120B | 25-JUN-2003 | 03-05-3729A | 02
05 | IL | MANHATTAN, VILLAGE OF | 17197C0295E | 17-APR-2003 | 03-05-0306P | 06
05 | IL | MANHATTAN, VILLAGE OF | 17197C0311E | 17-APR-2003 | 03-05-0306P | 06
05 | IL | MANHATTAN, VILLAGE OF | 17197C0311E | 06-JUN-2003 | 03-05-3503A | 02
05 | IL | MARION, CITY OF | 1707190002B | 09-APR-2003 | 03-05-2441A | 02
05 | IL | MATTESON, VILLAGE OF | 17031C0738F | 10-FEB-2003 | 03-05-1401A | 01
05 | IL | MATTESON, VILLAGE OF | 17031C0738F | 18-APR-2003 | 03-05-2270A | 01
05 | IL | MATTESON, VILLAGE OF | 17031C0738F | 18-JUN-2003 | 03-05-2314A | 01
05 | IL | MATTESON, VILLAGE OF | 17031C0719F | 30-MAY-2003 | 03-05-3164A | 01
05 | IL | MCHENRY COUNTY | 1707320025B | 22-JAN-2003 | 02-05-4595A | 02
05 | IL | MCHENRY COUNTY | 1707320115B | 15-JAN-2003 | 03-05-0716A | 02
05 | IL | MCHENRY COUNTY | 1707320355B | 31-JAN-2003 | 03-05-1031A | 02
05 | IL | MCHENRY COUNTY | 1707320240B | 04-APR-2003 | 03-05-1413A | 02
05 | IL | MCHENRY COUNTY | 1707320115B | 12-FEB-2003 | 03-05-1630A | 02
05 | IL | MCHENRY COUNTY | 1707320355B | 02-APR-2003 | 03-05-1821A | 02
05 | IL | MCHENRY COUNTY | 1707320210B | 12-MAR-2003 | 03-05-1944A | 02
05 | IL | MCHENRY COUNTY | 1707320230B | 26-MAR-2003 | 03-05-2035A | 02
05 | IL | MCHENRY COUNTY | 1707320240B | 02-MAY-2003 | 03-05-2829A | 02
05 | IL | MCHENRY COUNTY | 1707320225B | 04-JUN-2003 | 03-05-3445A | 02
05 | IL | MCHENRY COUNTY | 1707320240B | 18-JUN-2003 | 03-05-3791A | 02
05 | IL | MCHENRY, CITY OF | 1704830003D | 07-MAR-2003 | 03-05-1945A | 02
05 | IL | MCHENRY, CITY OF | 1704830003D | 16-MAY-2003 | 03-05-2594A | 02
05 | IL | MCLEAN COUNTY | 17113C0150D | 10-JAN-2003 | 02-05-4219A | 02
05 | IL | MCLEAN COUNTY | 17113C0150D | 26-FEB-2003 | 03-05-0648A | 02
05 | IL | MCLEAN COUNTY | 17113C0150D | 28-FEB-2003 | 03-05-1106A | 02
05 | IL | MCLEAN COUNTY | 17113C0150D | 22-JAN-2003 | 03-05-1224A | 02
05 | IL | MCLEAN COUNTY | 17113C0150D | 02-APR-2003 | 03-05-1517A | 02
05 | IL | MCLEAN COUNTY | 17113C0150D | 14-FEB-2003 | 03-05-1769A | 02
05 | IL | MCLEAN COUNTY | 17113C0300D | 30-APR-2003 | 03-05-2038A | 02
05 | IL | MCLEAN COUNTY | 17113C0675D | 21-MAY-2003 | 03-05-2674A | 02
05 | IL | MCLEAN COUNTY | 17113C0318D | 23-MAY-2003 | 03-05-3272A | 02
05 | IL | MCLEAN COUNTY | 17113C0510D | 23-MAY-2003 | 03-05-3272A | 02
05 | IL | MCLEAN COUNTY | 17113C0150D | 18-JUN-2003 | 03-05-3608A | 02
05 | IL | MIDLOTHIAN, VILLAGE OF | 17031C0726F | 16-MAY-2003 | 03-05-2688A | 02
05 | IL | MIDLOTHIAN, VILLAGE OF | 17031C0639F | 09-MAY-2003 | 03-05-3104A | 02
05 | IL | MIDLOTHIAN, VILLAGE OF | 17031C0726F | 28-MAY-2003 | 03-05-3154A | 02
05 | IL | MOKENA, VILLAGE OF | 17197C0195E | 14-FEB-2003 | 03-05-1591A | 02
05 | IL | MOLINE, CITY OF | 17161C0310E | 19-MAR-2003 | 03-05-1178A | 02
05 | IL | MOLINE, CITY OF | 17161C0328E | 02-MAY-2003 | 03-05-1523A | 02
05 | IL | MOLINE, CITY OF | 17161C0328E | 13-JUN-2003 | 03-05-2524A | 02
05 | IL | MOLINE, CITY OF | 17161C0328E | 20-JUN-2003 | 03-05-3857A | 02
05 | IL | MOLINE, CITY OF | 17161C0328E | 25-JUN-2003 | 03-05-3858A | 02
05 | IL | MOLINE, CITY OF | 17161C0328E | 18-JUN-2003 | 03-05-3861A | 02
05 | IL | MOLINE, CITY OF | 17161C0328E | 18-JUN-2003 | 03-05-3864A | 02
05 | IL | MOLINE, CITY OF | 17161C0330E | 18-JUN-2003 | 03-05-3864A | 02
05 | IL | MOLINE, CITY OF | 17161C0328E | 25-JUN-2003 | 03-05-3867A | 02
05 | IL | MOLINE, CITY OF | 17161C0330E | 25-JUN-2003 | 03-05-3867A | 02
05 | IL | MONROE COUNTY | 1705090125D | 30-MAY-2003 | 03-05-2288A | 02
05 | IL | MONROE COUNTY* | 1705090150D | 18-MAR-2003 | 03-05-0466A | 02
05 | IL | MONROE COUNTY* | 1705090035E | 18-MAR-2003 | 03-05-2120V | 19
05 | IL | MONROE COUNTY* | 1705090055E | 18-MAR-2003 | 03-05-2120V | 19
05 | IL | MONROE COUNTY* | 1705090150D | 18-MAR-2003 | 03-05-2120V | 19
05 | IL | MONTGOMERY, VILLAGE OF | 17089C0385F | 12-MAR-2003 | 03-05-1932A | 02
05 | IL | MORRIS, CITY OF | 1702630005C | 18-APR-2003 | 03-05-2489A | 02
05 | IL | MOUNT PROSPECT, VILLAGE OF | 17031C0204F | 28-FEB-2003 | 03-05-0849A | 02
05 | IL | MOUNT PROSPECT, VILLAGE OF | 17031C0209F | 02-APR-2003 | 03-05-1614A | 02
05 | IL | MOUNT PROSPECT, VILLAGE OF | 17031C0212F | 26-FEB-2003 | 03-05-1861A | 02
05 | IL | MOUNT PROSPECT, VILLAGE OF | 17031C0212F | 02-APR-2003 | 03-05-2048A | 17
05 | IL | MOUNT PROSPECT, VILLAGE OF | 17031C0216F | 05-MAR-2003 | 03-05-2052A | 02
05 | IL | MOUNT PROSPECT, VILLAGE OF | 17031C0216F | 07-MAR-2003 | 03-05-2086A | 02
05 | IL | MOUNT PROSPECT, VILLAGE OF | 17031C0216F | 09-APR-2003 | 03-05-2087A | 17
05 | IL | MOUNT PROSPECT, VILLAGE OF | 17031C0216F | 09-APR-2003 | 03-05-2088A | 17
05 | IL | MOUNT PROSPECT, VILLAGE OF | 17031C0212F | 25-APR-2003 | 03-05-2446A | 02
05 | IL | MOUNT PROSPECT, VILLAGE OF | 17031C0212F | 28-MAR-2003 | 03-05-2492A | 02
05 | IL | MOUNT PROSPECT, VILLAGE OF | 17031C0216F | 25-APR-2003 | 03-05-2993A | 02
05 | IL | NAPERVILLE, CITY OF | 1702130007C | 20-FEB-2003 | 03-05-1083A | 02
05 | IL | NAPERVILLE, CITY OF | 1702130007C | 27-MAR-2003 | 03-05-1672A | 02
05 | IL | NAPERVILLE, CITY OF | 1702130007C | 31-MAR-2003 | 03-05-1687A | 02
05 | IL | NAPERVILLE, CITY OF | 1702130007C | 07-APR-2003 | 03-05-2128A | 02
05 | IL | NAPERVILLE, CITY OF | 1702130007C | 07-APR-2003 | 03-05-2148A | 02
05 | IL | NAPERVILLE, CITY OF | 1702130021C | 04-APR-2003 | 03-05-0220P | 06
05 | IL | NAPERVILLE, CITY OF | 17197C0033F | 04-APR-2003 | 03-05-0220P | 06
05 | IL | NAPERVILLE, CITY OF | 17197C0033F | 02-MAY-2003 | 03-05-2722A | 02
05 | IL | NAPERVILLE, CITY OF | 17197C0034E | 02-MAY-2003 | 03-05-2722A | 02
05 | IL | NAPERVILLE, CITY OF | 17197C0034E | 16-MAY-2003 | 03-05-2723A | 01
05 | IL | NEW LENOX, VILLAGE OF | 17197C0190E | 04-APR-2003 | 03-05-1874A | 02
05 | IL | NORMAL, TOWN OF | 17113C0313D | 15-JAN-2003 | 03-05-1268A | 02
05 | IL | NORTH AURORA, VILLAGE OF | 17089C0340F | 06-FEB-2003 | 03-05-0396A | 02
05 | IL | NORTH AURORA, VILLAGE OF | 17089C0340F | 27-JUN-2003 | 03-05-2847A | 02
05 | IL | NORTHBROOK, VILLAGE OF | 17031C0227F | 16-MAY-2003 | 03-05-2846A | 02
05 | IL | NORTHFIELD, VILLAGE OF | 17031C0232F | 19-MAR-2003 | 03-05-1629A | 02
05 | IL | NORTHFIELD, VILLAGE OF | 17031C0231F | 12-MAR-2003 | 03-05-1908A | 01
05 | IL | NORTHFIELD, VILLAGE OF | 17031C0232F | 12-MAR-2003 | 03-05-1908A | 01
05 | IL | NORTHFIELD, VILLAGE OF | 17031C0231F | 12-MAR-2003 | 03-05-2019A | 02
05 | IL | NORTHFIELD, VILLAGE OF | 17031C0234F | 25-JUN-2003 | 03-05-2516A | 02
05 | IL | OAK BROOK, VILLAGE OF | 1702140002B | 16-JAN-2003 | 03-05-0390A | 02
05 | IL | OAK BROOK, VILLAGE OF | 1702140003B | 10-FEB-2003 | 03-05-0774A | 02
05 | IL | OAK FOREST, CITY OF | 17031C0707F | 15-JAN-2003 | 03-05-1228A | 02
05 | IL | OAK FOREST, CITY OF | 17031C0707F | 29-MAY-2003 | 03-05-1842P | 06
05 | IL | OAK FOREST, CITY OF | 17031C0707F | 30-MAY-2003 | 03-05-2211A | 01
05 | IL | OAK FOREST, CITY OF | 17031C0707F | 02-APR-2003 | 03-05-2425A | 02
05 | IL | OAK LAWN, VILLAGE OF | 17031C0609F | 22-JAN-2003 | 03-05-1245A | 02
05 | IL | OAK LAWN, VILLAGE OF | 17031C0609F | 06-JUN-2003 | 03-05-1573A | 02
05 | IL | OAK LAWN, VILLAGE OF | 17031C0609F | 16-APR-2003 | 03-05-2522A | 02
05 | IL | OAK LAWN, VILLAGE OF | 17031C0609F | 20-JUN-2003 | 03-05-3169A | 02
05 | IL | OGLE COUNTY | 1705250235A | 10-JAN-2003 | 03-05-0919A | 17
05 | IL | OGLE COUNTY | 1705250235A | 26-FEB-2003 | 03-05-1767A | 02
05 | IL | ORLAND PARK, VILLAGE OF | 17031C0692F | 15-JAN-2003 | 02-05-2981P | 05
05 | IL | ORLAND PARK, VILLAGE OF | 17031C0614F | 07-MAY-2003 | 03-05-1196A | 02
05 | IL | ORLAND PARK, VILLAGE OF | 17031C0702F | 06-JUN-2003 | 03-05-2860A | 02
05 | IL | ORLAND PARK, VILLAGE OF | 17031C0684F | 04-JUN-2003 | 03-05-2887A | 02
05 | IL | OTTAWA, CITY OF | 17099C0530E | 23-APR-2003 | 03-05-1269A | 02
05 | IL | PALATINE, VILLAGE OF | 17031C0179F | 15-JAN-2003 | 02-05-4182A | 02
05 | IL | PALATINE, VILLAGE OF | 17031C0183F | 19-MAR-2003 | 02-05-4192A | 01
05 | IL | PALATINE, VILLAGE OF | 17031C0181F | 04-APR-2003 | 03-05-1201A | 02
05 | IL | PALOS HILLS, CITY OF | 17031C0604F | 10-JAN-2003 | 03-05-1132A | 02
05 | IL | PALOS HILLS, CITY OF | 17031C0604F | 05-FEB-2003 | 03-05-1626A | 02
05 | IL | PALOS HILLS, CITY OF | 17031C0604F | 06-JUN-2003 | 03-05-3498A | 02
05 | IL | PALOS HILLS, CITY OF | 17031C0603F | 18-JUN-2003 | 03-05-3544A | 02
05 | IL | PALOS HILLS, CITY OF | 17031C0604F | 18-JUN-2003 | 03-05-3643A | 02
05 | IL | PALOS PARK, VILLAGE OF | 17031C0612F | 06-JUN-2003 | 03-05-2034A | 02
05 | IL | PEORIA, CITY OF | 1705360015B | 28-MAR-2003 | 03-05-1799A | 02
05 | IL | PEORIA, CITY OF | 1705360015B | 26-FEB-2003 | 03-05-1910A | 02
05 | IL | PERRY COUNTY | 1705380005B | 16-APR-2003 | 03-05-1783A | 02
05 | IL | PIATT COUNTY | 1705420004B | 26-MAR-2003 | 03-05-1954A | 02
05 | IL | PLAINFIELD, VILLAGE OF | 17197C0045F | 04-JUN-2003 | 03-05-3157A | 01
05 | IL | PONTIAC, CITY OF | 1704260001C | 28-MAR-2003 | 03-05-1406A | 02
05 | IL | PONTIAC, CITY OF | 1704260001C | 22-JAN-2003 | 03-05-1407A | 02
05 | IL | PONTIAC, CITY OF | 1704260001C | 07-MAR-2003 | 03-05-1860A | 02
05 | IL | PONTIAC, CITY OF | 1704260001C | 09-MAY-2003 | 03-05-3074A | 02
05 | IL | PONTOON BEACH, VILLAGE OF | 1704470001B | 15-JAN-2003 | 03-05-0128A | 02
05 | IL | PULASKI COUNTY | 1705620025A | 23-APR-2003 | 03-05-1240A | 02
05 | IL | PULASKI COUNTY | 1705620025A | 31-JAN-2003 | 03-05-1564A | 02
05 | IL | PULASKI COUNTY | 1705620025A | 28-FEB-2003 | 03-05-1617A | 02
05 | IL | QUINCY, CITY OF | 1700010160C | 26-FEB-2003 | 03-05-1340A | 02
05 | IL | RANDOLPH COUNTY | 1705750025B | 16-MAY-2003 | 03-05-3020A | 02
05 | IL | REYNOLDS, VILLAGE OF | 17161C0435E | 30-MAY-2003 | 03-05-2600A | 02
05 | IL | RICHLAND COUNTY | 1709950075B | 29-JAN-2003 | 03-05-1491A | 02
05 | IL | RIVERWOODS, VILLAGE OF | 17097C0259F | 06-JUN-2003 | 03-05-2118A | 17
05 | IL | RIVERWOODS, VILLAGE OF | 17097C0267G | 07-MAY-2003 | 03-05-2901A | 02
05 | IL | ROCK ISLAND COUNTY | 17161C0200E | 17-JAN-2003 | 03-05-0523A | 17
05 | IL | ROCK ISLAND COUNTY | 17161C0145E | 14-FEB-2003 | 03-05-1314A | 17
05 | IL | ROCK ISLAND COUNTY | 17161C0320E | 23-APR-2003 | 03-05-2724A | 02
05 | IL | ROCK ISLAND COUNTY | 17161C0275E | 18-JUN-2003 | 03-05-3329A | 02
05 | IL | ROCK ISLAND COUNTY | 17161C0145E | 23-MAY-2003 | 03-05-3342A | 01
05 | IL | ROCKFORD, CITY OF | 1707230014B | 21-MAR-2003 | 03-05-1528A | 02
05 | IL | ROLLING MEADOWS, CITY OF | 17031C0183F | 13-MAR-2003 | 03-05-0682A | 08
05 | IL | ROLLING MEADOWS, CITY OF | 17031C0183F | 10-FEB-2003 | 03-05-0683A | 17
05 | IL | ROSELLE, VILLAGE OF | 1702160002B | 17-MAR-2003 | 03-05-1659A | 02
05 | IL | ROUND LAKE BEACH, VILLAGE OF | 17097C0126F | 10-FEB-2003 | 03-05-0950A | 17
05 | IL | ROUND LAKE BEACH, VILLAGE OF | 17097C0127G | 31-JAN-2003 | 03-05-1347A | 02
05 | IL | ROUND LAKE BEACH, VILLAGE OF | 17097C0126F | 28-FEB-2003 | 03-05-1582A | 17
05 | IL | ROUND LAKE BEACH, VILLAGE OF | 17097C0126F | 20-JUN-2003 | 03-05-3647A | 02
05 | IL | ROUND LAKE, VILLAGE OF | 17097C0129F | 07-MAR-2003 | 03-05-1588A | 01
05 | IL | ROUND LAKE, VILLAGE OF | 17097C0128F | 02-MAY-2003 | 03-05-2620A | 01
05 | IL | ROUND LAKE, VILLAGE OF | 17097C0128F | 16-MAY-2003 | 03-05-3426X | 01
05 | IL | ROUND LAKE, VILLAGE OF | 17097C0129F | 16-MAY-2003 | 03-05-3426X | 01
05 | IL | ROUND LAKE, VILLAGE OF | 17097C0137F | 16-MAY-2003 | 03-05-3426X | 01
05 | IL | ROUND LAKE, VILLAGE OF | 17097C0140F | 16-MAY-2003 | 03-05-3426X | 01
05 | IL | SALEM, CITY OF | 1704540005B | 05-MAR-2003 | 03-05-1303A | 02
05 | IL | SANGAMON COUNTY * | 1709120250C | 16-JAN-2003 | 03-05-0043A | 02
05 | IL | SANGAMON COUNTY * | 1709120250C | 21-JAN-2003 | 03-05-0765A | 02
05 | IL | SANGAMON COUNTY * | 1709120135C | 16-JAN-2003 | 03-05-1360A | 01
05 | IL | SAYBROOK, VILLAGE OF | 17113C0600D | 04-APR-2003 | 03-05-1784A | 02
05 | IL | SHOREWOOD,VILLAGE OF | 17197C0140E | 07-MAR-2003 | 02-05-2985P | 06
05 | IL | SHOREWOOD,VILLAGE OF | 17197C0255E | 07-MAR-2003 | 02-05-2985P | 06
05 | IL | SHOREWOOD,VILLAGE OF | 17197C0139E | 22-JAN-2003 | 03-05-0132A | 01
05 | IL | SIDNEY, VILLAGE OF | 1700330001B | 25-JUN-2003 | 03-05-3936A | 02
05 | IL | SLEEPY HOLLOW, VILLAGE OF | 17089C0156F | 18-JUN-2003 | 03-05-3740A | 02
05 | IL | SOUTH ELGIN, VILLAGE OF | 17089C0251F | 17-APR-2003 | 03-05-1474P | 05
05 | IL | ST. CHARLES, CITY OF | 17089C0258F | 24-FEB-2003 | 03-05-0359A | 01
05 | IL | ST. CHARLES, CITY OF | 17089C0262F | 16-JAN-2003 | 03-05-0397A | 02
05 | IL | ST. CHARLES, CITY OF | 17089C0260F | 25-JUN-2003 | 03-05-3872A | 02
05 | IL | ST. CLAIR COUNTY * | 1706160070B | 03-APR-2003 | 03-05-1393A | 17
05 | IL | ST. CLAIR COUNTY * | 1706160035A | 24-MAR-2003 | 03-05-1394A | 02
05 | IL | STONE PARK, VILLAGE OF | 17031C0369F | 24-FEB-2003 | 03-05-0769A | 02
05 | IL | SWANSEA, VILLAGE OF | 1706370001B | 10-MAR-2003 | 03-05-0763A | 02
05 | IL | SYCAMORE, CITY OF | 17037C0076D | 16-MAY-2003 | 03-05-2837A | 02
05 | IL | TINLEY PARK, CITY OF | 17031C0717F | 26-MAR-2003 | 03-05-1343A | 01
05 | IL | TOWER LAKES, VILLAGE OF | 17097C0207F | 02-APR-2003 | 03-05-1625A | 02
05 | IL | TUSCOLA, CITY OF | 1701950005C | 15-JAN-2003 | 03-05-1252A | 17
05 | IL | TUSCOLA, CITY OF | 1701950005C | 14-MAR-2003 | 03-05-2200A | 02
05 | IL | TUSCOLA, CITY OF | 1701950005C | 30-MAY-2003 | 03-05-3124A | 02
05 | IL | UNION COUNTY | 1706560075B | 05-FEB-2003 | 03-05-0806A | 02
05 | IL | VERMILION COUNTY | 1709350003A | 04-APR-2003 | 03-05-2733A | 02
05 | IL | WARRENVILLE, CITY OF | 1702180001C | 20-MAR-2003 | 03-05-0770A | 17
05 | IL | WAUCONDA, VILLAGE OF | 17097C0119G | 02-MAY-2003 | 03-05-2750A | 01
05 | IL | WAUKEGAN, CITY OF | 17097C0088F | 14-MAY-2003 | 03-05-2971A | 02
05 | IL | WESTCHESTER, VILLAGE OF | 17031C0459F | 27-JAN-2003 | 03-05-1052A | 02
05 | IL | WESTCHESTER, VILLAGE OF | 17031C0476F | 13-FEB-2003 | 03-05-1065A | 02
05 | IL | WESTMONT, VILLAGE OF | 1702200001B | 24-APR-2003 | 03-05-2152A | 02
05 | IL | WHITE COUNTY | 1709060100B | 14-MAY-2003 | 03-05-2804A | 02
05 | IL | WILL COUNTY | 17197C0385E | 05-FEB-2003 | 02-05-1945C | 01
05 | IL | WILL COUNTY | 17197C0350E | 30-JUN-2003 | 02-05-3658P | 06
05 | IL | WILL COUNTY | 17197C0350E | 22-JAN-2003 | 02-05-4412A | 02
05 | IL | WILL COUNTY | 17197C0157E | 05-FEB-2003 | 02-05-4585A | 02
05 | IL | WILL COUNTY | 17197C0350E | 10-JAN-2003 | 03-05-0553A | 01
05 | IL | WILL COUNTY | 17197C0415E | 14-FEB-2003 | 03-05-1565A | 02
05 | IL | WILL COUNTY | 17197C0405E | 07-MAY-2003 | 03-05-1621A | 17
05 | IL | WILL COUNTY | 17197C0090E | 02-APR-2003 | 03-05-2294A | 02
05 | IL | WILL COUNTY | 17197C0195F | 23-APR-2003 | 03-05-2534A | 02
05 | IL | WILL COUNTY | 17197C0030E | 16-MAY-2003 | 03-05-3000A | 02
05 | IL | WILL COUNTY | 17197C0295E | 04-JUN-2003 | 03-05-3306A | 02
05 | IL | WILLOW SPRINGS, VILLAGE OF | 17031C0582F | 11-JUN-2003 | 03-05-2819A | 02
05 | IL | WINNEBAGO COUNTY | 1707200035B | 02-JUN-2003 | 03-05-0546P | 06
05 | IL | WINNEBAGO COUNTY | 1707200010B | 09-APR-2003 | 03-05-2258A | 17
05 | IL | WINNEBAGO COUNTY | 1707200005B | 28-MAY-2003 | 03-05-2762A | 02
05 | IL | WINNETKA, VILLAGE OF | 17031C0232F | 10-FEB-2003 | 03-05-1001A | 01
05 | IL | WOOD RIVER, CITY OF | 1704510005B | 07-MAR-2003 | 03-05-1806A | 02
05 | IL | WOODLAND, VILLAGE OF | 17075C0185D | 28-MAY-2003 | 03-05-2697A | 02
05 | IN | ADAMS COUNTY * | 1804240020C | 13-FEB-2003 | 03-05-0360A | 01
05 | IN | ALLEN COUNTY * | 18003C0305D | 06-FEB-2003 | 03-05-1070A | 17
05 | IN | ALLEN COUNTY * | 18003C0350D | 27-MAR-2003 | 03-05-1666A | 02
05 | IN | ALLEN COUNTY * | 18003C0410D | 24-MAR-2003 | 03-05-1685A | 02
05 | IN | ALLEN COUNTY * | 18003C0215D | 22-MAR-2003 | 03-05-800P | 05
05 | IN | AUBURN, CITY OF | 1800460005C | 27-JUN-2003 | 03-05-3888A | 02
05 | IN | BARTHOLOMEW COUNTY | 1800060050B | 08-JAN-2003 | 03-05-1045A | 02
05 | IN | BARTHOLOMEW COUNTY | 1800060100B | 26-FEB-2003 | 03-05-1771A | 02
05 | IN | BARTHOLOMEW COUNTY | 1800060075B | 25-APR-2003 | 03-05-1916A | 02
05 | IN | BARTHOLOMEW COUNTY | 1800060050B | 05-MAR-2003 | 03-05-2027A | 02
05 | IN | BARTHOLOMEW COUNTY | 1800060125B | 09-MAY-2003 | 03-05-3138A | 02
05 | IN | BARTHOLOMEW COUNTY | 1800060075B | 20-JUN-2003 | 03-05-3464A | 02
05 | IN | BARTHOLOMEW COUNTY | 1800060100B | 18-JUN-2003 | 03-05-3764A | 02
05 | IN | BLACKFORD COUNTY | 1804780004B | 25-APR-2003 | 03-05-3024A | 02
05 | IN | BLOOMINGTON, CITY OF | 1801690025C | 16-MAY-2003 | 03-05-1973A | 17
05 | IN | BOONE COUNTY | 1800110045B | 20-JUN-2003 | 03-05-1405A | 02
05 | IN | BOONE COUNTY | 1800110080C | 26-MAR-2003 | 03-05-2117A | 02
05 | IN | BOONE COUNTY | 1800110090B | 27-JUN-2003 | 03-05-2369A | 02
05 | IN | BOONE COUNTY | 1800110090B | 23-MAY-2003 | 03-05-2511A | 02
05 | IN | BROWN COUNTY | 1851740080B | 18-JUN-2003 | 03-05-3868A | 02
05 | IN | CARMEL, CITY OF | 18057C0205F | 14-APR-2003 | 03-05-047P | 05
05 | IN | CARMEL, CITY OF | 18057C0209F | 20-FEB-2003 | 03-05-1389V | 19
05 | IN | CARMEL, CITY OF | 18057C0226F | 20-FEB-2003 | 03-05-1389V | 19
05 | IN | CARMEL, CITY OF | 18057C0227F | 20-FEB-2003 | 03-05-1389V | 19
05 | IN | CARMEL, CITY OF | 18057C0228F | 20-FEB-2003 | 03-05-1389V | 19
05 | IN | CARMEL, CITY OF | 18057C0229F | 20-FEB-2003 | 03-05-1389V | 19
05 | IN | CARMEL, CITY OF | 18057C0235F | 20-FEB-2003 | 03-05-1389V | 19
05 | IN | CARMEL, CITY OF | 18057C0236F | 20-FEB-2003 | 03-05-1389V | 19
05 | IN | CARMEL, CITY OF | 18057CO209F | 20-FEB-2003 | 03-05-1389V | 19
05 | IN | CARMEL, CITY OF | 18057C0205F | 04-APR-2003 | 03-05-2323A | 02
05 | IN | CARMEL, CITY OF | 18057C0216F | 30-APR-2003 | 03-05-2527A | 02
05 | IN | CARMEL, CITY OF | 18057C0235F | 16-MAY-2003 | 03-05-3206A | 02
05 | IN | CARMEL, CITY OF | 18057C0227F | 16-MAY-2003 | 03-05-3304A | 02
05 | IN | CARMEL, CITY OF | 18057C0235F | 20-JUN-2003 | 03-05-3922A | 02
05 | IN | CARROLL COUNTY | 1800190025B | 25-APR-2003 | 03-05-2719A | 02
05 | IN | CARROLL COUNTY | 1800190025B | 28-MAY-2003 | 03-05-3404A | 02
05 | IN | CASS COUNTY | 1800220150B | 02-APR-2003 | 03-05-2214A | 02
05 | IN | CASS COUNTY | 1800220085B | 09-MAY-2003 | 03-05-2897A | 02
05 | IN | CICERO, TOWN OF | 18057C0045F | 20-FEB-2003 | 03-05-1388V | 19
05 | IN | CICERO, TOWN OF | 18057C0130F | 20-FEB-2003 | 03-05-1388V | 19
05 | IN | CICERO, TOWN OF | 18057C0135F | 20-FEB-2003 | 03-05-1388V | 19
05 | IN | CLARK COUNTY | 1804260175C | 19-MAR-2003 | 02-05-4140A | 01
05 | IN | CLARK COUNTY | 1804260125C | 15-JAN-2003 | 03-05-0944A | 02
05 | IN | CLARK COUNTY | 1804260050B | 05-FEB-2003 | 03-05-1050A | 01
05 | IN | CLARK COUNTY | 1804260125C | 05-FEB-2003 | 03-05-1050A | 01
05 | IN | CLARK COUNTY | 1804260175C | 22-JAN-2003 | 03-05-1302A | 02
05 | IN | CLARK COUNTY | 1804260125C | 21-FEB-2003 | 03-05-1348A | 02
05 | IN | CLARK COUNTY | 1804260175C | 12-FEB-2003 | 03-05-1480A | 01
05 | IN | CLARK COUNTY | 1804260175C | 29-JAN-2003 | 03-05-1545A | 02
05 | IN | CLARK COUNTY | 1804260125C | 07-MAR-2003 | 03-05-2061A | 02
05 | IN | CLARK COUNTY | 1804260175C | 16-APR-2003 | 03-05-2437A | 02
05 | IN | CLARK COUNTY | 1804260175C | 23-APR-2003 | 03-05-2681A | 02
05 | IN | CLARK COUNTY | 1804260175C | 27-JUN-2003 | 03-05-2691A | 01
05 | IN | CLARK COUNTY | 1804260175C | 06-JUN-2003 | 03-05-2738A | 02
05 | IN | CLARK COUNTY | 1804260175C | 09-MAY-2003 | 03-05-3191A | 02
05 | IN | CLARK COUNTY | 1804260175C | 20-JUN-2003 | 03-05-3424A | 02
05 | IN | CLARK COUNTY | 1804260175C | 04-JUN-2003 | 03-05-3453A | 02
05 | IN | CLARK COUNTY | 1804260125C | 13-JUN-2003 | 03-05-3487A | 02
05 | IN | CLARK COUNTY | 1804260175C | 11-JUN-2003 | 03-05-3530A | 02
05 | IN | CLARK COUNTY | 1804260125C | 18-JUN-2003 | 03-05-3730A | 02
05 | IN | CLINTON COUNTY | 1800290001B | 09-MAY-2003 | 03-05-2009A | 02
05 | IN | COLUMBUS, CITY OF | 1800070015D | 14-MAR-2003 | 03-05-1890A | 01
05 | IN | CORYDON, TOWN OF | 1800860005B | 06-JUN-2003 | 03-05-3472A | 02
05 | IN | DE KALB COUNTY | 1800440130B | 02-APR-2003 | 03-05-2345A | 02
05 | IN | DECATUR, CITY OF | 1800010005C | 03-FEB-2003 | 03-05-0268A | 17
05 | IN | DECATUR, CITY OF | 180010005C | 10-FEB-2003 | 03-05-1085A | 02
05 | IN | DELAWARE COUNTY | 1800510075C | 16-APR-2003 | 03-05-1820A | 17
05 | IN | ELKHART COUNTY | 1800560075A | 03-MAR-2003 | 03-05-0127A | 08
05 | IN | ELKHART COUNTY | 1800560075A | 15-JAN-2003 | 03-05-0824A | 02
05 | IN | ELKHART COUNTY | 1800560015B | 13-JUN-2003 | 03-05-3045A | 02
05 | IN | ELKHART, CITY OF | 1800570010C | 18-JUN-2003 | 03-05-2372A | 17
05 | IN | ELLETTSVILLE, TOWN OF | 1804440001B | 18-APR-2003 | 03-05-1511A | 02
05 | IN | ELLETTSVILLE, TOWN OF | 180170—01C | 25-JUN-2003 | 03-05-3189A | 02
05 | IN | ELLETTSVILLE, TOWN OF | 180170—01C | 21-MAY-2003 | 03-05-3407A | 02
05 | IN | ELLETTSVILLE, TOWN OF | 180170—01C | 21-MAY-2003 | 03-05-3408A | 02
05 | IN | EVANSVILLE, CITY OF | 1802570003B | 18-FEB-2003 | 03-05-1372A | 01
05 | IN | FAIRMOUNT, TOWN OF | 18053C0250D | 23-APR-2003 | 03-05-1960A | 02
05 | IN | FAYETTE COUNTY | 1804170004B | 25-APR-2003 | 03-05-1209A | 02
05 | IN | FISHERS, TOWN OF | 18057C0145F | 20-FEB-2003 | 03-05-1387V | 19
05 | IN | FISHERS, TOWN OF | 18057C0235F | 20-FEB-2003 | 03-05-1387V | 19
05 | IN | FISHERS, TOWN OF | 18057C0255F | 20-FEB-2003 | 03-05-1387V | 19
05 | IN | FISHERS, TOWN OF | 18057C0255F | 13-JUN-2003 | 03-05-3636A | 02
05 | IN | FLOYD COUNTY | 1804320050B | 14-FEB-2003 | 03-05-1577A | 02
05 | IN | FORT WAYNE, CITY OF | 18003C0260E | 05-MAR-2003 | 02-05-2904P | 05
05 | IN | FRANKLIN COUNTY | 18047C0020C | 28-MAR-2003 | 03-05-1780A | 02
05 | IN | FRANKLIN, CITY OF | 1801140002B | 12-MAR-2003 | 03-05-2007A | 02
05 | IN | GRANT COUNTY | 18053C0125D | 07-MAR-2003 | 03-05-1862A | 02
05 | IN | GRANT COUNTY | 18053C0150D | 07-MAR-2003 | 03-05-1862A | 02
05 | IN | GRANT COUNTY | 18053C0250D | 23-APR-2003 | 03-05-2610A | 02
05 | IN | GRANT COUNTY | 18053C0125D | 16-MAY-2003 | 03-05-2869A | 02
05 | IN | GRANT COUNTY | 18053C0165D | 14-MAY-2003 | 03-05-2943A | 02
05 | IN | GRANT COUNTY | 18053C0125D | 09-MAY-2003 | 03-05-3095A | 02
05 | IN | GREENE COUNTY | 1804360004A | 24-JAN-2003 | 03-05-1233A | 02
05 | IN | GREENE COUNTY | 1804360004A | 26-FEB-2003 | 03-05-1868A | 02
05 | IN | GREENE COUNTY | 1804360001A | 11-JUN-2003 | 03-05-3803A | 02
05 | IN | GREENFIELD, CITY OF | 1800840006C | 22-JAN-2003 | 03-05-0109A | 01
05 | IN | GREENFIELD, CITY OF | 1800840006C | 31-JAN-2003 | 03-05-0733A | 02
05 | IN | GREENFIELD, CITY OF | 1800840006C | 09-MAY-2003 | 03-05-1166A | 02
05 | IN | GREENFIELD, CITY OF | 1800840006C | 09-MAY-2003 | 03-05-1169A | 02
05 | IN | GREENSBURG, CITY OF | 1800430001B | 14-MAY-2003 | 03-05-2596A | 02
05 | IN | GREENWOOD, CITY OF | 1801150001B | 08-JAN-2003 | 03-05-0869A | 02
05 | IN | GREENWOOD, CITY OF | 1801110050C | 18-APR-2003 | 03-05-1947A | 01
05 | IN | GREENWOOD, CITY OF | 1801150004B | 04-JUN-2003 | 03-05-3357A | 02
05 | IN | HAMILTON COUNTY* | 18057C0165F | 31-MAR-2003 | 03-05-1066A | 01
05 | IN | HAMILTON COUNTY* | 18057C0025F | 20-FEB-2003 | 03-05-1390V | 19
05 | IN | HAMILTON COUNTY* | 18057C0065F | 20-FEB-2003 | 03-05-1390V | 19
05 | IN | HAMILTON COUNTY* | 18057C0070F | 20-FEB-2003 | 03-05-1390V | 19
05 | IN | HAMILTON COUNTY* | 18057C0145F | 20-FEB-2003 | 03-05-1390V | 19
05 | IN | HAMILTON COUNTY* | 18057C0155F | 20-FEB-2003 | 03-05-1390V | 19
05 | IN | HAMILTON COUNTY* | 18057C0160F | 20-FEB-2003 | 03-05-1390V | 19
05 | IN | HAMILTON COUNTY* | 18057C0165F | 20-FEB-2003 | 03-05-1390V | 19
05 | IN | HAMILTON COUNTY* | 18057C0265F | 20-FEB-2003 | 03-05-1390V | 19
05 | IN | HAMILTON, TOWN OF | 1802480001D | 21-MAY-2003 | 03-05-2907A | 02
05 | IN | HAMILTON, TOWN OF | 1802480001D | 09-MAY-2003 | 03-05-2958A | 02
05 | IN | HAMILTON, TOWN OF | 1802480001D | 21-MAY-2003 | 03-05-3343A | 02
05 | IN | HAMILTON, TOWN OF | 1802480001D | 21-MAY-2003 | 03-05-3351A | 02
05 | IN | HAMILTON, TOWN OF | 1802480001D | 21-MAY-2003 | 03-05-3352A | 02
05 | IN | HAMILTON, TOWN OF | 1802480001D | 30-MAY-2003 | 03-05-3475A | 02
05 | IN | HAMMOND, CITY OF | 1801340008B | 16-APR-2003 | 03-05-1955A | 01
05 | IN | HANCOCK COUNTY | 1804190100B | 10-JAN-2003 | 03-05-0589A | 02
05 | IN | HANCOCK COUNTY | 1804190100B | 22-JAN-2003 | 03-05-0877A | 02
05 | IN | HANCOCK COUNTY | 1804190025B | 12-FEB-2003 | 03-05-1644A | 02
05 | IN | HANCOCK COUNTY | 1804190100B | 04-APR-2003 | 03-05-2239A | 02
05 | IN | HANCOCK COUNTY | 1804190050B | 25-APR-2003 | 03-05-2885A | 02
05 | IN | HARRISON COUNTY | 1800850008B | 18-JUN-2003 | 03-05-2192A | 02
05 | IN | HENDRICKS COUNTY | 1804150050B | 31-JAN-2003 | 03-05-0582A | 17
05 | IN | HENDRICKS COUNTY | 1804150050B | 26-FEB-2003 | 03-05-1779A | 02
05 | IN | HENDRICKS COUNTY | 1804150100B | 14-MAR-2003 | 03-05-2008A | 02
05 | IN | HENDRICKS COUNTY | 1804150150B | 21-MAR-2003 | 03-05-2236A | 02
05 | IN | HENDRICKS COUNTY | 1804150100B | 21-MAY-2003 | 03-05-2608A | 02
05 | IN | HENDRICKS COUNTY | 1804150050B | 23-APR-2003 | 03-05-2872A | 02
05 | IN | HENDRICKS COUNTY | 1804150050B | 18-JUN-2003 | 03-05-3476A | 02
05 | IN | HIGHLAND, TOWN OF | 1851760001C | 24-JAN-2003 | 03-05-0325A | 01
05 | IN | HIGHLAND, TOWN OF | 1851760001C | 08-JAN-2003 | 03-05-0647A | 02
05 | IN | HOBART, CITY OF | 1801360005B | 15-JAN-2003 | 03-05-1163A | 02
05 | IN | HUNTINGTON COUNTY | 1804380125C | 05-MAR-2003 | 03-05-1914A | 02
05 | IN | HUNTINGTON COUNTY | 1804380075C | 06-JUN-2003 | 03-05-3465A | 02
05 | IN | INDIANAPOLIS, CITY OF | 18097C0241E | 18-APR-2003 | 02-05-4206A | 01
05 | IN | INDIANAPOLIS, CITY OF | 18097C0240E | 30-MAY-2003 | 03-05-0203A | 01
05 | IN | INDIANAPOLIS, CITY OF | 18097C0241E | 05-FEB-2003 | 03-05-0233A | 01
05 | IN | INDIANAPOLIS, CITY OF | 18097C0243E | 05-FEB-2003 | 03-05-0233A | 01
05 | IN | INDIANAPOLIS, CITY OF | 18097C0254E | 22-JAN-2003 | 03-05-0333A | 02
05 | IN | INDIANAPOLIS, CITY OF | 18097C0254E | 21-FEB-2003 | 03-05-0454A | 17
05 | IN | INDIANAPOLIS, CITY OF | 18097C0044E | 15-JAN-2003 | 03-05-0571A | 02
05 | IN | INDIANAPOLIS, CITY OF | 18097C0205E | 31-JAN-2003 | 03-05-0651A | 01
05 | IN | INDIANAPOLIS, CITY OF | 18097C0205E | 21-FEB-2003 | 03-05-0696A | 01
05 | IN | INDIANAPOLIS, CITY OF | 18097C0135E | 28-MAR-2003 | 03-05-0742A | 02
05 | IN | INDIANAPOLIS, CITY OF | 18097C0263E | 10-FEB-2003 | 03-05-0821A | 02
05 | IN | INDIANAPOLIS, CITY OF | 18097C0114E | 21-FEB-2003 | 03-05-0853A | 02
05 | IN | INDIANAPOLIS, CITY OF | 18097C0155E | 08-JAN-2003 | 03-05-0882A | 02
05 | IN | INDIANAPOLIS, CITY OF | 18097C0240E | 07-MAR-2003 | 03-05-0930A | 01
05 | IN | INDIANAPOLIS, CITY OF | 18097C0114E | 29-JAN-2003 | 03-05-1013A | 02
05 | IN | INDIANAPOLIS, CITY OF | 18097C0138E | 31-JAN-2003 | 03-05-1016A | 02
05 | IN | INDIANAPOLIS, CITY OF | 18097C0116E | 14-FEB-2003 | 03-05-1020A | 01
05 | IN | INDIANAPOLIS, CITY OF | 18097C0089E | 31-JAN-2003 | 03-05-1030A | 02
05 | IN | INDIANAPOLIS, CITY OF | 18097C0039E | 08-JAN-2003 | 03-05-1039A | 02
05 | IN | INDIANAPOLIS, CITY OF | 18097C0063E | 10-JAN-2003 | 03-05-1127A | 02
05 | IN | INDIANAPOLIS, CITY OF | 18097C0280E | 15-JAN-2003 | 03-05-1171A | 02
05 | IN | INDIANAPOLIS, CITY OF | 18097C0038E | 17-JAN-2003 | 03-05-1172A | 02
05 | IN | INDIANAPOLIS, CITY OF | 18097C0043E | 26-FEB-2003 | 03-05-1195A | 17
05 | IN | INDIANAPOLIS, CITY OF | 18097C0089E | 09-APR-2003 | 03-05-1243A | 02
05 | IN | INDIANAPOLIS, CITY OF | 18097C0254E | 24-JAN-2003 | 03-05-1321A | 02
05 | IN | INDIANAPOLIS, CITY OF | 18097C0254E | 29-JAN-2003 | 03-05-1409A | 02
05 | IN | INDIANAPOLIS, CITY OF | 18097C0109E | 02-APR-2003 | 03-05-1535A | 02
05 | IN | INDIANAPOLIS, CITY OF | 18097C0086E | 05-MAR-2003 | 03-05-1598A | 02
05 | IN | INDIANAPOLIS, CITY OF | 18097C0155E | 28-FEB-2003 | 03-05-1649A | 01
05 | IN | INDIANAPOLIS, CITY OF | 18097C0089E | 21-FEB-2003 | 03-05-1864A | 02
05 | IN | INDIANAPOLIS, CITY OF | 18097C0087E | 28-MAY-2003 | 03-05-1981A | 02
05 | IN | INDIANAPOLIS, CITY OF | 18097C0020E | 07-MAR-2003 | 03-05-2053A | 02
05 | IN | INDIANAPOLIS, CITY OF | 18097C0253E | 28-MAR-2003 | 03-05-2116A | 01
05 | IN | INDIANAPOLIS, CITY OF | 18097C0020E | 26-MAR-2003 | 03-05-2177A | 02
05 | IN | INDIANAPOLIS, CITY OF | 18097C0067E | 09-APR-2003 | 03-05-2196A | 02
05 | IN | INDIANAPOLIS, CITY OF | 18097C0262E | 09-APR-2003 | 03-05-2255A | 01
05 | IN | INDIANAPOLIS, CITY OF | 18097C0089E | 26-MAR-2003 | 03-05-2324A | 02
05 | IN | INDIANAPOLIS, CITY OF | 18097C0154E | 16-MAY-2003 | 03-05-2488A | 02
05 | IN | INDIANAPOLIS, CITY OF | 18097C0136E | 09-MAY-2003 | 03-05-2538A | 02
05 | IN | INDIANAPOLIS, CITY OF | 18097C0110E | 04-APR-2003 | 03-05-2607A | 02
05 | IN | INDIANAPOLIS, CITY OF | 18097C0155E | 09-APR-2003 | 03-05-2769A | 02
05 | IN | INDIANAPOLIS, CITY OF | 18097C0063E | 14-MAY-2003 | 03-05-2785A | 02
05 | IN | INDIANAPOLIS, CITY OF | 18097C0041E | 06-JUN-2003 | 03-05-2808A | 02
05 | IN | INDIANAPOLIS, CITY OF | 18097C0110E | 02-MAY-2003 | 03-05-2815A | 02
05 | IN | INDIANAPOLIS, CITY OF | 18097C0088E | 16-APR-2003 | 03-05-2849A | 02
05 | IN | INDIANAPOLIS, CITY OF | 18097C0089E | 16-APR-2003 | 03-05-2849A | 02
05 | IN | INDIANAPOLIS, CITY OF | 18097C0186E | 06-JUN-2003 | 03-05-3016A | 02
05 | IN | INDIANAPOLIS, CITY OF | 18097C0061E | 09-MAY-2003 | 03-05-3053A | 02
05 | IN | INDIANAPOLIS, CITY OF | 18097C0041E | 21-MAY-2003 | 03-05-3172A | 02
05 | IN | INDIANAPOLIS, CITY OF | 18097C0087E | 30-MAY-2003 | 03-05-3173A | 02
05 | IN | INDIANAPOLIS, CITY OF | 18097C0160E | 21-MAY-2003 | 03-05-3261A | 02
05 | IN | INDIANAPOLIS, CITY OF | 18097C0155E | 30-MAY-2003 | 03-05-3305A | 02
05 | IN | INDIANAPOLIS, CITY OF | 18097C0263E | 20-JUN-2003 | 03-05-3358A | 02
05 | IN | INDIANAPOLIS, CITY OF | 18097C0270E | 25-JUN-2003 | 03-05-3410A | 02
05 | IN | INDIANAPOLIS, CITY OF | 18097C0253E | 11-JUN-2003 | 03-05-3787A | 02
05 | IN | INDIANAPOLIS, CITY OF | 18097C0110E | 25-JUN-2003 | 03-05-3916A | 02
05 | IN | JACKSON COUNTY | 1804050210B | 15-JAN-2003 | 03-05-1305A | 02
05 | IN | JEFFERSONVILLE, CITY OF | 1800270005D | 09-MAY-2003 | 03-05-0322A | 02
05 | IN | JEFFERSONVILLE, CITY OF | 1800270005D | 31-JAN-2003 | 03-05-1447A | 02
05 | IN | JEFFERSONVILLE, CITY OF | 1800270005D | 23-MAY-2003 | 03-05-3151A | 02
05 | IN | JOHNSON COUNTY | 1801110050C | 31-JAN-2003 | 03-05-0627A | 02
05 | IN | JOHNSON COUNTY | 1801110100C | 17-JAN-2003 | 03-05-0722A | 02
05 | IN | JOHNSON COUNTY | 1801110100C | 10-JAN-2003 | 03-05-0937A | 02
05 | IN | JOHNSON COUNTY | 1801110100C | 31-JAN-2003 | 03-05-1592A | 02
05 | IN | JOHNSON COUNTY | 1801110050C | 04-JUN-2003 | 03-05-3429A | 02
05 | IN | JOHNSON COUNTY | 1801110050C | 25-JUN-2003 | 03-05-3963A | 02
05 | IN | JONESBORO, TOWN OF | 18053C0251D | 06-JUN-2003 | 03-05-2805A | 02
05 | IN | KOSCIUSKO COUNTY | 18085C0035C | 31-JAN-2003 | 03-05-0836A | 02
05 | IN | KOSCIUSKO COUNTY | 18085C0080C | 05-FEB-2003 | 03-05-0851A | 02
05 | IN | KOSCIUSKO COUNTY | 18085C0080C | 02-JAN-2003 | 03-05-0931A | 02
05 | IN | KOSCIUSKO COUNTY | 18085C0100C | 05-FEB-2003 | 03-05-1298A | 02
05 | IN | KOSCIUSKO COUNTY | 18085C0045C | 22-JAN-2003 | 03-05-1304A | 02
05 | IN | KOSCIUSKO COUNTY | 18085C0080C | 31-JAN-2003 | 03-05-1499A | 02
05 | IN | KOSCIUSKO COUNTY | 18085C0100C | 31-JAN-2003 | 03-05-1600A | 02
05 | IN | KOSCIUSKO COUNTY | 18085C0080C | 26-FEB-2003 | 03-05-1852A | 02
05 | IN | KOSCIUSKO COUNTY | 18085C0040C | 26-FEB-2003 | 03-05-1859A | 02
05 | IN | KOSCIUSKO COUNTY | 18085C0035C | 09-MAY-2003 | 03-05-1881A | 02
05 | IN | KOSCIUSKO COUNTY | 18085C0100C | 14-MAR-2003 | 03-05-2111A | 02
05 | IN | KOSCIUSKO COUNTY | 18085C0125C | 30-MAY-2003 | 03-05-2467A | 02
05 | IN | KOSCIUSKO COUNTY | 18085C0100C | 06-JUN-2003 | 03-05-2481A | 02
05 | IN | KOSCIUSKO COUNTY | 18085C0100C | 02-APR-2003 | 03-05-2518A | 02
05 | IN | KOSCIUSKO COUNTY | 18085C0035C | 09-APR-2003 | 03-05-2547A | 02
05 | IN | KOSCIUSKO COUNTY | 18085C0031C | 14-MAY-2003 | 03-05-2896A | 02
05 | IN | KOSCIUSKO COUNTY | 18085C0075C | 09-MAY-2003 | 03-05-2976A | 02
05 | IN | KOSCIUSKO COUNTY | 18085C0045C | 07-MAY-2003 | 03-05-3031A | 02
05 | IN | KOSCIUSKO COUNTY | 18085C0080C | 21-MAY-2003 | 03-05-3161A | 02
05 | IN | KOSCIUSKO COUNTY | 18085C0125C | 21-MAY-2003 | 03-05-3281A | 02
05 | IN | KOSCIUSKO COUNTY | 18085C0080C | 06-JUN-2003 | 03-05-3502A | 02
05 | IN | KOSCIUSKO COUNTY | 18085C0100C | 11-JUN-2003 | 03-05-3792A | 02
05 | IN | KOSCIUSKO COUNTY | 18085C0080C | 25-JUN-2003 | 03-05-3941A | 02
05 | IN | LA PORTE COUNTY | 1801440050C | 04-JUN-2003 | 03-05-3470A | 02
05 | IN | LAGRANGE COUNTY | 1801250001B | 31-JAN-2003 | 03-05-1612A | 02
05 | IN | LAGRANGE COUNTY | 1801250003B | 28-FEB-2003 | 03-05-1988A | 02
05 | IN | LAGRANGE COUNTY | 1801250004B | 23-APR-2003 | 03-05-2403A | 02
05 | IN | LAGRANGE COUNTY | 1801250003B | 11-JUN-2003 | 03-05-3428A | 02
05 | IN | LAKE COUNTY | 1801260105B | 07-APR-2003 | 02-05-3080P | 05
05 | IN | LAKE COUNTY | 1801260135B | 08-JAN-2003 | 03-05-0910A | 02
05 | IN | LAKE COUNTY | 1801260225B | 12-FEB-2003 | 03-05-1557A | 02
05 | IN | LAKE COUNTY | 1801260120B | 14-FEB-2003 | 03-05-1766A | 02
05 | IN | LAKE COUNTY | 1801260045B | 04-APR-2003 | 03-05-2315A | 02
05 | IN | LAKE COUNTY | 1801260120B | 18-JUN-2003 | 03-05-3204A | 02
05 | IN | LAWRENCEBURG, CITY OF | 1800410001B | 14-MAY-2003 | 03-05-2853A | 01
05 | IN | LEBANON, CITY OF | 1800130001D | 07-MAY-2003 | 03-05-2036A | 02
05 | IN | LIBERTY, TOWNSHIP OF | 1804880002A | 19-MAR-2003 | 03-05-0517A | 02
05 | IN | LIBERTY, TOWNSHIP OF | 1804880001A | 09-APR-2003 | 03-05-1966A | 02
05 | IN | LIBERTY, TOWNSHIP OF | 1804880002A | 27-JUN-2003 | 03-05-3924A | 02
05 | IN | MEDORA, TOWN OF | 1800980001B | 25-APR-2003 | 03-05-1342A | 02
05 | IN | MIAMI COUNTY | 1804090112B | 14-MAR-2003 | 03-05-2016A | 02
05 | IN | MICHIGAN CITY, CITY OF | 1801470010B | 16-MAY-2003 | 03-05-2187A | 01
05 | IN | MICHIGAN CITY, CITY OF | 1801470015B | 28-MAR-2003 | 03-05-2285A | 02
05 | IN | MICHIGAN CITY, CITY OF | 1801470015B | 27-JUN-2003 | 03-05-3958A | 02
05 | IN | MONROE COUNTY | 1804440005B | 31-JAN-2003 | 03-05-1554A | 02
05 | IN | MONROE COUNTY | 1804440002B | 16-MAY-2003 | 03-05-2940A | 02
05 | IN | MONTGOMERY COUNTY | 1804450006B | 05-FEB-2003 | 03-05-1508A | 02
05 | IN | MOORESVILLE, TOWN OF | 1803340003C | 11-JUN-2003 | 03-05-1331A | 17
05 | IN | MUNCIE, CITY OF | 1800530010C | 22-JAN-2003 | 03-05-1133A | 02
05 | IN | MUNCIE, CITY OF | 1800530010C | 07-MAR-2003 | 03-05-1437A | 02
05 | IN | MUNCIE, CITY OF | 1800530010C | 23-MAY-2003 | 03-05-3293A | 02
05 | IN | MUNCIE, CITY OF | 1800530010C | 25-JUN-2003 | 03-05-3331A | 02
05 | IN | MUNSTER, TOWN OF | 1801390002B | 02-JAN-2003 | 03-05-0587A | 02
05 | IN | MUNSTER, TOWN OF | 1801390002B | 26-FEB-2003 | 03-05-1739A | 02
05 | IN | MUNSTER, TOWN OF | 1801390002B | 04-APR-2003 | 03-05-1751A | 02
05 | IN | NASHVILLE, TOWN OF | 1800180001D | 02-MAY-2003 | 03-05-2832A | 02
05 | IN | NASHVILLE, TOWN OF | 1800180001D | 02-MAY-2003 | 03-05-2833A | 02
05 | IN | NEW ALBANY, CITY OF | 1800620010D | 09-MAY-2003 | 02-05-4767A | 01
05 | IN | NEW ALBANY, CITY OF | 1800620010D | 10-FEB-2003 | 03-05-0885A | 17
05 | IN | NEW CASTLE, CITY OF | 18065C0175C | 05-FEB-2003 | 03-05-0308A | 01
05 | IN | NEW HAVEN, CITY OF | 18003C0285E | 19-FEB-2003 | 03-05-799P | 05
05 | IN | NEW HAVEN, CITY OF | 18003C0305D | 19-FEB-2003 | 03-05-799P | 05
05 | IN | NEW WHITELAND, TOWN OF | 1801110020C | 12-FEB-2003 | 03-05-0238A | 01
05 | IN | NEWBURGH, TOWN OF | 1802760001B | 31-JAN-2003 | 03-05-1706A | 02
05 | IN | NOBLE COUNTY | 1801830075B | 05-FEB-2003 | 03-05-1707A | 02
05 | IN | NOBLE COUNTY | 1801830075B | 26-MAR-2003 | 03-05-1708A | 17
05 | IN | NOBLE COUNTY * | 1801830075B | 23-JAN-2003 | 03-05-1059A | 02
05 | IN | NOBLESVILLE, CITY OF | 1800820015E | 06-FEB-2003 | 03-05-1356A | 01
05 | IN | NOBLESVILLE, CITY OF | 18057C0155F | 13-MAR-2003 | 03-05-1376A | 02
05 | IN | NOBLESVILLE, CITY OF | 18057C0135F | 20-FEB-2003 | 03-05-1386V | 19
05 | IN | NOBLESVILLE, CITY OF | 18057C0145F | 20-FEB-2003 | 03-05-1386V | 19
05 | IN | NOBLESVILLE, CITY OF | 18057C0165F | 20-FEB-2003 | 03-05-1386V | 19
05 | IN | NOBLESVILLE, CITY OF | 18057C0235F | 20-FEB-2003 | 03-05-1386V | 19
05 | IN | NOBLESVILLE, CITY OF | 18057C0255F | 20-FEB-2003 | 03-05-1386V | 19
05 | IN | NOBLESVILLE, CITY OF | 18057C0260F | 20-FEB-2003 | 03-05-1386V | 19
05 | IN | NOBLESVILLE, CITY OF | 18057C0265F | 20-FEB-2003 | 03-05-1386V | 19
05 | IN | NOBLESVILLE, CITY OF | 18057C0270F | 20-FEB-2003 | 03-05-1386V | 19
05 | IN | NOBLESVILLE, CITY OF | 18057C0235F | 18-JUN-2003 | 03-05-2572P | 06
05 | IN | NOBLESVILLE, CITY OF | 18057C0245F | 18-JUN-2003 | 03-05-2572P | 06
05 | IN | NOBLESVILLE, CITY OF | 18057C0265F | 06-JUN-2003 | 03-05-2581A | 01
05 | IN | NOBLESVILLE, CITY OF | 18057C0155F | 02-MAY-2003 | 03-05-2883A | 02
05 | IN | NOBLESVILLE, CITY OF | 18057C0255F | 02-MAY-2003 | 03-05-2884A | 02
05 | IN | NOBLESVILLE, CITY OF | 18057C0265F | 02-MAY-2003 | 03-05-3129A | 02
05 | IN | NOBLESVILLE, CITY OF | 18057C0145F | 27-JUN-2003 | 03-05-3195A | 02
05 | IN | NOBLESVILLE, CITY OF | 18057C0145F | 11-JUN-2003 | 03-05-3737A | 02
05 | IN | NORTH MANCHESTER, TOWN OF | 18169C0030D | 25-APR-2003 | 03-05-2237A | 02
05 | IN | NORTH MANCHESTER, TOWN OF | 18169C0030D | 14-MAY-2003 | 03-05-3260X | 02
05 | IN | NORTH WEBSTER, TOWN OF | 18085C0045C | 27-JUN-2003 | 03-05-3142A | 02
05 | IN | OHIO COUNTY | 180406—02B | 31-JAN-2003 | 02-05-4734A | 02
05 | IN | PLAINFIELD, TOWN OF | 1804150100B | 22-JAN-2003 | 03-05-1254A | 02
05 | IN | PLAINFIELD, TOWN OF | 1800890001B | 26-FEB-2003 | 03-05-1875A | 02
05 | IN | PLAINFIELD, TOWN OF | 1800890001B | 26-MAR-2003 | 03-05-2316A | 02
05 | IN | PLAINFIELD, TOWN OF | 1804150100B | 28-MAR-2003 | 03-05-2365A | 02
05 | IN | PLAINFIELD, TOWN OF | 1804150100B | 19-MAR-2003 | 03-05-2371A | 02
05 | IN | PLAINFIELD, TOWN OF | 1804150110B | 28-MAY-2003 | 03-05-3152A | 02
05 | IN | PLAINFIELD, TOWN OF | 1804150100B | 11-JUN-2003 | 03-05-3468A | 02
05 | IN | PORTAGE, CITY OF | 1802020015B | 09-MAY-2003 | 03-05-2735A | 02
05 | IN | PORTER COUNTY | 1804250160B | 23-APR-2003 | 03-05-2462A | 02
05 | IN | PORTER COUNTY | 1804250060B | 09-MAY-2003 | 03-05-2942A | 02
05 | IN | POSEY COUNTY | 180209—16B | 22-JAN-2003 | 03-05-0727A | 02
05 | IN | PUTNAM COUNTY | 1802130003B | 23-MAY-2003 | 03-05-3202A | 02
05 | IN | SALEM, CITY OF | 1802790001B | 20-JUN-2003 | 03-05-1928A | 01
05 | IN | SCHERERVILLE, TOWN OF | 1801260085B | 27-JAN-2003 | 02-05-3647P | 05
05 | IN | SCHERERVILLE, TOWN OF | 1801420005B | 10-JAN-2003 | 03-05-0898A | 02
05 | IN | SCHERERVILLE, TOWN OF | 1801420005B | 07-MAR-2003 | 03-05-2055A | 02
05 | IN | SCHERERVILLE, TOWN OF | 1801420005B | 04-JUN-2003 | 03-05-3633A | 02
05 | IN | SCHERERVILLE, TOWN OF | 1801420005B | 06-JUN-2003 | 03-05-3637A | 02
05 | IN | SELLERSBURG, TOWN OF | 1804260125C | 26-MAR-2003 | 03-05-2014A | 01
05 | IN | SEYMOUR, CITY OF | 1800990004C | 31-JAN-2003 | 03-05-0219A | 17
05 | IN | SEYMOUR, CITY OF | 1800990004C | 29-JAN-2003 | 03-05-1552A | 02
05 | IN | SEYMOUR, CITY OF | 1800990004C | 16-APR-2003 | 03-05-1589A | 02
05 | IN | SEYMOUR, CITY OF | 1800990004C | 26-FEB-2003 | 03-05-1743A | 02
05 | IN | SEYMOUR, CITY OF | 1800990004C | 14-FEB-2003 | 03-05-1756A | 02
05 | IN | SEYMOUR, CITY OF | 1800990004C | 16-MAY-2003 | 03-05-2066A | 02
05 | IN | SEYMOUR, CITY OF | 1800990004C | 21-MAY-2003 | 03-05-2736A | 01
05 | IN | SEYMOUR, CITY OF | 1800990004C | 09-MAY-2003 | 03-05-2974A | 02
05 | IN | SEYMOUR, CITY OF | 1800990004C | 28-MAY-2003 | 03-05-3065A | 02
05 | IN | SEYMOUR, CITY OF | 1800990004C | 16-MAY-2003 | 03-05-3141A | 02
05 | IN | SEYMOUR, CITY OF | 1800990004C | 28-MAY-2003 | 03-05-3199A | 02
05 | IN | SHELBY COUNTY | 1802350150B | 26-MAR-2003 | 03-05-2307A | 02
05 | IN | SPEEDWAY, TOWN OF—USE CID 180159 | 18097C0136E | 28-JAN-2003 | 02-05-4779P | 05
05 | IN | SPENCER COUNTY | 1802370150A | 10-JAN-2003 | 03-05-0580A | 02
05 | IN | ST. JOHN, TOWN OF | 1801260080B | 14-FEB-2003 | 03-05-0586A | 02
05 | IN | ST. JOSEPH COUNTY | 1802240100A | 26-MAR-2003 | 03-05-1979A | 02
05 | IN | ST. JOSEPH COUNTY | 1802240075A | 16-MAY-2003 | 03-05-2450A | 02
05 | IN | ST. JOSEPH COUNTY | 1802240075A | 30-APR-2003 | 03-05-2775A | 02
05 | IN | STEUBEN COUNTY | 1802430025B | 10-JAN-2003 | 03-05-1115A | 02
05 | IN | STEUBEN COUNTY | 1802430100B | 29-JAN-2003 | 03-05-1241A | 02
05 | IN | STEUBEN COUNTY | 1802430025B | 24-JAN-2003 | 03-05-1259A | 02
05 | IN | STEUBEN COUNTY | 1802430075B | 22-JAN-2003 | 03-05-1323A | 02
05 | IN | STEUBEN COUNTY | 1802430025B | 29-JAN-2003 | 03-05-1326A | 02
05 | IN | STEUBEN COUNTY | 1802430025B | 22-JAN-2003 | 03-05-1350A | 02
05 | IN | STEUBEN COUNTY | 1802430025B | 31-JAN-2003 | 03-05-1566A | 02
05 | IN | STEUBEN COUNTY | 1802430025B | 05-FEB-2003 | 03-05-1655A | 02
05 | IN | STEUBEN COUNTY | 1802430025B | 10-FEB-2003 | 03-05-1729A | 02
05 | IN | STEUBEN COUNTY | 1802430025B | 26-FEB-2003 | 03-05-1894A | 02
05 | IN | STEUBEN COUNTY | 1802430025B | 14-MAR-2003 | 03-05-2328A | 02
05 | IN | STEUBEN COUNTY | 1802430025B | 28-MAR-2003 | 03-05-2337A | 02
05 | IN | STEUBEN COUNTY | 1802430100B | 14-MAR-2003 | 03-05-2342A | 02
05 | IN | STEUBEN COUNTY | 1802430100B | 19-MAR-2003 | 03-05-2419A | 02
05 | IN | STEUBEN COUNTY | 1802430100B | 28-MAR-2003 | 03-05-2420A | 02
05 | IN | STEUBEN COUNTY | 1802430025B | 18-APR-2003 | 03-05-2508A | 02
05 | IN | STEUBEN COUNTY | 1802430100B | 02-APR-2003 | 03-05-2529A | 02
05 | IN | STEUBEN COUNTY | 1802430100B | 16-MAY-2003 | 03-05-2945A | 02
05 | IN | STEUBEN COUNTY | 1802430025B | 06-JUN-2003 | 03-05-3270A | 02
05 | IN | STEUBEN COUNTY | 1802430100B | 30-MAY-2003 | 03-05-3504A | 02
05 | IN | STEUBEN COUNTY | 1802430075B | 18-JUN-2003 | 03-05-3545A | 02
05 | IN | SULPHUR SPRINGS, TOWN OF | 18065C0050C | 25-JUN-2003 | 03-05-2927A | 02
05 | IN | SWITZERLAND COUNTY | 1802510100B | 09-APR-2003 | 03-05-2375A | 02
05 | IN | TELL CITY, CITY OF | 180197—03B | 12-MAR-2003 | 03-05-0632A | 02
05 | IN | TELL CITY, CITY OF | 180197—06B | 22-JAN-2003 | 03-05-1327A | 02
05 | IN | TELL CITY, CITY OF | 180197—09B | 22-JAN-2003 | 03-05-1327A | 02
05 | IN | TELL CITY, CITY OF | 180197—06B | 09-MAY-2003 | 03-05-2926A | 02
05 | IN | TELL CITY, CITY OF | 180197—06B | 14-MAY-2003 | 03-05-2928A | 02
05 | IN | TIPPECANOE COUNTY | 1804280035B | 08-JAN-2003 | 03-05-0476A | 02
05 | IN | TIPPECANOE COUNTY | 1804280020B | 02-APR-2003 | 03-05-1774A | 02
05 | IN | TIPPECANOE COUNTY | 1804280080B | 26-FEB-2003 | 03-05-1912A | 02
05 | IN | TIPPECANOE COUNTY | 1804280050B | 21-MAY-2003 | 03-05-2442A | 02
05 | IN | TIPPECANOE COUNTY | 1804280030B | 28-MAY-2003 | 03-05-2766A | 01
05 | IN | TIPPECANOE COUNTY | 1804280095B | 28-MAY-2003 | 03-05-3439A | 02
05 | IN | TIPTON COUNTY | 1804750004B | 04-JUN-2003 | 03-05-2995A | 02
05 | IN | TIPTON, CITY OF | 1802550001C | 07-MAR-2003 | 03-05-2119A | 02
05 | IN | VANDERBURGH COUNTY * | 1802560050B | 08-JAN-2003 | 03-05-0378A | 02
05 | IN | VANDERBURGH COUNTY * | 1802560025C | 08-JAN-2003 | 03-05-1062A | 01
05 | IN | VANDERBURGH COUNTY * | 1802560025C | 08-JAN-2003 | 03-05-1068A | 01
05 | IN | VANDERBURGH COUNTY * | 1802560050B | 21-JAN-2003 | 03-05-1074A | 01
05 | IN | VANDERBURGH COUNTY * | 1802560025C | 10-JAN-2003 | 03-05-1075A | 01
05 | IN | VANDERBURGH COUNTY * | 1802560025C | 06-FEB-2003 | 03-05-1087A | 01
05 | IN | VANDERBURGH COUNTY * | 1802560025C | 27-JAN-2003 | 03-05-1089A | 01
05 | IN | VANDERBURGH COUNTY * | 1802560025C | 27-FEB-2003 | 03-05-1096A | 01
05 | IN | VANDERBURGH COUNTY * | 1802560025C | 03-FEB-2003 | 03-05-1097A | 01
05 | IN | VANDERBURGH COUNTY * | 1802560025C | 27-JAN-2003 | 03-05-1098A | 02
05 | IN | VANDERBURGH COUNTY * | 1802560025C | 30-JAN-2003 | 03-05-1099A | 02
05 | IN | VANDERBURGH COUNTY * | 1802560025C | 23-JAN-2003 | 03-05-1352A | 01
05 | IN | VANDERBURGH COUNTY * | 1802560015C | 30-JAN-2003 | 03-05-1365A | 01
05 | IN | VANDERBURGH COUNTY * | 1802560025C | 30-JAN-2003 | 03-05-1366A | 01
05 | IN | VANDERBURGH COUNTY * | 1802560100B | 03-MAR-2003 | 03-05-1379A | 02
05 | IN | VANDERBURGH COUNTY * | 1802560025C | 10-FEB-2003 | 03-05-1400A | 02
05 | IN | VANDERBURGH COUNTY * | 1802560025C | 18-FEB-2003 | 03-05-1663A | 01
05 | IN | VANDERBURGH COUNTY * | 1802560015C | 03-APR-2003 | 03-05-1667A | 02
05 | IN | VANDERBURGH COUNTY * | 1802560100B | 27-FEB-2003 | 03-05-1668A | 02
05 | IN | VANDERBURGH COUNTY * | 1802560025C | 06-MAR-2003 | 03-05-1676A | 01
05 | IN | VANDERBURGH COUNTY * | 1802560015C | 27-FEB-2003 | 03-05-1679A | 02
05 | IN | VANDERBURGH COUNTY * | 1802560025C | 10-MAR-2003 | 03-05-1697A | 02
05 | IN | VANDERBURGH COUNTY * | 1802560025C | 21-APR-2003 | 03-05-2133A | 02
05 | IN | VANDERBURGH COUNTY * | 1802560015C | 31-MAR-2003 | 03-05-2143A | 01
05 | IN | VANDERBURGH COUNTY * | 1802560025C | 20-MAR-2003 | 03-05-2144A | 01
05 | IN | VANDERBURGH COUNTY * | 1802560015C | 14-APR-2003 | 03-05-2156A | 01
05 | IN | VANDERBURGH COUNTY * | 1802560025C | 21-APR-2003 | 03-05-2159A | 01
05 | IN | VANDERBURGH COUNTY * | 1802560025C | 28-APR-2003 | 03-05-2635A | 01
05 | IN | VANDERBURGH COUNTY * | 1802560025C | 28-APR-2003 | 03-05-2636A | 01
05 | IN | VANDERBURGH COUNTY * | 1802560025C | 28-APR-2003 | 03-05-2649A | 02
05 | IN | VIGO COUNTY | 1802630130B | 15-JAN-2003 | 02-05-4733A | 02
05 | IN | VIGO COUNTY | 1802630070B | 29-JAN-2003 | 03-05-0291A | 17
05 | IN | VIGO COUNTY | 1802630070B | 28-MAR-2003 | 03-05-0484A | 01
05 | IN | VIGO COUNTY | 1802630070B | 24-JAN-2003 | 03-05-1255A | 02
05 | IN | VIGO COUNTY | 1802630070B | 18-JUN-2003 | 03-05-3526A | 02
05 | IN | WABASH COUNTY | 18169C0020D | 22-JAN-2003 | 03-05-1192A | 02
05 | IN | WABASH COUNTY | 18169C0030D | 14-MAY-2003 | 03-05-2080A | 02
05 | IN | WARRICK COUNTY | 1804180100C | 07-MAR-2003 | 03-05-1917A | 02
05 | IN | WARRICK COUNTY | 1804180200B | 04-JUN-2003 | 03-05-3360A | 02
05 | IN | WARRICK COUNTY * | 1804180175B | 30-JAN-2003 | 03-05-1354A | 02
05 | IN | WARSAW, CITY OF | 18085C0086C | 10-JAN-2003 | 03-05-1180A | 02
05 | IN | WARSAW, CITY OF | 18085C0086C | 21-MAY-2003 | 03-05-3089A | 02
05 | IN | WELLS COUNTY | 1802880100C | 31-JAN-2003 | 03-05-1179A | 02
05 | IN | WELLS COUNTY | 1802880100C | 30-APR-2003 | 03-05-2749A | 02
05 | IN | WEST LAFAYETTE, CITY OF | 1802540002C | 12-FEB-2003 | 03-05-0693A | 01
05 | IN | WEST LAFAYETTE, CITY OF | 1804280055B | 12-FEB-2003 | 03-05-0693A | 01
05 | IN | WEST LAFAYETTE, CITY OF | 1802540002C | 26-MAR-2003 | 03-05-2006A | 02
05 | IN | WESTFIELD, TOWN OF | 18057C0115F | 20-FEB-2003 | 03-05-1385V | 19
05 | IN | WESTFIELD, TOWN OF | 18057C0120F | 20-FEB-2003 | 03-05-1385V | 19
05 | IN | WESTFIELD, TOWN OF | 18057C0140F | 20-FEB-2003 | 03-05-1385V | 19
05 | IN | WESTFIELD, TOWN OF | 18057C0138F | 02-APR-2003 | 03-05-2477A | 01
05 | IN | WESTFIELD, TOWN OF | 18057C0140F | 30-APR-2003 | 03-05-2540A | 01
05 | IN | WESTFIELD, TOWN OF | 18057C0120F | 02-APR-2003 | 03-05-2550A | 02
05 | IN | WHITE COUNTY | 1804470002C | 12-MAR-2003 | 03-05-0959A | 02
05 | IN | WHITE COUNTY | 1804470002C | 31-JAN-2003 | 03-05-1434A | 02
05 | IN | WHITE COUNTY | 1804470002C | 07-MAR-2003 | 03-05-1647A | 02
05 | IN | WHITE COUNTY | 1804470002C | 21-MAR-2003 | 03-05-1938A | 02
05 | IN | WHITE COUNTY | 1804470002C | 07-MAY-2003 | 03-05-2791A | 02
05 | IN | WHITE COUNTY | 1804470005C | 14-MAY-2003 | 03-05-3006A | 02
05 | IN | WHITE COUNTY | 1804470005C | 16-MAY-2003 | 03-05-3123A | 02
05 | IN | WHITE COUNTY | 1804470005C | 11-JUN-2003 | 03-05-3438A | 02
05 | IN | WHITELAND, TOWN OF | 1801110100C | 14-MAY-2003 | 03-05-0298A | 01
05 | IN | WHITELAND, TOWN OF | 1801180001A | 23-APR-2003 | 03-05-0939A | 02
05 | IN | WHITELAND, TOWN OF | 1801180001A | 30-APR-2003 | 03-05-2827A | 02
05 | IN | WHITING, CITY OF | 1803130001C | 12-MAR-2003 | 02-05-3365A | 02
05 | IN | WHITING, CITY OF | 1803130001C | 27-MAR-2003 | 03-05-0112P | 08
05 | IN | WHITLEY COUNTY | 1802980002B | 21-MAY-2003 | 03-05-3077A | 02
05 | IN | WHITLEY COUNTY | 1802980001B | 16-MAY-2003 | 03-05-3282A | 02
05 | IN | WINONA LAKE, TOWN OF | 18085C0086C | 02-JAN-2003 | 03-05-1104A | 02
05 | IN | WINONA LAKE, TOWN OF | 18085C0086C | 14-MAY-2003 | 03-05-2322A | 02
05 | IN | WINONA LAKE, TOWN OF | 18085C0086C | 06-JUN-2003 | 03-05-2962A | 02
05 | IN | WINSLOW,TOWN OF | 180200—01B | 25-JUN-2003 | 03-05-3344A | 02
05 | MI | ALBEE, TOWNSHIP OF | 26145C0245D | 07-MAR-2003 | 03-05-1899A | 02
05 | MI | ALBEE, TOWNSHIP OF | 26145C0245D | 07-MAR-2003 | 03-05-2112A | 02
05 | MI | ALGONAC, CITY OF | 2601910001C | 14-MAR-2003 | 03-05-1811A | 02
05 | MI | ALGONAC, CITY OF | 2601910001C | 20-JUN-2003 | 03-05-1935A | 01
05 | MI | ALGONAC, CITY OF | 2601910001C | 07-MAY-2003 | 03-05-2474A | 02
05 | MI | ALGONAC, CITY OF | 2601910001C | 18-JUN-2003 | 03-05-3073A | 02
05 | MI | ALLENDALE, CHARTER TOWNSHIP OF | 2604900005B | 02-APR-2003 | 03-05-0964A | 02
05 | MI | ALPENA, CITY OF | 2600100005B | 14-MAR-2003 | 03-05-2010A | 02
05 | MI | ALPENA, TOWNSHIP OF | 2600110024B | 23-APR-2003 | 03-05-2717A | 02
05 | MI | ALPENA, TOWNSHIP OF | 2600110039C | 30-APR-2003 | 03-05-2789A | 02
05 | MI | ANN ARBOR, CITY OF | 2602130008D | 24-JAN-2003 | 03-05-1208A | 02
05 | MI | ATLAS, TOWNSHIP OF | 2603930005A | 02-APR-2003 | 03-05-1141A | 02
05 | MI | AUGRES, TOWNSHIP OF | 2600130025B | 18-JUN-2003 | 03-05-2679A | 02
05 | MI | BANGOR, CHARTER TOWNSHIP OF | 26017C0145D | 03-JAN-2003 | 03-05-0891A | 02
05 | MI | BANGOR, CHARTER TOWNSHIP OF | 26017C0140D | 05-FEB-2003 | 03-05-1049A | 02
05 | MI | BANGOR, CHARTER TOWNSHIP OF | 26017C0140D | 08-JAN-2003 | 03-05-1266A | 02
05 | MI | BANGOR, CHARTER TOWNSHIP OF | 26017C0140D | 14-MAR-2003 | 03-05-1549A | 01
05 | MI | BANGOR, CHARTER TOWNSHIP OF | 26017C0115D | 14-FEB-2003 | 03-05-1813A | 02
05 | MI | BANGOR, CHARTER TOWNSHIP OF | 26017C0140D | 14-MAR-2003 | 03-05-1869A | 02
05 | MI | BANGOR, CHARTER TOWNSHIP OF | 26017C0140D | 23-APR-2003 | 03-05-2672A | 02
05 | MI | BANGOR, CHARTER TOWNSHIP OF | 26017C0140D | 23-APR-2003 | 03-05-2857A | 02
05 | MI | BANGOR, CHARTER TOWNSHIP OF | 26017C0140D | 20-JUN-2003 | 03-05-3920A | 02
05 | MI | BANKS, TOWNSHIP OF | 2606430001B | 24-JAN-2003 | 03-05-0414A | 02
05 | MI | BANKS, TOWNSHIP OF | 2606430003B | 17-JAN-2003 | 03-05-1160A | 02
05 | MI | BANKS, TOWNSHIP OF | 2606430004B | 07-MAY-2003 | 03-05-2876A | 02
05 | MI | BANKS, TOWNSHIP OF | 2606430003B | 06-JUN-2003 | 03-05-3520A | 02
05 | MI | BAY MILLS, TOWNSHIP OF | 2603740025B | 08-JAN-2003 | 03-05-1222A | 02
05 | MI | BAY MILLS, TOWNSHIP OF | 2603740050B | 23-APR-2003 | 03-05-1937A | 02
05 | MI | BEAUGRAND, TOWNSHIP OF | 2606460002B | 16-MAY-2003 | 03-05-2835A | 02
05 | MI | BEDFORD, TOWNSHIP OF | 26115C0364D | 04-APR-2003 | 03-05-1424A | 02
05 | MI | BENTON, TOWNSHIP OF | 2600310002B | 02-MAY-2003 | 03-05-2068A | 01
05 | MI | BERLIN, TOWNSHIP OF | 26115C0136D | 23-MAY-2003 | 03-05-3100A | 02
05 | MI | BIG RAPIDS, TOWNSHIP OF | 260135—06B | 26-MAR-2003 | 03-05-1982A | 02
05 | MI | BLOOMFIELD, TOWNSHIP OF | 2601690016B | 29-JAN-2003 | 03-05-0926A | 02
05 | MI | BLOOMFIELD, TOWNSHIP OF | 2601690004C | 26-MAR-2003 | 03-05-2049A | 02
05 | MI | BRANT, TOWNSHIP OF | 26145C0225D | 17-JAN-2003 | 03-05-1444A | 02
05 | MI | BROOMFIELD, TOWNSHIP OF | 26073C0275C | 23-APR-2003 | 03-05-2807A | 02
05 | MI | BROWNSTOWN, CHARTER TOWNSHIP OF | 2602180010B | 31-JAN-2003 | 03-05-1217A | 02
05 | MI | BROWNSTOWN, CHARTER TOWNSHIP OF | 2602180015B | 21-MAY-2003 | 03-05-2084A | 02
05 | MI | BROWNSTOWN, CHARTER TOWNSHIP OF | 2602180010B | 09-MAY-2003 | 03-05-2809A | 17
05 | MI | BUCHANAN, TOWNSHIP OF | 2605550005A | 27-JUN-2003 | 03-05-3120A | 02
05 | MI | BUENA VISTA, TOWNSHIP OF | 26145C0085D | 14-FEB-2003 | 03-05-1150A | 02
05 | MI | BUENA VISTA, TOWNSHIP OF | 26145C0085D | 02-MAY-2003 | 03-05-2698A | 02
05 | MI | BUENA VISTA, TOWNSHIP OF | 26145C0085D | 23-APR-2003 | 03-05-2858A | 02
05 | MI | CADILLAC, CITY OF | 26165C0456C | 25-APR-2003 | 03-05-3026A | 01
05 | MI | CALEDONIA, TOWNSHIP OF | 2606930005B | 25-JUN-2003 | 03-05-3863A | 02
05 | MI | CANNON, TOWNSHIP OF | 2607340025A | 08-JAN-2003 | 03-05-0761A | 02
05 | MI | CANTON, TOWNSHIP OF | 2602190006B | 24-JUN-2003 | 02-05-3652P | 05
05 | MI | CANTON, TOWNSHIP OF | 2602190009B | 25-JUN-2003 | 03-05-3739A | 02
05 | MI | CARROLLTON, TOWNSHIP OF | 26145C0080D | 14-MAR-2003 | 03-05-0521A | 02
05 | MI | CARROLLTON, TOWNSHIP OF | 26145C0085D | 14-MAR-2003 | 03-05-0521A | 02
05 | MI | CARROLLTON, TOWNSHIP OF | 26145C0080D | 13-JUN-2003 | 03-05-3611X | 02
05 | MI | CASCADE, CHARTER TOWNSHIP OF | 2608140025A | 30-APR-2003 | 03-05-2357A | 02
05 | MI | CASEVILLE, TOWNSHIP OF | 2602570002A | 16-APR-2003 | 03-05-2463A | 02
05 | MI | CASTLETON, TOWNSHIP OF | 2606410010B | 02-APR-2003 | 03-05-2176A | 02
05 | MI | CHEBOYGAN, CITY OF | 2600580005B | 08-JAN-2003 | 03-05-1103A | 02
05 | MI | CHESTERFIELD, TOWNSHIP OF | 2601200010B | 28-FEB-2003 | 03-05-1183A | 02
05 | MI | CHESTERFIELD, TOWNSHIP OF | 2601200010B | 17-JAN-2003 | 03-05-1274A | 02
05 | MI | CHESTERFIELD, TOWNSHIP OF | 2601200010B | 28-MAR-2003 | 03-05-1561A | 02
05 | MI | CHESTERFIELD, TOWNSHIP OF | 2601200010B | 07-MAY-2003 | 03-05-2231A | 02
05 | MI | CHESTERFIELD, TOWNSHIP OF | 2601200010B | 09-MAY-2003 | 03-05-2593A | 02
05 | MI | CHESTERFIELD, TOWNSHIP OF | 2601200010B | 06-JUN-2003 | 03-05-3440A | 02
05 | MI | CHOCOLAY, TOWNSHIP OF | 2604480010B | 02-APR-2003 | 03-05-2039A | 02
05 | MI | CLARK, TOWNSHIP OF | 2607590050B | 10-JAN-2003 | 03-05-0993A | 02
05 | MI | CLARK, TOWNSHIP OF | 2607590050B | 08-JAN-2003 | 03-05-1113A | 02
05 | MI | CLARK, TOWNSHIP OF | 2607590050B | 09-MAY-2003 | 03-05-1753A | 02
05 | MI | CLARK, TOWNSHIP OF | 2607590050B | 25-APR-2003 | 03-05-2917A | 02
05 | MI | CLARKSTON, CITY OF THE VILLAGE OF | 2604720001B | 23-MAY-2003 | 03-05-2430D | 02
05 | MI | CLAY, TOWNSHIP OF | 2601940003B | 31-JAN-2003 | 03-05-1218A | 01
05 | MI | CLAY, TOWNSHIP OF | 2601940003B | 28-MAY-2003 | 03-05-3003A | 01
05 | MI | CLAY, TOWNSHIP OF | 2601940003B | 25-JUN-2003 | 03-05-3505A | 02
05 | MI | CLAY, TOWNSHIP OF | 2601940001B | 13-JUN-2003 | 03-05-3518A | 02
05 | MI | CLAY, TOWNSHIP OF | 2601940002B | 13-JUN-2003 | 03-05-3658A | 02
05 | MI | CLEVELAND, TOWNSHIP OF | 260302—09A | 08-JAN-2003 | 03-05-1010A | 02
05 | MI | CLINTON, CHARTER TOWNSHIP OF | 2601210005E | 21-MAR-2003 | 03-05-1637A | 02
05 | MI | CLINTON, CHARTER TOWNSHIP OF | 2601210005E | 12-MAR-2003 | 03-05-1735A | 02
05 | MI | COLDWATER, TOWNSHIP OF | 2608260010A | 14-MAR-2003 | 03-05-2064A | 02
05 | MI | COLON, TOWNSHIP OF | 2605100010A | 28-MAR-2003 | 03-05-1998A | 02
05 | MI | COMMERCE, TOWNSHIP OF | 2604730005B | 21-MAR-2003 | 03-05-1279A | 02
05 | MI | COMMERCE, TOWNSHIP OF | 2604730010B | 19-MAR-2003 | 03-05-2101A | 02
05 | MI | COTTRELLVILLE, TOWNSHIP OF | 2601960005B | 08-JAN-2003 | 03-05-0133A | 02
05 | MI | COTTRELLVILLE, TOWNSHIP OF | 2601960005B | 09-APR-2003 | 03-05-2476A | 02
05 | MI | DAVISON, CITY OF | 2600740005B | 03-JAN-2003 | 03-05-0088A | 02
05 | MI | DAVISON, TOWNSHIP OF | 2606640005B | 26-FEB-2003 | 03-05-0601A | 02
05 | MI | DE WITT, TOWNSHIP OF | 2606310005B | 23-MAY-2003 | 03-05-3130A | 02
05 | MI | DEARBORN HEIGHTS, CITY OF | 2602210007C | 10-FEB-2003 | 03-05-1301A | 02
05 | MI | DEARBORN HEIGHTS, CITY OF | 2602210007C | 21-MAY-2003 | 03-05-2780A | 02
05 | MI | DEARBORN HEIGHTS, CITY OF | 2602210007C | 23-MAY-2003 | 03-05-3101A | 02
05 | MI | DEARBORN HEIGHTS, CITY OF | 2602210007C | 30-MAY-2003 | 03-05-3165A | 02
05 | MI | DEARBORN, CITY OF | 2602200005D | 15-JAN-2003 | 03-05-0512A | 02
05 | MI | DEARBORN, CITY OF | 2602200005D | 23-APR-2003 | 03-05-2254A | 02
05 | MI | DEARBORN, CITY OF | 2602200005D | 28-MAR-2003 | 03-05-2396A | 02
05 | MI | DEARBORN, CITY OF | 2602200005D | 28-MAR-2003 | 03-05-2448A | 02
05 | MI | DEARBORN, CITY OF | 2602200005D | 25-APR-2003 | 03-05-2583A | 02
05 | MI | DEARBORN, CITY OF | 2602200005D | 07-MAY-2003 | 03-05-2856A | 02
05 | MI | DEEP RIVER, TOWNSHIP OF | 2603500010B | 14-FEB-2003 | 03-05-1571A | 02
05 | MI | DEEP RIVER, TOWNSHIP OF | 2603500010B | 06-JUN-2003 | 03-05-3441A | 02
05 | MI | DEERFIELD, TOWNSHIP OF | 26073C0285C | 21-MAR-2003 | 03-05-1590A | 02
05 | MI | DELHI, CHARTER TOWNSHIP OF | 2600880005C | 22-JAN-2003 | 03-05-1230A | 02
05 | MI | DELHI, CHARTER TOWNSHIP OF | 2600880005C | 05-FEB-2003 | 03-05-1415A | 17
05 | MI | DELHI, CHARTER TOWNSHIP OF | 2600880005C | 25-JUN-2003 | 03-05-3892A | 02
05 | MI | DELTA, CHARTER TOWNSHIP OF | 2600660005D | 28-MAY-2003 | 03-05-2210A | 02
05 | MI | DETOUR, TOWNSHIP OF | 2607750001A | 10-JAN-2003 | 03-05-0915A | 02
05 | MI | DETOUR, TOWNSHIP OF | 2607750001A | 12-FEB-2003 | 03-05-0917A | 02
05 | MI | DETOUR, TOWNSHIP OF | 2607750001A | 03-JAN-2003 | 03-05-0961A | 02
05 | MI | DETOUR, TOWNSHIP OF | 2607750001A | 21-MAR-2003 | 03-05-2073A | 02
05 | MI | DRUMMOND ISLAND, TOWNSHIP OF | 2608030025A | 14-FEB-2003 | 03-05-1497A | 02
05 | MI | DRUMMOND ISLAND, TOWNSHIP OF | 2608030075A | 14-MAR-2003 | 03-05-2207A | 02
05 | MI | DRUMMOND ISLAND, TOWNSHIP OF | 2608030100A | 02-APR-2003 | 03-05-2470A | 02
05 | MI | DRUMMOND ISLAND, TOWNSHIP OF | 2608030075A | 09-APR-2003 | 03-05-2708A | 02
05 | MI | DRUMMOND ISLAND, TOWNSHIP OF | 2608030075A | 11-JUN-2003 | 03-05-3603A | 02
05 | MI | EAST CHINA, TOWNSHIP OF | 2601970005B | 07-MAY-2003 | 03-05-2972A | 02
05 | MI | EAST LANSING, CITY OF | 2600890005B | 17-JAN-2003 | 03-05-1181A | 02
05 | MI | ELBA, TOWNSHIP OF | 2607760001A | 23-APR-2003 | 03-05-2818A | 02
05 | MI | ELBA, TOWNSHIP OF | 2607760001A | 09-MAY-2003 | 03-05-2950A | 02
05 | MI | ELMWOOD, TOWNSHIP OF | 2601130005C | 03-JAN-2003 | 03-05-0455A | 02
05 | MI | FABIUS, TOWNSHIP OF | 2607810025A | 08-JAN-2003 | 03-05-0906A | 02
05 | MI | FABIUS, TOWNSHIP OF | 2607810025A | 15-JAN-2003 | 03-05-1315A | 02
05 | MI | FABIUS, TOWNSHIP OF | 2607810025A | 14-FEB-2003 | 03-05-1519A | 02
05 | MI | FABIUS, TOWNSHIP OF | 2607810025A | 10-FEB-2003 | 03-05-1619A | 02
05 | MI | FABIUS, TOWNSHIP OF | 2607810025A | 26-FEB-2003 | 03-05-1858A | 02
05 | MI | FABIUS, TOWNSHIP OF | 2607810025A | 07-MAR-2003 | 03-05-1941A | 02
05 | MI | FABIUS, TOWNSHIP OF | 2607810025A | 07-MAR-2003 | 03-05-1989A | 02
05 | MI | FABIUS, TOWNSHIP OF | 2607810025A | 02-APR-2003 | 03-05-2409A | 02
05 | MI | FABIUS, TOWNSHIP OF | 2607810025A | 09-APR-2003 | 03-05-2411A | 02
05 | MI | FABIUS, TOWNSHIP OF | 2607810025A | 14-MAY-2003 | 03-05-3185A | 02
05 | MI | FARMINGTON HILLS, CITY OF | 2601720002C | 08-JAN-2003 | 03-05-1118A | 02
05 | MI | FARMINGTON HILLS, CITY OF | 2601720002C | 12-MAR-2003 | 03-05-1968A | 02
05 | MI | FARMINGTON HILLS, CITY OF | 2601720002C | 21-MAY-2003 | 03-05-2491A | 02
05 | MI | FARMINGTON HILLS, CITY OF | 2601720002C | 18-JUN-2003 | 03-05-2503A | 02
05 | MI | FARMINGTON HILLS, CITY OF | 2601720002C | 18-APR-2003 | 03-05-2779A | 02
05 | MI | FENTON, TOWNSHIP OF | 2603940009B | 13-JUN-2003 | 03-05-2512A | 02
05 | MI | FLAT ROCK, CITY OF | 2602240003B | 02-APR-2003 | 03-05-2354A | 02
05 | MI | FLAT ROCK, CITY OF | 2602240003B | 21-MAY-2003 | 03-05-2479A | 01
05 | MI | FLAT ROCK, CITY OF | 2602240003B | 20-JUN-2003 | 03-05-3655A | 02
05 | MI | FLAT ROCK, CITY OF | 2602240003B | 20-JUN-2003 | 03-05-3854A | 02
05 | MI | FORD RIVER, TOWNSHIP OF | 26041C0804C | 31-JAN-2003 | 03-05-1605A | 02
05 | MI | FORD RIVER, TOWNSHIP OF | 26041C0784C | 30-APR-2003 | 03-05-2911A | 02
05 | MI | FOWLERVILLE,VILLAGE OF | 2604390001A | 02-APR-2003 | 03-05-1493A | 02
05 | MI | FOWLERVILLE,VILLAGE OF | 2604390001A | 30-APR-2003 | 03-05-1714A | 02
05 | MI | FRASER, CITY OF | 2601220001B | 12-FEB-2003 | 03-05-1489A | 02
05 | MI | FRASER, CITY OF | 2601220001B | 16-APR-2003 | 03-05-1636A | 02
05 | MI | FRASER, CITY OF | 2601220001B | 19-MAR-2003 | 03-05-2105A | 02
05 | MI | FRASER, CITY OF | 2601220001B | 25-APR-2003 | 03-05-3028A | 02
05 | MI | FRASER, CITY OF | 2601220001B | 09-MAY-2003 | 03-05-3090A | 02
05 | MI | FRASER, TOWNSHIP OF | 26017C0110D | 10-FEB-2003 | 03-05-1248A | 02
05 | MI | FRENCHTOWN, CHARTER TOWNSHIP OF | 26115C0258D | 26-FEB-2003 | 03-05-1138A | 02
05 | MI | FRUITLAND, TOWNSHIP OF | 260265—02B | 18-JUN-2003 | 03-05-3719A | 02
05 | MI | GAINES, TOWNSHIP OF | 2602930004A | 10-FEB-2003 | 03-05-1238A | 02
05 | MI | GAINES, TOWNSHIP OF | 2602930008A | 25-APR-2003 | 03-05-2461A | 02
05 | MI | GARFIELD, TOWNSHIP OF | 2607660050A | 14-MAR-2003 | 03-05-1587A | 02
05 | MI | GARFIELD, TOWNSHIP OF | 2607660050A | 27-JUN-2003 | 03-05-3900A | 02
05 | MI | GEORGETOWN, CHARTER TOWNSHIP OF | 2605890005B | 08-JAN-2003 | 03-05-0889A | 02
05 | MI | GEORGETOWN, CHARTER TOWNSHIP OF | 2605890005B | 18-JUN-2003 | 03-05-2276A | 17
05 | MI | GEORGETOWN, CHARTER TOWNSHIP OF | 2605890005B | 07-MAY-2003 | 03-05-3091A | 02
05 | MI | GIBRALTAR, CITY OF | 2602260001B | 14-MAR-2003 | 03-05-1863A | 02
05 | MI | GRAND HAVEN, TOWNSHIP OF | 2602700005B | 02-APR-2003 | 03-05-2348A | 02
05 | MI | GRAND RAPIDS, CITY OF | 2601060025C | 13-FEB-2003 | 03-05-1069A | 02
05 | MI | GRAND RAPIDS, CITY OF | 2601060025C | 26-MAR-2003 | 03-05-1812A | 17
05 | MI | GRAND RAPIDS, CITY OF | 2601060005C | 11-APR-2003 | 03-05-1856A | 02
05 | MI | GRAND RAPIDS, CITY OF | 2601060025C | 19-MAR-2003 | 03-05-1873A | 02
05 | MI | GRAND RAPIDS, CITY OF | 2601060025C | 14-MAR-2003 | 03-05-1990A | 02
05 | MI | GRAND RAPIDS, CITY OF | 2601060005C | 18-JUN-2003 | 03-05-3806A | 02
05 | MI | GRANDVILLE, CITY OF | 2602710001B | 06-MAR-2003 | 03-05-1353A | 17
05 | MI | GRANDVILLE, CITY OF | 2602710002B | 20-JUN-2003 | 03-05-2932A | 01
05 | MI | GRANDVILLE, CITY OF | 2602710002B | 13-JUN-2003 | 03-05-3496A | 02
05 | MI | GRANT, TOWNSHIP OF | 2606100015A | 06-JUN-2003 | 03-05-3415A | 02
05 | MI | GREEN OAK, TOWNSHIP OF | 2604400005B | 30-APR-2003 | 03-05-1486A | 02
05 | MI | GREEN OAK, TOWNSHIP OF | 2604400015B | 21-MAY-2003 | 03-05-3394A | 02
05 | MI | GREENBUSH, TOWNSHIP OF | 2600010004C | 24-JAN-2003 | 03-05-1481A | 02
05 | MI | GREENBUSH, TOWNSHIP OF | 2600010004C | 09-APR-2003 | 03-05-1711A | 02
05 | MI | GREENBUSH, TOWNSHIP OF | 2600010004C | 26-FEB-2003 | 03-05-1853A | 02
05 | MI | GREENBUSH, TOWNSHIP OF | 2600010004C | 05-MAR-2003 | 03-05-1854A | 02
05 | MI | GREENBUSH, TOWNSHIP OF | 2600010004C | 26-FEB-2003 | 03-05-1930A | 02
05 | MI | GREENBUSH, TOWNSHIP OF | 2600010004C | 23-APR-2003 | 03-05-2298A | 02
05 | MI | GREENBUSH, TOWNSHIP OF | 2600010004C | 19-MAR-2003 | 03-05-2333A | 02
05 | MI | GREENBUSH, TOWNSHIP OF | 2600010007C | 21-MAY-2003 | 03-05-3105A | 02
05 | MI | GREENBUSH, TOWNSHIP OF | 2600010007C | 21-MAY-2003 | 03-05-3148A | 02
05 | MI | GREENBUSH, TOWNSHIP OF | 2600010007C | 25-JUN-2003 | 03-05-3891A | 02
05 | MI | GROSSE ILE, TOWNSHIP OF | 2602270010B | 02-JAN-2003 | 03-05-0908A | 02
05 | MI | GROSSE ILE, TOWNSHIP OF | 2602270010B | 05-FEB-2003 | 03-05-0994A | 02
05 | MI | GROSSE ILE, TOWNSHIP OF | 2602270010B | 15-JAN-2003 | 03-05-1025A | 01
05 | MI | GROSSE ILE, TOWNSHIP OF | 2602270010B | 26-FEB-2003 | 03-05-1122A | 02
05 | MI | GROSSE ILE, TOWNSHIP OF | 2602270010B | 10-FEB-2003 | 03-05-1648A | 02
05 | MI | HAMBURG, TOWNSHIP OF | 2601180010C | 14-MAR-2003 | 03-05-2074A | 02
05 | MI | HAMBURG, TOWNSHIP OF | 2601180010C | 02-APR-2003 | 03-05-2472A | 02
05 | MI | HAMPTON, TOWNSHIP OF | 26017C0190D | 05-FEB-2003 | 03-05-0425A | 02
05 | MI | HAMPTON, TOWNSHIP OF | 26017C0190D | 14-FEB-2003 | 03-05-1185A | 02
05 | MI | HAMPTON, TOWNSHIP OF | 26017C0185D | 02-APR-2003 | 03-05-1867A | 01
05 | MI | HAMPTON, TOWNSHIP OF | 26017C0190D | 21-MAR-2003 | 03-05-2022X | 02
05 | MI | HAMPTON, TOWNSHIP OF | 26017C0190D | 14-MAR-2003 | 03-05-2060A | 02
05 | MI | HAMPTON, TOWNSHIP OF | 26017C0185D | 23-MAY-2003 | 03-05-3156X | 01
05 | MI | HAMPTON, TOWNSHIP OF | 26017C0185D | 06-JUN-2003 | 03-05-3300A | 02
05 | MI | HAMPTON, TOWNSHIP OF | 26017C0185D | 20-JUN-2003 | 03-05-3820A | 02
05 | MI | HARRISON, TOWNSHIP OF | 2601230005C | 14-MAR-2003 | 03-05-0243A | 02
05 | MI | HARRISON, TOWNSHIP OF | 2601230010C | 08-JAN-2003 | 03-05-0984A | 02
05 | MI | HARRISON, TOWNSHIP OF | 2601230010C | 31-JAN-2003 | 03-05-1032A | 02
05 | MI | HARRISON, TOWNSHIP OF | 2601230005C | 21-FEB-2003 | 03-05-1131A | 02
05 | MI | HARRISON, TOWNSHIP OF | 2601230010C | 21-FEB-2003 | 03-05-1154A | 02
05 | MI | HARRISON, TOWNSHIP OF | 2601230010C | 26-FEB-2003 | 03-05-1479A | 01
05 | MI | HARRISON, TOWNSHIP OF | 2601230005C | 26-FEB-2003 | 03-05-1748A | 02
05 | MI | HARRISON, TOWNSHIP OF | 2601230010C | 12-MAR-2003 | 03-05-1795A | 02
05 | MI | HARRISON, TOWNSHIP OF | 2601230005C | 09-APR-2003 | 03-05-1895A | 02
05 | MI | HARRISON, TOWNSHIP OF | 2601230005C | 21-MAR-2003 | 03-05-1997A | 02
05 | MI | HARRISON, TOWNSHIP OF | 2601230005C | 12-MAR-2003 | 03-05-1999A | 02
05 | MI | HARRISON, TOWNSHIP OF | 2601230005C | 28-MAY-2003 | 03-05-2012A | 02
05 | MI | HARRISON, TOWNSHIP OF | 2601230010C | 14-MAR-2003 | 03-05-2029A | 02
05 | MI | HARRISON, TOWNSHIP OF | 2601230005C | 28-MAY-2003 | 03-05-2042A | 01
05 | MI | HARRISON, TOWNSHIP OF | 2601230010C | 28-MAY-2003 | 03-05-2042A | 01
05 | MI | HARRISON, TOWNSHIP OF | 2601230005C | 19-MAR-2003 | 03-05-2293A | 02
05 | MI | HARRISON, TOWNSHIP OF | 2601230005C | 16-APR-2003 | 03-05-2327A | 02
05 | MI | HARRISON, TOWNSHIP OF | 2601230005C | 02-APR-2003 | 03-05-2339A | 02
05 | MI | HARRISON, TOWNSHIP OF | 2601230010C | 19-MAR-2003 | 03-05-2340A | 02
05 | MI | HARRISON, TOWNSHIP OF | 2601230010C | 16-MAY-2003 | 03-05-2402A | 02
05 | MI | HARRISON, TOWNSHIP OF | 2601230010C | 16-APR-2003 | 03-05-2453A | 02
05 | MI | HARRISON, TOWNSHIP OF | 2601230005C | 16-APR-2003 | 03-05-2497A | 02
05 | MI | HARRISON, TOWNSHIP OF | 2601230005C | 09-APR-2003 | 03-05-2686A | 02
05 | MI | HARRISON, TOWNSHIP OF | 2601230005C | 23-APR-2003 | 03-05-2772A | 02
05 | MI | HARRISON, TOWNSHIP OF | 2601230005C | 25-APR-2003 | 03-05-2783A | 02
05 | MI | HARRISON, TOWNSHIP OF | 2601230005C | 16-MAY-2003 | 03-05-2920A | 02
05 | MI | HARRISON, TOWNSHIP OF | 2601230005C | 07-MAY-2003 | 03-05-3127A | 02
05 | MI | HARRISON, TOWNSHIP OF | 2601230005C | 14-MAY-2003 | 03-05-3208A | 02
05 | MI | HARRISON, TOWNSHIP OF | 2601230005C | 23-MAY-2003 | 03-05-3395A | 02
05 | MI | HARRISON, TOWNSHIP OF | 2601230010C | 11-JUN-2003 | 03-05-3480A | 02
05 | MI | HARRISON, TOWNSHIP OF | 2601230005C | 25-JUN-2003 | 03-05-3944A | 02
05 | MI | HART, CITY OF | 260484—01A | 02-MAY-2003 | 03-05-2469A | 02
05 | MI | HARTLAND, TOWNSHIP OF | 2607840005B | 08-JAN-2003 | 03-05-0918A | 02
05 | MI | HAY, TOWNSHIP OF | 2609840001A | 19-MAR-2003 | 03-05-2181A | 02
05 | MI | HAYNES, TOWNSHIP OF | 260274—04A | 13-JUN-2003 | 03-05-3485A | 02
05 | MI | HENDERICKS, TOWNSHIP OF | 2608060050B | 31-JAN-2003 | 03-05-1311A | 02
05 | MI | HOLLAND, TOWNSHIP OF | 2604920003D | 31-JAN-2003 | 03-05-1040A | 02
05 | MI | HOLLAND, TOWNSHIP OF | 2604920004D | 08-JAN-2003 | 03-05-1109A | 02
05 | MI | HOLLAND, TOWNSHIP OF | 2604920006D | 10-JAN-2003 | 03-05-1205A | 02
05 | MI | HOLLY, TOWNSHIP OF | 2604740002B | 14-FEB-2003 | 03-05-1764A | 02
05 | MI | HOPE, TOWNSHIP OF | 2606810010B | 08-JAN-2003 | 03-05-1151A | 02
05 | MI | HOWELL, CITY OF | 2604410002B | 16-MAY-2003 | 03-05-3058A | 02
05 | MI | HUDSONVILLE, CITY OF | 2604930002A | 08-JAN-2003 | 03-05-1145A | 02
05 | MI | IDA, TOWNSHIP OF | 26115C0355D | 19-MAR-2003 | 03-05-1777A | 02
05 | MI | IDA, TOWNSHIP OF | 26115C0355D | 28-MAR-2003 | 03-05-2224A | 02
05 | MI | INDEPENDENCE, TOWNSHIP OF | 2604750008B | 08-JAN-2003 | 03-05-1008A | 02
05 | MI | INDEPENDENCE, TOWNSHIP OF | 2604750006B | 14-MAR-2003 | 03-05-2092A | 02
05 | MI | INDEPENDENCE, TOWNSHIP OF | 2604750008B | 14-MAR-2003 | 03-05-2092A | 02
05 | MI | INDEPENDENCE, TOWNSHIP OF | 2604750006B | 19-MAR-2003 | 03-05-2188A | 02
05 | MI | INDEPENDENCE, TOWNSHIP OF | 2604750007B | 02-APR-2003 | 03-05-2410A | 02
05 | MI | INDEPENDENCE, TOWNSHIP OF | 2604750008B | 23-MAY-2003 | 03-05-2430A | 02
05 | MI | INDEPENDENCE, TOWNSHIP OF | 2604750006B | 20-JUN-2003 | 03-05-3728A | 02
05 | MI | IRONWOOD, TOWNSHIP OF | 2604030003B | 10-JAN-2003 | 02-05-4789A | 02
05 | MI | JAMES, TOWNSHIP OF | 26145C0130D | 10-JAN-2003 | 03-05-1251A | 02
05 | MI | JAMES, TOWNSHIP OF | 26145C0130D | 05-FEB-2003 | 03-05-1496A | 02
05 | MI | JAMES, TOWNSHIP OF | 26145C0130D | 14-MAR-2003 | 03-05-2085A | 02
05 | MI | JAMES, TOWNSHIP OF | 26145C0130D | 09-MAY-2003 | 03-05-3112A | 02
05 | MI | JAMES, TOWNSHIP OF | 26145C0125D | 18-JUN-2003 | 03-05-3434A | 02
05 | MI | JOHNSTOWN, TOWNSHIP OF | 260355—07A | 04-JUN-2003 | 03-05-3425A | 02
05 | MI | KAWKAWLIN, TOWNSHIP OF | 26017C0110D | 10-FEB-2003 | 03-05-0403A | 02
05 | MI | KAWKAWLIN, TOWNSHIP OF | 26017C0110D | 28-MAY-2003 | 03-05-2881A | 02
05 | MI | KIMBALL, TOWNSHIP OF | 260594—09A | 26-FEB-2003 | 03-05-0600A | 02
05 | MI | LAKE ORION, VILLAGE OF | 2605880001A | 24-JAN-2003 | 03-05-0975A | 02
05 | MI | LAKE ORION, VILLAGE OF | 2605880001A | 20-JUN-2003 | 03-05-3853A | 02
05 | MI | LANSING, CITY OF | 2600900006B | 28-FEB-2003 | 03-05-1887A | 02
05 | MI | LEELANAU, TOWNSHIP OF | 260114—10B | 29-JAN-2003 | 03-05-1284A | 02
05 | MI | LEELANAU, TOWNSHIP OF | 260114—11B | 29-JAN-2003 | 03-05-1284A | 02
05 | MI | LEELANAU, TOWNSHIP OF | 260114—10B | 31-JAN-2003 | 03-05-1550A | 02
05 | MI | LEELANAU, TOWNSHIP OF | 260114—07B | 11-JUN-2003 | 03-05-2382A | 02
05 | MI | LEELANAU, TOWNSHIP OF | 260114—07B | 11-JUN-2003 | 03-05-2923A | 02
05 | MI | LEELANAU, TOWNSHIP OF | 260114—07B | 16-MAY-2003 | 03-05-3303A | 02
05 | MI | LEELANAU, TOWNSHIP OF | 260114—20B | 11-JUN-2003 | 03-05-3767A | 02
05 | MI | LIVONIA, CITY OF | 2602330003B | 28-MAY-2003 | 03-05-2530A | 17
05 | MI | LONG LAKE, TOWNSHIP OF | 2607820025A | 10-FEB-2003 | 03-05-0954A | 02
05 | MI | MACOMB, TOWNSHIP OF | 2604450020B | 26-JUN-2003 | 02-05-1637P | 05
05 | MI | MACOMB, TOWNSHIP OF | 2604450020B | 19-MAY-2003 | 02-05-1639P | 05
05 | MI | MACOMB, TOWNSHIP OF | 2604450010B | 08-JAN-2003 | 03-05-0456A | 01
05 | MI | MACOMB, TOWNSHIP OF | 2604450010B | 14-MAR-2003 | 03-05-2089A | 02
05 | MI | MACOMB, TOWNSHIP OF | 2604450010B | 02-APR-2003 | 03-05-2485A | 02
05 | MI | MACOMB, TOWNSHIP OF | 2604450010B | 28-MAY-2003 | 03-05-2979A | 01
05 | MI | MACOMB, TOWNSHIP OF | 2604450010B | 18-JUN-2003 | 03-05-3515A | 02
05 | MI | MACOMB, TOWNSHIP OF | 2604450010B | 13-JUN-2003 | 03-05-3709A | 02
05 | MI | MANISTEE, TOWNSHIP OF | 2601320005B | 14-MAR-2003 | 02-05-4163A | 02
05 | MI | MASONVILLE, TOWNSHIP OF | 26041C0438C | 23-MAY-2003 | 03-05-2598A | 02
05 | MI | MENOMINEE, TOWNSHIP OF | 2607020030B | 14-MAR-2003 | 03-05-1246A | 02
05 | MI | MENOMINEE, TOWNSHIP OF | 2607020030B | 17-JAN-2003 | 03-05-1430A | 02
05 | MI | MENOMINEE, TOWNSHIP OF | 2607020030B | 26-MAR-2003 | 03-05-2058A | 02
05 | MI | MENOMINEE, TOWNSHIP OF | 2607020015B | 27-JUN-2003 | 03-05-3076A | 02
05 | MI | MENOMINEE, TOWNSHIP OF | 2607020025B | 20-JUN-2003 | 03-05-3192A | 02
05 | MI | MENOMINEE, TOWNSHIP OF | 2607020030B | 25-JUN-2003 | 03-05-3484A | 02
05 | MI | MERIDIAN, CHARTER TOWNSHIP OF | 2600930015B | 08-JAN-2003 | 03-05-0965A | 02
05 | MI | MERIDIAN, CHARTER TOWNSHIP OF | 2600930013B | 08-JAN-2003 | 03-05-1046A | 02
05 | MI | MERIDIAN, CHARTER TOWNSHIP OF | 2600930015B | 31-JAN-2003 | 03-05-1534A | 17
05 | MI | MERIDIAN, CHARTER TOWNSHIP OF | 2600930010B | 10-FEB-2003 | 03-05-1633A | 02
05 | MI | MERIDIAN, CHARTER TOWNSHIP OF | 2600930015B | 26-FEB-2003 | 03-05-1855A | 02
05 | MI | MERIDIAN, CHARTER TOWNSHIP OF | 2600930015B | 26-FEB-2003 | 03-05-1918A | 02
05 | MI | MERIDIAN, CHARTER TOWNSHIP OF | 2600930010B | 14-MAR-2003 | 03-05-1992A | 02
05 | MI | MERIDIAN, CHARTER TOWNSHIP OF | 2600930010B | 14-MAR-2003 | 03-05-2208A | 02
05 | MI | MERIDIAN, CHARTER TOWNSHIP OF | 2600930015B | 16-APR-2003 | 03-05-2694A | 02
05 | MI | MERIDIAN, CHARTER TOWNSHIP OF | 2600930015B | 30-MAY-2003 | 03-05-2777A | 02
05 | MI | MERIDIAN, CHARTER TOWNSHIP OF | 2600930015B | 09-MAY-2003 | 03-05-3271A | 02
05 | MI | MERIDIAN, CHARTER TOWNSHIP OF | 2600930010B | 25-JUN-2003 | 03-05-3942A | 02
05 | MI | MIDLAND, CITY OF | 2601400007D | 02-APR-2003 | 03-05-1737A | 02
05 | MI | MIDLAND, CITY OF | 2601400007D | 09-MAY-2003 | 03-05-2330A | 02
05 | MI | MONROE, CITY OF | 26115C0242D | 11-JUN-2003 | 03-05-1936A | 02
05 | MI | MONROE, CITY OF | 26115C0241D | 18-APR-2003 | 03-05-2770A | 02
05 | MI | MORAN, TOWNSHIP OF | 2604430075B | 11-JUN-2003 | 03-05-3312A | 02
05 | MI | MORLEY, VILLAGE OF | 260585—01A | 21-MAR-2003 | 03-05-2096A | 02
05 | MI | NILES, TOWNSHIP OF | 260041—08B | 30-APR-2003 | 03-05-2468A | 02
05 | MI | NILES, TOWNSHIP OF | 260041—07B | 23-APR-2003 | 03-05-2899A | 02
05 | MI | NORTHVILLE, CITY OF | 2602350001B | 05-FEB-2003 | 03-05-0402A | 02
05 | MI | NORTHVILLE, TOWNSHIP OF | 2606690005B | 10-FEB-2003 | 02-05-1846P | 06
05 | MI | NORTON SHORES, CITY OF | 2601650001A | 12-MAR-2003 | 03-05-0972A | 02
05 | MI | NORVELL, TOWNSHIP OF | 260424—03A | 05-FEB-2003 | 03-05-1594A | 02
05 | MI | NORVELL, TOWNSHIP OF | 260424—03A | 05-FEB-2003 | 03-05-1595A | 02
05 | MI | NORVELL, TOWNSHIP OF | 260424—03A | 05-FEB-2003 | 03-05-1597A | 02
05 | MI | NORVELL, TOWNSHIP OF | 260424—10A | 02-APR-2003 | 03-05-2392A | 02
05 | MI | NORVELL, TOWNSHIP OF | 260424—10A | 02-MAY-2003 | 03-05-2757A | 02
05 | MI | NOTTAWA, TOWNSHIP OF | 26073C0175C | 26-MAR-2003 | 02-05-4530A | 02
05 | MI | NOVI, CITY OF | 2601750009C | 13-FEB-2003 | 02-05-4110A | 08
05 | MI | NOVI, CITY OF | 2601750005C | 08-JAN-2003 | 03-05-0859A | 02
05 | MI | NOVI, CITY OF | 2601750006C | 21-MAY-2003 | 03-05-1456P | 05
05 | MI | NOVI, CITY OF | 2601750005C | 19-MAR-2003 | 03-05-2296A | 02
05 | MI | NOVI, CITY OF | 2601750009C | 23-APR-2003 | 03-05-2318A | 01
05 | MI | NOVI, CITY OF | 2601750009C | 18-APR-2003 | 03-05-2848A | 17
05 | MI | ONEIDA, TOWNSHIP OF | 2600700005B | 12-MAR-2003 | 03-05-2026A | 02
05 | MI | ONEIDA, TOWNSHIP OF | 2600700008B | 12-MAR-2003 | 03-05-2026A | 02
05 | MI | ONEKAMA, TOWNSHIP OF | 2602760001B | 26-FEB-2003 | 03-05-0816A | 02
05 | MI | ONEKAMA, TOWNSHIP OF | 2602760001B | 09-APR-2003 | 03-05-2426A | 02
05 | MI | ONOTA, TOWNSHIP OF | 2603450025B | 26-MAR-2003 | 03-05-2098A | 02
05 | MI | ORCHARD LAKE VILLAGE, CITY OF | 2604770005A | 08-JAN-2003 | 03-05-1036A | 02
05 | MI | OSCODA, TOWNSHIP OF | 2601010025C | 04-JUN-2003 | 03-05-3397A | 02
05 | MI | OWOSSO, CITY OF | 2605960002B | 17-JAN-2003 | 03-05-1082V | 19
05 | MI | OWOSSO, CITY OF | 2605960004B | 17-JAN-2003 | 03-05-1082V | 19
05 | MI | OWOSSO, CITY OF | 2605960003B | 06-JUN-2003 | 03-05-2912A | 02
05 | MI | OWOSSO, CITY OF | 2605960004B | 20-JUN-2003 | 03-05-3605A | 02
05 | MI | OWOSSO, TOWNSHIP OF | 2608090005A | 24-JAN-2003 | 03-05-1520A | 02
05 | MI | PARK, TOWNSHIP OF | 2601850001B | 23-APR-2003 | 03-05-2905A | 02
05 | MI | PENTWATER, VILLAGE OF | 2602770001B | 08-JAN-2003 | 03-05-1135A | 02
05 | MI | PITTSFIELD, CHARTER TOWNSHIP OF | 2606230020C | 21-MAY-2003 | 03-05-2838A | 02
05 | MI | PLAINFIELD, TOWNSHIP OF | 2601090005B | 08-APR-2003 | 03-05-376P | 05
05 | MI | PLYMOUTH, CHARTER TOWNSHIP OF | 2602370005C | 05-FEB-2003 | 03-05-0721A | 17
05 | MI | PLYMOUTH, CITY OF | 2602360001C | 28-MAR-2003 | 03-05-2169A | 02
05 | MI | PLYMOUTH, CITY OF | 2602360001C | 16-MAY-2003 | 03-05-3023A | 17
05 | MI | PORT AUSTIN, TOWNSHIP OF | 260290—06C | 18-APR-2003 | 03-05-2526A | 02
05 | MI | PORT AUSTIN, TOWNSHIP OF | 260290—04C | 18-APR-2003 | 03-05-2601A | 02
05 | MI | RABER, TOWNSHIP OF | 2607860025A | 26-FEB-2003 | 03-05-1741A | 02
05 | MI | RABER, TOWNSHIP OF | 2607860025A | 18-JUN-2003 | 03-05-3531A | 02
05 | MI | RABER, TOWNSHIP OF | 2607860025A | 20-JUN-2003 | 03-05-3901A | 02
05 | MI | REDFORD, TOWNSHIP OF | 2602380005B | 31-JAN-2003 | 03-05-0880A | 02
05 | MI | REDFORD, TOWNSHIP OF | 2602380005B | 28-MAY-2003 | 03-05-3422A | 02
05 | MI | RIVERVIEW, CITY OF | 2602400005C | 02-MAY-2003 | 03-05-2821A | 02
05 | MI | RUSH, TOWNSHIP OF | 260522—06A | 27-JUN-2003 | 03-05-3139A | 02
05 | MI | SAGINAW, TOWNSHIP OF | 26145C0130D | 23-APR-2003 | 03-05-0458A | 01
05 | MI | SAGINAW, TOWNSHIP OF | 26145C0130D | 21-FEB-2003 | 03-05-1794A | 02
05 | MI | SAGINAW, TOWNSHIP OF | 26145C0130D | 18-JUN-2003 | 03-05-3841A | 02
05 | MI | SCIO, TOWNSHIP OF | 2605370008A | 02-JAN-2003 | 03-05-0201A | 02
05 | MI | SELMA, TOWNSHIP OF | 26165C0338C | 10-JAN-2003 | 03-05-1206A | 02
05 | MI | SELMA, TOWNSHIP OF | 26165C0338C | 31-JAN-2003 | 03-05-1533A | 02
05 | MI | SHELBY, TOWNSHIP OF | 2601260020B | 10-JAN-2003 | 02-05-4195A | 02
05 | MI | SHELBY, TOWNSHIP OF | 2601260020B | 05-MAR-2003 | 03-05-0897A | 02
05 | MI | SHELBY, TOWNSHIP OF | 2601260015B | 12-MAR-2003 | 03-05-1942A | 02
05 | MI | SHELBY, TOWNSHIP OF | 2601260010B | 26-MAR-2003 | 03-05-1963A | 02
05 | MI | SHELBY, TOWNSHIP OF | 2601260020B | 16-MAY-2003 | 03-05-2747A | 02
05 | MI | SHELBY, TOWNSHIP OF | 2601260010B | 25-APR-2003 | 03-05-2753A | 02
05 | MI | SHELBY, TOWNSHIP OF | 2601260020B | 11-JUN-2003 | 03-05-3285A | 02
05 | MI | SHERMAN, TOWNSHIP OF | 26073C0165C | 09-MAY-2003 | 03-05-2043A | 17
05 | MI | SHIAWASSEE, TOWNSHIP OF | 260523—01A | 04-JUN-2003 | 03-05-3346A | 02
05 | MI | SILVER CREEK, TOWNSHIP OF | 26036907B | 10-JAN-2003 | 03-05-1285A | 02
05 | MI | SILVER CREEK, TOWNSHIP OF | 26036901B | 31-JAN-2003 | 03-05-1542A | 02
05 | MI | SOUTH HAVEN, CITY OF | 2602110002B | 04-JUN-2003 | 03-05-3008A | 02
05 | MI | SOUTH ROCKWOOD, VILLAGE OF | 26115C0109D | 08-JAN-2003 | 03-05-0901A | 02
05 | MI | SPRING LAKE, TOWNSHIP OF | 2602810002B | 27-JUN-2003 | 03-05-3122A | 02
05 | MI | SPRING LAKE, VILLAGE OF | 2602820001B | 16-MAY-2003 | 03-05-1950A | 02
05 | MI | ST. CHARLES, VILLAGE OF | 26145C0230D | 18-JUN-2003 | 03-05-2871A | 02
05 | MI | ST. CLAIR SHORES, CITY OF | 2601270005B | 08-JAN-2003 | 03-05-0953A | 02
05 | MI | ST. CLAIR SHORES, CITY OF | 2601270005B | 21-MAR-2003 | 03-05-0958A | 02
05 | MI | ST. CLAIR SHORES, CITY OF | 2601270005B | 08-JAN-2003 | 03-05-0983A | 02
05 | MI | ST. CLAIR SHORES, CITY OF | 2601270005B | 31-JAN-2003 | 03-05-1157A | 02
05 | MI | ST. CLAIR SHORES, CITY OF | 2601270005B | 10-JAN-2003 | 03-05-1167A | 02
05 | MI | ST. CLAIR SHORES, CITY OF | 2601270005B | 10-JAN-2003 | 03-05-1168A | 02
05 | MI | ST. CLAIR SHORES, CITY OF | 2601270005B | 05-FEB-2003 | 03-05-1226A | 02
05 | MI | ST. CLAIR SHORES, CITY OF | 2601270005B | 24-JAN-2003 | 03-05-1291A | 02
05 | MI | ST. CLAIR SHORES, CITY OF | 2601270005B | 10-JAN-2003 | 03-05-1332A | 02
05 | MI | ST. CLAIR SHORES, CITY OF | 2601270005B | 22-JAN-2003 | 03-05-1333A | 02
05 | MI | ST. CLAIR SHORES, CITY OF | 2601270005B | 31-JAN-2003 | 03-05-1349A | 02
05 | MI | ST. CLAIR SHORES, CITY OF | 2601270005B | 23-APR-2003 | 03-05-1448A | 02
05 | MI | ST. CLAIR SHORES, CITY OF | 2601270005B | 31-JAN-2003 | 03-05-1569A | 02
05 | MI | ST. CLAIR SHORES, CITY OF | 2601270005B | 31-JAN-2003 | 03-05-1570A | 02
05 | MI | ST. CLAIR SHORES, CITY OF | 2601270005B | 26-FEB-2003 | 03-05-1721A | 02
05 | MI | ST. CLAIR SHORES, CITY OF | 2601270005B | 10-FEB-2003 | 03-05-1722A | 02
05 | MI | ST. CLAIR SHORES, CITY OF | 2601270005B | 26-FEB-2003 | 03-05-1931A | 02
05 | MI | ST. CLAIR SHORES, CITY OF | 2601270005B | 07-MAR-2003 | 03-05-2041A | 02
05 | MI | ST. CLAIR SHORES, CITY OF | 2601270005B | 14-MAR-2003 | 03-05-2182A | 02
05 | MI | ST. CLAIR SHORES, CITY OF | 2601270005B | 19-MAR-2003 | 03-05-2183A | 02
05 | MI | ST. CLAIR SHORES, CITY OF | 2601270005B | 21-MAR-2003 | 03-05-2184A | 02
05 | MI | ST. CLAIR SHORES, CITY OF | 2601270005B | 02-APR-2003 | 03-05-2266A | 02
05 | MI | ST. CLAIR SHORES, CITY OF | 2601270005B | 09-MAY-2003 | 03-05-2331A | 02
05 | MI | ST. CLAIR SHORES, CITY OF | 2601270005B | 13-JUN-2003 | 03-05-2383A | 02
05 | MI | ST. CLAIR SHORES, CITY OF | 2601270005B | 02-APR-2003 | 03-05-2405A | 02
05 | MI | ST. CLAIR SHORES, CITY OF | 2601270005B | 09-APR-2003 | 03-05-2443A | 02
05 | MI | ST. CLAIR SHORES, CITY OF | 2601270005B | 09-APR-2003 | 03-05-2504A | 02
05 | MI | ST. CLAIR SHORES, CITY OF | 2601270005B | 09-APR-2003 | 03-05-2521A | 02
05 | MI | ST. CLAIR SHORES, CITY OF | 2601270005B | 23-MAY-2003 | 03-05-2536A | 02
05 | MI | ST. CLAIR SHORES, CITY OF | 2601270005B | 16-APR-2003 | 03-05-2591A | 02
05 | MI | ST. CLAIR SHORES, CITY OF | 2601270005B | 23-APR-2003 | 03-05-2619A | 02
05 | MI | ST. CLAIR SHORES, CITY OF | 2601270005B | 23-APR-2003 | 03-05-2758A | 02
05 | MI | ST. CLAIR SHORES, CITY OF | 2601270005B | 18-APR-2003 | 03-05-2767A | 02
05 | MI | ST. CLAIR SHORES, CITY OF | 2601270005B | 30-APR-2003 | 03-05-2773A | 02
05 | MI | ST. CLAIR SHORES, CITY OF | 2601270005B | 30-APR-2003 | 03-05-2778A | 02
05 | MI | ST. CLAIR SHORES, CITY OF | 2601270005B | 30-APR-2003 | 03-05-2787A | 02
05 | MI | ST. CLAIR SHORES, CITY OF | 2601270005B | 25-APR-2003 | 03-05-2788A | 02
05 | MI | ST. CLAIR SHORES, CITY OF | 2601270005B | 07-MAY-2003 | 03-05-2898A | 02
05 | MI | ST. CLAIR SHORES, CITY OF | 2601270005B | 02-MAY-2003 | 03-05-2915A | 02
05 | MI | ST. CLAIR SHORES, CITY OF | 2601270005B | 07-MAY-2003 | 03-05-2938A | 02
05 | MI | ST. CLAIR SHORES, CITY OF | 2601270005B | 21-MAY-2003 | 03-05-3037A | 02
05 | MI | ST. CLAIR SHORES, CITY OF | 2601270005B | 07-MAY-2003 | 03-05-3088A | 02
05 | MI | ST. CLAIR SHORES, CITY OF | 2601270005B | 16-MAY-2003 | 03-05-3301A | 02
05 | MI | ST. CLAIR SHORES, CITY OF | 2601270005B | 27-JUN-2003 | 03-05-3339A | 02
05 | MI | ST. CLAIR SHORES, CITY OF | 2601270005B | 21-MAY-2003 | 03-05-3353A | 02
05 | MI | ST. CLAIR SHORES, CITY OF | 2601270005B | 13-JUN-2003 | 03-05-3399A | 02
05 | MI | ST. CLAIR SHORES, CITY OF | 2601270005B | 04-JUN-2003 | 03-05-3400A | 02
05 | MI | ST. CLAIR SHORES, CITY OF | 2601270005B | 04-JUN-2003 | 03-05-3421A | 02
05 | MI | ST. CLAIR SHORES, CITY OF | 2601270005B | 18-JUN-2003 | 03-05-3433A | 02
05 | MI | ST. CLAIR SHORES, CITY OF | 2601270005B | 13-JUN-2003 | 03-05-3466A | 02
05 | MI | ST. CLAIR SHORES, CITY OF | 2601270005B | 13-JUN-2003 | 03-05-3513A | 02
05 | MI | ST. CLAIR SHORES, CITY OF | 2601270005B | 13-JUN-2003 | 03-05-3631A | 02
05 | MI | ST. CLAIR SHORES, CITY OF | 2601270005B | 13-JUN-2003 | 03-05-3701A | 02
05 | MI | ST. CLAIR SHORES, CITY OF | 2601270005B | 11-JUN-2003 | 03-05-3713A | 02
05 | MI | ST. CLAIR SHORES, CITY OF | 2601270005B | 11-JUN-2003 | 03-05-3735A | 02
05 | MI | ST. CLAIR SHORES, CITY OF | 2601270005B | 13-JUN-2003 | 03-05-3757A | 02
05 | MI | ST. CLAIR SHORES, CITY OF | 2601270005B | 11-JUN-2003 | 03-05-3779A | 02
05 | MI | ST. CLAIR SHORES, CITY OF | 2601270005B | 18-JUN-2003 | 03-05-3818A | 02
05 | MI | ST. CLAIR SHORES, CITY OF | 2601270005B | 20-JUN-2003 | 03-05-3866A | 02
05 | MI | ST. CLAIR SHORES, CITY OF | 2601270005B | 25-JUN-2003 | 03-05-3881A | 02
05 | MI | ST. CLAIR SHORES, CITY OF | 2601270005B | 25-JUN-2003 | 03-05-3927A | 02
05 | MI | ST. CLAIR SHORES, CITY OF | 2601270005B | 27-JUN-2003 | 03-05-3930A | 02
05 | MI | ST. CLAIR SHORES, CITY OF | 2601270005B | 27-JUN-2003 | 03-05-3931A | 02
05 | MI | ST. CLAIR SHORES, CITY OF | 2601270005B | 25-JUN-2003 | 03-05-3951A | 02
05 | MI | ST. CLAIR SHORES, CITY OF | 2601270005B | 27-JUN-2003 | 03-05-4060A | 02
05 | MI | ST. CLAIR, CITY OF | 2602790001B | 03-JAN-2003 | 02-05-1649A | 01
05 | MI | ST. JOSEPH, TOWNSHIP OF | 2600450005A | 14-FEB-2003 | 03-05-1428A | 01
05 | MI | STANDISH, TOWNSHIP OF | 2600170010C | 07-MAY-2003 | 03-05-2973A | 02
05 | MI | STERLING HEIGHTS, CITY OF | 2601280010E | 11-JUN-2003 | 03-05-2416A | 02
05 | MI | STERLING HEIGHTS, CITY OF | 2601280010E | 14-MAY-2003 | 03-05-2981A | 02
05 | MI | STEVENSVILLE, VILLAGE OF | 260557—01A | 15-JAN-2003 | 03-05-1037A | 02
05 | MI | SWAN CREEK, TOWNSHIP OF | 26145C0180D | 29-JAN-2003 | 03-05-1244A | 02
05 | MI | SWAN CREEK, TOWNSHIP OF | 26145C0125D | 05-FEB-2003 | 03-05-1420A | 02
05 | MI | SWAN CREEK, TOWNSHIP OF | 26145C0125D | 11-JUN-2003 | 03-05-3620A | 02
05 | MI | TAYLOR, CITY OF | 2607280001B | 08-JAN-2003 | 03-05-0524A | 02
05 | MI | TAYLOR, CITY OF | 2607280001B | 26-FEB-2003 | 03-05-1319A | 02
05 | MI | TAYLOR, CITY OF | 2607280001B | 05-FEB-2003 | 03-05-1620A | 02
05 | MI | TAYLOR, CITY OF | 2607280004A | 02-APR-2003 | 03-05-2179A | 02
05 | MI | TAYLOR, CITY OF | 2607280004A | 02-APR-2003 | 03-05-2351A | 02
05 | MI | TAYLOR, CITY OF | 2607280004A | 28-MAY-2003 | 03-05-2704A | 17
05 | MI | TAYMOUTH, TOWNSHIP OF | 26145C0255D | 07-MAY-2003 | 03-05-2702A | 02
05 | MI | TAYMOUTH, TOWNSHIP OF | 26145C0250D | 14-MAY-2003 | 03-05-2959A | 02
05 | MI | TAYMOUTH, TOWNSHIP OF | 26145C0255D | 14-MAY-2003 | 03-05-2959A | 02
05 | MI | THOMAS, TOWNSHIP OF | 26145C0125D | 21-MAR-2003 | 02-05-4785A | 02
05 | MI | THOMAS, TOWNSHIP OF | 26145C0130D | 31-JAN-2003 | 03-05-1139A | 02
05 | MI | THOMAS, TOWNSHIP OF | 26145C0125D | 14-FEB-2003 | 03-05-1345A | 02
05 | MI | THOMAS, TOWNSHIP OF | 26145C0130D | 23-MAY-2003 | 03-05-2113A | 02
05 | MI | THOMAS, TOWNSHIP OF | 26145C0070D | 18-APR-2003 | 03-05-2528A | 02
05 | MI | THOMAS, TOWNSHIP OF | 26145C0070D | 09-MAY-2003 | 03-05-3066A | 02
05 | MI | THOMAS, TOWNSHIP OF | 26145C0130D | 11-JUN-2003 | 03-05-3648A | 02
05 | MI | THOMAS, TOWNSHIP OF | 26145C0130D | 25-JUN-2003 | 03-05-3825A | 02
05 | MI | THORNAPPLE, TOWNSHIP OF | 2606300002B | 09-APR-2003 | 03-05-1487A | 02
05 | MI | TRENTON, CITY OF | 2602440004C | 31-JAN-2003 | 03-05-1500A | 01
05 | MI | TRENTON, CITY OF | 2602440001B | 14-FEB-2003 | 03-05-1607A | 02
05 | MI | TROY, CITY OF | 2601800004E | 08-JAN-2003 | 03-05-0499A | 02
05 | MI | TROY, CITY OF | 2601800004E | 09-APR-2003 | 03-05-0676A | 02
05 | MI | TROY, CITY OF | 2601800004E | 15-JAN-2003 | 03-05-0873A | 02
05 | MI | TROY, CITY OF | 2601800002D | 07-MAY-2003 | 03-05-1568A | 02
05 | MI | TROY, CITY OF | 2601800001E | 26-MAR-2003 | 03-05-1572A | 02
05 | MI | TROY, CITY OF | 2601800006E | 21-MAR-2003 | 03-05-2045A | 02
05 | MI | TROY, CITY OF | 2601800004E | 25-APR-2003 | 03-05-2051A | 02
05 | MI | TROY, CITY OF | 2601800004E | 21-MAR-2003 | 03-05-2081A | 02
05 | MI | TROY, CITY OF | 2601800006E | 25-APR-2003 | 03-05-2852A | 02
05 | MI | TROY, CITY OF | 2601800004E | 23-APR-2003 | 03-05-2867A | 02
05 | MI | TROY, CITY OF | 2601800006E | 23-APR-2003 | 03-05-2913A | 02
05 | MI | TROY, CITY OF | 2601800001E | 27-JUN-2003 | 03-05-3326A | 02
05 | MI | TROY, CITY OF | 2601800002D | 13-JUN-2003 | 03-05-3702A | 02
05 | MI | TROY, CITY OF | 2601800004E | 20-JUN-2003 | 03-05-3732A | 02
05 | MI | UNION, TOWNSHIP OF | 2608050025A | 28-MAY-2003 | 03-05-1905A | 02
05 | MI | UNION, TOWNSHIP OF | 26073C0194C | 30-MAY-2003 | 03-05-2310A | 02
05 | MI | UNION, TOWNSHIP OF | 26073C0194C | 19-MAR-2003 | 03-05-2311A | 02
05 | MI | VICTOR, TOWNSHIP OF | 2607200010B | 12-MAR-2003 | 03-05-1984A | 02
05 | MI | VICTOR, TOWNSHIP OF | 2607200010B | 18-APR-2003 | 03-05-2517A | 02
05 | MI | VICTOR, TOWNSHIP OF | 2607200010B | 07-MAY-2003 | 03-05-3018A | 02
05 | MI | WARREN, CITY OF | 2601290010C | 12-FEB-2003 | 02-05-4487A | 02
05 | MI | WARREN, CITY OF | 2601290005C | 08-JAN-2003 | 03-05-0451A | 02
05 | MI | WARREN, CITY OF | 2601290005C | 08-JAN-2003 | 03-05-0452A | 02
05 | MI | WARREN, CITY OF | 2601290010C | 31-JAN-2003 | 03-05-0685A | 02
05 | MI | WARREN, CITY OF | 2601290010C | 10-JAN-2003 | 03-05-0904A | 02
05 | MI | WARREN, CITY OF | 2601290010C | 12-MAR-2003 | 03-05-1949A | 02
05 | MI | WARREN, CITY OF | 2601290010C | 07-MAR-2003 | 03-05-2002A | 02
05 | MI | WARREN, CITY OF | 2601290010C | 12-MAR-2003 | 03-05-2004A | 02
05 | MI | WARREN, CITY OF | 2601290005C | 19-MAR-2003 | 03-05-2050A | 02
05 | MI | WARREN, CITY OF | 2601290010C | 19-MAR-2003 | 03-05-2050A | 02
05 | MI | WARREN, CITY OF | 2601290010C | 23-APR-2003 | 03-05-2588A | 02
05 | MI | WARREN, CITY OF | 2601290010C | 25-APR-2003 | 03-05-2760A | 02
05 | MI | WARREN, CITY OF | 2601290010C | 23-MAY-2003 | 03-05-3158A | 02
05 | MI | WARREN, CITY OF | 2601290010C | 06-JUN-2003 | 03-05-3449A | 02
05 | MI | WARREN, CITY OF | 2601290010C | 13-JUN-2003 | 03-05-3494A | 02
05 | MI | WATERFORD, CHARTER TOWNSHIP OF | 2602840005B | 22-JAN-2003 | 03-05-1423A | 02
05 | MI | WATERFORD, CHARTER TOWNSHIP OF | 2602840020B | 29-JAN-2003 | 03-05-1596A | 02
05 | MI | WATERFORD, CHARTER TOWNSHIP OF | 2602840020B | 10-FEB-2003 | 03-05-1763A | 02
05 | MI | WATERFORD, CHARTER TOWNSHIP OF | 2602840020B | 26-FEB-2003 | 03-05-1793A | 02
05 | MI | WATERFORD, CHARTER TOWNSHIP OF | 2602840020B | 09-APR-2003 | 03-05-2090A | 02
05 | MI | WATERFORD, CHARTER TOWNSHIP OF | 2602840020B | 09-APR-2003 | 03-05-2091A | 02
05 | MI | WATERFORD, CHARTER TOWNSHIP OF | 2602840010B | 21-MAR-2003 | 03-05-2230A | 02
05 | MI | WATERFORD, CHARTER TOWNSHIP OF | 2602840005B | 19-MAR-2003 | 03-05-2232A | 02
05 | MI | WATERFORD, CHARTER TOWNSHIP OF | 2602840020B | 22-MAY-2003 | 03-05-2514A | 02
05 | MI | WATERFORD, CHARTER TOWNSHIP OF | 2602840005B | 02-MAY-2003 | 03-05-3072A | 02
05 | MI | WATERFORD, CHARTER TOWNSHIP OF | 2602840010B | 23-MAY-2003 | 03-05-3167A | 02
05 | MI | WATERFORD, CHARTER TOWNSHIP OF | 2602840005B | 25-JUN-2003 | 03-05-3345A | 02
05 | MI | WATERFORD, CHARTER TOWNSHIP OF | 2602840010B | 18-JUN-2003 | 03-05-3707A | 02
05 | MI | WATERVLIET, TOWNSHIP OF | 2600480005A | 11-JUN-2003 | 03-05-3412A | 02
05 | MI | WEST BLOOMFIELD, TOWNSHIP OF | 2601820005B | 25-JUN-2003 | 03-05-2235A | 02
05 | MI | WHITE LAKE, TOWNSHIP OF | 2604790010B | 31-JAN-2003 | 03-05-0718A | 02
05 | MI | WHITE LAKE, TOWNSHIP OF | 2604790005B | 21-MAR-2003 | 03-05-2005A | 02
05 | MI | WHITE LAKE, TOWNSHIP OF | 2604790005B | 09-APR-2003 | 03-05-2386A | 02
05 | MI | WHITEWATER, TOWNSHIP OF | 2607940025A | 24-JAN-2003 | 03-05-1247A | 02
05 | MI | WHITEWATER, TOWNSHIP OF | 2607940025A | 26-MAR-2003 | 03-05-1978A | 02
05 | MI | WHITEWATER, TOWNSHIP OF | 2607940025A | 19-MAR-2003 | 03-05-2106A | 02
05 | MI | WHITEWATER, TOWNSHIP OF | 2607940025A | 09-MAY-2003 | 03-05-2374A | 02
05 | MI | WHITEWATER, TOWNSHIP OF | 2607940025A | 09-APR-2003 | 03-05-2799X | 02
05 | MI | WILLIAMSTOWN, TOWNSHIP OF | 2600950010A | 05-FEB-2003 | 03-05-1344A | 02
05 | MI | WINDSOR, CHARTER TOWNSHIP OF | 2600710010C | 10-FEB-2003 | 03-05-1004A | 02
05 | MI | WINDSOR, CHARTER TOWNSHIP OF | 2600710010C | 02-APR-2003 | 03-05-1755A | 02
05 | MI | WINDSOR, CHARTER TOWNSHIP OF | 2600710005C | 11-JUN-2003 | 03-05-3274A | 02
05 | MI | WINDSOR, CHARTER TOWNSHIP OF | 2600710010C | 25-JUN-2003 | 03-05-3356A | 02
05 | MI | WOLVERINE LAKE, VILLAGE OF | 260480—01A | 31-JAN-2003 | 03-05-0700A | 02
05 | MI | WOLVERINE LAKE, VILLAGE OF | 260480—01A | 23-MAY-2003 | 03-05-2699A | 02
05 | MI | WOODHAVEN, CITY OF | 2607300005A | 29-JAN-2003 | 03-05-0864A | 02
05 | MI | WYANDOTTE, CITY OF | 2602460001B | 30-APR-2003 | 03-05-2454A | 02
05 | MI | WYOMING, CITY OF | 2601110015C | 10-MAR-2003 | 03-05-1076A | 02
05 | MI | WYOMING, CITY OF | 2601110015C | 23-APR-2003 | 03-05-0462A | 17
05 | MI | ZILWAUKEE, CITY OF | 26145C0085D | 09-APR-2003 | 03-05-1715A | 02
05 | MN | AITKIN COUNTY | 2706280325C | 08-JAN-2003 | 03-05-0830A | 02
05 | MN | AITKIN COUNTY | 2706280110C | 15-JAN-2003 | 03-05-1223A | 02
05 | MN | AITKIN COUNTY | 2706280205C | 02-APR-2003 | 03-05-2380A | 02
05 | MN | AITKIN COUNTY | 2706280205C | 23-APR-2003 | 03-05-2700A | 02
05 | MN | AITKIN COUNTY | 2706280110C | 07-MAY-2003 | 03-05-3009A | 02
05 | MN | AITKIN COUNTY | 2706280235B | 23-MAY-2003 | 03-05-3115A | 02
05 | MN | AITKIN COUNTY | 2706280205C | 28-MAY-2003 | 03-05-3267A | 02
05 | MN | AITKIN, CITY OF | 2700010001B | 23-APR-2003 | 03-05-2502A | 02
05 | MN | ANDOVER, CITY OF | 2706890015B | 09-MAY-2003 | 03-05-2509A | 02
05 | MN | ANOKA COUNTY | 2700050050A | 17-JAN-2003 | 03-05-1289A | 02
05 | MN | ANOKA COUNTY | 2700050050A | 06-JUN-2003 | 03-05-2810A | 02
05 | MN | ANOKA, CITY OF | 275227—A02 | 21-FEB-2003 | 03-05-1798A | 02
05 | MN | BAYPORT, CITY OF | 275229—02A | 02-JAN-2003 | 03-05-0712A | 01
05 | MN | BENTON COUNTY | 2700190100C | 03-JAN-2003 | 03-05-0147A | 17
05 | MN | BENTON COUNTY | 2700190100C | 16-MAY-2003 | 03-05-0720A | 17
05 | MN | BLAINE, CITY OF | 2700070001D | 29-JAN-2003 | 02-05-4347A | 02
05 | MN | BLAINE, CITY OF | 2700070003D | 15-JAN-2003 | 03-05-0418A | 02
05 | MN | BLAINE, CITY OF | 2700070003D | 12-MAR-2003 | 03-05-0573A | 01
05 | MN | BLAINE, CITY OF | 2700070005D | 12-MAR-2003 | 03-05-0573A | 01
05 | MN | BLAINE, CITY OF | 2700070001D | 28-MAR-2003 | 03-05-0881A | 17
05 | MN | BLAINE, CITY OF | 2700070003D | 17-JAN-2003 | 03-05-1186A | 02
05 | MN | BLAINE, CITY OF | 2700070005D | 05-FEB-2003 | 03-05-1263A | 02
05 | MN | BLAINE, CITY OF | 2700070001D | 12-FEB-2003 | 03-05-1773A | 02
05 | MN | BLAINE, CITY OF | 2700070006D | 05-MAR-2003 | 03-05-1801A | 17
05 | MN | BLAINE, CITY OF | 2700070006D | 23-APR-2003 | 03-05-1922A | 17
05 | MN | BLAINE, CITY OF | 2700070006D | 28-FEB-2003 | 03-05-1923A | 02
05 | MN | BLAINE, CITY OF | 2700070006D | 05-MAR-2003 | 03-05-1924A | 17
05 | MN | BLAINE, CITY OF | 2700070005D | 14-MAR-2003 | 03-05-2104A | 02
05 | MN | BLAINE, CITY OF | 2700070003D | 02-APR-2003 | 03-05-2242A | 02
05 | MN | BLAINE, CITY OF | 2700070003D | 02-APR-2003 | 03-05-2243A | 02
05 | MN | BLAINE, CITY OF | 2700070003D | 02-APR-2003 | 03-05-2244A | 02
05 | MN | BLAINE, CITY OF | 2700070003D | 02-APR-2003 | 03-05-2245A | 02
05 | MN | BLAINE, CITY OF | 2700070003D | 02-APR-2003 | 03-05-2246A | 02
05 | MN | BLAINE, CITY OF | 2700070003D | 02-APR-2003 | 03-05-2247A | 02
05 | MN | BLAINE, CITY OF | 2700070003D | 02-APR-2003 | 03-05-2248A | 02
05 | MN | BLAINE, CITY OF | 2700070003D | 02-APR-2003 | 03-05-2249A | 02
05 | MN | BLAINE, CITY OF | 2700070003D | 02-APR-2003 | 03-05-2250A | 02
05 | MN | BLAINE, CITY OF | 2700070003D | 02-APR-2003 | 03-05-2251A | 02
05 | MN | BLAINE, CITY OF | 2700070003D | 14-MAR-2003 | 03-05-2309A | 02
05 | MN | BLAINE, CITY OF | 2700070006D | 02-APR-2003 | 03-05-2368A | 17
05 | MN | BLAINE, CITY OF | 2700070001D | 02-APR-2003 | 03-05-2422A | 02
05 | MN | BLAINE, CITY OF | 2700070010D | 02-APR-2003 | 03-05-2423A | 02
05 | MN | BLAINE, CITY OF | 2700070001D | 02-APR-2003 | 03-05-2466A | 02
05 | MN | BLAINE, CITY OF | 2700070001D | 23-MAY-2003 | 03-05-2500A | 02
05 | MN | BLAINE, CITY OF | 2700070001D | 16-APR-2003 | 03-05-2501A | 02
05 | MN | BLAINE, CITY OF | 2700070003D | 18-JUN-2003 | 03-05-2539A | 01
05 | MN | BLAINE, CITY OF | 2700070006D | 18-JUN-2003 | 03-05-2539A | 01
05 | MN | BLAINE, CITY OF | 2700070005D | 09-APR-2003 | 03-05-2597A | 02
05 | MN | BLAINE, CITY OF | 2700070001D | 09-APR-2003 | 03-05-2695A | 02
05 | MN | BLAINE, CITY OF | 2700070003D | 02-MAY-2003 | 03-05-2802A | 02
05 | MN | BLAINE, CITY OF | 2700070001D | 28-MAY-2003 | 03-05-2825A | 17
05 | MN | BLAINE, CITY OF | 2700070003D | 23-MAY-2003 | 03-05-3036A | 02
05 | MN | BLAINE, CITY OF | 2700070001D | 14-MAY-2003 | 03-05-3038A | 02
05 | MN | BLAINE, CITY OF | 2700070003D | 20-JUN-2003 | 03-05-3259A | 02
05 | MN | BLAINE, CITY OF | 2700070005D | 04-JUN-2003 | 03-05-3617A | 02
05 | MN | BLAINE, CITY OF | 2700070005D | 25-JUN-2003 | 03-05-3851A | 02
05 | MN | BLAINE, CITY OF | 2700070001D | 20-JUN-2003 | 03-05-3875A | 02
05 | MN | BROOKLYN CENTER, CITY OF | 2701510003B | 27-JAN-2003 | 03-05-0392A | 02
05 | MN | BROOKLYN CENTER, CITY OF | 2701510003B | 24-APR-2003 | 03-05-1397A | 02
05 | MN | BROOKLYN PARK, CITY OF | 2701520004C | 24-FEB-2003 | 03-05-0779A | 02
05 | MN | BURNSVILLE, CITY OF | 2701020002B | 14-MAY-2003 | 03-05-2870A | 02
05 | MN | CAMBRIDGE, CITY OF | 2701980005A | 26-FEB-2003 | 03-05-1893A | 02
05 | MN | CHATFIELD, CITY OF | 2701250001A | 25-JUN-2003 | 03-05-3522A | 01
05 | MN | CHISAGO COUNTY | 2706820175C | 18-JUN-2003 | 03-05-3057A | 02
05 | MN | CHISAGO COUNTY | 2706820150C | 16-MAY-2003 | 03-05-3283A | 02
05 | MN | CHISAGO, CITY OF | 2707070001A | 30-MAY-2003 | 03-05-3286A | 02
05 | MN | CLAY COUNTY | 2752350250C | 17-JAN-2003 | 03-05-0865A | 02
05 | MN | CLAY COUNTY | 2752350100C | 27-JUN-2003 | 03-05-3964A | 02
05 | MN | COON RAPIDS,CITY OF | 2700110001A | 23-APR-2003 | 03-05-2506A | 02
05 | MN | COON RAPIDS,CITY OF | 2700110001A | 13-JUN-2003 | 03-05-3111A | 01
05 | MN | COON RAPIDS,CITY OF | 2700110001A | 30-MAY-2003 | 03-05-3431A | 02
05 | MN | COON RAPIDS,CITY OF | 2700110001A | 11-JUN-2003 | 03-05-3457A | 02
05 | MN | COON RAPIDS,CITY OF | 2700110002A | 11-JUN-2003 | 03-05-3685A | 02
05 | MN | CORCORAN, CITY OF | 2701550001C | 13-MAR-2003 | 03-05-0412A | 02
05 | MN | CORCORAN, CITY OF | 2701550005C | 23-JAN-2003 | 03-05-1355A | 02
05 | MN | CROOKSTON, CITY OF | 2703640002C | 19-MAR-2003 | 03-05-2265A | 02
05 | MN | CROSSLAKE, CITY OF | 270095—08B | 08-JAN-2003 | 03-05-0875A | 02
05 | MN | CROSSLAKE, CITY OF | 270095—11B | 21-MAY-2003 | 03-05-3039A | 02
05 | MN | CROW WING COUNTY | 2700910025B | 16-MAY-2003 | 03-05-3201A | 02
05 | MN | CROW WING COUNTY | 2700910250B | 18-JUN-2003 | 03-05-3448A | 17
05 | MN | CRYSTAL, CITY OF | 2701560004C | 27-JAN-2003 | 03-05-0395A | 02
05 | MN | CRYSTAL, CITY OF | 2701560004C | 16-JAN-2003 | 03-05-0780A | 02
05 | MN | DAKOTA COUNTY | 2701010150B | 02-MAY-2003 | 03-05-3097A | 02
05 | MN | DELANO, CITY OF | 2705390001C | 28-MAY-2003 | 03-05-2712A | 02
05 | MN | EAST GRAND FORKS, CITY OF | 2752360005C | 21-FEB-2003 | 03-05-1654A | 02
05 | MN | EDEN PRAIRIE, CITY OF | 2701590005C | 23-JAN-2003 | 03-05-0388A | 02
05 | MN | EDEN PRAIRIE, CITY OF | 2701590010C | 10-FEB-2003 | 03-05-1361A | 02
05 | MN | EDEN PRAIRIE, CITY OF | 2701590005C | 10-APR-2003 | 03-05-1681A | 02
05 | MN | EDEN PRAIRIE, CITY OF | 2701590005C | 10-APR-2003 | 03-05-1696A | 02
05 | MN | ELGIN, CITY OF | 27157C0340D | 16-MAY-2003 | 03-05-1295A | 01
05 | MN | ELK RIVER, CITY OF | 27141C0385E | 02-APR-2003 | 03-05-2515A | 02
05 | MN | GOLDEN VALLEY, CITY OF | 2701620003B | 10-FEB-2003 | 03-05-0399A | 02
05 | MN | GOODHUE COUNTY | 2701400200A | 12-FEB-2003 | 03-05-1537A | 02
05 | MN | GREENWOOD, TOWNSHIP OF | 2707360575C | 14-MAR-2003 | 03-05-2193A | 02
05 | MN | GREENWOOD, TOWNSHIP OF | 2707360575C | 09-MAY-2003 | 03-05-3013A | 02
05 | MN | GREENWOOD, TOWNSHIP OF | 2707360575C | 21-MAY-2003 | 03-05-3079A | 02
05 | MN | GREENWOOD, TOWNSHIP OF | 2707360575C | 20-JUN-2003 | 03-05-3736A | 02
05 | MN | HAM LAKE, CITY OF | 2706740010B | 04-APR-2003 | 03-05-1441A | 01
05 | MN | HAM LAKE, CITY OF | 2706740005B | 05-FEB-2003 | 03-05-1484A | 02
05 | MN | HAM LAKE, CITY OF | 2706740005B | 05-FEB-2003 | 03-05-1488A | 02
05 | MN | HAM LAKE, CITY OF | 2706740010B | 31-JAN-2003 | 03-05-1531A | 02
05 | MN | HAM LAKE, CITY OF | 2706740010B | 29-JAN-2003 | 03-05-1532A | 02
05 | MN | HAM LAKE, CITY OF | 2706740010B | 05-FEB-2003 | 03-05-1562A | 02
05 | MN | HAM LAKE, CITY OF | 2706740005B | 05-FEB-2003 | 03-05-1628A | 02
05 | MN | HUGO, CITY OF | 2705040010C | 08-JAN-2003 | 03-05-1105A | 01
05 | MN | HUGO, CITY OF | 2705040010C | 06-JUN-2003 | 03-05-1815A | 01
05 | MN | ISANTI COUNTY | 2701970060B | 21-MAR-2003 | 03-05-1034A | 02
05 | MN | ISANTI COUNTY | 2701970040B | 21-MAY-2003 | 03-05-1957A | 02
05 | MN | ISANTI COUNTY | 2701970065B | 07-MAR-2003 | 03-05-1976A | 02
05 | MN | ISANTI COUNTY | 2701970070A | 07-MAR-2003 | 03-05-1976A | 02
05 | MN | ISANTI COUNTY | 2701970030B | 23-MAY-2003 | 03-05-2421A | 02
05 | MN | ISANTI COUNTY | 2701970060B | 23-APR-2003 | 03-05-2523A | 02
05 | MN | ISANTI COUNTY | 2701970030B | 16-MAY-2003 | 03-05-3114A | 02
05 | MN | ISANTI COUNTY | 2701970020A | 23-MAY-2003 | 03-05-3268A | 02
05 | MN | ISANTI COUNTY | 2701970075A | 18-JUN-2003 | 03-05-3698A | 02
05 | MN | ISANTI COUNTY | 2701970060B | 25-JUN-2003 | 03-05-3717A | 02
05 | MN | ITASCA COUNTY | 2702000775A | 08-JAN-2003 | 03-05-1108A | 02
05 | MN | JACKSON,CITY OF | 2702130002D | 17-APR-2003 | 03-05-2556P | 05
05 | MN | JORDAN, CITY OF | 2704300001C | 15-JAN-2003 | 02-05-3699A | 01
05 | MN | KOOCHICHING COUNTY | 2702330006B | 12-FEB-2003 | 03-05-1762A | 02
05 | MN | KOOCHICHING COUNTY | 2702330006B | 05-MAR-2003 | 03-05-1901A | 02
05 | MN | KOOCHICHING COUNTY | 2702330006B | 19-MAR-2003 | 03-05-2377A | 02
05 | MN | KOOCHICHING COUNTY | 2702330006B | 27-JUN-2003 | 03-05-4008A | 02
05 | MN | LA CRESCENT, CITY OF | 2752370001B | 02-MAY-2003 | 03-05-2201A | 01
05 | MN | LE SUEUR COUNTY | 27079C0091D | 17-JAN-2003 | 03-05-1170A | 02
05 | MN | LE SUEUR COUNTY | 27079C0075D | 15-JAN-2003 | 03-05-1257A | 02
05 | MN | LILYDALE, CITY OF | 275241—01A | 30-MAY-2003 | 03-05-0090A | 02
05 | MN | LINO LAKES, CITY OF | 2700150010B | 21-FEB-2003 | 03-05-0945A | 02
05 | MN | LINO LAKES, CITY OF | 2700150010B | 15-JAN-2003 | 03-05-1318A | 01
05 | MN | LINO LAKES, CITY OF | 2700150010B | 22-JAN-2003 | 03-05-1402X | 01
05 | MN | LINO LAKES, CITY OF | 2700150010B | 26-FEB-2003 | 03-05-1498A | 01
05 | MN | LINO LAKES, CITY OF | 2700150010B | 07-MAR-2003 | 03-05-2021A | 02
05 | MN | LINO LAKES, CITY OF | 2700150010B | 26-MAR-2003 | 03-05-2217A | 02
05 | MN | MAPLE GROVE, CITY OF | 2701690001B | 06-FEB-2003 | 03-05-0759A | 02
05 | MN | MAPLE GROVE, CITY OF | 2701690001B | 18-FEB-2003 | 03-05-1093A | 02
05 | MN | MAPLE GROVE, CITY OF | 2701690003B | 17-MAR-2003 | 03-05-1691A | 02
05 | MN | MAPLEWOOD, CITY OF | 270378—05C | 08-JAN-2003 | 03-05-0139A | 02
05 | MN | MAPLEWOOD, CITY OF | 270378—05C | 02-APR-2003 | 03-05-1889A | 01
05 | MN | MAPLEWOOD, CITY OF | 270378—05C | 07-MAY-2003 | 03-05-2195A | 02
05 | MN | MEDINA, CITY OF | 2701710003B | 24-APR-2003 | 03-05-2151A | 02
05 | MN | MEEKER COUNTY | 2702800006B | 21-FEB-2003 | 03-05-1809A | 02
05 | MN | MINNETONKA, CITY OF | 2701730002C | 31-MAR-2003 | 03-05-1382A | 02
05 | MN | MINNETONKA, CITY OF | 2701730005B | 10-APR-2003 | 03-05-2135A | 02
05 | MN | MINNETRISTA, CITY OF | 270175—08B | 16-JAN-2003 | 03-05-1060A | 02
05 | MN | MOORHEAD, CITY OF | 2752440005D | 19-MAR-2003 | 03-05-2295A | 02
05 | MN | MOORHEAD, CITY OF | 2752440010D | 23-APR-2003 | 03-05-2592A | 02
05 | MN | MOOSE LAKE, CITY OF | 270045—03B | 02-JAN-2003 | 03-05-0948A | 02
05 | MN | MOOSE LAKE, CITY OF | 270045—03B | 05-MAR-2003 | 03-05-1878A | 02
05 | MN | MORRISON COUNTY | 2706170290B | 15-JAN-2003 | 03-05-1120A | 02
05 | MN | MORRISON COUNTY | 2706170400B | 30-APR-2003 | 03-05-2711A | 02
05 | MN | MORRISON COUNTY | 2706170400B | 20-JUN-2003 | 03-05-3831A | 02
05 | MN | NEW BRIGHTON, CITY OF | 2703800005B | 23-APR-2003 | 02-05-0197P | 05
05 | MN | NEW BRIGHTON, CITY OF | 2703800005B | 30-APR-2003 | 03-05-3055A | 02
05 | MN | NEW BRIGHTON, CITY OF | 2703800005B | 30-MAY-2003 | 03-05-3056A | 02
05 | MN | NORMAN COUNTY | 27107C0205D | 17-JAN-2003 | 03-05-0263A | 17
05 | MN | NORMAN COUNTY | 27107C0300D | 05-MAR-2003 | 03-05-0971A | 02
05 | MN | ORONOCO, CITY OF | 27109C0041D | 14-MAY-2003 | 03-05-2701A | 02
05 | MN | OWATONNA, CITY OF | 2704630002B | 04-JAN-2003 | 02-05-0917A | 02
05 | MN | OWATONNA, CITY OF | 2704630002B | 04-APR-2003 | 03-05-2395A | 02
05 | MN | PINE COUNTY | 2707040075B | 02-JAN-2003 | 03-05-0336A | 02
05 | MN | PINE COUNTY | 2707040340B | 12-MAR-2003 | 03-05-2278A | 02
05 | MN | PINE COUNTY | 2707040340B | 19-MAR-2003 | 03-05-2299A | 02
05 | MN | PINE COUNTY | 2707040340B | 04-APR-2003 | 03-05-2456A | 02
05 | MN | PINE COUNTY | 2707040340B | 11-JUN-2003 | 03-05-3681A | 02
05 | MN | PINE ISLAND, CITY OF | 27109C0025D | 12-FEB-2003 | 03-05-0480A | 02
05 | MN | PINE ISLAND, CITY OF | 27109C0025D | 20-JUN-2003 | 03-05-1906A | 01
05 | MN | PINE ISLAND, CITY OF | 27109C0025D | 23-APR-2003 | 03-05-2933A | 02
05 | MN | PLYMOUTH, CITY OF | 2701790010C | 27-JAN-2003 | 03-05-1058A | 02
05 | MN | PLYMOUTH, CITY OF | 2701790005C | 20-MAR-2003 | 03-05-1689A | 02
05 | MN | PLYMOUTH, CITY OF | 2701790010C | 17-APR-2003 | 03-05-1704A | 17
05 | MN | POLK COUNTY | 2705030525B | 31-JAN-2003 | 03-05-1560A | 02
05 | MN | POLK COUNTY | 2705030050B | 05-FEB-2003 | 03-05-1727A | 02
05 | MN | POLK COUNTY | 2705030025B | 06-JUN-2003 | 03-05-1962A | 02
05 | MN | POLK COUNTY | 2705030475B | 27-JUN-2003 | 03-05-2480A | 02
05 | MN | PRINCETON, CITY OF | 2702920001B | 26-FEB-2003 | 03-05-0966A | 02
05 | MN | PRIOR LAKE, CITY OF | 2704320002C | 26-FEB-2003 | 03-05-1503A | 02
05 | MN | RICE COUNTY | 2706460025C | 17-JAN-2003 | 03-05-1440A | 02
05 | MN | RICE COUNTY | 2706460075B | 24-JAN-2003 | 03-05-1482A | 02
05 | MN | RICE COUNTY | 2706460025C | 29-JAN-2003 | 03-05-1581A | 02
05 | MN | RICE COUNTY | 2706460150B | 10-FEB-2003 | 03-05-1786A | 02
05 | MN | RICE COUNTY | 2706460100B | 06-JUN-2003 | 03-05-3622A | 02
05 | MN | ROCK COUNTY | 270642—27B | 28-MAY-2003 | 03-05-3116A | 02
05 | MN | ROCK COUNTY | 270642—23B | 21-MAY-2003 | 03-05-3334A | 02
05 | MN | ROSEAU COUNTY | 2706330200C | 02-JAN-2003 | 03-05-0596A | 02
05 | MN | ROSEAU, CITY OF | 2704140005C | 08-JAN-2003 | 03-05-1123A | 02
05 | MN | ROYALTON, CITY OF | 2703030001B | 05-MAR-2003 | 03-05-1152A | 02
05 | MN | SAVAGE, CITY OF | 2704330001C | 25-APR-2003 | 03-05-1492A | 02
05 | MN | SAVAGE, CITY OF | 2704330001C | 11-JUN-2003 | 03-05-3629A | 02
05 | MN | SCOTT COUNTY | 2704280080C | 15-JAN-2003 | 02-05-4590A | 02
05 | MN | SCOTT COUNTY | 2704280020C | 22-JAN-2003 | 03-05-1260A | 02
05 | MN | SCOTT COUNTY | 2704280125C | 15-JAN-2003 | 03-05-1337X | 02
05 | MN | SCOTT COUNTY | 2704280100C | 25-JUN-2003 | 03-05-3882A | 02
05 | MN | SHERBURNE COUNTY | 27141C0205E | 02-APR-2003 | 03-05-1902A | 17
05 | MN | SHERBURNE COUNTY | 27141C0355E | 14-MAR-2003 | 03-05-2204A | 02
05 | MN | SHERBURNE COUNTY | 27141C0240E | 28-MAY-2003 | 03-05-2394A | 02
05 | MN | SHERBURNE COUNTY | 27141C0245E | 04-JUN-2003 | 03-05-2844A | 02
05 | MN | SHERBURNE COUNTY | 27141C0335E | 16-MAY-2003 | 03-05-3140A | 02
05 | MN | SHERBURNE COUNTY | 27141C0070E | 06-JUN-2003 | 03-05-3477A | 02
05 | MN | SHERBURNE COUNTY | 27141C0265E | 11-JUN-2003 | 03-05-3495A | 02
05 | MN | SIBLEY COUNTY | 2706200075B | 23-APR-2003 | 03-05-2107A | 02
05 | MN | SPRING PARK, CITY OF | 2701860001B | 17-MAR-2003 | 03-05-0045A | 02
05 | MN | ST. LOUIS COUNTY | 2704160450C | 11-JUN-2003 | 03-05-1716A | 02
05 | MN | ST. LOUIS COUNTY | 2704160775C | 28-MAY-2003 | 03-05-2431A | 02
05 | MN | ST. PAUL, CITY OF | 2752480036F | 18-JUN-2003 | 03-05-3183A | 01
05 | MN | STEARNS COUNTY | 2705460335B | 25-APR-2003 | 03-05-3032A | 02
05 | MN | STEARNS COUNTY | 2705460085A | 14-MAY-2003 | 03-05-3087A | 02
05 | MN | STEARNS COUNTY | 2705460190B | 04-JUN-2003 | 03-05-3126A | 01
05 | MN | STEELE COUNTY | 2706350055B | 20-JUN-2003 | 03-05-1501A | 02
05 | MN | VADNAIS HEIGHTS, CITY OF | 2703850001C | 20-JUN-2003 | 03-05-3068A | 02
05 | MN | VADNAIS HEIGHTS, CITY OF | 2703850001C | 25-JUN-2003 | 03-05-3292A | 02
05 | MN | VADNAIS HEIGHTS, CITY OF | 2703850001C | 13-JUN-2003 | 03-05-3359A | 02
05 | MN | VADNAIS HEIGHTS, CITY OF | 2703850001C | 27-JUN-2003 | 03-05-3773A | 02
05 | MN | WABASHA, CITY OF | 27157C0095D | 21-FEB-2003 | 03-05-1306A | 02
05 | MN | WASHINGTON COUNTY | 2704990125B | 21-MAR-2003 | 03-05-0642A | 02
05 | MN | WASHINGTON COUNTY | 2704990025B | 08-JAN-2003 | 03-05-0689A | 02
05 | MN | WASHINGTON COUNTY | 2704990125B | 15-JAN-2003 | 03-05-1011A | 02
05 | MN | WASHINGTON COUNTY | 2704990025B | 07-MAY-2003 | 03-05-2774A | 02
05 | MN | WASHINGTON COUNTY | 2704990125B | 21-MAY-2003 | 03-05-3307A | 02
05 | MN | WASHINGTON COUNTY | 2704990125B | 25-JUN-2003 | 03-05-3712A | 02
05 | MN | WATERTOWN, CITY OF | 2700560001C | 30-APR-2003 | 03-05-2289A | 02
05 | MN | WHITE BEAR LAKE, CITY OF | 270386—03B | 31-JAN-2003 | 03-05-0649A | 02
05 | MN | WHITE BEAR,TOWNSHIP OF | 2706880005B | 12-FEB-2003 | 03-05-1747A | 02
05 | MN | WHITE BEAR,TOWNSHIP OF | 2706880005B | 02-APR-2003 | 03-05-2032A | 02
05 | MN | WHITE BEAR,TOWNSHIP OF | 2706880005B | 11-APR-2003 | 03-05-2460A | 02
05 | MN | WHITE BEAR,TOWNSHIP OF | 2706880005B | 30-APR-2003 | 03-05-2754A | 02
05 | MN | WHITE BEAR,TOWNSHIP OF | 2706880005B | 21-MAY-2003 | 03-05-3402A | 02
05 | MN | WHITE BEAR,TOWNSHIP OF | 2706880005B | 06-JUN-2003 | 03-05-3497A | 02
05 | MN | WINONA COUNTY | 2705250150C | 10-FEB-2003 | 03-05-1502A | 02
05 | MN | WINONA COUNTY | 2705250118C | 16-MAY-2003 | 03-05-2739A | 01
05 | MN | WINONA, CITY OF | 2752500006D | 18-APR-2003 | 03-05-0951A | 01
05 | MN | WINSTED, CITY OF | 270614—01A | 28-MAR-2003 | 03-05-2361A | 02
05 | MN | WRIGHT COUNTY | 2705340009B | 16-MAY-2003 | 03-05-1991A | 02
05 | MN | WRIGHT COUNTY | 2705340007B | 09-APR-2003 | 03-05-2424A | 02
05 | MN | WRIGHT COUNTY | 2705340028C | 23-APR-2003 | 03-05-2859A | 02
05 | MN | WRIGHT COUNTY | 2705340027B | 30-MAY-2003 | 03-05-2936A | 02
05 | MN | YELLOW MEDICINE COUNTY | 2705440300B | 26-FEB-2003 | 03-05-1485A | 02
05 | OH | ADAMS COUNTY | 39001C0175C | 20-JUN-2003 | 03-05-1879A | 02
05 | OH | ARCANUM, VILLAGE OF | 3906840001B | 09-APR-2003 | 03-05-1745A | 02
05 | OH | ARCANUM, VILLAGE OF | 3906840001B | 16-MAY-2003 | 03-05-3022A | 02
05 | OH | ASHLAND COUNTY | 3907590004B | 13-JUN-2003 | 03-05-3043A | 02
05 | OH | ASHTABULA COUNTY | 3900100210B | 12-MAR-2003 | 03-05-1551A | 02
05 | OH | ATHENS COUNTY | 3907600175B | 18-JUN-2003 | 03-05-3716A | 02
05 | OH | AUGLAIZE COUNTY | 39011C0090C | 15-JAN-2003 | 03-05-1225A | 02
05 | OH | AUGLAIZE COUNTY | 39011C0025C | 12-MAR-2003 | 03-05-1513A | 02
05 | OH | AUGLAIZE COUNTY | 39011C0090C | 12-MAR-2003 | 03-05-1580A | 02
05 | OH | AUGLAIZE COUNTY | 39011C0085C | 02-APR-2003 | 03-05-1825A | 02
05 | OH | AUGLAIZE COUNTY | 39011C0090C | 23-APR-2003 | 03-05-2925A | 02
05 | OH | AVON, CITY OF | 3903480005C | 17-JAN-2003 | 03-05-1216A | 02
05 | OH | AVON, CITY OF | 3903480005C | 20-JUN-2003 | 03-05-3099A | 02
05 | OH | BEAVERCREEK, CITY OF | 3908760002B | 14-APR-2003 | 03-05-1865A | 02
05 | OH | BEAVERCREEK, CITY OF | 3908760002B | 06-JUN-2003 | 03-05-3482A | 02
05 | OH | BELLBROOK, CITY OF | 3901940001B | 14-MAR-2003 | 03-05-2079A | 02
05 | OH | BRUNSWICK, CITY OF | 3903800004B | 20-JUN-2003 | 03-05-3665A | 02
05 | OH | BUTLER COUNTY | 3900370035B | 07-MAR-2003 | 03-05-1946A | 01
05 | OH | BUTLER COUNTY | 3900370050C | 28-MAY-2003 | 03-05-1977A | 01
05 | OH | BUTLER COUNTY | 3900370050C | 18-JUN-2003 | 03-05-3939X | 01
05 | OH | CAMBRIDGE, CITY OF | 39059C0111C | 08-JAN-2003 | 03-05-0644A | 02
05 | OH | CAMBRIDGE, CITY OF | 39059C0091C | 26-MAR-2003 | 03-05-1200A | 01
05 | OH | CANAL FULTON, VILLAGE OF | 3905110001B | 23-APR-2003 | 03-05-2855A | 02
05 | OH | CARROLL COUNTY | 3907630025B | 06-JUN-2003 | 03-05-3467A | 02
05 | OH | CELINA, CITY OF | 3903930005C | 22-JAN-2003 | 03-05-1220A | 02
05 | OH | CHAMPAIGN COUNTY | 3900550115C | 11-JUN-2003 | 03-05-3146A | 02
05 | OH | CHARDON, CITY OF | 3901910005C | 07-MAY-2003 | 03-05-3035A | 02
05 | OH | CHILLICOTHE, CITY OF | 3904820005D | 15-JAN-2003 | 03-05-1111A | 02
05 | OH | CHILLICOTHE, CITY OF | 39141C0355C | 16-APR-2003 | 03-05-2015A | 01
05 | OH | CINCINNATI, CITY OF | 3902100006B | 03-FEB-2003 | 03-05-1084A | 01
05 | OH | CINCINNATI, CITY OF | 3902100012B | 31-MAR-2003 | 03-05-1690A | 02
05 | OH | CLARK COUNTY | 3907320180A | 21-FEB-2003 | 03-05-0854A | 02
05 | OH | CLARK COUNTY | 3907320180A | 21-MAR-2003 | 03-05-1308A | 02
05 | OH | CLARK COUNTY | 3907320165B | 18-JUN-2003 | 03-05-2960A | 02
05 | OH | CLERMONT COUNTY | 3900650005B | 16-MAY-2003 | 03-05-2429A | 02
05 | OH | CLERMONT COUNTY | 3900650085D | 25-JUN-2003 | 03-05-3635A | 02
05 | OH | CLEVELAND, CITY OF | 3901040015B | 13-JUN-2003 | 03-05-3362A | 02
05 | OH | COLUMBUS, CITY OF | 39049C0290G | 26-MAR-2003 | 03-05-0803A | 01
05 | OH | COLUMBUS, CITY OF | 39049C0290G | 31-JAN-2003 | 03-05-1146A | 01
05 | OH | COLUMBUS, CITY OF | 39049C0377H | 09-MAY-2003 | 03-05-1335A | 02
05 | OH | COLUMBUS, CITY OF | 39049C0295G | 09-MAY-2003 | 03-05-1505A | 01
05 | OH | COLUMBUS, CITY OF | 39049C0245G | 27-JUN-2003 | 03-05-1606A | 01
05 | OH | COLUMBUS, CITY OF | 39049C0295G | 30-APR-2003 | 03-05-1817A | 02
05 | OH | COLUMBUS, CITY OF | 39049C0290G | 21-MAR-2003 | 03-05-1972A | 01
05 | OH | COLUMBUS, CITY OF | 39049C0377H | 06-JUN-2003 | 03-05-2234A | 01
05 | OH | COLUMBUS, CITY OF | 39049C0270G | 02-APR-2003 | 03-05-2349A | 02
05 | OH | COLUMBUS, CITY OF | 39049C0227G | 23-APR-2003 | 03-05-2931A | 02
05 | OH | COLUMBUS, CITY OF | 39049C0270G | 30-APR-2003 | 03-05-3042A | 02
05 | OH | COLUMBUS, CITY OF | 39049C0290G | 28-MAY-2003 | 03-05-3324A | 01
05 | OH | CUYAHOGA FALLS, CITY OF | 3905260005B | 16-APR-2003 | 03-05-2483A | 02
05 | OH | DEFIANCE COUNTY | 3901430120B | 14-FEB-2003 | 03-05-0618A | 17
05 | OH | DELAWARE COUNTY | 39041C0025J | 07-MAR-2003 | 03-05-0583A | 02
05 | OH | DELTA, VILLAGE OF | 3901830005C | 18-JUN-2003 | 03-05-1613A | 02
05 | OH | DELTA, VILLAGE OF | 3901830005C | 23-APR-2003 | 03-05-2406A | 02
05 | OH | DOVER, CITY OF | 3905430005B | 07-MAR-2003 | 03-05-1996A | 02
05 | OH | DOVER, CITY OF | 3907820080B | 07-MAR-2003 | 03-05-1996A | 02
05 | OH | DOVER, CITY OF | 3907820090B | 07-MAR-2003 | 03-05-1996A | 02
05 | OH | ERIE COUNTY | 3901530045B | 19-MAR-2003 | 03-05-1760A | 02
05 | OH | ERIE COUNTY | 3901530050B | 21-MAY-2003 | 03-05-3015A | 02
05 | OH | FAIRFIELD COUNTY | 3901580035D | 17-JAN-2003 | 03-05-1188A | 02
05 | OH | FAIRFIELD COUNTY | 3901580035D | 30-APR-2003 | 03-05-2759A | 02
05 | OH | FAIRFIELD COUNTY | 3901580035D | 06-JUN-2003 | 03-05-2891A | 02
05 | OH | FAIRFIELD, CITY OF | 3900380005B | 17-JAN-2003 | 03-05-1283A | 02
05 | OH | FAIRFIELD, CITY OF | 3900380005B | 13-JUN-2003 | 03-05-2355A | 02
05 | OH | FINDLAY, CITY OF | 3902440005C | 02-APR-2003 | 03-05-1638A | 02
05 | OH | FINDLAY, CITY OF | 3907670080B | 04-JUN-2003 | 03-05-2505A | 01
05 | OH | FINDLAY, CITY OF | 3902440004B | 13-JUN-2003 | 03-05-3769A | 02
05 | OH | FRANKLIN COUNTY | 39049C0195G | 14-JAN-2003 | 02-05-3227P | 05
05 | OH | FRANKLIN COUNTY | 39049C0281G | 14-JAN-2003 | 02-05-3227P | 05
05 | OH | FULTON COUNTY | 3901820100C | 26-FEB-2003 | 03-05-0967A | 02
05 | OH | FULTON COUNTY | 3901820135C | 10-JAN-2003 | 03-05-1130A | 02
05 | OH | FULTON COUNTY | 3901820100C | 31-JAN-2003 | 03-05-1521A | 02
05 | OH | FULTON COUNTY | 3901820100C | 23-APR-2003 | 03-05-1964A | 02
05 | OH | GAHANNA, CITY OF | 39049C0186G | 05-MAR-2003 | 03-05-0811A | 02
05 | OH | GALLIA COUNTY* | 3901850120C | 03-APR-2003 | 03-05-1684A | 02
05 | OH | GRANVILLE, VILLAGE OF | 3903300001B | 25-JUN-2003 | 03-05-3479A | 01
05 | OH | GREENE COUNTY | 3901930060B | 22-JAN-2003 | 03-05-1300A | 02
05 | OH | GREENE COUNTY | 3901930050B | 19-MAR-2003 | 03-05-1744A | 02
05 | OH | GREENE COUNTY | 3901930070B | 23-APR-2003 | 03-05-2586A | 02
05 | OH | GROVE CITY, CITY OF | 39049C0327G | 08-JAN-2003 | 03-05-0848A | 02
05 | OH | GROVE CITY, CITY OF | 39049C0333G | 23-MAY-2003 | 03-05-1897A | 01
05 | OH | GROVE CITY, CITY OF | 39049C0239G | 04-JUN-2003 | 03-05-3207A | 02
05 | OH | HAMILTON COUNTY | 3902040070B | 09-MAY-2003 | 03-05-2994X | 01
05 | OH | HAMILTON COUNTY | 3902040075B | 09-MAY-2003 | 03-05-2994X | 01
05 | OH | HAMILTON COUNTY * | 3902040005B | 08-JAN-2003 | 03-05-0369A | 02
05 | OH | HAMILTON COUNTY * | 3902040035B | 28-APR-2003 | 03-05-1373A | 02
05 | OH | HAMILTON COUNTY * | 3902040100B | 20-MAR-2003 | 03-05-1380A | 17
05 | OH | HAMILTON COUNTY * | 3902040040C | 07-APR-2003 | 03-05-1384A | 02
05 | OH | HAMILTON COUNTY * | 3902040040C | 10-APR-2003 | 03-05-1706A | 02
05 | OH | HANCOCK COUNTY | 3907670090B | 21-MAR-2003 | 03-05-0657A | 01
05 | OH | HANCOCK COUNTY | 3907670080B | 13-JUN-2003 | 03-05-3768A | 02
05 | OH | HANCOCK COUNTY | 3907670080B | 11-JUN-2003 | 03-05-3770A | 02
05 | OH | HARRISON COUNTY | 3902550002A | 09-MAY-2003 | 03-05-2948A | 02
05 | OH | HARRISON, CITY OF | 3902200005C | 16-JAN-2003 | 03-05-0797A | 02
05 | OH | HILLIARD, CITY OF | 39049C0115G | 14-FEB-2003 | 03-05-0673A | 01
05 | OH | HILLIARD, CITY OF | 39049C0116G | 14-FEB-2003 | 03-05-0673A | 01
05 | OH | HUDSON, VILLAGE OF | 3906600002B | 09-MAY-2003 | 03-05-0437P | 08
05 | OH | JACKSON, CITY OF | 3902920005D | 03-JAN-2003 | 03-05-0603A | 17
05 | OH | KENT, CITY OF | 3904560001B | 28-MAY-2003 | 03-05-2471A | 02
05 | OH | KETTERING, CITY OF | 3904120010B | 21-MAY-2003 | 03-05-3196A | 02
05 | OH | KETTERING, CITY OF | 3904120020B | 20-JUN-2003 | 03-05-3731A | 02
05 | OH | KNOX COUNTY | 3903060135C | 03-JAN-2003 | 03-05-0900A | 17
05 | OH | KNOX COUNTY | 3903060090C | 09-APR-2003 | 03-05-1529A | 02
05 | OH | LAKE COUNTY | 3907710047C | 21-FEB-2003 | 03-05-0841A | 02
05 | OH | LAKE COUNTY | 3907710049C | 21-FEB-2003 | 03-05-0841A | 02
05 | OH | LAKE COUNTY | 3907710047C | 12-FEB-2003 | 03-05-1586A | 02
05 | OH | LANCASTER, CITY OF | 3901610003D | 08-JAN-2003 | 03-05-1134A | 02
05 | OH | LAWRENCE COUNTY | 3903250075B | 10-FEB-2003 | 03-05-0929A | 02
05 | OH | LAWRENCE COUNTY | 3903250075B | 25-APR-2003 | 03-05-1102A | 02
05 | OH | LAWRENCE COUNTY | 3903250185B | 04-JUN-2003 | 03-05-1429A | 01
05 | OH | LAWRENCE COUNTY | 3903250185B | 31-JAN-2003 | 03-05-1431A | 02
05 | OH | LAWRENCE COUNTY | 3903250110B | 02-APR-2003 | 03-05-2486A | 02
05 | OH | LICKING COUNTY | 3903280200B | 07-MAY-2003 | 03-05-2975A | 02
05 | OH | LOGAN COUNTY | 3907720025C | 09-APR-2003 | 03-05-2389A | 02
05 | OH | LOGAN COUNTY | 3907720025C | 16-APR-2003 | 03-05-2614A | 02
05 | OH | LOGAN COUNTY | 3907720025C | 21-MAY-2003 | 03-05-3061A | 02
05 | OH | LOGAN COUNTY | 3907720025C | 06-JUN-2003 | 03-05-3535A | 02
05 | OH | LOGAN, CITY OF | 3902740001C | 21-MAR-2003 | 03-05-1408A | 01
05 | OH | LONDON,CITY OF | 3903660002B | 23-APR-2003 | 03-05-0943A | 02
05 | OH | LORAIN COUNTY | 3903460090B | 26-FEB-2003 | 03-05-1221A | 02
05 | OH | LORAIN COUNTY | 3903460085B | 16-MAY-2003 | 03-05-1425A | 02
05 | OH | LORAIN COUNTY | 3903460085B | 16-MAY-2003 | 03-05-1426A | 02
05 | OH | LORAIN, CITY OF | 3903510003C | 06-JUN-2003 | 03-05-2904A | 02
05 | OH | LOUISVILLE, CITY OF | 3905160002D | 16-MAY-2003 | 03-05-3048A | 02
05 | OH | LUCAS COUNTY | 39095C0218D | 05-FEB-2003 | 03-05-1575A | 02
05 | OH | LUCAS COUNTY | 39095C0042D | 09-MAY-2003 | 03-05-2790A | 01
05 | OH | LUCAS COUNTY | 39095C0061D | 09-MAY-2003 | 03-05-2790A | 01
05 | OH | LUCAS COUNTY | 39095C0042D | 04-JUN-2003 | 03-05-2955A | 01
05 | OH | LUCAS COUNTY | 39095C0062D | 21-MAY-2003 | 03-05-3308A | 02
05 | OH | LUCAS COUNTY | 39095C0219D | 04-JUN-2003 | 03-05-3446A | 02
05 | OH | LUCAS COUNTY | 39095C0062D | 06-JUN-2003 | 03-05-3460A | 02
05 | OH | LUCAS COUNTY | 39095C0227D | 11-JUN-2003 | 03-05-3463A | 02
05 | OH | LUCAS COUNTY | 39095C0064D | 25-JUN-2003 | 03-05-3816A | 02
05 | OH | LUCAS COUNTY | 39095C0140D | 20-JUN-2003 | 03-05-3842A | 02
05 | OH | LUCAS COUNTY | 39095C0053D | 25-JUN-2003 | 03-05-3935A | 02
05 | OH | MAHONING COUNTY | 3903670100B | 07-MAY-2003 | 03-05-2706A | 02
05 | OH | MARION COUNTY | 39101C0004C | 31-JAN-2003 | 03-05-1027A | 01
05 | OH | MAUMEE, CITY OF | 39095C0234D | 26-FEB-2003 | 03-05-1819A | 01
05 | OH | MEDINA COUNTY | 3903780005B | 02-JAN-2003 | 02-05-4186A | 01
05 | OH | MEDINA COUNTY | 3903780055B | 10-FEB-2003 | 03-05-0640A | 02
05 | OH | MEDINA COUNTY | 3903780005B | 22-JAN-2003 | 03-05-0831A | 02
05 | OH | MEDINA COUNTY | 3903780005B | 11-JUN-2003 | 03-05-3624A | 02
05 | OH | MERCER COUNTY | 3903920100B | 16-APR-2003 | 03-05-0709A | 02
05 | OH | MERCER COUNTY | 3903920100B | 29-JAN-2003 | 03-05-1261A | 02
05 | OH | MERCER COUNTY | 3903920100B | 17-JAN-2003 | 03-05-1270A | 02
05 | OH | MERCER COUNTY | 3903920100B | 05-FEB-2003 | 03-05-1297A | 02
05 | OH | MERCER COUNTY | 3903920100B | 16-APR-2003 | 03-05-2054A | 01
05 | OH | MERCER COUNTY | 3903920100B | 04-APR-2003 | 03-05-2233A | 02
05 | OH | MERCER COUNTY | 3903920100B | 19-MAR-2003 | 03-05-2300A | 02
05 | OH | MERCER COUNTY | 3903920100B | 09-APR-2003 | 03-05-2350A | 02
05 | OH | MERCER COUNTY | 3903920100B | 09-APR-2003 | 03-05-2484A | 02
05 | OH | MERCER COUNTY | 3903920100B | 02-APR-2003 | 03-05-2605A | 02
05 | OH | MERCER COUNTY | 3903920100B | 02-APR-2003 | 03-05-2613A | 02
05 | OH | MERCER COUNTY | 3903920100B | 02-APR-2003 | 03-05-2685A | 02
05 | OH | MERCER COUNTY | 3903920075B | 21-MAY-2003 | 03-05-2877A | 02
05 | OH | MERCER COUNTY | 3903920100B | 28-MAY-2003 | 03-05-2986A | 02
05 | OH | MERCER COUNTY | 3903920100B | 16-MAY-2003 | 03-05-2988A | 02
05 | OH | MERCER COUNTY | 3903920100B | 14-MAY-2003 | 03-05-3064A | 02
05 | OH | METAMORA, VILLAGE OF | 3901820057C | 14-MAR-2003 | 03-05-2213A | 02
05 | OH | METAMORA, VILLAGE OF | 3908400001B | 14-MAR-2003 | 03-05-2213A | 02
05 | OH | MIAMI COUNTY | 3903980005B | 12-MAR-2003 | 03-05-1017A | 02
05 | OH | MILFORD, CITY OF | 3902270005D | 11-JUN-2003 | 03-05-3021A | 02
05 | OH | MONTEZUMA, VILLAGE OF | 3903960001B | 30-APR-2003 | 03-05-2764A | 02
05 | OH | MONTGOMERY COUNTY | 3907750040C | 07-MAR-2003 | 03-05-1258A | 01
05 | OH | MONTGOMERY COUNTY | 3907750040C | 07-MAR-2003 | 03-05-1891A | 02
05 | OH | MOUNT VERNON, CITY OF | 3903110003B | 07-MAY-2003 | 03-05-2464A | 02
05 | OH | MUSKINGUM COUNTY | 3904250105D | 09-MAY-2003 | 03-05-2709A | 02
05 | OH | NELSONVILLE, CITY OF | 3900200005B | 02-MAY-2003 | 03-05-2894A | 01
05 | OH | NEWARK,CITY OF | 3903350002F | 21-MAR-2003 | 03-05-2359A | 02
05 | OH | NILES, CITY OF | 3905400005C | 12-MAR-2003 | 03-05-2099A | 02
05 | OH | NILES, CITY OF | 3905400005C | 02-APR-2003 | 03-05-2185A | 02
05 | OH | NILES, CITY OF | 3905400005C | 02-APR-2003 | 03-05-2186A | 02
05 | OH | NILES, CITY OF | 3905400005C | 14-MAR-2003 | 03-05-2225A | 02
05 | OH | NILES, CITY OF | 3905400005C | 26-MAR-2003 | 03-05-2226A | 17
05 | OH | NILES, CITY OF | 3905400005C | 14-MAR-2003 | 03-05-2227A | 02
05 | OH | NILES, CITY OF | 3905400005C | 14-MAR-2003 | 03-05-2228A | 02
05 | OH | NILES, CITY OF | 3905400005C | 14-MAR-2003 | 03-05-2253A | 02
05 | OH | NILES, CITY OF | 3905400005C | 26-MAR-2003 | 03-05-2260A | 17
05 | OH | NILES, CITY OF | 3905400005C | 14-MAR-2003 | 03-05-2262A | 02
05 | OH | NILES, CITY OF | 3905400005C | 14-MAR-2003 | 03-05-2268A | 02
05 | OH | NILES, CITY OF | 3905400005C | 14-MAR-2003 | 03-05-2277A | 02
05 | OH | NILES, CITY OF | 3905400005C | 14-MAR-2003 | 03-05-2290A | 02
05 | OH | NILES, CITY OF | 3905400005C | 14-MAR-2003 | 03-05-2313A | 02
05 | OH | NILES, CITY OF | 3905400005C | 26-MAR-2003 | 03-05-2370A | 02
05 | OH | NILES, CITY OF | 3905400005C | 26-MAR-2003 | 03-05-2379A | 02
05 | OH | NILES, CITY OF | 3905400005C | 26-MAR-2003 | 03-05-2387A | 02
05 | OH | NILES, CITY OF | 3905400005C | 26-MAR-2003 | 03-05-2390A | 17
05 | OH | NILES, CITY OF | 3905400005C | 26-MAR-2003 | 03-05-2391A | 02
05 | OH | NILES, CITY OF | 3905400005C | 26-MAR-2003 | 03-05-2412A | 02
05 | OH | NILES, CITY OF | 3905400005C | 26-MAR-2003 | 03-05-2418A | 02
05 | OH | NILES, CITY OF | 3905400005C | 09-APR-2003 | 03-05-2684A | 02
05 | OH | NILES, CITY OF | 3905400005C | 09-APR-2003 | 03-05-2689A | 02
05 | OH | NILES, CITY OF | 3905400005C | 09-APR-2003 | 03-05-2690A | 02
05 | OH | NILES, CITY OF | 3905400005C | 09-APR-2003 | 03-05-2725A | 02
05 | OH | NILES, CITY OF | 3905400005C | 09-APR-2003 | 03-05-2726A | 02
05 | OH | NILES, CITY OF | 3905400005C | 09-APR-2003 | 03-05-2728A | 02
05 | OH | NILES, CITY OF | 3905400005C | 09-APR-2003 | 03-05-2729A | 17
05 | OH | NILES, CITY OF | 3905400005C | 23-APR-2003 | 03-05-2730A | 02
05 | OH | NILES, CITY OF | 3905400005C | 18-APR-2003 | 03-05-2803A | 02
05 | OH | NILES, CITY OF | 3905400005C | 25-APR-2003 | 03-05-2999A | 02
05 | OH | NILES, CITY OF | 3905400005C | 25-APR-2003 | 03-05-3017A | 02
05 | OH | NILES, CITY OF | 3905400005C | 14-MAY-2003 | 03-05-3025A | 02
05 | OH | NILES, CITY OF | 3905400005C | 25-APR-2003 | 03-05-3062A | 02
05 | OH | NILES, CITY OF | 3905400005C | 30-APR-2003 | 03-05-3069A | 02
05 | OH | NILES, CITY OF | 3905400005C | 16-MAY-2003 | 03-05-3311A | 02
05 | OH | NILES, CITY OF | 3905400005C | 25-JUN-2003 | 03-05-3493A | 17
05 | OH | NILES, CITY OF | 3905400005C | 13-JUN-2003 | 03-05-3540A | 02
05 | OH | NILES, CITY OF | 3905400005C | 20-JUN-2003 | 03-05-3654A | 02
05 | OH | NILES, CITY OF | 3905400005C | 11-JUN-2003 | 03-05-3667A | 02
05 | OH | NILES, CITY OF | 3905400005C | 11-JUN-2003 | 03-05-3674A | 02
05 | OH | NILES, CITY OF | 3905400005C | 11-JUN-2003 | 03-05-3675A | 02
05 | OH | NILES, CITY OF | 3905400005C | 11-JUN-2003 | 03-05-3676A | 02
05 | OH | NILES, CITY OF | 3905400005C | 11-JUN-2003 | 03-05-3687A | 02
05 | OH | NILES, CITY OF | 3905400005C | 11-JUN-2003 | 03-05-3700A | 02
05 | OH | NILES, CITY OF | 3905400005C | 11-JUN-2003 | 03-05-3710A | 02
05 | OH | NILES, CITY OF | 3905400005C | 13-JUN-2003 | 03-05-3743A | 02
05 | OH | NILES, CITY OF | 3905400005C | 13-JUN-2003 | 03-05-3746A | 02
05 | OH | NILES, CITY OF | 3905400005C | 11-JUN-2003 | 03-05-3748A | 02
05 | OH | NILES, CITY OF | 3905400005C | 11-JUN-2003 | 03-05-3750A | 02
05 | OH | NILES, CITY OF | 3905400005C | 11-JUN-2003 | 03-05-3752A | 02
05 | OH | NILES, CITY OF | 3905400005C | 11-JUN-2003 | 03-05-3754A | 02
05 | OH | NILES, CITY OF | 3905400005C | 18-JUN-2003 | 03-05-3760A | 02
05 | OH | NILES, CITY OF | 3905400005C | 13-JUN-2003 | 03-05-3774A | 02
05 | OH | NILES, CITY OF | 3905400005C | 25-JUN-2003 | 03-05-3802A | 02
05 | OH | NILES, CITY OF | 3905400005C | 27-JUN-2003 | 03-05-3807A | 02
05 | OH | NILES, CITY OF | 3905400005C | 13-JUN-2003 | 03-05-3817A | 02
05 | OH | NORTH OLMSTED, CITY OF | 3901200002C | 10-JAN-2003 | 03-05-1187A | 17
05 | OH | NORTH OLMSTED, CITY OF | 3901200002C | 02-APR-2003 | 03-05-1421A | 02
05 | OH | NORTH OLMSTED, CITY OF | 3901200002C | 12-MAR-2003 | 03-05-1422A | 02
05 | OH | NORTH OLMSTED, CITY OF | 3901200002C | 02-MAY-2003 | 03-05-2816A | 02
05 | OH | NORTH RIDGEVILLE, CITY OF | 3903520005C | 28-MAY-2003 | 02-05-1839P | 05
05 | OH | NORTH RIDGEVILLE, CITY OF | 3903520005C | 24-JAN-2003 | 03-05-1265A | 02
05 | OH | OTTAWA COUNTY | 3904320025A | 22-JAN-2003 | 02-05-4770A | 02
05 | OH | OTTAWA COUNTY | 3904320125B | 08-JAN-2003 | 03-05-1112A | 02
05 | OH | OTTAWA COUNTY | 3904320125B | 24-JAN-2003 | 03-05-1137A | 02
05 | OH | OTTAWA COUNTY | 3904320200B | 25-APR-2003 | 03-05-1165A | 02
05 | OH | OTTAWA COUNTY | 3904320125B | 31-JAN-2003 | 03-05-1416A | 02
05 | OH | OTTAWA COUNTY | 3904320125B | 16-MAY-2003 | 03-05-2205A | 02
05 | OH | OTTAWA COUNTY | 3904320050B | 13-JUN-2003 | 03-05-3144A | 02
05 | OH | OTTAWA COUNTY | 3904320125B | 11-JUN-2003 | 03-05-3340A | 02
05 | OH | OTTAWA COUNTY | 3904320225B | 18-JUN-2003 | 03-05-3659A | 02
05 | OH | OTTAWA, VILLAGE OF | 3904720002C | 29-JAN-2003 | 03-05-1236A | 02
05 | OH | OTTAWA, VILLAGE OF | 3904720002C | 19-MAR-2003 | 03-05-2100A | 02
05 | OH | OTTAWA, VILLAGE OF | 3904720002C | 20-JUN-2003 | 03-05-3656A | 02
05 | OH | PAULDING COUNTY | 3907770150D | 25-JUN-2003 | 03-05-3284A | 02
05 | OH | PORTAGE COUNTY | 390453—22C | 22-JAN-2003 | 02-05-4184A | 02
05 | OH | PORTAGE COUNTY | 390453—34C | 03-JAN-2003 | 02-05-4603A | 02
05 | OH | PORTAGE COUNTY | 390453—22C | 29-JAN-2003 | 03-05-0844A | 02
05 | OH | PORTAGE COUNTY | 390453—35C | 13-JUN-2003 | 03-05-2595A | 02
05 | OH | PREBLE COUNTY | 3904600055B | 26-FEB-2003 | 03-05-1015A | 02
05 | OH | PROSPECT, VILLAGE OF | 39101C0053C | 10-FEB-2003 | 03-05-0497A | 02
05 | OH | PUTNAM COUNTY | 3904650110B | 02-JAN-2003 | 03-05-0474A | 02
05 | OH | PUTNAM COUNTY | 3904650130B | 21-MAR-2003 | 03-05-0598A | 02
05 | OH | PUTNAM COUNTY | 3904650130B | 15-JAN-2003 | 03-05-1162A | 02
05 | OH | REYNOLDSBURG, CITY OF | 39049C0283G | 07-MAY-2003 | 03-05-1296A | 02
05 | OH | RICHWOOD, VILLAGE OF | 3905490001B | 23-APR-2003 | 03-05-2696A | 02
05 | OH | ROSS COUNTY | 39141C0555C | 16-MAY-2003 | 02-05-4749A | 02
05 | OH | ROSS COUNTY | 3904800050B | 21-MAR-2003 | 03-05-0151A | 02
05 | OH | ROSS COUNTY | 39141C0555C | 18-APR-2003 | 03-05-2963A | 02
05 | OH | ROSS COUNTY | 39141C0560C | 02-MAY-2003 | 03-05-2964A | 02
05 | OH | ROSS COUNTY | 39141C0555C | 02-MAY-2003 | 03-05-2965A | 02
05 | OH | ROSS COUNTY | 39141C0555C | 02-MAY-2003 | 03-05-2966A | 02
05 | OH | ROSS COUNTY | 39141C0560C | 02-MAY-2003 | 03-05-2967A | 02
05 | OH | RUSSIA, VILLAGE OF | 3908800001A | 21-MAR-2003 | 03-05-1640A | 02
05 | OH | SANDUSKY COUNTY | 3904860105B | 26-MAR-2003 | 03-05-0999A | 02
05 | OH | SANDUSKY, CITY OF | 390156—03B | 25-APR-2003 | 03-05-3014A | 02
05 | OH | SANDUSKY, CITY OF | 390156—06B | 06-JUN-2003 | 03-05-3430A | 02
05 | OH | SENECA COUNTY | 3907790075B | 09-APR-2003 | 03-05-1518A | 02
05 | OH | SENECA COUNTY | 3907790075B | 21-MAY-2003 | 03-05-3121A | 02
05 | OH | SEVILLE, VILLAGE OF | 3903840001B | 18-APR-2003 | 03-05-2776A | 02
05 | OH | SEVILLE, VILLAGE OF | 3903840001B | 23-JUN-2003 | 03-05-2879A | 08
05 | OH | SEVILLE, VILLAGE OF | 3903840001B | 16-MAY-2003 | 03-05-2924A | 02
05 | OH | SEVILLE, VILLAGE OF | 3903840001B | 14-MAY-2003 | 03-05-3041A | 02
05 | OH | SHELBY COUNTY | 3905030060C | 05-FEB-2003 | 03-05-0468A | 02
05 | OH | SHELBY COUNTY | 3905030055C | 26-FEB-2003 | 03-05-1278A | 02
05 | OH | SHELBY COUNTY | 3905030130C | 26-FEB-2003 | 03-05-1540A | 02
05 | OH | SOUTH BLOOMFIELD, VILLAGE OF | 39129C0180H | 11-JUN-2003 | 03-05-2072A | 02
05 | OH | SPRINGBORO, CITY OF | 3905640001B | 02-APR-2003 | 03-05-1509A | 02
05 | OH | SPRINGFIELD, CITY OF | 3907320180A | 28-MAR-2003 | 03-05-2103A | 02
05 | OH | ST. MARYS, CITY OF | 39011C0080C | 10-FEB-2003 | 03-05-1730A | 02
05 | OH | STARK COUNTY | 3907800010B | 28-MAR-2003 | 03-05-1155A | 01
05 | OH | STARK COUNTY | 3907800102B | 09-APR-2003 | 03-05-1202A | 01
05 | OH | STARK COUNTY | 3907800085B | 16-MAY-2003 | 03-05-1933A | 02
05 | OH | STARK COUNTY | 3907800175B | 13-JUN-2003 | 03-05-2615A | 02
05 | OH | STRONGSVILLE, CITY OF | 3901320005B | 04-JUN-2003 | 03-05-3436A | 02
05 | OH | SUMMIT COUNTY | 3907810100B | 15-JAN-2003 | 03-05-0459A | 02
05 | OH | SUMMIT COUNTY | 3907810105B | 11-APR-2003 | 03-05-0817A | 02
05 | OH | SWANTON, VILLAGE OF | 3906320005B | 28-FEB-2003 | 03-05-1140A | 02
05 | OH | TIPP CITY, CITY OF | 3904010005D | 25-APR-2003 | 03-05-1882A | 02
05 | OH | TOLEDO, CITY OF | 39095C0059D | 26-FEB-2003 | 02-05-4225A | 02
05 | OH | TOLEDO, CITY OF | 39095C0113D | 19-MAY-2003 | 03-05-0434P | 06
05 | OH | TOLEDO, CITY OF | 39095C0252D | 17-JAN-2003 | 03-05-0465A | 17
05 | OH | TOLEDO, CITY OF | 39095C0078D | 26-MAR-2003 | 03-05-0825A | 02
05 | OH | TOLEDO, CITY OF | 39095C0088D | 26-FEB-2003 | 03-05-0861A | 02
05 | OH | TOLEDO, CITY OF | 39095C0059D | 10-JAN-2003 | 03-05-1290A | 02
05 | OH | TOLEDO, CITY OF | 39095C0068D | 15-JAN-2003 | 03-05-1320A | 02
05 | OH | TOLEDO, CITY OF | 39095C0082D | 23-JUN-2003 | 03-05-1451P | 06
05 | OH | TOLEDO, CITY OF | 39095C0064D | 21-MAR-2003 | 03-05-1558A | 02
05 | OH | TOLEDO, CITY OF | 39095C0059D | 12-MAR-2003 | 03-05-1652A | 02
05 | OH | TOLEDO, CITY OF | 39095C0078D | 07-MAY-2003 | 03-05-1734A | 02
05 | OH | TOLEDO, CITY OF | 39095C0059D | 09-MAY-2003 | 03-05-2001A | 02
05 | OH | TOLEDO, CITY OF | 39095C0057D | 21-MAR-2003 | 03-05-2031A | 02
05 | OH | TOLEDO, CITY OF | 39095C0086D | 27-JUN-2003 | 03-05-2110A | 02
05 | OH | TOLEDO, CITY OF | 39095C0068D | 28-MAR-2003 | 03-05-2115A | 02
05 | OH | TOLEDO, CITY OF | 39095C0059D | 19-MAR-2003 | 03-05-2267A | 02
05 | OH | TOLEDO, CITY OF | 39095C0083D | 09-MAY-2003 | 03-05-2388A | 02
05 | OH | TOLEDO, CITY OF | 39095C0062D | 02-APR-2003 | 03-05-2432A | 02
05 | OH | TOLEDO, CITY OF | 39095C0062D | 02-APR-2003 | 03-05-2433A | 02
05 | OH | TOLEDO, CITY OF | 39095C0079D | 18-APR-2003 | 03-05-2482A | 02
05 | OH | TOLEDO, CITY OF | 39095C0078D | 30-APR-2003 | 03-05-2741A | 02
05 | OH | TOLEDO, CITY OF | 39095C0078D | 18-APR-2003 | 03-05-2743A | 02
05 | OH | TOLEDO, CITY OF | 39095C0059D | 23-APR-2003 | 03-05-2744A | 02
05 | OH | TOLEDO, CITY OF | 39095C0064D | 18-JUN-2003 | 03-05-2817A | 02
05 | OH | TOLEDO, CITY OF | 39095C0079D | 02-MAY-2003 | 03-05-2854A | 02
05 | OH | TOLEDO, CITY OF | 39095C0105D | 04-JUN-2003 | 03-05-2961A | 01
05 | OH | TOLEDO, CITY OF | 39095C0059D | 18-JUN-2003 | 03-05-3174A | 02
05 | OH | TOLEDO, CITY OF | 39095C0068D | 04-JUN-2003 | 03-05-3180A | 02
05 | OH | TOLEDO, CITY OF | 39095C0079D | 16-MAY-2003 | 03-05-3181A | 02
05 | OH | TOLEDO, CITY OF | 39095C0079D | 16-MAY-2003 | 03-05-3182A | 02
05 | OH | TOLEDO, CITY OF | 39095C0083D | 06-JUN-2003 | 03-05-3459A | 02
05 | OH | TOLEDO, CITY OF | 39095C0078D | 20-JUN-2003 | 03-05-3934A | 02
05 | OH | TROY, CITY OF | 3904020005B | 15-JAN-2003 | 02-05-4665A | 02
05 | OH | TROY, CITY OF | 3904020005B | 06-JUN-2003 | 03-05-3501A | 02
05 | OH | TRUMBULL COUNTY | 3905350100B | 06-JUN-2003 | 03-05-3514A | 02
05 | OH | TRUMBULL COUNTY | 3905350175B | 11-JUN-2003 | 03-05-3677A | 02
05 | OH | TRUMBULL COUNTY | 3905350125B | 20-JUN-2003 | 03-05-3741A | 02
05 | OH | TUSCARAWAS COUNTY | 3907820090B | 19-MAR-2003 | 03-05-1312A | 01
05 | OH | TUSCARAWAS COUNTY | 3907820070B | 21-MAR-2003 | 03-05-2353A | 02
05 | OH | TUSCARAWAS COUNTY | 3907820090B | 18-JUN-2003 | 03-05-2756A | 02
05 | OH | TUSCARAWAS COUNTY | 3907820070B | 11-JUN-2003 | 03-05-3619A | 02
05 | OH | UHRICHSVILLE, CITY OF | 3905470005C | 15-JAN-2003 | 03-05-0907A | 01
05 | OH | UHRICHSVILLE, CITY OF | 3905470005C | 17-JAN-2003 | 03-05-1009A | 02
05 | OH | UNION COUNTY | 3908080150B | 12-FEB-2003 | 03-05-1646A | 02
05 | OH | UNION COUNTY | 3908080150B | 11-JUN-2003 | 03-05-2892A | 02
05 | OH | URBANA, CITY OF | 3900600005B | 06-JUN-2003 | 03-05-3447A | 02
05 | OH | VANDALIA, CITY OF | 3904180001B | 21-FEB-2003 | 02-05-3230P | 05
05 | OH | WARREN COUNTY | 3907570085D | 17-JAN-2003 | 03-05-1114A | 02
05 | OH | WARREN COUNTY | 3907570069D | 25-JUN-2003 | 03-05-3108A | 02
05 | OH | WARREN, CITY OF | 3905350125B | 11-JUN-2003 | 03-05-2794A | 02
05 | OH | WASHINGTON COUNTY | 3905660125B | 26-MAR-2003 | 03-05-2498X | 02
05 | OH | WASHINGTON COUNTY | 3905660125B | 18-JUN-2003 | 03-05-2716A | 02
05 | OH | WAVERLY, CITY OF | 39131C0045B | 21-MAR-2003 | 03-05-1214A | 01
05 | OH | WAVERLY, CITY OF | 39131C0045B | 25-JUN-2003 | 03-05-3614A | 01
05 | OH | WAYNE COUNTY | 39169C0110C | 14-MAY-2003 | 03-05-2763A | 02
05 | OH | WESTERVILLE, CITY OF | 39049C0157G | 12-FEB-2003 | 03-05-1608A | 02
05 | OH | WESTERVILLE, CITY OF | 39049C0156G | 12-MAR-2003 | 03-05-1940A | 02
05 | OH | WHITEHOUSE, VILLAGE OF | 39095C0218D | 21-FEB-2003 | 03-05-0566A | 01
05 | OH | WHITEHOUSE, VILLAGE OF | 39095C0219D | 21-FEB-2003 | 03-05-0566A | 01
05 | OH | WHITEHOUSE, VILLAGE OF | 39095C0214D | 24-JAN-2003 | 03-05-1527A | 02
05 | OH | WHITEHOUSE, VILLAGE OF | 39095C0218D | 24-JAN-2003 | 03-05-1527A | 02
05 | OH | WHITEHOUSE, VILLAGE OF | 39095C0218D | 28-FEB-2003 | 03-05-1808A | 02
05 | OH | WHITEHOUSE, VILLAGE OF | 39095C0219D | 28-FEB-2003 | 03-05-1808A | 02
05 | OH | WILLIAMS COUNTY | 3907850025B | 02-JAN-2003 | 03-05-0858A | 02
05 | OH | WILLIAMS COUNTY | 3907850050B | 26-FEB-2003 | 03-05-1789A | 02
05 | OH | WILLIAMS COUNTY | 3907850075B | 16-APR-2003 | 03-05-1983A | 02
05 | OH | WOOD COUNTY | 3908090012C | 22-JAN-2003 | 03-05-0973A | 02
05 | OH | WOOD COUNTY | 3908090011C | 26-FEB-2003 | 03-05-1490A | 02
05 | OH | WOOD COUNTY | 3908090050C | 09-APR-2003 | 03-05-1857A | 17
05 | OH | WOOD COUNTY | 3908090012C | 12-MAR-2003 | 03-05-1961X | 02
05 | OH | WOOD COUNTY | 3908090110B | 21-MAR-2003 | 03-05-2030A | 02
05 | OH | WOOD COUNTY | 3908090105B | 14-MAY-2003 | 03-05-2487A | 02
05 | OH | WOOD COUNTY | 3908090012C | 02-APR-2003 | 03-05-2732X | 02
05 | OH | WOOD COUNTY | 3908090016B | 14-MAY-2003 | 03-05-3177A | 02
05 | OH | WOOD COUNTY | 3908090016B | 18-JUN-2003 | 03-05-3187A | 01
05 | OH | WOOD COUNTY | 3908090012C | 28-MAY-2003 | 03-05-3188A | 02
05 | OH | WOOD COUNTY | 3908090016B | 28-MAY-2003 | 03-05-3188A | 02
05 | OH | WOOD COUNTY | 3908090016B | 20-JUN-2003 | 03-05-3354A | 01
05 | OH | WOOSTER, CITY OF | 39169C0140C | 14-MAR-2003 | 03-05-2178A | 02
05 | OH | XENIA, CITY OF | 3901970005B | 23-APR-2003 | 03-05-2886A | 02
05 | OH | XENIA, CITY OF | 3901970005B | 21-MAY-2003 | 03-05-3265A | 02
05 | OH | ZANESVILLE, CITY OF | 3904270005F | 10-JAN-2003 | 03-05-0518A | 02
05 | WI | ADAMS COUNTY | 55001C0330C | 14-MAY-2003 | 03-05-1952A | 17
05 | WI | ADAMS COUNTY | 55001C0175C | 04-JUN-2003 | 03-05-2397A | 02
05 | WI | ALLOUEZ, VILLAGE OF | 5500200125B | 10-JAN-2003 | 03-05-1057A | 01
05 | WI | ALLOUEZ, VILLAGE OF | 5500200125B | 24-MAR-2003 | 03-05-1358A | 02
05 | WI | ALLOUEZ, VILLAGE OF | 5500200125B | 27-MAR-2003 | 03-05-1677A | 02
05 | WI | BARRON COUNTY | 5505680125B | 23-APR-2003 | 03-05-2834A | 02
05 | WI | BAYFIELD COUNTY | 5505390004C | 15-JAN-2003 | 03-05-0076A | 02
05 | WI | BAYFIELD COUNTY | 5505390006B | 21-FEB-2003 | 03-05-1653A | 02
05 | WI | BAYFIELD COUNTY | 5505390006B | 05-MAR-2003 | 03-05-2094X | 02
05 | WI | BIRCHWOOD, VILLAGE OF | 550574—01B | 15-JAN-2003 | 03-05-0471A | 02
05 | WI | BIRCHWOOD, VILLAGE OF | 550574—01B | 25-JUN-2003 | 03-05-3060A | 02
05 | WI | BROWN COUNTY * | 5500200150B | 20-MAR-2003 | 03-05-1100A | 01
05 | WI | BROWN COUNTY * | 5500200150B | 21-APR-2003 | 03-05-1674A | 02
05 | WI | BURLINGTON, CITY OF | 5503480001C | 22-JAN-2003 | 03-05-1219A | 02
05 | WI | BURLINGTON, CITY OF | 5503480001C | 09-APR-2003 | 03-05-1898A | 01
05 | WI | CHIPPEWA COUNTY | 5555490175B | 05-FEB-2003 | 03-05-0590A | 02
05 | WI | CHIPPEWA COUNTY | 5555490075B | 10-FEB-2003 | 03-05-1541A | 02
05 | WI | COLUMBIA COUNTY | 5505810050C | 15-JAN-2003 | 03-05-0818A | 02
05 | WI | COLUMBIA COUNTY | 5505810075C | 10-JAN-2003 | 03-05-1177A | 02
05 | WI | COLUMBIA COUNTY | 5505810075C | 07-MAR-2003 | 03-05-1956A | 02
05 | WI | COLUMBIA COUNTY | 5505810150C | 07-MAR-2003 | 03-05-1956A | 02
05 | WI | COLUMBIA COUNTY | 5505810075C | 19-MAR-2003 | 03-05-2011A | 02
05 | WI | DANE COUNTY | 5500770100A | 09-MAY-2003 | 03-05-2063A | 02
05 | WI | DANE COUNTY* | 5500770175C | 27-MAR-2003 | 03-05-1660A | 02
05 | WI | DE PERE, CITY OF | 5500210005C | 06-FEB-2003 | 03-05-0368A | 02
05 | WI | DE PERE, CITY OF | 5500210005C | 16-JAN-2003 | 03-05-0400A | 02
05 | WI | DODGE COUNTY | 5500940120B | 21-MAR-2003 | 03-05-0607A | 02
05 | WI | DOOR COUNTY | 5501090085A | 09-APR-2003 | 03-05-1720A | 02
05 | WI | DOOR COUNTY | 5501090085A | 04-APR-2003 | 03-05-1987A | 02
05 | WI | DOOR COUNTY | 5501090105A | 23-APR-2003 | 03-05-2083A | 01
05 | WI | DOUGLAS COUNTY | 5505380275B | 29-JAN-2003 | 03-05-0515A | 02
05 | WI | DOUGLAS COUNTY | 5505380125B | 11-JUN-2003 | 03-05-3516A | 02
05 | WI | DUNN COUNTY | 5501180125A | 09-MAY-2003 | 03-05-2820A | 02
05 | WI | EAU CLAIRE COUNTY | 5555520150B | 16-MAY-2003 | 03-05-0739A | 02
05 | WI | EAU CLAIRE COUNTY | 5555520275B | 12-MAR-2003 | 03-05-2071A | 02
05 | WI | EAU CLAIRE, CITY OF | 5501280005D | 04-APR-2003 | 03-05-1190A | 01
05 | WI | EAU CLAIRE, CITY OF | 5501280015D | 09-APR-2003 | 03-05-1559A | 01
05 | WI | EAU CLAIRE, CITY OF | 5501280005D | 26-FEB-2003 | 03-05-1602A | 02
05 | WI | EAU CLAIRE, CITY OF | 5501280015D | 26-MAR-2003 | 03-05-1724A | 02
05 | WI | ELM GROVE, VILLAGE OF | 5505780001B | 23-JUN-2003 | 03-05-1985A | 02
05 | WI | ETTRICK, VILLAGE OF | 550420001B | 13-JAN-2003 | 03-05-0253A | 02
05 | WI | ETTRICK, VILLAGE OF | 555585—32A | 13-JAN-2003 | 03-05-0253A | 02
05 | WI | FOND DU LAC COUNTY | 5501310170C | 08-JAN-2003 | 03-05-0706A | 02
05 | WI | FOND DU LAC COUNTY | 5501310170C | 21-MAR-2003 | 03-05-0707A | 02
05 | WI | FOND DU LAC COUNTY | 5501310195B | 21-MAY-2003 | 03-05-2589A | 02
05 | WI | FOND DU LAC COUNTY | 5501310070C | 14-MAY-2003 | 03-05-3109A | 02
05 | WI | FOND DU LAC COUNTY | 5501310070C | 14-MAY-2003 | 03-05-3110A | 02
05 | WI | FOND DU LAC COUNTY | 5501310080B | 25-JUN-2003 | 03-05-3960A | 02
05 | WI | FOND DU LAC, CITY OF | 5501360005D | 08-JAN-2003 | 03-05-1176A | 02
05 | WI | FOND DU LAC, CITY OF | 5501360005D | 10-JAN-2003 | 03-05-1210A | 02
05 | WI | FOND DU LAC, CITY OF | 5501360005D | 15-JAN-2003 | 03-05-1231A | 02
05 | WI | FOND DU LAC, CITY OF | 5501360005D | 12-FEB-2003 | 03-05-1778A | 02
05 | WI | FOND DU LAC, CITY OF | 5501360005D | 07-MAR-2003 | 03-05-1975A | 02
05 | WI | FOND DU LAC, CITY OF | 5501360005D | 16-MAY-2003 | 03-05-2451A | 01
05 | WI | FOND DU LAC, CITY OF | 5501360005D | 23-APR-2003 | 03-05-2792A | 02
05 | WI | FOREST COUNTY | 5506030001A | 29-JAN-2003 | 03-05-1438A | 02
05 | WI | FOREST COUNTY | 5506030001A | 29-JAN-2003 | 03-05-1439A | 02
05 | WI | FOREST COUNTY | 5506030001A | 17-JAN-2003 | 03-05-1445A | 02
05 | WI | FOREST COUNTY | 5506030001A | 05-FEB-2003 | 03-05-1536A | 02
05 | WI | FOREST COUNTY | 5506030001A | 04-APR-2003 | 03-05-1539A | 02
05 | WI | FOREST COUNTY | 5506030001A | 29-JAN-2003 | 03-05-1579A | 02
05 | WI | FOREST COUNTY | 5506030001A | 29-JAN-2003 | 03-05-1583A | 02
05 | WI | FOREST COUNTY | 5506030009A | 26-MAR-2003 | 03-05-2362A | 02
05 | WI | FOREST COUNTY | 5506030006A | 16-APR-2003 | 03-05-2786A | 02
05 | WI | FOREST COUNTY | 5506030001A | 18-APR-2003 | 03-05-2822A | 02
05 | WI | FOREST COUNTY | 5506030001A | 18-APR-2003 | 03-05-2842A | 02
05 | WI | FRANKLIN, CITY OF | 5502730005B | 02-APR-2003 | 03-05-1546A | 02
05 | WI | FRANKLIN, CITY OF | 5502730005B | 20-JUN-2003 | 03-05-2203A | 01
05 | WI | FREMONT, VILLAGE OF | 5504960001C | 10-FEB-2003 | 03-05-1198A | 02
05 | WI | FREMONT, VILLAGE OF | 5504960001C | 09-APR-2003 | 03-05-2356A | 02
05 | WI | FREMONT, VILLAGE OF | 5504960001C | 13-JUN-2003 | 03-05-2602A | 01
05 | WI | GAYS MILLS, VILLAGE OF | 5500710001C | 26-MAR-2003 | 03-05-0863A | 02
05 | WI | GLENDALE, CITY OF | 5502750005C | 20-JUN-2003 | 03-05-2438A | 02
05 | WI | GREEN BAY, CITY OF | 5500220020E | 27-JAN-2003 | 03-05-0367A | 02
05 | WI | GREEN BAY, CITY OF | 5500220005E | 17-MAR-2003 | 03-05-0798A | 17
05 | WI | GREEN BAY, CITY OF | 5500220010E | 20-FEB-2003 | 03-05-1051A | 02
05 | WI | GREEN BAY, CITY OF | 5500220005E | 27-FEB-2003 | 03-05-1061A | 02
05 | WI | GREEN LAKE COUNTY | 5501650003A | 17-JAN-2003 | 02-05-4608A | 08
05 | WI | GREEN LAKE COUNTY | 5501650004A | 24-JAN-2003 | 03-05-0401A | 02
05 | WI | GREEN LAKE COUNTY | 550165—04A | 23-APR-2003 | 03-05-2765A | 02
05 | WI | GREENDALE, VILLAGE OF | 5502760002B | 21-MAR-2003 | 03-05-1043A | 02
05 | WI | GREENFIELD, CITY OF | 5502770001B | 22-JAN-2003 | 03-05-1101A | 02
05 | WI | HARTLAND, VILLAGE OF | 5504810001C | 13-JUN-2003 | 03-05-3604A | 02
05 | WI | HORTONVILLE, VILLAGE OF | 5505290002A | 20-JUN-2003 | 03-05-3598A | 02
05 | WI | HOWARD, VILLAGE OF | 5500230005B | 10-MAR-2003 | 03-05-0775A | 17
05 | WI | HOWARD, VILLAGE OF | 5500230005B | 10-APR-2003 | 03-05-1683A | 02
05 | WI | IOWA COUNTY | 5505220225A | 09-APR-2003 | 03-05-2321A | 02
05 | WI | IRON COUNTY | 5501820008B | 10-JAN-2003 | 03-05-0654A | 02
05 | WI | IRON COUNTY | 5501820008B | 28-MAR-2003 | 03-05-2286A | 02
05 | WI | JACKSON COUNTY | 5505830125B | 21-FEB-2003 | 03-05-0812A | 01
05 | WI | JACKSON, VILLAGE OF | 5505300001C | 19-MAR-2003 | 03-05-2306A | 02
05 | WI | JANESVILLE, CITY OF | 5503630130A | 17-JAN-2003 | 02-05-3209A | 01
05 | WI | JEFFERSON COUNTY | 5501910050B | 21-MAR-2003 | 03-05-1623A | 02
05 | WI | JEFFERSON COUNTY | 5501910125B | 12-FEB-2003 | 03-05-1641A | 17
05 | WI | JEFFERSON COUNTY | 5501910200B | 09-APR-2003 | 03-05-2440A | 02
05 | WI | JEFFERSON COUNTY | 5501910200B | 27-JUN-2003 | 03-05-3337A | 02
05 | WI | LA CROSSE, CITY OF | 5555620005B | 17-APR-2003 | 03-05-1392A | 02
05 | WI | LA CROSSE, CITY OF | 5555620005B | 07-APR-2003 | 03-05-1705A | 02
05 | WI | LA CROSSE, CITY OF | 5555620008B | 03-APR-2003 | 03-05-2139A | 02
05 | WI | LA CROSSE, CITY OF | 5555620008B | 27-APR-2003 | 03-05-2626X | 02
05 | WI | LAKE DELTON, VILLAGE OF | 55111C0250D | 05-MAR-2003 | 03-05-1191A | 02
05 | WI | LAVALLE, VILLAGE OF | 55111C0200D | 07-MAY-2003 | 03-05-3107A | 02
05 | WI | LINCOLN COUNTY* | 5505850030B | 10-JAN-2003 | 03-05-0593A | 02
05 | WI | MANITOWOC, CITY OF | 550240—04B | 19-MAR-2003 | 03-05-1478A | 02
05 | WI | MARATHON COUNTY | 5502450375B | 10-JAN-2003 | 02-05-2826A | 01
05 | WI | MARATHON COUNTY | 5502450400B | 22-JAN-2003 | 03-05-0506A | 02
05 | WI | MARATHON COUNTY | 5502450375B | 12-FEB-2003 | 03-05-0520A | 02
05 | WI | MARATHON COUNTY | 5502450375B | 29-JAN-2003 | 03-05-0834A | 02
05 | WI | MARATHON COUNTY | 5502450375B | 05-MAR-2003 | 03-05-0955A | 02
05 | WI | MARATHON COUNTY | 5502450250B | 05-MAR-2003 | 03-05-1213A | 02
05 | WI | MARATHON COUNTY | 5502450200B | 11-APR-2003 | 03-05-2317A | 02
05 | WI | MARATHON COUNTY | 5502450225B | 28-MAR-2003 | 03-05-2428A | 02
05 | WI | MARATHON COUNTY | 5502450225B | 09-APR-2003 | 03-05-2798X | 02
05 | WI | MARATHON COUNTY | 5502450525B | 23-APR-2003 | 03-05-2956A | 02
05 | WI | MARATHON COUNTY | 5502450525B | 21-MAY-2003 | 03-05-3193A | 02
05 | WI | MARATHON COUNTY | 5502450400B | 18-JUN-2003 | 03-05-3323A | 17
05 | WI | MARINETTE COUNTY | 5502590400B | 21-MAR-2003 | 03-05-1584A | 02
05 | WI | MARINETTE COUNTY | 5502590725B | 09-APR-2003 | 03-05-1907A | 02
05 | WI | MARINETTE COUNTY | 5502590700B | 12-MAR-2003 | 03-05-2175A | 02
05 | WI | MARINETTE COUNTY | 5502590625B | 16-APR-2003 | 03-05-2189A | 02
05 | WI | MARINETTE COUNTY | 5502590765B | 27-JUN-2003 | 03-05-3860A | 02
05 | WI | MARQUETTE COUNTY | 5506010125B | 14-FEB-2003 | 03-05-1732A | 17
05 | WI | MC FARLAND, VILLAGE OF | 5500770275C | 31-MAR-2003 | 03-05-1664A | 02
05 | WI | MENASHA, CITY OF | 5505100005C | 21-JAN-2003 | 03-05-0380A | 02
05 | WI | MENASHA, CITY OF | 55139C0105E | 18-MAR-2003 | 03-05-2121V | 19
05 | WI | MENASHA, CITY OF | 55139C0110E | 18-MAR-2003 | 03-05-2121V | 19
05 | WI | MENASHA, CITY OF | 55139C0105E | 30-APR-2003 | 03-05-2746A | 02
05 | WI | MENASHA, CITY OF | 55139C0110E | 30-MAY-2003 | 03-05-3420A | 02
05 | WI | MENASHA, CITY OF | 55139C0110E | 04-JUN-2003 | 03-05-3524A | 02
05 | WI | MENOMONEE FALLS, VILLAGE OF | 5504830005C | 15-JAN-2003 | 03-05-1007A | 02
05 | WI | MENOMONEE FALLS, VILLAGE OF | 5504830005C | 19-MAR-2003 | 03-05-2229A | 02
05 | WI | MENOMONEE FALLS, VILLAGE OF | 5504830005C | 25-JUN-2003 | 03-05-3333A | 17
05 | WI | MENOMONEE FALLS, VILLAGE OF | 5504830010C | 11-JUN-2003 | 03-05-3414A | 02
05 | WI | MEQUON, CITY OF | 55089C0085D | 02-JAN-2003 | 03-05-0516A | 02
05 | WI | MEQUON, CITY OF | 55089C0085D | 23-APR-2003 | 03-05-2878A | 02
05 | WI | MISHICOT, VILLAGE OF | 5555660005C | 11-JUN-2003 | 03-05-3541A | 02
05 | WI | MONROE COUNTY | 5505710135B | 09-APR-2003 | 03-05-2097A | 02
05 | WI | MUSKEGO, CITY OF | 5504860001B | 12-FEB-2003 | 03-05-1770A | 02
05 | WI | MUSKEGO, CITY OF | 5504860001B | 26-FEB-2003 | 03-05-1953A | 02
05 | WI | NEENAH, CITY OF | 55139C0111E | 17-APR-2003 | 03-05-1701A | 01
05 | WI | NEENAH, CITY OF | 55139C0111E | 18-MAR-2003 | 03-05-2124V | 19
05 | WI | NEW BERLIN, CITY OF | 5504870003E | 07-MAY-2003 | 03-05-2220A | 02
05 | WI | NEW GLARUS, VILLAGE OF | 5501640001B | 16-APR-2003 | 03-05-2606A | 02
05 | WI | OAK CREEK, CITY OF | 5502790002B | 10-FEB-2003 | 03-05-1818A | 02
05 | WI | OCONOMOWOC LAKE, VILLAGE OF | 5505820005B | 29-JAN-2003 | 02-05-4604A | 02
05 | WI | OCONOMOWOC LAKE, VILLAGE OF | 5505820005B | 09-APR-2003 | 03-05-2677A | 02
05 | WI | OCONTO COUNTY | 5502940125A | 22-JAN-2003 | 02-05-4222A | 02
05 | WI | OCONTO COUNTY | 5502940295A | 10-JAN-2003 | 03-05-1048A | 17
05 | WI | OCONTO COUNTY | 5502940290A | 09-APR-2003 | 03-05-2413A | 02
05 | WI | OCONTO, CITY OF | 5502970001B | 02-JAN-2003 | 03-05-1110A | 02
05 | WI | OMRO, CITY OF | 55139C0186E | 18-MAR-2003 | 03-05-2123V | 19
05 | WI | ONEIDA COUNTY | 55085C0300B | 31-JAN-2003 | 03-05-1211A | 02
05 | WI | ONEIDA COUNTY | 55085C0200B | 21-FEB-2003 | 03-05-1892A | 02
05 | WI | OSHKOSH, CITY OF | 5505110010D | 27-FEB-2003 | 03-05-0764A | 02
05 | WI | OSHKOSH, CITY OF | 55139C0215E | 18-MAR-2003 | 03-05-2122V | 19
05 | WI | OSHKOSH, CITY OF | 55139C0220E | 18-MAR-2003 | 03-05-2122V | 19
05 | WI | OSHKOSH, CITY OF | 55139C0225E | 18-MAR-2003 | 03-05-2122V | 19
05 | WI | OSHKOSH, CITY OF | 55139C0335E | 18-MAR-2003 | 03-05-2122V | 19
05 | WI | OSHKOSH, CITY OF | 55139C0215E | 25-JUN-2003 | 03-05-2882A | 17
05 | WI | OSHKOSH, CITY OF | 55139C0220E | 25-APR-2003 | 03-05-3010A | 02
05 | WI | OSHKOSH, CITY OF | 55139C0225E | 11-JUN-2003 | 03-05-3597A | 02
05 | WI | OUTAGAMIE COUNTY | 5503020050B | 02-APR-2003 | 03-05-1317A | 02
05 | WI | OUTAGAMIE COUNTY | 5503020150B | 13-JUN-2003 | 03-05-1494A | 02
05 | WI | OUTAGAMIE COUNTY | 5503020050B | 14-FEB-2003 | 03-05-1634A | 02
05 | WI | OUTAGAMIE COUNTY | 5503020100C | 16-MAY-2003 | 03-05-2398A | 02
05 | WI | OUTAGAMIE COUNTY | 5503020100C | 30-MAY-2003 | 03-05-3030A | 02
05 | WI | OZAUKEE COUNTY | 55089C0050E | 09-MAY-2003 | 03-05-2957A | 02
05 | WI | PIERCE COUNTY | 5555710175C | 21-MAR-2003 | 03-05-1610A | 02
05 | WI | PIERCE COUNTY * | 5555710025B | 21-APR-2003 | 02-05-4309P | 05
05 | WI | PIERCE COUNTY * | 5555710030B | 21-APR-2003 | 02-05-4309P | 05
05 | WI | PITTSVILLE, CITY OF | 55141C0245F | 15-JAN-2003 | 03-05-1033A | 02
05 | WI | PLEASANT PRAIRIE, VILLAGE OF | 5506130005B | 30-MAY-2003 | 03-05-3299A | 02
05 | WI | POLK COUNTY | 5505770200B | 29-JAN-2003 | 03-05-1182A | 02
05 | WI | POLK COUNTY | 5505770275B | 10-FEB-2003 | 03-05-1543A | 02
05 | WI | PORTAGE COUNTY | 5505720250C | 14-MAR-2003 | 03-05-1199A | 02
05 | WI | PORTAGE COUNTY | 5505720050C | 26-FEB-2003 | 03-05-1515A | 02
05 | WI | PRICE COUNTY | 5503430105C | 18-APR-2003 | 03-05-1886A | 02
05 | WI | RACINE COUNTY | 5503470010B | 07-MAR-2003 | 03-05-1203A | 02
05 | WI | RACINE COUNTY | 5503470010B | 12-MAR-2003 | 03-05-2075A | 02
05 | WI | RACINE COUNTY | 5503470005B | 23-APR-2003 | 03-05-2782A | 02
05 | WI | REEDSBURG, CITY OF | 55111C0195D | 28-MAR-2003 | 03-05-1144A | 02
05 | WI | RICHLAND CENTER, CITY OF | 5555760001B | 29-MAY-2003 | 02-05-3964P | 05
05 | WI | RICHLAND COUNTY | 5503560200B | 08-JAN-2003 | 02-05-4669A | 02
05 | WI | RICHLAND COUNTY | 5503560050B | 24-JAN-2003 | 03-05-1432A | 02
05 | WI | RICHLAND COUNTY | 5503560050B | 07-MAR-2003 | 03-05-2017A | 02
05 | WI | RICHLAND COUNTY | 5503560150B | 18-JUN-2003 | 03-05-3450A | 02
05 | WI | ROSHOLT, VILLAGE OF | 550341—01B | 19-MAR-2003 | 03-05-1553A | 02
05 | WI | ROSHOLT, VILLAGE OF | 550341—01B | 30-APR-2003 | 03-05-2033A | 01
05 | WI | RUSK COUNTY | 5506020225B | 29-JAN-2003 | 03-05-1578A | 02
05 | WI | SAUK COUNTY | 55111C0375D | 17-JAN-2003 | 03-05-1207A | 02
05 | WI | SAUK COUNTY | 55111C0575D | 31-JAN-2003 | 03-05-1235A | 02
05 | WI | SAUK COUNTY | 55111C0525D | 24-JAN-2003 | 03-05-1272A | 02
05 | WI | SAUK COUNTY | 55111C0525D | 05-FEB-2003 | 03-05-1524A | 02
05 | WI | SAUK COUNTY | 55111C0350D | 21-FEB-2003 | 03-05-1911A | 02
05 | WI | SAUK COUNTY | 55111C0600D | 04-APR-2003 | 03-05-2435A | 02
05 | WI | SAUK COUNTY | 55111C0350D | 07-MAY-2003 | 03-05-2875A | 02
05 | WI | SAUK COUNTY | 55111C0575D | 20-JUN-2003 | 03-05-3290A | 17
05 | WI | SAUK COUNTY | 55111C0550D | 25-JUN-2003 | 03-05-3517A | 02
05 | WI | SCHOFIELD, CITY OF | 5555790001C | 27-JUN-2003 | 03-05-3102A | 01
05 | WI | SHAWANO COUNTY | 5504120150B | 02-JAN-2003 | 03-05-0968A | 02
05 | WI | SHAWANO COUNTY | 5504120100B | 05-FEB-2003 | 03-05-1003A | 02
05 | WI | SHAWANO COUNTY | 5504120150B | 24-JAN-2003 | 03-05-1325A | 02
05 | WI | SHAWANO COUNTY | 5504120150B | 10-FEB-2003 | 03-05-1754A | 02
05 | WI | SHIOCTON, VILLAGE OF | 5503090001B | 26-MAR-2003 | 03-05-1324A | 02
05 | WI | ST. CROIX COUNTY | 555578—01B | 02-MAY-2003 | 03-05-2095A | 02
05 | WI | ST. CROIX COUNTY | 555578—08B | 16-APR-2003 | 03-05-2525A | 02
05 | WI | ST. CROIX COUNTY * | 555578—15B | 13-FEB-2003 | 03-05-0362A | 01
05 | WI | STEVENS POINT, CITY OF | 5503420005B | 11-JUN-2003 | 03-05-3670A | 02
05 | WI | STURGEON BAY, CITY OF | 5501110005B | 02-APR-2003 | 03-05-2023A | 02
05 | WI | STURGEON BAY, CITY OF | 5501110005B | 13-JUN-2003 | 03-05-3642A | 02
05 | WI | THIENSVILLE, VILLAGE OF | 55089C0079D | 12-MAR-2003 | 03-05-2078A | 02
05 | WI | TREMPEALEAU COUNTY * | 555585—15A | 31-MAR-2003 | 03-05-1094A | 02
05 | WI | TREMPEALEAU COUNTY * | 555585—38A | 10-MAR-2003 | 03-05-1371A | 02
05 | WI | TWIN LAKES, VILLAGE OF | 5502110002B | 07-MAR-2003 | 03-05-1797A | 02
05 | WI | VERNON COUNTY | 5504500025B | 10-FEB-2003 | 03-05-1717A | 02
05 | WI | WALWORTH COUNTY | 5504620085B | 24-JAN-2003 | 03-05-1526A | 02
05 | WI | WASHBURN COUNTY | 5506060125B | 04-APR-2003 | 03-05-1125A | 02
05 | WI | WASHBURN COUNTY | 5506060125B | 11-JUN-2003 | 03-05-3679A | 02
05 | WI | WASHBURN COUNTY | 5506060125B | 13-JUN-2003 | 03-05-3697A | 02
05 | WI | WASHINGTON COUNTY | 5504710015B | 15-JAN-2003 | 03-05-1117A | 02
05 | WI | WASHINGTON COUNTY | 5504710020B | 12-MAR-2003 | 03-05-1525A | 02
05 | WI | WASHINGTON COUNTY | 5504710090B | 19-MAR-2003 | 03-05-2408A | 02
05 | WI | WAUKESHA COUNTY | 5504760020B | 29-JAN-2003 | 03-05-1239A | 02
05 | WI | WAUKESHA COUNTY | 5504760015B | 17-JAN-2003 | 03-05-1242A | 02
05 | WI | WAUKESHA COUNTY | 5504760015B | 21-FEB-2003 | 03-05-1275A | 02
05 | WI | WAUKESHA COUNTY | 5504760020B | 07-MAR-2003 | 03-05-2024A | 02
05 | WI | WAUKESHA COUNTY | 5504760020B | 19-MAR-2003 | 03-05-2287A | 02
05 | WI | WAUKESHA COUNTY | 5504760060B | 02-APR-2003 | 03-05-2439A | 02
05 | WI | WAUKESHA COUNTY | 5504760015B | 18-JUN-2003 | 03-05-3264A | 02
05 | WI | WAUKESHA COUNTY | 5504760060B | 11-JUN-2003 | 03-05-3795X | 02
05 | WI | WAUPACA COUNTY | 5504920205B | 22-JAN-2003 | 03-05-0928A | 02
05 | WI | WAUPACA COUNTY | 5504920155A | 21-FEB-2003 | 03-05-1775A | 02
05 | WI | WAUPACA COUNTY | 5504920115A | 25-JUN-2003 | 03-05-3029A | 02
05 | WI | WAUPACA COUNTY | 5504920040A | 25-JUN-2003 | 03-05-3799A | 02
05 | WI | WAUPUN, CITY OF | 5501080001E | 23-APR-2003 | 03-05-1310A | 02
05 | WI | WAUPUN, CITY OF | 5501080001E | 20-JUN-2003 | 03-05-3627A | 02
05 | WI | WAUSAU, CITY OF | 5502450375B | 28-FEB-2003 | 03-05-1256A | 02
05 | WI | WAUSAU, CITY OF | 5502450250B | 09-MAY-2003 | 03-05-2718A | 02
05 | WI | WAUWATOSA, CITY OF | 5502840005B | 08-JAN-2003 | 03-05-0914A | 02
05 | WI | WEST ALLIS, CITY OF | 5502850003C | 05-MAR-2003 | 03-05-1253A | 02
05 | WI | WEST ALLIS, CITY OF | 5502850003C | 19-MAR-2003 | 03-05-2218A | 02
05 | WI | WHITEWATER, CITY OF | 5502000004B | 20-JUN-2003 | 03-05-3801A | 02
05 | WI | WINNEBAGO COUNTY | 55139C0170E | 16-MAY-2003 | 03-05-3082A | 02
05 | WI | WINNEBAGO COUNTY | 55139C0215E | 16-MAY-2003 | 03-05-3092A | 02
05 | WI | WINNEBAGO COUNTY | 55139C0050E | 04-JUN-2003 | 03-05-3348A | 02
05 | WI | WINNEBAGO COUNTY | 55139C0200E | 20-JUN-2003 | 03-05-3419A | 01
05 | WI | WINNEBAGO COUNTY | 55139C0225E | 04-JUN-2003 | 03-05-3442A | 02
05 | WI | WINNEBAGO COUNTY | 55139C0215E | 13-JUN-2003 | 03-05-3599A | 02
05 | WI | WINNEBAGO COUNTY * | 5505370025C | 16-JAN-2003 | 03-05-0033A | 02
05 | WI | WINNEBAGO COUNTY * | 5505370100C | 30-JAN-2003 | 03-05-0050A | 02
05 | WI | WINNEBAGO COUNTY * | 55139C0220E | 18-MAR-2003 | 03-05-0755A | 02
05 | WI | WINNEBAGO COUNTY * | 5505370075C | 16-JAN-2003 | 03-05-0756A | 02
05 | WI | WINNEBAGO COUNTY * | 5505370075C | 10-FEB-2003 | 03-05-1063A | 02
05 | WI | WINNEBAGO COUNTY * | 55139C0335E | 31-MAR-2003 | 03-05-1090A | 02
05 | WI | WINNEBAGO COUNTY * | 55139C0200E | 18-MAR-2003 | 03-05-1370A | 01
05 | WI | WINNEBAGO COUNTY * | 55139C0200E | 20-MAR-2003 | 03-05-1395A | 02
05 | WI | WINNEBAGO COUNTY * | 55139C0030E | 28-APR-2003 | 03-05-1698A | 02
05 | WI | WINNEBAGO COUNTY * | 55139C0112E | 14-APR-2003 | 03-05-1700A | 02
05 | WI | WINNEBAGO COUNTY * | 55139C0050E | 18-MAR-2003 | 03-05-2126V | 19
05 | WI | WINNEBAGO COUNTY * | 55139C0065E | 18-MAR-2003 | 03-05-2126V | 19
05 | WI | WINNEBAGO COUNTY * | 55139C0105E | 18-MAR-2003 | 03-05-2126V | 19
05 | WI | WINNEBAGO COUNTY * | 55139C0110E | 18-MAR-2003 | 03-05-2126V | 19
05 | WI | WINNEBAGO COUNTY * | 55139C0112E | 18-MAR-2003 | 03-05-2126V | 19
05 | WI | WINNEBAGO COUNTY * | 55139C0113E | 18-MAR-2003 | 03-05-2126V | 19
05 | WI | WINNEBAGO COUNTY * | 55139C0114E | 18-MAR-2003 | 03-05-2126V | 19
05 | WI | WINNEBAGO COUNTY * | 55139C0150E | 18-MAR-2003 | 03-05-2126V | 19
05 | WI | WINNEBAGO COUNTY * | 55139C0170E | 18-MAR-2003 | 03-05-2126V | 19
05 | WI | WINNEBAGO COUNTY * | 55139C0175E | 18-MAR-2003 | 03-05-2126V | 19
05 | WI | WINNEBAGO COUNTY * | 55139C0176E | 18-MAR-2003 | 03-05-2126V | 19
05 | WI | WINNEBAGO COUNTY * | 55139C0200E | 18-MAR-2003 | 03-05-2126V | 19
05 | WI | WINNEBAGO COUNTY * | 55139C0215E | 18-MAR-2003 | 03-05-2126V | 19
05 | WI | WINNEBAGO COUNTY * | 55139C0220E | 18-MAR-2003 | 03-05-2126V | 19
05 | WI | WINNEBAGO COUNTY * | 55139C0225E | 18-MAR-2003 | 03-05-2126V | 19
05 | WI | WINNEBAGO COUNTY * | 55139C0250E | 18-MAR-2003 | 03-05-2126V | 19
05 | WI | WINNEBAGO COUNTY * | 55139C0330E | 18-MAR-2003 | 03-05-2126V | 19
05 | WI | WINNEBAGO COUNTY * | 55139C0335E | 18-MAR-2003 | 03-05-2126V | 19
05 | WI | WINNEBAGO COUNTY * | 55139C0355E | 18-MAR-2003 | 03-05-2126V | 19
05 | WI | WINNEBAGO COUNTY * | 55139C0365E | 18-MAR-2003 | 03-05-2126V | 19
05 | WI | WINNECONNE, VILLAGE OF | 55139C0177E | 18-MAR-2003 | 03-05-2125V | 19
05 | WI | WYEVILLE, VILLAGE OF | 5502930001C | 21-MAR-2003 | 03-05-0940A | 02
06 | AR | BENTON COUNTY | 05007C0061F | 28-MAR-2003 | 03-06-475A | 17
06 | AR | BENTONVILLE, CITY OF | 05007C0044F | 08-JAN-2003 | 03-06-093A | 01
06 | AR | BENTONVILLE, CITY OF | 05007C0155H | 28-MAY-2003 | 03-06-1088A | 17
06 | AR | BOONEVILLE, CITY OF | 050472—01B | 14-MAY-2003 | 03-06-1040A | 02
06 | AR | BOONEVILLE, CITY OF | 050472—01B | 31-JAN-2003 | 03-06-369A | 02
06 | AR | BRYANT, CITY OF | 0503080001C | 11-JUN-2003 | 03-06-1589A | 02
06 | AR | CABOT, CITY OF | 0504480015B | 11-JUN-2003 | 03-06-1509A | 01
06 | AR | CAMDEN, CITY OF | 0501630002A | 30-APR-2003 | 03-06-1414A | 01
06 | AR | CENTERTON, CITY OF | 05007C0135E | 16-MAY-2003 | 03-06-589A | 02
06 | AR | CLARKSVILLE, CITY OF | 0501120002C | 21-MAR-2003 | 03-06-667A | 02
06 | AR | CLEBURNE COUNTY | 0504240025C | 30-APR-2003 | 03-06-1341A | 02
06 | AR | CONWAY, CITY OF | 05045C0130F | 14-MAR-2003 | 03-06-1039A | 02
06 | AR | CONWAY, CITY OF | 05045C0130F | 11-JUN-2003 | 03-06-1466A | 01
06 | AR | CRAIGHEAD COUNTY | 05031C0195C | 04-JUN-2003 | 03-06-788A | 02
06 | AR | DES ARC, CITY OF | 050237—01A | 30-MAY-2003 | 03-06-1647A | 02
06 | AR | DES ARC, CITY OF | 050237—01A | 24-JAN-2003 | 03-06-374A | 02
06 | AR | DES ARC, CITY OF | 050237—01A | 21-FEB-2003 | 03-06-743A | 02
06 | AR | DYER, TOWN OF | 05033C0195E | 02-APR-2003 | 03-06-1076A | 01
06 | AR | DYER, TOWN OF | 05033C0195E | 28-MAR-2003 | 03-06-1095A | 02
06 | AR | ELKINS, CITY OF | 05143C0115E | 15-JAN-2003 | 03-06-571A | 02
06 | AR | FAULKNER COUNTY | 05045C0145F | 03-JAN-2003 | 03-06-156A | 02
06 | AR | FAYETTEVILLE, CITY OF | 05143C0115E | 28-MAY-2003 | 03-06-1709A | 02
06 | AR | FORT SMITH, CITY OF | 050462D | 03-JAN-2003 | 03-06-134A | 02
06 | AR | FORT SMITH, CITY OF | 0550130005D | 04-JUN-2003 | 03-06-1760A | 02
06 | AR | FORT SMITH, CITY OF | 0550130010D | 14-FEB-2003 | 03-06-610A | 02
06 | AR | GARLAND COUNTY | 05051C0090C | 30-MAY-2003 | 03-06-1590A | 02
06 | AR | GARLAND COUNTY | 05051C0125C | 23-MAY-2003 | 03-06-467A | 02
06 | AR | GARLAND COUNTY | 05051C0154C | 29-JAN-2003 | 03-06-595A | 02
06 | AR | GARLAND COUNTY | 05051C0158C | 21-FEB-2003 | 03-06-806A | 02
06 | AR | GRANT COUNTY | 050434—19B | 23-APR-2003 | 03-06-1289A | 02
06 | AR | GREENWOOD, CITY OF | 0501980005B | 08-JAN-2003 | 03-06-310A | 17
06 | AR | HOPE, CITY OF | 0500870004A | 29-JAN-2003 | 03-06-064A | 01
06 | AR | HOT SPRINGS, CITY OF | 05051C0154C | 25-JUN-2003 | 03-06-1987A | 02
06 | AR | HOT SPRINGS, CITY OF | 05051C0158C | 16-APR-2003 | 03-06-928A | 02
06 | AR | INDEPENDENCE COUNTY | 0500900090B | 14-MAY-2003 | 03-06-1606A | 02
06 | AR | JACKSONVILLE, CITY OF | 0501800010E | 02-APR-2003 | 03-06-1138A | 02
06 | AR | JACKSONVILLE, CITY OF | 0501800005E | 14-MAY-2003 | 03-06-1176A | 01
06 | AR | JACKSONVILLE, CITY OF | 0501800010E | 06-JUN-2003 | 03-06-1571A | 01
06 | AR | JACKSONVILLE, CITY OF | 0501800010E | 13-JUN-2003 | 03-06-1623A | 17
06 | AR | JACKSONVILLE, CITY OF | 0501800005E | 10-FEB-2003 | 03-06-591A | 01
06 | AR | JONESBORO, CITY OF | 05031C0151C | 07-MAY-2003 | 03-06-1110A | 02
06 | AR | JONESBORO, CITY OF | 05031C0043C | 22-JAN-2003 | 03-06-578A | 02
06 | AR | JONESBORO, CITY OF | 05031C0151C | 04-APR-2003 | 03-06-860A | 01
06 | AR | LITTLE ROCK, CITY OF | 0501810101F | 13-JUN-2003 | 02-06-2217P | 05
06 | AR | LITTLE ROCK, CITY OF | 0501810106F | 21-MAY-2003 | 03-06-1674A | 02
06 | AR | LITTLE ROCK, CITY OF | 0501810084F | 13-JUN-2003 | 03-06-1800A | 02
06 | AR | LITTLE ROCK, CITY OF | 0501810084F | 30-MAY-2003 | 03-06-1812A | 02
06 | AR | LITTLE ROCK, CITY OF | 0501810113F | 20-JUN-2003 | 03-06-1959A | 02
06 | AR | LITTLE ROCK, CITY OF | 0501810037F | 30-MAY-2003 | 03-06-648A | 01
06 | AR | LITTLE ROCK, CITY OF | 0501810044F | 10-FEB-2003 | 03-06-810A | 02
06 | AR | LITTLE ROCK, CITY OF | 0501810084F | 16-APR-2003 | 03-06-915A | 02
06 | AR | LOWELL, CITY OF | 05007C0164E | 07-MAR-2003 | 03-06-701A | 02
06 | AR | MANSFIELD, CITY OF | 0502020005C | 21-MAY-2003 | 03-06-771A | 02
06 | AR | MAYFLOWER, CITY OF | 05045C0210E | 25-APR-2003 | 03-06-1479A | 02
06 | AR | MCGEHEE, CITY OF | 0500680005C | 16-MAY-2003 | 03-06-1649A | 02
06 | AR | MCGEHEE, CITY OF | 0500680005C | 07-MAR-2003 | 03-06-662A | 02
06 | AR | NORTH LITTLE ROCK, CITY OF | 0501790279D | 14-MAR-2003 | 03-06-987A | 02
06 | AR | NORTH LITTLE ROCK, CITY OF | 0501790287D | 14-MAR-2003 | 03-06-987A | 02
06 | AR | PEA RIDGE,CITY OF | 05007C0065F | 21-FEB-2003 | 03-06-805A | 02
06 | AR | PERRYVILLE, CITY OF | 05105C0129B | 23-APR-2003 | 03-06-1450A | 02
06 | AR | PERRYVILLE, CITY OF | 05105C0129B | 14-MAY-2003 | 03-06-1621A | 02
06 | AR | PIGGOTT, CITY OF | 0500350001B | 10-JAN-2003 | 03-06-546A | 17
06 | AR | PULASKI COUNTY | 0501790279D | 13-JUN-2003 | 03-06-1316A | 01
06 | AR | PULASKI COUNTY | 0501790287D | 13-JUN-2003 | 03-06-1316A | 01
06 | AR | PULASKI COUNTY | 0501790445D | 10-JAN-2003 | 03-06-562A | 17
06 | AR | ROGERS, CITY OF | 05007C0155H | 11-APR-2003 | 03-06-154P | 06
06 | AR | RUSSELLVILLE, CITY OF | 0501780038D | 25-JUN-2003 | 03-06-1961A | 02
06 | AR | RUSSELLVILLE, CITY OF | 0501780038D | 28-MAR-2003 | 03-06-753A | 02
06 | AR | SALINE COUNTY | 0501910140B | 11-APR-2003 | 03-06-809A | 02
06 | AR | SEARCY, CITY OF | 0504670009B | 27-JUN-2003 | 03-06-1872A | 02
06 | AR | SEARCY, CITY OF | 0504670009B | 27-JUN-2003 | 03-06-1874A | 02
06 | AR | SHARP COUNTY | 050464—13A | 07-MAR-2003 | 03-06-862A | 02
06 | AR | SPRINGDALE, CITY OF | 05143C0017C | 02-APR-2003 | 03-06-1165A | 02
06 | AR | SPRINGDALE, CITY OF | 05143C0036C | 21-FEB-2003 | 03-06-619A | 01
06 | AR | STONE COUNTY | 0504650115A | 26-FEB-2003 | 03-06-871A | 02
06 | AR | STUTTGART, CITY OF | 0500020005C | 26-FEB-2003 | 03-06-900A | 02
06 | AR | TEXARKANA, CITY OF | 0501370059C | 11-APR-2003 | 03-06-973A | 02
06 | AR | VAN BUREN, CITY OF | 05033C0170G | 19-FEB-2003 | 02-06-873P | 05
06 | AR | WASHINGTON COUNTY | 05143C0155C | 16-APR-2003 | 03-06-1299A | 02
06 | AR | WASHINGTON COUNTY | 05143C0160C | 16-APR-2003 | 03-06-1299A | 02
06 | AR | WASHINGTON COUNTY | 05143C0075C | 28-FEB-2003 | 03-06-567A | 02
06 | AR | WASHINGTON COUNTY | 05143C0050C | 21-MAR-2003 | 03-06-603A | 02
06 | AR | WEST FORK, CITY OF | 05143C0170C | 02-APR-2003 | 03-06-1121A | 02
06 | AR | YELL COUNTY | 05149C0285E | 14-FEB-2003 | 03-06-633A | 02
06 | LA | ALEXANDRIA, CITY OF | 2201460015F | 06-JUN-2003 | 03-06-1096A | 02
06 | LA | ALEXANDRIA, CITY OF | 2201460015F | 26-MAR-2003 | 03-06-1125A | 02
06 | LA | ALEXANDRIA, CITY OF | 2201460015F | 04-JUN-2003 | 03-06-1680A | 01
06 | LA | ALEXANDRIA, CITY OF | 2201460015F | 30-MAY-2003 | 03-06-1791A | 02
06 | LA | ALEXANDRIA, CITY OF | 2201460015F | 30-MAY-2003 | 03-06-1806A | 02
06 | LA | ALEXANDRIA, CITY OF | 2201450235D | 06-JUN-2003 | 03-06-1820A | 02
06 | LA | ALEXANDRIA, CITY OF | 2201460010F | 11-JUN-2003 | 03-06-1862A | 02
06 | LA | ALEXANDRIA, CITY OF | 2201450235D | 12-FEB-2003 | 03-06-598A | 02
06 | LA | ALLEN PARISH | 2200090225B | 23-APR-2003 | 03-06-1260A | 02
06 | LA | ALLEN PARISH | 2200090225B | 07-MAY-2003 | 03-06-1371A | 02
06 | LA | ALLEN PARISH | 2200090225B | 25-JUN-2003 | 03-06-1694A | 02
06 | LA | ALLEN PARISH | 2200090075B | 25-JUN-2003 | 03-06-1973A | 02
06 | LA | ASCENSION PARISH | 2200130030C | 11-APR-2003 | 03-06-1286A | 02
06 | LA | ASCENSION PARISH | 2200130110D | 21-MAY-2003 | 03-06-1432A | 02
06 | LA | ASCENSION PARISH | 2200130120C | 30-MAY-2003 | 03-06-1699A | 01
06 | LA | ASCENSION PARISH | 2200130040B | 23-MAY-2003 | 03-06-1716A | 02
06 | LA | ASCENSION PARISH | 2200130045C | 28-MAR-2003 | 03-06-362A | 02
06 | LA | ASCENSION PARISH | 2200130045C | 24-JAN-2003 | 03-06-638A | 02
06 | LA | ASCENSION PARISH | 2200130120C | 18-JUN-2003 | 03-06-714A | 02
06 | LA | ASCENSION PARISH | 2200130105C | 26-MAR-2003 | 03-06-909A | 01
06 | LA | ASCENSION PARISH | 2200130040B | 19-MAR-2003 | 03-06-932A | 02
06 | LA | AVOYELLES PARISH | 2200190250B | 28-MAR-2003 | 03-06-1032A | 02
06 | LA | BOSSIER CITY, CITY OF | 2200330030C | 19-MAR-2003 | 03-06-1055A | 02
06 | LA | BOSSIER CITY, CITY OF | 2200330020C | 02-APR-2003 | 03-06-1085A | 02
06 | LA | BOSSIER CITY, CITY OF | 2200330030C | 16-APR-2003 | 03-06-1197A | 02
06 | LA | BOSSIER CITY, CITY OF | 2200330020C | 30-APR-2003 | 03-06-1335A | 02
06 | LA | BOSSIER CITY, CITY OF | 2200330030C | 30-APR-2003 | 03-06-1336A | 02
06 | LA | BOSSIER CITY, CITY OF | 2200310295B | 30-APR-2003 | 03-06-1355A | 02
06 | LA | BOSSIER CITY, CITY OF | 2200310315B | 30-APR-2003 | 03-06-1365A | 02
06 | LA | BOSSIER CITY, CITY OF | 2200310285B | 07-MAY-2003 | 03-06-1366A | 02
06 | LA | BOSSIER CITY, CITY OF | 2200330030C | 30-APR-2003 | 03-06-1448A | 02
06 | LA | BOSSIER CITY, CITY OF | 2200330030C | 30-APR-2003 | 03-06-1559A | 02
06 | LA | BOSSIER CITY, CITY OF | 2200330030C | 16-MAY-2003 | 03-06-1593A | 02
06 | LA | BOSSIER CITY, CITY OF | 2200330020C | 16-MAY-2003 | 03-06-1668A | 02
06 | LA | BOSSIER CITY, CITY OF | 2200330030C | 18-JUN-2003 | 03-06-1701A | 02
06 | LA | BOSSIER CITY, CITY OF | 2200330030C | 25-JUN-2003 | 03-06-1828A | 02
06 | LA | BOSSIER CITY, CITY OF | 2200330030C | 20-JUN-2003 | 03-06-1876A | 02
06 | LA | BOSSIER CITY, CITY OF | 2200310315B | 03-JAN-2003 | 03-06-523A | 02
06 | LA | BOSSIER CITY, CITY OF | 2200310315B | 24-JAN-2003 | 03-06-628A | 02
06 | LA | BOSSIER CITY, CITY OF | 2200310295B | 31-JAN-2003 | 03-06-736A | 02
06 | LA | BOSSIER CITY, CITY OF | 2200330005C | 05-FEB-2003 | 03-06-801A | 02
06 | LA | BOSSIER CITY, CITY OF | 2200330030C | 21-FEB-2003 | 03-06-877A | 02
06 | LA | BOSSIER CITY, CITY OF | 2200310315B | 28-FEB-2003 | 03-06-898A | 02
06 | LA | BOSSIER CITY, CITY OF | 2200310315B | 04-APR-2003 | 03-06-913A | 01
06 | LA | BOSSIER PARISH | 2200310315B | 03-JAN-2003 | 03-06-136A | 01
06 | LA | BOSSIER PARISH | 2200310285B | 18-JUN-2003 | 03-06-1591A | 02
06 | LA | BOSSIER PARISH | 2200310315B | 18-JUN-2003 | 03-06-1819A | 01
06 | LA | BOSSIER PARISH | 2200310285B | 10-JAN-2003 | 03-06-550A | 02
06 | LA | BOSSIER PARISH | 2200310315B | 21-FEB-2003 | 03-06-752A | 02
06 | LA | CADDO PARISH | 22017C0255F | 30-MAY-2003 | 03-06-1642A | 02
06 | LA | CALCASIEU PARISH | 2200370225D | 18-JUN-2003 | 03-06-1226A | 02
06 | LA | CALCASIEU PARISH | 2200370250D | 23-APR-2003 | 03-06-1293A | 02
06 | LA | CALDWELL PARISH | 2200440010A | 30-APR-2003 | 03-06-1312A | 02
06 | LA | CALDWELL PARISH | 2200440015A | 23-MAY-2003 | 03-06-1560A | 02
06 | LA | CATAHOULA PARISH | 2200470150C | 23-APR-2003 | 03-06-1297A | 02
06 | LA | CLAIBORNE PARISH | 2203620090B | 26-MAR-2003 | 03-06-991A | 02
06 | LA | DENHAM SPRINGS, CITY OF | 22063C0205D | 19-MAR-2003 | 03-06-1056A | 02
06 | LA | DENHAM SPRINGS, CITY OF | 22063C0205D | 30-MAY-2003 | 03-06-1144A | 02
06 | LA | DENHAM SPRINGS, CITY OF | 22063C0205D | 04-APR-2003 | 03-06-646A | 02
06 | LA | EAST BATON ROUGE PARISH | 2200580110D | 19-MAR-2003 | 03-06-1054A | 02
06 | LA | EAST BATON ROUGE PARISH | 2200580115D | 26-MAR-2003 | 03-06-1101A | 02
06 | LA | EAST BATON ROUGE PARISH | 2200580115D | 04-JUN-2003 | 03-06-1162A | 02
06 | LA | EAST BATON ROUGE PARISH | 2200580110D | 04-APR-2003 | 03-06-1232A | 02
06 | LA | EAST BATON ROUGE PARISH | 2200580095D | 16-MAY-2003 | 03-06-1301A | 01
06 | LA | EAST BATON ROUGE PARISH | 2200580100D | 18-APR-2003 | 03-06-1302A | 01
06 | LA | EAST BATON ROUGE PARISH | 2200580110D | 16-APR-2003 | 03-06-1329A | 02
06 | LA | EAST BATON ROUGE PARISH | 2200580100D | 20-JUN-2003 | 03-06-1485A | 02
06 | LA | EAST BATON ROUGE PARISH | 2200580115D | 21-MAY-2003 | 03-06-1712A | 02
06 | LA | EAST BATON ROUGE PARISH | 2200580110D | 18-JUN-2003 | 03-06-1713A | 02
06 | LA | EAST BATON ROUGE PARISH | 2200580110D | 27-JUN-2003 | 03-06-1813A | 02
06 | LA | EAST BATON ROUGE PARISH | 2200580110D | 06-JUN-2003 | 03-06-1821A | 02
06 | LA | EAST BATON ROUGE PARISH | 2200580095D | 13-JUN-2003 | 03-06-1875A | 02
06 | LA | EAST BATON ROUGE PARISH | 2200580095D | 05-FEB-2003 | 03-06-265A | 01
06 | LA | EAST BATON ROUGE PARISH | 2200580100D | 16-APR-2003 | 03-06-267A | 01
06 | LA | EAST BATON ROUGE PARISH | 2200580080D | 29-JAN-2003 | 03-06-516A | 01
06 | LA | EAST BATON ROUGE PARISH | 2200580115D | 05-FEB-2003 | 03-06-528A | 02
06 | LA | EAST BATON ROUGE PARISH | 2200580100D | 02-JAN-2003 | 03-06-555A | 02
06 | LA | EAST BATON ROUGE PARISH | 2200580105D | 03-JAN-2003 | 03-06-557A | 02
06 | LA | EAST BATON ROUGE PARISH | 2200580110D | 15-JAN-2003 | 03-06-564A | 02
06 | LA | EAST BATON ROUGE PARISH | 2200580095D | 09-APR-2003 | 03-06-600A | 01
06 | LA | EAST BATON ROUGE PARISH | 2200580085D | 28-FEB-2003 | 03-06-728A | 02
06 | LA | EAST BATON ROUGE PARISH | 2200580110D | 12-FEB-2003 | 03-06-756A | 02
06 | LA | EAST BATON ROUGE PARISH | 2200580095D | 26-MAR-2003 | 03-06-897A | 01
06 | LA | EVANGELINE PARISH | 2200640002B | 22-JAN-2003 | 03-06-229A | 01
06 | LA | EVANGELINE PARISH | 2200640002B | 17-JAN-2003 | 03-06-289A | 02
06 | LA | EVANGELINE PARISH | 2200640002B | 07-MAR-2003 | 03-06-873A | 02
06 | LA | GONZALES, CITY OF | 2200150005C | 02-MAY-2003 | 03-06-1439A | 02
06 | LA | GREENWOOD, TOWN OF | 22017C0430F | 21-FEB-2003 | 03-06-821A | 02
06 | LA | HAMMOND, CITY OF | 2202080001D | 25-APR-2003 | 03-06-1282A | 02
06 | LA | HARRISONBURG, VILLAGE OF | 2200480005B | 25-APR-2003 | 03-06-1145A | 01
06 | LA | IBERIA PARISH | 2200780120D | 18-JUN-2003 | 03-06-1122A | 01
06 | LA | JENNINGS, CITY OF | 2200980002B | 14-MAY-2003 | 03-06-966A | 01
06 | LA | KINDER, TOWN OF | 220010—01C | 26-MAR-2003 | 03-06-1090A | 02
06 | LA | KINDER, TOWN OF | 220010—01C | 21-MAY-2003 | 03-06-1686A | 02
06 | LA | KINDER, TOWN OF | 220010—01C | 08-JAN-2003 | 03-06-563A | 02
06 | LA | KINDER, TOWN OF | 22001001C | 10-JAN-2003 | 03-06-577A | 02
06 | LA | KINDER, TOWN OF | 220010—01C | 15-JAN-2003 | 03-06-627A | 02
06 | LA | KINDER, TOWN OF | 220010—01C | 05-MAR-2003 | 03-06-926A | 02
06 | LA | LAFAYETTE PARISH | 22055C0070G | 16-MAY-2003 | 03-06-1126A | 02
06 | LA | LAFAYETTE PARISH | 22055C0080G | 16-MAY-2003 | 03-06-1126A | 02
06 | LA | LAFAYETTE PARISH | 22055C0040H | 16-MAY-2003 | 03-06-1451A | 02
06 | LA | LAFAYETTE PARISH | 22055C0070G | 25-JUN-2003 | 03-06-1465A | 02
06 | LA | LAFAYETTE PARISH | 22055C0045G | 02-MAY-2003 | 03-06-1508A | 02
06 | LA | LAFAYETTE PARISH | 22055C0065G | 28-MAY-2003 | 03-06-1511A | 01
06 | LA | LAFAYETTE PARISH | 22055C0065G | 14-MAY-2003 | 03-06-1619A | 02
06 | LA | LAFAYETTE PARISH | 22055C0065G | 08-JAN-2003 | 03-06-517A | 02
06 | LA | LAFAYETTE, CITY OF | 22055C0045G | 04-APR-2003 | 03-06-1275A | 02
06 | LA | LAFAYETTE, CITY OF | 22055C0045G | 02-MAY-2003 | 03-06-1501A | 02
06 | LA | LAFAYETTE, CITY OF | 22055C0045G | 22-JAN-2003 | 03-06-639A | 02
06 | LA | LAFAYETTE, CITY OF | 22055C0040H | 29-JAN-2003 | 03-06-794A | 01
06 | LA | LAFAYETTE, CITY OF | 22055C0045G | 19-FEB-2003 | 03-06-808A | 17
06 | LA | LIVINGSTON PARISH | 22063C0125D | 04-APR-2003 | 03-06-1042A | 02
06 | LA | LIVINGSTON PARISH | 22063C0225D | 14-MAY-2003 | 03-06-1051A | 02
06 | LA | LIVINGSTON PARISH | 22063C0205D | 14-MAR-2003 | 03-06-1052A | 02
06 | LA | LIVINGSTON PARISH | 22063C0125D | 19-MAR-2003 | 03-06-1053A | 02
06 | LA | LIVINGSTON PARISH | 22063C0125D | 09-APR-2003 | 03-06-1154A | 02
06 | LA | LIVINGSTON PARISH | 22063C0205D | 23-MAY-2003 | 03-06-1199A | 02
06 | LA | LIVINGSTON PARISH | 22063C0115D | 02-MAY-2003 | 03-06-1235A | 02
06 | LA | LIVINGSTON PARISH | 22063C0125D | 23-MAY-2003 | 03-06-1281A | 02
06 | LA | LIVINGSTON PARISH | 22063C0210D | 02-MAY-2003 | 03-06-1412A | 02
06 | LA | LIVINGSTON PARISH | 22063C0120D | 18-JUN-2003 | 03-06-1630A | 02
06 | LA | LIVINGSTON PARISH | 22063C0225D | 21-MAY-2003 | 03-06-1662A | 02
06 | LA | LIVINGSTON PARISH | 22063C0205D | 21-MAY-2003 | 03-06-1663A | 02
06 | LA | LIVINGSTON PARISH | 22063C0205D | 11-JUN-2003 | 03-06-1781A | 02
06 | LA | LIVINGSTON PARISH | 22063C0125D | 28-MAY-2003 | 03-06-1794A | 02
06 | LA | LIVINGSTON PARISH | 22063C0115D | 25-JUN-2003 | 03-06-1904A | 02
06 | LA | LIVINGSTON PARISH | 22063C0150D | 08-JAN-2003 | 03-06-241A | 02
06 | LA | LIVINGSTON PARISH | 22063C0225D | 29-JAN-2003 | 03-06-393A | 02
06 | LA | LIVINGSTON PARISH | 22063C0125D | 24-JAN-2003 | 03-06-485A | 02
06 | LA | LIVINGSTON PARISH | 22063C0125D | 02-JAN-2003 | 03-06-500A | 02
06 | LA | LIVINGSTON PARISH | 22063C0209D | 22-JAN-2003 | 03-06-521A | 01
06 | LA | LIVINGSTON PARISH | 22063C0115D | 10-JAN-2003 | 03-06-553A | 02
06 | LA | LIVINGSTON PARISH | 22063C0125D | 10-JAN-2003 | 03-06-554A | 02
06 | LA | LIVINGSTON PARISH | 22063C0125D | 10-JAN-2003 | 03-06-594A | 02
06 | LA | LIVINGSTON PARISH | 22063C0120D | 31-JAN-2003 | 03-06-608A | 01
06 | LA | LIVINGSTON PARISH | 22063C0125D | 15-JAN-2003 | 03-06-609A | 02
06 | LA | LIVINGSTON PARISH | 22063C0225D | 26-FEB-2003 | 03-06-624A | 02
06 | LA | LIVINGSTON PARISH | 22063C0370D | 29-JAN-2003 | 03-06-642A | 02
06 | LA | LIVINGSTON PARISH | 22063C0120D | 24-JAN-2003 | 03-06-663A | 02
06 | LA | LIVINGSTON PARISH | 22063C0125D | 31-JAN-2003 | 03-06-766A | 02
06 | LA | LIVINGSTON PARISH | 22063C0125D | 10-FEB-2003 | 03-06-774A | 02
06 | LA | LIVINGSTON PARISH | 22063C0120D | 21-FEB-2003 | 03-06-875A | 02
06 | LA | LIVINGSTON PARISH | 22063C0115D | 26-MAR-2003 | 03-06-876A | 02
06 | LA | LIVINGSTON PARISH | 22063C0120D | 26-FEB-2003 | 03-06-878A | 02
06 | LA | LIVINGSTON PARISH | 22063C0125D | 12-MAR-2003 | 03-06-896A | 01
06 | LA | LIVINGSTON PARISH | 22063C0125D | 12-MAR-2003 | 03-06-938A | 02
06 | LA | LIVINGSTON PARISH | 22063C0125D | 21-MAR-2003 | 03-06-971A | 02
06 | LA | LIVINGSTON PARISH | 22063C0225D | 25-APR-2003 | 03-06-980A | 02
06 | LA | LIVINGSTON, TOWN OF | 22063C0255D | 21-MAY-2003 | 03-06-1247A | 02
06 | LA | MONROE, CITY OF | 22073C0045E | 02-MAY-2003 | 03-06-1080A | 02
06 | LA | MONROE, CITY OF | 22073C0075E | 12-MAR-2003 | 03-06-952A | 02
06 | LA | OUACHITA PARISH | 22073C0025E | 23-MAY-2003 | 03-06-1453A | 02
06 | LA | OUACHITA PARISH | 22073C0070E | 09-MAY-2003 | 03-06-1521A | 02
06 | LA | OUACHITA PARISH | 22073C0070E | 02-APR-2003 | 03-06-370A | 02
06 | LA | PINEVILLE, CITY OF | 2201510005B | 06-JUN-2003 | 03-06-1109A | 02
06 | LA | RAPIDES PARISH | 2201450275C | 10-JAN-2003 | 03-06-565A | 02
06 | LA | RAPIDES PARISH | 2201450165B | 10-FEB-2003 | 03-06-738A | 02
06 | LA | RICHLAND PARISH | 220154—41C | 21-MAY-2003 | 03-06-1340A | 02
06 | LA | SCOTT, CITY OF | 22055C0045G | 23-MAY-2003 | 03-06-1117A | 02
06 | LA | SCOTT, CITY OF | 22055C0020G | 16-APR-2003 | 03-06-1146A | 02
06 | LA | SCOTT, CITY OF | 22055C0040H | 11-JUN-2003 | 03-06-1620A | 02
06 | LA | SHREVEPORT, CITY OF | 22017C0487F | 19-MAR-2003 | 03-06-1064A | 02
06 | LA | SHREVEPORT, CITY OF | 22017C0487F | 19-MAR-2003 | 03-06-1078A | 02
06 | LA | SHREVEPORT, CITY OF | 22017C0477F | 14-MAR-2003 | 03-06-1084A | 02
06 | LA | SHREVEPORT, CITY OF | 22017C0487F | 26-MAR-2003 | 03-06-1086A | 02
06 | LA | SHREVEPORT, CITY OF | 22017C0487F | 26-MAR-2003 | 03-06-1087A | 02
06 | LA | SHREVEPORT, CITY OF | 22017C0476F | 19-MAR-2003 | 03-06-1093A | 02
06 | LA | SHREVEPORT, CITY OF | 22017C0487F | 25-APR-2003 | 03-06-1334A | 02
06 | LA | SHREVEPORT, CITY OF | 22017C0487F | 30-APR-2003 | 03-06-1367A | 02
06 | LA | SHREVEPORT, CITY OF | 22017C0487F | 09-MAY-2003 | 03-06-1470A | 02
06 | LA | SHREVEPORT, CITY OF | 22017C0487F | 02-MAY-2003 | 03-06-1471A | 02
06 | LA | SHREVEPORT, CITY OF | 22017C0487F | 07-MAY-2003 | 03-06-1487A | 02
06 | LA | SHREVEPORT, CITY OF | 22017C0486F | 03-JAN-2003 | 03-06-149A | 01
06 | LA | SHREVEPORT, CITY OF | 22017C0487F | 09-MAY-2003 | 03-06-1525A | 02
06 | LA | SHREVEPORT, CITY OF | 22017C0487F | 16-MAY-2003 | 03-06-1675A | 02
06 | LA | SHREVEPORT, CITY OF | 22017C0487F | 04-JUN-2003 | 03-06-1676A | 01
06 | LA | SHREVEPORT, CITY OF | 22017C0451F | 21-MAY-2003 | 03-06-1687A | 02
06 | LA | SHREVEPORT, CITY OF | 22017C0487F | 23-MAY-2003 | 03-06-1715A | 02
06 | LA | SHREVEPORT, CITY OF | 22017C0487F | 04-JUN-2003 | 03-06-1803A | 02
06 | LA | SHREVEPORT, CITY OF | 22017C0478F | 19-FEB-2003 | 03-06-379A | 02
06 | LA | SHREVEPORT, CITY OF | 22017C0487F | 17-JAN-2003 | 03-06-380A | 01
06 | LA | SHREVEPORT, CITY OF | 22017C0495F | 17-JAN-2003 | 03-06-380A | 01
06 | LA | SHREVEPORT, CITY OF | 22017C0487F | 05-FEB-2003 | 03-06-666A | 01
06 | LA | SHREVEPORT, CITY OF | 22017C0478F | 12-FEB-2003 | 03-06-702A | 01
06 | LA | SHREVEPORT, CITY OF | 22017C0487F | 21-MAR-2003 | 03-06-715A | 02
06 | LA | SHREVEPORT, CITY OF | 22017C0487F | 10-FEB-2003 | 03-06-786A | 02
06 | LA | SHREVEPORT, CITY OF | 22017C0487F | 26-FEB-2003 | 03-06-815A | 02
06 | LA | SHREVEPORT, CITY OF | 22017C0487F | 10-FEB-2003 | 03-06-817A | 02
06 | LA | SHREVEPORT, CITY OF | 22017C0487F | 10-FEB-2003 | 03-06-818A | 02
06 | LA | SHREVEPORT, CITY OF | 22017C0487F | 10-FEB-2003 | 03-06-819A | 02
06 | LA | SHREVEPORT, CITY OF | 22017C0487F | 05-MAR-2003 | 03-06-912A | 02
06 | LA | SHREVEPORT, CITY OF | 22017C0486F | 26-MAR-2003 | 03-06-929A | 01
06 | LA | SHREVEPORT, CITY OF | 22017C0487F | 26-MAR-2003 | 03-06-929A | 01
06 | LA | SHREVEPORT, CITY OF | 22017C0487F | 07-MAR-2003 | 03-06-939A | 02
06 | LA | SHREVEPORT, CITY OF | 22017C0487F | 12-MAR-2003 | 03-06-948A | 02
06 | LA | SLIDELL, CITY OF | 2202040010C | 02-MAY-2003 | 03-06-1357A | 02
06 | LA | ST. BERNARD PARISH | 2252040290B | 14-MAR-2003 | 03-06-882A | 02
06 | LA | ST. CHARLES PARISH | 2201600050C | 02-MAY-2003 | 03-06-127P | 05
06 | LA | ST. CHARLES PARISH | 2201600125C | 02-MAY-2003 | 03-06-127P | 05
06 | LA | ST. CHARLES PARISH | 2201600150C | 02-MAY-2003 | 03-06-127P | 05
06 | LA | ST. LANDRY PARISH | 2201650325C | 06-JUN-2003 | 03-06-1250A | 02
06 | LA | ST. LANDRY PARISH | 2201650125C | 21-MAY-2003 | 03-06-1292A | 02
06 | LA | ST. LANDRY PARISH | 2201650200C | 20-JUN-2003 | 03-06-1418A | 01
06 | LA | ST. MARTIN PARISH | 2201780225B | 31-JAN-2003 | 03-06-579A | 01
06 | LA | ST. TAMMANY PARISH | 2252050395D | 24-JAN-2003 | 03-06-534A | 02
06 | LA | ST. TAMMANY PARISH | 2252050575D | 12-FEB-2003 | 03-06-737A | 02
06 | LA | ST. TAMMANY PARISH | 2252050150C | 04-APR-2003 | 03-06-775A | 02
06 | LA | ST. TAMMANY PARISH | 2252050125C | 04-APR-2003 | 03-06-851A | 02
06 | LA | ST. TAMMANY PARISH | 2252050440D | 07-MAR-2003 | 03-06-941A | 02
06 | LA | ST. TAMMANY PARISH | 2252050360C | 20-JUN-2003 | 03-06-997A | 02
06 | LA | SULPHUR, CITY OF | 2200410001C | 20-JUN-2003 | 03-06-1440A | 02
06 | LA | TANGIPAHOA PARISH | 2202060225E | 16-APR-2003 | 03-06-1132A | 02
06 | LA | TANGIPAHOA PARISH | 2202060125D | 23-APR-2003 | 03-06-1191A | 02
06 | LA | TANGIPAHOA PARISH | 2202060175E | 25-APR-2003 | 03-06-1296A | 02
06 | LA | TANGIPAHOA PARISH | 2202060205D | 12-FEB-2003 | 03-06-349A | 02
06 | LA | TANGIPAHOA PARISH | 2202060240D | 22-JAN-2003 | 03-06-367A | 02
06 | LA | TANGIPAHOA PARISH | 2202060175E | 12-MAR-2003 | 03-06-797A | 01
06 | LA | TANGIPAHOA PARISH | 2202060175E | 26-MAR-2003 | 03-06-869A | 02
06 | LA | TANGIPAHOA PARISH | 2202060110D | 07-MAR-2003 | 03-06-988A | 02
06 | LA | TENSAS PARISH | 2202150020A | 10-FEB-2003 | 03-06-622A | 02
06 | LA | VERMILION PARISH | 2202210175D | 02-MAY-2003 | 03-06-1364A | 02
06 | LA | WALKER, TOWN OF | 22063C0207D | 16-MAY-2003 | 03-06-1661A | 02
06 | LA | WALKER, TOWN OF | 22063C0139D | 21-MAY-2003 | 03-06-1664A | 02
06 | LA | WEST CARROLL PARISH | 220243—15B | 15-JAN-2003 | 03-06-371A | 02
06 | LA | YOUNGSVILLE, TOWN OF | 22055C0065G | 05-MAR-2003 | 03-06-854A | 01
06 | LA | YOUNGSVILLE, VILLAGE OF | 22055C0070G | 21-FEB-2003 | 03-06-803A | 02
06 | NM | ALBUQUERQUE, CITY OF | 35001C0119D | 08-JAN-2003 | 02-06-2143P | 06
06 | NM | ALBUQUERQUE, CITY OF | 35001C0138D | 08-JAN-2003 | 02-06-2143P | 06
06 | NM | ALBUQUERQUE, CITY OF | 35001C0351D | 08-JAN-2003 | 02-06-2143P | 06
06 | NM | ALBUQUERQUE, CITY OF | 35001C0362D | 04-JUN-2003 | 03-06-1066A | 02
06 | NM | ALBUQUERQUE, CITY OF | 35001C0356D | 18-JUN-2003 | 03-06-1274A | 02
06 | NM | ALBUQUERQUE, CITY OF | 35001C0337D | 04-JUN-2003 | 03-06-1373A | 02
06 | NM | ALBUQUERQUE, CITY OF | 35001C0142E | 28-MAY-2003 | 03-06-1657A | 02
06 | NM | ALBUQUERQUE, CITY OF | 35001C0328D | 13-JUN-2003 | 03-06-200P | 05
06 | NM | ALBUQUERQUE, CITY OF | 35001C0128E | 30-APR-2003 | 03-06-413P | 05
06 | NM | ALBUQUERQUE, CITY OF | 35001C0136E | 30-APR-2003 | 03-06-413P | 05
06 | NM | ALBUQUERQUE, CITY OF | 35001C0327D | 14-MAY-2003 | 03-06-439P | 05
06 | NM | ALBUQUERQUE, CITY OF | 35001C0354D | 26-MAR-2003 | 03-06-476A | 01
06 | NM | ALBUQUERQUE, CITY OF | 35001C0163E | 03-JAN-2003 | 03-06-530A | 02
06 | NM | ALBUQUERQUE, CITY OF | 35001C0367E | 22-JAN-2003 | 03-06-649A | 02
06 | NM | ALBUQUERQUE, CITY OF | 35001C0329D | 05-MAR-2003 | 03-06-945A | 02
06 | NM | BERNALILLO COUNTY | 35001C0531D | 25-JUN-2003 | 03-06-1483A | 02
06 | NM | BERNALILLO COUNTY | 35001C0339D | 08-JAN-2003 | 03-06-234A | 02
06 | NM | BERNALILLO COUNTY | 35001C0337D | 09-APR-2003 | 03-06-653A | 02
06 | NM | BERNALILLO COUNTY | 35001C0387E | 05-MAR-2003 | 03-06-905A | 02
06 | NM | BOSQUE FARMS, CITY OF | 3501420001B | 21-MAY-2003 | 03-06-1290A | 01
06 | NM | BOSQUE FARMS, CITY OF | 3501420001B | 30-APR-2003 | 03-06-1347A | 02
06 | NM | BOSQUE FARMS, CITY OF | 3501420001B | 16-MAY-2003 | 03-06-1459A | 01
06 | NM | BOSQUE FARMS, CITY OF | 3501420001B | 16-MAY-2003 | 03-06-1615A | 02
06 | NM | BOSQUE FARMS, CITY OF | 3501420001B | 17-JAN-2003 | 03-06-253A | 01
06 | NM | BOSQUE FARMS, CITY OF | 3501420001B | 22-JAN-2003 | 03-06-544A | 02
06 | NM | CARLSBAD, CITY OF | 3500170004C | 31-MAR-2003 | 03-06-1218P | 06
06 | NM | CARLSBAD, CITY OF | 3500170003C | 27-JUN-2003 | 03-06-1717A | 02
06 | NM | FARMINGTON, CITY OF | 3500670042E | 26-MAR-2003 | 03-06-1097A | 01
06 | NM | FARMINGTON, CITY OF | 3500670042E | 12-FEB-2003 | 03-06-759A | 01
06 | NM | GRANT COUNTY | 3501210022B | 06-JUN-2003 | 03-06-1482A | 02
06 | NM | LAS CRUCES, CITY OF | 35013C0631E | 23-APR-2003 | 03-06-1309A | 02
06 | NM | LAS CRUCES, CITY OF | 35013C0633E | 09-MAY-2003 | 03-06-1456A | 02
06 | NM | LAS CRUCES, CITY OF | 35013C0631E | 25-JUN-2003 | 03-06-1795A | 01
06 | NM | LAS CRUCES, CITY OF | 35013C0631E | 20-JUN-2003 | 03-06-1831A | 01
06 | NM | LAS CRUCES, CITY OF | 35013C0518F | 18-JUN-2003 | 03-06-1898X | 02
06 | NM | LAS CRUCES, CITY OF | 35013C0518F | 16-APR-2003 | 03-06-694P | 06
06 | NM | LAS CRUCES, CITY OF | 35013C0631E | 16-APR-2003 | 03-06-694P | 06
06 | NM | LAS CRUCES, CITY OF | 35013C0633E | 16-APR-2003 | 03-06-694P | 06
06 | NM | LAS CRUCES, CITY OF | 35013C0518F | 23-MAY-2003 | 03-06-925A | 02
06 | NM | LOS ALAMOS COUNTY | 3500350004B | 19-MAR-2003 | 03-06-930A | 02
06 | NM | LOS LUNAS, VILLAGE OF | 3501440005A | 19-MAR-2003 | 03-06-717A | 02
06 | NM | SAN JUAN COUNTY | 3500640375B | 05-MAR-2003 | 03-06-942A | 02
06 | NM | SANTA FE, CITY OF | 3500700011B | 14-FEB-2003 | 03-06-387A | 02
06 | NM | TAOS COUNTY | 3500780475C | 19-MAR-2003 | 03-06-1092A | 02
06 | NM | TORRANCE COUNTY | 3501330007A | 23-MAY-2003 | 03-06-1383P | 06
06 | NM | TORRANCE COUNTY | 3501330008A | 23-MAY-2003 | 03-06-1383P | 06
06 | NM | TRUTH OR CONSEQUENCES, CITY OF | 3500730005C | 21-MAR-2003 | 03-06-1063A | 02
06 | OK | BARTLESVILLE, CITY OF | 4002200015C | 23-MAY-2003 | 03-06-1557A | 02
06 | OK | BIXBY, TOWN OF | 40143C0630H | 30-MAY-2003 | 03-06-1771A | 02
06 | OK | BIXBY, TOWN OF | 40143C0610H | 15-JAN-2003 | 03-06-576A | 17
06 | OK | BIXBY, TOWN OF | 40143C0610H | 15-JAN-2003 | 03-06-593A | 02
06 | OK | BLANCHARD, CITY OF | 4001010010B | 10-FEB-2003 | 03-06-386A | 01
06 | OK | BROKEN ARROW, CITY OF | 40143C0540H | 16-APR-2003 | 01-06-839P | 05
06 | OK | BROKEN ARROW, CITY OF | 40143C0631H | 25-JUN-2003 | 03-06-1894A | 02
06 | OK | BRYAN COUNTY | 40013C0100D | 28-MAY-2003 | 03-06-1514A | 02
06 | OK | BRYAN COUNTY | 40013C0300D | 08-JAN-2003 | 03-06-612A | 02
06 | OK | CANADIAN COUNTY | 40017C0425D | 25-JUN-2003 | 03-06-1919A | 02
06 | OK | CATOOSA, CITY OF | 4001850001D | 16-MAY-2003 | 03-06-1617A | 02
06 | OK | CHOCTAW, CITY OF | 40109C0410G | 05-FEB-2003 | 03-06-781A | 02
06 | OK | CHOCTAW, CITY OF | 40109C0405G | 09-MAY-2003 | 03-06-789A | 02
06 | OK | CLAREMORE, CITY OF | 4053750005F | 30-MAY-2003 | 03-06-1612A | 02
06 | OK | CREEK COUNTY | 4004900070C | 14-MAY-2003 | 03-06-1633A | 02
06 | OK | CREEK COUNTY | 4004900070C | 20-JUN-2003 | 03-06-1698A | 02
06 | OK | DAVIS, CITY OF | 400366—01A | 05-FEB-2003 | 03-06-542A | 02
06 | OK | DEL CITY, CITY OF | 40109C0383G | 16-MAY-2003 | 03-06-1374A | 02
06 | OK | DEL CITY, CITY OF | 40109C0387G | 24-JAN-2003 | 03-06-725A | 02
06 | OK | DELAWARE COUNTY | 40041C0177D | 18-APR-2003 | 03-06-1249A | 02
06 | OK | DELAWARE COUNTY | 4005020025C | 09-APR-2003 | 03-06-1253A | 02
06 | OK | DELAWARE COUNTY | 40041C0180D | 23-APR-2003 | 03-06-1254A | 02
06 | OK | DELAWARE COUNTY | 40041C0180D | 18-APR-2003 | 03-06-1255A | 02
06 | OK | DELAWARE COUNTY | 40041C0180D | 09-MAY-2003 | 03-06-1478A | 02
06 | OK | DELAWARE COUNTY | 40041C0160D | 06-JUN-2003 | 03-06-1580A | 02
06 | OK | DELAWARE COUNTY | 40041C0190D | 27-JUN-2003 | 03-06-1792A | 01
06 | OK | DELAWARE COUNTY | 4005020050C | 29-JAN-2003 | 03-06-361A | 02
06 | OK | DELAWARE COUNTY | 4005020025C | 19-FEB-2003 | 03-06-705A | 02
06 | OK | DELAWARE COUNTY | 4005020025C | 05-FEB-2003 | 03-06-735A | 02
06 | OK | DELAWARE COUNTY | 4005020050C | 02-APR-2003 | 03-06-822A | 02
06 | OK | DURANT, CITY OF | 40013C0108C | 25-APR-2003 | 03-06-541A | 02
06 | OK | EDMOND, CITY OF | 40109C0089G | 21-MAR-2003 | 03-06-1060A | 02
06 | OK | EDMOND, CITY OF | 40109C0069G | 25-APR-2003 | 03-06-1304A | 02
06 | OK | EDMOND, CITY OF | 40109C0069G | 09-MAY-2003 | 03-06-1564A | 02
06 | OK | EDMOND, CITY OF | 40109C0069G | 06-JUN-2003 | 03-06-1656A | 02
06 | OK | EDMOND, CITY OF | 40109C0069G | 11-JUN-2003 | 03-06-1849A | 02
06 | OK | EDMOND, CITY OF | 40109C0069G | 02-JAN-2003 | 03-06-490A | 02
06 | OK | EDMOND, CITY OF | 40109C0069G | 02-APR-2003 | 03-06-491A | 02
06 | OK | EDMOND, CITY OF | 40109C0069G | 15-JAN-2003 | 03-06-505A | 17
06 | OK | EDMOND, CITY OF | 40109C0069G | 31-JAN-2003 | 03-06-568A | 02
06 | OK | EDMOND, CITY OF | 40109C0060G | 08-JAN-2003 | 03-06-569A | 17
06 | OK | EDMOND, CITY OF | 40109C0080G | 05-FEB-2003 | 03-06-596A | 02
06 | OK | EDMOND, CITY OF | 40109C0069G | 28-FEB-2003 | 03-06-892A | 02
06 | OK | EDMOND, CITY OF | 40109C0069G | 28-FEB-2003 | 03-06-893A | 02
06 | OK | ENID, CITY OF | 40047C0115C | 14-MAR-2003 | 03-06-1049A | 02
06 | OK | FAIRVIEW, CITY OF | 4001120001B | 29-JAN-2003 | 03-06-355A | 02
06 | OK | GLENPOOL, CITY OF | 40143C0582H | 10-JAN-2003 | 03-06-452A | 02
06 | OK | GOLDSBY, TOWN OF | 4001020005B | 28-MAY-2003 | 03-06-1683A | 02
06 | OK | GRADY COUNTY | 4004830120D | 11-JUN-2003 | 03-06-1416A | 02
06 | OK | HARRAH, CITY OF | 40109C0427G | 10-JAN-2003 | 03-06-331A | 02
06 | OK | HARRAH, CITY OF | 40109C0431G | 10-JAN-2003 | 03-06-331A | 02
06 | OK | HARRAH, CITY OF | 40109C0431G | 18-MAR-2003 | 03-06-690P | 05
06 | OK | HASKELL, TOWN OF | 40101C0025D | 11-APR-2003 | 03-06-626A | 02
06 | OK | HOWE, TOWN OF | 4000910001A | 12-MAR-2003 | 03-06-1048A | 02
06 | OK | KINGFISHER, CITY OF | 40073C0430C | 06-MAY-2003 | 00-06-1294V | 19
06 | OK | KINGFISHER, CITY OF | 40073C0435C | 06-MAY-2003 | 00-06-1294V | 19
06 | OK | LATIMER COUNTY | 4005350100A | 02-MAY-2003 | 03-06-1353A | 02
06 | OK | LE FLORE COUNTY | 4004840010A | 16-MAY-2003 | 03-06-1135A | 02
06 | OK | LE FLORE COUNTY | 4004840008A | 21-MAY-2003 | 03-06-1707A | 02
06 | OK | LE FLORE COUNTY | 4004840014A | 05-MAR-2003 | 03-06-888A | 02
06 | OK | LINCOLN COUNTY | 4004570165B | 21-MAY-2003 | 03-06-1187A | 02
06 | OK | LINCOLN COUNTY | 4004570275A | 20-JUN-2003 | 03-06-1690A | 02
06 | OK | LINCOLN COUNTY | 4004570275A | 08-JAN-2003 | 03-06-335A | 02
06 | OK | MARSHALL COUNTY | 4005110150A | 20-JUN-2003 | 03-06-1785A | 02
06 | OK | MAYES COUNTY | 4004580025C | 16-MAY-2003 | 03-06-1639A | 02
06 | OK | MAYES COUNTY | 4004580050C | 22-JAN-2003 | 03-06-583A | 02
06 | OK | MIDWEST CITY, CITY OF | 40109C0405G | 16-MAY-2003 | 03-06-1629A | 02
06 | OK | MIDWEST CITY, CITY OF | 40109C0385G | 03-JAN-2003 | 03-06-570A | 02
06 | OK | MIDWEST CITY, CITY OF | 40109C0385G | 10-FEB-2003 | 03-06-760A | 02
06 | OK | MOORE, CITY OF | 40027C0041F | 11-JUN-2003 | 03-06-1108A | 02
06 | OK | MOORE, CITY OF | 40027C0037F | 28-MAR-2003 | 03-06-1228A | 02
06 | OK | MOORE, CITY OF | 40027C0037F | 16-MAY-2003 | 03-06-1601A | 02
06 | OK | MOORE, CITY OF | 40027C0037F | 21-FEB-2003 | 03-06-883A | 02
06 | OK | MUSTANG, CITY OF | 40017C0490D | 23-APR-2003 | 03-06-1270A | 02
06 | OK | NORMAN,CITY OF | 40027C0090F | 03-JAN-2003 | 02-06-2487A | 01
06 | OK | NORMAN,CITY OF | 40027C0095G | 25-APR-2003 | 03-06-1458A | 02
06 | OK | NORMAN,CITY OF | 40027C0065F | 23-MAY-2003 | 03-06-1480A | 02
06 | OK | NORMAN,CITY OF | 40027C0095G | 04-JUN-2003 | 03-06-1586A | 02
06 | OK | NORMAN,CITY OF | 40027C0095G | 17-JAN-2003 | 03-06-655A | 02
06 | OK | NORTH ENID, TOWN OF | 40047C0115C | 21-FEB-2003 | 03-06-804A | 02
06 | OK | OKLAHOMA CITY, CITY OF | 40109C0218G | 25-APR-2003 | 02-06-1547P | 05
06 | OK | OKLAHOMA CITY, CITY OF | 40109C0480G | 29-JAN-2003 | 03-06-086A | 02
06 | OK | OKLAHOMA CITY, CITY OF | 40109C0507G | 02-APR-2003 | 03-06-1129A | 02
06 | OK | OKLAHOMA CITY, CITY OF | 40109C0369G | 26-MAR-2003 | 03-06-1130A | 02
06 | OK | OKLAHOMA CITY, CITY OF | 40109C0391G | 07-MAY-2003 | 03-06-1179A | 02
06 | OK | OKLAHOMA CITY, CITY OF | 40109C0482G | 09-APR-2003 | 03-06-1195A | 02
06 | OK | OKLAHOMA CITY, CITY OF | 40109C0508G | 18-APR-2003 | 03-06-1279A | 02
06 | OK | OKLAHOMA CITY, CITY OF | 40109C0190G | 23-APR-2003 | 03-06-1280A | 01
06 | OK | OKLAHOMA CITY, CITY OF | 40109C0388G | 30-APR-2003 | 03-06-1303A | 02
06 | OK | OKLAHOMA CITY, CITY OF | 40109C0069G | 20-JUN-2003 | 03-06-1360A | 02
06 | OK | OKLAHOMA CITY, CITY OF | 40109C0207G | 13-JUN-2003 | 03-06-1524A | 02
06 | OK | OKLAHOMA CITY, CITY OF | 40109C0219G | 07-MAY-2003 | 03-06-1551A | 02
06 | OK | OKLAHOMA CITY, CITY OF | 40109C0362G | 21-MAY-2003 | 03-06-1558A | 02
06 | OK | OKLAHOMA CITY, CITY OF | 40109C0211G | 21-MAY-2003 | 03-06-1572A | 02
06 | OK | OKLAHOMA CITY, CITY OF | 40109C0219G | 21-MAY-2003 | 03-06-1579A | 02
06 | OK | OKLAHOMA CITY, CITY OF | 40109C0437G | 16-MAY-2003 | 03-06-1628A | 02
06 | OK | OKLAHOMA CITY, CITY OF | 40109C0216G | 21-MAY-2003 | 03-06-1654A | 02
06 | OK | OKLAHOMA CITY, CITY OF | 40109C0216G | 04-JUN-2003 | 03-06-1667A | 02
06 | OK | OKLAHOMA CITY, CITY OF | 40109C0211G | 11-JUN-2003 | 03-06-1834A | 02
06 | OK | OKLAHOMA CITY, CITY OF | 40109C0211G | 03-JAN-2003 | 03-06-348A | 02
06 | OK | OKLAHOMA CITY, CITY OF | 40109C0207G | 28-MAR-2003 | 03-06-383A | 17
06 | OK | OKLAHOMA CITY, CITY OF | 40109C0202G | 10-JAN-2003 | 03-06-394A | 02
06 | OK | OKLAHOMA CITY, CITY OF | 40109C0201G | 09-JAN-2003 | 03-06-433P | 05
06 | OK | OKLAHOMA CITY, CITY OF | 40109C0377G | 11-APR-2003 | 03-06-482A | 02
06 | OK | OKLAHOMA CITY, CITY OF | 40109C0369G | 15-JAN-2003 | 03-06-486A | 02
06 | OK | OKLAHOMA CITY, CITY OF | 40109C0207G | 03-JAN-2003 | 03-06-501A | 17
06 | OK | OKLAHOMA CITY, CITY OF | 40109C0218G | 17-JAN-2003 | 03-06-526A | 02
06 | OK | OKLAHOMA CITY, CITY OF | 40109C0329G | 14-FEB-2003 | 03-06-527A | 02
06 | OK | OKLAHOMA CITY, CITY OF | 40109C0216G | 14-FEB-2003 | 03-06-540A | 02
06 | OK | OKLAHOMA CITY, CITY OF | 40109C0507G | 15-JAN-2003 | 03-06-545A | 02
06 | OK | OKLAHOMA CITY, CITY OF | 40109C0391G | 15-JAN-2003 | 03-06-552A | 17
06 | OK | OKLAHOMA CITY, CITY OF | 40109C0216G | 10-JAN-2003 | 03-06-558A | 02
06 | OK | OKLAHOMA CITY, CITY OF | 40109C0216G | 15-JAN-2003 | 03-06-559A | 02
06 | OK | OKLAHOMA CITY, CITY OF | 40109C0368G | 31-JAN-2003 | 03-06-585A | 02
06 | OK | OKLAHOMA CITY, CITY OF | 40109C0182G | 21-FEB-2003 | 03-06-651A | 02
06 | OK | OKLAHOMA CITY, CITY OF | 40109C0211G | 15-JAN-2003 | 03-06-657X | 02
06 | OK | OKLAHOMA CITY, CITY OF | 40109C0506G | 25-FEB-2003 | 03-06-693P | 05
06 | OK | OKLAHOMA CITY, CITY OF | 40109C0508G | 25-FEB-2003 | 03-06-693P | 05
06 | OK | OKLAHOMA CITY, CITY OF | 40109C0329G | 26-FEB-2003 | 03-06-696P | 05
06 | OK | OKLAHOMA CITY, CITY OF | 40109C0333G | 26-FEB-2003 | 03-06-696P | 05
06 | OK | OKLAHOMA CITY, CITY OF | 40109C0337G | 26-FEB-2003 | 03-06-696P | 05
06 | OK | OKLAHOMA CITY, CITY OF | 40109C0211G | 10-FEB-2003 | 03-06-729A | 02
06 | OK | OKLAHOMA CITY, CITY OF | 40109C0182G | 22-JAN-2003 | 03-06-733A | 02
06 | OK | OKLAHOMA CITY, CITY OF | 40109C0329G | 24-JAN-2003 | 03-06-742A | 02
06 | OK | OKLAHOMA CITY, CITY OF | 40109C0216G | 26-FEB-2003 | 03-06-746A | 02
06 | OK | OKLAHOMA CITY, CITY OF | 40109C0216G | 10-FEB-2003 | 03-06-747X | 02
06 | OK | OKLAHOMA CITY, CITY OF | 40109C0216G | 05-FEB-2003 | 03-06-748X | 02
06 | OK | OKLAHOMA CITY, CITY OF | 40109C0329G | 10-FEB-2003 | 03-06-755A | 02
06 | OK | OKLAHOMA CITY, CITY OF | 40109C0216G | 05-FEB-2003 | 03-06-764A | 02
06 | OK | OKLAHOMA CITY, CITY OF | 40109C0218G | 05-FEB-2003 | 03-06-764A | 02
06 | OK | OKLAHOMA CITY, CITY OF | 40109C0506G | 14-FEB-2003 | 03-06-776A | 02
06 | OK | OKLAHOMA CITY, CITY OF | 40109C0352G | 21-FEB-2003 | 03-06-785A | 02
06 | OK | OKLAHOMA CITY, CITY OF | 40109C0369G | 19-FEB-2003 | 03-06-825A | 02
06 | OK | OKLAHOMA CITY, CITY OF | 40109C0337G | 28-FEB-2003 | 03-06-884A | 02
06 | OK | OKLAHOMA CITY, CITY OF | 40109C0368G | 21-FEB-2003 | 03-06-906A | 02
06 | OK | OKLAHOMA CITY, CITY OF | 40109C0184G | 28-MAR-2003 | 03-06-916A | 02
06 | OK | OKLAHOMA CITY, CITY OF | 40109C0219G | 07-MAR-2003 | 03-06-940A | 02
06 | OK | OKLAHOMA CITY, CITY OF | 40109C0508G | 28-MAY-2003 | 03-06-969A | 17
06 | OK | OKLAHOMA CITY, CITY OF | 40109C0506G | 09-APR-2003 | 03-06-983A | 02
06 | OK | OKLAHOMA COUNTY | 40109C0055G | 23-APR-2003 | 03-06-1244A | 02
06 | OK | OKLAHOMA COUNTY | 40109C0060G | 22-JAN-2003 | 03-06-634A | 02
06 | OK | OKLAHOMA COUNTY | 40109C0060G | 31-JAN-2003 | 03-06-793X | 17
06 | OK | OKMULGEE COUNTY | 4004920050B | 26-FEB-2003 | 03-06-791A | 02
06 | OK | OSAGE COUNTY | 4001460610D | 28-MAR-2003 | 03-06-1102A | 02
06 | OK | OSAGE COUNTY | 4001460535C | 06-JUN-2003 | 03-06-1419A | 02
06 | OK | OSAGE COUNTY | 4001460610D | 10-FEB-2003 | 03-06-502A | 02
06 | OK | OWASSO, CITY OF | 40143C0228H | 12-FEB-2003 | 02-06-1603C | 08
06 | OK | OWASSO, CITY OF | 40143C0228H | 05-MAR-2003 | 03-06-927A | 02
06 | OK | PAWHUSKA, CITY OF | 4001520001B | 02-APR-2003 | 03-06-1026A | 02
06 | OK | ROGERS COUNTY | 4053790130C | 30-MAY-2003 | 03-06-1659A | 02
06 | OK | SAPULPA, CITY OF | 4000530130C | 25-JUN-2003 | 03-06-1809A | 02
06 | OK | SAPULPA, CITY OF | 4000530135C | 05-FEB-2003 | 03-06-710A | 02
06 | OK | SEMINOLE, CITY OF | 40133C0068C | 30-APR-2003 | 03-06-560A | 02
06 | OK | SHAWNEE, CITY OF | 40125C0102D | 14-MAY-2003 | 03-06-1243A | 02
06 | OK | SHAWNEE, CITY OF | 40125C0111D | 23-MAY-2003 | 03-06-1718A | 02
06 | OK | SHAWNEE, CITY OF | 40125C0125D | 29-JAN-2003 | 03-06-730A | 02
06 | OK | SHAWNEE, CITY OF | 40125C0103D | 12-MAR-2003 | 03-06-994A | 02
06 | OK | STEPHENS COUNTY | 40137C0175E | 28-FEB-2003 | 03-06-780A | 02
06 | OK | STILLWATER, CITY OF | 4053800005D | 10-JAN-2003 | 03-06-457A | 02
06 | OK | STILLWELL, CITY OF | 4000010001C | 14-FEB-2003 | 03-06-719A | 02
06 | OK | THE VILLAGE, CITY OF | 40109C0208G | 14-MAY-2003 | 03-06-1578A | 02
06 | OK | TULSA, CITY OF | 40143C0540H | 14-APR-2003 | 02-06-225P | 05
06 | OK | TULSA, CITY OF | 40143C0530H | 23-APR-2003 | 03-06-1189A | 02
06 | OK | TULSA, CITY OF | 40143C0395H | 07-MAY-2003 | 03-06-1370A | 02
06 | OK | TULSA, CITY OF | 40143C0530H | 16-MAY-2003 | 03-06-1622A | 02
06 | OK | TULSA, CITY OF | 40143C0520H | 20-JUN-2003 | 03-06-1693A | 02
06 | OK | TULSA, CITY OF | 40143C0510H | 25-JUN-2003 | 03-06-1900A | 02
06 | OK | TULSA, CITY OF | 40143C0390H | 31-JAN-2003 | 03-06-478A | 02
06 | OK | TULSA, CITY OF | 40143C0530H | 02-JAN-2003 | 03-06-511A | 02
06 | OK | WAGONER COUNTY | 4002150014B | 04-APR-2003 | 02-06-1643P | 05
06 | OK | WAGONER COUNTY | 4002150018B | 04-APR-2003 | 02-06-1643P | 05
06 | OK | WAGONER COUNTY | 4002150027B | 04-APR-2003 | 02-06-1643P | 05
06 | OK | WAGONER COUNTY | 4002150031B | 04-APR-2003 | 02-06-1643P | 05
06 | OK | WAGONER COUNTY | 4002150033B | 06-JUN-2003 | 03-06-1036A | 01
06 | OK | WAGONER COUNTY | 4002150145B | 16-APR-2003 | 03-06-1114A | 02
06 | OK | WAGONER COUNTY | 4002150055B | 09-MAY-2003 | 03-06-1415A | 02
06 | OK | WAGONER COUNTY | 4002150065B | 14-MAY-2003 | 03-06-1454A | 02
06 | OK | WAGONER COUNTY | 4002150029B | 28-MAY-2003 | 03-06-1502A | 02
06 | OK | WARR ACRES, CITY OF | 40109C0211G | 30-APR-2003 | 02-06-2577A | 02
06 | OK | WARR ACRES, CITY OF | 40109C0211G | 30-APR-2003 | 03-06-1184A | 02
06 | OK | WARR ACRES, CITY OF | 40109C0211G | 26-MAR-2003 | 03-06-148A | 02
06 | OK | YUKON, CITY OF | 40017C0339E | 16-APR-2003 | 03-06-1251A | 02
06 | TX | ABILENE, CITY OF | 4854500020D | 23-MAY-2003 | 03-06-1705A | 02
06 | TX | ALLEN, CITY OF | 48085C0290G | 18-APR-2003 | 02-06-375P | 05
06 | TX | ALLEN, CITY OF | 48085C0430G | 18-APR-2003 | 02-06-375P | 05
06 | TX | ALLEN, CITY OF | 48085C0430G | 19-MAR-2003 | 03-06-436P | 05
06 | TX | ALLEN, CITY OF | 48085C0435G | 19-MAR-2003 | 03-06-436P | 05
06 | TX | ALLEN, CITY OF | 48085C0435G | 25-APR-2003 | 03-06-907A | 02
06 | TX | ALTON, CITY OF | 4803340295D | 18-JUN-2003 | 03-06-1103A | 01
06 | TX | ALTON, CITY OF | 4815710005A | 18-JUN-2003 | 03-06-1103A | 01
06 | TX | ANDERSON COUNTY | 4800010010B | 16-APR-2003 | 03-06-1318A | 02
06 | TX | ANGLETON, CITY OF | 48039C0445H | 29-JAN-2003 | 02-06-1742A | 01
06 | TX | ANNA, CITY OF | 48085C0175G | 21-FEB-2003 | 02-06-1548P | 06
06 | TX | ANNA, CITY OF | 48085C0175G | 13-MAR-2003 | 03-06-1014P | 06
06 | TX | ARLINGTON, CITY OF | 48439C0463H | 14-MAY-2003 | 03-06-1348A | 01
06 | TX | ARLINGTON, CITY OF | 48439C0441J | 23-MAY-2003 | 03-06-1719A | 02
06 | TX | ARLINGTON, CITY OF | 48439C0456H | 22-JAN-2003 | 03-06-499A | 01
06 | TX | ARLINGTON, CITY OF | 48439C0462H | 25-JUN-2003 | 03-06-849P | 05
06 | TX | AUSTIN, CITY OF | 48453C0160E | 16-APR-2003 | 03-06-1031A | 02
06 | TX | AUSTIN, CITY OF | 48453C0165E | 06-JUN-2003 | 03-06-1156A | 02
06 | TX | AUSTIN, CITY OF | 48453C0200E | 20-JUN-2003 | 03-06-1181A | 02
06 | TX | AUSTIN, CITY OF | 48453C0155E | 07-MAY-2003 | 03-06-1368A | 02
06 | TX | AUSTIN, CITY OF | 48453C0245E | 25-JUN-2003 | 03-06-1429A | 02
06 | TX | AUSTIN, CITY OF | 48453C0150E | 18-JUN-2003 | 03-06-1455A | 02
06 | TX | AUSTIN, CITY OF | 48453C0200E | 30-APR-2003 | 03-06-1467A | 02
06 | TX | AUSTIN, CITY OF | 48453C0175F | 06-JUN-2003 | 03-06-1492A | 02
06 | TX | AUSTIN, CITY OF | 48453C0160E | 02-MAY-2003 | 03-06-1507A | 02
06 | TX | AUSTIN, CITY OF | 48453C0160E | 09-MAY-2003 | 03-06-1577A | 02
06 | TX | AUSTIN, CITY OF | 48453C0200E | 28-MAY-2003 | 03-06-1653A | 02
06 | TX | AUSTIN, CITY OF | 48453C0160E | 23-MAY-2003 | 03-06-1682A | 02
06 | TX | AUSTIN, CITY OF | 48453C0125E | 18-JUN-2003 | 03-06-1895A | 02
06 | TX | AUSTIN, CITY OF | 48453C0195E | 10-JAN-2003 | 03-06-319A | 02
06 | TX | AUSTIN, CITY OF | 48453C0255F | 15-JAN-2003 | 03-06-327A | 02
06 | TX | AUSTIN, CITY OF | 48453C0200E | 05-FEB-2003 | 03-06-734A | 02
06 | TX | AUSTIN, CITY OF | 48453C0205E | 29-JAN-2003 | 03-06-768A | 02
06 | TX | AZLE, CITY OF | 48439C0119H | 11-JUN-2003 | 03-06-1337A | 02
06 | TX | AZLE, CITY OF | 48439C0119H | 16-MAY-2003 | 03-06-1679A | 02
06 | TX | AZLE, CITY OF | 48439C0232H | 14-MAY-2003 | 03-06-999A | 02
06 | TX | BELL COUNTY | 4807060130B | 28-MAY-2003 | 03-06-903A | 01
06 | TX | BENBROOK, CITY OF | 48439C0380H | 10-FEB-2003 | 03-06-510A | 01
06 | TX | BENBROOK, CITY OF | 48439C0380H | 10-FEB-2003 | 03-06-602A | 02
06 | TX | BENBROOK, CITY OF | 48439C0380H | 12-MAR-2003 | 03-06-891A | 01
06 | TX | BEXAR COUNTY | 48029C0145F | 04-FEB-2003 | 02-06-1711P | 06
06 | TX | BEXAR COUNTY | 48029C0140F | 02-JAN-2003 | 02-06-1846P | 06
06 | TX | BEXAR COUNTY | 48029C0145F | 02-JAN-2003 | 02-06-1846P | 06
06 | TX | BEXAR COUNTY | 48029C0145F | 06-JUN-2003 | 02-06-2298P | 05
06 | TX | BEXAR COUNTY | 48029C0115E | 09-MAY-2003 | 03-06-1142A | 02
06 | TX | BEXAR COUNTY | 48029C0095E | 05-MAR-2003 | 03-06-242A | 02
06 | TX | BOYD, CITY OF | 48497C0225C | 10-JAN-2003 | 03-06-488A | 02
06 | TX | BRAZORIA COUNTY | 48039C0415H | 06-JUN-2003 | 03-06-1338A | 02
06 | TX | BRAZORIA COUNTY | 48039C0010I | 04-JUN-2003 | 03-06-1345A | 01
06 | TX | BRAZORIA COUNTY | 48039C0415H | 25-JUN-2003 | 03-06-1975A | 02
06 | TX | BRAZORIA COUNTY | 48039C0535H | 07-MAY-2003 | 03-06-306A | 02
06 | TX | BRAZOS COUNTY | 48041C0205D | 23-MAY-2003 | 03-06-1758A | 02
06 | TX | BRECKENRIDGE, CITY OF | 48429C0095C | 05-FEB-2003 | 03-06-765A | 02
06 | TX | BROWNSVILLE, CITY OF | 4801030020B | 25-JUN-2003 | 03-06-1759A | 01
06 | TX | BROWNSVILLE, CITY OF | 4801010350B | 02-APR-2003 | 03-06-870A | 01
06 | TX | BURLESON, CITY OF | 48439C0540H | 31-JAN-2003 | 03-06-495A | 17
06 | TX | BURNET COUNTY | 48053C0284C | 23-APR-2003 | 03-06-1265A | 02
06 | TX | BURNET COUNTY | 48053C0075C | 26-FEB-2003 | 03-06-621A | 02
06 | TX | CAMERON COUNTY | 4801010150B | 24-JUN-2003 | 03-06-1549P | 06
06 | TX | CARROLLTON, CITY OF | 48113C0040J | 03-APR-2003 | 02-06-2053P | 05
06 | TX | CARROLLTON, CITY OF | 48113C0040J | 16-APR-2003 | 03-06-1372A | 02
06 | TX | CARROLLTON, CITY OF | 48113C0040J | 07-MAY-2003 | 03-06-1413A | 02
06 | TX | CARROLLTON, CITY OF | 48113C0020J | 21-FEB-2003 | 03-06-572A | 02
06 | TX | CARROLLTON, CITY OF | 48113C0160J | 12-FEB-2003 | 03-06-741A | 02
06 | TX | CARROLLTON, CITY OF | 48113C0160J | 12-FEB-2003 | 03-06-855A | 17
06 | TX | CARROLLTON, CITY OF | 48113C0160J | 16-APR-2003 | 03-06-890A | 17
06 | TX | CEDAR HILL, CITY OF | 48113C0605J | 16-MAY-2003 | 03-06-1627A | 02
06 | TX | CEDAR HILL, CITY OF | 48113C0605J | 25-JUN-2003 | 03-06-1963A | 02
06 | TX | CEDAR PARK, CITY OF | 48491C0306C | 14-FEB-2003 | 03-06-607A | 02
06 | TX | CLEBURNE, CITY OF | 48251C0114F | 21-APR-2003 | 03-06-529A | 08
06 | TX | COLLEYVILLE, TOWN OF | 48439C0195H | 18-JUN-2003 | 03-06-604A | 17
06 | TX | COLLEYVILLE, TOWN OF | 48439C0215H | 14-FEB-2003 | 03-06-669A | 02
06 | TX | COLLEYVILLE, TOWN OF | 48439C0195H | 12-MAR-2003 | 03-06-998A | 02
06 | TX | COLUMBUS, CITY OF | 48089C0145C | 28-MAY-2003 | 03-06-1433A | 02
06 | TX | COLUMBUS, CITY OF | 48089C0145C | 28-MAY-2003 | 03-06-1434A | 02
06 | TX | COLUMBUS, CITY OF | 48089C0145C | 29-JAN-2003 | 03-06-605A | 02
06 | TX | COMAL COUNTY | 4854630055D | 14-MAY-2003 | 03-06-1600A | 02
06 | TX | COMAL COUNTY | 4854630055D | 07-APR-2003 | 03-06-418P | 06
06 | TX | COMANCHE, CITY OF | 4801510005C | 02-MAY-2003 | 03-06-1200A | 17
06 | TX | CONROE, CITY OF | 48339C0378F | 06-JUN-2003 | 02-06-944P | 06
06 | TX | COPPELL, CITY OF | 48113C0155J | 17-JAN-2003 | 03-06-451A | 17
06 | TX | CORPUS CHRISTI, CITY OF | 4854640302C | 07-MAR-2003 | 03-06-782A | 02
06 | TX | CROSS ROADS, TOWN OF | 48121C0405E | 30-MAY-2003 | 02-06-1831P | 06
06 | TX | DALLAS COUNTY | 48113C0235J | 22-JAN-2003 | 03-06-640A | 02
06 | TX | DALLAS, CITY OF | 48113C0310J | 27-MAR-2003 | 02-06-2294P | 06
06 | TX | DALLAS, CITY OF | 48113C0355J | 03-JAN-2003 | 03-06-074A | 02
06 | TX | DALLAS, CITY OF | 48113C0045J | 16-MAY-2003 | 03-06-1172A | 02
06 | TX | DALLAS, CITY OF | 48113C0170J | 18-APR-2003 | 03-06-1269A | 02
06 | TX | DALLAS, CITY OF | 48113C0330J | 23-APR-2003 | 03-06-1437A | 02
06 | TX | DALLAS, CITY OF | 48113C0490J | 23-MAY-2003 | 03-06-1552A | 02
06 | TX | DALLAS, CITY OF | 48113C0320J | 11-JUN-2003 | 03-06-1554A | 02
06 | TX | DALLAS, CITY OF | 48113C0330J | 20-JUN-2003 | 03-06-1977X | 02
06 | TX | DALLAS, CITY OF | 48113C0190J | 02-JAN-2003 | 03-06-239A | 02
06 | TX | DALLAS, CITY OF | 48113C0330J | 03-APR-2003 | 03-06-447P | 05
06 | TX | DALLAS, CITY OF | 48113C0185J | 15-JAN-2003 | 03-06-520A | 02
06 | TX | DALLAS, CITY OF | 48113C0215J | 02-APR-2003 | 03-06-535A | 02
06 | TX | DALLAS, CITY OF | 48113C0355J | 22-JAN-2003 | 03-06-590A | 01
06 | TX | DALLAS, CITY OF | 48113C0365J | 22-JAN-2003 | 03-06-590A | 01
06 | TX | DALLAS, CITY OF | 48113C0355J | 13-JUN-2003 | 03-06-707A | 02
06 | TX | DALLAS, CITY OF | 48113C0345J | 26-FEB-2003 | 03-06-886A | 02
06 | TX | DALLAS, CITY OF | 48113C0195J | 09-APR-2003 | 03-06-954A | 02
06 | TX | DALWORTHINGTON GARDENS, TOWN OF | 48439C0441J | 28-MAY-2003 | 02-06-1406A | 01
06 | TX | DALWORTHINGTON GARDENS, TOWN OF | 48439C0442H | 28-MAY-2003 | 02-06-1406A | 01
06 | TX | DENTON COUNTY | 48121C0532E | 02-MAY-2003 | 03-06-1062A | 02
06 | TX | DENTON COUNTY | 48121C0485E | 14-MAR-2003 | 03-06-456A | 02
06 | TX | DENTON COUNTY | 48121C0510E | 07-MAR-2003 | 03-06-704A | 01
06 | TX | DENTON, CITY OF | 48121C0355F | 25-FEB-2003 | 02-06-419P | 05
06 | TX | DENTON, CITY OF | 48121C0365E | 13-JUN-2003 | 03-06-181P | 06
06 | TX | DENTON, CITY OF | 48121C0370E | 13-JUN-2003 | 03-06-181P | 06
06 | TX | DENTON, CITY OF | 48121C0360E | 15-JAN-2003 | 03-06-454A | 02
06 | TX | DUNCANVILLE, CITY OF | 48113C0470J | 02-MAY-2003 | 03-06-1140A | 02
06 | TX | EL PASO, CITY OF | 4802140022E | 05-JUN-2003 | 02-06-1458P | 05
06 | TX | EL PASO, CITY OF | 4802140037B | 02-MAY-2003 | 03-06-107P | 05
06 | TX | EL PASO, CITY OF | 4802140044B | 13-JUN-2003 | 03-06-1644A | 02
06 | TX | ENNIS, CITY OF | 48139C0220D | 24-APR-2003 | 03-06-126P | 06
06 | TX | EULESS, CITY OF | 48439C0330J | 02-APR-2003 | 03-06-411P | 05
06 | TX | EULESS, CITY OF | 48439C0330J | 21-MAR-2003 | 03-06-787A | 01
06 | TX | EVERMAN, CITY OF | 48439C0420H | 24-JAN-2003 | 03-06-543A | 02
06 | TX | FAIRVIEW, TOWN OF | 48085C0295G | 07-MAR-2003 | 02-06-2616P | 06
06 | TX | FAIRVIEW, TOWN OF | 48085C0315G | 16-APR-2003 | 03-06-1030A | 17
06 | TX | FARMERS BRANCH, CITY OF | 48113C0170J | 07-FEB-2003 | 02-06-2308P | 05
06 | TX | FARMERS BRANCH, CITY OF | 48113C0170J | 11-JUN-2003 | 03-06-1022A | 02
06 | TX | FARMERS BRANCH, CITY OF | 48113C0180J | 28-MAR-2003 | 03-06-1149A | 02
06 | TX | FLOWER MOUND, TOWN OF | 48121C0520E | 02-MAY-2003 | 03-06-1323A | 02
06 | TX | FLOWER MOUND, TOWN OF | 48121C0540E | 11-APR-2003 | 03-06-1445A | 02
06 | TX | FLOWER MOUND, TOWN OF | 48121C0545E | 09-MAY-2003 | 03-06-1614X | 02
06 | TX | FLOWER MOUND, TOWN OF | 48121C0545E | 30-APR-2003 | 03-06-352A | 02
06 | TX | FLOWER MOUND, TOWN OF | 48121C0545E | 29-JAN-2003 | 03-06-656A | 02
06 | TX | FORNEY, CITY OF | 480410—01B | 04-JUN-2003 | 03-06-1846A | 02
06 | TX | FORT BEND COUNTY | 48157C0290J | 28-MAR-2003 | 03-06-597A | 01
06 | TX | FORT BEND COUNTY | 48157C0235J | 05-MAR-2003 | 03-06-758A | 02
06 | TX | FORT BEND COUNTY L.I.D. #2 | 48157C0255J | 28-MAR-2003 | 03-06-816A | 01
06 | TX | FORT BEND COUNTY M.U.D. #25 | 48157C0235J | 25-APR-2003 | 03-06-300A | 01
06 | TX | FORT WORTH, CITY OF | 48439C0260H | 02-JAN-2003 | 02-06-1073P | 05
06 | TX | FORT WORTH, CITY OF | 48439C0170H | 10-MAR-2003 | 02-06-2296P | 06
06 | TX | FORT WORTH, CITY OF | 48251C0033H | 13-JAN-2003 | 02-06-2441P | 05
06 | TX | FORT WORTH, CITY OF | 48439C0545H | 13-JAN-2003 | 02-06-2441P | 05
06 | TX | FORT WORTH, CITY OF | 48121C0490F | 02-MAY-2003 | 03-06-040P | 05
06 | TX | FORT WORTH, CITY OF | 48439C0140H | 19-MAR-2003 | 03-06-1000A | 02
06 | TX | FORT WORTH, CITY OF | 48439C0405J | 16-APR-2003 | 03-06-1287A | 02
06 | TX | FORT WORTH, CITY OF | 48439C0427J | 16-APR-2003 | 03-06-1331A | 02
06 | TX | FORT WORTH, CITY OF | 48439C0405J | 02-MAY-2003 | 03-06-1421A | 02
06 | TX | FORT WORTH, CITY OF | 48439C0380H | 23-APR-2003 | 03-06-1427A | 02
06 | TX | FORT WORTH, CITY OF | 48439C0165H | 27-JUN-2003 | 03-06-1595A | 01
06 | TX | FORT WORTH, CITY OF | 48439C0385J | 06-JUN-2003 | 03-06-1672A | 02
06 | TX | FORT WORTH, CITY OF | 48439C0385J | 18-JUN-2003 | 03-06-1902A | 02
06 | TX | FORT WORTH, CITY OF | 48439C0245H | 05-FEB-2003 | 03-06-296A | 02
06 | TX | FORT WORTH, CITY OF | 48439C0313J | 14-MAR-2003 | 03-06-320A | 17
06 | TX | FORT WORTH, CITY OF | 48439C0429J | 29-JAN-2003 | 03-06-724A | 02
06 | TX | FORT WORTH, CITY OF | 48439C0415H | 19-FEB-2003 | 03-06-858A | 02
06 | TX | FRISCO, CITY OF | 48085C0405G | 23-MAY-2003 | 03-06-043P | 05
06 | TX | FRISCO, CITY OF | 48085C0290G | 18-JUN-2003 | 03-06-1618A | 02
06 | TX | FRISCO, CITY OF | 48085C0265G | 02-JAN-2003 | 03-06-316A | 02
06 | TX | FRISCO, CITY OF | 48085C0265G | 14-APR-2003 | 03-06-846P | 06
06 | TX | GALENA PARK, CITY OF | 48201C0905J | 10-FEB-2003 | 03-06-601A | 02
06 | TX | GARLAND, CITY OF | 48113C0380K | 19-MAR-2003 | 03-06-1006P | 06
06 | TX | GARLAND, CITY OF | 48113C0210K | 25-APR-2003 | 03-06-1398P | 06
06 | TX | GARLAND, CITY OF | 48113C0240J | 07-MAY-2003 | 03-06-1498A | 02
06 | TX | GARLAND, CITY OF | 48113C0220K | 20-JUN-2003 | 03-06-1845A | 02
06 | TX | GARLAND, CITY OF | 48113C0360K | 13-JUN-2003 | 03-06-1884A | 02
06 | TX | GARLAND, CITY OF | 48113C0210J | 14-FEB-2003 | 03-06-823A | 17
06 | TX | GARLAND, CITY OF | 48113C0210K | 05-MAR-2003 | 03-06-910A | 02
06 | TX | GARLAND, CITY OF | 48113C0210K | 12-MAR-2003 | 03-06-984X | 17
06 | TX | GARLAND, CITY OF | 48113C0210K | 26-MAR-2003 | 03-06-985A | 01
06 | TX | GARLAND, CITY OF | 48113C0230J | 26-MAR-2003 | 03-06-985A | 01
06 | TX | GILLESPIE COUNTY | 48171C0267C | 25-APR-2003 | 03-06-582A | 02
06 | TX | GRAHAM, CITY OF | 48503C0195D | 05-FEB-2003 | 03-06-341A | 02
06 | TX | GRAHAM, CITY OF | 48503C0195D | 21-FEB-2003 | 03-06-778A | 02
06 | TX | GRAND PRAIRIE, CITY OF | 48113C0295J | 24-JUN-2003 | 02-06-2299P | 05
06 | TX | GRAND PRAIRIE, CITY OF | 48113C0445J | 09-MAY-2003 | 03-06-1553A | 02
06 | TX | GRAND PRAIRIE, CITY OF | 48113C0445J | 16-MAY-2003 | 03-06-1646A | 02
06 | TX | GRAND PRAIRIE, CITY OF | 48113C0445J | 27-JUN-2003 | 03-06-2027A | 02
06 | TX | GRAND PRAIRIE, CITY OF | 48113C0435J | 23-JUN-2003 | 03-06-430P | 06
06 | TX | GRAND PRAIRIE, CITY OF | 48113C0445J | 23-JUN-2003 | 03-06-430P | 06
06 | TX | GRAND PRAIRIE, CITY OF | 48113C0445J | 24-JAN-2003 | 03-06-575A | 01
06 | TX | GRAPEVINE, CITY OF | 48439C0210H | 03-APR-2003 | 02-06-1719P | 05
06 | TX | GRAPEVINE, CITY OF | 48439C0215H | 12-MAR-2003 | 03-06-1043A | 02
06 | TX | GREENVILLE, CITY OF | 48231C0180F | 02-APR-2003 | 03-06-824A | 17
06 | TX | GUADALUPE COUNTY | 4802660110C | 03-FEB-2003 | 02-06-432P | 06
06 | TX | GUADALUPE COUNTY | 4802660050B | 21-MAY-2003 | 03-06-1245A | 02
06 | TX | GUADALUPE COUNTY | 4802660050B | 12-JUN-2003 | 03-06-1546P | 06
06 | TX | GUADALUPE COUNTY | 4802660150C | 03-JAN-2003 | 03-06-480A | 02
06 | TX | GUADALUPE COUNTY | 4802660175C | 14-MAR-2003 | 03-06-867A | 02
06 | TX | HARRIS COUNTY | 48201C0515J | 18-APR-2003 | 01-06-2046P | 05
06 | TX | HARRIS COUNTY | 48201C0705J | 18-APR-2003 | 01-06-2046P | 05
06 | TX | HARRIS COUNTY | 48201C0710J | 18-APR-2003 | 01-06-2046P | 05
06 | TX | HARRIS COUNTY | 48201C0715J | 18-APR-2003 | 01-06-2046P | 05
06 | TX | HARRIS COUNTY | 48201C0720J | 18-APR-2003 | 01-06-2046P | 05
06 | TX | HARRIS COUNTY | 48201C0230J | 20-MAR-2003 | 02-06-1537P | 05
06 | TX | HARRIS COUNTY | 48201C0870J | 20-MAR-2003 | 02-06-1537P | 05
06 | TX | HARRIS COUNTY | 48201C0880J | 20-MAR-2003 | 02-06-1537P | 05
06 | TX | HARRIS COUNTY | 48201C0890J | 20-MAR-2003 | 02-06-1537P | 05
06 | TX | HARRIS COUNTY | 48201C1010K | 20-MAR-2003 | 02-06-1537P | 05
06 | TX | HARRIS COUNTY | 48201C0265J | 21-MAR-2003 | 03-06-099A | 01
06 | TX | HARRIS COUNTY | 48201C0320K | 12-MAR-2003 | 03-06-1050A | 02
06 | TX | HARRIS COUNTY | 48201C0320K | 16-APR-2003 | 03-06-1139A | 02
06 | TX | HARRIS COUNTY | 48201C0435J | 25-APR-2003 | 03-06-1288A | 01
06 | TX | HARRIS COUNTY | 48201C0230J | 11-JUN-2003 | 03-06-1474A | 01
06 | TX | HARRIS COUNTY | 48201C0495J | 07-MAY-2003 | 03-06-1489A | 01
06 | TX | HARRIS COUNTY | 48201C0265J | 30-MAY-2003 | 03-06-1575A | 02
06 | TX | HARRIS COUNTY | 48201C0405J | 06-JUN-2003 | 03-06-1766A | 01
06 | TX | HARRIS COUNTY | 48201C0405J | 04-JUN-2003 | 03-06-1767A | 01
06 | TX | HARRIS COUNTY | 48201C0405J | 06-JUN-2003 | 03-06-1768A | 01
06 | TX | HARRIS COUNTY | 48201C0445K | 20-JUN-2003 | 03-06-1788A | 02
06 | TX | HARRIS COUNTY | 48201C0615J | 25-JUN-2003 | 03-06-1976A | 02
06 | TX | HARRIS COUNTY | 48201C0410J | 15-JAN-2003 | 03-06-218A | 01
06 | TX | HARRIS COUNTY | 48201C0290J | 22-JAN-2003 | 03-06-286A | 01
06 | TX | HARRIS COUNTY | 48201C0215J | 21-FEB-2003 | 03-06-618A | 01
06 | TX | HARRIS COUNTY | 48201C0430K | 26-FEB-2003 | 03-06-658A | 02
06 | TX | HARRIS COUNTY | 48201C0235K | 14-MAY-2003 | 03-06-800A | 01
06 | TX | HARRIS COUNTY | 48201C0435J | 05-MAR-2003 | 03-06-859A | 02
06 | TX | HAYS COUNTY | 48209C0155E | 30-APR-2003 | 03-06-1452A | 02
06 | TX | HAYS COUNTY | 48209C0155E | 20-JUN-2003 | 03-06-1651A | 02
06 | TX | HEMPSTEAD, TOWN OF | 4806400050B | 14-MAR-2003 | 03-06-949A | 02
06 | TX | HENDERSON COUNTY | 48213C0225C | 27-JUN-2003 | 03-06-1231A | 02
06 | TX | HIDALGO COUNTY | 4803340400C | 23-MAY-2003 | 03-06-1692A | 02
06 | TX | HIGHLAND PARK, TOWN OF | 48113C0335J | 03-JAN-2003 | 02-06-2421P | 05
06 | TX | HIGHLAND PARK, TOWN OF | 48113C0335J | 30-APR-2003 | 03-06-1009P | 06
06 | TX | HIGHLAND VILLAGE, VILLAGE OF | 48121C0533F | 04-JUN-2003 | 03-06-986A | 02
06 | TX | HOOD COUNTY | 4803560145B | 04-APR-2003 | 03-06-1161A | 02
06 | TX | HOOD COUNTY | 4803560130C | 19-FEB-2003 | 03-06-161A | 02
06 | TX | HOOD COUNTY | 4803560110C | 21-MAY-2003 | 03-06-1677A | 02
06 | TX | HOOD COUNTY | 4803560110C | 17-JAN-2003 | 03-06-473A | 02
06 | TX | HOOD COUNTY | 4803560140B | 02-APR-2003 | 03-06-506A | 02
06 | TX | HOOD COUNTY | 4803560130C | 22-JAN-2003 | 03-06-613A | 02
06 | TX | HOOD COUNTY | 4803560145B | 05-MAR-2003 | 03-06-911A | 02
06 | TX | HOOD COUNTY | 4803560065B | 16-APR-2003 | 03-06-923A | 02
06 | TX | HOUSTON COUNTY | 4808720009A | 11-APR-2003 | 03-06-1118A | 02
06 | TX | HOUSTON, CITY OF | 48201C1055K | 18-APR-2003 | 02-06-584P | 05
06 | TX | HOUSTON, CITY OF | 48201C0435J | 02-APR-2003 | 03-06-1241A | 02
06 | TX | HOUSTON, CITY OF | 48201C0630J | 09-APR-2003 | 03-06-1313A | 02
06 | TX | HOUSTON, CITY OF | 48201C0670K | 16-APR-2003 | 03-06-1401A | 02
06 | TX | HOUSTON, CITY OF | 48201C0860K | 11-JUN-2003 | 03-06-1774A | 02
06 | TX | HOUSTON, CITY OF | 48201C0860K | 13-JUN-2003 | 03-06-1787A | 02
06 | TX | HOUSTON, CITY OF | 48201C0835K | 30-MAY-2003 | 03-06-1801X | 02
06 | TX | HOUSTON, CITY OF | 48201C0845K | 02-JAN-2003 | 03-06-494A | 02
06 | TX | HOUSTON, CITY OF | 48201C0835K | 12-FEB-2003 | 03-06-812A | 02
06 | TX | HOUSTON, CITY OF | 48201C1005K | 14-MAR-2003 | 03-06-947A | 02
06 | TX | HOWE, TOWN OF | 48181C0210E | 19-MAR-2003 | 03-06-964A | 02
06 | TX | HUNT COUNTY | 48231C0150E | 05-FEB-2003 | 03-06-525A | 01
06 | TX | HURST, CITY OF | 48439C0309J | 31-JAN-2003 | 02-06-2049P | 05
06 | TX | HURST, CITY OF | 48439C0317J | 31-JAN-2003 | 02-06-2049P | 05
06 | TX | HURST, CITY OF | 48439C0304J | 27-JUN-2003 | 03-06-1264A | 02
06 | TX | HURST, CITY OF | 48439C0306J | 07-MAR-2003 | 03-06-508A | 02
06 | TX | HUTTO, TOWN OF | 48491C0244C | 21-FEB-2003 | 02-06-2047P | 06
06 | TX | HUTTO, TOWN OF | 48491C0335C | 21-FEB-2003 | 02-06-2047P | 06
06 | TX | IRVING, CITY OF | 48113C0135J | 24-JUN-2003 | 02-06-2315P | 05
06 | TX | IRVING, CITY OF | 48113C0145J | 24-JUN-2003 | 02-06-2315P | 05
06 | TX | IRVING, CITY OF | 48113C0320J | 26-MAR-2003 | 03-06-1192A | 02
06 | TX | IRVING, CITY OF | 48113C0315J | 25-APR-2003 | 03-06-1306A | 01
06 | TX | IRVING, CITY OF | 48113C0315J | 25-APR-2003 | 03-06-1351A | 02
06 | TX | IRVING, CITY OF | 48113C0315J | 16-MAY-2003 | 03-06-1435A | 02
06 | TX | IRVING, CITY OF | 48113C0320J | 16-MAY-2003 | 03-06-1435A | 02
06 | TX | IRVING, CITY OF | 48113C0320J | 23-APR-2003 | 03-06-1442A | 02
06 | TX | IRVING, CITY OF | 48113C0305J | 21-FEB-2003 | 03-06-861A | 02
06 | TX | IRVING, CITY OF | 48113C0305J | 11-APR-2003 | 03-06-953A | 02
06 | TX | IRVING, CITY OF | 48113C0305J | 07-MAR-2003 | 03-06-972A | 02
06 | TX | JOHNSON COUNTY | 48251C0037H | 02-MAY-2003 | 03-06-1325A | 02
06 | TX | JOSHUA, CITY OF | 48251C0039G | 23-APR-2003 | 03-06-636A | 02
06 | TX | JUSTIN, CITY OF | 48121C0500F | 04-JUN-2003 | 03-06-1576A | 02
06 | TX | JUSTIN, CITY OF | 48121C0500F | 11-JUN-2003 | 03-06-1770A | 01
06 | TX | KATY, CITY OF | 48201C0590J | 07-MAR-2003 | 03-06-637A | 02
06 | TX | KENDALL COUNTY | 4804170253B | 08-JAN-2003 | 03-06-561A | 02
06 | TX | KILLEEN, CITY OF | 4807060130B | 25-JUN-2003 | 03-06-1298A | 01
06 | TX | KILLEEN, CITY OF | 4800310003C | 14-MAY-2003 | 03-06-1339A | 01
06 | TX | KILLEEN, CITY OF | 4807060130B | 16-MAY-2003 | 03-06-1472A | 01
06 | TX | KYLE, CITY OF | 48209C0185E | 02-APR-2003 | 02-06-2442P | 05
06 | TX | KYLE, CITY OF | 48209C0205E | 02-APR-2003 | 02-06-2442P | 05
06 | TX | LA PORTE, CITY OF | 48201C0940J | 02-APR-2003 | 03-06-1128A | 01
06 | TX | LAKE BRIDGEPORT, CITY OF | 48497C0160C | 14-FEB-2003 | 03-06-315A | 02
06 | TX | LAKEWAY, CITY OF | 48453C0330E | 10-FEB-2003 | 03-06-058P | 06
06 | TX | LAKEWAY, CITY OF | 48453C0330E | 18-JUN-2003 | 03-06-1866A | 02
06 | TX | LANCASTER, CITY OF | 48113C0635J | 30-JAN-2003 | 01-06-1088P | 05
06 | TX | LEAGUE CITY, CITY OF | 4854880011D | 02-MAY-2003 | 03-06-1319A | 01
06 | TX | LEAGUE CITY, CITY OF | 4854880030E | 14-MAR-2003 | 03-06-770A | 01
06 | TX | LEWISVILLE, CITY OF | 48121C0545E | 29-JAN-2003 | 03-06-761A | 02
06 | TX | LIBERTY COUNTY | 4804380175B | 11-JUN-2003 | 03-06-1810A | 02
06 | TX | LIBERTY COUNTY | 4804380300B | 12-MAR-2003 | 03-06-763A | 02
06 | TX | LINDSAY, TOWN OF | 480766—01A | 13-JUN-2003 | 03-06-1411A | 02
06 | TX | LITTLE ELM, TOWN OF | 48121C0420E | 17-MAR-2003 | 03-06-128P | 06
06 | TX | LLANO COUNTY | 4812340210B | 09-APR-2003 | 03-06-1295A | 02
06 | TX | LLANO COUNTY | 4812340140B | 25-JUN-2003 | 03-06-1721A | 02
06 | TX | LLANO COUNTY | 4812340285B | 25-JUN-2003 | 03-06-1954A | 02
06 | TX | LLANO COUNTY | 4812340285B | 10-JAN-2003 | 03-06-356A | 02
06 | TX | LLANO COUNTY | 4812340285B | 26-FEB-2003 | 03-06-722A | 02
06 | TX | LLANO COUNTY | 4812340210B | 31-JAN-2003 | 03-06-727A | 02
06 | TX | LONGVIEW, CITY OF | 4802640010D | 25-APR-2003 | 03-06-342A | 17
06 | TX | LONGVIEW, CITY OF | 4802640010D | 10-FEB-2003 | 03-06-769A | 17
06 | TX | LOWRY CROSSING, CITY OF | 48085C0325G | 30-MAY-2003 | 03-06-1120A | 02
06 | TX | LUBBOCK COUNTY | 48303C0275D | 04-JUN-2003 | 03-06-1426A | 02
06 | TX | LUBBOCK, CITY OF | 48303C0290D | 14-MAR-2003 | 03-06-1034A | 02
06 | TX | LUBBOCK, CITY OF | 48303C0295D | 12-MAR-2003 | 03-06-1035A | 02
06 | TX | LUBBOCK, CITY OF | 48303C0290D | 12-MAR-2003 | 03-06-1044A | 02
06 | TX | LUBBOCK, CITY OF | 48303C0295D | 07-MAR-2003 | 03-06-1045A | 02
06 | TX | LUBBOCK, CITY OF | 48303C0295D | 12-MAR-2003 | 03-06-1047A | 02
06 | TX | LUBBOCK, CITY OF | 48303C0315D | 19-MAR-2003 | 03-06-1061A | 02
06 | TX | LUBBOCK, CITY OF | 48303C0295D | 14-MAR-2003 | 03-06-1070A | 02
06 | TX | LUBBOCK, CITY OF | 48303C0285D | 19-MAR-2003 | 03-06-1071A | 02
06 | TX | LUBBOCK, CITY OF | 48303C0315D | 14-MAR-2003 | 03-06-1072A | 02
06 | TX | LUBBOCK, CITY OF | 48303C0285D | 21-MAR-2003 | 03-06-1082A | 02
06 | TX | LUBBOCK, CITY OF | 48303C0295D | 19-MAR-2003 | 03-06-1098A | 02
06 | TX | LUBBOCK, CITY OF | 48303C0305D | 30-APR-2003 | 03-06-1105A | 02
06 | TX | LUBBOCK, CITY OF | 48303C0295D | 28-MAR-2003 | 03-06-1111A | 02
06 | TX | LUBBOCK, CITY OF | 48303C0295D | 26-MAR-2003 | 03-06-1131A | 02
06 | TX | LUBBOCK, CITY OF | 48303C0295D | 26-MAR-2003 | 03-06-1134A | 02
06 | TX | LUBBOCK, CITY OF | 48303C0290D | 04-APR-2003 | 03-06-1141A | 02
06 | TX | LUBBOCK, CITY OF | 48303C0285D | 04-APR-2003 | 03-06-1143A | 02
06 | TX | LUBBOCK, CITY OF | 48303C0295D | 04-APR-2003 | 03-06-1150A | 02
06 | TX | LUBBOCK, CITY OF | 48303C0290D | 26-MAR-2003 | 03-06-1151A | 02
06 | TX | LUBBOCK, CITY OF | 48303C0290D | 26-MAR-2003 | 03-06-1152A | 02
06 | TX | LUBBOCK, CITY OF | 48303C0290D | 26-MAR-2003 | 03-06-1166A | 02
06 | TX | LUBBOCK, CITY OF | 48303C0295D | 23-APR-2003 | 03-06-1167A | 02
06 | TX | LUBBOCK, CITY OF | 48303C0290D | 02-APR-2003 | 03-06-1178A | 02
06 | TX | LUBBOCK, CITY OF | 48303C0305D | 02-APR-2003 | 03-06-1239A | 02
06 | TX | LUBBOCK, CITY OF | 48303C0290D | 04-APR-2003 | 03-06-1240A | 02
06 | TX | LUBBOCK, CITY OF | 48303C0305D | 04-APR-2003 | 03-06-1252A | 02
06 | TX | LUBBOCK, CITY OF | 48303C0285D | 02-APR-2003 | 03-06-1258A | 02
06 | TX | LUBBOCK, CITY OF | 48303C0295D | 04-APR-2003 | 03-06-1262A | 02
06 | TX | LUBBOCK, CITY OF | 48303C0290D | 28-MAR-2003 | 03-06-1276X | 02
06 | TX | LUBBOCK, CITY OF | 48303C0290D | 28-MAR-2003 | 03-06-1277X | 02
06 | TX | LUBBOCK, CITY OF | 48303C0285D | 02-APR-2003 | 03-06-1284A | 02
06 | TX | LUBBOCK, CITY OF | 48303C0295D | 23-APR-2003 | 03-06-1410A | 02
06 | TX | LUBBOCK, CITY OF | 48303C0290D | 30-APR-2003 | 03-06-1460A | 02
06 | TX | LUBBOCK, CITY OF | 48303C0290D | 30-APR-2003 | 03-06-1461A | 02
06 | TX | LUBBOCK, CITY OF | 48303C0295D | 09-MAY-2003 | 03-06-1484A | 02
06 | TX | LUBBOCK, CITY OF | 48303C0290D | 07-MAY-2003 | 03-06-1486A | 02
06 | TX | LUBBOCK, CITY OF | 48303C0290D | 21-MAY-2003 | 03-06-1491A | 02
06 | TX | LUBBOCK, CITY OF | 48303C0290D | 02-MAY-2003 | 03-06-1493A | 02
06 | TX | LUBBOCK, CITY OF | 48303C0285D | 21-MAY-2003 | 03-06-1555A | 02
06 | TX | LUBBOCK, CITY OF | 48303C0315D | 04-JUN-2003 | 03-06-1605A | 02
06 | TX | LUBBOCK, CITY OF | 48303C0295D | 30-MAY-2003 | 03-06-1652A | 02
06 | TX | LUBBOCK, CITY OF | 48303C0290D | 16-MAY-2003 | 03-06-1670A | 02
06 | TX | LUBBOCK, CITY OF | 48303C0290D | 28-MAY-2003 | 03-06-1671A | 02
06 | TX | LUBBOCK, CITY OF | 48303C0295D | 23-MAY-2003 | 03-06-1681A | 02
06 | TX | LUBBOCK, CITY OF | 48303C0295D | 21-MAY-2003 | 03-06-1688A | 02
06 | TX | LUBBOCK, CITY OF | 48303C0290D | 28-MAY-2003 | 03-06-1714A | 02
06 | TX | LUBBOCK, CITY OF | 48303C0315D | 30-MAY-2003 | 03-06-1764A | 02
06 | TX | LUBBOCK, CITY OF | 48303C0305D | 04-JUN-2003 | 03-06-1777A | 02
06 | TX | LUBBOCK, CITY OF | 48303C0285D | 06-JUN-2003 | 03-06-1804A | 02
06 | TX | LUBBOCK, CITY OF | 48303C0295D | 18-JUN-2003 | 03-06-1853A | 02
06 | TX | LUBBOCK, CITY OF | 48303C0285D | 20-JUN-2003 | 03-06-1878A | 02
06 | TX | LUBBOCK, CITY OF | 48303C0290D | 03-JAN-2003 | 03-06-211A | 01
06 | TX | LUBBOCK, CITY OF | 48303C0295D | 31-JAN-2003 | 03-06-498A | 02
06 | TX | LUBBOCK, CITY OF | 48303C0295D | 03-JAN-2003 | 03-06-512A | 02
06 | TX | LUBBOCK, CITY OF | 48303C0295D | 03-JAN-2003 | 03-06-513A | 02
06 | TX | LUBBOCK, CITY OF | 48303C0295D | 02-JAN-2003 | 03-06-518A | 02
06 | TX | LUBBOCK, CITY OF | 48303C0295D | 03-JAN-2003 | 03-06-531A | 02
06 | TX | LUBBOCK, CITY OF | 48303C0295D | 08-JAN-2003 | 03-06-532A | 02
06 | TX | LUBBOCK, CITY OF | 48303C0290D | 08-JAN-2003 | 03-06-536A | 02
06 | TX | LUBBOCK, CITY OF | 48303C0295D | 26-FEB-2003 | 03-06-573A | 02
06 | TX | LUBBOCK, CITY OF | 48303C0295D | 17-JAN-2003 | 03-06-615A | 02
06 | TX | LUBBOCK, CITY OF | 48303C0295D | 15-JAN-2003 | 03-06-623A | 02
06 | TX | LUBBOCK, CITY OF | 48303C0290D | 15-JAN-2003 | 03-06-631A | 02
06 | TX | LUBBOCK, CITY OF | 48303C0295D | 15-JAN-2003 | 03-06-632A | 02
06 | TX | LUBBOCK, CITY OF | 48303C0290D | 22-JAN-2003 | 03-06-635A | 02
06 | TX | LUBBOCK, CITY OF | 48303C0295D | 31-JAN-2003 | 03-06-641A | 02
06 | TX | LUBBOCK, CITY OF | 48303C0295D | 15-JAN-2003 | 03-06-645A | 02
06 | TX | LUBBOCK, CITY OF | 48303C0290D | 17-JAN-2003 | 03-06-647A | 02
06 | TX | LUBBOCK, CITY OF | 48303C0295D | 17-JAN-2003 | 03-06-654A | 02
06 | TX | LUBBOCK, CITY OF | 48303C0295D | 22-JAN-2003 | 03-06-659A | 02
06 | TX | LUBBOCK, CITY OF | 48303C0295D | 17-JAN-2003 | 03-06-660A | 02
06 | TX | LUBBOCK, CITY OF | 48303C0295D | 26-FEB-2003 | 03-06-670A | 02
06 | TX | LUBBOCK, CITY OF | 48303C0280D | 17-JAN-2003 | 03-06-675A | 02
06 | TX | LUBBOCK, CITY OF | 48303C0315D | 24-JAN-2003 | 03-06-708A | 02
06 | TX | LUBBOCK, CITY OF | 48303C0315D | 22-JAN-2003 | 03-06-712A | 02
06 | TX | LUBBOCK, CITY OF | 48303C0285D | 05-FEB-2003 | 03-06-783A | 02
06 | TX | LUBBOCK, CITY OF | 48303C0295D | 21-FEB-2003 | 03-06-784A | 02
06 | TX | LUBBOCK, CITY OF | 48303C0290D | 12-FEB-2003 | 03-06-796A | 02
06 | TX | LUBBOCK, CITY OF | 48303C0295D | 12-FEB-2003 | 03-06-811A | 02
06 | TX | LUBBOCK, CITY OF | 48303C0295D | 21-FEB-2003 | 03-06-881A | 02
06 | TX | LUBBOCK, CITY OF | 48303C0305D | 21-FEB-2003 | 03-06-887A | 02
06 | TX | LUBBOCK, CITY OF | 48303C0295D | 26-FEB-2003 | 03-06-894A | 02
06 | TX | LUBBOCK, CITY OF | 48303C0290D | 05-MAR-2003 | 03-06-935A | 02
06 | TX | LUBBOCK, CITY OF | 48303C0285D | 28-FEB-2003 | 03-06-946A | 02
06 | TX | LUBBOCK, CITY OF | 48303C0290D | 19-MAR-2003 | 03-06-958A | 02
06 | TX | LUBBOCK, CITY OF | 48303C0290D | 05-MAR-2003 | 03-06-960A | 02
06 | TX | LUBBOCK, CITY OF | 48303C0290D | 12-MAR-2003 | 03-06-961A | 02
06 | TX | LUBBOCK, CITY OF | 48303C0295D | 07-MAR-2003 | 03-06-963A | 02
06 | TX | LUBBOCK, CITY OF | 48303C0295D | 05-MAR-2003 | 03-06-968A | 02
06 | TX | LUBBOCK, CITY OF | 48303C0290D | 12-MAR-2003 | 03-06-974A | 02
06 | TX | MANSFIELD, CITY OF | 48439C0560H | 04-JUN-2003 | 03-06-1183A | 01
06 | TX | MANSFIELD, CITY OF | 48439C0560H | 13-JUN-2003 | 03-06-1658A | 01
06 | TX | MCKINNEY, CITY OF | 48085C0280G | 30-APR-2003 | 03-06-1294A | 01
06 | TX | MCKINNEY, CITY OF | 48085C0290G | 30-APR-2003 | 03-06-1294A | 01
06 | TX | MCKINNEY, CITY OF | 48085C0305G | 19-MAR-2003 | 03-06-965A | 02
06 | TX | MCLENDON-CHISHOLM, CITY OF | 480546—01A | 16-MAY-2003 | 03-06-1075A | 02
06 | TX | MCLENDON-CHISHOLM, CITY OF | 48054601A | 14-FEB-2003 | 03-06-547A | 02
06 | TX | MCLENNAN COUNTY | 4804560050B | 23-APR-2003 | 03-06-1136A | 02
06 | TX | MEDINA COUNTY | 4804720100B | 25-JUN-2003 | 03-06-1826A | 02
06 | TX | MESQUITE, CITY OF | 48113C0360K | 13-MAR-2003 | 02-06-1259P | 05
06 | TX | MESQUITE, CITY OF | 48113C0370J | 26-MAR-2003 | 03-06-1160A | 02
06 | TX | MESQUITE, CITY OF | 48113C0390J | 02-MAY-2003 | 03-06-682P | 05
06 | TX | MIDLAND, CITY OF | 48329C0088E | 19-MAR-2003 | 03-06-1094A | 02
06 | TX | MIDLAND, CITY OF | 48329C0087E | 28-MAR-2003 | 03-06-1229A | 02
06 | TX | MIDLAND, CITY OF | 48329C0067E | 09-APR-2003 | 03-06-1308A | 02
06 | TX | MIDLAND, CITY OF | 48329C0088E | 21-MAY-2003 | 03-06-1409A | 01
06 | TX | MIDLAND, CITY OF | 48329C0068E | 28-MAY-2003 | 03-06-1520A | 01
06 | TX | MIDLAND, CITY OF | 48329C0088E | 13-JUN-2003 | 03-06-1797A | 02
06 | TX | MIDLAND, CITY OF | 48329C0087E | 11-JUN-2003 | 03-06-1839A | 02
06 | TX | MIDLAND, CITY OF | 48329C0088E | 18-JUN-2003 | 03-06-1871A | 02
06 | TX | MIDLAND, CITY OF | 48329C0088E | 18-JUN-2003 | 03-06-1873A | 02
06 | TX | MIDLAND, CITY OF | 48329C0086E | 18-JUN-2003 | 03-06-1899A | 02
06 | TX | MIDLAND, CITY OF | 48329C0089E | 05-FEB-2003 | 03-06-399A | 02
06 | TX | MIDLAND, CITY OF | 48329C0087E | 02-JAN-2003 | 03-06-522A | 02
06 | TX | MIDLAND, CITY OF | 48329C0088E | 22-JAN-2003 | 03-06-740A | 02
06 | TX | MIDLAND, CITY OF | 48329C0089E | 19-MAR-2003 | 03-06-950A | 02
06 | TX | MIDLAND, CITY OF | 48329C0086E | 12-MAR-2003 | 03-06-955A | 01
06 | TX | MIDLOTHIAN, CITY OF | 48139C0090D | 25-JUN-2003 | 03-06-1266A | 01
06 | TX | MISSOURI CITY, CITY OF | 48157C0255J | 12-MAR-2003 | 03-06-721A | 17
06 | TX | MONTAGUE COUNTY | 48337C0260C | 23-MAY-2003 | 03-06-1611A | 02
06 | TX | MONTGOMERY COUNTY | 48339C0515F | 21-MAY-2003 | 02-06-1250A | 02
06 | TX | MONTGOMERY COUNTY | 48339C0555F | 09-APR-2003 | 03-06-1155A | 02
06 | TX | MONTGOMERY COUNTY | 48339C0539G | 18-APR-2003 | 03-06-1261A | 02
06 | TX | MONTGOMERY COUNTY | 48339C0539G | 26-FEB-2003 | 03-06-872A | 02
06 | TX | MONTGOMERY COUNTY | 48339C0539G | 07-MAR-2003 | 03-06-924A | 02
06 | TX | NACOGDOCHES COUNTY | 4809470012A | 05-MAR-2003 | 03-06-937A | 02
06 | TX | NEW BRAUNFELS, CITY OF | 4854630125C | 07-MAY-2003 | 03-06-1362A | 02
06 | TX | NORTH RICHLAND HILLS, CITY OF | 48439C0302J | 18-MAR-2003 | 01-06-1464P | 05
06 | TX | ODESSA, CITY OF | 48135C0170D | 18-JUN-2003 | 03-06-1702A | 01
06 | TX | ODESSA, CITY OF | 48135C0135D | 25-JUN-2003 | 03-06-1827A | 02
06 | TX | ODESSA, CITY OF | 48135C0170D | 07-MAR-2003 | 03-06-745A | 01
06 | TX | ODESSA, CITY OF | 48135C0135D | 12-MAR-2003 | 03-06-979A | 02
06 | TX | PARIS, CITY OF | 4804270004B | 05-FEB-2003 | 03-06-038A | 01
06 | TX | PASADENA, CITY OF | 48201C0940J | 11-JUN-2003 | 03-06-1330A | 01
06 | TX | PEARLAND, CITY OF | 48039C0010I | 08-JAN-2003 | 03-06-368A | 01
06 | TX | PFLUGERVILLE, CITY OF | 48453C0075E | 20-MAY-2003 | 02-06-2052P | 06
06 | TX | PLANO, CITY OF | 48121C0578E | 11-FEB-2003 | 02-06-1255P | 08
06 | TX | PLANO, CITY OF | 48085C0410G | 19-FEB-2003 | 02-06-536P | 05
06 | TX | PLANO, CITY OF | 48085C0420G | 12-MAR-2003 | 02-06-992P | 05
06 | TX | PLANO, CITY OF | 48085C0430G | 11-APR-2003 | 03-06-1059A | 02
06 | TX | PLANO, CITY OF | 48085C0445G | 11-APR-2003 | 03-06-1263A | 02
06 | TX | PLANO, CITY OF | 48085C0445G | 18-APR-2003 | 03-06-1267A | 02
06 | TX | PLANO, CITY OF | 48085C0430G | 14-MAY-2003 | 03-06-1565A | 02
06 | TX | PLANO, CITY OF | 48085C0420G | 16-MAY-2003 | 03-06-1610A | 02
06 | TX | PLANO, CITY OF | 48085C0440G | 25-JUN-2003 | 03-06-1818A | 17
06 | TX | PLANO, CITY OF | 48085C0440G | 25-APR-2003 | 03-06-629A | 01
06 | TX | PLANO, CITY OF | 48085C0440G | 12-MAR-2003 | 03-06-779A | 17
06 | TX | PLANO, CITY OF | 48085C0445G | 05-FEB-2003 | 03-06-792A | 01
06 | TX | PLANO, CITY OF | 48085C0445G | 19-MAR-2003 | 03-06-852A | 02
06 | TX | POLK COUNTY | 4805260006B | 02-APR-2003 | 03-06-1193A | 02
06 | TX | RICHARDSON, CITY OF | 48113C0205J | 16-MAY-2003 | 03-06-1650A | 02
06 | TX | RICHARDSON, CITY OF | 48113C0205J | 22-JAN-2003 | 03-06-254A | 17
06 | TX | RICHARDSON, CITY OF | 48113C0205J | 14-FEB-2003 | 03-06-868A | 02
06 | TX | RICHLAND HILLS, CITY OF | 48439C0311J | 26-FEB-2003 | 03-06-901A | 02
06 | TX | ROANOKE, CITY OF | 48121C0515F | 09-JAN-2003 | 02-06-1949P | 06
06 | TX | ROANOKE, CITY OF | 48121C0655E | 13-MAY-2003 | 03-06-1381P | 06
06 | TX | ROCKWALL COUNTY | 4805430150B | 07-APR-2003 | 02-06-2579P | 06
06 | TX | ROCKWALL COUNTY | 4805430075B | 28-FEB-2003 | 03-06-751A | 02
06 | TX | ROCKWALL COUNTY | 48231C0240E | 28-FEB-2003 | 03-06-751A | 02
06 | TX | ROCKWALL, CITY OF | 4805470005C | 22-JAN-2003 | 02-06-2578A | 01
06 | TX | ROCKWALL, CITY OF | 4805470005C | 15-JAN-2003 | 03-06-515A | 17
06 | TX | ROUND ROCK, CITY OF | 48491C0240C | 18-FEB-2003 | 02-06-1948P | 06
06 | TX | ROUND ROCK, CITY OF | 48491C0330D | 28-FEB-2003 | 03-06-586A | 01
06 | TX | ROUND ROCK, CITY OF | 48491C0240C | 02-APR-2003 | 03-06-679P | 05
06 | TX | ROUND ROCK, CITY OF | 48491C0330D | 02-APR-2003 | 03-06-679P | 05
06 | TX | ROYSE CITY, CITY OF | 4805480001B | 06-JUN-2003 | 03-06-1464A | 02
06 | TX | SACHSE, CITY OF | 48113C0230J | 05-FEB-2003 | 03-06-726A | 17
06 | TX | SAN ANGELO, CITY OF | 4806230015D | 04-JUN-2003 | 03-06-1332A | 02
06 | TX | SAN ANTONIO, CITY OF | 48029C0120F | 14-JAN-2003 | 01-06-1534P | 06
06 | TX | SAN ANTONIO, CITY OF | 48029C0263F | 19-FEB-2003 | 02-06-1072P | 05
06 | TX | SAN ANTONIO, CITY OF | 48029C0313E | 17-FEB-2003 | 02-06-1266P | 06
06 | TX | SAN ANTONIO, CITY OF | 48029C0476E | 17-FEB-2003 | 02-06-1266P | 06
06 | TX | SAN ANTONIO, CITY OF | 48029C0277F | 29-JAN-2003 | 02-06-1679P | 05
06 | TX | SAN ANTONIO, CITY OF | 48029C0303E | 03-MAR-2003 | 02-06-1686P | 06
06 | TX | SAN ANTONIO, CITY OF | 48029C0311E | 03-MAR-2003 | 02-06-1686P | 06
06 | TX | SAN ANTONIO, CITY OF | 48029C0294F | 12-MAR-2003 | 02-06-1707P | 05
06 | TX | SAN ANTONIO, CITY OF | 48029C0294F | 02-MAY-2003 | 02-06-1947P | 05
06 | TX | SAN ANTONIO, CITY OF | 48029C0457E | 02-MAY-2003 | 02-06-1947P | 05
06 | TX | SAN ANTONIO, CITY OF | 48029C0402F | 08-MAY-2003 | 02-06-2307P | 05
06 | TX | SAN ANTONIO, CITY OF | 48029C0406F | 08-MAY-2003 | 02-06-2307P | 05
06 | TX | SAN ANTONIO, CITY OF | 48029C0407F | 08-MAY-2003 | 02-06-2307P | 05
06 | TX | SAN ANTONIO, CITY OF | 48029C0408E | 06-MAR-2003 | 02-06-2426P | 06
06 | TX | SAN ANTONIO, CITY OF | 48029C0257F | 08-JAN-2003 | 02-06-2469A | 02
06 | TX | SAN ANTONIO, CITY OF | 48029C0243F | 14-MAY-2003 | 03-06-1073A | 02
06 | TX | SAN ANTONIO, CITY OF | 48029C0140F | 19-MAR-2003 | 03-06-1099A | 02
06 | TX | SAN ANTONIO, CITY OF | 48029C0417F | 16-MAY-2003 | 03-06-1327A | 02
06 | TX | SAN ANTONIO, CITY OF | 48029C0266F | 07-MAY-2003 | 03-06-1468A | 02
06 | TX | SAN ANTONIO, CITY OF | 48029C0405F | 25-JUN-2003 | 03-06-1640A | 02
06 | TX | SAN ANTONIO, CITY OF | 48029C0243F | 06-JUN-2003 | 03-06-1757A | 02
06 | TX | SAN ANTONIO, CITY OF | 48029C0140F | 20-JUN-2003 | 03-06-1772A | 02
06 | TX | SAN ANTONIO, CITY OF | 48029C0140F | 06-FEB-2003 | 03-06-180P | 06
06 | TX | SAN ANTONIO, CITY OF | 48029C0476E | 28-APR-2003 | 03-06-419P | 06
06 | TX | SAN ANTONIO, CITY OF | 48029C0251F | 03-FEB-2003 | 03-06-428P | 06
06 | TX | SAN ANTONIO, CITY OF | 48029C0241F | 06-MAR-2003 | 03-06-432P | 06
06 | TX | SAN ANTONIO, CITY OF | 48029C0232F | 17-MAR-2003 | 03-06-450P | 06
06 | TX | SAN ANTONIO, CITY OF | 48029C0263F | 26-FEB-2003 | 03-06-750A | 02
06 | TX | SAN ANTONIO, CITY OF | 48029C0259F | 26-FEB-2003 | 03-06-820A | 02
06 | TX | SAN ANTONIO, CITY OF | 48029C0115E | 28-FEB-2003 | 03-06-917A | 02
06 | TX | SAN ANTONIO, CITY OF | 48029C0243F | 26-MAR-2003 | 03-06-933A | 02
06 | TX | SAN ANTONIO, CITY OF | 48029C0406F | 14-MAY-2003 | 03-06-951A | 02
06 | TX | SAN ANTONIO, CITY OF | 48029C0257F | 21-MAR-2003 | 03-06-959A | 02
06 | TX | SAN ANTONIO, CITY OF | 48029C0291F | 21-MAY-2003 | 03-06-981A | 01
06 | TX | SEAGOVILLE, CITY OF | 48113C0545J | 26-MAR-2003 | 03-06-889A | 02
06 | TX | SELMA, CITY OF | 48029C0308E | 21-MAR-2003 | 02-06-1684P | 05
06 | TX | SELMA, CITY OF | 48029C0304E | 01-MAY-2003 | 02-06-1838P | 05
06 | TX | SELMA, CITY OF | 48029C0308E | 01-MAY-2003 | 02-06-1838P | 05
06 | TX | SHAVANO PARK, CITY OF | 48029C0252F | 21-JAN-2003 | 02-06-2309P | 05
06 | TX | SHAVANO PARK, CITY OF | 48029C0254F | 21-JAN-2003 | 02-06-2309P | 05
06 | TX | SHAVANO PARK, CITY OF | 48029C0258F | 07-MAY-2003 | 03-06-1476A | 02
06 | TX | SIMONTON, VILLAGE OF | 48157C0075J | 14-MAR-2003 | 02-06-2023A | 01
06 | TX | SMITH COUNTY | 4811850250B | 10-JAN-2003 | 03-06-336A | 02
06 | TX | SMITH COUNTY | 4811850250B | 14-FEB-2003 | 03-06-856A | 02
06 | TX | SMITH COUNTY | 4811850250B | 09-MAY-2003 | 03-06-943A | 02
06 | TX | SOUTH LAKE, CITY OF | 48439C0180H | 23-MAY-2003 | 03-06-1751A | 02
06 | TX | SOUTH LAKE, CITY OF | 48439C0190H | 23-MAY-2003 | 03-06-1751A | 02
06 | TX | SOUTH LAKE, CITY OF | 48439C0185H | 26-MAR-2003 | 03-06-611A | 01
06 | TX | SPRINGTOWN, CITY OF | 4805210005B | 23-APR-2003 | 03-06-1268A | 02
06 | TX | STEPHENS COUNTY | 48429C0075C | 30-MAY-2003 | 03-06-1506A | 02
06 | TX | SUNNYVALE, TOWN OF | 48113C0395J | 28-MAR-2003 | 03-06-1027A | 02
06 | TX | TARRANT COUNTY | 48439C0140H | 21-MAY-2003 | 03-06-1091A | 02
06 | TX | TARRANT COUNTY | 48439C0232H | 25-APR-2003 | 03-06-1436A | 02
06 | TX | TEMPLE, CITY OF | 4800340004C | 19-MAR-2003 | 02-06-590P | 05
06 | TX | TEMPLE, CITY OF | 4807060155B | 19-MAR-2003 | 02-06-590P | 05
06 | TX | TEMPLE, CITY OF | 4807060160B | 19-MAR-2003 | 02-06-590P | 05
06 | TX | TITUS COUNTY | 481023—23A | 08-JAN-2003 | 03-06-366A | 02
06 | TX | TRAVIS COUNTY | 48453C0260F | 11-APR-2003 | 03-06-1307A | 02
06 | TX | TRAVIS COUNTY | 48453C0110E | 15-JAN-2003 | 03-06-354A | 02
06 | TX | TRAVIS COUNTY | 48453C0110E | 29-JAN-2003 | 03-06-614A | 02
06 | TX | TYLER, CITY OF | 4805710013B | 16-MAY-2003 | 03-06-1115A | 02
06 | TX | UNIVERSAL CITY, CITY OF | 48029C0316E | 27-JUN-2003 | 03-06-1632A | 01
06 | TX | VERNON, CITY OF | 4816520005B | 21-MAR-2003 | 03-06-1089A | 02
06 | TX | VICTORIA, CITY OF | 4806380005G | 06-JUN-2003 | 03-06-1706A | 02
06 | TX | WALKER COUNTY | 4810420007C | 14-MAY-2003 | 03-06-1342A | 02
06 | TX | WALKER COUNTY | 4810420009C | 12-MAR-2003 | 03-06-813A | 02
06 | TX | WASHINGTON COUNTY | 4811880006A | 14-FEB-2003 | 03-06-668A | 02
06 | TX | WATAUGA, CITY OF | 48439C0282H | 10-MAR-2003 | 02-06-263P | 05
06 | TX | WEATHERFORD, CITY OF | 4805220010C | 21-MAY-2003 | 03-06-1173A | 02
06 | TX | WHITEHOUSE, CITY OF | 4811850355B | 31-JAN-2003 | 03-06-661A | 02
06 | TX | WILLIAMSON COUNTY | 48491C0240C | 27-JAN-2003 | 02-06-1945P | 06
06 | TX | WILLIAMSON COUNTY | 48491C0218C | 13-MAR-2003 | 02-06-938P | 05
06 | TX | WILLIAMSON COUNTY | 48491C0115C | 26-MAR-2003 | 03-06-1163A | 02
06 | TX | WILLIAMSON COUNTY | 48491C0125C | 15-JAN-2003 | 03-06-302A | 02
06 | TX | WILLIAMSON COUNTY | 48491C0100C | 13-JUN-2003 | 03-06-514A | 02
06 | TX | WILLIAMSON COUNTY | 48491C0115C | 24-JAN-2003 | 03-06-731A | 17
06 | TX | WISE COUNTY | 48497C0100C | 09-APR-2003 | 03-06-1175A | 02
06 | TX | WOLFFORTH, CITY OF | 48303C0400D | 23-MAY-2003 | 03-06-1256A | 02
07 | IA | AMES, CITY OF | 1902540005B | 23-MAY-2003 | 03-07-539A | 01
07 | IA | AMES, CITY OF | 1902540008C | 04-APR-2003 | 03-07-610A | 01
07 | IA | ANKENY, CITY OF | 1902260003C | 17-JAN-2003 | 03-07-074A | 02
07 | IA | ANKENY, CITY OF | 1902260001B | 22-JAN-2003 | 03-07-175A | 01
07 | IA | ANKENY, CITY OF | 1902260003C | 11-APR-2003 | 03-07-662A | 02
07 | IA | ANKENY, CITY OF | 1902260001B | 07-MAY-2003 | 03-07-811X | 17
07 | IA | BENTON COUNTY | 1908450005A | 10-JAN-2003 | 03-07-248A | 02
07 | IA | BETTENDORF, CITY OF | 1902400005E | 25-JUN-2003 | 03-07-1028A | 01
07 | IA | BETTENDORF, CITY OF | 1902400005E | 11-APR-2003 | 03-07-401A | 02
07 | IA | BETTENDORF, CITY OF | 1902400005E | 20-JUN-2003 | 03-07-969A | 02
07 | IA | BLACK HAWK COUNTY | 1905350095B | 03-JAN-2003 | 03-07-257A | 02
07 | IA | BLACK HAWK COUNTY | 1905350045B | 07-MAY-2003 | 03-07-678A | 17
07 | IA | BONDURANT, CITY OF | 190707—01A | 25-APR-2003 | 03-07-654A | 02
07 | IA | BUCHANAN COUNTY | 1908480025C | 25-JUN-2003 | 03-07-1002A | 02
07 | IA | BUTLER COUNTY | 1908500100B | 23-APR-2003 | 03-07-741A | 02
07 | IA | CEDAR FALLS, CITY OF | 1900170002B | 18-JUN-2003 | 03-07-1046A | 02
07 | IA | CEDAR FALLS, CITY OF | 1900170006B | 24-JAN-2003 | 03-07-216A | 01
07 | IA | CEDAR FALLS, CITY OF | 1900170004B | 14-MAR-2003 | 03-07-362A | 01
07 | IA | CEDAR FALLS, CITY OF | 1900170004B | 26-FEB-2003 | 03-07-400A | 01
07 | IA | CEDAR FALLS, CITY OF | 1900170006B | 14-FEB-2003 | 03-07-452X | 01
07 | IA | CEDAR RAPIDS, CITY OF | 1901870020B | 14-MAR-2003 | 03-07-353A | 02
07 | IA | CEDAR RAPIDS, CITY OF | 1901870010B | 07-MAR-2003 | 03-07-526A | 02
07 | IA | CLAYTON COUNTY | 1908580006B | 22-JAN-2003 | 03-07-033A | 02
07 | IA | CLEAR LAKE, CITY OF | 1900590001B | 15-JAN-2003 | 03-07-298A | 02
07 | IA | CLEAR LAKE, CITY OF | 1900590003B | 22-JAN-2003 | 03-07-331A | 02
07 | IA | CLEAR LAKE, CITY OF | 1900590001B | 19-FEB-2003 | 03-07-406A | 02
07 | IA | CLEAR LAKE, CITY OF | 1900590001B | 23-APR-2003 | 03-07-575A | 02
07 | IA | CLEAR LAKE, CITY OF | 1900590003B | 25-APR-2003 | 03-07-611A | 02
07 | IA | CLEAR LAKE, CITY OF | 1900590003B | 18-APR-2003 | 03-07-770A | 02
07 | IA | CLIVE, CITY OF | 1904880005C | 21-FEB-2003 | 03-07-235A | 02
07 | IA | CLIVE, CITY OF | 1904880005C | 21-FEB-2003 | 03-07-309A | 02
07 | IA | CLIVE, CITY OF | 1904880005C | 10-FEB-2003 | 03-07-339A | 02
07 | IA | CLIVE, CITY OF | 1904880005C | 28-MAY-2003 | 03-07-368A | 01
07 | IA | CLIVE, CITY OF | 1904880005C | 21-FEB-2003 | 03-07-369A | 01
07 | IA | CLIVE, CITY OF | 1904880005C | 19-MAR-2003 | 03-07-566A | 02
07 | IA | CORALVILLE, CITY OF | 19103C0070D | 26-FEB-2003 | 03-07-439A | 01
07 | IA | CORALVILLE, CITY OF | 19103C0090D | 26-FEB-2003 | 03-07-439A | 01
07 | IA | CORALVILLE, CITY OF | 19103C0090D | 11-JUN-2003 | 03-07-648A | 01
07 | IA | COUNCIL BLUFFS, CITY OF | 1902350005D | 08-JAN-2003 | 03-07-178A | 02
07 | IA | COUNCIL BLUFFS, CITY OF | 1902350010C | 02-MAY-2003 | 03-07-333A | 01
07 | IA | COUNCIL BLUFFS, CITY OF | 1902350010C | 18-APR-2003 | 03-07-624A | 02
07 | IA | COUNCIL BLUFFS, CITY OF | 1902350010C | 11-JUN-2003 | 03-07-919A | 02
07 | IA | DALLAS COUNTY | 19049C0140D | 16-APR-2003 | 03-07-707A | 02
07 | IA | DALLAS COUNTY | 19049C0140D | 30-APR-2003 | 03-07-825X | 02
07 | IA | DAVENPORT, CITY OF | 1902420005B | 02-APR-2003 | 03-07-198A | 02
07 | IA | DAVENPORT, CITY OF | 1902420002B | 29-JAN-2003 | 03-07-317A | 02
07 | IA | DAVENPORT, CITY OF | 1902420006B | 14-MAR-2003 | 03-07-335A | 02
07 | IA | DAVENPORT, CITY OF | 1902420002B | 25-JUN-2003 | 03-07-530A | 01
07 | IA | DAVENPORT, CITY OF | 1902420004C | 14-MAY-2003 | 03-07-748A | 02
07 | IA | DAVENPORT, CITY OF | 1902420005B | 21-MAY-2003 | 03-07-844A | 02
07 | IA | DAVENPORT, CITY OF | 1902420004C | 18-JUN-2003 | 03-07-875A | 02
07 | IA | DES MOINES, CITY OF | 1902270004D | 21-FEB-2003 | 03-07-413A | 01
07 | IA | DES MOINES, CITY OF | 1902270004D | 25-JUN-2003 | 03-07-977A | 01
07 | IA | DICKINSON COUNTY | 1908640050C | 29-JAN-2003 | 03-07-310A | 02
07 | IA | DICKINSON COUNTY | 1908640050C | 15-JAN-2003 | 03-07-325A | 02
07 | IA | DICKINSON COUNTY | 1908640050C | 19-MAR-2003 | 03-07-641X | 02
07 | IA | DICKINSON COUNTY | 1908640100C | 16-APR-2003 | 03-07-715A | 02
07 | IA | DICKINSON COUNTY | 1908640050C | 23-APR-2003 | 03-07-796A | 02
07 | IA | FOREST CITY, CITY OF | 1902830005C | 21-MAY-2003 | 03-07-666A | 01
07 | IA | GRIMES, CITY OF | 1902280001B | 28-FEB-2003 | 03-07-460A | 02
07 | IA | GRUNDY CENTER, CITY OF | 190403—01A | 28-FEB-2003 | 03-07-427A | 02
07 | IA | HARRISON COUNTY | 1901430200A | 04-APR-2003 | 03-07-593A | 02
07 | IA | HORNICK, CITY OF | 190291—01A | 07-MAR-2003 | 03-07-533A | 02
07 | IA | HUMBOLDT, CITY OF | 1901550005B | 16-APR-2003 | 03-07-750A | 02
07 | IA | HUMBOLDT, CITY OF | 1901550005B | 09-MAY-2003 | 03-07-761A | 02
07 | IA | HUMBOLDT, CITY OF | 1901550005B | 14-MAY-2003 | 03-07-764A | 02
07 | IA | HUMBOLDT, CITY OF | 1901550005B | 13-JUN-2003 | 03-07-863A | 02
07 | IA | IOWA CITY, CITY OF | 19103C0090D | 02-APR-2003 | 03-07-713A | 02
07 | IA | IOWA CITY, CITY OF | 19103C0090D | 02-APR-2003 | 03-07-716A | 02
07 | IA | JOHNSON COUNTY | 19103C0125D | 16-APR-2003 | 03-07-744A | 02
07 | IA | JOHNSON COUNTY | 19103C0053D | 04-JUN-2003 | 03-07-958A | 02
07 | IA | LINN COUNTY | 1908290070B | 27-JUN-2003 | 03-07-1000A | 02
07 | IA | MARENGO, CITY OF | 1901570001D | 23-APR-2003 | 03-07-709A | 02
07 | IA | MARION, CITY OF | 1901910002B | 25-APR-2003 | 03-07-597A | 01
07 | IA | MARION, CITY OF | 1901910005B | 11-JUN-2003 | 03-07-837A | 02
07 | IA | MARSHALL COUNTY | 1908900160B | 23-MAY-2003 | 03-07-950A | 02
07 | IA | MARSHALLTOWN, CITY OF | 1902000002B | 24-JAN-2003 | 03-07-393A | 02
07 | IA | MARTENSDALE, CITY OF | 19181C0054D | 02-JAN-2003 | 03-07-193A | 02
07 | IA | MASON CITY, CITY OF | 1900600005B | 14-MAY-2003 | 03-07-820A | 01
07 | IA | MONONA COUNTY | 19133C0025C | 13-JUN-2003 | 03-07-756A | 17
07 | IA | MUSCATINE COUNTY | 1908360225B | 13-JUN-2003 | 03-07-1026A | 02
07 | IA | MUSCATINE COUNTY | 1908360175B | 02-APR-2003 | 03-07-524A | 02
07 | IA | NEWTON, CITY OF | 1906280005A | 23-APR-2003 | 03-07-394A | 02
07 | IA | NORTH LIBERTY, CITY OF | 19103C0060D | 31-JAN-2003 | 03-07-327A | 01
07 | IA | NORTH LIBERTY, CITY OF | 19103C0060D | 25-APR-2003 | 03-07-751A | 01
07 | IA | NORTH LIBERTY, CITY OF | 19103C0080D | 25-APR-2003 | 03-07-751A | 01
07 | IA | NORWALK, CITY OF | 19181C0010D | 16-MAY-2003 | 03-07-905A | 02
07 | IA | OXFORD, CITY OF | 19103C0053D | 08-JAN-2003 | 03-07-258A | 02
07 | IA | POLK COUNTY | 1909010085D | 30-APR-2003 | 03-07-145A | 01
07 | IA | POLK COUNTY | 1909010110C | 23-APR-2003 | 03-07-552A | 02
07 | IA | POLK COUNTY | 1909010200C | 30-MAY-2003 | 03-07-865A | 02
07 | IA | POLK COUNTY | 1909010200C | 04-JUN-2003 | 03-07-953A | 02
07 | IA | PRINCETON, CITY OF | 1902440002B | 04-APR-2003 | 03-07-649A | 02
07 | IA | RED OAK, CITY OF | 1902100002C | 21-MAR-2003 | 03-07-647A | 02
07 | IA | ROBINS, CITY OF | 1904430002A | 28-MAR-2003 | 03-07-529A | 02
07 | IA | RUNNELLS, CITY OF | 190800—01A | 19-MAR-2003 | 03-07-232A | 02
07 | IA | RUNNELLS, CITY OF | 190800—01A | 16-MAY-2003 | 03-07-616A | 02
07 | IA | SPENCER, CITY OF | 1900710005B | 13-JUN-2003 | 03-07-1017A | 02
07 | IA | SPENCER, CITY OF | 1900710005B | 25-JUN-2003 | 03-07-1061A | 02
07 | IA | SPENCER, CITY OF | 1900710005B | 20-JUN-2003 | 03-07-1062A | 02
07 | IA | SPENCER, CITY OF | 1900710005B | 23-APR-2003 | 03-07-785A | 02
07 | IA | SPENCER, CITY OF | 1900710005B | 25-APR-2003 | 03-07-786A | 02
07 | IA | STORY COUNTY | 1909070065B | 10-FEB-2003 | 03-07-211A | 17
07 | IA | STORY COUNTY | 1909070050B | 23-MAY-2003 | 03-07-328A | 02
07 | IA | URBANDALE, CITY OF | 1902300010D | 30-APR-2003 | 03-07-535A | 01
07 | IA | VOLGA, CITY OF | 190085—01B | 04-JUN-2003 | 03-07-956A | 02
07 | IA | WAPELLO COUNTY | 1909110002B | 04-APR-2003 | 03-07-430A | 02
07 | IA | WARREN COUNTY | 19181C0040D | 27-JUN-2003 | 03-07-687A | 02
07 | IA | WARREN COUNTY | 19181C0015D | 25-APR-2003 | 03-07-705A | 02
07 | IA | WATERLOO, CITY OF | 1900250015E | 12-FEB-2003 | 03-07-274A | 02
07 | IA | WATERLOO, CITY OF | 1900250005E | 21-MAY-2003 | 03-07-312A | 01
07 | IA | WATERLOO, CITY OF | 1900250015E | 19-MAR-2003 | 03-07-579A | 02
07 | IA | WATERLOO, CITY OF | 1900250015E | 26-MAR-2003 | 03-07-704A | 02
07 | IA | WATERLOO, CITY OF | 1900250015E | 16-MAY-2003 | 03-07-913A | 02
07 | IA | WATERLOO, CITY OF | 1900250015E | 21-MAY-2003 | 03-07-914A | 02
07 | IA | WATERLOO, CITY OF | 1900250015E | 21-MAY-2003 | 03-07-915A | 02
07 | IA | WATERLOO, CITY OF | 1900250015E | 14-MAY-2003 | 03-07-916A | 02
07 | IA | WATERLOO, CITY OF | 1900250015E | 04-JUN-2003 | 03-07-963A | 02
07 | IA | WAVERLY, CITY OF | 19017C0054C | 10-FEB-2003 | 03-07-391A | 02
07 | IA | WAVERLY, CITY OF | 19017C0054C | 18-APR-2003 | 03-07-762A | 02
07 | IA | WHEATLAND, CITY OF | 190090—01 | 07-MAR-2003 | 03-07-365A | 02
07 | IA | WOODBURY COUNTY | 190536—16B | 07-MAY-2003 | 03-07-534A | 02
07 | KS | ALBERT, CITY OF | 2000170001A | 12-MAR-2003 | 03-07-141A | 01
07 | KS | ALLEN COUNTY | 20001C0100D | 25-JUN-2003 | 03-07-743A | 01
07 | KS | ALTOONA, CITY OF | 200382—01A | 10-FEB-2003 | 03-07-311A | 02
07 | KS | ANDOVER, CITY OF | 2003830230D | 07-MAY-2003 | 03-07-607A | 01
07 | KS | BARTON COUNTY | 2000160365C | 11-APR-2003 | 03-07-373A | 02
07 | KS | BEL AIRE, CITY OF | 2008640005B | 12-MAR-2003 | 03-07-574A | 02
07 | KS | BEL AIRE, CITY OF | 2008640005B | 23-APR-2003 | 03-07-790A | 02
07 | KS | BUTLER COUNTY | 2000370160C | 28-FEB-2003 | 03-07-279A | 02
07 | KS | BUTLER COUNTY | 2000370240C | 02-APR-2003 | 03-07-679A | 02
07 | KS | CHEROKEE COUNTY | 2000440275B | 09-MAY-2003 | 03-07-776A | 02
07 | KS | CLEARWATER, CITY OF | 2004820001A | 18-JUN-2003 | 03-07-1014A | 02
07 | KS | COFFEY COUNTY | 2000620003A | 03-JAN-2003 | 03-07-304A | 02
07 | KS | DICKINSON COUNTY | 20041C0090C | 05-MAR-2003 | 03-07-446A | 02
07 | KS | DOUGLAS COUNTY | 20045C0017C | 28-FEB-2003 | 03-07-354A | 02
07 | KS | DOUGLAS COUNTY | 20045C0060C | 21-FEB-2003 | 03-07-355A | 02
07 | KS | DOUGLAS COUNTY | 20045C0060C | 23-MAY-2003 | 03-07-800A | 01
07 | KS | EL DORADO, CITY OF | 2000390001D | 26-MAR-2003 | 03-07-487A | 02
07 | KS | FAIRWAY, CITY OF | 20091C0094F | 11-JUN-2003 | 03-07-466A | 02
07 | KS | FAIRWAY, CITY OF | 20091C0094F | 18-APR-2003 | 03-07-548A | 02
07 | KS | GALVA, CITY OF | 2004970001A | 12-FEB-2003 | 03-07-434A | 02
07 | KS | GARDEN CITY, CITY OF | 2051860005D | 17-JAN-2003 | 03-07-190A | 02
07 | KS | HALSTEAD, CITY OF | 2001310001D | 21-MAR-2003 | 03-07-454A | 02
07 | KS | HARVEY COUNTY | 2005850025B | 25-JUN-2003 | 03-07-1054A | 02
07 | KS | HARVEY COUNTY | 2005850125D | 12-MAR-2003 | 03-07-594A | 02
07 | KS | HARVEY COUNTY | 2005850125D | 27-JUN-2003 | 03-07-994A | 02
07 | KS | HOLTON, CITY OF | 2001410005D | 11-JUN-2003 | 03-07-826A | 02
07 | KS | JEFFERSON COUNTY | 2001470075B | 22-JAN-2003 | 03-07-061A | 02
07 | KS | JEFFERSON COUNTY | 2001470075B | 09-APR-2003 | 03-07-360A | 02
07 | KS | JOHNSON COUNTY | 20091C0260F | 28-FEB-2003 | 03-07-049A | 02
07 | KS | JOHNSON COUNTY | 20091C0365F | 28-MAY-2003 | 03-07-577A | 02
07 | KS | KANSAS CITY, CITY OF | 2003630005C | 02-MAY-2003 | 03-07-842A | 02
07 | KS | LAWRENCE, CITY OF | 20045C0076C | 15-JAN-2003 | 03-07-239A | 02
07 | KS | LAWRENCE, CITY OF | 20045C0039C | 26-MAR-2003 | 03-07-626A | 02
07 | KS | LAWRENCE, CITY OF | 20045C0036C | 19-MAR-2003 | 03-07-631A | 02
07 | KS | LAWRENCE, CITY OF | 20045C0036C | 28-MAR-2003 | 03-07-632A | 02
07 | KS | LAWRENCE, CITY OF | 20045C0036C | 28-MAR-2003 | 03-07-633A | 02
07 | KS | LAWRENCE, CITY OF | 20045C0019C | 23-MAY-2003 | 03-07-799A | 01
07 | KS | LAWRENCE, CITY OF | 20045C0038C | 23-MAY-2003 | 03-07-799A | 01
07 | KS | LEAWOOD, CITY OF | 20091C0217F | 10-JAN-2003 | 03-07-050A | 02
07 | KS | LEAWOOD, CITY OF | 20091C0219F | 10-JAN-2003 | 03-07-050A | 02
07 | KS | LEAWOOD, CITY OF | 20091C0236F | 10-JAN-2003 | 03-07-050A | 02
07 | KS | LENEXA, CITY OF | 20091C0201F | 15-JAN-2003 | 03-07-341A | 02
07 | KS | LYON COUNTY | 2002010125B | 22-JAN-2003 | 03-07-244A | 02
07 | KS | LYON COUNTY | 2002010150B | 10-FEB-2003 | 03-07-398A | 02
07 | KS | MANHATTAN, CITY OF | 2003000002D | 10-JAN-2003 | 03-07-260A | 17
07 | KS | MANHATTAN, CITY OF | 2003000006D | 18-JUN-2003 | 03-07-959A | 01
07 | KS | MCPHERSON COUNTY | 2002140225B | 12-MAR-2003 | 03-07-569A | 02
07 | KS | MCPHERSON COUNTY | 2002140150B | 21-MAR-2003 | 03-07-629A | 02
07 | KS | MCPHERSON, CITY OF | 2002170015D | 05-FEB-2003 | 03-07-411A | 02
07 | KS | MCPHERSON, CITY OF | 2002170015D | 21-FEB-2003 | 03-07-528A | 02
07 | KS | MCPHERSON, CITY OF | 2002170005D | 26-MAR-2003 | 03-07-636A | 02
07 | KS | MCPHERSON, CITY OF | 2002170015D | 04-APR-2003 | 03-07-734A | 02
07 | KS | MCPHERSON, CITY OF | 2002170015D | 21-MAY-2003 | 03-07-945A | 02
07 | KS | MCPHERSON, CITY OF | 2002170015D | 04-JUN-2003 | 03-07-970A | 02
07 | KS | MCPHERSON, CITY OF | 2002170005D | 25-JUN-2003 | 03-07-989A | 02
07 | KS | MIAMI COUNTY | 200220—06A | 19-MAR-2003 | 03-07-213A | 02
07 | KS | MIAMI COUNTY | 200220—23A | 07-MAR-2003 | 03-07-459A | 02
07 | KS | MIAMI COUNTY | 200220—23A | 28-MAR-2003 | 03-07-685X | 02
07 | KS | MIAMI COUNTY | 200220—06A | 07-MAY-2003 | 03-07-766A | 02
07 | KS | MIAMI COUNTY | 200220—31A | 25-JUN-2003 | 03-07-982A | 02
07 | KS | MULVANE, CITY OF | 2003260005D | 16-APR-2003 | 03-07-719A | 02
07 | KS | NEW CAMBRIA, CITY OF | 2003180001A | 07-MAY-2003 | 03-07-830A | 02
07 | KS | NEWTON, CITY OF | 2001330005C | 20-JUN-2003 | 03-07-1060A | 02
07 | KS | NEWTON, CITY OF | 2001330005C | 15-JAN-2003 | 03-07-246A | 01
07 | KS | NEWTON, CITY OF | 2001330005C | 28-MAR-2003 | 03-07-656A | 02
07 | KS | NEWTON, CITY OF | 2005850125D | 04-APR-2003 | 03-07-723A | 01
07 | KS | NEWTON, CITY OF | 2001330005C | 21-MAY-2003 | 03-07-936A | 02
07 | KS | NICKERSON, CITY OF | 20155C0090D | 30-MAY-2003 | 03-07-869A | 02
07 | KS | OLATHE, CITY OF | 20091C0159F | 29-APR-2003 | 02-07-1011P | 05
07 | KS | OLATHE, CITY OF | 20091C0167F | 29-APR-2003 | 02-07-1011P | 05
07 | KS | OLATHE, CITY OF | 20091C0307F | 10-JAN-2003 | 02-07-1054A | 02
07 | KS | OLATHE, CITY OF | 20091C0326F | 10-JAN-2003 | 02-07-1054A | 02
07 | KS | OLATHE, CITY OF | 20091C0194F | 15-JAN-2003 | 03-07-342A | 02
07 | KS | OLATHE, CITY OF | 20091C0194F | 28-APR-2003 | 03-07-494P | 05
07 | KS | OLATHE, CITY OF | 20091C0306F | 07-MAY-2003 | 03-07-495P | 06
07 | KS | OLATHE, CITY OF | 20091C0310F | 07-MAY-2003 | 03-07-495P | 06
07 | KS | OLATHE, CITY OF | 20091C0306F | 11-APR-2003 | 03-07-570A | 02
07 | KS | OLATHE, CITY OF | 20091C0306F | 09-APR-2003 | 03-07-571A | 02
07 | KS | OLATHE, CITY OF | 20091C0306F | 09-APR-2003 | 03-07-572A | 02
07 | KS | OVERLAND PARK, CITY OF | 20091C0208F | 19-FEB-2003 | 01-07-457P | 05
07 | KS | OVERLAND PARK, CITY OF | 20091C0220F | 19-FEB-2003 | 01-07-457P | 05
07 | KS | OVERLAND PARK, CITY OF | 20091C0206F | 10-JAN-2003 | 03-07-051A | 02
07 | KS | OVERLAND PARK, CITY OF | 20091C0213F | 10-JAN-2003 | 03-07-051A | 02
07 | KS | OVERLAND PARK, CITY OF | 20091C0214F | 10-JAN-2003 | 03-07-051A | 02
07 | KS | OVERLAND PARK, CITY OF | 20091C0218F | 10-JAN-2003 | 03-07-051A | 02
07 | KS | OVERLAND PARK, CITY OF | 20091C0219F | 10-JAN-2003 | 03-07-051A | 02
07 | KS | OVERLAND PARK, CITY OF | 20091C0326F | 10-JAN-2003 | 03-07-051A | 02
07 | KS | OVERLAND PARK, CITY OF | 20091C0327F | 10-JAN-2003 | 03-07-051A | 02
07 | KS | OVERLAND PARK, CITY OF | 20091C0331F | 10-JAN-2003 | 03-07-051A | 02
07 | KS | OVERLAND PARK, CITY OF | 20091C0331F | 11-JUN-2003 | 03-07-1015A | 17
07 | KS | OVERLAND PARK, CITY OF | 20091C0202F | 10-FEB-2003 | 03-07-132A | 02
07 | KS | OVERLAND PARK, CITY OF | 20091C0211F | 08-JAN-2003 | 03-07-219A | 02
07 | KS | OVERLAND PARK, CITY OF | 20091C0332F | 22-JAN-2003 | 03-07-314A | 02
07 | KS | OVERLAND PARK, CITY OF | 20091C0208F | 10-JAN-2003 | 03-07-332A | 02
07 | KS | OVERLAND PARK, CITY OF | 20091C0204F | 23-APR-2003 | 03-07-477P | 05
07 | KS | OVERLAND PARK, CITY OF | 20091C0213F | 21-MAR-2003 | 03-07-545A | 02
07 | KS | OVERLAND PARK, CITY OF | 20091C0214F | 21-MAR-2003 | 03-07-546A | 02
07 | KS | OVERLAND PARK, CITY OF | 20091C0335F | 23-APR-2003 | 03-07-635A | 01
07 | KS | OVERLAND PARK, CITY OF | 20091C0204F | 09-APR-2003 | 03-07-692A | 17
07 | KS | OVERLAND PARK, CITY OF | 20091C0217F | 16-MAY-2003 | 03-07-720A | 01
07 | KS | OVERLAND PARK, CITY OF | 20091C0209F | 07-MAY-2003 | 03-07-827A | 02
07 | KS | OVERLAND PARK, CITY OF | 20091C0335F | 28-MAY-2003 | 03-07-909A | 01
07 | KS | OVERLAND PARK, CITY OF | 20091C0208F | 28-MAY-2003 | 03-07-968A | 02
07 | KS | PARK CITY, CITY OF | 2003210150A | 21-MAR-2003 | 03-07-538A | 01
07 | KS | PARK CITY, CITY OF | 2009630001A | 16-APR-2003 | 03-07-596A | 01
07 | KS | PARK CITY, CITY OF | 2003210150A | 23-APR-2003 | 03-07-657A | 01
07 | KS | PITTSBURG, CITY OF | 2000720005D | 10-FEB-2003 | 02-07-785P | 05
07 | KS | POTTAWATOMIE COUNTY | 2006210260C | 04-APR-2003 | 03-07-484P | 06
07 | KS | POTTAWATOMIE COUNTY | 2006210260C | 21-MAY-2003 | 03-07-935A | 02
07 | KS | PRAIRIE VILLAGE, CITY OF | 20091C0207F | 11-APR-2003 | 03-07-492P | 05
07 | KS | PRAIRIE VILLAGE, CITY OF | 20091C0207F | 12-MAR-2003 | 03-07-598A | 02
07 | KS | PRATT, CITY OF | 2002780020D | 10-JAN-2003 | 03-07-316A | 02
07 | KS | RENO COUNTY | 20155C0090D | 28-FEB-2003 | 03-07-440A | 02
07 | KS | RENO COUNTY | 20155C0455D | 09-MAY-2003 | 03-07-742A | 02
07 | KS | RENO COUNTY | 20155C0253D | 25-APR-2003 | 03-07-760A | 02
07 | KS | RICE COUNTY | 2002900005C | 30-APR-2003 | 03-07-726A | 02
07 | KS | RICE COUNTY | 2002900008C | 27-JUN-2003 | 03-07-995A | 01
07 | KS | RILEY COUNTY | 2002980090B | 04-JUN-2003 | 03-07-097A | 01
07 | KS | RILEY COUNTY | 2002980150B | 12-FEB-2003 | 03-07-435A | 02
07 | KS | ROELAND PARK, CITY OF | 20091C0092F | 26-FEB-2003 | 03-07-320A | 02
07 | KS | ROELAND PARK, CITY OF | 20091C0094F | 16-MAY-2003 | 03-07-806A | 02
07 | KS | SALINA, CITY OF | 2003190015B | 03-JAN-2003 | 02-07-1168A | 02
07 | KS | SALINA, CITY OF | 2003190015B | 18-JUN-2003 | 03-07-1019A | 02
07 | KS | SALINA, CITY OF | 2003190015B | 18-JUN-2003 | 03-07-1021A | 02
07 | KS | SALINA, CITY OF | 2003160060B | 19-MAR-2003 | 03-07-176A | 02
07 | KS | SALINA, CITY OF | 2003190015B | 03-JAN-2003 | 03-07-210A | 02
07 | KS | SALINA, CITY OF | 2003190015B | 03-JAN-2003 | 03-07-278A | 02
07 | KS | SALINA, CITY OF | 2003190015B | 08-JAN-2003 | 03-07-282A | 02
07 | KS | SALINA, CITY OF | 2003190015B | 08-JAN-2003 | 03-07-305A | 02
07 | KS | SALINA, CITY OF | 2003160060B | 29-JAN-2003 | 03-07-343A | 02
07 | KS | SALINA, CITY OF | 2003190005B | 09-APR-2003 | 03-07-386A | 02
07 | KS | SALINA, CITY OF | 2003190015B | 14-FEB-2003 | 03-07-448A | 02
07 | KS | SALINA, CITY OF | 2003190015B | 28-MAR-2003 | 03-07-455A | 02
07 | KS | SALINA, CITY OF | 2003190015B | 28-FEB-2003 | 03-07-543A | 02
07 | KS | SALINA, CITY OF | 2003190015B | 23-MAY-2003 | 03-07-547A | 02
07 | KS | SALINA, CITY OF | 2003190015B | 16-APR-2003 | 03-07-568A | 02
07 | KS | SALINA, CITY OF | 2003190015B | 26-MAR-2003 | 03-07-634A | 02
07 | KS | SALINA, CITY OF | 2003190015B | 16-APR-2003 | 03-07-681A | 02
07 | KS | SALINA, CITY OF | 2003190015B | 04-APR-2003 | 03-07-697A | 02
07 | KS | SALINA, CITY OF | 2003190015B | 02-MAY-2003 | 03-07-730A | 01
07 | KS | SALINA, CITY OF | 2003160060B | 02-MAY-2003 | 03-07-732A | 01
07 | KS | SALINA, CITY OF | 2003190015B | 16-APR-2003 | 03-07-752A | 02
07 | KS | SALINA, CITY OF | 2003190015B | 18-APR-2003 | 03-07-777A | 02
07 | KS | SALINA, CITY OF | 2003190015B | 25-APR-2003 | 03-07-843A | 02
07 | KS | SALINA, CITY OF | 2003190015B | 28-MAY-2003 | 03-07-856A | 02
07 | KS | SALINA, CITY OF | 2003190015B | 23-MAY-2003 | 03-07-873A | 02
07 | KS | SALINA, CITY OF | 2003190015B | 20-JUN-2003 | 03-07-912A | 01
07 | KS | SALINA, CITY OF | 2003190015B | 21-MAY-2003 | 03-07-925A | 02
07 | KS | SALINA, CITY OF | 2003190015B | 04-JUN-2003 | 03-07-926A | 02
07 | KS | SALINA, CITY OF | 2003190015B | 28-MAY-2003 | 03-07-955A | 02
07 | KS | SALINA, CITY OF | 2003190015B | 30-MAY-2003 | 03-07-966A | 02
07 | KS | SALINE COUNTY | 2003160055B | 09-MAY-2003 | 03-07-580A | 08
07 | KS | SEDGWICK COUNTY | 2003210125A | 28-MAR-2003 | 03-07-295A | 02
07 | KS | SEDGWICK COUNTY | 2003210225A | 21-FEB-2003 | 03-07-374A | 02
07 | KS | SEDGWICK COUNTY | 2003210225A | 29-JAN-2003 | 03-07-375A | 02
07 | KS | SEDGWICK COUNTY | 2003210300A | 07-MAY-2003 | 03-07-382A | 01
07 | KS | SEDGWICK COUNTY | 2003210300A | 26-MAR-2003 | 03-07-383A | 02
07 | KS | SEDGWICK COUNTY | 2003210150A | 12-MAR-2003 | 03-07-410A | 02
07 | KS | SEDGWICK COUNTY | 2003210175A | 12-MAR-2003 | 03-07-563A | 02
07 | KS | SEDGWICK COUNTY | 2003210225A | 19-MAR-2003 | 03-07-614A | 02
07 | KS | SEDGWICK COUNTY | 2003210150A | 30-APR-2003 | 03-07-809A | 02
07 | KS | SEDGWICK COUNTY | 2003210225A | 30-APR-2003 | 03-07-819A | 02
07 | KS | SEDGWICK COUNTY | 2003210075A | 21-MAY-2003 | 03-07-838A | 02
07 | KS | SEDGWICK, CITY OF | 2001340001D | 09-APR-2003 | 03-07-661A | 02
07 | KS | SEDGWICK, CITY OF | 2001340001D | 16-MAY-2003 | 03-07-831A | 02
07 | KS | SHAWNEE COUNTY | 2003310120C | 13-JUN-2003 | 03-07-1020A | 02
07 | KS | SHAWNEE COUNTY | 2003310100C | 17-JAN-2003 | 03-07-308A | 02
07 | KS | SHAWNEE COUNTY | 2003310065C | 04-JUN-2003 | 03-07-450A | 02
07 | KS | SHAWNEE, CITY OF | 20091C0065F | 24-JAN-2003 | 03-07-264A | 02
07 | KS | SHAWNEE, CITY OF | 20091C0065F | 21-MAR-2003 | 03-07-644A | 01
07 | KS | SHAWNEE, CITY OF | 20091C0065F | 07-MAY-2003 | 03-07-725A | 02
07 | KS | SHAWNEE, CITY OF | 20091C0185F | 21-MAY-2003 | 03-07-927A | 01
07 | KS | SUMNER COUNTY | 20191C0080B | 21-FEB-2003 | 03-07-465A | 17
07 | KS | SUMNER COUNTY | 20191C0140B | 30-MAY-2003 | 03-07-872A | 02
07 | KS | TOPEKA, CITY OF | 2051870014C | 02-JAN-2003 | 03-07-288A | 02
07 | KS | TOPEKA, CITY OF | 2051870005C | 31-JAN-2003 | 03-07-363A | 02
07 | KS | TOPEKA, CITY OF | 2051870011C | 02-APR-2003 | 03-07-684A | 02
07 | KS | TOPEKA, CITY OF | 2003310095C | 30-MAY-2003 | 03-07-859A | 01
07 | KS | VALLEY CENTER, CITY OF | 2003210050A | 28-MAR-2003 | 03-07-116A | 02
07 | KS | WAMEGO, CITY OF | 2002760002C | 07-MAY-2003 | 03-07-855A | 02
07 | KS | WICHITA, CITY OF | 2003280035B | 20-JUN-2003 | 03-07-1047A | 02
07 | KS | WICHITA, CITY OF | 2003280015B | 18-JUN-2003 | 03-07-1052A | 02
07 | KS | WICHITA, CITY OF | 2003280020B | 17-JAN-2003 | 03-07-292A | 02
07 | KS | WICHITA, CITY OF | 2003280035B | 15-JAN-2003 | 03-07-293A | 02
07 | KS | WICHITA, CITY OF | 2003280005B | 22-JAN-2003 | 03-07-294A | 02
07 | KS | WICHITA, CITY OF | 2003280020B | 17-JAN-2003 | 03-07-303A | 01
07 | KS | WICHITA, CITY OF | 2003280020B | 29-JAN-2003 | 03-07-323A | 01
07 | KS | WICHITA, CITY OF | 2003280030B | 24-JAN-2003 | 03-07-376A | 02
07 | KS | WICHITA, CITY OF | 2003210150A | 26-FEB-2003 | 03-07-554A | 02
07 | KS | WICHITA, CITY OF | 2003280015B | 19-MAR-2003 | 03-07-599A | 01
07 | KS | WICHITA, CITY OF | 2003280015B | 19-MAR-2003 | 03-07-600A | 01
07 | KS | WICHITA, CITY OF | 2003280015B | 19-MAR-2003 | 03-07-601A | 01
07 | KS | WICHITA, CITY OF | 2003280035B | 26-MAR-2003 | 03-07-602A | 17
07 | KS | WICHITA, CITY OF | 2003280025B | 14-MAR-2003 | 03-07-603A | 02
07 | KS | WICHITA, CITY OF | 2003280035B | 26-MAR-2003 | 03-07-655A | 02
07 | KS | WICHITA, CITY OF | 2003280035B | 30-APR-2003 | 03-07-789A | 02
07 | KS | WICHITA, CITY OF | 2003280035B | 25-APR-2003 | 03-07-812A | 02
07 | KS | WICHITA, CITY OF | 2003280035B | 09-MAY-2003 | 03-07-817A | 02
07 | KS | WICHITA, CITY OF | 2003280030B | 11-JUN-2003 | 03-07-938A | 02
07 | KS | WICHITA, CITY OF | 2003280030B | 23-MAY-2003 | 03-07-949A | 02
07 | MO | ADVANCE, CITY OF | 2904200001B | 04-APR-2003 | 03-07-306A | 02
07 | MO | BATES COUNTY | 2907860002B | 14-MAR-2003 | 03-07-562A | 02
07 | MO | BATES COUNTY | 2907860005B | 28-MAR-2003 | 03-07-613A | 02
07 | MO | BELLA VILLA, CITY OF | 29189C0316H | 29-JAN-2003 | 03-07-259A | 02
07 | MO | BELLEFONTAINE NEIGHBORS, CITY OF | 29189C0201H | 02-APR-2003 | 03-07-650A | 02
07 | MO | BLACKWATER, CITY OF | 290109—01B | 12-MAR-2003 | 03-07-340A | 02
07 | MO | BLUE SPRINGS, CITY OF | 2901690005C | 07-MAY-2003 | 03-07-778A | 02
07 | MO | BLUE SPRINGS, CITY OF | 2901690005C | 07-MAY-2003 | 03-07-910A | 02
07 | MO | BOONE COUNTY | 2900340106B | 30-APR-2003 | 03-07-670A | 01
07 | MO | BROOKFIELD, CITY OF | 2902140002B | 24-JAN-2003 | 03-07-280A | 02
07 | MO | BROOKFIELD, CITY OF | 2902140002B | 14-FEB-2003 | 03-07-300A | 02
07 | MO | BROOKFIELD, CITY OF | 2902140002B | 23-MAY-2003 | 03-07-932A | 02
07 | MO | BUTLER COUNTY | 2900440185B | 18-APR-2003 | 03-07-066A | 02
07 | MO | BUTLER COUNTY | 2900440080C | 09-APR-2003 | 03-07-765A | 02
07 | MO | CALLAWAY COUNTY | 2900490275B | 17-JAN-2003 | 02-07-1157A | 02
07 | MO | CAMDEN COUNTY | 2907890005B | 03-JAN-2003 | 03-07-286A | 02
07 | MO | CAMDEN COUNTY | 2907890008B | 09-MAY-2003 | 03-07-408A | 02
07 | MO | CAMDEN COUNTY | 2907890002B | 26-FEB-2003 | 03-07-441A | 02
07 | MO | CAMDEN COUNTY | 2907890008B | 30-APR-2003 | 03-07-813A | 02
07 | MO | CAPE GIRARDEAU COUNTY | 2907900125B | 30-APR-2003 | 03-07-595A | 02
07 | MO | CARROLL COUNTY | 2900570125B | 23-APR-2003 | 03-07-426A | 02
07 | MO | CARROLLTON, TOWN OF | 2900580005B | 09-MAY-2003 | 03-07-422A | 02
07 | MO | CARTHAGE, CITY OF | 2901810001B | 16-MAY-2003 | 03-07-735A | 02
07 | MO | CARTHAGE, CITY OF | 2901810001B | 28-MAY-2003 | 03-07-736A | 02
07 | MO | CARTHAGE, CITY OF | 2901810001B | 28-MAY-2003 | 03-07-967A | 02
07 | MO | CASS COUNTY | 2907830025C | 08-JAN-2003 | 03-07-254A | 02
07 | MO | CASS COUNTY | 2907830125B | 05-FEB-2003 | 03-07-297A | 02
07 | MO | CASS COUNTY | 2907830025C | 22-JAN-2003 | 03-07-299A | 02
07 | MO | CASS COUNTY | 2907830050C | 05-FEB-2003 | 03-07-421X | 02
07 | MO | CASS COUNTY | 2907830200B | 14-MAR-2003 | 03-07-458A | 02
07 | MO | CASS COUNTY | 2907830200B | 16-APR-2003 | 03-07-555A | 02
07 | MO | CASS COUNTY | 2907830125B | 11-APR-2003 | 03-07-700A | 02
07 | MO | CASS COUNTY | 2907830125B | 02-APR-2003 | 03-07-701A | 02
07 | MO | CASS COUNTY | 2907830050C | 04-JUN-2003 | 03-07-921A | 02
07 | MO | CASS COUNTY | 2907830125B | 25-JUN-2003 | 03-07-976A | 02
07 | MO | CHARLACK, CITY OF | 29189C0179H | 09-APR-2003 | 03-07-605A | 01
07 | MO | CHESTERFIELD, CITY OF | 29189C0140H | 02-APR-2003 | 03-07-746X | 01
07 | MO | CHRISTIAN COUNTY | 2908470005A | 09-APR-2003 | 03-07-420A | 02
07 | MO | CLAY COUNTY | 2900860025A | 23-APR-2003 | 03-07-0112P | 05
07 | MO | CLAY COUNTY | 2900860015B | 17-APR-2003 | 98-07-547V | 19
07 | MO | CLAY COUNTY | 2900860050C | 17-APR-2003 | 98-07-547V | 19
07 | MO | CLAY COUNTY | 2900860080B | 17-APR-2003 | 98-07-547V | 19
07 | MO | COBALT VILLAGE,VILLAGE OF | 29123C0170C | 25-JUN-2003 | 03-07-1029A | 02
07 | MO | COLE COUNTY | 2901070060B | 18-APR-2003 | 03-07-151A | 02
07 | MO | COLUMBIA, CITY OF | 2900360006B | 13-JUN-2003 | 03-07-986A | 01
07 | MO | DADE COUNTY | 29057C0260B | 24-JAN-2003 | 03-07-370A | 02
07 | MO | DARDENNE PRAIRIE, TOWN OF | 29183C0430E | 05-MAR-2003 | 03-07-451A | 01
07 | MO | DES PERES, CITY OF | 29189C0281J | 21-MAR-2003 | 03-07-630A | 02
07 | MO | DES PERES, CITY OF | 29189C0281J | 30-MAY-2003 | 03-07-960A | 02
07 | MO | EUREKA, CITY OF | 29189C0332H | 28-MAR-2003 | 03-07-273A | 01
07 | MO | EXCELSIOR SPRINGS, CITY OF | 2900900005C | 14-MAR-2003 | 98-07-592V | 19
07 | MO | FENTON, CITY OF | 29189C0289H | 07-MAY-2003 | 03-07-733A | 02
07 | MO | FLORISSANT, CITY OF | 29189C0062J | 21-FEB-2003 | 03-07-456A | 02
07 | MO | FLORISSANT, CITY OF | 29189C0054J | 16-APR-2003 | 03-07-627A | 01
07 | MO | FRANKLIN COUNTY | 2904930180B | 08-JAN-2003 | 03-07-243A | 01
07 | MO | FRONTENAC, CITY OF | 29189C0281J | 21-MAR-2003 | 03-07-643A | 02
07 | MO | FULTON, CITY OF | 2900510003C | 25-JUN-2003 | 03-07-993A | 02
07 | MO | GALENA, CITY OF | 2904290125B | 07-MAR-2003 | 03-07-202A | 01
07 | MO | GLADSTONE, CITY OF | 2900910001C | 14-MAY-2003 | 03-07-870A | 02
07 | MO | GREENE COUNTY | 2907820070B | 15-JAN-2003 | 00-07-676P | 06
07 | MO | GREENE COUNTY | 2907820100B | 15-JAN-2003 | 00-07-676P | 06
07 | MO | GREENE COUNTY | 2907820055B | 26-MAR-2003 | 03-07-358A | 02
07 | MO | GREENE COUNTY | 2907820135B | 31-JAN-2003 | 03-07-403A | 02
07 | MO | GREENE COUNTY | 2907820130C | 10-FEB-2003 | 03-07-419A | 02
07 | MO | GREENE COUNTY | 2907820125C | 06-JUN-2003 | 03-07-542A | 02
07 | MO | GREENE COUNTY | 2907820125C | 18-APR-2003 | 03-07-564A | 02
07 | MO | GREENE COUNTY | 2907820125C | 27-JUN-2003 | 03-07-854A | 02
07 | MO | HARTSBURG, VILLAGE OF | 2900370001A | 07-MAR-2003 | 03-07-557A | 02
07 | MO | HERCULANEUM, CITY OF | 2901920005D | 03-JAN-2003 | 03-07-290A | 02
07 | MO | JACKSON, CITY OF | 2952650001C | 10-FEB-2003 | 03-07-415A | 02
07 | MO | JASPER COUNTY | 2908070100B | 16-APR-2003 | 03-07-319A | 02
07 | MO | JEFFERSON COUNTY | 2908080085C | 27-JUN-2003 | 03-07-1008A | 02
07 | MO | JEFFERSON COUNTY | 2908080120D | 12-FEB-2003 | 03-07-212A | 02
07 | MO | JEFFERSON COUNTY | 2908080090D | 08-JAN-2003 | 03-07-321A | 02
07 | MO | JEFFERSON COUNTY | 2908080080C | 15-JAN-2003 | 03-07-345A | 02
07 | MO | JEFFERSON COUNTY | 2908080090D | 14-MAY-2003 | 03-07-615A | 02
07 | MO | JEFFERSON COUNTY | 2908080080C | 25-APR-2003 | 03-07-672A | 02
07 | MO | JEFFERSON COUNTY | 2908080090D | 06-JUN-2003 | 03-07-864A | 02
07 | MO | JEFFERSON COUNTY | 2908080095C | 14-MAY-2003 | 03-07-904A | 02
07 | MO | JOPLIN, CITY OF | 2901830005C | 10-JAN-2003 | 01-07-831P | 05
07 | MO | JOPLIN, CITY OF | 2901830025C | 10-JAN-2003 | 01-07-831P | 05
07 | MO | JOPLIN, CITY OF | 2901830025C | 26-MAR-2003 | 03-07-640A | 02
07 | MO | JOPLIN, CITY OF | 2901830015C | 14-MAY-2003 | 03-07-828A | 02
07 | MO | KANSAS CITY, CITY OF | 2901730065B | 16-APR-2003 | 03-07-586A | 02
07 | MO | KANSAS CITY, CITY OF | 2901730065B | 16-APR-2003 | 03-07-727A | 02
07 | MO | KANSAS CITY, CITY OF | 2901730060B | 30-MAY-2003 | 03-07-814A | 02
07 | MO | KANSAS CITY, CITY OF | 2901730025B | 21-MAY-2003 | 03-07-841A | 02
07 | MO | KANSAS CITY, CITY OF | 2901730030B | 21-MAY-2003 | 03-07-848A | 02
07 | MO | LADUE,CITY OF | 29189C0301H | 09-APR-2003 | 03-07-637A | 02
07 | MO | LAKE ST. LOUIS, CITY OF | 29183C0220F | 30-MAY-2003 | 03-07-849A | 02
07 | MO | LAKE WINNEBAGO, CITY OF | 2908770001A | 16-MAY-2003 | 03-07-922A | 02
07 | MO | LAKE WINNEBAGO, CITY OF | 2908770001A | 16-MAY-2003 | 03-07-923A | 02
07 | MO | LAMAR, CITY OF | 2900250001C | 10-JAN-2003 | 03-07-181A | 01
07 | MO | LEE'S SUMMIT, CITY OF | 2901740009C | 17-JAN-2003 | 03-07-344A | 02
07 | MO | LEE'S SUMMIT, CITY OF | 2901720040E | 14-MAY-2003 | 03-07-693A | 01
07 | MO | LEE'S SUMMIT, CITY OF | 2901740005C | 14-MAY-2003 | 03-07-693A | 01
07 | MO | LEE'S SUMMIT, CITY OF | 2901740005C | 11-JUN-2003 | 03-07-920A | 02
07 | MO | LEE'S SUMMIT, CITY OF | 2901740007C | 30-MAY-2003 | 03-07-948A | 02
07 | MO | LEXINGTON, CITY OF | 2907070005B | 14-FEB-2003 | 03-07-359A | 02
07 | MO | LIBERTY, CITY OF | 2900960001B | 09-APR-2003 | 03-07-698A | 02
07 | MO | LIVINGSTON COUNTY | 2908140125B | 14-FEB-2003 | 03-07-412A | 02
07 | MO | MACON, CITY OF | 2902200002B | 14-MAY-2003 | 03-07-405A | 02
07 | MO | MANCHESTER, CITY OF | 29189C0259H | 05-FEB-2003 | 03-07-184A | 02
07 | MO | MCDONALD COUNTY | 290817150A | 19-FEB-2003 | 03-07-418A | 02
07 | MO | MONITEAU COUNTY | 2902370125B | 28-FEB-2003 | 03-07-153A | 02
07 | MO | MORGAN COUNTY | 2902440200B | 08-JAN-2003 | 03-07-236A | 02
07 | MO | MORGAN COUNTY | 2902440200B | 07-MAY-2003 | 03-07-608A | 02
07 | MO | MORGAN COUNTY | 2902440200B | 13-JUN-2003 | 03-07-998A | 02
07 | MO | NEWTON COUNTY | 2908200150B | 19-MAR-2003 | 03-07-214A | 02
07 | MO | NEWTON COUNTY | 2908200015B | 18-APR-2003 | 03-07-442A | 02
07 | MO | O'FALLON, CITY OF | 29183C0230E | 10-FEB-2003 | 03-07-223A | 01
07 | MO | O'FALLON, CITY OF | 29183C0239E | 05-FEB-2003 | 03-07-302A | 01
07 | MO | O'FALLON, CITY OF | 29183C0239E | 12-FEB-2003 | 03-07-467A | 01
07 | MO | O'FALLON, CITY OF | 29183C0230F | 21-MAY-2003 | 03-07-783A | 01
07 | MO | O'FALLON, CITY OF | 29183C0239E | 25-JUN-2003 | 03-07-824A | 01
07 | MO | O'FALLON, CITY OF | 29183C0241E | 25-JUN-2003 | 03-07-943A | 01
07 | MO | OSAGE BEACH, CITY OF | 290671 | 14-FEB-2003 | 03-07-397A | 02
07 | MO | OSAGE BEACH, CITY OF | 290671—02B | 16-MAY-2003 | 03-07-801A | 02
07 | MO | PACIFIC, CITY OF | 2901340001C | 27-JUN-2003 | 03-07-1007A | 02
07 | MO | PACIFIC, CITY OF | 2901340001C | 02-MAY-2003 | 03-07-617A | 02
07 | MO | PACIFIC, CITY OF | 2901340001C | 14-MAY-2003 | 03-07-867A | 02
07 | MO | PARKVILLE, CITY OF | 2902940001B | 11-JUN-2003 | 03-07-868A | 02
07 | MO | PETTIS COUNTY | 2908230200B | 16-APR-2003 | 03-07-745A | 02
07 | MO | PLATTE COUNTY | 2904750125A | 22-JAN-2003 | 03-07-269A | 02
07 | MO | PLEASANT VALLEY, CITY OF | 2901000001A | 18-APR-2003 | 03-07-699A | 02
07 | MO | QULIN, CITY OF | 2900480001A | 09-MAY-2003 | 03-07-845A | 02
07 | MO | RAY COUNTY | 2907780075B | 11-JUN-2003 | 03-07-874A | 02
07 | MO | RIPLEY COUNTY | 2908300200A | 12-MAR-2003 | 03-07-389A | 02
07 | MO | RIPLEY COUNTY | 2908300200A | 04-APR-2003 | 03-07-722X | 02
07 | MO | SEDALIA, CITY OF | 2902830001C | 16-APR-2003 | 03-07-438A | 01
07 | MO | SEDALIA, CITY OF | 2902830001C | 09-APR-2003 | 03-07-689A | 02
07 | MO | SIKESTON, CITY OF | 2952700006C | 18-JUN-2003 | 03-07-1044A | 02
07 | MO | SMITHVILLE, CITY OF | 2952710005C | 24-APR-2003 | 03-07-0112P | 05
07 | MO | ST. ANN, CITY OF | 29189C0157H | 21-MAY-2003 | 03-07-754A | 02
07 | MO | ST. CHARLES COUNTY | 29183C0150E | 02-JUN-2003 | 03-07-103P | 06
07 | MO | ST. CHARLES COUNTY | 29183C0280E | 02-JUN-2003 | 03-07-103P | 06
07 | MO | ST. CHARLES COUNTY | 29183C0285E | 02-JUN-2003 | 03-07-103P | 06
07 | MO | ST. CHARLES COUNTY | 29183C0325E | 02-JUN-2003 | 03-07-103P | 06
07 | MO | ST. CHARLES COUNTY | 29183C0451E | 10-FEB-2003 | 03-07-225A | 02
07 | MO | ST. CHARLES COUNTY | 29183C0195E | 25-APR-2003 | 03-07-584A | 02
07 | MO | ST. CHARLES COUNTY | 29183C0267E | 25-APR-2003 | 03-07-695A | 02
07 | MO | ST. CHARLES COUNTY | 29183C0435E | 21-MAY-2003 | 03-07-782A | 01
07 | MO | ST. CHARLES COUNTY | 29183C0451E | 18-JUN-2003 | 03-07-954A | 01
07 | MO | ST. CHARLES, CITY OF | 29183C0266E | 05-FEB-2003 | 03-07-371A | 01
07 | MO | ST. CHARLES, CITY OF | 29183C0267E | 25-APR-2003 | 03-07-784A | 02
07 | MO | ST. CHARLES, CITY OF | 29183C0260E | 11-JUN-2003 | 03-07-792A | 01
07 | MO | ST. CHARLES, CITY OF | 29183C0267E | 02-MAY-2003 | 03-07-815A | 02
07 | MO | ST. FRANCOIS COUNTY | 2908320150B | 09-APR-2003 | 03-07-396A | 01
07 | MO | ST. JOSEPH, CITY OF | 2900430005C | 11-JUN-2003 | 03-07-1010A | 02
07 | MO | ST. LOUIS COUNTY | 29189C0312H | 24-APR-2003 | 02-07-172P | 05
07 | MO | ST. LOUIS COUNTY | 29189C0316H | 24-APR-2003 | 02-07-172P | 05
07 | MO | ST. LOUIS COUNTY | 29189C0385H | 18-JUN-2003 | 03-07-1031A | 02
07 | MO | ST. LOUIS COUNTY | 29189C0405H | 15-JAN-2003 | 03-07-241A | 02
07 | MO | ST. LOUIS COUNTY | 29189C0058H | 29-JAN-2003 | 03-07-348A | 02
07 | MO | ST. LOUIS COUNTY | 29189C0265H | 12-MAR-2003 | 03-07-449A | 01
07 | MO | ST. LOUIS COUNTY | 29189C0279J | 11-APR-2003 | 03-07-618A | 01
07 | MO | ST. LOUIS COUNTY | 29189C0267H | 30-APR-2003 | 03-07-638A | 01
07 | MO | ST. LOUIS COUNTY | 29189C0286H | 30-APR-2003 | 03-07-638A | 01
07 | MO | ST. LOUIS COUNTY | 29189C0162H | 30-MAY-2003 | 03-07-918A | 02
07 | MO | ST. PETERS, CITY OF | 29183C0244E | 15-JAN-2003 | 03-07-324A | 02
07 | MO | ST. PETERS, CITY OF | 29183C0264E | 12-MAR-2003 | 03-07-588A | 02
07 | MO | ST. PETERS, CITY OF | 29183C0242E | 30-MAY-2003 | 03-07-984A | 02
07 | MO | STE. GENEVIEVE, CITY OF | 2903250001A | 21-MAY-2003 | 03-07-728A | 02
07 | MO | STOCKTON, CITY OF | 29039C0235C | 11-APR-2003 | 03-07-380A | 02
07 | MO | STONE COUNTY | 2904290100B | 26-FEB-2003 | 03-07-407A | 02
07 | MO | STONE COUNTY | 2904290100B | 04-JUN-2003 | 03-07-639A | 02
07 | MO | TANEY COUNTY | 290435—16A | 16-MAY-2003 | 03-07-737A | 02
07 | MO | WARREN COUNTY | 2904430075C | 05-FEB-2003 | 03-07-381A | 02
07 | MO | WARREN COUNTY | 2904430050B | 19-MAR-2003 | 03-07-423A | 02
07 | MO | WARREN COUNTY | 2904430125B | 18-JUN-2003 | 03-07-729A | 02
07 | MO | WEBB CITY, CITY OF | 2901870001B | 21-FEB-2003 | 03-07-447A | 02
07 | MO | WEBB CITY, CITY OF | 2901870001B | 04-APR-2003 | 03-07-527A | 02
07 | MO | WEBSTER COUNTY | 29225C0225A | 10-FEB-2003 | 03-07-334A | 02
07 | MO | WELDON SPRING, CITY OF | 29183C0435E | 17-JAN-2003 | 03-07-291A | 01
07 | MO | WENTWORTH, TOWN OF | 290483—01A | 07-MAY-2003 | 03-07-798A | 02
07 | MO | WENTZVILLE, CITY OF | 29183C0195E | 22-JAN-2003 | 03-07-019A | 01
07 | MO | WEST PLAINS, CITY OF | 2901660004D | 15-JAN-2003 | 03-07-349X | 01
07 | MO | WILLOW SPRINGS, CITY OF | 2901670001B | 19-MAR-2003 | 03-07-409A | 02
07 | NE | BELLEVUE, CITY OF | 31153C0065F | 13-JUN-2003 | 03-07-1022A | 02
07 | NE | BELLEVUE, CITY OF | 31153C0065F | 02-MAY-2003 | 03-07-779A | 02
07 | NE | BELLEVUE, CITY OF | 31153C0065F | 06-JUN-2003 | 03-07-929A | 01
07 | NE | BUFFALO COUNTY | 3104190011B | 11-JUN-2003 | 03-07-628A | 02
07 | NE | CHEYENNE COUNTY | 3104240175B | 19-MAR-2003 | 03-07-559A | 02
07 | NE | CHEYENNE COUNTY | 3104240175B | 18-APR-2003 | 03-07-803X | 02
07 | NE | CLARKS, VILLAGE OF | 3101490005A | 11-APR-2003 | 03-07-623A | 02
07 | NE | COLFAX COUNTY | 31037C0130C | 05-MAR-2003 | 03-07-464A | 02
07 | NE | COLFAX COUNTY | 31037C0025C | 09-APR-2003 | 03-07-651A | 02
07 | NE | COLUMBUS, CITY OF | 3152720005D | 06-JUN-2003 | 03-07-206A | 01
07 | NE | COLUMBUS, CITY OF | 3152720015D | 06-JUN-2003 | 03-07-206A | 01
07 | NE | CRETE, CITY OF | 3101860003C | 02-MAY-2003 | 03-07-810A | 02
07 | NE | CRETE, CITY OF | 3101860003C | 30-APR-2003 | 03-07-816A | 02
07 | NE | CUSTER COUNTY | 3104280010B | 11-JUN-2003 | 03-07-941A | 02
07 | NE | DAKOTA COUNTY | 3104290040B | 23-MAY-2003 | 03-07-488A | 01
07 | NE | GRAND ISLAND, CITY OF | 3101030015B | 27-JUN-2003 | 03-07-1025A | 02
07 | NE | GRAND ISLAND, CITY OF | 3101030015B | 08-JAN-2003 | 03-07-283A | 02
07 | NE | GRAND ISLAND, CITY OF | 3101030020B | 08-JAN-2003 | 03-07-296A | 02
07 | NE | GRAND ISLAND, CITY OF | 3101030005B | 10-FEB-2003 | 03-07-336A | 02
07 | NE | GRAND ISLAND, CITY OF | 3101030015B | 12-FEB-2003 | 03-07-337A | 02
07 | NE | GRAND ISLAND, CITY OF | 3101030015B | 12-FEB-2003 | 03-07-372A | 02
07 | NE | GRAND ISLAND, CITY OF | 3101030015B | 12-FEB-2003 | 03-07-384A | 02
07 | NE | GRAND ISLAND, CITY OF | 3101030020B | 12-FEB-2003 | 03-07-414A | 02
07 | NE | GRAND ISLAND, CITY OF | 3101030015B | 05-MAR-2003 | 03-07-540A | 02
07 | NE | GRAND ISLAND, CITY OF | 3101030015B | 14-MAR-2003 | 03-07-541A | 02
07 | NE | GRAND ISLAND, CITY OF | 3101030010B | 19-MAR-2003 | 03-07-582A | 02
07 | NE | GRAND ISLAND, CITY OF | 3101030015B | 14-MAR-2003 | 03-07-591A | 02
07 | NE | GRAND ISLAND, CITY OF | 3101000100C | 14-MAR-2003 | 03-07-606A | 02
07 | NE | GRAND ISLAND, CITY OF | 3101000100C | 28-MAR-2003 | 03-07-642A | 02
07 | NE | GRAND ISLAND, CITY OF | 3101030020B | 02-APR-2003 | 03-07-667A | 02
07 | NE | GRAND ISLAND, CITY OF | 3101030005B | 02-APR-2003 | 03-07-690A | 02
07 | NE | GRAND ISLAND, CITY OF | 3101030015B | 02-MAY-2003 | 03-07-774A | 02
07 | NE | GRAND ISLAND, CITY OF | 3101000100C | 02-MAY-2003 | 03-07-775A | 02
07 | NE | GRAND ISLAND, CITY OF | 3101030020B | 25-APR-2003 | 03-07-802X | 02
07 | NE | GRAND ISLAND, CITY OF | 3101030020B | 14-MAY-2003 | 03-07-805A | 02
07 | NE | GRAND ISLAND, CITY OF | 3101030010B | 16-MAY-2003 | 03-07-832A | 02
07 | NE | GRAND ISLAND, CITY OF | 3101030015B | 04-JUN-2003 | 03-07-934A | 02
07 | NE | GRAND ISLAND, CITY OF | 3101030005B | 25-JUN-2003 | 03-07-987A | 02
07 | NE | HALL COUNTY | 3101000100C | 21-FEB-2003 | 03-07-436A | 02
07 | NE | HALL COUNTY | 3101000100C | 26-FEB-2003 | 03-07-437A | 02
07 | NE | HALL COUNTY | 3101000125B | 21-MAY-2003 | 03-07-771A | 02
07 | NE | HALL COUNTY | 3101000125B | 23-MAY-2003 | 03-07-780A | 02
07 | NE | HAMILTON COUNTY | 3104410100A | 10-FEB-2003 | 03-07-071A | 02
07 | NE | HAMILTON COUNTY | 3104410025A | 10-JAN-2003 | 03-07-277A | 02
07 | NE | HAMILTON COUNTY | 3104410025A | 10-FEB-2003 | 03-07-347A | 02
07 | NE | HAMILTON COUNTY | 3104410025A | 05-FEB-2003 | 03-07-402A | 02
07 | NE | HAMILTON COUNTY | 3104410025A | 12-FEB-2003 | 03-07-416A | 02
07 | NE | HAMILTON COUNTY | 3104410025A | 02-APR-2003 | 03-07-646A | 02
07 | NE | HAMILTON COUNTY | 3104410100A | 11-APR-2003 | 03-07-652A | 02
07 | NE | HAMILTON COUNTY | 3104410025A | 02-APR-2003 | 03-07-665A | 02
07 | NE | HAMILTON COUNTY | 3104410025A | 11-APR-2003 | 03-07-718A | 02
07 | NE | HAMILTON COUNTY | 3104410075A | 21-MAY-2003 | 03-07-835A | 02
07 | NE | HARTINGTON, CITY OF | 3103760005A | 19-MAR-2003 | 03-07-489A | 02
07 | NE | HARTINGTON, CITY OF | 3103760005A | 19-MAR-2003 | 03-07-490A | 02
07 | NE | HARTINGTON, CITY OF | 3103760005A | 02-APR-2003 | 03-07-491A | 02
07 | NE | HENDERSON, CITY OF | 310378—01A | 19-FEB-2003 | 03-07-247A | 02
07 | NE | HENDERSON, CITY OF | 310378—01A | 05-FEB-2003 | 03-07-390A | 02
07 | NE | HOWARD COUNTY | 3104460100A | 11-APR-2003 | 03-07-186A | 01
07 | NE | HOWARD COUNTY | 3104460100A | 30-APR-2003 | 03-07-322A | 02
07 | NE | LINCOLN, CITY OF | 31109C0310E | 29-JAN-2003 | 02-07-968A | 01
07 | NE | LINCOLN, CITY OF | 31109C0305E | 03-JAN-2003 | 03-07-077A | 02
07 | NE | LINCOLN, CITY OF | 31109C0310E | 13-JUN-2003 | 03-07-1013A | 02
07 | NE | LINCOLN, CITY OF | 31109C0305E | 27-JUN-2003 | 03-07-1082A | 02
07 | NE | LINCOLN, CITY OF | 31109C0430E | 10-FEB-2003 | 03-07-118P | 06
07 | NE | LINCOLN, CITY OF | 31109C0315E | 05-FEB-2003 | 03-07-146A | 02
07 | NE | LINCOLN, CITY OF | 31109C0315E | 03-JAN-2003 | 03-07-228A | 01
07 | NE | LINCOLN, CITY OF | 31109C0285E | 05-FEB-2003 | 03-07-276A | 01
07 | NE | LINCOLN, CITY OF | 31109C0317E | 24-JAN-2003 | 03-07-378A | 02
07 | NE | LINCOLN, CITY OF | 31109C0310E | 29-JAN-2003 | 03-07-379A | 02
07 | NE | LINCOLN, CITY OF | 31109C0305E | 12-MAR-2003 | 03-07-388A | 01
07 | NE | LINCOLN, CITY OF | 31109C0305E | 23-APR-2003 | 03-07-429A | 01
07 | NE | LINCOLN, CITY OF | 31109C0215E | 09-MAY-2003 | 03-07-532A | 01
07 | NE | LINCOLN, CITY OF | 31109C0305E | 07-MAR-2003 | 03-07-560A | 02
07 | NE | LINCOLN, CITY OF | 31109C0310E | 19-MAR-2003 | 03-07-621A | 02
07 | NE | LINCOLN, CITY OF | 31109C0310E | 14-MAR-2003 | 03-07-622A | 02
07 | NE | LINCOLN, CITY OF | 31109C0305E | 21-MAR-2003 | 03-07-659A | 02
07 | NE | LINCOLN, CITY OF | 31109C0318E | 18-APR-2003 | 03-07-791A | 02
07 | NE | LINCOLN, CITY OF | 31109C0315E | 07-MAY-2003 | 03-07-836A | 02
07 | NE | LINCOLN, CITY OF | 31109C0317E | 16-MAY-2003 | 03-07-839A | 02
07 | NE | LINCOLN, CITY OF | 31109C0310E | 04-JUN-2003 | 03-07-979A | 02
07 | NE | MERRICK COUNTY | 3104570075A | 17-JAN-2003 | 03-07-356A | 02
07 | NE | MERRICK COUNTY | 3104570075A | 24-JAN-2003 | 03-07-357A | 02
07 | NE | MERRICK COUNTY | 3104570175B | 29-JAN-2003 | 03-07-387A | 02
07 | NE | MERRICK COUNTY | 3104570175B | 29-JAN-2003 | 03-07-395A | 02
07 | NE | MERRICK COUNTY | 3104570200B | 12-FEB-2003 | 03-07-417A | 02
07 | NE | MERRICK COUNTY | 3104570200B | 12-FEB-2003 | 03-07-443A | 02
07 | NE | MERRICK COUNTY | 3104570200B | 12-FEB-2003 | 03-07-444A | 02
07 | NE | MERRICK COUNTY | 3104570075A | 14-MAR-2003 | 03-07-485A | 02
07 | NE | MERRICK COUNTY | 3104570150A | 26-FEB-2003 | 03-07-525A | 02
07 | NE | MERRICK COUNTY | 3104570150A | 26-MAR-2003 | 03-07-531A | 02
07 | NE | MERRICK COUNTY | 3104570175B | 28-FEB-2003 | 03-07-558A | 02
07 | NE | MERRICK COUNTY | 3104570150A | 12-MAR-2003 | 03-07-581A | 02
07 | NE | MERRICK COUNTY | 3104570175B | 28-MAR-2003 | 03-07-587A | 02
07 | NE | MERRICK COUNTY | 3104570150A | 26-MAR-2003 | 03-07-590A | 02
07 | NE | MERRICK COUNTY | 3104570125B | 16-MAY-2003 | 03-07-823A | 02
07 | NE | MERRICK COUNTY | 3104570200B | 23-MAY-2003 | 03-07-833A | 02
07 | NE | MERRICK COUNTY | 3104570150A | 21-MAY-2003 | 03-07-858A | 02
07 | NE | MERRICK COUNTY | 3104570050A | 18-JUN-2003 | 03-07-860A | 02
07 | NE | MERRICK COUNTY | 3104570175B | 06-JUN-2003 | 03-07-901A | 01
07 | NE | OMAHA, CITY OF | 3152740030F | 15-JAN-2003 | 02-07-1146A | 02
07 | NE | OMAHA, CITY OF | 3152740010F | 03-JAN-2003 | 03-07-203A | 01
07 | NE | OMAHA, CITY OF | 3152740025F | 03-JAN-2003 | 03-07-203A | 01
07 | NE | OMAHA, CITY OF | 3152740025F | 06-JUN-2003 | 03-07-964A | 02
07 | NE | PLATTE COUNTY | 3104670225D | 11-APR-2003 | 03-07-326A | 02
07 | NE | PLATTE COUNTY | 3104670200D | 04-APR-2003 | 03-07-565A | 02
07 | NE | SALINE COUNTY | 3104720050A | 11-JUN-2003 | 03-07-424A | 02
07 | NE | SCHUYLER, CITY OF | 3100460010B | 22-JAN-2003 | 03-07-307A | 02
07 | NE | SCHUYLER, CITY OF | 31037C0130C | 21-MAR-2003 | 03-07-350A | 02
07 | NE | SCOTTS BLUFF COUNTY | 3104730150A | 14-FEB-2003 | 03-07-149A | 01
07 | NE | SIDNEY, CITY OF | 3100390010B | 11-JUN-2003 | 03-07-711A | 02
07 | NE | SUTTON, CITY OF | 31004501B | 10-JAN-2003 | 03-07-209A | 02
07 | NE | SUTTON, CITY OF | 310045—01B | 29-JAN-2003 | 03-07-252A | 02
07 | NE | VALLEY, CITY OF | 3100780004B | 28-FEB-2003 | 03-07-318A | 02
07 | NE | VALLEY, CITY OF | 3100780001B | 20-JUN-2003 | 03-07-983A | 02
07 | NE | YORK COUNTY | 3104860006B | 14-MAY-2003 | 03-07-578A | 02
08 | CO | ADAMS COUNTY | 08001C0030G | 29-MAY-2003 | 02-08-211P | 05
08 | CO | ADAMS COUNTY | 08001C0036G | 29-MAY-2003 | 02-08-211P | 05
08 | CO | ADAMS COUNTY | 08001C0045G | 30-JAN-2003 | 02-08-283P | 05
08 | CO | ADAMS COUNTY | 08001C0335G | 30-JAN-2003 | 02-08-283P | 05
08 | CO | ARAPAHOE COUNTY | 08005C0480J | 02-JAN-2003 | 03-08-0001A | 02
08 | CO | ARAPAHOE COUNTY | 08005C0485J | 02-JAN-2003 | 03-08-0001A | 02
08 | CO | ARAPAHOE COUNTY | 08005C0170J | 17-MAR-2003 | 03-08-0158A | 01
08 | CO | ARAPAHOE COUNTY | 08005C0280J | 16-MAY-2003 | 03-08-0306A | 17
08 | CO | ARVADA, CITY OF | 08059C0183E | 18-JUN-2003 | 02-08-560V | 19
08 | CO | ARVADA, CITY OF | 08059C0184E | 18-JUN-2003 | 02-08-560V | 19
08 | CO | ARVADA, CITY OF | 08059C0202E | 18-JUN-2003 | 02-08-560V | 19
08 | CO | ARVADA, CITY OF | 08059C0203E | 18-JUN-2003 | 02-08-560V | 19
08 | CO | ARVADA, CITY OF | 08059C0208E | 18-JUN-2003 | 02-08-560V | 19
08 | CO | ARVADA, CITY OF | 08059C0210E | 18-JUN-2003 | 02-08-560V | 19
08 | CO | ARVADA, CITY OF | 08059C0211E | 18-JUN-2003 | 02-08-560V | 19
08 | CO | AURORA, CITY OF | 0800020040E | 24-APR-2003 | 03-08-0210P | 05
08 | CO | AURORA, CITY OF | 0800020160E | 24-APR-2003 | 03-08-0210P | 05
08 | CO | BOULDER, CITY OF | 08013C0415F | 27-FEB-2003 | 02-08-340P | 05
08 | CO | BOULDER, CITY OF | 08013C0535F | 27-FEB-2003 | 02-08-340P | 05
08 | CO | BOULDER, CITY OF | 08013C0555G | 27-FEB-2003 | 02-08-340P | 05
08 | CO | BOULDER, CITY OF | 08013C0405F | 29-JAN-2003 | 03-08-0127A | 01
08 | CO | BOULDER, CITY OF | 08013C0415F | 01-MAY-2003 | 03-08-0169A | 01
08 | CO | BOULDER, CITY OF | 08013C0395F | 11-JUN-2003 | 03-08-0388A | 17
08 | CO | BROOMFIELD, CITY AND COUNTY OF | 0850730020E | 26-FEB-2003 | 02-08-156P | 05
08 | CO | BROOMFIELD, CITY AND COUNTY OF | 0850730020E | 27-JUN-2003 | 03-08-0270P | 05
08 | CO | CANON CITY, CITY OF | 0800680001D | 13-MAR-2003 | 03-08-0206A | 02
08 | CO | CASTLE ROCK, TOWN OF | 0800500170C | 23-JUN-2003 | 02-08-408P | 06
08 | CO | CASTLE ROCK, TOWN OF | 0800500186C | 23-JUN-2003 | 02-08-408P | 06
08 | CO | CASTLE ROCK, TOWN OF | 0800500188C | 23-JUN-2003 | 02-08-408P | 06
08 | CO | CASTLE ROCK, TOWN OF | 0800500170C | 24-JAN-2003 | 02-08-462P | 06
08 | CO | CHAFFEE COUNTY | 0802690210B | 13-MAR-2003 | 03-08-0232A | 02
08 | CO | COLORADO SPRINGS, CITY OF | 08041C0751F | 13-MAY-2003 | 03-08-0223P | 05
08 | CO | COLORADO SPRINGS, CITY OF | 08041C0516F | 25-APR-2003 | 03-08-0284A | 01
08 | CO | COLORADO SPRINGS, CITY OF | 08041C0728F | 09-APR-2003 | 03-08-0324A | 02
08 | CO | COLORADO SPRINGS, CITY OF | 08041C0737F | 01-MAY-2003 | 03-08-0333A | 02
08 | CO | COLORADO SPRINGS, CITY OF | 08041C0737F | 27-MAY-2003 | 03-08-0408A | 01
08 | CO | COMMERCE CITY, CITY OF | 08001C0335G | 30-JAN-2003 | 02-08-283P | 05
08 | CO | COMMERCE CITY, CITY OF | 08001C0075G | 20-JUN-2003 | 03-08-0419A | 01
08 | CO | DENVER, CITY AND COUNTY OF | 0800460006D | 24-APR-2003 | 03-08-0210P | 05
08 | CO | DENVER, CITY AND COUNTY OF | 0800460012F | 24-APR-2003 | 03-08-0210P | 05
08 | CO | DENVER, CITY AND COUNTY OF | 0800460010C | 21-APR-2003 | 03-08-0215A | 02
08 | CO | DENVER, CITY AND COUNTY OF | 0800460018C | 07-MAY-2003 | 03-08-0359A | 02
08 | CO | DOUGLAS COUNTY | 0800490065C | 24-APR-2003 | 01-08-358P | 05
08 | CO | DOUGLAS COUNTY | 0800490070E | 24-APR-2003 | 01-08-358P | 05
08 | CO | DOUGLAS COUNTY | 0800490070E | 16-JAN-2003 | 02-08-171P | 05
08 | CO | DOUGLAS COUNTY | 0800490186C | 22-MAY-2003 | 02-08-408P | 06
08 | CO | DOUGLAS COUNTY | 0800490188C | 22-MAY-2003 | 02-08-408P | 06
08 | CO | DOUGLAS COUNTY | 0800490170C | 24-JAN-2003 | 02-08-464P | 06
08 | CO | DOUGLAS COUNTY | 0800490090C | 25-JUN-2003 | 02-08-491P | 05
08 | CO | EAGLE COUNTY | 0800510243C | 03-JAN-2003 | 02-08-529A | 02
08 | CO | EAGLE COUNTY | 0800510212C | 07-MAY-2003 | 03-08-0139A | 02
08 | CO | EL PASO COUNTY | 08041C0490F | 13-MAR-2003 | 03-08-0084A | 02
08 | CO | EL PASO COUNTY | 08041C0600F | 08-JAN-2003 | 03-08-0088A | 02
08 | CO | EL PASO COUNTY | 08041C0270F | 31-MAR-2003 | 03-08-0106A | 02
08 | CO | EL PASO COUNTY | 08041C0744F | 26-FEB-2003 | 03-08-0108A | 01
08 | CO | EL PASO COUNTY | 08041C0575F | 13-MAR-2003 | 03-08-0113A | 02
08 | CO | EL PASO COUNTY | 08041C0951F | 13-MAR-2003 | 03-08-0219A | 02
08 | CO | EL PASO COUNTY | 08041C0744F | 10-MAR-2003 | 03-08-0283A | 01
08 | CO | EL PASO COUNTY | 08041C0270F | 21-APR-2003 | 03-08-0347A | 02
08 | CO | EL PASO COUNTY | 08041C0951F | 28-MAY-2003 | 03-08-0398A | 02
08 | CO | EL PASO COUNTY | 08041C0754F | 11-JUN-2003 | 03-08-0438A | 02
08 | CO | ERIE, TOWN OF | 08013C0435F | 05-FEB-2003 | 03-08-0138A | 02
08 | CO | FLORENCE, CITY OF | 0800700361D | 19-MAR-2003 | 03-08-0253A | 02
08 | CO | FLORENCE, CITY OF | 0800700361D | 03-APR-2003 | 03-08-0279A | 02
08 | CO | FLORENCE, CITY OF | 0800700361D | 01-MAY-2003 | 03-08-0335A | 02
08 | CO | FORT COLLINS, CITY OF | 0801020008C | 22-MAY-2003 | 02-08-499P | 05
08 | CO | FREMONT COUNTY | 0800670342C | 19-MAR-2003 | 02-08-269P | 05
08 | CO | GARFIELD COUNTY | 0802051880B | 02-JUN-2003 | 03-08-0287A | 02
08 | CO | GOLDEN, CITY OF | 08059C0188E | 18-JUN-2003 | 02-08-560V | 19
08 | CO | GOLDEN, CITY OF | 08059C0277E | 18-JUN-2003 | 02-08-560V | 19
08 | CO | GOLDEN, CITY OF | N/A | 17-JAN-2003 | 03-08-0097X | 06
08 | CO | GREELEY, CITY OF | 0802660609C | 04-FEB-2003 | 03-08-0144A | 08
08 | CO | GREELEY, CITY OF | 0801840002B | 23-APR-2003 | 03-08-0278A | 02
08 | CO | GREELEY, CITY OF | 0802660609C | 09-MAY-2003 | 03-08-0285A | 01
08 | CO | GREEN MOUNTAIN FALLS, TOWN OF | 08041C0467F | 11-JUN-2003 | 03-08-0276A | 02
08 | CO | GUNNISON COUNTY | 0800780755B | 05-FEB-2003 | 03-08-0053A | 02
08 | CO | GUNNISON COUNTY | 0800780475B | 23-JAN-2003 | 03-08-0111A | 02
08 | CO | GUNNISON COUNTY | 0800780325B | 23-APR-2003 | 03-08-0170A | 02
08 | CO | GUNNISON COUNTY | 0800780775B | 13-MAR-2003 | 03-08-0202A | 02
08 | CO | JEFFERSON COUNTY | 08059C0187E | 18-JUN-2003 | 02-08-560V | 19
08 | CO | JEFFERSON COUNTY | 08059C0191E | 18-JUN-2003 | 02-08-560V | 19
08 | CO | JEFFERSON COUNTY | 08059C0192E | 18-JUN-2003 | 02-08-560V | 19
08 | CO | JEFFERSON COUNTY | 08059C0265E | 18-JUN-2003 | 02-08-560V | 19
08 | CO | JEFFERSON COUNTY | 08059C0285E | 18-JUN-2003 | 02-08-560V | 19
08 | CO | JEFFERSON COUNTY | 08059C0295E | 18-JUN-2003 | 02-08-560V | 19
08 | CO | JEFFERSON COUNTY | 08059C0355E | 18-JUN-2003 | 02-08-560V | 19
08 | CO | JEFFERSON COUNTY | 08059C0370E | 18-JUN-2003 | 02-08-560V | 19
08 | CO | JEFFERSON COUNTY | 08059C0380E | 18-JUN-2003 | 02-08-560V | 19
08 | CO | JEFFERSON COUNTY | 08059C0385E | 18-JUN-2003 | 02-08-560V | 19
08 | CO | JEFFERSON COUNTY | 08059C0395E | 18-JUN-2003 | 02-08-560V | 19
08 | CO | JEFFERSON COUNTY | 08059C0405E | 18-JUN-2003 | 02-08-560V | 19
08 | CO | JEFFERSON COUNTY | 08059C0410E | 18-JUN-2003 | 02-08-560V | 19
08 | CO | JEFFERSON COUNTY | 08059C0415E | 18-JUN-2003 | 02-08-560V | 19
08 | CO | JEFFERSON COUNTY | 0800870380C | 25-JUN-2003 | 03-08-0099P | 05
08 | CO | JEFFERSON COUNTY | 0800870360B | 23-JAN-2003 | 03-08-0126A | 02
08 | CO | JEFFERSON COUNTY | 0800870270B | 02-MAY-2003 | 03-08-0221A | 02
08 | CO | JEFFERSON COUNTY | 0800870170B | 16-APR-2003 | 03-08-0248A | 02
08 | CO | JEFFERSON COUNTY | 08059C0410E | 26-JUN-2003 | 03-08-0456P | 05
08 | CO | LA PLATA COUNTY | 0800970259C | 02-JUN-2003 | 03-08-0396A | 02
08 | CO | LA PLATA COUNTY | 0800970384C | 25-JUN-2003 | 03-08-0430A | 02
08 | CO | LAKEWOOD, CITY OF | 08059C0194E | 18-JUN-2003 | 02-08-560V | 19
08 | CO | LAKEWOOD, CITY OF | 08059C0285E | 18-JUN-2003 | 02-08-560V | 19
08 | CO | LAKEWOOD, CITY OF | 08059C0302E | 18-JUN-2003 | 02-08-560V | 19
08 | CO | LAKEWOOD, CITY OF | 08059C0305E | 18-JUN-2003 | 02-08-560V | 19
08 | CO | LAKEWOOD, CITY OF | 08059C0310E | 18-JUN-2003 | 02-08-560V | 19
08 | CO | LAKEWOOD, CITY OF | 08059C0315E | 18-JUN-2003 | 02-08-560V | 19
08 | CO | LAKEWOOD, CITY OF | 0850750010C | 05-JUN-2003 | 03-08-0090P | 05
08 | CO | LAKEWOOD, CITY OF | 0850750005C | 09-APR-2003 | 03-08-0258A | 02
08 | CO | LAKEWOOD, CITY OF | 0850750005C | 25-APR-2003 | 03-08-0331A | 02
08 | CO | LAKEWOOD, CITY OF | 0850750010C | 27-MAY-2003 | 03-08-0356A | 02
08 | CO | LAKEWOOD, CITY OF | 08059C0305E | 18-JUN-2003 | 03-08-0392A | 02
08 | CO | LARIMER COUNTY | 0801010204B | 07-MAY-2003 | 03-08-0363A | 02
08 | CO | LIMON, TOWN OF | 0801090001B | 16-APR-2003 | 03-08-0307A | 02
08 | CO | LITTLETON, CITY OF | 0800170010D | 27-MAR-2003 | 03-08-0259A | 02
08 | CO | LITTLETON, CITY OF | 0800170005D | 18-JUN-2003 | 03-08-0460P | 06
08 | CO | LITTLETON, CITY OF | 080017IND0 | 18-JUN-2003 | 03-08-0460P | 06
08 | CO | LOUISVILLE, CITY OF | 08013C0559G | 23-JAN-2003 | 03-08-0130A | 01
08 | CO | LOUISVILLE, CITY OF | 08013C0559G | 17-MAR-2003 | 03-08-0185A | 01
08 | CO | LOUISVILLE, CITY OF | 08013C0559G | 07-MAY-2003 | 03-08-0288A | 02
08 | CO | MANITOU SPRINGS, CITY OF | 08041C0706F | 13-MAR-2003 | 03-08-0231A | 02
08 | CO | MANITOU SPRINGS, CITY OF | 08041C0707F | 02-MAY-2003 | 03-08-0274A | 02
08 | CO | MANITOU SPRINGS, CITY OF | 08041C0706F | 06-JUN-2003 | 03-08-0367A | 02
08 | CO | PALMER LAKE, TOWN OF | 08041C0260F | 04-JUN-2003 | 03-08-0314A | 17
08 | CO | PARKER, TOWN OF | 0803100070D | 16-JAN-2003 | 02-08-171P | 05
08 | CO | PARKER, TOWN OF | 0803100090B | 25-JUN-2003 | 02-08-491P | 05
08 | CO | PUEBLO COUNTY | 0801470225B | 26-FEB-2003 | 03-08-0176A | 02
08 | CO | PUEBLO COUNTY | 0801470225B | 23-APR-2003 | 03-08-0266A | 02
08 | CO | ROUTT COUNTY | 0801560295A | 07-APR-2003 | 03-08-0282A | 02
08 | CO | SHERIDAN, CITY OF | 08005C0145J | 18-JUN-2003 | 03-08-0451A | 02
08 | CO | STEAMBOAT SPRINGS, CITY OF | 0801590002C | 11-APR-2003 | 03-08-0182A | 02
08 | CO | SUPERIOR, TOWN OF | 08013C0562G | 18-JUN-2003 | 03-08-0444P | 06
08 | CO | SUPERIOR, TOWN OF | 08013C0566G | 18-JUN-2003 | 03-08-0444P | 06
08 | CO | SUPERIOR, TOWN OF | 08013C0567G | 18-JUN-2003 | 03-08-0444P | 06
08 | CO | SUPERIOR, TOWN OF | 08013CIND0A | 18-JUN-2003 | 03-08-0444P | 06
08 | CO | THORNTON, CITY OF | 08001C0335G | 30-JAN-2003 | 02-08-283P | 05
08 | CO | VAIL, TOWN OF | 0800540002C | 18-JUN-2003 | 03-08-0465A | 02
08 | CO | WELD COUNTY | 0802660855C | 02-JAN-2003 | 03-08-0025A | 02
08 | CO | WELD COUNTY | 0802660750C | 25-APR-2003 | 03-08-0254A | 02
08 | CO | WELD COUNTY | 0802660480C | 27-JUN-2003 | 03-08-0404A | 02
08 | CO | WESTMINSTER, CITY OF | 0800080001B | 29-MAY-2003 | 02-08-211P | 05
08 | CO | WESTMINSTER, CITY OF | 08059C0084E | 18-JUN-2003 | 02-08-560V | 19
08 | CO | WESTMINSTER, CITY OF | 08059C0092E | 18-JUN-2003 | 02-08-560V | 19
08 | CO | WESTMINSTER, CITY OF | 08059C0093E | 18-JUN-2003 | 02-08-560V | 19
08 | CO | WESTMINSTER, CITY OF | 08059C0208E | 18-JUN-2003 | 02-08-560V | 19
08 | CO | WESTMINSTER, CITY OF | 0800080010C | 20-JAN-2003 | 03-08-0044P | 06
08 | CO | WHEAT RIDGE, CITY OF | 08059C0194E | 18-JUN-2003 | 02-08-560V | 19
08 | CO | WHEAT RIDGE, CITY OF | 08059C0215E | 18-JUN-2003 | 02-08-560V | 19
08 | CO | WHEAT RIDGE, CITY OF | 0850790005C | 12-FEB-2003 | 03-08-0203A | 02
08 | CO | WHEAT RIDGE, CITY OF | 0850790005C | 07-APR-2003 | 03-08-0205P | 06
08 | MT | ANACONDA-DEER LODGE COUNTY | 3000170040B | 01-MAY-2003 | 03-08-0303A | 02
08 | MT | BOZEMAN, CITY OF | 3000280016C | 21-MAY-2003 | 03-08-0252A | 02
08 | MT | BOZEMAN, CITY OF | 3000280016C | 21-MAY-2003 | 03-08-0339A | 02
08 | MT | BUTTE-SILVER BOW COUNTY | 3000770340D | 16-APR-2003 | 03-08-0271A | 02
08 | MT | BUTTE-SILVER BOW COUNTY | 3000770193D | 16-APR-2003 | 03-08-0297A | 02
08 | MT | CARBON COUNTY | 3001390315C | 05-FEB-2003 | 03-08-0137A | 02
08 | MT | CARBON COUNTY | 3001390315A | 10-MAR-2003 | 03-08-0200A | 02
08 | MT | CARBON COUNTY | 3001390315C | 16-APR-2003 | 03-08-0290X | 02
08 | MT | CASCADE COUNTY | 3000080415A | 10-MAR-2003 | 02-08-540A | 17
08 | MT | CASCADE COUNTY | 3000080240C | 26-FEB-2003 | 03-08-0260A | 02
08 | MT | CASCADE COUNTY | 3000080415B | 19-MAR-2003 | 03-08-0299X | 17
08 | MT | CASCADE COUNTY | 3000080409B | 23-APR-2003 | 03-08-0317A | 02
08 | MT | FLATHEAD COUNTY | 3000231845E | 04-FEB-2003 | 03-08-0154A | 02
08 | MT | FLATHEAD COUNTY | 3000232315D | 04-FEB-2003 | 03-08-0156A | 02
08 | MT | FLATHEAD COUNTY | 3000232290C | 13-MAR-2003 | 03-08-0224A | 02
08 | MT | FLATHEAD COUNTY | 3000231845E | 09-APR-2003 | 03-08-0255A | 02
08 | MT | FLATHEAD COUNTY | 3000231820F | 21-MAY-2003 | 03-08-0381A | 17
08 | MT | FLATHEAD COUNTY | 3000232315D | 25-JUN-2003 | 03-08-0457A | 02
08 | MT | GALLATIN COUNTY | 3000270190B | 21-JAN-2003 | 03-08-0075A | 02
08 | MT | GRANITE COUNTY | 3001410575A | 06-MAR-2003 | 03-08-0186A | 02
08 | MT | GRANITE COUNTY | 3001410525A | 09-APR-2003 | 03-08-0245A | 01
08 | MT | JEFFERSON COUNTY | 3001540550B | 25-JUN-2003 | 03-08-0262A | 02
08 | MT | LAKE COUNTY | 30047C0015B | 21-JAN-2003 | 03-08-0129A | 02
08 | MT | LAKE COUNTY | 30047C0015B | 19-MAR-2003 | 03-08-0246A | 02
08 | MT | LAKE COUNTY | 30047C0015B | 02-MAY-2003 | 03-08-0341A | 02
08 | MT | LAKE COUNTY | 30047C0100B | 28-MAY-2003 | 03-08-0387A | 02
08 | MT | LAKE COUNTY | 30047C0175B | 27-JUN-2003 | 03-08-0395A | 02
08 | MT | LEWIS AND CLARK COUNTY | 3000381570D | 24-MAR-2003 | 03-08-0220A | 02
08 | MT | LINCOLN COUNTY | 3001570595B | 12-MAR-2003 | 02-08-032P | 06
08 | MT | LINCOLN COUNTY | 3001570325B | 09-MAY-2003 | 03-08-0228A | 02
08 | MT | LINCOLN COUNTY | 3001570650B | 09-MAY-2003 | 03-08-0310A | 02
08 | MT | LINCOLN COUNTY | 3001570475B | 09-MAY-2003 | 03-08-0328A | 02
08 | MT | LINCOLN COUNTY | 3001570620B | 09-MAY-2003 | 03-08-0354A | 02
08 | MT | MISSOULA COUNTY | 30063C1190D | 18-JUN-2003 | 03-08-0296A | 02
08 | MT | PARK COUNTY | 3001600016B | 08-JAN-2003 | 03-08-0119A | 02
08 | MT | PARK COUNTY | 3001600020B | 21-JAN-2003 | 03-08-0122A | 02
08 | MT | PARK COUNTY | 3001600017B | 03-JAN-2003 | 03-08-0151X | 02
08 | MT | RAVALLI COUNTY | 30081C0110C | 19-MAR-2003 | 03-08-0098A | 17
08 | MT | RAVALLI COUNTY | 30081C0110C | 23-JAN-2003 | 03-08-0125A | 02
08 | MT | RAVALLI COUNTY | 30081C0045C | 16-APR-2003 | 03-08-0209A | 02
08 | MT | RAVALLI COUNTY | 30081C0120C | 21-APR-2003 | 03-08-0373X | 17
08 | MT | RAVALLI COUNTY | 30081C0110C | 25-JUN-2003 | 03-08-0468X | 02
08 | MT | SUPERIOR, TOWN OF | 3001280005A | 23-MAY-2003 | 02-08-440P | 06
08 | MT | THREE FORKS, CITY OF | 3000290001B | 12-FEB-2003 | 03-08-0143A | 01
08 | MT | THREE FORKS, CITY OF | 3000290001B | 27-MAR-2003 | 03-08-0257A | 02
08 | ND | BISMARCK, CITY OF | 3801490025A | 15-JAN-2003 | 02-08-475A | 01
08 | ND | BISMARCK, CITY OF | 3801490025A | 15-JAN-2003 | 03-08-0063A | 01
08 | ND | BISMARCK, CITY OF | 3801490020B | 09-APR-2003 | 03-08-0140A | 01
08 | ND | BISMARCK, CITY OF | 3801490020B | 17-MAR-2003 | 03-08-0166A | 01
08 | ND | BISMARCK, CITY OF | 3801490025A | 13-MAR-2003 | 03-08-0201A | 01
08 | ND | BURLEIGH COUNTY | 3800170780A | 02-MAY-2003 | 03-08-0352A | 02
08 | ND | FARGO, CITY OF | 3853640030D | 10-FEB-2003 | 03-08-0136A | 01
08 | ND | GRAFTON, CITY OF | 3801370001C | 06-MAR-2003 | 03-08-0159A | 01
08 | ND | GRAFTON, CITY OF | 3801370003C | 06-MAR-2003 | 03-08-0204A | 02
08 | ND | GRAFTON, CITY OF | 3801370001C | 07-APR-2003 | 03-08-0275A | 02
08 | ND | GRAND FORKS COUNTY | 3800330004B | 27-JUN-2003 | 03-08-0399A | 02
08 | ND | GRAND FORKS, CITY OF | 3853650010D | 10-FEB-2003 | 03-08-0171A | 01
08 | ND | GRAND FORKS, CITY OF | 3853650010D | 10-FEB-2003 | 03-08-0178A | 01
08 | ND | GRAND FORKS, CITY OF | 3853650010D | 10-FEB-2003 | 03-08-0181A | 01
08 | ND | HARWOOD, CITY OF | 3803380002C | 23-JAN-2003 | 02-08-542A | 01
08 | ND | HARWOOD, CITY OF | 3803380001C | 14-MAY-2003 | 03-08-0325A | 01
08 | ND | HARWOOD, CITY OF | 3803380002C | 14-MAY-2003 | 03-08-0325A | 01
08 | ND | HAZEN, CITY OF | 3800670005D | 13-MAR-2003 | 03-08-0226A | 02
08 | ND | MANDAN, CITY OF | 3800720020B | 06-MAR-2003 | 03-08-0134A | 01
08 | ND | MANDAN, CITY OF | 3800720020B | 06-MAR-2003 | 03-08-0172A | 01
08 | ND | MANDAN, CITY OF | 3800720020B | 27-MAR-2003 | 03-08-0227A | 01
08 | ND | MAYVILLE, CITY OF | 3801330001B | 25-APR-2003 | 03-08-0157A | 02
08 | ND | STANLEY, TOWNSHIP OF | 3802580005B | 17-MAR-2003 | 03-08-0168A | 02
08 | ND | STANLEY, TOWNSHIP OF | 3802580005B | 03-MAR-2003 | 03-08-0189A | 01
08 | ND | STANLEY, TOWNSHIP OF | 3802580005B | 19-MAR-2003 | 03-08-0207A | 02
08 | ND | WALCOTT, TOWNSHIP OF | 3800980002B | 03-APR-2003 | 03-08-0222A | 01
08 | ND | WALSH COUNTY | 3801350014B | 23-APR-2003 | 03-08-0263A | 02
08 | ND | WALSH COUNTY | 3801350014B | 23-APR-2003 | 03-08-0264A | 01
08 | SD | ABERDEEN, CITY OF | 46013C0330C | 02-JAN-2003 | 02-08-414A | 01
08 | SD | ABERDEEN, CITY OF | 46013C0330C | 10-FEB-2003 | 03-08-0107A | 01
08 | SD | ABERDEEN, CITY OF | 46013C0265C | 01-MAY-2003 | 03-08-0291A | 01
08 | SD | ABERDEEN, CITY OF | 46013C0265C | 01-MAY-2003 | 03-08-0348A | 02
08 | SD | ABERDEEN, CITY OF | 46013C0310C | 07-MAY-2003 | 03-08-0361A | 02
08 | SD | ABERDEEN, CITY OF | 46013C0265C | 11-JUN-2003 | 03-08-0368A | 01
08 | SD | ABERDEEN, CITY OF | 46013C0265C | 04-JUN-2003 | 03-08-0417A | 02
08 | SD | ABERDEEN, CITY OF | 46013C0265C | 04-JUN-2003 | 03-08-0427A | 01
08 | SD | BEADLE COUNTY | 4602510003B | 04-FEB-2003 | 03-08-0194A | 02
08 | SD | BROOKINGS, CITY OF | 4600040005B | 03-APR-2003 | 03-08-0187A | 01
08 | SD | BROWN COUNTY | 46013C0265C | 16-APR-2003 | 03-08-0345A | 02
08 | SD | CUSTER, CITY OF | 4600190001E | 25-JUN-2003 | 03-08-0455A | 17
08 | SD | DELL RAPIDS, CITY OF | 4600590001A | 25-JUN-2003 | 03-08-0470A | 02
08 | SD | GROTON, CITY OF | 46013C0352C | 04-JUN-2003 | 03-08-0377A | 02
08 | SD | GROTON, CITY OF | 46013C0352C | 04-JUN-2003 | 03-08-0420A | 02
08 | SD | GROTON, CITY OF | 46013C0352C | 27-JUN-2003 | 03-08-0473A | 01
08 | SD | LAKE COUNTY | 4602760150B | 19-MAR-2003 | 03-08-0068A | 02
08 | SD | LAKE COUNTY | 4602760150B | 21-MAY-2003 | 03-08-0376A | 02
08 | SD | LAWRENCE COUNTY | 4600940200B | 03-MAR-2003 | 03-08-0148A | 01
08 | SD | LINCOLN COUNTY | 4602770004B | 27-MAR-2003 | 03-08-0218A | 02
08 | SD | LINCOLN COUNTY | 4602770001B | 25-JUN-2003 | 03-08-0383A | 02
08 | SD | MADISON, CITY OF | 4600440001B | 18-JUN-2003 | 03-08-0426A | 02
08 | SD | MINNEHAHA COUNTY | 4600570055C | 06-MAY-2003 | 99-08-412V | 19
08 | SD | MINNEHAHA COUNTY | 4600570065C | 06-MAY-2003 | 99-08-412V | 19
08 | SD | MINNEHAHA COUNTY | 4600570100C | 06-MAY-2003 | 99-08-412V | 19
08 | SD | MINNEHAHA COUNTY | 4600570110C | 06-MAY-2003 | 99-08-412V | 19
08 | SD | MINNEHAHA COUNTY | 4600570170C | 06-MAY-2003 | 99-08-412V | 19
08 | SD | MINNEHAHA COUNTY | 4600570200C | 06-MAY-2003 | 99-08-412V | 19
08 | SD | NEW UNDERWOOD, CITY OF | 4600920001D | 16-APR-2003 | 03-08-0315A | 02
08 | SD | PENNINGTON COUNTY | 4600640767C | 04-FEB-2003 | 02-08-254P | 06
08 | SD | PENNINGTON COUNTY | 4600640769B | 04-FEB-2003 | 02-08-254P | 06
08 | SD | PHILIP, CITY OF | 460033—01B | 10-MAR-2003 | 03-08-0100A | 02
08 | SD | PHILIP, CITY OF | 460033—01B | 10-MAR-2003 | 03-08-0142A | 02
08 | SD | PHILIP, CITY OF | 460033—01B | 10-MAR-2003 | 03-08-0149A | 02
08 | SD | RAPID CITY, CITY OF | 4654200003F | 26-FEB-2003 | 03-08-0177A | 02
08 | SD | RAPID CITY, CITY OF | 4654200006F | 10-MAR-2003 | 03-08-0208A | 02
08 | SD | RAPID CITY, CITY OF | 4654200003F | 18-JUN-2003 | 03-08-0428A | 02
08 | SD | SIOUX FALLS, CITY OF | 4600600015C | 02-MAY-2003 | 03-08-0217A | 01
08 | SD | SIOUX FALLS, CITY OF | 4600570110B | 26-FEB-2003 | 03-08-0261X | 01
08 | SD | SPEARFISH, CITY OF | 4600460004E | 06-FEB-2003 | 00-08-177V | 19
08 | SD | SPEARFISH, CITY OF | 4600460005E | 06-FEB-2003 | 00-08-177V | 19
08 | SD | UNION COUNTY | 460242—40D | 21-JAN-2003 | 03-08-0093A | 01
08 | SD | UNION COUNTY | 460242——23D | 09-JAN-2003 | 03-08-0105A | 02
08 | SD | UNION COUNTY | 460242—40D | 05-FEB-2003 | 03-08-0160A | 02
08 | SD | UNION COUNTY | 460242—32D | 09-MAY-2003 | 03-08-0371A | 02
08 | SD | UNION COUNTY | 4602420040D | 20-JUN-2003 | 03-08-0450A | 02
08 | SD | WATERTOWN, CITY OF | 4600160010B | 02-JAN-2003 | 02-08-512A | 01
08 | SD | WATERTOWN, CITY OF | 4600160010B | 27-MAY-2003 | 03-08-0344A | 02
08 | UT | BOUNTIFUL, CITY OF | 4900390005C | 12-FEB-2003 | 02-08-347P | 06
08 | UT | BOX ELDER COUNTY | 4900050027C | 06-MAR-2003 | 03-08-0021A | 02
08 | UT | CEDAR CITY, CITY OF | 4900740003B | 11-JUN-2003 | 03-08-0146A | 01
08 | UT | CEDAR CITY, CITY OF | 4900740004B | 11-JUN-2003 | 03-08-0146A | 01
08 | UT | DRAPER, CITY OF | 49035C0444F | 31-MAR-2003 | 03-08-0273X | 05
08 | UT | DRAPER, CITY OF | 49035C0463E | 31-MAR-2003 | 03-08-0273X | 05
08 | UT | FARMINGTON, CITY OF | 4900440002D | 27-JAN-2003 | 03-08-0132A | 02
08 | UT | FARMINGTON, CITY OF | 4900440002D | 11-JUN-2003 | 03-08-0391A | 02
08 | UT | GARFIELD COUNTY | 4900650450B | 03-APR-2003 | 03-08-0256A | 02
08 | UT | HERRIMAN, TOWN OF | 49035C0420E | 23-APR-2003 | 03-08-0045P | 06
08 | UT | HERRIMAN, TOWN OF | 49035C0575E | 23-APR-2003 | 03-08-0045P | 06
08 | UT | LEHI, CITY OF | 4902090110C | 02-MAY-2003 | 03-08-0289A | 01
08 | UT | LOGAN, CITY OF | 4900190005B | 20-FEB-2003 | 03-08-0183A | 02
08 | UT | MURRAY, CITY OF | 49035C0291F | 09-JAN-2003 | 03-08-0073A | 01
08 | UT | MURRAY, CITY OF | 49035C0292F | 09-JAN-2003 | 03-08-0073A | 01
08 | UT | OAKLEY, TOWN OF | 4901380001B | 04-FEB-2003 | 03-08-0131A | 02
08 | UT | OAKLEY, TOWN OF | 4901380001B | 09-APR-2003 | 03-08-0244A | 02
08 | UT | PARK CITY, CITY OF | 4901390005B | 03-MAR-2003 | 03-08-0192A | 02
08 | UT | RIVERTON, CITY OF | 49035C0440F | 15-JAN-2003 | 03-08-0079A | 02
08 | UT | RIVERTON, CITY OF | 49035C0440F | 03-APR-2003 | 03-08-0330A | 02
08 | UT | SALT LAKE CITY, CITY OF | 49035C0143E | 21-JAN-2003 | 03-08-0052A | 02
08 | UT | SALT LAKE CITY, CITY OF | 49035C0143E | 02-JAN-2003 | 03-08-0109A | 02
08 | UT | SALT LAKE CITY, CITY OF | 49035C0301E | 05-FEB-2003 | 03-08-0147A | 02
08 | UT | SALT LAKE COUNTY | 49035C0420E | 23-APR-2003 | 03-08-0045P | 06
08 | UT | SALT LAKE COUNTY | 49035C0575E | 23-APR-2003 | 03-08-0045P | 06
08 | UT | SALT LAKE COUNTY | 49035C0458E | 12-FEB-2003 | 03-08-0118A | 02
08 | UT | SALT LAKE COUNTY | 49035C0452E | 19-MAR-2003 | 03-08-0211A | 02
08 | UT | SALT LAKE COUNTY | 49035C0188E | 31-MAR-2003 | 03-08-0267A | 02
08 | UT | SALT LAKE COUNTY | 49035C0458E | 23-APR-2003 | 03-08-0280A | 02
08 | UT | SALT LAKE COUNTY | 49035C0304E | 23-APR-2003 | 03-08-0316A | 02
08 | UT | SANDY CITY, CITY OF | 49035C0462E | 01-MAY-2003 | 03-08-0135A | 02
08 | UT | SANDY CITY, CITY OF | 49035C0462E | 23-APR-2003 | 03-08-0319A | 02
08 | UT | SARATOGA SPRINGS, CITY OF | 4902500115A | 08-JAN-2003 | 03-08-0074A | 01
08 | UT | SOUTH JORDAN, CITY OF | 49035C0441F | 20-JUN-2003 | 03-08-0412A | 02
08 | UT | SPANISH FORK, CITY OF | 4902410025A | 16-FEB-2003 | 01-08-306P | 05
08 | UT | ST. GEORGE, CITY OF | 4901770050D | 27-MAR-2003 | 02-08-101P | 05
08 | UT | ST. GEORGE, CITY OF | 4901770029D | 16-MAY-2003 | 03-08-0301A | 02
08 | UT | SUMMIT COUNTY | 4901340550B | 19-FEB-2003 | 03-08-0161A | 02
08 | UT | SUMMIT COUNTY | 4901340525B | 11-APR-2003 | 03-08-0346A | 02
08 | UT | UINTAH COUNTY | 4901470014C | 19-MAR-2003 | 03-08-0031A | 02
08 | UT | UINTAH COUNTY | 4901470014C | 05-FEB-2003 | 03-08-0153A | 02
08 | UT | WASHINGTON,CITY OF | 4901820015C | 19-MAR-2003 | 02-08-546A | 01
08 | UT | WASHINGTON,CITY OF | 4901820015C | 17-MAR-2003 | 03-08-0057A | 02
08 | UT | WASHINGTON,CITY OF | 4901820015C | 26-FEB-2003 | 03-08-0175A | 02
08 | UT | WASHINGTON,CITY OF | 4901820015C | 27-JUN-2003 | 03-08-0421A | 02
08 | UT | WEBER COUNTY | 4901870175B | 27-JUN-2003 | 03-08-0386A | 02
08 | UT | WOODS CROSS, CITY OF | 490054B—01 | 12-FEB-2003 | 02-08-347P | 06
08 | WY | CASPER, CITY OF | 5600370010C | 09-APR-2003 | 03-08-0292A | 02
08 | WY | CHEYENNE, CITY OF | 5600300005E | 06-MAR-2003 | 03-08-0115A | 02
08 | WY | GILLETTE, CITY OF | 5600070005C | 07-MAY-2003 | 03-08-0369A | 02
08 | WY | JACKSON, TOWN OF | 56039C0660B | 23-APR-2003 | 03-08-0326A | 02
08 | WY | LARAMIE COUNTY | 5600290500D | 12-FEB-2003 | 03-08-0150A | 02
08 | WY | LARAMIE COUNTY | 5600290505D | 27-MAY-2003 | 03-08-0173A | 02
08 | WY | PARK COUNTY | 5600850029B | 23-APR-2003 | 03-08-0191A | 02
08 | WY | PARK COUNTY | 5600850029B | 16-MAY-2003 | 03-08-0337A | 02
08 | WY | ROCK SPRINGS, CITY OF | 5600510005E | 11-JUN-2003 | 03-08-0322A | 02
08 | WY | SHERIDAN, CITY OF | 5600440005D | 12-FEB-2003 | 03-08-0050A | 17
08 | WY | TETON COUNTY | 56039C0800B | 03-MAR-2003 | 03-08-0193A | 02
08 | WY | WORLAND, CITY OF | 5600560001C | 09-MAY-2003 | 03-08-0351A | 01
09 | AZ | AVONDALE, CITY OF | 04013C2080H | 22-MAY-2003 | 02-09-190P | 05
09 | AZ | AVONDALE, CITY OF | 04013C2090G | 22-MAY-2003 | 02-09-190P | 05
09 | AZ | AVONDALE, CITY OF | 04013C2080H | 12-FEB-2003 | 03-09-0278P | 05
09 | AZ | BUCKEYE, TOWN OF | 04013C1570F | 20-MAY-2003 | 03-09-0245P | 05
09 | AZ | BUCKEYE, TOWN OF | 04013C2035G | 20-MAY-2003 | 03-09-0245P | 05
09 | AZ | CASA GRANDE, CITY OF | 0400800010C | 03-MAR-2003 | 03-09-0480A | 01
09 | AZ | CASA GRANDE, CITY OF | 0400800010C | 27-JUN-2003 | 03-09-1216A | 01
09 | AZ | CHANDLER, CITY OF | 04013C3030G | 07-MAY-2003 | 03-09-0353P | 05
09 | AZ | CHANDLER, CITY OF | 04013C3030G | 19-MAR-2003 | 03-09-0377A | 01
09 | AZ | CHANDLER, CITY OF | 04013C2670G | 26-FEB-2003 | 03-09-0530A | 02
09 | AZ | CHANDLER, CITY OF | 04013C2670G | 14-APR-2003 | 03-09-0695P | 06
09 | AZ | CHANDLER, CITY OF | 04013C2670G | 12-MAY-2003 | 03-09-0917X | 06
09 | AZ | COCHISE COUNTY | 0400121232D | 03-APR-2003 | 01-09-880V | 19
09 | AZ | COCHISE COUNTY | 0400121251E | 03-APR-2003 | 01-09-880V | 19
09 | AZ | COCHISE COUNTY | 0400121253E | 03-APR-2003 | 01-09-880V | 19
09 | AZ | COCHISE COUNTY | 0400121275D | 03-APR-2003 | 01-09-880V | 19
09 | AZ | COCONINO COUNTY | 0400193964C | 30-JAN-2003 | 02-09-1336P | 05
09 | AZ | EL MIRAGE, CITY OF | 04013C1615J | 15-MAY-2003 | 01-09-017P | 05
09 | AZ | EL MIRAGE, CITY OF | 04013C1620G | 15-MAY-2003 | 01-09-017P | 05
09 | AZ | FLAGSTAFF, CITY OF | 0400200007D | 13-JUN-2003 | 03-09-1025A | 02
09 | AZ | GILA COUNTY | 0400280285B | 09-MAY-2003 | 03-09-0730A | 17
09 | AZ | GILBERT, TOWN OF | 04013C2670G | 20-FEB-2003 | 03-09-0085A | 01
09 | AZ | GILBERT, TOWN OF | 04013C2655F | 21-APR-2003 | 03-09-0328A | 01
09 | AZ | GILBERT, TOWN OF | 04013C2655F | 13-MAR-2003 | 03-09-0485A | 01
09 | AZ | GILBERT, TOWN OF | 04013C2655F | 09-APR-2003 | 03-09-0617A | 01
09 | AZ | GILBERT, TOWN OF | 04013C2660F | 07-APR-2003 | 03-09-0646A | 01
09 | AZ | GILBERT, TOWN OF | 04013C2680G | 13-JUN-2003 | 03-09-0931A | 01
09 | AZ | GLENDALE, CITY OF | 04013C1615J | 15-MAY-2003 | 01-09-017P | 05
09 | AZ | GLENDALE, CITY OF | 04013C1620G | 15-MAY-2003 | 01-09-017P | 05
09 | AZ | GLENDALE, CITY OF | 04013C1645F | 27-MAR-2003 | 03-09-0497A | 01
09 | AZ | GOODYEAR, CITY OF | 04013C2060F | 08-JAN-2003 | 02-09-1489A | 01
09 | AZ | GOODYEAR, CITY OF | 04013C2060F | 21-JAN-2003 | 02-09-272P | 06
09 | AZ | GOODYEAR, CITY OF | 04013C2080H | 21-JAN-2003 | 02-09-272P | 06
09 | AZ | LITCHFIELD PARK, CITY OF | 04013C2060F | 21-JAN-2003 | 02-09-272P | 06
09 | AZ | LITCHFIELD PARK, CITY OF | 04013C2080H | 21-JAN-2003 | 02-09-272P | 06
09 | AZ | MARANA, TOWN OF | 04019C0980K | 23-MAY-2003 | 02-09-1386P | 06
09 | AZ | MARANA, TOWN OF | 04019C1605K | 27-JAN-2003 | 02-09-1491A | 02
09 | AZ | MARICOPA COUNTY | 04013C1615J | 15-MAY-2003 | 01-09-017P | 05
09 | AZ | MARICOPA COUNTY | 04013C1620G | 15-MAY-2003 | 01-09-017P | 05
09 | AZ | MARICOPA COUNTY | 04013C0780G | 23-JAN-2003 | 03-09-0234A | 02
09 | AZ | MARICOPA COUNTY | 04013C0780G | 26-FEB-2003 | 03-09-0248A | 01
09 | AZ | MARICOPA COUNTY | 04013C0375F | 24-APR-2003 | 03-09-0302P | 06
09 | AZ | MARICOPA COUNTY | 04013C0795G | 04-FEB-2003 | 03-09-0380A | 02
09 | AZ | MARICOPA COUNTY | 04013C0780G | 10-MAR-2003 | 03-09-0609X | 01
09 | AZ | MESA, CITY OF | 04013C2180F | 17-APR-2003 | 02-09-950P | 05
09 | AZ | MESA, CITY OF | 04013C2185F | 17-APR-2003 | 02-09-950P | 05
09 | AZ | MESA, CITY OF | 04013C2190F | 17-APR-2003 | 02-09-950P | 05
09 | AZ | MESA, CITY OF | 04013C2195F | 17-APR-2003 | 02-09-950P | 05
09 | AZ | MESA, CITY OF | 04013C2195F | 13-MAR-2003 | 03-09-0375A | 01
09 | AZ | MESA, CITY OF | 04013C2195F | 13-JUN-2003 | 03-09-0835A | 01
09 | AZ | MOHAVE COUNTY | 0400582350C | 27-JAN-2003 | 03-09-0263A | 02
09 | AZ | MOHAVE COUNTY | 0400580025B | 11-APR-2003 | 03-09-0443A | 02
09 | AZ | MOHAVE COUNTY | 0400582140C | 25-JUN-2003 | 03-09-0925A | 02
09 | AZ | ORO VALLEY, TOWN OF | 04019C1039K | 31-MAR-2003 | 03-09-0206A | 02
09 | AZ | PAYSON, TOWN OF | 0401070003A | 20-JUN-2003 | 03-09-0742A | 01
09 | AZ | PEORIA, CITY OF | 04013C1615J | 15-MAY-2003 | 01-09-017P | 05
09 | AZ | PEORIA, CITY OF | 04013C1620G | 15-MAY-2003 | 01-09-017P | 05
09 | AZ | PHOENIX, CITY OF | 04013C1665H | 29-MAY-2003 | 03-09-0290P | 05
09 | AZ | PHOENIX, CITY OF | 04013C2130F | 29-MAY-2003 | 03-09-0290P | 05
09 | AZ | PHOENIX, CITY OF | 04013C2105E | 24-MAR-2003 | 03-09-0468A | 02
09 | AZ | PHOENIX, CITY OF | 04013C1215J | 10-APR-2003 | 03-09-0505P | 06
09 | AZ | PHOENIX, CITY OF | 04013C1660G | 28-MAY-2003 | 03-09-0508P | 05
09 | AZ | PHOENIX, CITY OF | 04013C1655J | 25-MAR-2003 | 03-09-0573P | 06
09 | AZ | PHOENIX, CITY OF | 04013C1690F | 09-APR-2003 | 03-09-0654A | 02
09 | AZ | PHOENIX, CITY OF | 04013C1670F | 27-JUN-2003 | 03-09-0765A | 02
09 | AZ | PHOENIX, CITY OF | 04013C2130F | 09-MAY-2003 | 03-09-0846A | 02
09 | AZ | PHOENIX, CITY OF | 04013C2155F | 28-MAY-2003 | 03-09-0906A | 02
09 | AZ | PHOENIX, CITY OF | 04013C1230G | 18-JUN-2003 | 03-09-1067A | 02
09 | AZ | PIMA COUNTY | 04019C2225K | 30-JUN-2003 | 01-09-407P | 05
09 | AZ | PIMA COUNTY | 04019C2825K | 30-JUN-2003 | 01-09-407P | 05
09 | AZ | PIMA COUNTY | 04019C1670K | 08-JAN-2003 | 03-09-0176A | 02
09 | AZ | PIMA COUNTY | 04019C1635K | 27-JAN-2003 | 03-09-0288A | 02
09 | AZ | PIMA COUNTY | 04019C1630K | 03-APR-2003 | 03-09-0525A | 17
09 | AZ | PIMA COUNTY | 04019C1670K | 11-APR-2003 | 03-09-0671A | 17
09 | AZ | PINAL COUNTY | 0400770125D | 01-MAY-2003 | 03-09-0281A | 02
09 | AZ | PINAL COUNTY | 0400770300C | 19-FEB-2003 | 03-09-0303A | 02
09 | AZ | PINAL COUNTY | 0400770450D | 09-MAY-2003 | 03-09-0634A | 01
09 | AZ | PINAL COUNTY | 0400771475C | 14-MAY-2003 | 03-09-0716A | 01
09 | AZ | PRESCOTT, CITY OF | 04025C2090F | 05-FEB-2003 | 03-09-0369A | 02
09 | AZ | SCOTTSDALE, CITY OF | 04013C2160E | 04-FEB-2003 | 03-09-0086A | 02
09 | AZ | SCOTTSDALE, CITY OF | 04013C2160E | 02-JAN-2003 | 03-09-0183A | 02
09 | AZ | SCOTTSDALE, CITY OF | 04013C2160E | 09-JAN-2003 | 03-09-0203A | 02
09 | AZ | SCOTTSDALE, CITY OF | 04013C2160E | 09-MAY-2003 | 03-09-0843A | 02
09 | AZ | SCOTTSDALE, CITY OF | 04013C1695G | 18-JUN-2003 | 03-09-0860A | 02
09 | AZ | SIERRA VISTA, CITY OF | 0400170005D | 03-APR-2003 | 01-09-880V | 19
09 | AZ | SIERRA VISTA, CITY OF | 0400170015D | 03-APR-2003 | 01-09-880V | 19
09 | AZ | TEMPE, CITY OF | 04013C2165G | 21-JAN-2003 | 03-09-0222A | 02
09 | AZ | TOLLESON, CITY OF | 04013C2085F | 19-MAR-2003 | 03-09-0410A | 01
09 | AZ | TOLLESON, CITY OF | 04013C2095E | 19-MAR-2003 | 03-09-0410A | 01
09 | AZ | TUCSON, CITY OF | 04019C1643K | 12-FEB-2003 | 02-09-1252P | 05
09 | AZ | TUCSON, CITY OF | 04019C2231K | 12-FEB-2003 | 02-09-1252P | 05
09 | AZ | TUCSON, CITY OF | 04019C2254K | 11-APR-2003 | 02-09-926A | 01
09 | AZ | TUCSON, CITY OF | 04019C2226K | 09-JAN-2003 | 03-09-0079A | 01
09 | AZ | TUCSON, CITY OF | 04019C2232K | 10-FEB-2003 | 03-09-0225A | 02
09 | AZ | TUCSON, CITY OF | 04019C2232K | 05-FEB-2003 | 03-09-0329A | 02
09 | AZ | TUCSON, CITY OF | 04019C2232K | 11-JUN-2003 | 03-09-0880A | 02
09 | AZ | TUCSON, CITY OF | 04019C2227K | 06-JUN-2003 | 03-09-0884A | 02
09 | AZ | TUCSON, CITY OF | 04019C2257K | 21-MAY-2003 | 03-09-0893A | 02
09 | AZ | TUCSON, CITY OF | 04019C2210K | 11-JUN-2003 | 03-09-0933A | 02
09 | AZ | TUCSON, CITY OF | 04019C2256K | 25-JUN-2003 | 03-09-1184A | 02
09 | AZ | WILLCOX, CITY OF | 0400180001C | 27-JAN-2003 | 02-09-726P | 05
09 | CA | AGOURA HILLS, CITY OF | 0650430757B | 15-JAN-2003 | 03-09-0175A | 02
09 | CA | ANAHEIM, CITY OF | 06059C0008F | 11-JUN-2003 | 03-09-0733A | 02
09 | CA | ANDERSON, CITY OF | 0603590001C | 24-JUN-2003 | 03-09-0299P | 05
09 | CA | ANDERSON, CITY OF | 0603590001C | 25-JUN-2003 | 03-09-0704X | 05
09 | CA | ARCATA, CITY OF | 0600610002E | 21-JAN-2003 | 03-09-0229A | 02
09 | CA | ARROYO GRANDE, CITY OF | 0603050001C | 08-JAN-2003 | 03-09-0250A | 02
09 | CA | BANNING, CITY OF | 0602460015B | 28-MAY-2003 | 03-09-0710P | 06
09 | CA | BELMONT, CITY OF | 0650160005B | 08-JAN-2003 | 03-09-0233A | 02
09 | CA | BENICIA, CITY OF | 0603680004C | 27-JAN-2003 | 02-09-1518A | 02
09 | CA | BRAWLEY, CITY OF | 0600650600B | 18-JUN-2003 | 03-09-1099A | 02
09 | CA | BUENA PARK, CITY OF | 06059C0005E | 18-JUN-2003 | 02-09-1323P | 05
09 | CA | BUENA PARK, CITY OF | 06059C0005E | 18-JUN-2003 | 03-09-1164P | 05
09 | CA | BUTTE COUNTY | 06007C0520C | 27-JUN-2003 | 03-09-1095A | 02
09 | CA | CAMARILLO, CITY OF | 0650200002B | 30-JAN-2003 | 02-09-583P | 05
09 | CA | CAMARILLO, CITY OF | 0650200005B | 30-JAN-2003 | 02-09-583P | 05
09 | CA | CATHEDRAL CITY, CITY OF | 0607040005D | 25-APR-2003 | 03-09-0477A | 02
09 | CA | CATHEDRAL CITY, CITY OF | 0607040005D | 16-APR-2003 | 03-09-0583A | 01
09 | CA | CITRUS HEIGHTS, CITY OF | 0602620090E | 23-APR-2003 | 03-09-0499A | 17
09 | CA | CITRUS HEIGHTS, CITY OF | 0602620085E | 27-JUN-2003 | 03-09-0642A | 02
09 | CA | CLAYTON, CITY OF | 0600270001C | 09-MAY-2003 | 03-09-0387P | 05
09 | CA | CLAYTON, CITY OF | 0600270001C | 09-MAY-2003 | 03-09-0826A | 01
09 | CA | CLOVIS, CITY OF | 06019C1595F | 17-MAR-2003 | 02-09-1360A | 01
09 | CA | CLOVIS, CITY OF | 06019C1040F | 09-MAY-2003 | 03-09-0854A | 02
09 | CA | CLOVIS, CITY OF | 06019C1580F | 09-MAY-2003 | 03-09-0854A | 02
09 | CA | COLUSA COUNTY | 06011C0535F | 16-MAY-2003 | 99-09-1051V | 19
09 | CA | COLUSA COUNTY | 06011C0810F | 16-MAY-2003 | 99-09-1051V | 19
09 | CA | CONCORD, CITY OF | 0650220006C | 29-JAN-2003 | 03-09-0279A | 02
09 | CA | CONCORD, CITY OF | 0650220010C | 09-MAY-2003 | 03-09-0387P | 06
09 | CA | CONTRA COSTA COUNTY | 0600250290C | 03-APR-2003 | 03-09-0613A | 02
09 | CA | CONTRA COSTA COUNTY | 0600250280C | 23-APR-2003 | 03-09-0745A | 02
09 | CA | CONTRA COSTA COUNTY | 0600250280C | 16-MAY-2003 | 03-09-0836A | 02
09 | CA | CORONA, CITY OF | 0602500005F | 09-MAY-2003 | 03-09-0797A | 02
09 | CA | CORONA, CITY OF | 0602500010D | 09-MAY-2003 | 03-09-0797A | 02
09 | CA | CORTE MADERA, TOWN OF | 0650230001B | 19-MAR-2003 | 03-09-0409A | 02
09 | CA | DANVILLE, TOWN OF | 0607070001B | 03-APR-2003 | 03-09-0406A | 02
09 | CA | DANVILLE, TOWN OF | 0607070001B | 20-JUN-2003 | 03-09-1136A | 02
09 | CA | DAVIS, CITY OF | 0604240009C | 21-JAN-2003 | 03-09-0363A | 02
09 | CA | DAVIS, CITY OF | 0604240017C | 21-JAN-2003 | 03-09-0363A | 02
09 | CA | DAVIS, CITY OF | 0604240017C | 21-JAN-2003 | 03-09-0364A | 02
09 | CA | DEL NORTE COUNTY | 0650250025B | 19-MAR-2003 | 03-09-0276A | 02
09 | CA | EAST PALO ALTO, CITY OF | 0607080001B | 03-APR-2003 | 03-09-0591A | 02
09 | CA | EAST PALO ALTO, CITY OF | 0607080001B | 09-APR-2003 | 03-09-0679A | 01
09 | CA | EL CAJON, CITY OF | 06073C1662F | 25-JUN-2003 | 03-09-0942A | 02
09 | CA | ELK GROVE, CITY OF | 0602620320E | 02-JAN-2003 | 03-09-0219A | 02
09 | CA | ELK GROVE, CITY OF | 0602620315D | 11-JUN-2003 | 03-09-0966A | 02
09 | CA | ESCONDIDO, CITY OF | 06073C0811F | 24-APR-2003 | 02-09-714P | 05
09 | CA | ESCONDIDO, CITY OF | 06073C0812F | 24-APR-2003 | 02-09-714P | 05
09 | CA | ESCONDIDO, CITY OF | 06073C1076F | 07-APR-2003 | 03-09-0799A | 02
09 | CA | ESCONDIDO, CITY OF | 06073C0818F | 20-JUN-2003 | 03-09-0968A | 01
09 | CA | FAIRFIELD, CITY OF | 0603700009D | 23-JAN-2003 | 03-09-0269A | 01
09 | CA | FAIRFIELD, CITY OF | 0603700010C | 02-MAY-2003 | 03-09-0466A | 02
09 | CA | FOUNTAIN VALLEY, CITY OF | 06059C0037F | 25-JUN-2003 | 03-09-0408A | 02
09 | CA | FREMONT,CITY OF | 0650280029C | 19-FEB-2003 | 03-09-0396A | 02
09 | CA | FREMONT,CITY OF | 0650280033C | 19-FEB-2003 | 03-09-0396A | 02
09 | CA | FREMONT,CITY OF | 0650280030C | 11-JUN-2003 | 03-09-1029A | 02
09 | CA | FRESNO COUNTY | 06019C2600F | 10-FEB-2003 | 03-09-0121A | 01
09 | CA | FRESNO COUNTY | 06019C1585F | 12-FEB-2003 | 03-09-0343A | 02
09 | CA | FRESNO COUNTY | 06019C0700F | 16-APR-2003 | 03-09-0516A | 02
09 | CA | FRESNO COUNTY | 06019C1585F | 27-JUN-2003 | 03-09-0949A | 01
09 | CA | FRESNO COUNTY | 06019C1580F | 14-MAY-2003 | 03-09-0983A | 01
09 | CA | FULLERTON, CITY OF | 06059C0001E | 13-MAR-2003 | 03-09-0148A | 02
09 | CA | FULLERTON, CITY OF | 06059C0001E | 06-JUN-2003 | 03-09-0879A | 02
09 | CA | FULLERTON, CITY OF | 06059C0006E | 27-JUN-2003 | 03-09-1141A | 02
09 | CA | GILROY, CITY OF | 0603400004E | 28-MAY-2003 | 03-09-0923A | 02
09 | CA | GLENN COUNTY | 0600570400C | 31-MAR-2003 | 03-09-0414A | 01
09 | CA | GONZALES, CITY OF | 0601950250D | 14-JAN-2003 | 02-09-1516P | 06
09 | CA | HAYWARD, CITY OF | 0650330019E | 10-FEB-2003 | 02-09-542P | 05
09 | CA | HAYWARD, CITY OF | 0650330019E | 19-MAR-2003 | 03-09-0444A | 02
09 | CA | HEALDSBURG, CITY OF | 0603750530B | 27-MAY-2003 | 03-09-0778A | 01
09 | CA | HEALDSBURG, CITY OF | 0603780005C | 27-MAY-2003 | 03-09-0778A | 01
09 | CA | HEMET, CITY OF | 0602530005D | 09-JAN-2003 | 03-09-0188A | 01
09 | CA | HEMET, CITY OF | 0602451490C | 23-APR-2003 | 03-09-0342A | 01
09 | CA | HEMET, CITY OF | 0602452125B | 01-MAY-2003 | 03-09-0476A | 01
09 | CA | HEMET, CITY OF | 0602530005D | 09-APR-2003 | 03-09-0621A | 01
09 | CA | HEMET, CITY OF | 0602452125B | 11-JUN-2003 | 03-09-0660A | 01
09 | CA | HEMET, CITY OF | 0602530005D | 21-MAY-2003 | 03-09-0885A | 01
09 | CA | HERCULES, CITY OF | 0604340008B | 02-JAN-2003 | 03-09-0006A | 01
09 | CA | HUNTINGTON BEACH, CITY OF | 06059C0036F | 16-APR-2003 | 03-09-0708A | 02
09 | CA | HUNTINGTON BEACH, CITY OF | 06059C0036F | 16-APR-2003 | 03-09-0722A | 02
09 | CA | HUNTINGTON BEACH, CITY OF | 06059C0036F | 16-APR-2003 | 03-09-0723A | 02
09 | CA | HUNTINGTON BEACH, CITY OF | 06059C0036F | 16-APR-2003 | 03-09-0750A | 02
09 | CA | HUNTINGTON BEACH, CITY OF | 06059C0036F | 21-MAY-2003 | 03-09-0988A | 02
09 | CA | HUNTINGTON BEACH, CITY OF | 06059C0036F | 25-JUN-2003 | 03-09-1185A | 02
09 | CA | INYO COUNTY | 0600731900B | 31-MAR-2003 | 03-09-0332A | 01
09 | CA | KERN COUNTY | 0600750745B | 27-JAN-2003 | 03-09-0232A | 01
09 | CA | KERN COUNTY | 0600750580D | 06-JUN-2003 | 03-09-0801A | 02
09 | CA | KERN COUNTY | 0600750580D | 21-MAY-2003 | 03-09-0889A | 02
09 | CA | KERN COUNTY | 0600751010B | 20-JUN-2003 | 03-09-0932A | 02
09 | CA | KINGS COUNTY | 0600860050B | 26-FEB-2003 | 03-09-0401A | 02
09 | CA | LA QUINTA, CITY OF | 0607090005B | 15-JAN-2003 | 02-09-1517A | 01
09 | CA | LA QUINTA, CITY OF | 0607090005B | 04-JUN-2003 | 03-09-0802A | 01
09 | CA | LAFAYETTE, CITY OF | 0650370002C | 09-JAN-2003 | 03-09-0152A | 02
09 | CA | LAKE COUNTY | 0600900340A | 03-JAN-2003 | 02-09-1415A | 02
09 | CA | LAKE COUNTY | 0600900840B | 09-JAN-2003 | 03-09-0261A | 01
09 | CA | LAKE COUNTY | 0600900565B | 01-MAY-2003 | 03-09-0776A | 02
09 | CA | LAKE COUNTY | 0600900845B | 21-MAY-2003 | 03-09-0878A | 02
09 | CA | LAKE COUNTY | 0600900340A | 13-JUN-2003 | 03-09-0905A | 02
09 | CA | LAKE ELSINORE, CITY OF | 0606360013E | 29-APR-2003 | 03-09-0732P | 06
09 | CA | LAKE ELSINORE, CITY OF | 0606360014E | 29-APR-2003 | 03-09-0732P | 06
09 | CA | LAKE ELSINORE, CITY OF | 0606360027E | 29-APR-2003 | 03-09-0732P | 06
09 | CA | LANCASTER, CITY OF | 0606720010B | 14-MAY-2003 | 03-09-0892A | 02
09 | CA | LEMOORE,CITY OF | 0600860050B | 20-FEB-2003 | 03-09-0446A | 01
09 | CA | LEMOORE,CITY OF | 0600860050B | 30-MAY-2003 | 03-09-0753P | 06
09 | CA | LONG BEACH, CITY OF | 0601360025C | 15-JAN-2003 | 03-09-0277A | 02
09 | CA | LONG BEACH, CITY OF | 0601360005C | 10-MAR-2003 | 03-09-0415V | 19
09 | CA | LONG BEACH, CITY OF | 0601360010C | 10-MAR-2003 | 03-09-0415V | 19
09 | CA | LONG BEACH, CITY OF | 0601360015C | 10-MAR-2003 | 03-09-0415V | 19
09 | CA | LONG BEACH, CITY OF | 0601360025C | 10-MAR-2003 | 03-09-0415V | 19
09 | CA | LONG BEACH, CITY OF | 0601360025C | 20-JUN-2003 | 03-09-1129A | 02
09 | CA | LOS ANGELES COUNTY | 0650430480B | 21-APR-2003 | 02-09-404P | 05
09 | CA | LOS ANGELES COUNTY | 0650430345B | 30-APR-2003 | 03-09-0041P | 06
09 | CA | LOS ANGELES COUNTY | 0650430460B | 15-JAN-2003 | 03-09-0065P | 06
09 | CA | LOS ANGELES COUNTY | 0650430757B | 02-MAY-2003 | 03-09-0689A | 17
09 | CA | LOS ANGELES COUNTY | 0650430345B | 30-APR-2003 | 03-09-0694X | 06
09 | CA | LOS ANGELES COUNTY | 0650430480B | 06-JUN-2003 | 03-09-0796A | 02
09 | CA | LOS ANGELES, CITY OF | 0601370069D | 15-MAY-2003 | 03-09-0035P | 05
09 | CA | LOS ANGELES, CITY OF | 0601370073D | 03-APR-2003 | 03-09-0500A | 02
09 | CA | LOS ANGELES, CITY OF | 0601370071C | 13-MAR-2003 | 03-09-0502A | 02
09 | CA | LOS ANGELES, CITY OF | 0601370071C | 27-MAR-2003 | 03-09-0565A | 02
09 | CA | LOS ANGELES, CITY OF | 0601370072E | 13-JUN-2003 | 03-09-1056A | 02
09 | CA | LOS ANGELES, CITY OF | 0601370054D | 25-JUN-2003 | 03-09-1059A | 02
09 | CA | LOS GATOS, TOWN OF | 0603430001A | 22-JAN-2003 | 01-09-159P | 05
09 | CA | MADERA COUNTY | 0601700615B | 19-FEB-2003 | 03-09-0318A | 02
09 | CA | MADERA COUNTY | 0601700225B | 27-MAR-2003 | 03-09-0340A | 02
09 | CA | MARIN COUNTY | 0601730250A | 21-JAN-2003 | 03-09-0275A | 02
09 | CA | MARTINEZ, CITY OF | 0650440002B | 13-MAR-2003 | 03-09-0426A | 02
09 | CA | MENDOCINO COUNTY | 0601830803B | 27-JAN-2003 | 03-09-0192A | 01
09 | CA | MENLO PARK, CITY OF | 0603210008D | 09-JAN-2003 | 03-09-0244A | 02
09 | CA | MENLO PARK, CITY OF | 0603210008D | 06-MAR-2003 | 03-09-0486A | 02
09 | CA | MENLO PARK, CITY OF | 0603210008D | 17-MAR-2003 | 03-09-0534A | 02
09 | CA | MENLO PARK, CITY OF | 0603210008D | 17-MAR-2003 | 03-09-0556A | 02
09 | CA | MENLO PARK, CITY OF | 0603210007D | 25-APR-2003 | 03-09-0792A | 02
09 | CA | MERCED COUNTY | 06047C0440E | 26-FEB-2003 | 03-09-0194A | 01
09 | CA | MERCED COUNTY | 06047C0150E | 27-MAR-2003 | 03-09-0461A | 02
09 | CA | MERCED COUNTY | 06047C0350E | 27-MAR-2003 | 03-09-0461A | 02
09 | CA | MERCED COUNTY | 06047C0410E | 25-APR-2003 | 03-09-0740A | 01
09 | CA | MERCED COUNTY | 06047C0440E | 18-JUN-2003 | 03-09-0903A | 01
09 | CA | MERCED COUNTY | 06047C0445E | 11-JUN-2003 | 03-09-0985A | 02
09 | CA | MERCED, CITY OF | 06047C0440E | 26-FEB-2003 | 03-09-0370A | 01
09 | CA | MERCED, CITY OF | 06047C0440E | 19-FEB-2003 | 03-09-0372A | 01
09 | CA | MERCED, CITY OF | 06047C0440E | 03-MAR-2003 | 03-09-0379A | 01
09 | CA | MERCED, CITY OF | 06047C0420E | 21-MAY-2003 | 03-09-0549A | 01
09 | CA | MERCED, CITY OF | 06047C0440E | 07-MAY-2003 | 03-09-0822A | 01
09 | CA | MERCED, CITY OF | 06047C0440E | 27-JUN-2003 | 03-09-0830A | 01
09 | CA | MERCED, CITY OF | 06047C0440E | 07-MAY-2003 | 03-09-0841A | 01
09 | CA | MERCED, CITY OF | 06047C0440E | 09-MAY-2003 | 03-09-0842A | 01
09 | CA | MERCED, CITY OF | 06047C0430E | 16-MAY-2003 | 03-09-0869A | 01
09 | CA | MERCED, CITY OF | 06047C0430E | 18-JUN-2003 | 03-09-0956A | 02
09 | CA | MILL VALLEY, CITY OF | 0601770005B | 09-MAY-2003 | 03-09-0550A | 02
09 | CA | MILL VALLEY, CITY OF | 0601770005B | 01-MAY-2003 | 03-09-0747A | 02
09 | CA | MILPITAS, CITY OF | 0603440001G | 08-JAN-2003 | 03-09-0249A | 02
09 | CA | MILPITAS, CITY OF | 0603440001G | 21-JAN-2003 | 03-09-0273A | 02
09 | CA | MILPITAS, CITY OF | 0603440001G | 21-JAN-2003 | 03-09-0282A | 02
09 | CA | MILPITAS, CITY OF | 0603440003G | 27-JAN-2003 | 03-09-0298A | 02
09 | CA | MILPITAS, CITY OF | 0603440003G | 10-FEB-2003 | 03-09-0312A | 02
09 | CA | MILPITAS, CITY OF | 0603440001G | 04-FEB-2003 | 03-09-0323A | 02
09 | CA | MILPITAS, CITY OF | 0603440001G | 04-FEB-2003 | 03-09-0327A | 02
09 | CA | MILPITAS, CITY OF | 0603440001G | 05-FEB-2003 | 03-09-0344A | 02
09 | CA | MILPITAS, CITY OF | 0603440003G | 12-FEB-2003 | 03-09-0349A | 02
09 | CA | MILPITAS, CITY OF | 0603440003G | 19-FEB-2003 | 03-09-0385A | 02
09 | CA | MILPITAS, CITY OF | 0603440001G | 23-JAN-2003 | 03-09-0405A | 02
09 | CA | MILPITAS, CITY OF | 0603440001G | 03-APR-2003 | 03-09-0407A | 02
09 | CA | MILPITAS, CITY OF | 0603440003G | 20-FEB-2003 | 03-09-0421A | 02
09 | CA | MILPITAS, CITY OF | 0603440001G | 04-FEB-2003 | 03-09-0442A | 02
09 | CA | MILPITAS, CITY OF | 0603440003G | 06-MAR-2003 | 03-09-0511A | 02
09 | CA | MILPITAS, CITY OF | 0603440001G | 20-FEB-2003 | 03-09-0512A | 02
09 | CA | MILPITAS, CITY OF | 0603440001G | 24-FEB-2003 | 03-09-0547A | 02
09 | CA | MILPITAS, CITY OF | 0603440001G | 27-MAR-2003 | 03-09-0584A | 02
09 | CA | MILPITAS, CITY OF | 0603440003G | 27-MAR-2003 | 03-09-0590A | 02
09 | CA | MILPITAS, CITY OF | 0603440001G | 24-MAR-2003 | 03-09-0594A | 02
09 | CA | MILPITAS, CITY OF | 0603440003G | 03-APR-2003 | 03-09-0626A | 02
09 | CA | MILPITAS, CITY OF | 0603440003G | 03-APR-2003 | 03-09-0627A | 02
09 | CA | MILPITAS, CITY OF | 0603440003G | 02-JUN-2003 | 03-09-0649A | 02
09 | CA | MILPITAS, CITY OF | 0603440003G | 27-MAR-2003 | 03-09-0650A | 02
09 | CA | MILPITAS, CITY OF | 0603440003G | 09-APR-2003 | 03-09-0662A | 02
09 | CA | MILPITAS, CITY OF | 0603440001G | 21-APR-2003 | 03-09-0719A | 02
09 | CA | MILPITAS, CITY OF | 0603440003G | 23-APR-2003 | 03-09-0787A | 02
09 | CA | MILPITAS, CITY OF | 0603440003G | 21-APR-2003 | 03-09-0794A | 02
09 | CA | MILPITAS, CITY OF | 0603440001G | 25-APR-2003 | 03-09-0807A | 02
09 | CA | MILPITAS, CITY OF | 0603440003G | 01-MAY-2003 | 03-09-0825A | 02
09 | CA | MILPITAS, CITY OF | 0603440001G | 09-MAY-2003 | 03-09-0851A | 02
09 | CA | MILPITAS, CITY OF | 0603440003G | 07-MAY-2003 | 03-09-0852A | 02
09 | CA | MILPITAS, CITY OF | 0603440001G | 16-MAY-2003 | 03-09-0912A | 02
09 | CA | MILPITAS, CITY OF | 0603440001G | 09-MAY-2003 | 03-09-0937A | 02
09 | CA | MILPITAS, CITY OF | 0603440001G | 16-MAY-2003 | 03-09-0943A | 02
09 | CA | MILPITAS, CITY OF | 0603440003G | 09-MAY-2003 | 03-09-0947A | 02
09 | CA | MILPITAS, CITY OF | 0603440001G | 09-MAY-2003 | 03-09-0955A | 02
09 | CA | MILPITAS, CITY OF | 0603440001G | 16-MAY-2003 | 03-09-0984A | 02
09 | CA | MILPITAS, CITY OF | 0603440001G | 28-MAY-2003 | 03-09-0993A | 02
09 | CA | MILPITAS, CITY OF | 0603440001G | 04-JUN-2003 | 03-09-1006A | 02
09 | CA | MILPITAS, CITY OF | 0603440001G | 06-JUN-2003 | 03-09-1023A | 02
09 | CA | MILPITAS, CITY OF | 0603440001G | 06-JUN-2003 | 03-09-1037A | 02
09 | CA | MILPITAS, CITY OF | 0603440001G | 06-JUN-2003 | 03-09-1040A | 02
09 | CA | MILPITAS, CITY OF | 0603440001G | 02-JUN-2003 | 03-09-1068A | 02
09 | CA | MILPITAS, CITY OF | 0603440003G | 20-JUN-2003 | 03-09-1131A | 02
09 | CA | MILPITAS, CITY OF | 0603440003G | 20-JUN-2003 | 03-09-1134A | 02
09 | CA | MILPITAS, CITY OF | 0603440003G | 20-JUN-2003 | 03-09-1135A | 02
09 | CA | MILPITAS, CITY OF | 0603440003G | 27-JUN-2003 | 03-09-1202A | 02
09 | CA | MILPITAS, CITY OF | 0603440003G | 27-JUN-2003 | 03-09-1222A | 02
09 | CA | MONTEREY COUNTY | 0601950460D | 20-MAR-2003 | 02-09-869P | 05
09 | CA | MORENO VALLEY, CITY OF | 0650740020B | 04-JUN-2003 | 03-09-1024A | 02
09 | CA | MORGAN HILL, CITY OF | 0603460002C | 27-MAR-2003 | 03-09-0514A | 01
09 | CA | MORRO BAY, CITY OF | 0603070005C | 21-APR-2003 | 03-09-0592A | 02
09 | CA | MOUNTAIN VIEW, CITY OF | 0603470004E | 19-MAR-2003 | 03-09-0507A | 02
09 | CA | MURRIETA, CITY OF | 0607512745A | 23-APR-2003 | 03-09-0140A | 01
09 | CA | MURRIETA, CITY OF | 0607512740A | 16-APR-2003 | 03-09-0603A | 01
09 | CA | NAPA COUNTY | 0602050365A | 06-MAR-2003 | 03-09-0392A | 02
09 | CA | NAPA COUNTY | 0602050410B | 10-MAR-2003 | 03-09-0478A | 02
09 | CA | NAPA, CITY OF | 0602070005D | 21-APR-2003 | 03-09-0490A | 02
09 | CA | NAPA, CITY OF | 0602070005D | 07-APR-2003 | 03-09-0615A | 02
09 | CA | NAPA, CITY OF | 0602070005D | 11-APR-2003 | 03-09-0697A | 02
09 | CA | NAPA, CITY OF | 0602070010C | 11-APR-2003 | 03-09-0702A | 02
09 | CA | NAPA, CITY OF | 0602070010C | 16-APR-2003 | 03-09-0751A | 02
09 | CA | NAPA, CITY OF | 0602070010C | 11-APR-2003 | 03-09-0783A | 02
09 | CA | NEVADA COUNTY | 0602100579B | 15-JAN-2003 | 03-09-0264A | 02
09 | CA | NEVADA COUNTY | 0602100583B | 15-JAN-2003 | 03-09-0264A | 02
09 | CA | NEVADA COUNTY | 0602100583B | 14-MAY-2003 | 03-09-0653A | 02
09 | CA | NEVADA COUNTY | 0602100484C | 01-MAY-2003 | 03-09-0816A | 02
09 | CA | NEVADA COUNTY | 0602100484C | 11-JUN-2003 | 03-09-1002A | 02
09 | CA | NEWARK, CITY OF | 0600090005F | 23-APR-2003 | 03-09-0696A | 02
09 | CA | NEWARK, CITY OF | 0600090005F | 06-JUN-2003 | 03-09-0920A | 02
09 | CA | NEWPORT BEACH, CITY OF | 06059C0054F | 23-APR-2003 | 03-09-0365A | 02
09 | CA | OAKLAND, CITY OF | 0650480020B | 17-MAR-2003 | 03-09-0403A | 02
09 | CA | OAKLAND, CITY OF | 0650480020B | 19-MAR-2003 | 03-09-0557A | 02
09 | CA | OAKLEY, CITY OF | 0607660355A | 11-APR-2003 | 03-09-0681A | 01
09 | CA | OCEANSIDE, CITY OF | 06073C0756G | 24-FEB-2003 | 03-09-0413A | 02
09 | CA | OCEANSIDE, CITY OF | 06073C0464F | 25-JUN-2003 | 03-09-0862A | 02
09 | CA | ORANGE COUNTY | 06059C0049G | 23-JUN-2003 | 02-09-1127P | 06
09 | CA | ORANGE COUNTY | 06059C0058F | 11-JUN-2003 | 03-09-0939A | 02
09 | CA | ORANGE, CITY OF | 06059C0022F | 22-MAY-2003 | 02-09-910P | 05
09 | CA | PALO ALTO, CITY OF | 0603480005E | 13-MAR-2003 | 03-09-0242A | 02
09 | CA | PALO ALTO, CITY OF | 0603480002E | 05-FEB-2003 | 03-09-0297A | 02
09 | CA | PALO ALTO, CITY OF | 0603480002E | 19-FEB-2003 | 03-09-0386A | 02
09 | CA | PALO ALTO, CITY OF | 0603480003E | 24-FEB-2003 | 03-09-0416A | 02
09 | CA | PALO ALTO, CITY OF | 0603480003E | 26-FEB-2003 | 03-09-0498A | 02
09 | CA | PALO ALTO, CITY OF | 0603480002E | 26-FEB-2003 | 03-09-0501A | 02
09 | CA | PALO ALTO, CITY OF | 0603480002E | 26-FEB-2003 | 03-09-0510A | 02
09 | CA | PALO ALTO, CITY OF | 0603480003E | 24-MAR-2003 | 03-09-0575A | 02
09 | CA | PALO ALTO, CITY OF | 0603480003E | 27-MAR-2003 | 03-09-0593A | 02
09 | CA | PALO ALTO, CITY OF | 0603480003E | 09-APR-2003 | 03-09-0669A | 02
09 | CA | PALO ALTO, CITY OF | 0603480003E | 16-APR-2003 | 03-09-0736A | 02
09 | CA | PALO ALTO, CITY OF | 0603480002E | 25-APR-2003 | 03-09-0806A | 02
09 | CA | PALO ALTO, CITY OF | 0603480003E | 28-MAY-2003 | 03-09-0815A | 02
09 | CA | PALO ALTO, CITY OF | 0603480002E | 11-JUN-2003 | 03-09-1030A | 02
09 | CA | PALO ALTO, CITY OF | 0603480002E | 18-JUN-2003 | 03-09-1086A | 02
09 | CA | PALO ALTO, CITY OF | 0600348002E | 27-JUN-2003 | 03-09-1186A | 02
09 | CA | PALOS VERDES ESTATES, CITY OF | 0601450005B | 04-FEB-2003 | 03-09-0120A | 02
09 | CA | PALOS VERDES ESTATES, CITY OF | 0601450005B | 03-APR-2003 | 03-09-0397A | 02
09 | CA | PERRIS, CITY OF | 0602580010D | 26-FEB-2003 | 03-09-0348A | 01
09 | CA | PERRIS, CITY OF | 0602580010D | 07-MAY-2003 | 03-09-0832A | 02
09 | CA | PLACER COUNTY | 06061C0069F | 02-JAN-2003 | 03-09-0165A | 02
09 | CA | PLEASANT HILL, CITY OF | 0600340003B | 08-JAN-2003 | 03-09-0047A | 02
09 | CA | PLUMAS COUNTY | 060244C | 04-FEB-2003 | 02-09-1396A | 02
09 | CA | PLUMAS COUNTY | 060244—975C | 10-JAN-2003 | 03-09-0254A | 02
09 | CA | PLUMAS COUNTY | 060244—975C | 19-MAR-2003 | 03-09-0699X | 02
09 | CA | PLUMAS COUNTY | 060244—300C | 21-MAY-2003 | 03-09-0729A | 02
09 | CA | PORTERVILLE, CITY OF | 0650660845B | 19-MAR-2003 | 03-09-0195A | 01
09 | CA | PORTERVILLE, CITY OF | 0604070010D | 02-JAN-2003 | 03-09-0235A | 02
09 | CA | PORTERVILLE, CITY OF | 0650660845B | 06-JUN-2003 | 03-09-0688A | 02
09 | CA | POWAY, CITY OF | 06073C1358F | 29-MAY-2003 | 03-09-0026P | 05
09 | CA | POWAY, CITY OF | 06073C1356F | 03-MAR-2003 | 03-09-0285A | 02
09 | CA | POWAY, CITY OF | 06073C1358F | 05-FEB-2003 | 03-09-0338A | 02
09 | CA | POWAY, CITY OF | 06073C1093F | 03-APR-2003 | 03-09-0504A | 02
09 | CA | POWAY, CITY OF | 06073C1359F | 03-APR-2003 | 03-09-0620A | 02
09 | CA | POWAY, CITY OF | 06073C1359F | 09-APR-2003 | 03-09-0659A | 02
09 | CA | RANCHO CUCAMONGA, CITY OF | 06071C7890F | 04-FEB-2003 | 03-09-0305A | 02
09 | CA | RANCHO CUCAMONGA, CITY OF | 06071C7890F | 05-FEB-2003 | 03-09-0339A | 02
09 | CA | RANCHO CUCAMONGA, CITY OF | 06071C7895F | 29-APR-2003 | 03-09-0351P | 06
09 | CA | RANCHO CUCAMONGA, CITY OF | 06071C7890F | 24-MAR-2003 | 03-09-0566A | 02
09 | CA | RANCHO CUCAMONGA, CITY OF | 06071C8610F | 21-MAY-2003 | 03-09-0908A | 01
09 | CA | RANCHO CUCAMONGA, CITY OF | 06071C7890F | 02-JUN-2003 | 03-09-0944A | 02
09 | CA | REDWOOD CITY, CITY OF | 0603250011B | 09-JAN-2003 | 03-09-0146A | 01
09 | CA | RIVERSIDE COUNTY | 0602452050C | 29-APR-2003 | 03-09-0732P | 06
09 | CA | RIVERSIDE COUNTY | 0602452065B | 29-APR-2003 | 03-09-0732P | 06
09 | CA | RIVERSIDE, CITY OF | 0602600015B | 26-JUN-2003 | 01-09-652P | 05
09 | CA | RIVERSIDE, CITY OF | 0602600020B | 26-JUN-2003 | 01-09-652P | 05
09 | CA | ROSEVILLE, CITY OF | 06061C0478F | 28-MAY-2003 | 02-09-1258P | 05
09 | CA | ROSEVILLE, CITY OF | 06061C0479G | 28-MAY-2003 | 02-09-1258P | 05
09 | CA | ROSEVILLE, CITY OF | 06061C0487F | 28-MAY-2003 | 02-09-1258P | 05
09 | CA | ROSEVILLE, CITY OF | 06061C0476F | 28-JAN-2003 | 02-09-511P | 06
09 | CA | SACRAMENTO COUNTY | 0602620310F | 23-JAN-2003 | 02-09-1169P | 05
09 | CA | SACRAMENTO COUNTY | 0602620330D | 23-JAN-2003 | 03-09-0161A | 01
09 | CA | SACRAMENTO COUNTY | 0602620375C | 09-APR-2003 | 03-09-0574A | 02
09 | CA | SACRAMENTO COUNTY | 0602620500C | 09-MAY-2003 | 03-09-0718A | 02
09 | CA | SACRAMENTO COUNTY | 0602620185F | 01-MAY-2003 | 03-09-0858A | 02
09 | CA | SACRAMENTO COUNTY | 0602620185F | 25-JUN-2003 | 03-09-1083A | 02
09 | CA | SACRAMENTO, CITY OF | 0602660015F | 09-APR-2003 | 03-09-0262A | 01
09 | CA | SAN BERNARDINO, CITY OF | 06071C7930F | 29-JAN-2003 | 03-09-0125A | 02
09 | CA | SAN DIEGO COUNTY | 06073C0812F | 24-APR-2003 | 02-09-714P | 05
09 | CA | SAN DIEGO COUNTY | 06073C0494F | 06-MAR-2003 | 03-09-0425A | 01
09 | CA | SAN DIEGO, CITY OF | 06073C1332F | 01-MAY-2003 | 02-09-1505P | 05
09 | CA | SAN DIEGO, CITY OF | 06073C1334F | 01-MAY-2003 | 02-09-1505P | 05
09 | CA | SAN DIEGO, CITY OF | 06073C1334F | 03-JAN-2003 | 03-09-0181A | 01
09 | CA | SAN DIEGO, CITY OF | 06073C1613F | 29-JAN-2003 | 03-09-0322A | 02
09 | CA | SAN DIEGO, CITY OF | 06073C1594F | 24-MAR-2003 | 03-09-0569A | 02
09 | CA | SAN DIEGO, CITY OF | 06073C1332F | 09-JUN-2003 | 03-09-0578P | 05
09 | CA | SAN DIEGO, CITY OF | 06073C1334F | 09-JUN-2003 | 03-09-0578P | 05
09 | CA | SAN DIEGO, CITY OF | 06073C1614F | 11-JUN-2003 | 03-09-1049A | 02
09 | CA | SAN JACINTO, CITY OF | 0650560005D | 11-APR-2003 | 03-09-0606A | 01
09 | CA | SAN JOAQUIN COUNTY | 0602990145B | 04-FEB-2003 | 03-09-0227A | 17
09 | CA | SAN JOAQUIN COUNTY | 0602990590C | 01-MAY-2003 | 03-09-0683A | 02
09 | CA | SAN JOSE, CITY OF | 0603490047E | 08-JAN-2003 | 03-09-0019A | 02
09 | CA | SAN JOSE, CITY OF | 0603490053E | 03-APR-2003 | 03-09-0243A | 02
09 | CA | SAN JOSE, CITY OF | 0603490048E | 10-JAN-2003 | 03-09-0256A | 01
09 | CA | SAN JOSE, CITY OF | 0603490026D | 09-JAN-2003 | 03-09-0258A | 02
09 | CA | SAN JOSE, CITY OF | 0603490009G | 15-JAN-2003 | 03-09-0266A | 02
09 | CA | SAN JOSE, CITY OF | 0603490047E | 15-JAN-2003 | 03-09-0268A | 02
09 | CA | SAN JOSE, CITY OF | 0603490020F | 27-JAN-2003 | 03-09-0307A | 02
09 | CA | SAN JOSE, CITY OF | 0603490048E | 27-JAN-2003 | 03-09-0310A | 02
09 | CA | SAN JOSE, CITY OF | 0603490026D | 29-JAN-2003 | 03-09-0321A | 02
09 | CA | SAN JOSE, CITY OF | 0603490047E | 04-FEB-2003 | 03-09-0325A | 02
09 | CA | SAN JOSE, CITY OF | 0603490014E | 29-JAN-2003 | 03-09-0326A | 02
09 | CA | SAN JOSE, CITY OF | 0603490037D | 04-FEB-2003 | 03-09-0333A | 02
09 | CA | SAN JOSE, CITY OF | 0603490047E | 26-FEB-2003 | 03-09-0335A | 02
09 | CA | SAN JOSE, CITY OF | 0603490031D | 20-FEB-2003 | 03-09-0391A | 02
09 | CA | SAN JOSE, CITY OF | 0603490020F | 19-FEB-2003 | 03-09-0393A | 02
09 | CA | SAN JOSE, CITY OF | 0603490020F | 12-FEB-2003 | 03-09-0395A | 02
09 | CA | SAN JOSE, CITY OF | 0603490009G | 24-FEB-2003 | 03-09-0445A | 02
09 | CA | SAN JOSE, CITY OF | 0603490037D | 07-APR-2003 | 03-09-0463A | 02
09 | CA | SAN JOSE, CITY OF | 0603490027D | 20-FEB-2003 | 03-09-0465A | 02
09 | CA | SAN JOSE, CITY OF | 0603490048E | 12-FEB-2003 | 03-09-0469A | 02
09 | CA | SAN JOSE, CITY OF | 0603490048E | 05-FEB-2003 | 03-09-0481X | 02
09 | CA | SAN JOSE, CITY OF | 0603490031D | 31-MAR-2003 | 03-09-0517A | 02
09 | CA | SAN JOSE, CITY OF | 0603490009G | 19-MAR-2003 | 03-09-0551A | 02
09 | CA | SAN JOSE, CITY OF | 0603490020F | 13-MAR-2003 | 03-09-0586A | 02
09 | CA | SAN JOSE, CITY OF | 0603490020F | 27-MAR-2003 | 03-09-0597A | 02
09 | CA | SAN JOSE, CITY OF | 0603490029D | 27-MAR-2003 | 03-09-0599A | 02
09 | CA | SAN JOSE, CITY OF | 0603490026D | 27-MAR-2003 | 03-09-0601A | 02
09 | CA | SAN JOSE, CITY OF | 0603490047E | 03-APR-2003 | 03-09-0604A | 02
09 | CA | SAN JOSE, CITY OF | 0603490020F | 03-APR-2003 | 03-09-0612A | 02
09 | CA | SAN JOSE, CITY OF | 0603490020F | 03-APR-2003 | 03-09-0614A | 02
09 | CA | SAN JOSE, CITY OF | 0603490020F | 09-APR-2003 | 03-09-0680A | 02
09 | CA | SAN JOSE, CITY OF | 0603490037D | 07-APR-2003 | 03-09-0684A | 02
09 | CA | SAN JOSE, CITY OF | 0603490009G | 07-APR-2003 | 03-09-0685A | 02
09 | CA | SAN JOSE, CITY OF | 0603490020F | 16-APR-2003 | 03-09-0706A | 02
09 | CA | SAN JOSE, CITY OF | 0603490048E | 16-APR-2003 | 03-09-0737A | 02
09 | CA | SAN JOSE, CITY OF | 0603490047E | 16-APR-2003 | 03-09-0738A | 02
09 | CA | SAN JOSE, CITY OF | 0603490037D | 16-APR-2003 | 03-09-0739A | 02
09 | CA | SAN JOSE, CITY OF | 0603490009G | 16-APR-2003 | 03-09-0746A | 02
09 | CA | SAN JOSE, CITY OF | 0603490020F | 16-APR-2003 | 03-09-0760A | 02
09 | CA | SAN JOSE, CITY OF | 0603490037D | 16-APR-2003 | 03-09-0761A | 02
09 | CA | SAN JOSE, CITY OF | 0603490037D | 16-APR-2003 | 03-09-0766A | 02
09 | CA | SAN JOSE, CITY OF | 0603490047E | 21-APR-2003 | 03-09-0781A | 02
09 | CA | SAN JOSE, CITY OF | 0603490048E | 21-APR-2003 | 03-09-0793A | 02
09 | CA | SAN JOSE, CITY OF | 0603490053E | 21-APR-2003 | 03-09-0793A | 02
09 | CA | SAN JOSE, CITY OF | 0603490026D | 21-APR-2003 | 03-09-0795A | 02
09 | CA | SAN JOSE, CITY OF | 0603490020F | 07-MAY-2003 | 03-09-0828A | 02
09 | CA | SAN JOSE, CITY OF | 0603490020F | 09-MAY-2003 | 03-09-0829A | 02
09 | CA | SAN JOSE, CITY OF | 0603490009G | 07-MAY-2003 | 03-09-0847A | 02
09 | CA | SAN JOSE, CITY OF | 0603490047E | 09-MAY-2003 | 03-09-0848A | 02
09 | CA | SAN JOSE, CITY OF | 0603490047E | 07-MAY-2003 | 03-09-0849A | 02
09 | CA | SAN JOSE, CITY OF | 0603490048E | 07-MAY-2003 | 03-09-0850A | 02
09 | CA | SAN JOSE, CITY OF | 0603490020F | 09-MAY-2003 | 03-09-0865A | 02
09 | CA | SAN JOSE, CITY OF | 0603490014E | 21-MAY-2003 | 03-09-0875A | 02
09 | CA | SAN JOSE, CITY OF | 0603490009G | 21-MAY-2003 | 03-09-0876A | 02
09 | CA | SAN JOSE, CITY OF | 0603490019E | 16-MAY-2003 | 03-09-0882A | 02
09 | CA | SAN JOSE, CITY OF | 0603490020F | 16-MAY-2003 | 03-09-0916A | 02
09 | CA | SAN JOSE, CITY OF | 0603490020F | 06-JUN-2003 | 03-09-0948A | 02
09 | CA | SAN JOSE, CITY OF | 0603490020F | 14-MAY-2003 | 03-09-0950A | 02
09 | CA | SAN JOSE, CITY OF | 0603490020F | 28-MAY-2003 | 03-09-0959A | 02
09 | CA | SAN JOSE, CITY OF | 0603490048E | 16-MAY-2003 | 03-09-0973A | 02
09 | CA | SAN JOSE, CITY OF | 0603490014E | 11-JUN-2003 | 03-09-0976A | 02
09 | CA | SAN JOSE, CITY OF | 0603490020F | 28-MAY-2003 | 03-09-0989A | 02
09 | CA | SAN JOSE, CITY OF | 0603490020F | 28-MAY-2003 | 03-09-0991A | 02
09 | CA | SAN JOSE, CITY OF | 0603490014E | 04-JUN-2003 | 03-09-1005A | 02
09 | CA | SAN JOSE, CITY OF | 0603490020F | 04-JUN-2003 | 03-09-1011A | 02
09 | CA | SAN JOSE, CITY OF | 0603490020F | 11-JUN-2003 | 03-09-1039A | 02
09 | CA | SAN JOSE, CITY OF | 0603490020F | 11-JUN-2003 | 03-09-1060A | 02
09 | CA | SAN JOSE, CITY OF | 0603490020F | 13-JUN-2003 | 03-09-1077A | 02
09 | CA | SAN JOSE, CITY OF | 0603490020F | 11-JUN-2003 | 03-09-1079A | 02
09 | CA | SAN JOSE, CITY OF | 0603490020F | 13-JUN-2003 | 03-09-1092A | 02
09 | CA | SAN JOSE, CITY OF | 0603490048E | 13-JUN-2003 | 03-09-1101A | 02
09 | CA | SAN JOSE, CITY OF | 0603490019E | 25-JUN-2003 | 03-09-1105A | 02
09 | CA | SAN JOSE, CITY OF | 0603490009G | 20-JUN-2003 | 03-09-1111A | 02
09 | CA | SAN JOSE, CITY OF | 0603490048E | 13-JUN-2003 | 03-09-1123A | 02
09 | CA | SAN JOSE, CITY OF | 0603490020F | 11-JUN-2003 | 03-09-1128A | 02
09 | CA | SAN JOSE, CITY OF | 0603490026D | 25-JUN-2003 | 03-09-1167A | 02
09 | CA | SAN JOSE, CITY OF | 0603490020F | 27-JUN-2003 | 03-09-1180A | 02
09 | CA | SAN JOSE, CITY OF | 0603490020F | 27-JUN-2003 | 03-09-1187A | 02
09 | CA | SAN JOSE, CITY OF | 0603490026D | 27-JUN-2003 | 03-09-1197A | 02
09 | CA | SAN JUAN CAPISTRANO, CITY OF | 06059C0075F | 13-JUN-2003 | 03-09-0717A | 01
09 | CA | SAN JUAN CAPISTRANO, CITY OF | 06059C0075F | 20-JUN-2003 | 03-09-1036A | 01
09 | CA | SAN LEANDRO, CITY OF | 0600130003C | 19-MAR-2003 | 03-09-0542A | 02
09 | CA | SAN LEANDRO, CITY OF | 0600130003C | 27-MAR-2003 | 03-09-0581A | 02
09 | CA | SAN LEANDRO, CITY OF | 0600130003C | 27-MAR-2003 | 03-09-0588A | 02
09 | CA | SAN LUIS OBISPO COUNTY | 0603040592C | 09-JAN-2003 | 03-09-0034A | 02
09 | CA | SAN LUIS OBISPO COUNTY | 0603040477B | 25-APR-2003 | 03-09-0672A | 02
09 | CA | SAN LUIS OBISPO COUNTY | 0603040188C | 25-APR-2003 | 03-09-0789A | 02
09 | CA | SAN LUIS OBISPO, CITY OF | 0603100005C | 23-APR-2003 | 03-09-0423A | 02
09 | CA | SAN LUIS OBISPO, CITY OF | 0603100005C | 27-JUN-2003 | 03-09-1179A | 02
09 | CA | SAN MARCOS, CITY OF | 06073C1052F | 16-APR-2003 | 03-09-0668A | 02
09 | CA | SAN MATEO COUNTY | 0603110318B | 31-JAN-2003 | 03-09-0179P | 06
09 | CA | SAN MATEO COUNTY | 0603110319B | 31-JAN-2003 | 03-09-0179P | 06
09 | CA | SAN MATEO COUNTY | 0603110382B | 31-JAN-2003 | 03-09-0179P | 06
09 | CA | SAN MATEO COUNTY | 0603110113B | 18-JUN-2003 | 03-09-0919X | 02
09 | CA | SAN MATEO, CITY OF | 0603280004B | 24-FEB-2003 | 03-09-0411A | 01
09 | CA | SAN MATEO, CITY OF | 0603280002B | 25-APR-2003 | 03-09-0809A | 02
09 | CA | SAN RAFAEL, CITY OF | 0650580020B | 19-FEB-2003 | 03-09-0399A | 02
09 | CA | SAN RAFAEL, CITY OF | 0650580015B | 16-APR-2003 | 03-09-0743A | 02
09 | CA | SANTA ANA, CITY OF | 06059C0028F | 02-JAN-2003 | 02-09-1400A | 01
09 | CA | SANTA BARBARA COUNTY | 0603310765E | 18-MAR-2003 | 03-09-0009P | 05
09 | CA | SANTA BARBARA COUNTY | 0603310229D | 12-FEB-2003 | 03-09-0246A | 02
09 | CA | SANTA BARBARA COUNTY | 0603310730C | 04-JUN-2003 | 03-09-0701A | 02
09 | CA | SANTA BARBARA, CITY OF | 0603350005D | 09-JAN-2003 | 03-09-0110A | 02
09 | CA | SANTA BARBARA, CITY OF | 0603350004D | 26-FEB-2003 | 03-09-0488A | 02
09 | CA | SANTA BARBARA, CITY OF | 0603350005D | 24-MAR-2003 | 03-09-0519X | 02
09 | CA | SANTA CLARA COUNTY | 0603370240D | 22-JAN-2003 | 01-09-159P | 05
09 | CA | SANTA CLARA, CITY OF | 0603500003D | 29-JAN-2003 | 03-09-0320A | 02
09 | CA | SANTA CLARA, CITY OF | 0603500003D | 12-FEB-2003 | 03-09-0324A | 02
09 | CA | SANTA CLARA, CITY OF | 0603500003D | 19-MAR-2003 | 03-09-0552A | 02
09 | CA | SANTA CLARA, CITY OF | 0603500003D | 25-APR-2003 | 03-09-0779A | 02
09 | CA | SANTA CLARA, CITY OF | 0603500005D | 01-MAY-2003 | 03-09-0786A | 02
09 | CA | SANTA CLARA, CITY OF | 0603500003D | 06-JUN-2003 | 03-09-1007A | 02
09 | CA | SANTA CLARA, CITY OF | 0603500003D | 06-JUN-2003 | 03-09-1010A | 02
09 | CA | SANTA CLARA, CITY OF | 0603500003D | 06-JUN-2003 | 03-09-1088A | 02
09 | CA | SANTA CLARITA, CITY OF | 0607290345C | 30-APR-2003 | 03-09-0041P | 06
09 | CA | SANTA CLARITA, CITY OF | 0650430345B | 02-MAY-2003 | 03-09-0295A | 01
09 | CA | SANTA CLARITA, CITY OF | 0607290345C | 30-APR-2003 | 03-09-0694X | 06
09 | CA | SANTA CRUZ COUNTY | 0603530210B | 07-MAY-2003 | 03-09-0833A | 02
09 | CA | SANTA CRUZ COUNTY | 0603530215B | 11-JUN-2003 | 03-09-0954A | 02
09 | CA | SANTA PAULA, CITY OF | 0604130590C | 27-MAR-2003 | 03-09-0548A | 02
09 | CA | SANTA ROSA, CITY OF | 0603810011B | 09-APR-2003 | 03-09-0673A | 02
09 | CA | SEBASTOPOL, CITY OF | 0603820001C | 02-JAN-2003 | 03-09-0109A | 02
09 | CA | SEBASTOPOL, CITY OF | 0603820001C | 08-JAN-2003 | 03-09-0111A | 01
09 | CA | SHASTA COUNTY | 0603580405B | 02-JAN-2003 | 03-09-0204A | 02
09 | CA | SHASTA COUNTY | 0603580450B | 29-JAN-2003 | 03-09-0272A | 02
09 | CA | SHASTA COUNTY | 0603580685C | 16-APR-2003 | 03-09-0576A | 02
09 | CA | SHASTA COUNTY | 0603580550B | 14-MAY-2003 | 03-09-0692A | 02
09 | CA | SHASTA COUNTY | 0603580715B | 25-JUN-2003 | 03-09-0935A | 02
09 | CA | SHASTA LAKE, CITY OF | 0607580005A | 13-JUN-2003 | 03-09-0957A | 02
09 | CA | SIMI VALLEY, CITY OF | 0604210007B | 30-JAN-2003 | 02-09-1001P | 05
09 | CA | SIMI VALLEY, CITY OF | 0604210009B | 30-JAN-2003 | 02-09-1001P | 05
09 | CA | SIMI VALLEY, CITY OF | 0604210008B | 08-JAN-2003 | 03-09-0218A | 02
09 | CA | SIMI VALLEY, CITY OF | 0604210004B | 09-JAN-2003 | 03-09-0255A | 02
09 | CA | SIMI VALLEY, CITY OF | 0604210004B | 04-FEB-2003 | 03-09-0308A | 02
09 | CA | SIMI VALLEY, CITY OF | 0604210008B | 06-MAR-2003 | 03-09-0345A | 02
09 | CA | SIMI VALLEY, CITY OF | 0604210009B | 19-FEB-2003 | 03-09-0400A | 02
09 | CA | SIMI VALLEY, CITY OF | 0604210006B | 24-FEB-2003 | 03-09-0439A | 02
09 | CA | SIMI VALLEY, CITY OF | 0604210009B | 24-FEB-2003 | 03-09-0456A | 02
09 | CA | SIMI VALLEY, CITY OF | 0604210002B | 24-FEB-2003 | 03-09-0458A | 02
09 | CA | SIMI VALLEY, CITY OF | 0604210007B | 19-MAR-2003 | 03-09-0479A | 02
09 | CA | SIMI VALLEY, CITY OF | 0604210002B | 24-FEB-2003 | 03-09-0520A | 02
09 | CA | SIMI VALLEY, CITY OF | 0604210002B | 24-FEB-2003 | 03-09-0528A | 02
09 | CA | SIMI VALLEY, CITY OF | 0604210008B | 03-APR-2003 | 03-09-0540A | 01
09 | CA | SIMI VALLEY, CITY OF | 0604210009B | 03-APR-2003 | 03-09-0540A | 01
09 | CA | SIMI VALLEY, CITY OF | 0604210008B | 07-MAY-2003 | 03-09-0567A | 02
09 | CA | SIMI VALLEY, CITY OF | 0604210006B | 07-APR-2003 | 03-09-0570A | 02
09 | CA | SIMI VALLEY, CITY OF | 0604210008B | 13-MAR-2003 | 03-09-0577A | 02
09 | CA | SIMI VALLEY, CITY OF | 0604210009B | 09-APR-2003 | 03-09-0579A | 02
09 | CA | SIMI VALLEY, CITY OF | 0604210007B | 07-APR-2003 | 03-09-0616A | 02
09 | CA | SIMI VALLEY, CITY OF | 0604210009B | 09-APR-2003 | 03-09-0664A | 02
09 | CA | SIMI VALLEY, CITY OF | 0604210004B | 23-APR-2003 | 03-09-0744A | 02
09 | CA | SIMI VALLEY, CITY OF | 0604210009B | 21-APR-2003 | 03-09-0762A | 02
09 | CA | SIMI VALLEY, CITY OF | 0604210008B | 07-MAY-2003 | 03-09-0844A | 02
09 | CA | SIMI VALLEY, CITY OF | 0604210008B | 07-MAY-2003 | 03-09-0845A | 02
09 | CA | SIMI VALLEY, CITY OF | 0604210009B | 01-MAY-2003 | 03-09-0856A | 02
09 | CA | SIMI VALLEY, CITY OF | 0604210004B | 27-MAY-2003 | 03-09-0872A | 02
09 | CA | SIMI VALLEY, CITY OF | 0604210006B | 28-MAY-2003 | 03-09-0899A | 02
09 | CA | SIMI VALLEY, CITY OF | 0604210009B | 18-JUN-2003 | 03-09-0914A | 02
09 | CA | SIMI VALLEY, CITY OF | 0604210008B | 25-JUN-2003 | 03-09-0994A | 02
09 | CA | SIMI VALLEY, CITY OF | 0604210008B | 11-JUN-2003 | 03-09-0997A | 01
09 | CA | SIMI VALLEY, CITY OF | 0604210009B | 11-JUN-2003 | 03-09-0997A | 01
09 | CA | SIMI VALLEY, CITY OF | 0604210009B | 06-JUN-2003 | 03-09-1021A | 02
09 | CA | SIMI VALLEY, CITY OF | 0604210009B | 11-JUN-2003 | 03-09-1075A | 02
09 | CA | SIMI VALLEY, CITY OF | 0604210004B | 20-JUN-2003 | 03-09-1104A | 02
09 | CA | SIMI VALLEY, CITY OF | 0604210004B | 27-JUN-2003 | 03-09-1137A | 02
09 | CA | SIMI VALLEY, CITY OF | 0604210009B | 25-JUN-2003 | 03-09-1145A | 02
09 | CA | SOLANO COUNTY | 0606310406B | 26-FEB-2003 | 03-09-0524A | 02
09 | CA | SOLVANG, CITY OF | 0603310559C | 07-MAY-2003 | 02-09-1302P | 05
09 | CA | SONOMA COUNTY | 0603750110B | 12-FEB-2003 | 03-09-0359A | 02
09 | CA | SONOMA COUNTY | 0603750520B | 13-MAR-2003 | 03-09-0464A | 02
09 | CA | SONOMA COUNTY | 0603750885B | 27-MAR-2003 | 03-09-0543A | 02
09 | CA | SONOMA COUNTY | 0603750655B | 16-APR-2003 | 03-09-0580A | 02
09 | CA | SONOMA COUNTY | 0603750885B | 14-MAY-2003 | 03-09-0666A | 02
09 | CA | SONOMA COUNTY | 0603750515B | 25-APR-2003 | 03-09-0670A | 02
09 | CA | SONOMA COUNTY | 0603750635B | 16-MAY-2003 | 03-09-0873A | 02
09 | CA | SUNNYVALE, CITY OF | 0603520001D | 27-JAN-2003 | 03-09-0289A | 02
09 | CA | SUNNYVALE, CITY OF | 0603520001D | 26-FEB-2003 | 03-09-0564A | 02
09 | CA | SUNNYVALE, CITY OF | 0603520001D | 16-MAY-2003 | 03-09-0622A | 02
09 | CA | SUNNYVALE, CITY OF | 0603520001D | 25-APR-2003 | 03-09-0731A | 02
09 | CA | SUNNYVALE, CITY OF | 0603520001D | 23-APR-2003 | 03-09-0774A | 02
09 | CA | SUNNYVALE, CITY OF | 0603520001D | 23-APR-2003 | 03-09-0804A | 02
09 | CA | SUNNYVALE, CITY OF | 0603520001D | 21-APR-2003 | 03-09-0812A | 02
09 | CA | SUNNYVALE, CITY OF | 0603520001D | 04-JUN-2003 | 03-09-1001A | 02
09 | CA | SUNNYVALE, CITY OF | 0603520001D | 02-JUN-2003 | 03-09-1027A | 02
09 | CA | SUNNYVALE, CITY OF | 0603520001D | 20-JUN-2003 | 03-09-1169X | 02
09 | CA | SUTTER COUNTY | 0603940305D | 23-JAN-2003 | 02-09-1486A | 01
09 | CA | TEHAMA COUNTY | 0650640475C | 06-MAY-2003 | 00-09-1140V | 19
09 | CA | TEHAMA COUNTY | 0650640480E | 06-MAY-2003 | 00-09-1140V | 19
09 | CA | TEHAMA COUNTY | 0650640475B | 13-MAR-2003 | 03-09-0434A | 02
09 | CA | THOUSAND OAKS, CITY OF | 0604130940B | 29-MAY-2003 | 03-09-0531P | 06
09 | CA | TULARE COUNTY | 0650660825B | 16-APR-2003 | 03-09-0211A | 01
09 | CA | UKIAH, CITY OF | 0601860001E | 13-MAR-2003 | 03-09-0491A | 02
09 | CA | UKIAH, CITY OF | 0601860002D | 21-APR-2003 | 03-09-0703A | 02
09 | CA | VACAVILLE, CITY OF | 0603730012C | 11-JUN-2003 | 03-09-0827A | 02
09 | CA | VALLEJO, CITY OF | 0603740005C | 13-FEB-2003 | 02-09-1265P | 06
09 | CA | VALLEJO, CITY OF | 0603740010C | 13-MAR-2003 | 03-09-0440A | 02
09 | CA | VALLEJO, CITY OF | 0603740005C | 27-MAR-2003 | 03-09-0470A | 01
09 | CA | VENTURA COUNTY | 0604130540C | 06-FEB-2003 | 02-09-1213P | 05
09 | CA | VENTURA COUNTY | 0604130545C | 06-FEB-2003 | 02-09-1213P | 05
09 | CA | VENTURA COUNTY | 0604130545C | 05-MAR-2003 | 03-09-0007P | 05
09 | CA | VENTURA COUNTY | 0604130645B | 17-MAR-2003 | 03-09-0427A | 01
09 | CA | VENTURA COUNTY | 0604130645B | 19-MAR-2003 | 03-09-0467A | 01
09 | CA | VENTURA COUNTY | 0604130940B | 21-APR-2003 | 03-09-0700A | 02
09 | CA | VENTURA COUNTY | 0604130645B | 25-JUN-2003 | 03-09-0831A | 01
09 | CA | VISALIA, CITY OF | 0604090005D | 03-APR-2003 | 03-09-0215A | 01
09 | CA | VISALIA, CITY OF | 0604090005D | 05-FEB-2003 | 03-09-0319A | 01
09 | CA | VISALIA, CITY OF | 0604090010C | 25-APR-2003 | 03-09-0777A | 02
09 | CA | VISALIA, CITY OF | 0604090010C | 25-JUN-2003 | 03-09-0891A | 01
09 | CA | WOODLAND, CITY OF | 0604260410C | 26-FEB-2003 | 02-09-1453A | 02
09 | CA | WOODLAND, CITY OF | 0604260440C | 09-JAN-2003 | 03-09-0226A | 02
09 | CA | WOODLAND, CITY OF | 0604260420C | 16-APR-2003 | 03-09-0561A | 02
09 | CA | WOODLAND, CITY OF | 0604260440C | 03-APR-2003 | 03-09-0596A | 02
09 | CA | WOODLAND, CITY OF | 0604260440C | 20-JUN-2003 | 03-09-0971A | 02
09 | CA | WOODLAND, CITY OF | 0604260410C | 20-JUN-2003 | 03-09-1114A | 02
09 | CA | WOODLAND, CITY OF | 0604260420C | 20-JUN-2003 | 03-09-1130A | 02
09 | CA | WOODLAND, CITY OF | 0604260420C | 27-JUN-2003 | 03-09-1234X | 02
09 | CA | YOLO COUNTY | 0604230559D | 13-MAR-2003 | 03-09-0457A | 02
09 | CA | YOLO COUNTY | 0604230559D | 09-APR-2003 | 03-09-0656A | 02
09 | CA | YOUNTVILLE, TOWN OF | 0602090001C | 27-JUN-2003 | 03-09-1062A | 02
09 | CA | YUCAIPA, CITY OF | 06071C8745F | 09-APR-2003 | 03-09-0568A | 02
09 | HI | HAWAII COUNTY | 1551660713D | 24-APR-2003 | 02-09-1456P | 05
09 | HI | HAWAII COUNTY | 1551660267C | 25-FEB-2003 | 03-09-0139P | 06
09 | HI | HAWAII COUNTY | 1551661157C | 18-JUN-2003 | 03-09-0331A | 02
09 | HI | HAWAII COUNTY | 1551660880C | 11-JUN-2003 | 03-09-0967A | 02
09 | HI | KAUAI COUNTY | 1500020130D | 12-FEB-2003 | 03-09-0330A | 02
09 | HI | MAUI COUNTY | 1500030138B | 13-JUN-2003 | 03-09-0107P | 05
09 | HI | MAUI COUNTY | 1500030151C | 13-JUN-2003 | 03-09-0107P | 05
09 | HI | MAUI COUNTY | 1500030330B | 06-MAY-2003 | 03-09-0116P | 05
09 | HI | MAUI COUNTY | 1500030265C | 08-MAY-2003 | 03-09-0144P | 05
09 | NV | CARSON CITY, CITY OF | 3200010080C | 29-MAY-2003 | 01-09-592P | 05
09 | NV | CLARK COUNTY | 32003C2535E | 19-JUN-2003 | 02-09-718P | 05
09 | NV | CLARK COUNTY | 32003C2552E | 19-JUN-2003 | 02-09-718P | 05
09 | NV | CLARK COUNTY | 32003C2553E | 19-JUN-2003 | 02-09-718P | 05
09 | NV | CLARK COUNTY | 32003C2554E | 19-JUN-2003 | 02-09-718P | 05
09 | NV | CLARK COUNTY | 32003C2556E | 19-JUN-2003 | 02-09-718P | 05
09 | NV | CLARK COUNTY | 32003C2560E | 19-JUN-2003 | 02-09-718P | 05
09 | NV | CLARK COUNTY | 32003C2562E | 07-APR-2003 | 02-09-913P | 05
09 | NV | CLARK COUNTY | 32003C2566E | 07-APR-2003 | 02-09-913P | 05
09 | NV | CLARK COUNTY | 32003C2567E | 07-APR-2003 | 02-09-913P | 05
09 | NV | CLARK COUNTY | 32003C2568E | 07-APR-2003 | 02-09-913P | 05
09 | NV | CLARK COUNTY | 32003C2569E | 07-APR-2003 | 02-09-913P | 05
09 | NV | CLARK COUNTY | 32003C2580E | 07-APR-2003 | 02-09-913P | 05
09 | NV | CLARK COUNTY | 32003C2583E | 07-APR-2003 | 02-09-913P | 05
09 | NV | CLARK COUNTY | 32003C2585E | 07-APR-2003 | 02-09-913P | 05
09 | NV | CLARK COUNTY | 32003C2590E | 07-APR-2003 | 02-09-913P | 05
09 | NV | CLARK COUNTY | 32003C2910E | 07-APR-2003 | 02-09-913P | 05
09 | NV | CLARK COUNTY | 32003C2535E | 27-JAN-2003 | 03-09-0153P | 06
09 | NV | CLARK COUNTY | 32003C2535E | 24-MAR-2003 | 03-09-0366A | 02
09 | NV | CLARK COUNTY | 32003C2569E | 09-MAY-2003 | 03-09-0513A | 02
09 | NV | CLARK COUNTY | 32003C2535E | 25-JUN-2003 | 03-09-0819A | 01
09 | NV | CLARK COUNTY | 32003C2562E | 21-APR-2003 | 03-09-0861X | 05
09 | NV | CLARK COUNTY | 32003C2566E | 21-APR-2003 | 03-09-0861X | 05
09 | NV | CLARK COUNTY | 32003C2567E | 21-APR-2003 | 03-09-0861X | 05
09 | NV | CLARK COUNTY | 32003C2568E | 21-APR-2003 | 03-09-0861X | 05
09 | NV | CLARK COUNTY | 32003C2569E | 21-APR-2003 | 03-09-0861X | 05
09 | NV | CLARK COUNTY | 32003C2580E | 21-APR-2003 | 03-09-0861X | 05
09 | NV | CLARK COUNTY | 32003C2583E | 21-APR-2003 | 03-09-0861X | 05
09 | NV | CLARK COUNTY | 32003C2585E | 21-APR-2003 | 03-09-0861X | 05
09 | NV | CLARK COUNTY | 32003C2590E | 21-APR-2003 | 03-09-0861X | 05
09 | NV | CLARK COUNTY | 32003C2910E | 21-APR-2003 | 03-09-0861X | 05
09 | NV | CLARK COUNTY | 32003C2535E | 20-JUN-2003 | 03-09-0904P | 06
09 | NV | DOUGLAS COUNTY | 32005C0235F | 28-MAY-2003 | 02-09-759P | 06
09 | NV | DOUGLAS COUNTY | 32005C0235F | 27-MAR-2003 | 03-09-0381A | 02
09 | NV | DOUGLAS COUNTY | 32005C0040F | 27-MAR-2003 | 03-09-0585A | 02
09 | NV | FALLON, CITY OF | 3200020001A | 23-JAN-2003 | 03-09-0283A | 02
09 | NV | HENDERSON, CITY OF | 32003C2590E | 19-MAR-2003 | 02-09-382P | 06
09 | NV | HENDERSON, CITY OF | 32003C2590E | 19-MAR-2003 | 02-09-717P | 06
09 | NV | HENDERSON, CITY OF | 32003C2590E | 19-MAR-2003 | 02-09-782P | 06
09 | NV | HENDERSON, CITY OF | 32003C2580E | 07-APR-2003 | 02-09-913P | 05
09 | NV | HENDERSON, CITY OF | 32003C2590E | 07-APR-2003 | 02-09-913P | 05
09 | NV | HENDERSON, CITY OF | 32003C2590E | 23-JAN-2003 | 03-09-0274A | 02
09 | NV | HENDERSON, CITY OF | 32003C2585E | 14-JAN-2003 | 03-09-0284X | 06
09 | NV | HENDERSON, CITY OF | 32003C2595E | 14-JAN-2003 | 03-09-0284X | 06
09 | NV | HENDERSON, CITY OF | 32003C2590E | 10-FEB-2003 | 03-09-0452A | 01
09 | NV | HENDERSON, CITY OF | 32003C2590E | 10-MAR-2003 | 03-09-0455A | 02
09 | NV | HENDERSON, CITY OF | 32003C2590E | 11-APR-2003 | 03-09-0690A | 02
09 | NV | HENDERSON, CITY OF | 32003C2580E | 21-APR-2003 | 03-09-0861X | 05
09 | NV | HENDERSON, CITY OF | 32003C2590E | 21-APR-2003 | 03-09-0861X | 05
09 | NV | LANDER COUNTY | 3200130145F | 21-MAY-2003 | 03-09-0791A | 02
09 | NV | LAS VEGAS, CITY OF | 32003C2155E | 13-MAR-2003 | 03-09-0168A | 01
09 | NV | LAS VEGAS, CITY OF | 32003C2155E | 19-MAR-2003 | 03-09-0560A | 01
09 | NV | LAS VEGAS, CITY OF | 32003C2155E | 20-JUN-2003 | 03-09-0895A | 01
09 | NV | LAS VEGAS, CITY OF | 32003C2135E | 01-MAY-2003 | 03-09-0936P | 06
09 | NV | LAS VEGAS, CITY OF | 32003C2155E | 01-MAY-2003 | 03-09-0936P | 06
09 | NV | MESQUITE, CITY OF | 32003C0379E | 28-APR-2003 | 03-09-0236P | 06
09 | NV | MESQUITE, CITY OF | 32003C0387E | 28-APR-2003 | 03-09-0236P | 06
09 | NV | MESQUITE, CITY OF | 32003C0386E | 10-FEB-2003 | 03-09-0453A | 01
09 | NV | NORTH LAS VEGAS, CITY OF | 32003C1766E | 20-FEB-2003 | 03-09-0177P | 06
09 | NV | NORTH LAS VEGAS, CITY OF | 32003C2160E | 19-FEB-2003 | 03-09-0398A | 02
09 | NV | NORTH LAS VEGAS, CITY OF | 32003C2160E | 26-JUN-2003 | 03-09-0441P | 06
09 | NV | RENO, CITY OF | 32031C3178E | 11-APR-2003 | 03-09-0265A | 01
09 | NV | RENO, CITY OF | 32031C3186E | 11-APR-2003 | 03-09-0265A | 01
09 | NV | WASHOE COUNTY | 32031C3188E | 05-FEB-2003 | 02-09-1520A | 02
09 | NV | WASHOE COUNTY | 32031C3170E | 19-FEB-2003 | 03-09-0036A | 02
09 | NV | WASHOE COUNTY | 32031C3188E | 26-FEB-2003 | 03-09-0296A | 02
09 | NV | WASHOE COUNTY | 32031C3189E | 09-APR-2003 | 03-09-0518A | 02
10 | AK | ANCHORAGE, MUNICIPALITY OF | 0200052203C | 19-FEB-2003 | 03-10-0211A | 02
10 | AK | ANCHORAGE, MUNICIPALITY OF | 0200050230B | 23-APR-2003 | 03-10-0385A | 02
10 | AK | ANCHORAGE, MUNICIPALITY OF | 0200050510C | 18-JUN-2003 | 03-10-0579A | 02
10 | AK | FAIRBANKS-NORTH STAR BOROUGH | 0250090181G | 02-JAN-2003 | 03-10-0133A | 02
10 | AK | FAIRBANKS-NORTH STAR BOROUGH | 0250090184G | 11-JUN-2003 | 03-10-0312A | 01
10 | AK | FAIRBANKS-NORTH STAR BOROUGH | 0250090184G | 09-MAY-2003 | 03-10-0381A | 01
10 | AK | FAIRBANKS-NORTH STAR BOROUGH | 0250090184G | 14-MAY-2003 | 03-10-0417A | 01
10 | AK | FAIRBANKS-NORTH STAR BOROUGH | 0250090184G | 14-MAY-2003 | 03-10-0426A | 01
10 | AK | FAIRBANKS-NORTH STAR BOROUGH | 0250090183G | 10-APR-2003 | 03-10-0443A | 02
10 | AK | JUNEAU, CITY AND BOROUGH OF | 0200090880C | 11-APR-2003 | 03-10-0364A | 01
10 | AK | KENAI PENINSULA BOROUGH | 0200122150A | 17-MAR-2003 | 03-10-0247A | 02
10 | AK | MATANUSKA-SUSITNA, BOROUGH OF | 0200219725D | 16-APR-2003 | 03-10-0242A | 01
10 | ID | ADA COUNTY | 16001C0130H | 20-FEB-2003 | 00-10-269V | 19
10 | ID | ADA COUNTY | 16001C0140H | 20-FEB-2003 | 00-10-269V | 19
10 | ID | ADA COUNTY | 16001C0143H | 20-FEB-2003 | 00-10-269V | 19
10 | ID | ADA COUNTY | 16001C0144H | 20-FEB-2003 | 00-10-269V | 19
10 | ID | ADA COUNTY | 16001C0151H | 20-FEB-2003 | 00-10-269V | 19
10 | ID | ADA COUNTY | 16001C0152H | 20-FEB-2003 | 00-10-269V | 19
10 | ID | ADA COUNTY | 16001C0169H | 20-FEB-2003 | 00-10-269V | 19
10 | ID | ADA COUNTY | 16001C0254H | 20-FEB-2003 | 00-10-269V | 19
10 | ID | ADA COUNTY | 16001C0258H | 20-FEB-2003 | 00-10-269V | 19
10 | ID | ADA COUNTY | 16001C0283H | 20-FEB-2003 | 00-10-269V | 19
10 | ID | ADA COUNTY | 16001C0284H | 20-FEB-2003 | 00-10-269V | 19
10 | ID | ADA COUNTY | 16001C0161H | 20-FEB-2003 | 03-10-0006P | 06
10 | ID | ADA COUNTY | 16001C0162H | 20-FEB-2003 | 03-10-0006P | 06
10 | ID | ADA COUNTY | 16001C0254G | 23-JAN-2003 | 03-10-0045A | 01
10 | ID | ADA COUNTY | 16001C0140H | 06-MAR-2003 | 03-10-0223A | 17
10 | ID | ADA COUNTY | 16001C0156H | 20-FEB-2003 | 03-10-0228P | 05
10 | ID | ADA COUNTY | 16001C0157H | 20-FEB-2003 | 03-10-0228P | 05
10 | ID | ADA COUNTY | 16001C0176H | 20-FEB-2003 | 03-10-0228P | 05
10 | ID | ADA COUNTY | 16001C0178H | 20-FEB-2003 | 03-10-0228P | 05
10 | ID | ADA COUNTY | 16001C0142H | 11-APR-2003 | 03-10-0245A | 17
10 | ID | ADA COUNTY | N/A | 27-MAR-2003 | 03-10-0316P | 06
10 | ID | ADA COUNTY | 16001C0143H | 09-APR-2003 | 03-10-0335A | 01
10 | ID | ADA COUNTY | 16001C0140H | 21-MAY-2003 | 03-10-0384A | 17
10 | ID | ADA COUNTY | 16001C0141H | 21-MAY-2003 | 03-10-0384A | 17
10 | ID | ADA COUNTY | 16001C0134H | 06-JUN-2003 | 03-10-0397A | 17
10 | ID | ADA COUNTY | 16001C0140H | 14-MAY-2003 | 03-10-0428A | 01
10 | ID | ADA COUNTY | 16001C0143H | 25-JUN-2003 | 03-10-0643A | 01
10 | ID | ADA COUNTY | 16001C0259H | 27-JUN-2003 | 03-10-0652A | 02
10 | ID | AMMON, CITY OF | 1600280001C | 13-JUN-2003 | 03-10-0229P | 05
10 | ID | BINGHAM COUNTY | 1600180435C | 05-FEB-2003 | 03-10-0180A | 02
10 | ID | BINGHAM COUNTY | 1600180280B | 26-FEB-2003 | 03-10-0219A | 02
10 | ID | BINGHAM COUNTY | 1600180250B | 19-MAR-2003 | 03-10-0253A | 02
10 | ID | BINGHAM COUNTY | 1600180425B | 09-MAY-2003 | 03-10-0375A | 02
10 | ID | BINGHAM COUNTY | 1600180425B | 07-MAY-2003 | 03-10-0386A | 02
10 | ID | BINGHAM COUNTY | 1600180425B | 07-MAY-2003 | 03-10-0401A | 02
10 | ID | BINGHAM COUNTY | 1600180425B | 25-JUN-2003 | 03-10-0500A | 02
10 | ID | BLAINE COUNTY | 1651670441B | 21-MAY-2003 | 02-10-700P | 05
10 | ID | BLAINE COUNTY | 1651670269B | 05-FEB-2003 | 03-10-0184A | 02
10 | ID | BOISE, CITY OF | 16001C0169H | 20-FEB-2003 | 00-10-269V | 19
10 | ID | BOISE, CITY OF | 16001C0277H | 20-FEB-2003 | 00-10-269V | 19
10 | ID | BOISE, CITY OF | 16001C0281H | 20-FEB-2003 | 00-10-269V | 19
10 | ID | BOISE, CITY OF | 16001C0284H | 20-FEB-2003 | 00-10-269V | 19
10 | ID | BOISE, CITY OF | 16001C0305H | 20-FEB-2003 | 00-10-269V | 19
10 | ID | BOISE, CITY OF | 16001C0281H | 07-MAR-2003 | 03-10-0215P | 06
10 | ID | BOISE, CITY OF | 16001C0167H | 06-MAR-2003 | 03-10-0224A | 02
10 | ID | BOISE, CITY OF | 16001C0186H | 06-MAR-2003 | 03-10-0224A | 02
10 | ID | BOISE, CITY OF | N/A | 27-MAR-2003 | 03-10-0316P | 06
10 | ID | BONNER COUNTY | 1602060300C | 21-APR-2003 | 03-10-0198A | 02
10 | ID | BONNER COUNTY | 1602060300C | 12-FEB-2003 | 03-10-0213A | 02
10 | ID | BONNER COUNTY | 1602060300C | 13-MAR-2003 | 03-10-0289A | 02
10 | ID | BONNER COUNTY | 1602060300C | 31-MAR-2003 | 03-10-0305A | 02
10 | ID | BONNER COUNTY | 1602060300C | 24-MAR-2003 | 03-10-0313A | 02
10 | ID | BONNER COUNTY | 1602060300C | 11-JUN-2003 | 03-10-0527A | 02
10 | ID | BONNER COUNTY | 1602060260B | 11-JUN-2003 | 03-10-0538A | 02
10 | ID | BONNER COUNTY | 1602060430B | 25-JUN-2003 | 03-10-0553A | 02
10 | ID | BONNEVILLE COUNTY | 1600270070D | 13-JUN-2003 | 03-10-0229P | 05
10 | ID | BONNEVILLE COUNTY | 1600270235D | 13-JUN-2003 | 03-10-0229P | 05
10 | ID | BONNEVILLE COUNTY | 1600270240C | 17-MAR-2003 | 03-10-0235A | 01
10 | ID | BONNEVILLE COUNTY | 1600270320C | 21-MAY-2003 | 03-10-0470A | 02
10 | ID | COTTONWOOD, CITY OF | 1600670005B | 06-MAR-2003 | 03-10-0244A | 02
10 | ID | EAGLE, CITY OF | 16001C0134H | 20-FEB-2003 | 00-10-269V | 19
10 | ID | EAGLE, CITY OF | 16001C0153H | 20-FEB-2003 | 00-10-269V | 19
10 | ID | EAGLE, CITY OF | 16001C0161H | 20-FEB-2003 | 00-10-269V | 19
10 | ID | EAGLE, CITY OF | 16001C0162H | 20-FEB-2003 | 00-10-269V | 19
10 | ID | EAGLE, CITY OF | 16001C0153G | 03-MAR-2003 | 03-10-0004A | 17
10 | ID | EAGLE, CITY OF | 16001C0161H | 20-FEB-2003 | 03-10-0006P | 06
10 | ID | EAGLE, CITY OF | 16001C0162H | 20-FEB-2003 | 03-10-0006P | 06
10 | ID | EAGLE, CITY OF | N/A | 27-MAR-2003 | 03-10-0316P | 06
10 | ID | EAGLE, CITY OF | 16001C0153G | 13-MAR-2003 | 03-10-0350X | 01
10 | ID | EAGLE, CITY OF | 16001C0154H | 21-MAY-2003 | 03-10-0406A | 17
10 | ID | EAGLE, CITY OF | 16001C0153H | 25-JUN-2003 | 03-10-0445A | 01
10 | ID | EAGLE, CITY OF | 16001C0153H | 23-APR-2003 | 03-10-0453X | 17
10 | ID | EAGLE, CITY OF | 16001C0154H | 18-JUN-2003 | 03-10-0482A | 17
10 | ID | GARDEN CITY, CITY OF | 16001C0162H | 20-FEB-2003 | 00-10-269V | 19
10 | ID | GARDEN CITY, CITY OF | 16001C0166H | 20-FEB-2003 | 00-10-269V | 19
10 | ID | GARDEN CITY, CITY OF | 16001C0167H | 20-FEB-2003 | 00-10-269V | 19
10 | ID | GARDEN CITY, CITY OF | 16001C0169H | 20-FEB-2003 | 00-10-269V | 19
10 | ID | GARDEN CITY, CITY OF | N/A | 27-MAR-2003 | 03-10-0316P | 06
10 | ID | GARDEN CITY, CITY OF | 16001C0166H | 03-APR-2003 | 03-10-0359A | 17
10 | ID | GARDEN CITY, CITY OF | 16001C0166H | 28-MAY-2003 | 03-10-0365A | 01
10 | ID | GARDEN CITY, CITY OF | 16001C0166H | 25-APR-2003 | 03-10-0488X | 01
10 | ID | GARDEN CITY, CITY OF | 16001C0169H | 11-JUN-2003 | 03-10-0563A | 02
10 | ID | GEM COUNTY | 1601270265A | 01-MAY-2003 | 03-10-0341A | 02
10 | ID | GEM COUNTY | 1601270265A | 14-MAY-2003 | 03-10-0532A | 02
10 | ID | GOODING COUNTY | 1602270200B | 21-APR-2003 | 03-10-0053A | 02
10 | ID | HAILEY, CITY OF | 1600220668D | 11-JUN-2003 | 03-10-0559A | 02
10 | ID | JEFFERSON COUNTY | 16051C0386B | 09-JAN-2003 | 03-10-0149A | 02
10 | ID | JEFFERSON COUNTY | 16051C0375B | 23-APR-2003 | 03-10-0221A | 01
10 | ID | KAMIAH, CITY OF | 1600940001B | 31-MAR-2003 | 03-10-0249A | 02
10 | ID | KETCHUM, CITY OF | 1600230461C | 19-FEB-2003 | 03-10-0234A | 02
10 | ID | KOOTENAI COUNTY | 1600760050C | 25-APR-2003 | 03-10-0282A | 02
10 | ID | KOOTENAI COUNTY | 1600760155C | 09-APR-2003 | 03-10-0353A | 02
10 | ID | KOOTENAI COUNTY | 1600760025C | 11-JUN-2003 | 03-10-0434A | 02
10 | ID | KOOTENAI COUNTY | 1600760280C | 21-MAY-2003 | 03-10-0461A | 02
10 | ID | KOOTENAI COUNTY | 1600760280C | 02-JUN-2003 | 03-10-0572X | 02
10 | ID | LATAH COUNTY | 1600860355B | 27-JAN-2003 | 03-10-0128A | 02
10 | ID | LATAH COUNTY | 1600860330D | 18-JUN-2003 | 03-10-0505A | 02
10 | ID | LEMHI COUNTY | 1600920665A | 19-FEB-2003 | 02-10-693A | 02
10 | ID | MERIDIAN, CITY OF | 16001C0143H | 20-FEB-2003 | 00-10-269V | 19
10 | ID | MERIDIAN, CITY OF | 16001C0144H | 20-FEB-2003 | 00-10-269V | 19
10 | ID | MERIDIAN, CITY OF | 16001C0231H | 20-FEB-2003 | 00-10-269V | 19
10 | ID | MERIDIAN, CITY OF | 16001C0232H | 20-FEB-2003 | 00-10-269V | 19
10 | ID | MERIDIAN, CITY OF | 16001C0251H | 20-FEB-2003 | 00-10-269V | 19
10 | ID | MERIDIAN, CITY OF | 16001C0232H | 06-MAR-2003 | 03-10-0194A | 01
10 | ID | MERIDIAN, CITY OF | 16001C0143H | 13-MAR-2003 | 03-10-0233A | 17
10 | ID | MERIDIAN, CITY OF | 16001C0144H | 17-MAR-2003 | 03-10-0293A | 02
10 | ID | MERIDIAN, CITY OF | N/A | 27-MAR-2003 | 03-10-0316P | 06
10 | ID | MERIDIAN, CITY OF | 16001C0144H | 20-JUN-2003 | 03-10-0602A | 02
10 | ID | PAYETTE, CITY OF | 1601980129B | 12-FEB-2003 | 03-10-0190A | 02
10 | ID | STAR, CITY OF | 16001C0140H | 14-MAY-2003 | 03-10-0051A | 17
10 | ID | TETON COUNTY | 16081C0141C | 07-MAY-2003 | 03-10-0354A | 02
10 | ID | TWIN FALLS, CITY OF | 1601200005B | 16-APR-2003 | 03-10-0360A | 02
10 | ID | TWIN FALLS, CITY OF | 1601200005B | 02-MAY-2003 | 03-10-0466A | 02
10 | ID | VALLEY COUNTY | 1602200325A | 11-JUN-2003 | 03-10-0431A | 02
10 | ID | VALLEY COUNTY | 1602200325A | 28-MAY-2003 | 03-10-0485A | 02
10 | ID | VALLEY COUNTY | 1602200475A | 25-JUN-2003 | 03-10-0494A | 02
10 | ID | VALLEY COUNTY | 1602200475A | 25-JUN-2003 | 03-10-0591A | 02
10 | ID | WEISER,CITY OF | 1601240005B | 25-JUN-2003 | 03-10-0521A | 02
10 | ID | WEISER,CITY OF | 1601240005B | 25-JUN-2003 | 03-10-0575A | 02
10 | OR | ALBANY, CITY OF | 4101370005F | 26-FEB-2003 | 03-10-0150A | 01
10 | OR | ALBANY, CITY OF | 4101370003F | 23-APR-2003 | 03-10-0324A | 01
10 | OR | ALBANY, CITY OF | 4101370005F | 07-APR-2003 | 03-10-0408X | 01
10 | OR | ALBANY, CITY OF | 4101370005F | 21-MAY-2003 | 03-10-0531A | 02
10 | OR | ASHLAND, CITY OF | 4100900003B | 06-MAR-2003 | 03-10-0033A | 01
10 | OR | ASHLAND, CITY OF | 4100900003B | 23-APR-2003 | 03-10-0109A | 02
10 | OR | ASHLAND, CITY OF | 4100900001B | 02-JAN-2003 | 03-10-0122A | 01
10 | OR | ASHLAND, CITY OF | 4100900003B | 04-FEB-2003 | 03-10-0178A | 02
10 | OR | ASHLAND, CITY OF | 4100900001B | 25-JUN-2003 | 03-10-0467A | 02
10 | OR | ATHENA, CITY OF | 4102060001D | 07-APR-2003 | 03-10-0344A | 02
10 | OR | BAKER CITY, CITY OF | 41001C0385C | 23-APR-2003 | 03-10-0346A | 02
10 | OR | BEAVERTON,CITY OF | 4102400002C | 05-FEB-2003 | 03-10-0171A | 02
10 | OR | BEAVERTON,CITY OF | 4102400006C | 12-FEB-2003 | 03-10-0195A | 02
10 | OR | BENTON COUNTY | 4100080090C | 29-JAN-2003 | 03-10-0139A | 02
10 | OR | BENTON COUNTY | 4100080080C | 28-MAY-2003 | 03-10-0502A | 02
10 | OR | BENTON COUNTY | 4100080175C | 28-MAY-2003 | 03-10-0502A | 02
10 | OR | COOS BAY, CITY OF | 4100440008B | 10-MAR-2003 | 03-10-0268A | 02
10 | OR | COOS BAY, CITY OF | 4100440008B | 16-MAY-2003 | 03-10-0474A | 02
10 | OR | COOS COUNTY | 4100420240B | 10-FEB-2003 | 03-10-0202A | 02
10 | OR | COOS COUNTY | 4100420080B | 01-MAY-2003 | 03-10-0309A | 02
10 | OR | COOS COUNTY | 4100420135B | 15-MAY-2003 | 03-10-0405P | 06
10 | OR | CORVALLIS, CITY OF | 4100090005E | 23-APR-2003 | 03-10-0301A | 01
10 | OR | CORVALLIS, CITY OF | 4100090006E | 09-APR-2003 | 03-10-0323A | 02
10 | OR | CORVALLIS, CITY OF | 4100090004E | 04-JUN-2003 | 03-10-0504A | 02
10 | OR | CORVALLIS, CITY OF | 4100090002E | 11-JUN-2003 | 03-10-0513A | 02
10 | OR | CORVALLIS, CITY OF | 4100090002E | 25-JUN-2003 | 03-10-0530A | 02
10 | OR | CORVALLIS, CITY OF | 4100090005E | 25-JUN-2003 | 03-10-0555A | 02
10 | OR | DESCHUTES COUNTY | 41017C0140C | 13-MAR-2003 | 03-10-0155A | 02
10 | OR | DETROIT, CITY OF | 41047C0160G | 09-APR-2003 | 03-10-0157A | 02
10 | OR | DETROIT, CITY OF | 41047C1060G | 09-APR-2003 | 03-10-0256A | 02
10 | OR | DOUGLAS COUNTY | 4100590290A | 03-MAR-2003 | 03-10-0222A | 02
10 | OR | DOUGLAS COUNTY | 4100590735A | 06-MAR-2003 | 03-10-0264A | 02
10 | OR | DOUGLAS COUNTY | 4100590930A | 11-APR-2003 | 03-10-0300A | 02
10 | OR | DOUGLAS COUNTY | 4100590710A | 31-MAR-2003 | 03-10-0315A | 02
10 | OR | DOUGLAS COUNTY | 4100590930A | 01-MAY-2003 | 03-10-0338A | 02
10 | OR | DOUGLAS COUNTY | 4100590930A | 25-APR-2003 | 03-10-0373A | 02
10 | OR | DUNES CITY, CITY OF | 41039C1440F | 15-JAN-2003 | 03-10-0152A | 02
10 | OR | EUGENE, CITY OF | 41039C0619F | 02-JAN-2003 | 02-10-753A | 02
10 | OR | EUGENE, CITY OF | 41039C1129F | 27-JAN-2003 | 03-10-0182A | 02
10 | OR | EUGENE, CITY OF | 41039C1136F | 04-FEB-2003 | 03-10-0187A | 02
10 | OR | EUGENE, CITY OF | 41039C1104F | 12-FEB-2003 | 03-10-0217A | 01
10 | OR | EUGENE, CITY OF | 41039C1126F | 23-APR-2003 | 03-10-0236A | 02
10 | OR | EUGENE, CITY OF | 41039C1127F | 23-APR-2003 | 03-10-0236A | 02
10 | OR | EUGENE, CITY OF | 41039C1107F | 07-MAY-2003 | 03-10-0421A | 02
10 | OR | EUGENE, CITY OF | 41039C1136F | 02-MAY-2003 | 03-10-0432A | 02
10 | OR | EUGENE, CITY OF | 41039C1136F | 07-MAY-2003 | 03-10-0441A | 02
10 | OR | EUGENE, CITY OF | 41039C1136F | 09-MAY-2003 | 03-10-0455A | 02
10 | OR | EUGENE, CITY OF | 41039C1128F | 21-MAY-2003 | 03-10-0458A | 02
10 | OR | EUGENE, CITY OF | 41039C1107F | 18-JUN-2003 | 03-10-0487A | 02
10 | OR | EUGENE, CITY OF | 41039C1107F | 25-JUN-2003 | 03-10-0506A | 02
10 | OR | EUGENE, CITY OF | 41039C0619F | 18-JUN-2003 | 03-10-0595A | 02
10 | OR | GLADSTONE, CITY OF | 4100170001B | 21-MAY-2003 | 03-10-0478A | 02
10 | OR | GRANTS PASS, CITY OF | 4155900237D | 09-JAN-2003 | 03-10-0134A | 02
10 | OR | GRANTS PASS, CITY OF | 4101080004C | 13-MAR-2003 | 03-10-0141A | 02
10 | OR | GRANTS PASS, CITY OF | 4155900329B | 01-MAY-2003 | 03-10-0430A | 02
10 | OR | HARNEY COUNTY | 4100830604B | 02-MAY-2003 | 03-10-0349A | 02
10 | OR | HILLSBORO, CITY OF | 4102430002B | 08-JAN-2003 | 03-10-0087A | 02
10 | OR | INDEPENDENCE, CITY OF | 41053C0140C | 29-JAN-2003 | 03-10-0170A | 02
10 | OR | JACKSON COUNTY | 4155890537B | 16-APR-2003 | 03-10-0159A | 02
10 | OR | JACKSON COUNTY | 4155890314B | 05-FEB-2003 | 03-10-0205A | 02
10 | OR | JACKSON COUNTY | 4155890277B | 18-JUN-2003 | 03-10-0446A | 02
10 | OR | JACKSON COUNTY | 4155890291B | 21-MAY-2003 | 03-10-0476A | 02
10 | OR | JACKSON COUNTY | 4155890477C | 02-JUN-2003 | 03-10-0477A | 02
10 | OR | JACKSON COUNTY | 4155890305B | 02-JUN-2003 | 03-10-0479A | 02
10 | OR | KEIZER, CITY OF | 41047C0193G | 19-MAR-2003 | 03-10-0246A | 01
10 | OR | KEIZER, CITY OF | 41047C0194G | 13-MAR-2003 | 03-10-0262A | 02
10 | OR | KEIZER, CITY OF | 4102880005B | 27-MAR-2003 | 03-10-0280A | 02
10 | OR | KEIZER, CITY OF | 4102880005B | 27-MAR-2003 | 03-10-0326A | 02
10 | OR | KEIZER, CITY OF | 41047C0194G | 04-JUN-2003 | 03-10-0362A | 02
10 | OR | KEIZER, CITY OF | 41047C0194G | 24-MAR-2003 | 03-10-0374A | 02
10 | OR | KEIZER, CITY OF | 41047C0193G | 03-APR-2003 | 03-10-0415X | 02
10 | OR | KEIZER, CITY OF | 41047C0331G | 03-APR-2003 | 03-10-0415X | 02
10 | OR | KEIZER, CITY OF | 41047C0194G | 20-JUN-2003 | 03-10-0537A | 02
10 | OR | KEIZER, CITY OF | 41047C0194G | 04-JUN-2003 | 03-10-0547A | 02
10 | OR | KEIZER, CITY OF | 41047C0194G | 11-JUN-2003 | 03-10-0557A | 02
10 | OR | KLAMATH COUNTY | 4101091350B | 12-FEB-2003 | 03-10-0193A | 02
10 | OR | KLAMATH COUNTY | 4101091350B | 19-MAR-2003 | 03-10-0266A | 02
10 | OR | LAKE OSWEGO, CITY OF | 4100180002C | 02-JAN-2003 | 03-10-0095A | 02
10 | OR | LAKE OSWEGO, CITY OF | 4100180003C | 14-MAY-2003 | 03-10-0450A | 02
10 | OR | LANE COUNTY | 41039C0620F | 20-FEB-2003 | 03-10-0084A | 02
10 | OR | LANE COUNTY | 41039C1685F | 29-JAN-2003 | 03-10-0118A | 02
10 | OR | LANE COUNTY | 41039C0600F | 23-JAN-2003 | 03-10-0156A | 02
10 | OR | LANE COUNTY | 41039C1107F | 15-JAN-2003 | 03-10-0158A | 02
10 | OR | LANE COUNTY | 41039C1153F | 23-JAN-2003 | 03-10-0176A | 02
10 | OR | LANE COUNTY | 41039C0990F | 05-FEB-2003 | 03-10-0189A | 02
10 | OR | LANE COUNTY | 41039C1210F | 10-FEB-2003 | 03-10-0197A | 02
10 | OR | LANE COUNTY | 41039C1660F | 12-FEB-2003 | 03-10-0216A | 02
10 | OR | LANE COUNTY | 41039C1660F | 26-FEB-2003 | 03-10-0230A | 02
10 | OR | LANE COUNTY | 41039C1087F | 31-MAR-2003 | 03-10-0232A | 02
10 | OR | LANE COUNTY | 41039C1655F | 13-MAR-2003 | 03-10-0260A | 02
10 | OR | LANE COUNTY | 41039C1427F | 19-MAR-2003 | 03-10-0265A | 02
10 | OR | LANE COUNTY | 41039C2135F | 27-MAY-2003 | 03-10-0295A | 02
10 | OR | LANE COUNTY | 41039C1100F | 09-APR-2003 | 03-10-0343A | 02
10 | OR | LANE COUNTY | 41039C1180F | 18-JUN-2003 | 03-10-0358A | 02
10 | OR | LANE COUNTY | 41039C0575F | 01-MAY-2003 | 03-10-0372A | 02
10 | OR | LANE COUNTY | 41039C0550F | 14-MAY-2003 | 03-10-0410A | 02
10 | OR | LANE COUNTY | 41039C1127F | 09-MAY-2003 | 03-10-0419A | 02
10 | OR | LANE COUNTY | 41039C0940F | 28-MAY-2003 | 03-10-0452A | 02
10 | OR | LANE COUNTY | 41039C1107F | 20-JUN-2003 | 03-10-0492A | 02
10 | OR | LANE COUNTY | 41039C1690F | 25-JUN-2003 | 03-10-0569A | 02
10 | OR | LINCOLN CITY, CITY OF | 4101300001C | 12-FEB-2003 | 03-10-0162A | 02
10 | OR | LINCOLN COUNTY | 4101290425B | 21-JAN-2003 | 03-10-0106A | 02
10 | OR | LINCOLN COUNTY | 4101290175B | 03-MAR-2003 | 03-10-0239A | 02
10 | OR | LINCOLN COUNTY | 4101290475B | 01-MAY-2003 | 03-10-0396A | 02
10 | OR | LINCOLN COUNTY | 4101290425B | 21-MAY-2003 | 03-10-0433A | 02
10 | OR | LINN COUNTY | 4101360040B | 15-JAN-2003 | 03-10-0052A | 02
10 | OR | LINN COUNTY | 4101360350B | 05-FEB-2003 | 03-10-0054A | 02
10 | OR | LINN COUNTY | 4101360350B | 05-FEB-2003 | 03-10-0165A | 02
10 | OR | LINN COUNTY | 4101360365B | 19-MAR-2003 | 03-10-0274A | 02
10 | OR | LINN COUNTY | 4101360350B | 28-MAY-2003 | 03-10-0328A | 02
10 | OR | LINN COUNTY | 4101360215B | 25-APR-2003 | 03-10-0366A | 02
10 | OR | LINN COUNTY | 4101360190B | 09-MAY-2003 | 03-10-0439A | 02
10 | OR | LINN COUNTY | 4101360180B | 25-JUN-2003 | 03-10-0454A | 02
10 | OR | LINN COUNTY | 4101360025B | 09-MAY-2003 | 03-10-0459A | 02
10 | OR | LINN COUNTY | 4101360365B | 02-MAY-2003 | 03-10-0462A | 02
10 | OR | LINN COUNTY | 4101360040B | 21-MAY-2003 | 03-10-0480A | 02
10 | OR | LINN COUNTY | 4101360190B | 11-JUN-2003 | 03-10-0501A | 02
10 | OR | MULTNOMAH COUNTY | 4101790382B | 08-JAN-2003 | 03-10-0016A | 02
10 | OR | MULTNOMAH COUNTY | 4101790215B | 13-MAR-2003 | 03-10-0254A | 02
10 | OR | MULTNOMAH COUNTY | 4101790215B | 13-MAR-2003 | 03-10-0267A | 02
10 | OR | ONTARIO, CITY OF | 4101520005B | 13-JUN-2003 | 03-10-0574A | 02
10 | OR | PENDLETON, CITY OF | 4102110005F | 14-MAY-2003 | 03-10-0404A | 01
10 | OR | POLK COUNTY | 41053C0075D | 15-JAN-2003 | 02-10-741A | 02
10 | OR | POLK COUNTY | 41053C0125C | 21-JAN-2003 | 03-10-0125A | 02
10 | OR | POLK COUNTY | 41053C0225C | 05-FEB-2003 | 03-10-0185A | 02
10 | OR | PORTLAND, CITY OF | 4101830048C | 23-JAN-2003 | 02-10-636A | 01
10 | OR | PORTLAND, CITY OF | 4101830048C | 10-MAR-2003 | 03-10-0071A | 02
10 | OR | PORTLAND, CITY OF | 4101830047D | 23-JAN-2003 | 03-10-0104A | 02
10 | OR | PORTLAND, CITY OF | 4101830047D | 26-FEB-2003 | 03-10-0231A | 02
10 | OR | PORTLAND, CITY OF | 4101830048C | 11-APR-2003 | 03-10-0329A | 02
10 | OR | PORTLAND, CITY OF | 4101830047D | 09-APR-2003 | 03-10-0355A | 02
10 | OR | PORTLAND, CITY OF | 4101830048C | 03-APR-2003 | 03-10-0407X | 02
10 | OR | PRINEVILLE, CITY OF | 41013C0236B | 19-MAR-2003 | 03-10-0310A | 02
10 | OR | ROCKAWAY, CITY OF | 4102010001C | 28-MAY-2003 | 03-10-0436A | 02
10 | OR | ROSEBURG, CITY OF | 4100670005E | 12-MAY-2003 | 03-10-0263P | 06
10 | OR | ROSEBURG, CITY OF | 4100670005E | 19-MAR-2003 | 03-10-0270A | 02
10 | OR | ROSEBURG, CITY OF | 4100670005E | 07-MAY-2003 | 03-10-0369A | 02
10 | OR | ROSEBURG, CITY OF | 4100670005E | 20-JUN-2003 | 03-10-0512A | 02
10 | OR | ROSEBURG, CITY OF | 4100670005E | 02-JUN-2003 | 03-10-0514A | 02
10 | OR | ROSEBURG, CITY OF | 4100670005E | 25-JUN-2003 | 03-10-0554A | 02
10 | OR | SALEM, CITY OF | 41047C0192G | 19-FEB-2003 | 03-10-0212A | 02
10 | OR | SALEM, CITY OF | N/A | 05-MAR-2003 | 03-10-0292X | 06
10 | OR | SALEM, CITY OF | 41047C0342H | 17-APR-2003 | 03-10-0347P | 06
10 | OR | SALEM, CITY OF | 41047C0361H | 17-APR-2003 | 03-10-0347P | 06
10 | OR | SALEM, CITY OF | 41047C0363H | 17-APR-2003 | 03-10-0347P | 06
10 | OR | SALEM, CITY OF | 41047C0334H | 25-APR-2003 | 03-10-0427A | 02
10 | OR | SALEM, CITY OF | 41047C0194G | 18-JUN-2003 | 03-10-0550A | 17
10 | OR | SALEM, CITY OF | 41047C0329G | 27-JUN-2003 | 03-10-0571A | 02
10 | OR | SALEM, CITY OF | 41047C0333H | 03-JAN-2003 | 98-10-226V | 19
10 | OR | SALEM, CITY OF | 41047C0342H | 03-JAN-2003 | 98-10-226V | 19
10 | OR | SALEM, CITY OF | 41047C0344H | 03-JAN-2003 | 98-10-226V | 19
10 | OR | SALEM, CITY OF | 41047C0361H | 03-JAN-2003 | 98-10-226V | 19
10 | OR | SODAVILLE, CITY OF | 4101360380B | 21-APR-2003 | 03-10-0257A | 02
10 | OR | SODAVILLE, CITY OF | 4101360380B | 11-JUN-2003 | 03-10-0525A | 02
10 | OR | SPRINGFIELD, CITY OF | 41039C1153F | 23-APR-2003 | 03-10-0389A | 02
10 | OR | TILLAMOOK COUNTY | 4101960315A | 02-JUN-2003 | 03-10-0496A | 02
10 | OR | TUALATIN, CITY OF | 4102770002D | 04-FEB-2003 | 03-10-0199A | 02
10 | OR | TURNER, CITY OF | 41047C0677H | 21-JAN-2003 | 03-10-0164A | 01
10 | OR | WARRENTON, CITY OF | 4100330001B | 25-JUN-2003 | 03-10-0564A | 02
10 | OR | WASHINGTON COUNTY | 4102380318B | 08-JAN-2003 | 03-10-0067A | 02
10 | OR | WASHINGTON COUNTY | 4102380509B | 29-JAN-2003 | 03-10-0181A | 02
10 | OR | WASHINGTON COUNTY | 4102380364C | 12-FEB-2003 | 03-10-0204A | 02
10 | OR | WASHINGTON COUNTY | 4102380344B | 13-MAR-2003 | 03-10-0288A | 02
10 | OR | WASHINGTON COUNTY | 4102380363C | 13-MAR-2003 | 03-10-0288A | 02
10 | OR | WASHINGTON COUNTY | 4102380350B | 11-JUN-2003 | 03-10-0371A | 02
10 | OR | WASHINGTON COUNTY | 4102380175B | 16-MAY-2003 | 03-10-0412A | 02
10 | OR | WILSONVILLE, CITY OF | 4100250005B | 19-FEB-2003 | 03-10-0169A | 02
10 | OR | WINSTON, CITY OF | 4155930001D | 23-APR-2003 | 03-10-0382A | 02
10 | OR | WOODBURN, CITY OF | 41047C0117G | 23-APR-2003 | 03-10-0099A | 02
10 | OR | YAMHILL COUNTY | 4102490300C | 27-JUN-2003 | 03-10-0518A | 02
10 | WA | ABERDEEN, CITY OF | 5300580004B | 06-MAR-2003 | 03-10-0203A | 02
10 | WA | BATTLE GROUND, CITY OF | 5300250001B | 01-MAY-2003 | 03-10-0438A | 02
10 | WA | BELLEVUE, CITY OF | 53033C0680F | 01-MAY-2003 | 03-10-0066A | 02
10 | WA | BELLEVUE, CITY OF | 53033C0657F | 19-FEB-2003 | 03-10-0132A | 02
10 | WA | BELLEVUE, CITY OF | 53033C0680F | 09-APR-2003 | 03-10-0248A | 02
10 | WA | BELLEVUE, CITY OF | 53033C0657F | 21-APR-2003 | 03-10-0357A | 02
10 | WA | BENTON COUNTY | 5302370510B | 03-MAR-2003 | 03-10-0167A | 02
10 | WA | BENTON COUNTY | 5302370636D | 16-APR-2003 | 03-10-0444A | 02
10 | WA | BRIER, CITY OF | 53061C1317E | 09-APR-2003 | 03-10-0352A | 02
10 | WA | BURLINGTON, CITY OF | 5301530001B | 25-JUN-2003 | 03-10-0237A | 01
10 | WA | CARNATION, CITY OF | 53033C0418G | 04-FEB-2003 | 03-10-0225A | 02
10 | WA | CARNATION, CITY OF | 53033C0419G | 16-APR-2003 | 03-10-0448A | 02
10 | WA | CENTRALIA, CITY OF | 5301020043B | 11-JUN-2003 | 03-10-0600X | 01
10 | WA | CHELAN COUNTY | 5300150075B | 03-MAR-2003 | 03-10-0127A | 02
10 | WA | CHELAN COUNTY | 5300150800B | 13-MAR-2003 | 03-10-0220A | 17
10 | WA | CHELAN COUNTY | 5300150800B | 25-APR-2003 | 03-10-0332A | 02
10 | WA | CLALLAM COUNTY | 5300210535D | 16-APR-2003 | 03-10-0380A | 02
10 | WA | CLARK COUNTY | 5300240311B | 26-FEB-2003 | 03-10-0227A | 02
10 | WA | CLARK COUNTY | 5300240317C | 18-JUN-2003 | 03-10-0490A | 02
10 | WA | COWLITZ COUNTY | 5300320129F | 14-MAY-2003 | 03-10-0398A | 02
10 | WA | ELLENSBURG, CITY OF | 5302340002C | 14-MAY-2003 | 03-10-0378A | 02
10 | WA | EPHRATA, CITY OF | 5300510001B | 16-MAY-2003 | 03-10-0370A | 02
10 | WA | GOLD BAR, TOWN OF | 53061C1427E | 03-MAR-2003 | 03-10-0206A | 17
10 | WA | GRAYS HARBOR COUNTY | 5300570350B | 21-APR-2003 | 03-10-0208A | 02
10 | WA | GRAYS HARBOR COUNTY | 5300570407B | 27-MAY-2003 | 03-10-0475A | 02
10 | WA | ISLAND COUNTY | 53029C0275D | 23-JAN-2003 | 03-10-0160A | 02
10 | WA | JEFFERSON COUNTY | 5300690135B | 25-APR-2003 | 03-10-0402A | 02
10 | WA | KING COUNTY | 53033C0377F | 22-MAY-2003 | 02-10-452P | 05
10 | WA | KING COUNTY | 53033C0379G | 22-MAY-2003 | 02-10-452P | 05
10 | WA | KING COUNTY | 53033C1020F | 23-JAN-2003 | 02-10-497A | 17
10 | WA | KING COUNTY | 53033C0705F | 15-JAN-2003 | 02-10-708A | 02
10 | WA | KING COUNTY | 53033C0710G | 15-JAN-2003 | 02-10-708A | 02
10 | WA | KING COUNTY | 53033C1250F | 10-MAR-2003 | 03-10-0108A | 02
10 | WA | KING COUNTY | 53033C1225F | 09-JAN-2003 | 03-10-0153A | 02
10 | WA | KING COUNTY | 53033C0680F | 24-MAR-2003 | 03-10-0251A | 02
10 | WA | KING COUNTY | 53033C1280F | 19-MAR-2003 | 03-10-0255A | 02
10 | WA | KING COUNTY | 53033C0213G | 16-APR-2003 | 03-10-0259A | 17
10 | WA | KING COUNTY | 53033C1079H | 27-MAY-2003 | 03-10-0275A | 02
10 | WA | KING COUNTY | 53033C1009F | 27-MAR-2003 | 03-10-0277A | 02
10 | WA | KING COUNTY | 53033C0680F | 13-MAR-2003 | 03-10-0287A | 02
10 | WA | KING COUNTY | 53033C1057H | 27-MAR-2003 | 03-10-0356A | 02
10 | WA | KING COUNTY | 53033C1057H | 01-MAY-2003 | 03-10-0425A | 02
10 | WA | KING COUNTY | 53033C0680F | 13-JUN-2003 | 03-10-0517A | 02
10 | WA | KING COUNTY | 53033C0687F | 11-JUN-2003 | 03-10-0536A | 02
10 | WA | KITSAP COUNTY | 5300920285B | 09-APR-2003 | 03-10-0271A | 02
10 | WA | KITSAP COUNTY | 5300920205B | 09-MAY-2003 | 03-10-0377A | 02
10 | WA | KITSAP COUNTY | 5300920050B | 09-MAY-2003 | 03-10-0383A | 02
10 | WA | KITTITAS COUNTY | 5300950436B | 20-JUN-2003 | 03-10-0526A | 02
10 | WA | KLICKITAT COUNTY | 5300990025B | 31-MAR-2003 | 03-10-0336A | 02
10 | WA | LEAVENWORTH, CITY OF | 5300190779C | 11-JUN-2003 | 03-10-0435A | 02
10 | WA | LEWIS COUNTY | 5301020370B | 13-MAR-2003 | 03-10-0172A | 02
10 | WA | LEWIS COUNTY | 5301020460B | 21-MAY-2003 | 03-10-0418A | 02
10 | WA | LEWIS COUNTY | 5301020465B | 21-MAY-2003 | 03-10-0483A | 02
10 | WA | MASON COUNTY | 5301150150C | 03-APR-2003 | 03-10-0177A | 02
10 | WA | MASON COUNTY | 5301150275C | 02-MAY-2003 | 03-10-0331A | 02
10 | WA | MOUNT VERNON, CITY OF | 5301580001B | 19-MAR-2003 | 03-10-0278A | 02
10 | WA | MOUNTLAKE TERRACE, CITY OF | 53061C1320E | 13-MAR-2003 | 03-10-0284A | 02
10 | WA | ORTING, TOWN OF | 5301430001B | 14-MAY-2003 | 03-10-0456A | 02
10 | WA | PEND OREILLE COUNTY | 53051C0200C | 31-MAR-2003 | 03-10-0105A | 02
10 | WA | PEND OREILLE COUNTY | 53051C0850C | 19-FEB-2003 | 03-10-0138A | 02
10 | WA | PEND OREILLE COUNTY | 53051C0975C | 05-FEB-2003 | 03-10-0168A | 02
10 | WA | PIERCE COUNTY | 5301380576C | 09-JAN-2003 | 03-10-0151A | 02
10 | WA | PIERCE COUNTY | 5301380470C | 06-MAR-2003 | 03-10-0276A | 02
10 | WA | PIERCE COUNTY | 5301380125C | 23-APR-2003 | 03-10-0281A | 02
10 | WA | PIERCE COUNTY | 5301380275C | 04-JUN-2003 | 03-10-0463A | 02
10 | WA | POULSBO, CITY OF | 5302410005C | 02-JUN-2003 | 03-10-0457A | 02
10 | WA | RIVERSIDE, TOWN OF | 5301220001B | 03-JAN-2003 | 02-10-656P | 06
10 | WA | SAN JUAN COUNTY | 5301490005B | 04-FEB-2003 | 03-10-0179A | 02
10 | WA | SHORELINE, CITY OF | 53033C0040F | 09-JAN-2003 | 03-10-0068A | 02
10 | WA | SKAGIT COUNTY | 5301510235D | 05-FEB-2003 | 03-10-0188A | 02
10 | WA | SKAGIT COUNTY | 5301510025C | 20-FEB-2003 | 03-10-0238A | 02
10 | WA | SKAGIT COUNTY | 5301510285C | 09-APR-2003 | 03-10-0283A | 02
10 | WA | SKAGIT COUNTY | 5301510225C | 18-JUN-2003 | 03-10-0339A | 02
10 | WA | SKAGIT COUNTY | 5301510225C | 21-APR-2003 | 03-10-0390A | 02
10 | WA | SKAGIT COUNTY | 5301510250C | 09-MAY-2003 | 03-10-0391A | 02
10 | WA | SKAMANIA COUNTY | 5301600425B | 20-JUN-2003 | 03-10-0491A | 02
10 | WA | SNOHOMISH COUNTY | 53061C1055E | 12-FEB-2003 | 03-10-0027A | 02
10 | WA | SNOHOMISH COUNTY | 53061C0384E | 24-MAR-2003 | 03-10-0241A | 02
10 | WA | SNOHOMISH COUNTY | 53061C0370E | 31-MAR-2003 | 03-10-0285A | 02
10 | WA | SNOHOMISH COUNTY | 53061C1330E | 27-MAY-2003 | 03-10-0294A | 02
10 | WA | SNOHOMISH COUNTY | 53061C0735E | 17-MAR-2003 | 03-10-0303A | 02
10 | WA | SPOKANE COUNTY | 5301740189C | 25-MAR-2003 | 02-10-614P | 05
10 | WA | SPOKANE COUNTY | 5301740225B | 29-JAN-2003 | 03-10-0166A | 02
10 | WA | SPOKANE COUNTY | 5301740225B | 24-MAR-2003 | 03-10-0269A | 02
10 | WA | SPOKANE COUNTY | 5301740294C | 13-MAR-2003 | 03-10-0272A | 02
10 | WA | SPOKANE COUNTY | 5301740310C | 09-APR-2003 | 03-10-0348A | 02
10 | WA | SPOKANE COUNTY | 5301740294C | 16-APR-2003 | 03-10-0388A | 02
10 | WA | SPOKANE COUNTY | 5301740294C | 14-MAY-2003 | 03-10-0472A | 02
10 | WA | SPOKANE COUNTY | 5301740294C | 06-JUN-2003 | 03-10-0539A | 02
10 | WA | STEVENS COUNTY | 5301850350B | 12-FEB-2003 | 03-10-0183A | 02
10 | WA | SULTAN, CITY OF | 53061C1406E | 16-APR-2003 | 03-10-0379A | 02
10 | WA | SULTAN, CITY OF | 53061C1406E | 09-MAY-2003 | 03-10-0451A | 02
10 | WA | SULTAN, CITY OF | 53061C1406E | 18-JUN-2003 | 03-10-0489A | 02
10 | WA | SULTAN, CITY OF | 53061C1406E | 20-JUN-2003 | 03-10-0604A | 02
10 | WA | SUMNER,CITY OF | 5301470005D | 25-APR-2003 | 02-10-589A | 01
10 | WA | THURSTON COUNTY | 5301880050C | 11-APR-2003 | 03-10-0129A | 02
10 | WA | THURSTON COUNTY | 5301880215C | 06-MAR-2003 | 03-10-0144A | 02
10 | WA | THURSTON COUNTY | 5301880350C | 06-MAR-2003 | 03-10-0144A | 02
10 | WA | THURSTON COUNTY | 5301880511C | 11-APR-2003 | 03-10-0145A | 02
10 | WA | THURSTON COUNTY | 5301880440C | 27-MAR-2003 | 03-10-0302A | 02
10 | WA | THURSTON COUNTY | 5301880075C | 28-MAY-2003 | 03-10-0318A | 02
10 | WA | UNION GAP, CITY OF | 5302290002C | 02-JAN-2003 | 03-10-0019A | 02
10 | WA | WHATCOM COUNTY | 530198—35B | 15-JAN-2003 | 03-10-0078A | 17
10 | WA | WHATCOM COUNTY | 530198—50B | 19-FEB-2003 | 03-10-0226A | 02
10 | WA | WHATCOM COUNTY | 530198—33IB | 09-APR-2003 | 03-10-0314A | 02
10 | WA | YAKIMA COUNTY | 5302171055C | 19-MAR-2003 | 03-10-0311A | 02

Region | State | Community | Panel | Panel date
01 | CONNECTICUT | EAST HAVEN, TOWN OF | 0900760001E | 02-JAN-2003
01 | CONNECTICUT | EAST HAVEN, TOWN OF | 0900760002E | 02-JAN-2003
01 | CONNECTICUT | EAST HAVEN, TOWN OF | 0900760003E | 02-JAN-2003
01 | CONNECTICUT | EAST HAVEN, TOWN OF | 0900760004E | 02-JAN-2003
01 | CONNECTICUT | EAST HAVEN, TOWN OF | 0900760005E | 02-JAN-2003
01 | CONNECTICUT | EAST HAVEN, TOWN OF | 0900760006E | 02-JAN-2003
01 | CONNECTICUT | EAST HAVEN, TOWN OF | 0900760007E | 02-JAN-2003
01 | CONNECTICUT | EAST HAVEN, TOWN OF | 0900760008E | 02-JAN-2003
01 | CONNECTICUT | EAST HAVEN, TOWN OF | 0900760009E | 02-JAN-2003
01 | CONNECTICUT | EAST HAVEN, TOWN OF | 0900760010E | 02-JAN-2003
01 | CONNECTICUT | EAST HAVEN, TOWN OF | 090076IND0A | 02-JAN-2003
01 | CONNECTICUT | NEWTOWN, TOWN OF | 0900110005C | 16-APR-2003
01 | CONNECTICUT | NEWTOWN, TOWN OF | 0900110010C | 16-APR-2003
01 | CONNECTICUT | NEWTOWN, TOWN OF | 0900110011C | 16-APR-2003
01 | CONNECTICUT | NEWTOWN, TOWN OF | 0900110015C | 16-APR-2003
01 | CONNECTICUT | NEWTOWN, TOWN OF | 0900110016C | 16-APR-2003
01 | CONNECTICUT | NEWTOWN, TOWN OF | 0900110017C | 16-APR-2003
01 | CONNECTICUT | NEWTOWN, TOWN OF | 0900110018C | 16-APR-2003
01 | CONNECTICUT | NEWTOWN, TOWN OF | 0900110019C | 16-APR-2003
01 | CONNECTICUT | NEWTOWN, TOWN OF | 0900110039C | 16-APR-2003
01 | CONNECTICUT | NEWTOWN, TOWN OF | 0900110040C | 16-APR-2003
01 | CONNECTICUT | NEWTOWN, TOWN OF | 0900110052C | 16-APR-2003
01 | CONNECTICUT | NEWTOWN, TOWN OF | 0900110054C | 16-APR-2003
01 | CONNECTICUT | NEWTOWN, TOWN OF | 0900110055C | 16-APR-2003
01 | CONNECTICUT | NEWTOWN, TOWN OF | 0900110056C | 16-APR-2003
01 | CONNECTICUT | NEWTOWN, TOWN OF | 0900110057C | 16-APR-2003
01 | CONNECTICUT | NEWTOWN, TOWN OF | 0900110058C | 16-APR-2003
01 | CONNECTICUT | NEWTOWN, TOWN OF | 0900110080C | 16-APR-2003
01 | CONNECTICUT | NEWTOWN, TOWN OF | 090011IND0A | 16-APR-2003
01 | MAINE | ALLAGASH, TOWN OF | 2304400010B | 02-APR-2003
01 | MAINE | ALLAGASH, TOWN OF | 2304400020B | 02-APR-2003
01 | MAINE | ALLAGASH, TOWN OF | 2304400040B | 02-APR-2003
01 | MAINE | ALLAGASH, TOWN OF | 2304400065B | 02-APR-2003
01 | MAINE | ALLAGASH, TOWN OF | 2304400080B | 02-APR-2003
01 | MAINE | ALLAGASH, TOWN OF | 2304400085B | 02-APR-2003
01 | MAINE | ALLAGASH, TOWN OF | 2304400101B | 02-APR-2003
01 | MAINE | ALLAGASH, TOWN OF | 2304400102B | 02-APR-2003
01 | MAINE | ALLAGASH, TOWN OF | 2304400105B | 02-APR-2003
01 | MAINE | ALLAGASH, TOWN OF | 2304400106B | 02-APR-2003
01 | MAINE | ALLAGASH, TOWN OF | 2304400107B | 02-APR-2003
01 | MAINE | ALLAGASH, TOWN OF | 2304400108B | 02-APR-2003
01 | MAINE | ALLAGASH, TOWN OF | 2304400109B | 02-APR-2003
01 | MAINE | ALLAGASH, TOWN OF | 2304400115B | 02-APR-2003
01 | MAINE | ALLAGASH, TOWN OF | 2304400130B | 02-APR-2003
01 | MAINE | ALLAGASH, TOWN OF | 230440IND0A | 02-APR-2003
01 | MAINE | NEWCASTLE, TOWN OF | 2302180001B | 01-APR-2003
01 | MAINE | NEWCASTLE, TOWN OF | 2302180002B | 01-APR-2003
01 | MAINE | NEWCASTLE, TOWN OF | 230218IND0 | 01-APR-2003
01 | MAINE | WELLS, TOWN OF | 2301580005D | 16-JAN-2003
01 | MAINE | WELLS, TOWN OF | 2301580010D | 16-JAN-2003
01 | MAINE | WELLS, TOWN OF | 2301580011D | 16-JAN-2003
01 | MAINE | WELLS, TOWN OF | 2301580013D | 16-JAN-2003
01 | MAINE | WELLS, TOWN OF | 2301580016D | 16-JAN-2003
01 | MAINE | WELLS, TOWN OF | 2301580017D | 16-JAN-2003
01 | MAINE | WELLS, TOWN OF | 2301580018D | 16-JAN-2003
01 | MAINE | WELLS, TOWN OF | 2301580019D | 16-JAN-2003
01 | MAINE | WELLS, TOWN OF | 2301580021D | 16-JAN-2003
01 | MAINE | WELLS, TOWN OF | 2301580023D | 16-JAN-2003
01 | MAINE | WELLS, TOWN OF | 230158IND0A | 16-JAN-2003
01 | MASSACHUSETTS | WORCESTER, CITY OF | 2503490002B | 16-JAN-2003
01 | MASSACHUSETTS | WORCESTER, CITY OF | 2503490005B | 16-JAN-2003
01 | MASSACHUSETTS | WORCESTER, CITY OF | 2503490006B | 16-JAN-2003
01 | MASSACHUSETTS | WORCESTER, CITY OF | 2503490007B | 16-JAN-2003
01 | MASSACHUSETTS | WORCESTER, CITY OF | 2503490008B | 16-JAN-2003
01 | MASSACHUSETTS | WORCESTER, CITY OF | 2503490010B | 16-JAN-2003
01 | MASSACHUSETTS | WORCESTER, CITY OF | 2503490011B | 16-JAN-2003
01 | MASSACHUSETTS | WORCESTER, CITY OF | 2503490012B | 16-JAN-2003
01 | MASSACHUSETTS | WORCESTER, CITY OF | 2503490013B | 16-JAN-2003
01 | MASSACHUSETTS | WORCESTER, CITY OF | 2503490014B | 16-JAN-2003
01 | MASSACHUSETTS | WORCESTER, CITY OF | 2503490015B | 16-JAN-2003
01 | MASSACHUSETTS | WORCESTER, CITY OF | 2503490016B | 16-JAN-2003
01 | MASSACHUSETTS | WORCESTER, CITY OF | 2503490017B | 16-JAN-2003
01 | MASSACHUSETTS | WORCESTER, CITY OF | 2503490018B | 16-JAN-2003
01 | MASSACHUSETTS | WORCESTER, CITY OF | 2503490019B | 16-JAN-2003
01 | MASSACHUSETTS | WORCESTER, CITY OF | 250349IND0A | 16-JAN-2003
01 | NEW HAMPSHIRE | DANBURY, TOWN OF | 330111 B*** | 01-JAN-2003
01 | NEW HAMPSHIRE | DANBURY, TOWN OF | 3301119999*** | 01-JAN-2003
01 | NEW HAMPSHIRE | ERROL, TOWN OF | 3302060015B | 16-APR-2003
01 | NEW HAMPSHIRE | ERROL, TOWN OF | 3302060020B | 16-APR-2003
01 | NEW HAMPSHIRE | ERROL, TOWN OF | 3302060025B | 16-APR-2003
01 | NEW HAMPSHIRE | ERROL, TOWN OF | 3302060030B | 16-APR-2003
01 | NEW HAMPSHIRE | ERROL, TOWN OF | 3302060035B | 16-APR-2003
01 | NEW HAMPSHIRE | ERROL, TOWN OF | 3302060040B | 16-APR-2003
01 | NEW HAMPSHIRE | ERROL, TOWN OF | 3302060050B | 16-APR-2003
01 | NEW HAMPSHIRE | ERROL, TOWN OF | 3302060055B | 16-APR-2003
01 | NEW HAMPSHIRE | ERROL, TOWN OF | 3302060060B | 16-APR-2003
01 | NEW HAMPSHIRE | ERROL, TOWN OF | 330206IND0A | 16-APR-2003
01 | NEW HAMPSHIRE | SANDOWN, TOWN OF | 330191 A*** | 01-JAN-2003
01 | NEW HAMPSHIRE | SANDOWN, TOWN OF | 3301919999*** | 01-JAN-2003
02 | NEW JERSEY | BERNARDSVILLE, BOROUGH OF | 3404290001C | 17-MAR-2003
02 | NEW JERSEY | BERNARDSVILLE, BOROUGH OF | 3404290002C | 17-MAR-2003
02 | NEW JERSEY | BERNARDSVILLE, BOROUGH OF | 3404290003C | 17-MAR-2003
02 | NEW JERSEY | BERNARDSVILLE, BOROUGH OF | 3404290004C | 17-MAR-2003
02 | NEW JERSEY | BERNARDSVILLE, BOROUGH OF | 3404290005C | 17-MAR-2003
02 | NEW JERSEY | BERNARDSVILLE, BOROUGH OF | 3404290006C | 17-MAR-2003
02 | NEW JERSEY | BERNARDSVILLE, BOROUGH OF | 3404290008C | 17-MAR-2003
02 | NEW JERSEY | BERNARDSVILLE, BOROUGH OF | 3404290009C | 17-MAR-2003
02 | NEW JERSEY | BERNARDSVILLE, BOROUGH OF | 340429IND0A | 17-MAR-2003
02 | NEW JERSEY | WEYMOUTH, TOWNSHIP OF | 3405360009C | 16-JAN-2003
02 | NEW JERSEY | WEYMOUTH, TOWNSHIP OF | 3405360011C | 16-JAN-2003
02 | NEW JERSEY | WEYMOUTH, TOWNSHIP OF | 3405360013C | 16-JAN-2003
02 | NEW JERSEY | WEYMOUTH, TOWNSHIP OF | 3405360015C | 16-JAN-2003
02 | NEW JERSEY | WEYMOUTH, TOWNSHIP OF | 3405360016C | 16-JAN-2003
02 | NEW JERSEY | WEYMOUTH, TOWNSHIP OF | 3405360017C | 16-JAN-2003
02 | NEW JERSEY | WEYMOUTH, TOWNSHIP OF | 3405360028C | 16-JAN-2003
02 | NEW JERSEY | WEYMOUTH, TOWNSHIP OF | 3405360036C | 16-JAN-2003
02 | NEW JERSEY | WEYMOUTH, TOWNSHIP OF | 3405360037C | 16-JAN-2003
02 | NEW JERSEY | WEYMOUTH, TOWNSHIP OF | 3405360038C | 16-JAN-2003
02 | NEW JERSEY | WEYMOUTH, TOWNSHIP OF | 340536IND0A | 16-JAN-2003
02 | NEW YORK | MINA, TOWN OF | 3613710005B | 02-JAN-2003
02 | NEW YORK | MINA, TOWN OF | 3613710010B | 02-JAN-2003
02 | NEW YORK | MINA, TOWN OF | 3613710015B | 02-JAN-2003
02 | NEW YORK | MINA, TOWN OF | 3613710020B | 02-JAN-2003
02 | NEW YORK | MINA, TOWN OF | 3613710025B | 02-JAN-2003
02 | NEW YORK | MINA, TOWN OF | 3613710030B | 02-JAN-2003
02 | NEW YORK | MINA, TOWN OF | 361371IND0A | 02-JAN-2003
02 | NEW YORK | SARDINIA, TOWN OF | 3602560005C | 16-JAN-2003
02 | NEW YORK | SARDINIA, TOWN OF | 3602560010C | 16-JAN-2003
02 | NEW YORK | SARDINIA, TOWN OF | 3602560015C | 16-JAN-2003
02 | NEW YORK | SARDINIA, TOWN OF | 3602560017C | 16-JAN-2003
02 | NEW YORK | SARDINIA, TOWN OF | 3602560019C | 16-JAN-2003
02 | NEW YORK | SARDINIA, TOWN OF | 3602560020C | 16-JAN-2003
02 | NEW YORK | SARDINIA, TOWN OF | 3602560030C | 16-JAN-2003
02 | NEW YORK | SARDINIA, TOWN OF | 3602560036C | 16-JAN-2003
02 | NEW YORK | SARDINIA, TOWN OF | 3602560040C | 16-JAN-2003
02 | NEW YORK | SARDINIA, TOWN OF | 360256IND0A | 16-JAN-2003
03 | VIRGINIA | FAIRFAX, CITY OF | 5155240001C | 19-FEB-2003
03 | VIRGINIA | FAIRFAX, CITY OF | 5155240002C | 19-FEB-2003
03 | VIRGINIA | FAIRFAX, CITY OF | 5155240003C | 19-FEB-2003
03 | VIRGINIA | FAIRFAX, CITY OF | 5155240004C | 19-FEB-2003
03 | VIRGINIA | FAIRFAX, CITY OF | 5155240005C | 19-FEB-2003
03 | VIRGINIA | FAIRFAX, CITY OF | 515524IND0A | 19-FEB-2003
04 | FLORIDA | DAYTONA BEACH, CITY OF | 12127C0218H** | 19-FEB-2003
04 | FLORIDA | DAYTONA BEACH, CITY OF | 12127CIND0A** | 19-FEB-2003
04 | FLORIDA | HOLLY HILL, CITY OF | 12127C0214H** | 19-FEB-2003
04 | FLORIDA | HOLLY HILL, CITY OF | 12127C0218H** | 19-FEB-2003
04 | FLORIDA | HOLLY HILL, CITY OF | 12127CIND0A** | 19-FEB-2003
04 | FLORIDA | ORMOND BEACH, CITY OF | 12127C0194H | 19-FEB-2003
04 | FLORIDA | ORMOND BEACH, CITY OF | 12127C0200H | 19-FEB-2003
04 | FLORIDA | ORMOND BEACH, CITY OF | 12127C0202H | 19-FEB-2003
04 | FLORIDA | ORMOND BEACH, CITY OF | 12127C0203H | 19-FEB-2003
04 | FLORIDA | ORMOND BEACH, CITY OF | 12127C0204H | 19-FEB-2003
04 | FLORIDA | ORMOND BEACH, CITY OF | 12127C0208H | 19-FEB-2003
04 | FLORIDA | ORMOND BEACH, CITY OF | 12127C0211H | 19-FEB-2003
04 | FLORIDA | ORMOND BEACH, CITY OF | 12127C0212H | 19-FEB-2003
04 | FLORIDA | ORMOND BEACH, CITY OF | 12127C0213H | 19-FEB-2003
04 | FLORIDA | ORMOND BEACH, CITY OF | 12127C0214H | 19-FEB-2003
04 | FLORIDA | ORMOND BEACH, CITY OF | 12127C0216H | 19-FEB-2003
04 | FLORIDA | ORMOND BEACH, CITY OF | 12127C0218H | 19-FEB-2003
04 | FLORIDA | ORMOND BEACH, CITY OF | 12127CIND0A | 19-FEB-2003
04 | FLORIDA | VOLUSIA COUNTY* | 12127C0194H** | 19-FEB-2003
04 | FLORIDA | VOLUSIA COUNTY* | 12127C0200H** | 19-FEB-2003
04 | FLORIDA | VOLUSIA COUNTY* | 12127C0202H** | 19-FEB-2003
04 | FLORIDA | VOLUSIA COUNTY* | 12127C0203H** | 19-FEB-2003
04 | FLORIDA | VOLUSIA COUNTY* | 12127C0204H** | 19-FEB-2003
04 | FLORIDA | VOLUSIA COUNTY* | 12127C0208H** | 19-FEB-2003
04 | FLORIDA | VOLUSIA COUNTY* | 12127C0211H** | 19-FEB-2003
04 | FLORIDA | VOLUSIA COUNTY* | 12127C0212H** | 19-FEB-2003
04 | FLORIDA | VOLUSIA COUNTY* | 12127C0213H** | 19-FEB-2003
04 | FLORIDA | VOLUSIA COUNTY* | 12127C0214H** | 19-FEB-2003
04 | FLORIDA | VOLUSIA COUNTY* | 12127C0216H** | 19-FEB-2003
04 | FLORIDA | VOLUSIA COUNTY* | 12127C0218H** | 19-FEB-2003
04 | FLORIDA | VOLUSIA COUNTY* | 12127CIND0A** | 19-FEB-2003
04 | KENTUCKY | HARLAN, CITY OF | 2101020001C | 02-APR-2003
04 | KENTUCKY | HARLAN, CITY OF | 2101020002C | 02-APR-2003
04 | KENTUCKY | HARLAN, CITY OF | 2101020003C | 02-APR-2003
04 | KENTUCKY | HARLAN, CITY OF | 210102IND0 | 02-APR-2003
04 | KENTUCKY | WHITLEY COUNTY* | 21235C0070C | 16-APR-2003
04 | KENTUCKY | WHITLEY COUNTY* | 21235C0090C | 16-APR-2003
04 | KENTUCKY | WHITLEY COUNTY* | 21235C0110C | 16-APR-2003
04 | KENTUCKY | WHITLEY COUNTY* | 21235C0130C | 16-APR-2003
04 | KENTUCKY | WHITLEY COUNTY* | 21235C0135C | 16-APR-2003
04 | KENTUCKY | WHITLEY COUNTY* | 21235C0140C | 16-APR-2003
04 | KENTUCKY | WHITLEY COUNTY* | 21235C0145C | 16-APR-2003
04 | KENTUCKY | WHITLEY COUNTY* | 21235CIND0A | 16-APR-2003
04 | KENTUCKY | WILLIAMSBURG, CITY OF | 21235C0070C | 16-APR-2003
04 | KENTUCKY | WILLIAMSBURG, CITY OF | 21235C0110C | 16-APR-2003
04 | KENTUCKY | WILLIAMSBURG, CITY OF | 21235CIND0A | 16-APR-2003
04 | NORTH CAROLINA | BELMONT, CITY OF | 37071C0214E | 03-MAR-2003
04 | NORTH CAROLINA | BELMONT, CITY OF | 37071C0216E | 03-MAR-2003
04 | NORTH CAROLINA | BELMONT, CITY OF | 37071C0218E | 03-MAR-2003
04 | NORTH CAROLINA | BELMONT, CITY OF | 37071C0219E | 03-MAR-2003
04 | NORTH CAROLINA | BELMONT, CITY OF | 37071C0302E | 03-MAR-2003
04 | NORTH CAROLINA | BELMONT, CITY OF | 37071C0304E | 03-MAR-2003
04 | NORTH CAROLINA | BELMONT, CITY OF | 37071C0306E | 03-MAR-2003
04 | NORTH CAROLINA | BELMONT, CITY OF | 37071C0307E | 03-MAR-2003
04 | NORTH CAROLINA | BELMONT, CITY OF | 37071C0308E | 03-MAR-2003
04 | NORTH CAROLINA | BELMONT, CITY OF | 37071C0309E | 03-MAR-2003
04 | NORTH CAROLINA | BELMONT, CITY OF | 37071C0316E | 03-MAR-2003
04 | NORTH CAROLINA | BELMONT, CITY OF | 37071C0317E | 03-MAR-2003
04 | NORTH CAROLINA | BELMONT, CITY OF | 37071CIND0A | 03-MAR-2003
04 | NORTH CAROLINA | BESSEMER CITY, CITY OF | 37071C0158E | 03-MAR-2003
04 | NORTH CAROLINA | BESSEMER CITY, CITY OF | 37071C0159E | 03-MAR-2003
04 | NORTH CAROLINA | BESSEMER CITY, CITY OF | 37071C0165E | 03-MAR-2003
04 | NORTH CAROLINA | BESSEMER CITY, CITY OF | 37071C0166E | 03-MAR-2003
04 | NORTH CAROLINA | BESSEMER CITY, CITY OF | 37071C0167E | 03-MAR-2003
04 | NORTH CAROLINA | BESSEMER CITY, CITY OF | 37071C0168E | 03-MAR-2003
04 | NORTH CAROLINA | BESSEMER CITY, CITY OF | 37071C0169E | 03-MAR-2003
04 | NORTH CAROLINA | BESSEMER CITY, CITY OF | 37071C0186E | 03-MAR-2003
04 | NORTH CAROLINA | BESSEMER CITY, CITY OF | 37071C0188E | 03-MAR-2003
04 | NORTH CAROLINA | BESSEMER CITY, CITY OF | 37071CIND0A | 03-MAR-2003
04 | NORTH CAROLINA | CHERRYVILLE, CITY OF | 37071C0025E | 03-MAR-2003
04 | NORTH CAROLINA | CHERRYVILLE, CITY OF | 37071C0038E | 03-MAR-2003
04 | NORTH CAROLINA | CHERRYVILLE, CITY OF | 37071C0039E | 03-MAR-2003
04 | NORTH CAROLINA | CHERRYVILLE, CITY OF | 37071C0040E | 03-MAR-2003
04 | NORTH CAROLINA | CHERRYVILLE, CITY OF | 37071C0150E | 03-MAR-2003
04 | NORTH CAROLINA | CHERRYVILLE, CITY OF | 37071C0151E | 03-MAR-2003
04 | NORTH CAROLINA | CHERRYVILLE, CITY OF | 37071C0155E | 03-MAR-2003
04 | NORTH CAROLINA | CHERRYVILLE, CITY OF | 37071CIND0A | 03-MAR-2003
04 | NORTH CAROLINA | CRAMERTON, TOWN OF | 37071C0214E | 03-MAR-2003
04 | NORTH CAROLINA | CRAMERTON, TOWN OF | 37071C0218E | 03-MAR-2003
04 | NORTH CAROLINA | CRAMERTON, TOWN OF | 37071C0301E | 03-MAR-2003
04 | NORTH CAROLINA | CRAMERTON, TOWN OF | 37071C0302E | 03-MAR-2003
04 | NORTH CAROLINA | CRAMERTON, TOWN OF | 37071C0303E | 03-MAR-2003
04 | NORTH CAROLINA | CRAMERTON, TOWN OF | 37071C0304E | 03-MAR-2003
04 | NORTH CAROLINA | CRAMERTON, TOWN OF | 37071C0306E | 03-MAR-2003
04 | NORTH CAROLINA | CRAMERTON, TOWN OF | 37071C0308E | 03-MAR-2003
04 | NORTH CAROLINA | CRAMERTON, TOWN OF | 37071CIND0A | 03-MAR-2003
04 | NORTH CAROLINA | DALLAS, TOWN OF | 37071C0179E | 03-MAR-2003
04 | NORTH CAROLINA | DALLAS, TOWN OF | 37071C0183E | 03-MAR-2003
04 | NORTH CAROLINA | DALLAS, TOWN OF | 37071C0184E | 03-MAR-2003
04 | NORTH CAROLINA | DALLAS, TOWN OF | 37071C0187E | 03-MAR-2003
04 | NORTH CAROLINA | DALLAS, TOWN OF | 37071C0191E | 03-MAR-2003
04 | NORTH CAROLINA | DALLAS, TOWN OF | 37071CIND0A | 03-MAR-2003
04 | NORTH CAROLINA | DELLVIEW, TOWN OF | 37071C0025E | 03-MAR-2003
04 | NORTH CAROLINA | DELLVIEW, TOWN OF | 37071CIND0A | 03-MAR-2003
04 | NORTH CAROLINA | GASTON COUNTY * | 37071C0025E | 03-MAR-2003
04 | NORTH CAROLINA | GASTON COUNTY * | 37071C0038E | 03-MAR-2003
04 | NORTH CAROLINA | GASTON COUNTY * | 37071C0039E | 03-MAR-2003
04 | NORTH CAROLINA | GASTON COUNTY * | 37071C0040E | 03-MAR-2003
04 | NORTH CAROLINA | GASTON COUNTY * | 37071C0045E | 03-MAR-2003
04 | NORTH CAROLINA | GASTON COUNTY * | 37071C0061E | 03-MAR-2003
04 | NORTH CAROLINA | GASTON COUNTY * | 37071C0062E | 03-MAR-2003
04 | NORTH CAROLINA | GASTON COUNTY * | 37071C0063E | 03-MAR-2003
04 | NORTH CAROLINA | GASTON COUNTY * | 37071C0064E | 03-MAR-2003
04 | NORTH CAROLINA | GASTON COUNTY * | 37071C0068E | 03-MAR-2003
04 | NORTH CAROLINA | GASTON COUNTY * | 37071C0070E | 03-MAR-2003
04 | NORTH CAROLINA | GASTON COUNTY * | 37071C0090E | 03-MAR-2003
04 | NORTH CAROLINA | GASTON COUNTY * | 37071C0095E | 03-MAR-2003
04 | NORTH CAROLINA | GASTON COUNTY * | 37071C0115E | 03-MAR-2003
04 | NORTH CAROLINA | GASTON COUNTY * | 37071C0150E | 03-MAR-2003
04 | NORTH CAROLINA | GASTON COUNTY * | 37071C0151E | 03-MAR-2003
04 | NORTH CAROLINA | GASTON COUNTY * | 37071C0155E | 03-MAR-2003
04 | NORTH CAROLINA | GASTON COUNTY * | 37071C0158E | 03-MAR-2003
04 | NORTH CAROLINA | GASTON COUNTY * | 37071C0159E | 03-MAR-2003
04 | NORTH CAROLINA | GASTON COUNTY * | 37071C0160E | 03-MAR-2003
04 | NORTH CAROLINA | GASTON COUNTY * | 37071C0165E | 03-MAR-2003
04 | NORTH CAROLINA | GASTON COUNTY * | 37071C0166E | 03-MAR-2003
04 | NORTH CAROLINA | GASTON COUNTY * | 37071C0167E | 03-MAR-2003
04 | NORTH CAROLINA | GASTON COUNTY * | 37071C0168E | 03-MAR-2003
04 | NORTH CAROLINA | GASTON COUNTY * | 37071C0169E | 03-MAR-2003
04 | NORTH CAROLINA | GASTON COUNTY * | 37071C0179E | 03-MAR-2003
04 | NORTH CAROLINA | GASTON COUNTY * | 37071C0180E | 03-MAR-2003
04 | NORTH CAROLINA | GASTON COUNTY * | 37071C0181E | 03-MAR-2003
04 | NORTH CAROLINA | GASTON COUNTY * | 37071C0182E | 03-MAR-2003
04 | NORTH CAROLINA | GASTON COUNTY * | 37071C0183E | 03-MAR-2003
04 | NORTH CAROLINA | GASTON COUNTY * | 37071C0184E | 03-MAR-2003
04 | NORTH CAROLINA | GASTON COUNTY * | 37071C0186E | 03-MAR-2003
04 | NORTH CAROLINA | GASTON COUNTY * | 37071C0187E | 03-MAR-2003
04 | NORTH CAROLINA | GASTON COUNTY * | 37071C0188E | 03-MAR-2003
04 | NORTH CAROLINA | GASTON COUNTY * | 37071C0189E | 03-MAR-2003
04 | NORTH CAROLINA | GASTON COUNTY * | 37071C0191E | 03-MAR-2003
04 | NORTH CAROLINA | GASTON COUNTY * | 37071C0192E | 03-MAR-2003
04 | NORTH CAROLINA | GASTON COUNTY * | 37071C0193E | 03-MAR-2003
04 | NORTH CAROLINA | GASTON COUNTY * | 37071C0194E | 03-MAR-2003
04 | NORTH CAROLINA | GASTON COUNTY * | 37071C0203E | 03-MAR-2003
04 | NORTH CAROLINA | GASTON COUNTY * | 37071C0205E | 03-MAR-2003
04 | NORTH CAROLINA | GASTON COUNTY * | 37071C0209E | 03-MAR-2003
04 | NORTH CAROLINA | GASTON COUNTY * | 37071C0210E | 03-MAR-2003
04 | NORTH CAROLINA | GASTON COUNTY * | 37071C0211E | 03-MAR-2003
04 | NORTH CAROLINA | GASTON COUNTY * | 37071C0212E | 03-MAR-2003
04 | NORTH CAROLINA | GASTON COUNTY * | 37071C0213E | 03-MAR-2003
04 | NORTH CAROLINA | GASTON COUNTY * | 37071C0214E | 03-MAR-2003
04 | NORTH CAROLINA | GASTON COUNTY * | 37071C0216E | 03-MAR-2003
04 | NORTH CAROLINA | GASTON COUNTY * | 37071C0217E | 03-MAR-2003
04 | NORTH CAROLINA | GASTON COUNTY * | 37071C0218E | 03-MAR-2003
04 | NORTH CAROLINA | GASTON COUNTY * | 37071C0219E | 03-MAR-2003
04 | NORTH CAROLINA | GASTON COUNTY * | 37071C0228E | 03-MAR-2003
04 | NORTH CAROLINA | GASTON COUNTY * | 37071C0230E | 03-MAR-2003
04 | NORTH CAROLINA | GASTON COUNTY * | 37071C0235E | 03-MAR-2003
04 | NORTH CAROLINA | GASTON COUNTY * | 37071C0236E | 03-MAR-2003
04 | NORTH CAROLINA | GASTON COUNTY * | 37071C0255E | 03-MAR-2003
04 | NORTH CAROLINA | GASTON COUNTY * | 37071C0260E | 03-MAR-2003
04 | NORTH CAROLINA | GASTON COUNTY * | 37071C0270E | 03-MAR-2003
04 | NORTH CAROLINA | GASTON COUNTY * | 37071C0276E | 03-MAR-2003
04 | NORTH CAROLINA | GASTON COUNTY * | 37071C0277E | 03-MAR-2003
04 | NORTH CAROLINA | GASTON COUNTY * | 37071C0278E | 03-MAR-2003
04 | NORTH CAROLINA | GASTON COUNTY * | 37071C0279E | 03-MAR-2003
04 | NORTH CAROLINA | GASTON COUNTY * | 37071C0281E | 03-MAR-2003
04 | NORTH CAROLINA | GASTON COUNTY * | 37071C0282E | 03-MAR-2003
04 | NORTH CAROLINA | GASTON COUNTY * | 37071C0283E | 03-MAR-2003
04 | NORTH CAROLINA | GASTON COUNTY * | 37071C0284E | 03-MAR-2003
04 | NORTH CAROLINA | GASTON COUNTY * | 37071C0290E | 03-MAR-2003
04 | NORTH CAROLINA | GASTON COUNTY * | 37071C0295E | 03-MAR-2003
04 | NORTH CAROLINA | GASTON COUNTY * | 37071C0301E | 03-MAR-2003
04 | NORTH CAROLINA | GASTON COUNTY * | 37071C0302E | 03-MAR-2003
04 | NORTH CAROLINA | GASTON COUNTY * | 37071C0303E | 03-MAR-2003
04 | NORTH CAROLINA | GASTON COUNTY * | 37071C0304E | 03-MAR-2003
04 | NORTH CAROLINA | GASTON COUNTY * | 37071C0306E | 03-MAR-2003
04 | NORTH CAROLINA | GASTON COUNTY * | 37071C0307E | 03-MAR-2003
04 | NORTH CAROLINA | GASTON COUNTY * | 37071C0308E | 03-MAR-2003
04 | NORTH CAROLINA | GASTON COUNTY * | 37071C0309E | 03-MAR-2003
04 | NORTH CAROLINA | GASTON COUNTY * | 37071C0315E | 03-MAR-2003
04 | NORTH CAROLINA | GASTON COUNTY * | 37071C0316E | 03-MAR-2003
04 | NORTH CAROLINA | GASTON COUNTY * | 37071C0317E | 03-MAR-2003
04 | NORTH CAROLINA | GASTON COUNTY * | 37071C0318E | 03-MAR-2003
04 | NORTH CAROLINA | GASTON COUNTY * | 37071C0319E | 03-MAR-2003
04 | NORTH CAROLINA | GASTON COUNTY * | 37071CIND0A | 03-MAR-2003
04 | NORTH CAROLINA | GASTONIA, CITY OF | 37071C0167E | 03-MAR-2003
04 | NORTH CAROLINA | GASTONIA, CITY OF | 37071C0168E | 03-MAR-2003
04 | NORTH CAROLINA | GASTONIA, CITY OF | 37071C0169E | 03-MAR-2003
04 | NORTH CAROLINA | GASTONIA, CITY OF | 37071C0186E | 03-MAR-2003
04 | NORTH CAROLINA | GASTONIA, CITY OF | 37071C0187E | 03-MAR-2003
04 | NORTH CAROLINA | GASTONIA, CITY OF | 37071C0188E | 03-MAR-2003
04 | NORTH CAROLINA | GASTONIA, CITY OF | 37071C0189E | 03-MAR-2003
04 | NORTH CAROLINA | GASTONIA, CITY OF | 37071C0191E | 03-MAR-2003
04 | NORTH CAROLINA | GASTONIA, CITY OF | 37071C0192E | 03-MAR-2003
04 | NORTH CAROLINA | GASTONIA, CITY OF | 37071C0193E | 03-MAR-2003
04 | NORTH CAROLINA | GASTONIA, CITY OF | 37071C0194E | 03-MAR-2003
04 | NORTH CAROLINA | GASTONIA, CITY OF | 37071C0213E | 03-MAR-2003
04 | NORTH CAROLINA | GASTONIA, CITY OF | 37071C0214E | 03-MAR-2003
04 | NORTH CAROLINA | GASTONIA, CITY OF | 37071C0255E | 03-MAR-2003
04 | NORTH CAROLINA | GASTONIA, CITY OF | 37071C0260E | 03-MAR-2003
04 | NORTH CAROLINA | GASTONIA, CITY OF | 37071C0276E | 03-MAR-2003
04 | NORTH CAROLINA | GASTONIA, CITY OF | 37071C0277E | 03-MAR-2003
04 | NORTH CAROLINA | GASTONIA, CITY OF | 37071C0278E | 03-MAR-2003
04 | NORTH CAROLINA | GASTONIA, CITY OF | 37071C0279E | 03-MAR-2003
04 | NORTH CAROLINA | GASTONIA, CITY OF | 37071C0281E | 03-MAR-2003
04 | NORTH CAROLINA | GASTONIA, CITY OF | 37071C0282E | 03-MAR-2003
04 | NORTH CAROLINA | GASTONIA, CITY OF | 37071C0283E | 03-MAR-2003
04 | NORTH CAROLINA | GASTONIA, CITY OF | 37071C0284E | 03-MAR-2003
04 | NORTH CAROLINA | GASTONIA, CITY OF | 37071C0290E | 03-MAR-2003
04 | NORTH CAROLINA | GASTONIA, CITY OF | 37071C0295E | 03-MAR-2003
04 | NORTH CAROLINA | GASTONIA, CITY OF | 37071C0301E | 03-MAR-2003
04 | NORTH CAROLINA | GASTONIA, CITY OF | 37071C0302E | 03-MAR-2003
04 | NORTH CAROLINA | GASTONIA, CITY OF | 37071C0303E | 03-MAR-2003
04 | NORTH CAROLINA | GASTONIA, CITY OF | 37071C0304E | 03-MAR-2003
04 | NORTH CAROLINA | GASTONIA, CITY OF | 37071CIND0A | 03-MAR-2003
04 | NORTH CAROLINA | HIGH SHOALS, CITY OF | 37071C0061E | 03-MAR-2003
04 | NORTH CAROLINA | HIGH SHOALS, CITY OF | 37071C0062E | 03-MAR-2003
04 | NORTH CAROLINA | HIGH SHOALS, CITY OF | 37071C0063E | 03-MAR-2003
04 | NORTH CAROLINA | HIGH SHOALS, CITY OF | 37071C0064E | 03-MAR-2003
04 | NORTH CAROLINA | HIGH SHOALS, CITY OF | 37071C0068E | 03-MAR-2003
04 | NORTH CAROLINA | HIGH SHOALS, CITY OF | 37071C0070E | 03-MAR-2003
04 | NORTH CAROLINA | HIGH SHOALS, CITY OF | 37071C0180E | 03-MAR-2003
04 | NORTH CAROLINA | HIGH SHOALS, CITY OF | 37071CIND0A | 03-MAR-2003
04 | NORTH CAROLINA | LOWELL, CITY OF | 37071C0211E | 03-MAR-2003
04 | NORTH CAROLINA | LOWELL, CITY OF | 37071C0212E | 03-MAR-2003
04 | NORTH CAROLINA | LOWELL, CITY OF | 37071C0213E | 03-MAR-2003
04 | NORTH CAROLINA | LOWELL, CITY OF | 37071C0214E | 03-MAR-2003
04 | NORTH CAROLINA | LOWELL, CITY OF | 37071C0301E | 03-MAR-2003
04 | NORTH CAROLINA | LOWELL, CITY OF | 37071CIND0A | 03-MAR-2003
04 | NORTH CAROLINA | MCADENVILLE,TOWN OF | 37071C0212E | 03-MAR-2003
04 | NORTH CAROLINA | MCADENVILLE,TOWN OF | 37071C0213E | 03-MAR-2003
04 | NORTH CAROLINA | MCADENVILLE,TOWN OF | 37071C0214E | 03-MAR-2003
04 | NORTH CAROLINA | MCADENVILLE,TOWN OF | 37071C0218E | 03-MAR-2003
04 | NORTH CAROLINA | MCADENVILLE,TOWN OF | 37071C0302E | 03-MAR-2003
04 | NORTH CAROLINA | MCADENVILLE,TOWN OF | 37071CIND0A | 03-MAR-2003
04 | NORTH CAROLINA | MOUNT HOLLY, CITY OF | 37071C0209E | 03-MAR-2003
04 | NORTH CAROLINA | MOUNT HOLLY, CITY OF | 37071C0210E | 03-MAR-2003
04 | NORTH CAROLINA | MOUNT HOLLY, CITY OF | 37071C0216E | 03-MAR-2003
04 | NORTH CAROLINA | MOUNT HOLLY, CITY OF | 37071C0217E | 03-MAR-2003
04 | NORTH CAROLINA | MOUNT HOLLY, CITY OF | 37071C0218E | 03-MAR-2003
04 | NORTH CAROLINA | MOUNT HOLLY, CITY OF | 37071C0219E | 03-MAR-2003
04 | NORTH CAROLINA | MOUNT HOLLY, CITY OF | 37071C0228E | 03-MAR-2003
04 | NORTH CAROLINA | MOUNT HOLLY, CITY OF | 37071C0230E | 03-MAR-2003
04 | NORTH CAROLINA | MOUNT HOLLY, CITY OF | 37071C0236E | 03-MAR-2003
04 | NORTH CAROLINA | MOUNT HOLLY, CITY OF | 37071CIND0A | 03-MAR-2003
04 | NORTH CAROLINA | RANLO, TOWN OF | 37071C0192E | 03-MAR-2003
04 | NORTH CAROLINA | RANLO, TOWN OF | 37071C0194E | 03-MAR-2003
04 | NORTH CAROLINA | RANLO, TOWN OF | 37071C0211E | 03-MAR-2003
04 | NORTH CAROLINA | RANLO, TOWN OF | 37071C0213E | 03-MAR-2003
04 | NORTH CAROLINA | RANLO, TOWN OF | 37071CIND0A | 03-MAR-2003
04 | NORTH CAROLINA | SPENCER MOUNTAIN, TOWN OF | 37071C0203E | 03-MAR-2003
04 | NORTH CAROLINA | SPENCER MOUNTAIN, TOWN OF | 37071C0211E | 03-MAR-2003
04 | NORTH CAROLINA | SPENCER MOUNTAIN, TOWN OF | 37071CIND0A | 03-MAR-2003
04 | NORTH CAROLINA | STANLEY, TOWN OF | 37071C0090E | 03-MAR-2003
04 | NORTH CAROLINA | STANLEY, TOWN OF | 37071C0182E | 03-MAR-2003
04 | NORTH CAROLINA | STANLEY, TOWN OF | 37071C0184E | 03-MAR-2003
04 | NORTH CAROLINA | STANLEY, TOWN OF | 37071C0203E | 03-MAR-2003
04 | NORTH CAROLINA | STANLEY, TOWN OF | 37071C0205E | 03-MAR-2003
04 | NORTH CAROLINA | STANLEY, TOWN OF | 37071C0210E | 03-MAR-2003
04 | NORTH CAROLINA | STANLEY, TOWN OF | 37071C0212E | 03-MAR-2003
04 | NORTH CAROLINA | STANLEY, TOWN OF | 37071CIND0A | 03-MAR-2003
04 | TENNESSEE | BRENTWOOD, CITY OF | 47187C0035E | 16-JAN-2003
04 | TENNESSEE | BRENTWOOD, CITY OF | 47187C0040E | 16-JAN-2003
04 | TENNESSEE | BRENTWOOD, CITY OF | 47187C0045E | 16-JAN-2003
04 | TENNESSEE | BRENTWOOD, CITY OF | 47187C0079E | 16-JAN-2003
04 | TENNESSEE | BRENTWOOD, CITY OF | 47187C0080E | 16-JAN-2003
04 | TENNESSEE | BRENTWOOD, CITY OF | 47187C0085E | 16-JAN-2003
04 | TENNESSEE | BRENTWOOD, CITY OF | 47187C0090E | 16-JAN-2003
04 | TENNESSEE | BRENTWOOD, CITY OF | 47187C0095E | 16-JAN-2003
04 | TENNESSEE | BRENTWOOD, CITY OF | 47187C0140E | 16-JAN-2003
04 | TENNESSEE | BRENTWOOD, CITY OF | 47187C0145E | 16-JAN-2003
04 | TENNESSEE | BRENTWOOD, CITY OF | 47187CIND0A | 16-JAN-2003
04 | TENNESSEE | CARTER COUNTY * | 47019C0126D | 16-APR-2003
04 | TENNESSEE | FAIRVIEW, CITY OF | 47187C0010E | 16-JAN-2003
04 | TENNESSEE | FAIRVIEW, CITY OF | 47187C0013E | 16-JAN-2003
04 | TENNESSEE | FAIRVIEW, CITY OF | 47187C0014E | 16-JAN-2003
04 | TENNESSEE | FAIRVIEW, CITY OF | 47187C0020E | 16-JAN-2003
04 | TENNESSEE | FAIRVIEW, CITY OF | 47187C0055E | 16-JAN-2003
04 | TENNESSEE | FAIRVIEW, CITY OF | 47187C0056E | 16-JAN-2003
04 | TENNESSEE | FAIRVIEW, CITY OF | 47187C0057E | 16-JAN-2003
04 | TENNESSEE | FAIRVIEW, CITY OF | 47187C0058E | 16-JAN-2003
04 | TENNESSEE | FAIRVIEW, CITY OF | 47187C0065E | 16-JAN-2003
04 | TENNESSEE | FAIRVIEW, CITY OF | 47187CIND0A | 16-JAN-2003
04 | TENNESSEE | FRANKLIN, CITY OF | 47187C0072E | 16-JAN-2003
04 | TENNESSEE | FRANKLIN, CITY OF | 47187C0074E | 16-JAN-2003
04 | TENNESSEE | FRANKLIN, CITY OF | 47187C0078E | 16-JAN-2003
04 | TENNESSEE | FRANKLIN, CITY OF | 47187C0079E | 16-JAN-2003
04 | TENNESSEE | FRANKLIN, CITY OF | 47187C0080E | 16-JAN-2003
04 | TENNESSEE | FRANKLIN, CITY OF | 47187C0085E | 16-JAN-2003
04 | TENNESSEE | FRANKLIN, CITY OF | 47187C0090E | 16-JAN-2003
04 | TENNESSEE | FRANKLIN, CITY OF | 47187C0127E | 16-JAN-2003
04 | TENNESSEE | FRANKLIN, CITY OF | 47187C0130E | 16-JAN-2003
04 | TENNESSEE | FRANKLIN, CITY OF | 47187C0131E | 16-JAN-2003
04 | TENNESSEE | FRANKLIN, CITY OF | 47187C0132E | 16-JAN-2003
04 | TENNESSEE | FRANKLIN, CITY OF | 47187C0133E | 16-JAN-2003
04 | TENNESSEE | FRANKLIN, CITY OF | 47187C0134E | 16-JAN-2003
04 | TENNESSEE | FRANKLIN, CITY OF | 47187C0140E | 16-JAN-2003
04 | TENNESSEE | FRANKLIN, CITY OF | 47187C0185E | 16-JAN-2003
04 | TENNESSEE | FRANKLIN, CITY OF | 47187CIND0A | 16-JAN-2003
04 | TENNESSEE | WILLIAMSON COUNTY * | 47187C0005E | 16-JAN-2003
04 | TENNESSEE | WILLIAMSON COUNTY * | 47187C0010E | 16-JAN-2003
04 | TENNESSEE | WILLIAMSON COUNTY * | 47187C0011E | 16-JAN-2003
04 | TENNESSEE | WILLIAMSON COUNTY * | 47187C0012E | 16-JAN-2003
04 | TENNESSEE | WILLIAMSON COUNTY * | 47187C0013E | 16-JAN-2003
04 | TENNESSEE | WILLIAMSON COUNTY * | 47187C0014E | 16-JAN-2003
04 | TENNESSEE | WILLIAMSON COUNTY * | 47187C0020E | 16-JAN-2003
04 | TENNESSEE | WILLIAMSON COUNTY * | 47187C0025E | 16-JAN-2003
04 | TENNESSEE | WILLIAMSON COUNTY * | 47187C0030E | 16-JAN-2003
04 | TENNESSEE | WILLIAMSON COUNTY * | 47187C0035E | 16-JAN-2003
04 | TENNESSEE | WILLIAMSON COUNTY * | 47187C0050E | 16-JAN-2003
04 | TENNESSEE | WILLIAMSON COUNTY * | 47187C0055E | 16-JAN-2003
04 | TENNESSEE | WILLIAMSON COUNTY * | 47187C0056E | 16-JAN-2003
04 | TENNESSEE | WILLIAMSON COUNTY * | 47187C0057E | 16-JAN-2003
04 | TENNESSEE | WILLIAMSON COUNTY * | 47187C0058E | 16-JAN-2003
04 | TENNESSEE | WILLIAMSON COUNTY * | 47187C0059E | 16-JAN-2003
04 | TENNESSEE | WILLIAMSON COUNTY * | 47187C0062E | 16-JAN-2003
04 | TENNESSEE | WILLIAMSON COUNTY * | 47187C0064E | 16-JAN-2003
04 | TENNESSEE | WILLIAMSON COUNTY * | 47187C0065E | 16-JAN-2003
04 | TENNESSEE | WILLIAMSON COUNTY * | 47187C0070E | 16-JAN-2003
04 | TENNESSEE | WILLIAMSON COUNTY * | 47187C0072E | 16-JAN-2003
04 | TENNESSEE | WILLIAMSON COUNTY * | 47187C0074E | 16-JAN-2003
04 | TENNESSEE | WILLIAMSON COUNTY * | 47187C0075E | 16-JAN-2003
04 | TENNESSEE | WILLIAMSON COUNTY * | 47187C0078E | 16-JAN-2003
04 | TENNESSEE | WILLIAMSON COUNTY * | 47187C0079E | 16-JAN-2003
04 | TENNESSEE | WILLIAMSON COUNTY * | 47187C0080E | 16-JAN-2003
04 | TENNESSEE | WILLIAMSON COUNTY * | 47187C0085E | 16-JAN-2003
04 | TENNESSEE | WILLIAMSON COUNTY * | 47187C0090E | 16-JAN-2003
04 | TENNESSEE | WILLIAMSON COUNTY * | 47187C0095E | 16-JAN-2003
04 | TENNESSEE | WILLIAMSON COUNTY * | 47187C0115E | 16-JAN-2003
04 | TENNESSEE | WILLIAMSON COUNTY * | 47187C0120E | 16-JAN-2003
04 | TENNESSEE | WILLIAMSON COUNTY * | 47187C0125E | 16-JAN-2003
04 | TENNESSEE | WILLIAMSON COUNTY * | 47187C0127E | 16-JAN-2003
04 | TENNESSEE | WILLIAMSON COUNTY * | 47187C0130E | 16-JAN-2003
04 | TENNESSEE | WILLIAMSON COUNTY * | 47187C0132E | 16-JAN-2003
04 | TENNESSEE | WILLIAMSON COUNTY * | 47187C0133E | 16-JAN-2003
04 | TENNESSEE | WILLIAMSON COUNTY * | 47187C0134E | 16-JAN-2003
04 | TENNESSEE | WILLIAMSON COUNTY * | 47187C0140E | 16-JAN-2003
04 | TENNESSEE | WILLIAMSON COUNTY * | 47187C0145E | 16-JAN-2003
04 | TENNESSEE | WILLIAMSON COUNTY * | 47187C0150E | 16-JAN-2003
04 | TENNESSEE | WILLIAMSON COUNTY * | 47187C0165E | 16-JAN-2003
04 | TENNESSEE | WILLIAMSON COUNTY * | 47187C0175E | 16-JAN-2003
04 | TENNESSEE | WILLIAMSON COUNTY * | 47187C0180E | 16-JAN-2003
04 | TENNESSEE | WILLIAMSON COUNTY * | 47187C0185E | 16-JAN-2003
04 | TENNESSEE | WILLIAMSON COUNTY * | 47187C0190E | 16-JAN-2003
04 | TENNESSEE | WILLIAMSON COUNTY * | 47187C0195E | 16-JAN-2003
04 | TENNESSEE | WILLIAMSON COUNTY * | 47187C0200E | 16-JAN-2003
04 | TENNESSEE | WILLIAMSON COUNTY * | 47187C0205E | 16-JAN-2003
04 | TENNESSEE | WILLIAMSON COUNTY * | 47187C0225E | 16-JAN-2003
04 | TENNESSEE | WILLIAMSON COUNTY * | 47187C0228E | 16-JAN-2003
04 | TENNESSEE | WILLIAMSON COUNTY * | 47187C0230E | 16-JAN-2003
04 | TENNESSEE | WILLIAMSON COUNTY * | 47187C0235E | 16-JAN-2003
04 | TENNESSEE | WILLIAMSON COUNTY * | 47187C0240E | 16-JAN-2003
04 | TENNESSEE | WILLIAMSON COUNTY * | 47187C0245E | 16-JAN-2003
04 | TENNESSEE | WILLIAMSON COUNTY * | 47187C0250E | 16-JAN-2003
04 | TENNESSEE | WILLIAMSON COUNTY * | 47187C0257E | 16-JAN-2003
04 | TENNESSEE | WILLIAMSON COUNTY * | 47187C0265E | 16-JAN-2003
04 | TENNESSEE | WILLIAMSON COUNTY * | 47187C0270E | 16-JAN-2003
04 | TENNESSEE | WILLIAMSON COUNTY * | 47187CIND0A | 16-JAN-2003
05 | IL | BEECHER, VILLAGE OF | 17197CIND0A** | 17-MAR-2003
05 | IL | BOLINGBROOK, VILLAGE OF | 17197CIND0A** | 17-MAR-2003
05 | IL | BRADLEY, VILLAGE OF | 1703380019C | 05-MAY-2003
05 | IL | BRADLEY, VILLAGE OF | 1703380038C | 05-MAY-2003
05 | IL | BRADLEY, VILLAGE OF | 1703380039C | 05-MAY-2003
05 | IL | BRADLEY, VILLAGE OF | 170338IND0A** | 05-MAY-2003
05 | IL | BRAIDWOOD, CITY OF | 17197CIND0A** | 17-MAR-2003
05 | IL | CHAMPAIGN COUNTY * | 1708940095C | 02-JAN-2003
05 | IL | CHAMPAIGN COUNTY * | 1708940100C | 02-JAN-2003
05 | IL | CHAMPAIGN COUNTY * | 170894IND0A** | 02-JAN-2003
05 | IL | CHANNAHON, VILLAGE OF | 17197CIND0A** | 17-MAR-2003
05 | IL | COLUMBIA, CITY OF | 1705100020D | 17-MAR-2003
05 | IL | COLUMBIA, CITY OF | 1705100035D | 17-MAR-2003
05 | IL | COLUMBIA, CITY OF | 1705100055D | 17-MAR-2003
05 | IL | COLUMBIA, CITY OF | 170510IND0A** | 17-MAR-2003
05 | IL | CREST HILL, CITY OF | 17197CIND0A** | 17-MAR-2003
05 | IL | CRETE, VILLAGE OF | 17197CIND0A** | 17-MAR-2003
05 | IL | ELWOOD, VILLAGE OF | 17197CIND0A** | 17-MAR-2003
05 | IL | FRANKFORT, VILLAGE OF | 17197C0195F | 17-MAR-2003
05 | IL | FRANKFORT, VILLAGE OF | 17197CIND0A** | 17-MAR-2003
05 | IL | GODLEY, VILLAGE OF | 17197CIND0A** | 17-MAR-2003
05 | IL | HOMER GLENN, VILLAGE OF | 17197CIND0A** | 17-MAR-2003
05 | IL | JOLIET, CITY OF | 17197C0141F | 17-MAR-2003
05 | IL | JOLIET, CITY OF | 17197C0143F | 17-MAR-2003
05 | IL | JOLIET, CITY OF | 17197CIND0A** | 17-MAR-2003
05 | IL | KANKAKEE, CITY OF | 1703390019D | 05-MAY-2003
05 | IL | KANKAKEE, CITY OF | 1703390038D | 05-MAY-2003
05 | IL | KANKAKEE, CITY OF | 1703390039D | 05-MAY-2003
05 | IL | KANKAKEE, CITY OF | 1703390057D | 05-MAY-2003
05 | IL | KANKAKEE, CITY OF | 1703390076D | 05-MAY-2003
05 | IL | KANKAKEE, CITY OF | 1703390077D | 05-MAY-2003
05 | IL | KANKAKEE, CITY OF | 1703390078D | 05-MAY-2003
05 | IL | KANKAKEE, CITY OF | 1703390079D | 05-MAY-2003
05 | IL | KANKAKEE, CITY OF | 170339IND0A** | 05-MAY-2003
05 | IL | LOCKPORT, CITY OF | 17197CIND0A** | 17-MAR-2003
05 | IL | MAHOMET, VILLAGE OF | 1700290001C | 02-JAN-2003
05 | IL | MAHOMET, VILLAGE OF | 1700290002C | 02-JAN-2003
05 | IL | MAHOMET, VILLAGE OF | 1700290004C | 02-JAN-2003
05 | IL | MAHOMET, VILLAGE OF | 1700290005C | 02-JAN-2003
05 | IL | MAHOMET, VILLAGE OF | 1700290006C | 02-JAN-2003
05 | IL | MAHOMET, VILLAGE OF | 170029IND0A** | 02-JAN-2003
05 | IL | MANHATTAN, VILLAGE OF | 17197CIND0A** | 17-MAR-2003
05 | IL | MINOOKA, VILLAGE OF | 17197CIND0A** | 17-MAR-2003
05 | IL | MOKENA, VILLAGE OF | 17197C0195F | 17-MAR-2003
05 | IL | MOKENA, VILLAGE OF | 17197C0211F | 17-MAR-2003
05 | IL | MOKENA, VILLAGE OF | 17197CIND0A** | 17-MAR-2003
05 | IL | MONEE, VILLAGE OF | 17197CIND0A** | 17-MAR-2003
05 | IL | MONROE COUNTY* | 1705090020E | 17-MAR-2003
05 | IL | MONROE COUNTY* | 1705090035E | 17-MAR-2003
05 | IL | MONROE COUNTY* | 1705090050E | 17-MAR-2003
05 | IL | MONROE COUNTY* | 1705090055E | 17-MAR-2003
05 | IL | MONROE COUNTY* | 1705090075E | 17-MAR-2003
05 | IL | MONROE COUNTY* | 1705090100D | 17-MAR-2003
05 | IL | MONROE COUNTY* | 1705090125D | 17-MAR-2003
05 | IL | MONROE COUNTY* | 1705090150D | 17-MAR-2003
05 | IL | MONROE COUNTY* | 1705090175D | 17-MAR-2003
05 | IL | MONROE COUNTY* | 1705090200D | 17-MAR-2003
05 | IL | MONROE COUNTY* | 170509IND0A** | 17-MAR-2003
05 | IL | NEW LENOX, VILLAGE OF | 17197CIND0A** | 17-MAR-2003
05 | IL | PARK FOREST, VILLAGE OF | 17197CIND0A** | 17-MAR-2003
05 | IL | PEOTONE, VILLAGE OF | 17197CIND0A** | 17-MAR-2003
05 | IL | PLAINFIELD, VILLAGE OF | 17197CIND0A** | 17-MAR-2003
05 | IL | ROCKDALE, VILLAGE OF | 17197CIND0A** | 17-MAR-2003
05 | IL | ROMEOVILLE, VILLAGE OF | 17197CIND0A** | 17-MAR-2003
05 | IL | SHOREWOOD,VILLAGE OF | 17197C0141F | 17-MAR-2003
05 | IL | SHOREWOOD,VILLAGE OF | 17197C0143F | 17-MAR-2003
05 | IL | SHOREWOOD,VILLAGE OF | 17197CIND0A** | 17-MAR-2003
05 | IL | STEGER, VILLAGE OF | 17197CIND0A** | 17-MAR-2003
05 | IL | SYMERTON, VILLAGE OF | 17197CIND0A** | 17-MAR-2003
05 | IL | TINLEY PARK, CITY OF | 17197CIND0A** | 17-MAR-2003
05 | IL | UNIVERSITY PARK, VILLAGE OF | 17197CIND0A** | 17-MAR-2003
05 | IL | WILL COUNTY * | 17197C0141F | 17-MAR-2003
05 | IL | WILL COUNTY * | 17197C0143F | 17-MAR-2003
05 | IL | WILL COUNTY * | 17197C0195F | 17-MAR-2003
05 | IL | WILL COUNTY * | 17197C0211F | 17-MAR-2003
05 | IL | WILL COUNTY * | 17197CIND0A** | 17-MAR-2003
05 | IL | WILMINGTON, CITY OF | 17197CIND0A** | 17-MAR-2003
05 | IN | ARCADIA, TOWN OF | 18057C0045F | 19-FEB-2003
05 | IN | ARCADIA, TOWN OF | 18057C0050F | 19-FEB-2003
05 | IN | ARCADIA, TOWN OF | 18057C0055F | 19-FEB-2003
05 | IN | ARCADIA, TOWN OF | 18057C0065F | 19-FEB-2003
05 | IN | ARCADIA, TOWN OF | 18057CIND0A** | 19-FEB-2003
05 | IN | ATLANTA, TOWN OF | 18057C0050F | 19-FEB-2003
05 | IN | ATLANTA, TOWN OF | 18057C0055F | 19-FEB-2003
05 | IN | ATLANTA, TOWN OF | 18057CIND0A** | 19-FEB-2003
05 | IN | CARMEL, CITY OF | 18057C0119F | 19-FEB-2003
05 | IN | CARMEL, CITY OF | 18057C0138F | 19-FEB-2003
05 | IN | CARMEL, CITY OF | 18057C0140F | 19-FEB-2003
05 | IN | CARMEL, CITY OF | 18057C0145F | 19-FEB-2003
05 | IN | CARMEL, CITY OF | 18057C0205F | 19-FEB-2003
05 | IN | CARMEL, CITY OF | 18057C0206F | 19-FEB-2003
05 | IN | CARMEL, CITY OF | 18057C0207F | 19-FEB-2003
05 | IN | CARMEL, CITY OF | 18057C0208F | 19-FEB-2003
05 | IN | CARMEL, CITY OF | 18057C0209F | 19-FEB-2003
05 | IN | CARMEL, CITY OF | 18057C0216F | 19-FEB-2003
05 | IN | CARMEL, CITY OF | 18057C0226F | 19-FEB-2003
05 | IN | CARMEL, CITY OF | 18057C0227F | 19-FEB-2003
05 | IN | CARMEL, CITY OF | 18057C0228F | 19-FEB-2003
05 | IN | CARMEL, CITY OF | 18057C0229F | 19-FEB-2003
05 | IN | CARMEL, CITY OF | 18057C0235F | 19-FEB-2003
05 | IN | CARMEL, CITY OF | 18057C0236F | 19-FEB-2003
05 | IN | CARMEL, CITY OF | 18057C0237F | 19-FEB-2003
05 | IN | CARMEL, CITY OF | 18057CIND0A** | 19-FEB-2003
05 | IN | CICERO, TOWN OF | 18057C0025F | 19-FEB-2003
05 | IN | CICERO, TOWN OF | 18057C0045F | 19-FEB-2003
05 | IN | CICERO, TOWN OF | 18057C0050F | 19-FEB-2003
05 | IN | CICERO, TOWN OF | 18057C0065F | 19-FEB-2003
05 | IN | CICERO, TOWN OF | 18057C0110F | 19-FEB-2003
05 | IN | CICERO, TOWN OF | 18057C0130F | 19-FEB-2003
05 | IN | CICERO, TOWN OF | 18057C0135F | 19-FEB-2003
05 | IN | CICERO, TOWN OF | 18057C0155F | 19-FEB-2003
05 | IN | CICERO, TOWN OF | 18057CIND0A** | 19-FEB-2003
05 | IN | FISHERS, TOWN OF | 18057C0145F | 19-FEB-2003
05 | IN | FISHERS, TOWN OF | 18057C0165F | 19-FEB-2003
05 | IN | FISHERS, TOWN OF | 18057C0229F | 19-FEB-2003
05 | IN | FISHERS, TOWN OF | 18057C0235F | 19-FEB-2003
05 | IN | FISHERS, TOWN OF | 18057C0237F | 19-FEB-2003
05 | IN | FISHERS, TOWN OF | 18057C0245F | 19-FEB-2003
05 | IN | FISHERS, TOWN OF | 18057C0255F | 19-FEB-2003
05 | IN | FISHERS, TOWN OF | 18057C0260F | 19-FEB-2003
05 | IN | FISHERS, TOWN OF | 18057C0265F | 19-FEB-2003
05 | IN | FISHERS, TOWN OF | 18057CIND0A** | 19-FEB-2003
05 | IN | HAMILTON COUNTY* | 18057C0025F | 19-FEB-2003
05 | IN | HAMILTON COUNTY* | 18057C0045F | 19-FEB-2003
05 | IN | HAMILTON COUNTY* | 18057C0050F | 19-FEB-2003
05 | IN | HAMILTON COUNTY* | 18057C0055F | 19-FEB-2003
05 | IN | HAMILTON COUNTY* | 18057C0060F | 19-FEB-2003
05 | IN | HAMILTON COUNTY* | 18057C0065F | 19-FEB-2003
05 | IN | HAMILTON COUNTY* | 18057C0070F | 19-FEB-2003
05 | IN | HAMILTON COUNTY* | 18057C0080F | 19-FEB-2003
05 | IN | HAMILTON COUNTY* | 18057C0090F | 19-FEB-2003
05 | IN | HAMILTON COUNTY* | 18057C0105F | 19-FEB-2003
05 | IN | HAMILTON COUNTY* | 18057C0110F | 19-FEB-2003
05 | IN | HAMILTON COUNTY* | 18057C0115F | 19-FEB-2003
05 | IN | HAMILTON COUNTY* | 18057C0119F | 19-FEB-2003
05 | IN | HAMILTON COUNTY* | 18057C0120F | 19-FEB-2003
05 | IN | HAMILTON COUNTY* | 18057C0130F | 19-FEB-2003
05 | IN | HAMILTON COUNTY* | 18057C0135F | 19-FEB-2003
05 | IN | HAMILTON COUNTY* | 18057C0138F | 19-FEB-2003
05 | IN | HAMILTON COUNTY* | 18057C0140F | 19-FEB-2003
05 | IN | HAMILTON COUNTY* | 18057C0145F | 19-FEB-2003
05 | IN | HAMILTON COUNTY* | 18057C0155F | 19-FEB-2003
05 | IN | HAMILTON COUNTY* | 18057C0160F | 19-FEB-2003
05 | IN | HAMILTON COUNTY* | 18057C0165F | 19-FEB-2003
05 | IN | HAMILTON COUNTY* | 18057C0170F | 19-FEB-2003
05 | IN | HAMILTON COUNTY* | 18057C0200F | 19-FEB-2003
05 | IN | HAMILTON COUNTY* | 18057C0205F | 19-FEB-2003
05 | IN | HAMILTON COUNTY* | 18057C0206F | 19-FEB-2003
05 | IN | HAMILTON COUNTY* | 18057C0207F | 19-FEB-2003
05 | IN | HAMILTON COUNTY* | 18057C0208F | 19-FEB-2003
05 | IN | HAMILTON COUNTY* | 18057C0209F | 19-FEB-2003
05 | IN | HAMILTON COUNTY* | 18057C0216F | 19-FEB-2003
05 | IN | HAMILTON COUNTY* | 18057C0226F | 19-FEB-2003
05 | IN | HAMILTON COUNTY* | 18057C0227F | 19-FEB-2003
05 | IN | HAMILTON COUNTY* | 18057C0228F | 19-FEB-2003
05 | IN | HAMILTON COUNTY* | 18057C0229F | 19-FEB-2003
05 | IN | HAMILTON COUNTY* | 18057C0235F | 19-FEB-2003
05 | IN | HAMILTON COUNTY* | 18057C0236F | 19-FEB-2003
05 | IN | HAMILTON COUNTY* | 18057C0237F | 19-FEB-2003
05 | IN | HAMILTON COUNTY* | 18057C0245F | 19-FEB-2003
05 | IN | HAMILTON COUNTY* | 18057C0255F | 19-FEB-2003
05 | IN | HAMILTON COUNTY* | 18057C0260F | 19-FEB-2003
05 | IN | HAMILTON COUNTY* | 18057C0265F | 19-FEB-2003
05 | IN | HAMILTON COUNTY* | 18057C0270F | 19-FEB-2003
05 | IN | HAMILTON COUNTY* | 18057C0280F | 19-FEB-2003
05 | IN | HAMILTON COUNTY* | 18057C0290F | 19-FEB-2003
05 | IN | HAMILTON COUNTY* | 18057CIND0A** | 19-FEB-2003
05 | IN | NOBLESVILLE, CITY OF | 18057C0130F | 19-FEB-2003
05 | IN | NOBLESVILLE, CITY OF | 18057C0135F | 19-FEB-2003
05 | IN | NOBLESVILLE, CITY OF | 18057C0140F | 19-FEB-2003
05 | IN | NOBLESVILLE, CITY OF | 18057C0145F | 19-FEB-2003
05 | IN | NOBLESVILLE, CITY OF | 18057C0155F | 19-FEB-2003
05 | IN | NOBLESVILLE, CITY OF | 18057C0165F | 19-FEB-2003
05 | IN | NOBLESVILLE, CITY OF | 18057C0170F | 19-FEB-2003
05 | IN | NOBLESVILLE, CITY OF | 18057C0200F | 19-FEB-2003
05 | IN | NOBLESVILLE, CITY OF | 18057C0229F | 19-FEB-2003
05 | IN | NOBLESVILLE, CITY OF | 18057C0235F | 19-FEB-2003
05 | IN | NOBLESVILLE, CITY OF | 18057C0245F | 19-FEB-2003
05 | IN | NOBLESVILLE, CITY OF | 18057C0255F | 19-FEB-2003
05 | IN | NOBLESVILLE, CITY OF | 18057C0260F | 19-FEB-2003
05 | IN | NOBLESVILLE, CITY OF | 18057C0265F | 19-FEB-2003
05 | IN | NOBLESVILLE, CITY OF | 18057C0270F | 19-FEB-2003
05 | IN | NOBLESVILLE, CITY OF | 18057C0280F | 19-FEB-2003
05 | IN | NOBLESVILLE, CITY OF | 18057C0290F | 19-FEB-2003
05 | IN | NOBLESVILLE, CITY OF | 18057CIND0A** | 19-FEB-2003
05 | IN | SHERIDAN, TOWN OF | 18057C0025F | 19-FEB-2003
05 | IN | SHERIDAN, TOWN OF | 18057C0105F | 19-FEB-2003
05 | IN | SHERIDAN, TOWN OF | 18057CIND0A** | 19-FEB-2003
05 | IN | WESTFIELD, TOWN OF | 18057C0105F | 19-FEB-2003
05 | IN | WESTFIELD, TOWN OF | 18057C0110F | 19-FEB-2003
05 | IN | WESTFIELD, TOWN OF | 18057C0115F | 19-FEB-2003
05 | IN | WESTFIELD, TOWN OF | 18057C0119F | 19-FEB-2003
05 | IN | WESTFIELD, TOWN OF | 18057C0120F | 19-FEB-2003
05 | IN | WESTFIELD, TOWN OF | 18057C0130F | 19-FEB-2003
05 | IN | WESTFIELD, TOWN OF | 18057C0138F | 19-FEB-2003
05 | IN | WESTFIELD, TOWN OF | 18057C0140F | 19-FEB-2003
05 | IN | WESTFIELD, TOWN OF | 18057C0205F | 19-FEB-2003
05 | IN | WESTFIELD, TOWN OF | 18057C0206F | 19-FEB-2003
05 | IN | WESTFIELD, TOWN OF | 18057C0207F | 19-FEB-2003
05 | IN | WESTFIELD, TOWN OF | 18057CIND0A** | 19-FEB-2003
05 | MI | OWOSSO, CITY OF | 2605960001B | 16-JAN-2003
05 | MI | OWOSSO, CITY OF | 2605960002B | 16-JAN-2003
05 | MI | OWOSSO, CITY OF | 2605960003B | 16-JAN-2003
05 | MI | OWOSSO, CITY OF | 2605960004B | 16-JAN-2003
05 | MI | OWOSSO, CITY OF | 2605960005B | 16-JAN-2003
05 | MI | OWOSSO, CITY OF | 260596IND0A** | 16-JAN-2003
05 | MN | NORTHFIELD, CITY OF | 2704060004C | 02-APR-2003
05 | MN | NORTHFIELD, CITY OF | 2704060007C | 02-APR-2003
05 | MN | NORTHFIELD, CITY OF | 2704060008C | 02-APR-2003
05 | MN | NORTHFIELD, CITY OF | 2704060009C | 02-APR-2003
05 | MN | NORTHFIELD, CITY OF | 2704060012C | 02-APR-2003
05 | MN | NORTHFIELD, CITY OF | 270406IND0A** | 02-APR-2003
05 | MN | ST. PAUL, CITY OF | 2752480004F | 02-APR-2003
05 | MN | ST. PAUL, CITY OF | 2752480012F | 02-APR-2003
05 | MN | ST. PAUL, CITY OF | 2752480014F | 02-APR-2003
05 | MN | ST. PAUL, CITY OF | 2752480017F | 02-APR-2003
05 | MN | ST. PAUL, CITY OF | 2752480018F | 02-APR-2003
05 | MN | ST. PAUL, CITY OF | 2752480019F | 02-APR-2003
05 | MN | ST. PAUL, CITY OF | 2752480028F | 02-APR-2003
05 | MN | ST. PAUL, CITY OF | 2752480029F | 02-APR-2003
05 | MN | ST. PAUL, CITY OF | 2752480033F | 02-APR-2003
05 | MN | ST. PAUL, CITY OF | 2752480034F | 02-APR-2003
05 | MN | ST. PAUL, CITY OF | 2752480036F | 02-APR-2003
05 | MN | ST. PAUL, CITY OF | 2752480037F | 02-APR-2003
05 | MN | ST. PAUL, CITY OF | 2752480041F | 02-APR-2003
05 | MN | ST. PAUL, CITY OF | 2752480042F | 02-APR-2003
05 | MN | ST. PAUL, CITY OF | 2752480043F | 02-APR-2003
05 | MN | ST. PAUL, CITY OF | 2752480044F | 02-APR-2003
05 | MN | ST. PAUL, CITY OF | 275248IND0A** | 02-APR-2003
05 | OH | ADELPHI, VILLAGE OF | 39141C0225C | 02-APR-2003
05 | OH | ADELPHI, VILLAGE OF | 39141CIND0A** | 02-APR-2003
05 | OH | BAINBRIDGE, VILLAGE OF | 39141C0460C | 02-APR-2003
05 | OH | BAINBRIDGE, VILLAGE OF | 39141CIND0A** | 02-APR-2003
05 | OH | CHILLICOTHE, CITY OF | 39141C0335C | 02-APR-2003
05 | OH | CHILLICOTHE, CITY OF | 39141C0355C | 02-APR-2003
05 | OH | CHILLICOTHE, CITY OF | 39141CIND0A** | 02-APR-2003
05 | OH | CLARKSBURG, VILLAGE OF | 39141CIND0A** | 02-APR-2003
05 | OH | FRANKFORT, VILLAGE OF | 39141C0145C | 02-APR-2003
05 | OH | FRANKFORT, VILLAGE OF | 39141C0150C | 02-APR-2003
05 | OH | FRANKFORT, VILLAGE OF | 39141CIND0A** | 02-APR-2003
05 | OH | KINGSTON, VILLAGE OF | 39141C0200C | 02-APR-2003
05 | OH | KINGSTON, VILLAGE OF | 39141CIND0A** | 02-APR-2003
05 | OH | ROSS COUNTY * | 39141C0025C | 02-APR-2003
05 | OH | ROSS COUNTY * | 39141C0075C | 02-APR-2003
05 | OH | ROSS COUNTY * | 39141C0100C | 02-APR-2003
05 | OH | ROSS COUNTY * | 39141C0125C | 02-APR-2003
05 | OH | ROSS COUNTY * | 39141C0145C | 02-APR-2003
05 | OH | ROSS COUNTY * | 39141C0150C | 02-APR-2003
05 | OH | ROSS COUNTY * | 39141C0175C | 02-APR-2003
05 | OH | ROSS COUNTY * | 39141C0200C | 02-APR-2003
05 | OH | ROSS COUNTY * | 39141C0225C | 02-APR-2003
05 | OH | ROSS COUNTY * | 39141C0275C | 02-APR-2003
05 | OH | ROSS COUNTY * | 39141C0300C | 02-APR-2003
05 | OH | ROSS COUNTY * | 39141C0320C | 02-APR-2003
05 | OH | ROSS COUNTY * | 39141C0325C | 02-APR-2003
05 | OH | ROSS COUNTY * | 39141C0330C | 02-APR-2003
05 | OH | ROSS COUNTY * | 39141C0335C | 02-APR-2003
05 | OH | ROSS COUNTY * | 39141C0340C | 02-APR-2003
05 | OH | ROSS COUNTY * | 39141C0345C | 02-APR-2003
05 | OH | ROSS COUNTY * | 39141C0355C | 02-APR-2003
05 | OH | ROSS COUNTY * | 39141C0365C | 02-APR-2003
05 | OH | ROSS COUNTY * | 39141C0375C | 02-APR-2003
05 | OH | ROSS COUNTY * | 39141C0400C | 02-APR-2003
05 | OH | ROSS COUNTY * | 39141C0450C | 02-APR-2003
05 | OH | ROSS COUNTY * | 39141C0460C | 02-APR-2003
05 | OH | ROSS COUNTY * | 39141C0475C | 02-APR-2003
05 | OH | ROSS COUNTY * | 39141C0500C | 02-APR-2003
05 | OH | ROSS COUNTY * | 39141C0550C | 02-APR-2003
05 | OH | ROSS COUNTY * | 39141C0555C | 02-APR-2003
05 | OH | ROSS COUNTY * | 39141C0560C | 02-APR-2003
05 | OH | ROSS COUNTY * | 39141C0575C | 02-APR-2003
05 | OH | ROSS COUNTY * | 39141CIND0A** | 02-APR-2003
05 | OH | SOUTH SALEM, VILLAGE OF | 39141C0300C | 02-APR-2003
05 | OH | SOUTH SALEM, VILLAGE OF | 39141CIND0A** | 02-APR-2003
05 | WI | BELLEVILLE, VILLAGE OF | 55025C0570F | 17-JUN-2003
05 | WI | BELLEVILLE, VILLAGE OF | 55025C0731F | 17-JUN-2003
05 | WI | BELLEVILLE, VILLAGE OF | 55025C0732F | 17-JUN-2003
05 | WI | BELLEVILLE, VILLAGE OF | 55025CIND1A** | 17-JUN-2003
05 | WI | BELLEVILLE, VILLAGE OF | 55025CIND2A** | 17-JUN-2003
05 | WI | BLACK EARTH, VILLAGE OF | 55025C0169F | 17-JUN-2003
05 | WI | BLACK EARTH, VILLAGE OF | 55025C0188F | 17-JUN-2003
05 | WI | BLACK EARTH, VILLAGE OF | 55025CIND1A** | 17-JUN-2003
05 | WI | BLACK EARTH, VILLAGE OF | 55025CIND2A** | 17-JUN-2003
05 | WI | BLUE MOUNDS, VILLAGE OF | 55025C0350F | 17-JUN-2003
05 | WI | BLUE MOUNDS, VILLAGE OF | 55025CIND1A** | 17-JUN-2003
05 | WI | BLUE MOUNDS, VILLAGE OF | 55025CIND2A** | 17-JUN-2003
05 | WI | BROOKLYN, VILLAGE OF | 55025C0775F | 17-JUN-2003
05 | WI | BROOKLYN, VILLAGE OF | 55025C0800F | 17-JUN-2003
05 | WI | BROOKLYN, VILLAGE OF | 55025CIND1A** | 17-JUN-2003
05 | WI | BROOKLYN, VILLAGE OF | 55025CIND2A** | 17-JUN-2003
05 | WI | CAMBRIDGE, VILLAGE OF | 55025C0494F | 17-JUN-2003
05 | WI | CAMBRIDGE, VILLAGE OF | 55025C0500F | 17-JUN-2003
05 | WI | CAMBRIDGE, VILLAGE OF | 55025C0656F | 17-JUN-2003
05 | WI | CAMBRIDGE, VILLAGE OF | 55025C0657F | 17-JUN-2003
05 | WI | CAMBRIDGE, VILLAGE OF | 55025CIND1A** | 17-JUN-2003
05 | WI | CAMBRIDGE, VILLAGE OF | 55025CIND2A** | 17-JUN-2003
05 | WI | COTTAGE GROVE, VILLAGE OF | 55025C0456F | 17-JUN-2003
05 | WI | COTTAGE GROVE, VILLAGE OF | 55025C0475F | 17-JUN-2003
05 | WI | COTTAGE GROVE, VILLAGE OF | 55025CIND1A** | 17-JUN-2003
05 | WI | COTTAGE GROVE, VILLAGE OF | 55025CIND2A** | 17-JUN-2003
05 | WI | CROSS PLAINS, VILLAGE OF | 55025C0356F | 17-JUN-2003
05 | WI | CROSS PLAINS, VILLAGE OF | 55025C0357F | 17-JUN-2003
05 | WI | CROSS PLAINS, VILLAGE OF | 55025C0400F | 17-JUN-2003
05 | WI | CROSS PLAINS, VILLAGE OF | 55025CIND1A** | 17-JUN-2003
05 | WI | CROSS PLAINS, VILLAGE OF | 55025CIND2A** | 17-JUN-2003
05 | WI | DANE COUNTY* | 55025C0025F | 17-JUN-2003
05 | WI | DANE COUNTY* | 55025C0050F | 17-JUN-2003
05 | WI | DANE COUNTY* | 55025C0075F | 17-JUN-2003
05 | WI | DANE COUNTY* | 55025C0088F | 17-JUN-2003
05 | WI | DANE COUNTY* | 55025C0090F | 17-JUN-2003
05 | WI | DANE COUNTY* | 55025C0095F | 17-JUN-2003
05 | WI | DANE COUNTY* | 55025C0125F | 17-JUN-2003
05 | WI | DANE COUNTY* | 55025C0150F | 17-JUN-2003
05 | WI | DANE COUNTY* | 55025C0166F | 17-JUN-2003
05 | WI | DANE COUNTY* | 55025C0169F | 17-JUN-2003
05 | WI | DANE COUNTY* | 55025C0175F | 17-JUN-2003
05 | WI | DANE COUNTY* | 55025C0188F | 17-JUN-2003
05 | WI | DANE COUNTY* | 55025C0200F | 17-JUN-2003
05 | WI | DANE COUNTY* | 55025C0225F | 17-JUN-2003
05 | WI | DANE COUNTY* | 55025C0228F | 17-JUN-2003
05 | WI | DANE COUNTY* | 55025C0229F | 17-JUN-2003
05 | WI | DANE COUNTY* | 55025C0236F | 17-JUN-2003
05 | WI | DANE COUNTY* | 55025C0237F | 17-JUN-2003
05 | WI | DANE COUNTY* | 55025C0238F | 17-JUN-2003
05 | WI | DANE COUNTY* | 55025C0239F | 17-JUN-2003
05 | WI | DANE COUNTY* | 55025C0241F | 17-JUN-2003
05 | WI | DANE COUNTY* | 55025C0242F | 17-JUN-2003
05 | WI | DANE COUNTY* | 55025C0243F | 17-JUN-2003
05 | WI | DANE COUNTY* | 55025C0244F | 17-JUN-2003
05 | WI | DANE COUNTY* | 55025C0250F | 17-JUN-2003
05 | WI | DANE COUNTY* | 55025C0251F | 17-JUN-2003
05 | WI | DANE COUNTY* | 55025C0252F | 17-JUN-2003
05 | WI | DANE COUNTY* | 55025C0259F | 17-JUN-2003
05 | WI | DANE COUNTY* | 55025C0261F | 17-JUN-2003
05 | WI | DANE COUNTY* | 55025C0263F | 17-JUN-2003
05 | WI | DANE COUNTY* | 55025C0264F | 17-JUN-2003
05 | WI | DANE COUNTY* | 55025C0267F | 17-JUN-2003
05 | WI | DANE COUNTY* | 55025C0268F | 17-JUN-2003
05 | WI | DANE COUNTY* | 55025C0269F | 17-JUN-2003
05 | WI | DANE COUNTY* | 55025C0275F | 17-JUN-2003
05 | WI | DANE COUNTY* | 55025C0279F | 17-JUN-2003
05 | WI | DANE COUNTY* | 55025C0286F | 17-JUN-2003
05 | WI | DANE COUNTY* | 55025C0287F | 17-JUN-2003
05 | WI | DANE COUNTY* | 55025C0288F | 17-JUN-2003
05 | WI | DANE COUNTY* | 55025C0289F | 17-JUN-2003
05 | WI | DANE COUNTY* | 55025C0300F | 17-JUN-2003
05 | WI | DANE COUNTY* | 55025C0315F | 17-JUN-2003
05 | WI | DANE COUNTY* | 55025C0320F | 17-JUN-2003
05 | WI | DANE COUNTY* | 55025C0325F | 17-JUN-2003
05 | WI | DANE COUNTY* | 55025C0350F | 17-JUN-2003
05 | WI | DANE COUNTY* | 55025C0352F | 17-JUN-2003
05 | WI | DANE COUNTY* | 55025C0356F | 17-JUN-2003
05 | WI | DANE COUNTY* | 55025C0357F | 17-JUN-2003
05 | WI | DANE COUNTY* | 55025C0375F | 17-JUN-2003
05 | WI | DANE COUNTY* | 55025C0381F | 17-JUN-2003
05 | WI | DANE COUNTY* | 55025C0382F | 17-JUN-2003
05 | WI | DANE COUNTY* | 55025C0384F | 17-JUN-2003
05 | WI | DANE COUNTY* | 55025C0393F | 17-JUN-2003
05 | WI | DANE COUNTY* | 55025C0394F | 17-JUN-2003
05 | WI | DANE COUNTY* | 55025C0400F | 17-JUN-2003
05 | WI | DANE COUNTY* | 55025C0401F | 17-JUN-2003
05 | WI | DANE COUNTY* | 55025C0402F | 17-JUN-2003
05 | WI | DANE COUNTY* | 55025C0403F | 17-JUN-2003
05 | WI | DANE COUNTY* | 55025C0404F | 17-JUN-2003
05 | WI | DANE COUNTY* | 55025C0406F | 17-JUN-2003
05 | WI | DANE COUNTY* | 55025C0407F | 17-JUN-2003
05 | WI | DANE COUNTY* | 55025C0408F | 17-JUN-2003
05 | WI | DANE COUNTY* | 55025C0409F | 17-JUN-2003
05 | WI | DANE COUNTY* | 55025C0411F | 17-JUN-2003
05 | WI | DANE COUNTY* | 55025C0412F | 17-JUN-2003
05 | WI | DANE COUNTY* | 55025C0413F | 17-JUN-2003
05 | WI | DANE COUNTY* | 55025C0414F | 17-JUN-2003
05 | WI | DANE COUNTY* | 55025C0416F | 17-JUN-2003
05 | WI | DANE COUNTY* | 55025C0417F | 17-JUN-2003
05 | WI | DANE COUNTY* | 55025C0418F | 17-JUN-2003
05 | WI | DANE COUNTY* | 55025C0419F | 17-JUN-2003
05 | WI | DANE COUNTY* | 55025C0426F | 17-JUN-2003
05 | WI | DANE COUNTY* | 55025C0427F | 17-JUN-2003
05 | WI | DANE COUNTY* | 55025C0428F | 17-JUN-2003
05 | WI | DANE COUNTY* | 55025C0429F | 17-JUN-2003
05 | WI | DANE COUNTY* | 55025C0431F | 17-JUN-2003
05 | WI | DANE COUNTY* | 55025C0432F | 17-JUN-2003
05 | WI | DANE COUNTY* | 55025C0434F | 17-JUN-2003
05 | WI | DANE COUNTY* | 55025C0436F | 17-JUN-2003
05 | WI | DANE COUNTY* | 55025C0437F | 17-JUN-2003
05 | WI | DANE COUNTY* | 55025C0438F | 17-JUN-2003
05 | WI | DANE COUNTY* | 55025C0439F | 17-JUN-2003
05 | WI | DANE COUNTY* | 55025C0441F | 17-JUN-2003
05 | WI | DANE COUNTY* | 55025C0442F | 17-JUN-2003
05 | WI | DANE COUNTY* | 55025C0443F | 17-JUN-2003
05 | WI | DANE COUNTY* | 55025C0444F | 17-JUN-2003
05 | WI | DANE COUNTY* | 55025C0456F | 17-JUN-2003
05 | WI | DANE COUNTY* | 55025C0457F | 17-JUN-2003
05 | WI | DANE COUNTY* | 55025C0458F | 17-JUN-2003
05 | WI | DANE COUNTY* | 55025C0459F | 17-JUN-2003
05 | WI | DANE COUNTY* | 55025C0475F | 17-JUN-2003
05 | WI | DANE COUNTY* | 55025C0494F | 17-JUN-2003
05 | WI | DANE COUNTY* | 55025C0500F | 17-JUN-2003
05 | WI | DANE COUNTY* | 55025C0525F | 17-JUN-2003
05 | WI | DANE COUNTY* | 55025C0550F | 17-JUN-2003
05 | WI | DANE COUNTY* | 55025C0556F | 17-JUN-2003
05 | WI | DANE COUNTY* | 55025C0557F | 17-JUN-2003
05 | WI | DANE COUNTY* | 55025C0560F | 17-JUN-2003
05 | WI | DANE COUNTY* | 55025C0570F | 17-JUN-2003
05 | WI | DANE COUNTY* | 55025C0575F | 17-JUN-2003
05 | WI | DANE COUNTY* | 55025C0576F | 17-JUN-2003
05 | WI | DANE COUNTY* | 55025C0584F | 17-JUN-2003
05 | WI | DANE COUNTY* | 55025C0592F | 17-JUN-2003
05 | WI | DANE COUNTY* | 55025C0600F | 17-JUN-2003
05 | WI | DANE COUNTY* | 55025C0611F | 17-JUN-2003
05 | WI | DANE COUNTY* | 55025C0625F | 17-JUN-2003
05 | WI | DANE COUNTY* | 55025C0640F | 17-JUN-2003
05 | WI | DANE COUNTY* | 55025C0650F | 17-JUN-2003
05 | WI | DANE COUNTY* | 55025C0656F | 17-JUN-2003
05 | WI | DANE COUNTY* | 55025C0657F | 17-JUN-2003
05 | WI | DANE COUNTY* | 55025C0658F | 17-JUN-2003
05 | WI | DANE COUNTY* | 55025C0659F | 17-JUN-2003
05 | WI | DANE COUNTY* | 55025C0675F | 17-JUN-2003
05 | WI | DANE COUNTY* | 55025C0700F | 17-JUN-2003
05 | WI | DANE COUNTY* | 55025C0725F | 17-JUN-2003
05 | WI | DANE COUNTY* | 55025C0731F | 17-JUN-2003
05 | WI | DANE COUNTY* | 55025C0732F | 17-JUN-2003
05 | WI | DANE COUNTY* | 55025C0750F | 17-JUN-2003
05 | WI | DANE COUNTY* | 55025C0775F | 17-JUN-2003
05 | WI | DANE COUNTY* | 55025C0800F | 17-JUN-2003
05 | WI | DANE COUNTY* | 55025C0825F | 17-JUN-2003
05 | WI | DANE COUNTY* | 55025C0850F | 17-JUN-2003
05 | WI | DANE COUNTY* | 55025CIND1A** | 17-JUN-2003
05 | WI | DANE COUNTY* | 55025CIND2A** | 17-JUN-2003
05 | WI | DANE, VILLAGE OF | 55025C0050F | 17-JUN-2003
05 | WI | DANE, VILLAGE OF | 55025C0075F | 17-JUN-2003
05 | WI | DANE, VILLAGE OF | 55025C0225F | 17-JUN-2003
05 | WI | DANE, VILLAGE OF | 55025C0250F | 17-JUN-2003
05 | WI | DANE, VILLAGE OF | 55025CIND1A** | 17-JUN-2003
05 | WI | DANE, VILLAGE OF | 55025CIND2A** | 17-JUN-2003
05 | WI | DE FOREST, VILLAGE OF | 55025C0075F | 17-JUN-2003
05 | WI | DE FOREST, VILLAGE OF | 55025C0088F | 17-JUN-2003
05 | WI | DE FOREST, VILLAGE OF | 55025C0090F | 17-JUN-2003
05 | WI | DE FOREST, VILLAGE OF | 55025C0250F | 17-JUN-2003
05 | WI | DE FOREST, VILLAGE OF | 55025C0251F | 17-JUN-2003
05 | WI | DE FOREST, VILLAGE OF | 55025C0252F | 17-JUN-2003
05 | WI | DE FOREST, VILLAGE OF | 55025CIND1A** | 17-JUN-2003
05 | WI | DE FOREST, VILLAGE OF | 55025CIND2A** | 17-JUN-2003
05 | WI | DEERFIELD, VILLAGE OF | 55025C0500F | 17-JUN-2003
05 | WI | DEERFIELD, VILLAGE OF | 55025CIND1A** | 17-JUN-2003
05 | WI | DEERFIELD, VILLAGE OF | 55025CIND2A** | 17-JUN-2003
05 | WI | FITCHBURG, CITY OF | 55025C0412F | 17-JUN-2003
05 | WI | FITCHBURG, CITY OF | 55025C0413F | 17-JUN-2003
05 | WI | FITCHBURG, CITY OF | 55025C0414F | 17-JUN-2003
05 | WI | FITCHBURG, CITY OF | 55025C0416F | 17-JUN-2003
05 | WI | FITCHBURG, CITY OF | 55025C0418F | 17-JUN-2003
05 | WI | FITCHBURG, CITY OF | 55025C0419F | 17-JUN-2003
05 | WI | FITCHBURG, CITY OF | 55025C0438F | 17-JUN-2003
05 | WI | FITCHBURG, CITY OF | 55025C0576F | 17-JUN-2003
05 | WI | FITCHBURG, CITY OF | 55025C0584F | 17-JUN-2003
05 | WI | FITCHBURG, CITY OF | 55025C0600F | 17-JUN-2003
05 | WI | FITCHBURG, CITY OF | 55025C0625F | 17-JUN-2003
05 | WI | FITCHBURG, CITY OF | 55025CIND1A** | 17-JUN-2003
05 | WI | FITCHBURG, CITY OF | 55025CIND2A** | 17-JUN-2003
05 | WI | LINCOLN COUNTY* | 5505850190C | 03-MAR-2003
05 | WI | LINCOLN COUNTY* | 5505850195C | 03-MAR-2003
05 | WI | LINCOLN COUNTY* | 550585IND0A** | 03-MAR-2003
05 | WI | MADISON, CITY OF | 55025C0242F | 17-JUN-2003
05 | WI | MADISON, CITY OF | 55025C0243F | 17-JUN-2003
05 | WI | MADISON, CITY OF | 55025C0244F | 17-JUN-2003
05 | WI | MADISON, CITY OF | 55025C0261F | 17-JUN-2003
05 | WI | MADISON, CITY OF | 55025C0263F | 17-JUN-2003
05 | WI | MADISON, CITY OF | 55025C0264F | 17-JUN-2003
05 | WI | MADISON, CITY OF | 55025C0267F | 17-JUN-2003
05 | WI | MADISON, CITY OF | 55025C0268F | 17-JUN-2003
05 | WI | MADISON, CITY OF | 55025C0269F | 17-JUN-2003
05 | WI | MADISON, CITY OF | 55025C0275F | 17-JUN-2003
05 | WI | MADISON, CITY OF | 55025C0384F | 17-JUN-2003
05 | WI | MADISON, CITY OF | 55025C0394F | 17-JUN-2003
05 | WI | MADISON, CITY OF | 55025C0400F | 17-JUN-2003
05 | WI | MADISON, CITY OF | 55025C0401F | 17-JUN-2003
05 | WI | MADISON, CITY OF | 55025C0402F | 17-JUN-2003
05 | WI | MADISON, CITY OF | 55025C0403F | 17-JUN-2003
05 | WI | MADISON, CITY OF | 55025C0404F | 17-JUN-2003
05 | WI | MADISON, CITY OF | 55025C0406F | 17-JUN-2003
05 | WI | MADISON, CITY OF | 55025C0407F | 17-JUN-2003
05 | WI | MADISON, CITY OF | 55025C0408F | 17-JUN-2003
05 | WI | MADISON, CITY OF | 55025C0409F | 17-JUN-2003
05 | WI | MADISON, CITY OF | 55025C0411F | 17-JUN-2003
05 | WI | MADISON, CITY OF | 55025C0412F | 17-JUN-2003
05 | WI | MADISON, CITY OF | 55025C0413F | 17-JUN-2003
05 | WI | MADISON, CITY OF | 55025C0414F | 17-JUN-2003
05 | WI | MADISON, CITY OF | 55025C0416F | 17-JUN-2003
05 | WI | MADISON, CITY OF | 55025C0417F | 17-JUN-2003
05 | WI | MADISON, CITY OF | 55025C0418F | 17-JUN-2003
05 | WI | MADISON, CITY OF | 55025C0419F | 17-JUN-2003
05 | WI | MADISON, CITY OF | 55025C0426F | 17-JUN-2003
05 | WI | MADISON, CITY OF | 55025C0427F | 17-JUN-2003
05 | WI | MADISON, CITY OF | 55025C0428F | 17-JUN-2003
05 | WI | MADISON, CITY OF | 55025C0429F | 17-JUN-2003
05 | WI | MADISON, CITY OF | 55025C0431F | 17-JUN-2003
05 | WI | MADISON, CITY OF | 55025C0432F | 17-JUN-2003
05 | WI | MADISON, CITY OF | 55025C0434F | 17-JUN-2003
05 | WI | MADISON, CITY OF | 55025C0436F | 17-JUN-2003
05 | WI | MADISON, CITY OF | 55025C0437F | 17-JUN-2003
05 | WI | MADISON, CITY OF | 55025C0438F | 17-JUN-2003
05 | WI | MADISON, CITY OF | 55025C0439F | 17-JUN-2003
05 | WI | MADISON, CITY OF | 55025C0441F | 17-JUN-2003
05 | WI | MADISON, CITY OF | 55025C0442F | 17-JUN-2003
05 | WI | MADISON, CITY OF | 55025C0443F | 17-JUN-2003
05 | WI | MADISON, CITY OF | 55025C0444F | 17-JUN-2003
05 | WI | MADISON, CITY OF | 55025C0475F | 17-JUN-2003
05 | WI | MADISON, CITY OF | 55025C0576F | 17-JUN-2003
05 | WI | MADISON, CITY OF | 55025CIND1A** | 17-JUN-2003
05 | WI | MADISON, CITY OF | 55025CIND2A** | 17-JUN-2003
05 | WI | MAPLE BLUFF, VILLAGE OF | 55025C0407F | 17-JUN-2003
05 | WI | MAPLE BLUFF, VILLAGE OF | 55025C0426F | 17-JUN-2003
05 | WI | MAPLE BLUFF, VILLAGE OF | 55025CIND1A** | 17-JUN-2003
05 | WI | MAPLE BLUFF, VILLAGE OF | 55025CIND2A** | 17-JUN-2003
05 | WI | MARSHALL, VILLAGE OF | 55025C0315F | 17-JUN-2003
05 | WI | MARSHALL, VILLAGE OF | 55025C0320F | 17-JUN-2003
05 | WI | MARSHALL, VILLAGE OF | 55025C0325F | 17-JUN-2003
05 | WI | MARSHALL, VILLAGE OF | 55025CIND1A** | 17-JUN-2003
05 | WI | MARSHALL, VILLAGE OF | 55025CIND2A** | 17-JUN-2003
05 | WI | MAZOMANIE, VILLAGE OF | 55025C0166F | 17-JUN-2003
05 | WI | MAZOMANIE, VILLAGE OF | 55025C0175F | 17-JUN-2003
05 | WI | MAZOMANIE, VILLAGE OF | 55025CIND1A** | 17-JUN-2003
05 | WI | MAZOMANIE, VILLAGE OF | 55025CIND2A** | 17-JUN-2003
05 | WI | MC FARLAND, VILLAGE OF | 55025C0437F | 17-JUN-2003
05 | WI | MC FARLAND, VILLAGE OF | 55025C0439F | 17-JUN-2003
05 | WI | MC FARLAND, VILLAGE OF | 55025C0441F | 17-JUN-2003
05 | WI | MC FARLAND, VILLAGE OF | 55025C0443F | 17-JUN-2003
05 | WI | MC FARLAND, VILLAGE OF | 55025C0444F | 17-JUN-2003
05 | WI | MC FARLAND, VILLAGE OF | 55025CIND1A** | 17-JUN-2003
05 | WI | MC FARLAND, VILLAGE OF | 55025CIND2A** | 17-JUN-2003
05 | WI | MENASHA, CITY OF | 55139C0105E | 17-MAR-2003
05 | WI | MENASHA, CITY OF | 55139C0110E | 17-MAR-2003
05 | WI | MENASHA, CITY OF | 55139CIND0A** | 17-MAR-2003
05 | WI | MIDDLETON, CITY OF | 55025C0238F | 17-JUN-2003
05 | WI | MIDDLETON, CITY OF | 55025C0381F | 17-JUN-2003
05 | WI | MIDDLETON, CITY OF | 55025C0382F | 17-JUN-2003
05 | WI | MIDDLETON, CITY OF | 55025C0384F | 17-JUN-2003
05 | WI | MIDDLETON, CITY OF | 55025C0400F | 17-JUN-2003
05 | WI | MIDDLETON, CITY OF | 55025C0401F | 17-JUN-2003
05 | WI | MIDDLETON, CITY OF | 55025C0402F | 17-JUN-2003
05 | WI | MIDDLETON, CITY OF | 55025C0403F | 17-JUN-2003
05 | WI | MIDDLETON, CITY OF | 55025CIND1A** | 17-JUN-2003
05 | WI | MIDDLETON, CITY OF | 55025CIND2A** | 17-JUN-2003
05 | WI | MONONA, CITY OF | 55025C0428F | 17-JUN-2003
05 | WI | MONONA, CITY OF | 55025C0429F | 17-JUN-2003
05 | WI | MONONA, CITY OF | 55025C0436F | 17-JUN-2003
05 | WI | MONONA, CITY OF | 55025C0437F | 17-JUN-2003
05 | WI | MONONA, CITY OF | 55025C0441F | 17-JUN-2003
05 | WI | MONONA, CITY OF | 55025CIND1A** | 17-JUN-2003
05 | WI | MONONA, CITY OF | 55025CIND2A** | 17-JUN-2003
05 | WI | MOUNT HOREB, VILLAGE OF | 55025C0350F | 17-JUN-2003
05 | WI | MOUNT HOREB, VILLAGE OF | 55025C0375F | 17-JUN-2003
05 | WI | MOUNT HOREB, VILLAGE OF | 55025C0525F | 17-JUN-2003
05 | WI | MOUNT HOREB, VILLAGE OF | 55025C0550F | 17-JUN-2003
05 | WI | MOUNT HOREB, VILLAGE OF | 55025CIND1A** | 17-JUN-2003
05 | WI | MOUNT HOREB, VILLAGE OF | 55025CIND2A** | 17-JUN-2003
05 | WI | NEENAH, CITY OF | 55139C0095E | 17-MAR-2003
05 | WI | NEENAH, CITY OF | 55139C0105E | 17-MAR-2003
05 | WI | NEENAH, CITY OF | 55139C0110E | 17-MAR-2003
05 | WI | NEENAH, CITY OF | 55139C0111E | 17-MAR-2003
05 | WI | NEENAH, CITY OF | 55139C0112E | 17-MAR-2003
05 | WI | NEENAH, CITY OF | 55139C0113E | 17-MAR-2003
05 | WI | NEENAH, CITY OF | 55139C0114E | 17-MAR-2003
05 | WI | NEENAH, CITY OF | 55139CIND0A** | 17-MAR-2003
05 | WI | OMRO, CITY OF | 55139C0170E | 17-MAR-2003
05 | WI | OMRO, CITY OF | 55139C0186E | 17-MAR-2003
05 | WI | OMRO, CITY OF | 55139C0190E | 17-MAR-2003
05 | WI | OMRO, CITY OF | 55139CIND0A** | 17-MAR-2003
05 | WI | OREGON, VILLAGE OF | 55025C0584F | 17-JUN-2003
05 | WI | OREGON, VILLAGE OF | 55025C0592F | 17-JUN-2003
05 | WI | OREGON, VILLAGE OF | 55025C0600F | 17-JUN-2003
05 | WI | OREGON, VILLAGE OF | 55025C0611F | 17-JUN-2003
05 | WI | OREGON, VILLAGE OF | 55025C0625F | 17-JUN-2003
05 | WI | OREGON, VILLAGE OF | 55025CIND1A** | 17-JUN-2003
05 | WI | OREGON, VILLAGE OF | 55025CIND2A** | 17-JUN-2003
05 | WI | OSHKOSH, CITY OF | 55139C0215E | 17-MAR-2003
05 | WI | OSHKOSH, CITY OF | 55139C0220E | 17-MAR-2003
05 | WI | OSHKOSH, CITY OF | 55139C0225E | 17-MAR-2003
05 | WI | OSHKOSH, CITY OF | 55139C0330E | 17-MAR-2003
05 | WI | OSHKOSH, CITY OF | 55139C0335E | 17-MAR-2003
05 | WI | OSHKOSH, CITY OF | 55139CIND0A** | 17-MAR-2003
05 | WI | ROCKDALE, VILLAGE OF | 55025C0656F | 17-JUN-2003
05 | WI | ROCKDALE, VILLAGE OF | 55025C0657F | 17-JUN-2003
05 | WI | ROCKDALE, VILLAGE OF | 55025C0658F | 17-JUN-2003
05 | WI | ROCKDALE, VILLAGE OF | 55025C0659F | 17-JUN-2003
05 | WI | ROCKDALE, VILLAGE OF | 55025CIND1A** | 17-JUN-2003
05 | WI | ROCKDALE, VILLAGE OF | 55025CIND2A** | 17-JUN-2003
05 | WI | SHOREWOOD HILLS, VILLAGE OF | 55025C0404F | 17-JUN-2003
05 | WI | SHOREWOOD HILLS, VILLAGE OF | 55025C0408F | 17-JUN-2003
05 | WI | SHOREWOOD HILLS, VILLAGE OF | 55025CIND1A** | 17-JUN-2003
05 | WI | SHOREWOOD HILLS, VILLAGE OF | 55025CIND2A** | 17-JUN-2003
05 | WI | STOUGHTON, CITY OF | 55025C0625F | 17-JUN-2003
05 | WI | STOUGHTON, CITY OF | 55025C0640F | 17-JUN-2003
05 | WI | STOUGHTON, CITY OF | 55025C0650F | 17-JUN-2003
05 | WI | STOUGHTON, CITY OF | 55025CIND1A** | 17-JUN-2003
05 | WI | STOUGHTON, CITY OF | 55025CIND2A** | 17-JUN-2003
05 | WI | SUN PRAIRIE, CITY OF | 55025C0259F | 17-JUN-2003
05 | WI | SUN PRAIRIE, CITY OF | 55025C0267F | 17-JUN-2003
05 | WI | SUN PRAIRIE, CITY OF | 55025C0269F | 17-JUN-2003
05 | WI | SUN PRAIRIE, CITY OF | 55025C0275F | 17-JUN-2003
05 | WI | SUN PRAIRIE, CITY OF | 55025C0279F | 17-JUN-2003
05 | WI | SUN PRAIRIE, CITY OF | 55025C0286F | 17-JUN-2003
05 | WI | SUN PRAIRIE, CITY OF | 55025C0287F | 17-JUN-2003
05 | WI | SUN PRAIRIE, CITY OF | 55025C0288F | 17-JUN-2003
05 | WI | SUN PRAIRIE, CITY OF | 55025C0300F | 17-JUN-2003
05 | WI | SUN PRAIRIE, CITY OF | 55025CIND1A** | 17-JUN-2003
05 | WI | SUN PRAIRIE, CITY OF | 55025CIND2A** | 17-JUN-2003
05 | WI | VERONA, CITY OF | 55025C0393F | 17-JUN-2003
05 | WI | VERONA, CITY OF | 55025C0394F | 17-JUN-2003
05 | WI | VERONA, CITY OF | 55025C0556F | 17-JUN-2003
05 | WI | VERONA, CITY OF | 55025C0557F | 17-JUN-2003
05 | WI | VERONA, CITY OF | 55025CIND1A** | 17-JUN-2003
05 | WI | VERONA, CITY OF | 55025CIND2A** | 17-JUN-2003
05 | WI | WAUNAKEE, VILLAGE OF | 55025C0228F | 17-JUN-2003
05 | WI | WAUNAKEE, VILLAGE OF | 55025C0229F | 17-JUN-2003
05 | WI | WAUNAKEE, VILLAGE OF | 55025C0236F | 17-JUN-2003
05 | WI | WAUNAKEE, VILLAGE OF | 55025C0237F | 17-JUN-2003
05 | WI | WAUNAKEE, VILLAGE OF | 55025C0241F | 17-JUN-2003
05 | WI | WAUNAKEE, VILLAGE OF | 55025C0242F | 17-JUN-2003
05 | WI | WAUNAKEE, VILLAGE OF | 55025C0250F | 17-JUN-2003
05 | WI | WAUNAKEE, VILLAGE OF | 55025CIND1A** | 17-JUN-2003
05 | WI | WAUNAKEE, VILLAGE OF | 55025CIND2A** | 17-JUN-2003
05 | WI | WINNEBAGO COUNTY * | 55139C0025E | 17-MAR-2003
05 | WI | WINNEBAGO COUNTY * | 55139C0030E | 17-MAR-2003
05 | WI | WINNEBAGO COUNTY * | 55139C0035E | 17-MAR-2003
05 | WI | WINNEBAGO COUNTY * | 55139C0050E | 17-MAR-2003
05 | WI | WINNEBAGO COUNTY * | 55139C0065E | 17-MAR-2003
05 | WI | WINNEBAGO COUNTY * | 55139C0070E | 17-MAR-2003
05 | WI | WINNEBAGO COUNTY * | 55139C0075E | 17-MAR-2003
05 | WI | WINNEBAGO COUNTY * | 55139C0095E | 17-MAR-2003
05 | WI | WINNEBAGO COUNTY * | 55139C0100E | 17-MAR-2003
05 | WI | WINNEBAGO COUNTY * | 55139C0105E | 17-MAR-2003
05 | WI | WINNEBAGO COUNTY * | 55139C0110E | 17-MAR-2003
05 | WI | WINNEBAGO COUNTY * | 55139C0111E | 17-MAR-2003
05 | WI | WINNEBAGO COUNTY * | 55139C0112E | 17-MAR-2003
05 | WI | WINNEBAGO COUNTY * | 55139C0113E | 17-MAR-2003
05 | WI | WINNEBAGO COUNTY * | 55139C0114E | 17-MAR-2003
05 | WI | WINNEBAGO COUNTY * | 55139C0150E | 17-MAR-2003
05 | WI | WINNEBAGO COUNTY * | 55139C0165E | 17-MAR-2003
05 | WI | WINNEBAGO COUNTY * | 55139C0170E | 17-MAR-2003
05 | WI | WINNEBAGO COUNTY * | 55139C0175E | 17-MAR-2003
05 | WI | WINNEBAGO COUNTY * | 55139C0176E | 17-MAR-2003
05 | WI | WINNEBAGO COUNTY * | 55139C0177E | 17-MAR-2003
05 | WI | WINNEBAGO COUNTY * | 55139C0180E | 17-MAR-2003
05 | WI | WINNEBAGO COUNTY * | 55139C0186E | 17-MAR-2003
05 | WI | WINNEBAGO COUNTY * | 55139C0190E | 17-MAR-2003
05 | WI | WINNEBAGO COUNTY * | 55139C0200E | 17-MAR-2003
05 | WI | WINNEBAGO COUNTY * | 55139C0215E | 17-MAR-2003
05 | WI | WINNEBAGO COUNTY * | 55139C0220E | 17-MAR-2003
05 | WI | WINNEBAGO COUNTY * | 55139C0225E | 17-MAR-2003
05 | WI | WINNEBAGO COUNTY * | 55139C0250E | 17-MAR-2003
05 | WI | WINNEBAGO COUNTY * | 55139C0260E | 17-MAR-2003
05 | WI | WINNEBAGO COUNTY * | 55139C0280E | 17-MAR-2003
05 | WI | WINNEBAGO COUNTY * | 55139C0285E | 17-MAR-2003
05 | WI | WINNEBAGO COUNTY * | 55139C0300E | 17-MAR-2003
05 | WI | WINNEBAGO COUNTY * | 55139C0305E | 17-MAR-2003
05 | WI | WINNEBAGO COUNTY * | 55139C0310E | 17-MAR-2003
05 | WI | WINNEBAGO COUNTY * | 55139C0315E | 17-MAR-2003
05 | WI | WINNEBAGO COUNTY * | 55139C0320E | 17-MAR-2003
05 | WI | WINNEBAGO COUNTY * | 55139C0330E | 17-MAR-2003
05 | WI | WINNEBAGO COUNTY * | 55139C0335E | 17-MAR-2003
05 | WI | WINNEBAGO COUNTY * | 55139C0350E | 17-MAR-2003
05 | WI | WINNEBAGO COUNTY * | 55139C0355E | 17-MAR-2003
05 | WI | WINNEBAGO COUNTY * | 55139C0365E | 17-MAR-2003
05 | WI | WINNEBAGO COUNTY * | 55139CIND0A** | 17-MAR-2003
05 | WI | WINNECONNE, VILLAGE OF | 55139C0176E | 17-MAR-2003
05 | WI | WINNECONNE, VILLAGE OF | 55139C0177E | 17-MAR-2003
05 | WI | WINNECONNE, VILLAGE OF | 55139CIND0A** | 17-MAR-2003
06 | AR | CONWAY, CITY OF | 05045C0065G | 05-FEB-2003
06 | AR | CONWAY, CITY OF | 05045CIND0A** | 05-FEB-2003
06 | AR | ENOLA, CITY OF | 05045CIND0A** | 05-FEB-2003
06 | AR | FAULKNER COUNTY | 05045C0054F | 05-FEB-2003
06 | AR | FAULKNER COUNTY | 05045C0055F | 05-FEB-2003
06 | AR | FAULKNER COUNTY | 05045C0062G | 05-FEB-2003
06 | AR | FAULKNER COUNTY | 05045C0065G | 05-FEB-2003
06 | AR | FAULKNER COUNTY | 05045CIND0A** | 05-FEB-2003
06 | AR | GREENBRIER, CITY OF | 05045C0054F | 05-FEB-2003
06 | AR | GREENBRIER, CITY OF | 05045C0055F | 05-FEB-2003
06 | AR | GREENBRIER, CITY OF | 05045CIND0A** | 05-FEB-2003
06 | AR | GUY, CITY OF | 05045CIND0A** | 05-FEB-2003
06 | AR | MAYFLOWER, CITY OF | 05045CIND0A** | 05-FEB-2003
06 | AR | MOUNT VERNON, TOWN OF | 05045CIND0A** | 05-FEB-2003
06 | AR | SALINE COUNTY * | 0501910180C | 02-APR-2003
06 | AR | SALINE COUNTY * | 0501910240C | 02-APR-2003
06 | AR | SALINE COUNTY * | 0501910245C | 02-APR-2003
06 | AR | SALINE COUNTY * | 0501910290C | 02-APR-2003
06 | AR | SALINE COUNTY * | 0501910295C | 02-APR-2003
06 | AR | SALINE COUNTY * | 050191IND0A** | 02-APR-2003
06 | AR | VILONIA, TOWN OF | 05045CIND0A** | 05-FEB-2003
06 | AR | WOOSTER, TOWN OF | 05045C0054F | 05-FEB-2003
06 | AR | WOOSTER, TOWN OF | 05045C0065G | 05-FEB-2003
06 | AR | WOOSTER, TOWN OF | 05045CIND0A** | 05-FEB-2003
06 | NM | CHAVES COUNTY * | 3501250750C | 17-MAR-2003
06 | NM | CHAVES COUNTY * | 3501250752C | 17-MAR-2003
06 | NM | CHAVES COUNTY * | 3501250754C | 17-MAR-2003
06 | NM | CHAVES COUNTY * | 3501250775C | 17-MAR-2003
06 | NM | CHAVES COUNTY * | 3501250900C | 17-MAR-2003
06 | NM | CHAVES COUNTY * | 350125IND0A** | 17-MAR-2003
06 | NM | LOGAN, VILLAGE OF | 35037CIND0A** | 05-MAY-2003
06 | NM | QUAY COUNTY * | 35037C0641C | 05-MAY-2003
06 | NM | QUAY COUNTY * | 35037C0642C | 05-MAY-2003
06 | NM | QUAY COUNTY * | 35037C0643C | 05-MAY-2003
06 | NM | QUAY COUNTY * | 35037C0644C | 05-MAY-2003
06 | NM | QUAY COUNTY * | 35037C0654C | 05-MAY-2003
06 | NM | QUAY COUNTY * | 35037C0658C | 05-MAY-2003
06 | NM | QUAY COUNTY * | 35037C0661C | 05-MAY-2003
06 | NM | QUAY COUNTY * | 35037C0662C | 05-MAY-2003
06 | NM | QUAY COUNTY * | 35037C0663C | 05-MAY-2003
06 | NM | QUAY COUNTY * | 35037C0664C | 05-MAY-2003
06 | NM | QUAY COUNTY * | 35037C0666C | 05-MAY-2003
06 | NM | QUAY COUNTY * | 35037C0977C | 05-MAY-2003
06 | NM | QUAY COUNTY * | 35037CIND0A** | 05-MAY-2003
06 | NM | ROSWELL, CITY OF | 3500060001C | 17-MAR-2003
06 | NM | ROSWELL, CITY OF | 3500060003C | 17-MAR-2003
06 | NM | ROSWELL, CITY OF | 3500060004C | 17-MAR-2003
06 | NM | ROSWELL, CITY OF | 3500060005C | 17-MAR-2003
06 | NM | ROSWELL, CITY OF | 3500060006C | 17-MAR-2003
06 | NM | ROSWELL, CITY OF | 3500060007C | 17-MAR-2003
06 | NM | ROSWELL, CITY OF | 3500060008C | 17-MAR-2003
06 | NM | ROSWELL, CITY OF | 350006IND0A** | 17-MAR-2003
06 | NM | SAN JON, VILLAGE OF | 35037C0977C | 05-MAY-2003
06 | NM | SAN JON, VILLAGE OF | 35037CIND0A** | 05-MAY-2003
06 | NM | TUCUMCARI, CITY OF | 35037C0641C | 05-MAY-2003
06 | NM | TUCUMCARI, CITY OF | 35037C0642C | 05-MAY-2003
06 | NM | TUCUMCARI, CITY OF | 35037C0643C | 05-MAY-2003
06 | NM | TUCUMCARI, CITY OF | 35037C0644C | 05-MAY-2003
06 | NM | TUCUMCARI, CITY OF | 35037C0654C | 05-MAY-2003
06 | NM | TUCUMCARI, CITY OF | 35037C0661C | 05-MAY-2003
06 | NM | TUCUMCARI, CITY OF | 35037C0662C | 05-MAY-2003
06 | NM | TUCUMCARI, CITY OF | 35037C0663C | 05-MAY-2003
06 | NM | TUCUMCARI, CITY OF | 35037C0664C | 05-MAY-2003
06 | NM | TUCUMCARI, CITY OF | 35037C0666C | 05-MAY-2003
06 | NM | TUCUMCARI, CITY OF | 35037CIND0A** | 05-MAY-2003
06 | OK | BERNICE, TOWN OF | 40041C0045D | 16-APR-2003
06 | OK | BERNICE, TOWN OF | 40041C0160D | 16-APR-2003
06 | OK | BERNICE, TOWN OF | 40041CIND0A** | 16-APR-2003
06 | OK | BIXBY, TOWN OF | 40143C0538J | 16-APR-2003
06 | OK | BIXBY, TOWN OF | 40143CIND0A** | 16-APR-2003
06 | OK | BROKEN ARROW, CITY OF | 40143C0527J | 16-APR-2003
06 | OK | BROKEN ARROW, CITY OF | 40143C0528J | 16-APR-2003
06 | OK | BROKEN ARROW, CITY OF | 40143C0529J | 16-APR-2003
06 | OK | BROKEN ARROW, CITY OF | 40143C0536J | 16-APR-2003
06 | OK | BROKEN ARROW, CITY OF | 40143C0537J | 16-APR-2003
06 | OK | BROKEN ARROW, CITY OF | 40143C0538J | 16-APR-2003
06 | OK | BROKEN ARROW, CITY OF | 40143C0539J | 16-APR-2003
06 | OK | BROKEN ARROW, CITY OF | 40143C0541J | 16-APR-2003
06 | OK | BROKEN ARROW, CITY OF | 40143C0543J | 16-APR-2003
06 | OK | BROKEN ARROW, CITY OF | 40143CIND0A** | 16-APR-2003
06 | OK | COLCORD, TOWN OF | 40041C0475D | 16-APR-2003
06 | OK | COLCORD, TOWN OF | 40041C0580D | 16-APR-2003
06 | OK | COLCORD, TOWN OF | 40041C0600D | 16-APR-2003
06 | OK | COLCORD, TOWN OF | 40041CIND0A** | 16-APR-2003
06 | OK | COLLINSVILLE, CITY OF | 40143CIND0A** | 16-APR-2003
06 | OK | DELAWARE COUNTY * | 40041C0040D | 16-APR-2003
06 | OK | DELAWARE COUNTY * | 40041C0045D | 16-APR-2003
06 | OK | DELAWARE COUNTY * | 40041C0064D | 16-APR-2003
06 | OK | DELAWARE COUNTY * | 40041C0065D | 16-APR-2003
06 | OK | DELAWARE COUNTY * | 40041C0068D | 16-APR-2003
06 | OK | DELAWARE COUNTY * | 40041C0070D | 16-APR-2003
06 | OK | DELAWARE COUNTY * | 40041C0090D | 16-APR-2003
06 | OK | DELAWARE COUNTY * | 40041C0095D | 16-APR-2003
06 | OK | DELAWARE COUNTY * | 40041C0155D | 16-APR-2003
06 | OK | DELAWARE COUNTY * | 40041C0160D | 16-APR-2003
06 | OK | DELAWARE COUNTY * | 40041C0165D | 16-APR-2003
06 | OK | DELAWARE COUNTY * | 40041C0170D | 16-APR-2003
06 | OK | DELAWARE COUNTY * | 40041C0177D | 16-APR-2003
06 | OK | DELAWARE COUNTY * | 40041C0180D | 16-APR-2003
06 | OK | DELAWARE COUNTY * | 40041C0181D | 16-APR-2003
06 | OK | DELAWARE COUNTY * | 40041C0182D | 16-APR-2003
06 | OK | DELAWARE COUNTY * | 40041C0183D | 16-APR-2003
06 | OK | DELAWARE COUNTY * | 40041C0184D | 16-APR-2003
06 | OK | DELAWARE COUNTY * | 40041C0190D | 16-APR-2003
06 | OK | DELAWARE COUNTY * | 40041C0195D | 16-APR-2003
06 | OK | DELAWARE COUNTY * | 40041C0201D | 16-APR-2003
06 | OK | DELAWARE COUNTY * | 40041C0203D | 16-APR-2003
06 | OK | DELAWARE COUNTY * | 40041C0225D | 16-APR-2003
06 | OK | DELAWARE COUNTY * | 40041C0280D | 16-APR-2003
06 | OK | DELAWARE COUNTY * | 40041C0285D | 16-APR-2003
06 | OK | DELAWARE COUNTY * | 40041C0300D | 16-APR-2003
06 | OK | DELAWARE COUNTY * | 40041C0325D | 16-APR-2003
06 | OK | DELAWARE COUNTY * | 40041C0350D | 16-APR-2003
06 | OK | DELAWARE COUNTY * | 40041C0375D | 16-APR-2003
06 | OK | DELAWARE COUNTY * | 40041C0425D | 16-APR-2003
06 | OK | DELAWARE COUNTY * | 40041C0450D | 16-APR-2003
06 | OK | DELAWARE COUNTY * | 40041C0475D | 16-APR-2003
06 | OK | DELAWARE COUNTY * | 40041C0500D | 16-APR-2003
06 | OK | DELAWARE COUNTY * | 40041C0550D | 16-APR-2003
06 | OK | DELAWARE COUNTY * | 40041C0575D | 16-APR-2003
06 | OK | DELAWARE COUNTY * | 40041C0579D | 16-APR-2003
06 | OK | DELAWARE COUNTY * | 40041C0580D | 16-APR-2003
06 | OK | DELAWARE COUNTY * | 40041C0586D | 16-APR-2003
06 | OK | DELAWARE COUNTY * | 40041C0587D | 16-APR-2003
06 | OK | DELAWARE COUNTY * | 40041C0600D | 16-APR-2003
06 | OK | DELAWARE COUNTY * | 40041C0625D | 16-APR-2003
06 | OK | DELAWARE COUNTY * | 40041CIND0A** | 16-APR-2003
06 | OK | DOVER, TOWN OF | 40073C0306C | 05-MAY-2003
06 | OK | DOVER, TOWN OF | 40073C0310C | 05-MAY-2003
06 | OK | DOVER, TOWN OF | 40073CIND0A** | 05-MAY-2003
06 | OK | GLENPOOL, CITY OF | 40143CIND0A** | 16-APR-2003
06 | OK | GROVE, TOWN OF | 40041C0064D | 16-APR-2003
06 | OK | GROVE, TOWN OF | 40041C0068D | 16-APR-2003
06 | OK | GROVE, TOWN OF | 40041C0177D | 16-APR-2003
06 | OK | GROVE, TOWN OF | 40041C0180D | 16-APR-2003
06 | OK | GROVE, TOWN OF | 40041C0181D | 16-APR-2003
06 | OK | GROVE, TOWN OF | 40041C0182D | 16-APR-2003
06 | OK | GROVE, TOWN OF | 40041C0183D | 16-APR-2003
06 | OK | GROVE, TOWN OF | 40041C0184D | 16-APR-2003
06 | OK | GROVE, TOWN OF | 40041C0195D | 16-APR-2003
06 | OK | GROVE, TOWN OF | 40041C0201D | 16-APR-2003
06 | OK | GROVE, TOWN OF | 40041C0203D | 16-APR-2003
06 | OK | GROVE, TOWN OF | 40041CIND0A** | 16-APR-2003
06 | OK | HENNESSEY, CITY OF | 40073C0185C | 05-MAY-2003
06 | OK | HENNESSEY, CITY OF | 40073CIND0A** | 05-MAY-2003
06 | OK | JAY, TOWN OF | 40041C0325D | 16-APR-2003
06 | OK | JAY, TOWN OF | 40041CIND0A** | 16-APR-2003
06 | OK | JENKS, CITY OF | 40143CIND0A** | 16-APR-2003
06 | OK | KANSAS, TOWN OF | 40041C0575D | 16-APR-2003
06 | OK | KANSAS, TOWN OF | 40041CIND0A** | 16-APR-2003
06 | OK | KINGFISHER COUNTY | 40073C0025C | 05-MAY-2003
06 | OK | KINGFISHER COUNTY | 40073C0065C | 05-MAY-2003
06 | OK | KINGFISHER COUNTY | 40073C0070C | 05-MAY-2003
06 | OK | KINGFISHER COUNTY | 40073C0150C | 05-MAY-2003
06 | OK | KINGFISHER COUNTY | 40073C0175C | 05-MAY-2003
06 | OK | KINGFISHER COUNTY | 40073C0180C | 05-MAY-2003
06 | OK | KINGFISHER COUNTY | 40073C0185C | 05-MAY-2003
06 | OK | KINGFISHER COUNTY | 40073C0190C | 05-MAY-2003
06 | OK | KINGFISHER COUNTY | 40073C0195C | 05-MAY-2003
06 | OK | KINGFISHER COUNTY | 40073C0260C | 05-MAY-2003
06 | OK | KINGFISHER COUNTY | 40073C0275C | 05-MAY-2003
06 | OK | KINGFISHER COUNTY | 40073C0276C | 05-MAY-2003
06 | OK | KINGFISHER COUNTY | 40073C0280C | 05-MAY-2003
06 | OK | KINGFISHER COUNTY | 40073C0300C | 05-MAY-2003
06 | OK | KINGFISHER COUNTY | 40073C0305C | 05-MAY-2003
06 | OK | KINGFISHER COUNTY | 40073C0306C | 05-MAY-2003
06 | OK | KINGFISHER COUNTY | 40073C0310C | 05-MAY-2003
06 | OK | KINGFISHER COUNTY | 40073C0315C | 05-MAY-2003
06 | OK | KINGFISHER COUNTY | 40073C0320C | 05-MAY-2003
06 | OK | KINGFISHER COUNTY | 40073C0330C | 05-MAY-2003
06 | OK | KINGFISHER COUNTY | 40073C0340C | 05-MAY-2003
06 | OK | KINGFISHER COUNTY | 40073C0350C | 05-MAY-2003
06 | OK | KINGFISHER COUNTY | 40073C0375C | 05-MAY-2003
06 | OK | KINGFISHER COUNTY | 40073C0380C | 05-MAY-2003
06 | OK | KINGFISHER COUNTY | 40073C0385C | 05-MAY-2003
06 | OK | KINGFISHER COUNTY | 40073C0400C | 05-MAY-2003
06 | OK | KINGFISHER COUNTY | 40073C0410C | 05-MAY-2003
06 | OK | KINGFISHER COUNTY | 40073C0425C | 05-MAY-2003
06 | OK | KINGFISHER COUNTY | 40073C0430C | 05-MAY-2003
06 | OK | KINGFISHER COUNTY | 40073C0435C | 05-MAY-2003
06 | OK | KINGFISHER COUNTY | 40073C0450C | 05-MAY-2003
06 | OK | KINGFISHER COUNTY | 40073C0475C | 05-MAY-2003
06 | OK | KINGFISHER COUNTY | 40073C0500C | 05-MAY-2003
06 | OK | KINGFISHER COUNTY | 40073C0525C | 05-MAY-2003
06 | OK | KINGFISHER COUNTY | 40073C0550C | 05-MAY-2003
06 | OK | KINGFISHER COUNTY | 40073C0575C | 05-MAY-2003
06 | OK | KINGFISHER COUNTY | 40073C0585C | 05-MAY-2003
06 | OK | KINGFISHER COUNTY | 40073C0625C | 05-MAY-2003
06 | OK | KINGFISHER COUNTY | 40073CIND0A** | 05-MAY-2003
06 | OK | KINGFISHER, CITY OF | 40073C0430C | 05-MAY-2003
06 | OK | KINGFISHER, CITY OF | 40073C0435C | 05-MAY-2003
06 | OK | KINGFISHER, CITY OF | 40073CIND0A** | 05-MAY-2003
06 | OK | LE FLORE COUNTY * | 4004840001B*** | 01-JUN-2003
06 | OK | LE FLORE COUNTY * | 4004840002B*** | 01-JUN-2003
06 | OK | LE FLORE COUNTY * | 4004840003B*** | 01-JUN-2003
06 | OK | LE FLORE COUNTY * | 4004840004B*** | 01-JUN-2003
06 | OK | LE FLORE COUNTY * | 4004840005B*** | 01-JUN-2003
06 | OK | LE FLORE COUNTY * | 4004840006B*** | 01-JUN-2003
06 | OK | LE FLORE COUNTY * | 4004840007B*** | 01-JUN-2003
06 | OK | LE FLORE COUNTY * | 4004840008B*** | 01-JUN-2003
06 | OK | LE FLORE COUNTY * | 4004840009B*** | 01-JUN-2003
06 | OK | LE FLORE COUNTY * | 4004840010B*** | 01-JUN-2003
06 | OK | LE FLORE COUNTY * | 4004840011B*** | 01-JUN-2003
06 | OK | LE FLORE COUNTY * | 4004840012B*** | 01-JUN-2003
06 | OK | LE FLORE COUNTY * | 4004840013B*** | 01-JUN-2003
06 | OK | LE FLORE COUNTY * | 4004840014B*** | 01-JUN-2003
06 | OK | LE FLORE COUNTY * | 4004840015B*** | 01-JUN-2003
06 | OK | LE FLORE COUNTY * | 4004840016B*** | 01-JUN-2003
06 | OK | LE FLORE COUNTY * | 4004840017B*** | 01-JUN-2003
06 | OK | LE FLORE COUNTY * | 4004840018B*** | 01-JUN-2003
06 | OK | LE FLORE COUNTY * | 4004840019B*** | 01-JUN-2003
06 | OK | LE FLORE COUNTY * | 4004840020B*** | 01-JUN-2003
06 | OK | LE FLORE COUNTY * | 4004849999B*** | 01-JUN-2003
06 | OK | LE FLORE COUNTY * | 400484IND0A*** | 01-JUN-2003
06 | OK | LIBERTY, TOWN OF | 40143CIND0A** | 16-APR-2003
06 | OK | LOTSEE, VILLAGE OF | 40143CIND0A** | 16-APR-2003
06 | OK | LOYAL, TOWN OF | 40073C0276C | 05-MAY-2003
06 | OK | LOYAL, TOWN OF | 40073CIND0A** | 05-MAY-2003
06 | OK | OAKS, TOWN OF | 40041C0575D | 16-APR-2003
06 | OK | OAKS, TOWN OF | 40041CIND0A** | 16-APR-2003
06 | OK | OWASSO, CITY OF | 40143C0367J | 16-APR-2003
06 | OK | OWASSO, CITY OF | 40143C0377J | 16-APR-2003
06 | OK | OWASSO, CITY OF | 40143CIND0A** | 16-APR-2003
06 | OK | PRAGUE, CITY OF | 4004350003C | 05-MAY-2003
06 | OK | PRAGUE, CITY OF | 400435IND0A** | 05-MAY-2003
06 | OK | SAND SPRINGS, CITY OF | 40143CIND0A** | 16-APR-2003
06 | OK | SKIATOOK, TOWN OF | 40143CIND0A** | 16-APR-2003
06 | OK | SPERRY, TOWN OF | 40143CIND0A** | 16-APR-2003
06 | OK | TULSA COUNTY * | 40143C0366J | 16-APR-2003
06 | OK | TULSA COUNTY * | 40143C0367J | 16-APR-2003
06 | OK | TULSA COUNTY * | 40143C0368J | 16-APR-2003
06 | OK | TULSA COUNTY * | 40143C0369J | 16-APR-2003
06 | OK | TULSA COUNTY * | 40143C0376J | 16-APR-2003
06 | OK | TULSA COUNTY * | 40143C0377J | 16-APR-2003
06 | OK | TULSA COUNTY * | 40143C0378J | 16-APR-2003
06 | OK | TULSA COUNTY * | 40143C0379J | 16-APR-2003
06 | OK | TULSA COUNTY * | 40143C0386J | 16-APR-2003
06 | OK | TULSA COUNTY * | 40143C0387J | 16-APR-2003
06 | OK | TULSA COUNTY * | 40143C0388J | 16-APR-2003
06 | OK | TULSA COUNTY * | 40143C0389J | 16-APR-2003
06 | OK | TULSA COUNTY * | 40143C0506J | 16-APR-2003
06 | OK | TULSA COUNTY * | 40143C0507J | 16-APR-2003
06 | OK | TULSA COUNTY * | 40143C0508J | 16-APR-2003
06 | OK | TULSA COUNTY * | 40143C0509J | 16-APR-2003
06 | OK | TULSA COUNTY * | 40143C0526J | 16-APR-2003
06 | OK | TULSA COUNTY * | 40143C0527J | 16-APR-2003
06 | OK | TULSA COUNTY * | 40143C0528J | 16-APR-2003
06 | OK | TULSA COUNTY * | 40143C0529J | 16-APR-2003
06 | OK | TULSA COUNTY * | 40143C0536J | 16-APR-2003
06 | OK | TULSA COUNTY * | 40143C0537J | 16-APR-2003
06 | OK | TULSA COUNTY * | 40143C0538J | 16-APR-2003
06 | OK | TULSA COUNTY * | 40143C0539J | 16-APR-2003
06 | OK | TULSA COUNTY * | 40143C0541J | 16-APR-2003
06 | OK | TULSA COUNTY * | 40143C0543J | 16-APR-2003
06 | OK | TULSA COUNTY * | 40143CIND0A** | 16-APR-2003
06 | OK | TULSA, CITY OF | 40143C0366J | 16-APR-2003
06 | OK | TULSA, CITY OF | 40143C0367J | 16-APR-2003
06 | OK | TULSA, CITY OF | 40143C0368J | 16-APR-2003
06 | OK | TULSA, CITY OF | 40143C0369J | 16-APR-2003
06 | OK | TULSA, CITY OF | 40143C0376J | 16-APR-2003
06 | OK | TULSA, CITY OF | 40143C0377J | 16-APR-2003
06 | OK | TULSA, CITY OF | 40143C0378J | 16-APR-2003
06 | OK | TULSA, CITY OF | 40143C0379J | 16-APR-2003
06 | OK | TULSA, CITY OF | 40143C0386J | 16-APR-2003
06 | OK | TULSA, CITY OF | 40143C0387J | 16-APR-2003
06 | OK | TULSA, CITY OF | 40143C0388J | 16-APR-2003
06 | OK | TULSA, CITY OF | 40143C0389J | 16-APR-2003
06 | OK | TULSA, CITY OF | 40143C0506J | 16-APR-2003
06 | OK | TULSA, CITY OF | 40143C0507J | 16-APR-2003
06 | OK | TULSA, CITY OF | 40143C0508J | 16-APR-2003
06 | OK | TULSA, CITY OF | 40143C0509J | 16-APR-2003
06 | OK | TULSA, CITY OF | 40143C0526J | 16-APR-2003
06 | OK | TULSA, CITY OF | 40143C0527J | 16-APR-2003
06 | OK | TULSA, CITY OF | 40143C0528J | 16-APR-2003
06 | OK | TULSA, CITY OF | 40143C0529J | 16-APR-2003
06 | OK | TULSA, CITY OF | 40143C0536J | 16-APR-2003
06 | OK | TULSA, CITY OF | 40143C0537J | 16-APR-2003
06 | OK | TULSA, CITY OF | 40143C0538J | 16-APR-2003
06 | OK | TULSA, CITY OF | 40143CIND0A** | 16-APR-2003
06 | OK | WEST SILOAM SPRINGS, TOWN OF | 40041C0625D | 16-APR-2003
06 | OK | WEST SILOAM SPRINGS, TOWN OF | 40041CIND0A** | 16-APR-2003
06 | TX | ADDISON, TOWN OF | 48113CIND0A** | 05-FEB-2003
06 | TX | BALCH SPRINGS, CITY OF | 48113CIND0A** | 05-FEB-2003
06 | TX | CARROLLTON, CITY OF | 48113CIND0A** | 05-FEB-2003
06 | TX | CEDAR HILL, CITY OF | 48113CIND0A** | 05-FEB-2003
06 | TX | COCKRELL HILL, CITY OF | 48113CIND0A** | 05-FEB-2003
06 | TX | COMBINE, CITY OF | 48113CIND0A** | 05-FEB-2003
06 | TX | COPPELL, CITY OF | 48113CIND0A** | 05-FEB-2003
06 | TX | DALLAS COUNTY * | 48113C0210K | 05-FEB-2003
06 | TX | DALLAS COUNTY * | 48113C0220K | 05-FEB-2003
06 | TX | DALLAS COUNTY * | 48113C0360K | 05-FEB-2003
06 | TX | DALLAS COUNTY * | 48113C0385K | 05-FEB-2003
06 | TX | DALLAS COUNTY * | 48113CIND0A** | 05-FEB-2003
06 | TX | DALLAS, CITY OF | 48113C0220K | 05-FEB-2003
06 | TX | DALLAS, CITY OF | 48113C0360K | 05-FEB-2003
06 | TX | DALLAS, CITY OF | 48113C0380K | 05-FEB-2003
06 | TX | DALLAS, CITY OF | 48113C0385K | 05-FEB-2003
06 | TX | DALLAS, CITY OF | 48113CIND0A** | 05-FEB-2003
06 | TX | DESOTO, CITY OF | 48113CIND0A** | 05-FEB-2003
06 | TX | DUNCANVILLE, CITY OF | 48113CIND0A** | 05-FEB-2003
06 | TX | FARMERS BRANCH, CITY OF | 48113CIND0A** | 05-FEB-2003
06 | TX | GARLAND, CITY OF | 48113C0210K | 05-FEB-2003
06 | TX | GARLAND, CITY OF | 48113C0220K | 05-FEB-2003
06 | TX | GARLAND, CITY OF | 48113C0360K | 05-FEB-2003
06 | TX | GARLAND, CITY OF | 48113C0380K | 05-FEB-2003
06 | TX | GARLAND, CITY OF | 48113C0385K | 05-FEB-2003
06 | TX | GARLAND, CITY OF | 48113CIND0A** | 05-FEB-2003
06 | TX | GLENN HEIGHTS, CITY OF | 48113CIND0A** | 05-FEB-2003
06 | TX | GRAND PRAIRIE, CITY OF | 48113CIND0A** | 05-FEB-2003
06 | TX | HIGHLAND PARK, TOWN OF | 48113CIND0A** | 05-FEB-2003
06 | TX | HUTCHINS, CITY OF | 48113CIND0A** | 05-FEB-2003
06 | TX | IRVING, CITY OF | 48113CIND0A** | 05-FEB-2003
06 | TX | LANCASTER, CITY OF | 48113CIND0A** | 05-FEB-2003
06 | TX | MESQUITE, CITY OF | 48113C0360K | 05-FEB-2003
06 | TX | MESQUITE, CITY OF | 48113CIND0A** | 05-FEB-2003
06 | TX | RICHARDSON, CITY OF | 48113C0220K | 05-FEB-2003
06 | TX | RICHARDSON, CITY OF | 48113CIND0A** | 05-FEB-2003
06 | TX | ROWLETT, CITY OF | 48113C0380K | 05-FEB-2003
06 | TX | ROWLETT, CITY OF | 48113C0385K | 05-FEB-2003
06 | TX | ROWLETT, CITY OF | 48113CIND0A** | 05-FEB-2003
06 | TX | SACHSE, CITY OF | 48113CIND0A** | 05-FEB-2003
06 | TX | SEAGOVILLE, CITY OF | 48113CIND0A** | 05-FEB-2003
06 | TX | SUNNYVALE, TOWN OF | 48113C0380K | 05-FEB-2003
06 | TX | SUNNYVALE, TOWN OF | 48113C0385K | 05-FEB-2003
06 | TX | SUNNYVALE, TOWN OF | 48113CIND0A** | 05-FEB-2003
06 | TX | UNIVERSITY PARK, CITY OF | 48113CIND0A** | 05-FEB-2003
06 | TX | WILMER, CITY OF | 48113CIND0A** | 05-FEB-2003
07 | IA | MARSHALL COUNTY * | 1908900075B | 02-JAN-2003
07 | IA | MARSHALL COUNTY * | 1908900100B | 02-JAN-2003
07 | IA | MARSHALL COUNTY * | 1908900155B | 02-JAN-2003
07 | IA | MARSHALL COUNTY * | 1908900160B | 02-JAN-2003
07 | IA | MARSHALL COUNTY * | 1908900165B | 02-JAN-2003
07 | IA | MARSHALL COUNTY * | 1908900170B | 02-JAN-2003
07 | IA | MARSHALL COUNTY * | 1908900200B | 02-JAN-2003
07 | IA | MARSHALL COUNTY * | 190890IND0A** | 02-JAN-2003
07 | KS | COOLIDGE, CITY OF | 20075C0090D | 02-JAN-2003
07 | KS | COOLIDGE, CITY OF | 20075CIND0 ** | 02-JAN-2003
07 | KS | HAMILTON COUNTY* | 20075C0090D | 02-JAN-2003
07 | KS | HAMILTON COUNTY* | 20075C0100D | 02-JAN-2003
07 | KS | HAMILTON COUNTY* | 20075C0175D | 02-JAN-2003
07 | KS | HAMILTON COUNTY* | 20075C0177D | 02-JAN-2003
07 | KS | HAMILTON COUNTY* | 20075C0200D | 02-JAN-2003
07 | KS | HAMILTON COUNTY* | 20075C0225D | 02-JAN-2003
07 | KS | HAMILTON COUNTY* | 20075CIND0 ** | 02-JAN-2003
07 | KS | SYRACUSE, CITY OF | 20075C0177D | 02-JAN-2003
07 | KS | SYRACUSE, CITY OF | 20075CIND0 ** | 02-JAN-2003
07 | KS | WAMEGO, CITY OF | 2002760001C | 17-MAR-2003
07 | KS | WAMEGO, CITY OF | 2002760002C | 17-MAR-2003
07 | KS | WAMEGO, CITY OF | 200276IND0A** | 17-MAR-2003
07 | MO | AUGUSTA, VILLAGE OF | 29183CIND0A** | 17-MAR-2003
07 | MO | CLAY COUNTY * | 2900860015B | 16-APR-2003
07 | MO | CLAY COUNTY * | 2900860025B | 16-APR-2003
07 | MO | CLAY COUNTY * | 2900860040C | 16-APR-2003
07 | MO | CLAY COUNTY * | 2900860050C | 16-APR-2003
07 | MO | CLAY COUNTY * | 2900860055B | 16-APR-2003
07 | MO | CLAY COUNTY * | 2900860060B | 16-APR-2003
07 | MO | CLAY COUNTY * | 2900860080B | 16-APR-2003
07 | MO | CLAY COUNTY * | 2900860085B | 16-APR-2003
07 | MO | CLAY COUNTY * | 2900860090B | 16-APR-2003
07 | MO | CLAY COUNTY * | 2900860095B | 16-APR-2003
07 | MO | CLAY COUNTY * | 2900860125B | 16-APR-2003
07 | MO | CLAY COUNTY * | 2900860150B | 16-APR-2003
07 | MO | CLAY COUNTY * | 290086IND0A** | 16-APR-2003
07 | MO | COTTLEVILLE, CITY OF | 29183CIND0A** | 17-MAR-2003
07 | MO | DALTON, VILLAGE OF | 2904640001C | 17-MAR-2003
07 | MO | DARDENNE PRAIRIE, TOWN OF | 29183C0220F | 17-MAR-2003
07 | MO | DARDENNE PRAIRIE, TOWN OF | 29183CIND0A** | 17-MAR-2003
07 | MO | DUNKLIN COUNTY * | 2901220095C | 05-FEB-2003
07 | MO | DUNKLIN COUNTY * | 290122IND0A** | 05-FEB-2003
07 | MO | EXCELSIOR SPRINGS, CITY OF | 2900900005C | 16-APR-2003
07 | MO | FLINTHILL, VILLAGE OF | 29183CIND0A** | 17-MAR-2003
07 | MO | FORISTELL, CITY OF | 29183CIND0A** | 17-MAR-2003
07 | MO | JOSEPHVILLE, VILLAGE OF | 29183C0210F | 17-MAR-2003
07 | MO | JOSEPHVILLE, VILLAGE OF | 29183C0230F | 17-MAR-2003
07 | MO | JOSEPHVILLE, VILLAGE OF | 29183CIND0A** | 17-MAR-2003
07 | MO | KEARNEY, CITY OF | 2900950005C | 16-APR-2003
07 | MO | LAKE ST. LOUIS, CITY OF | 29183C0215F | 17-MAR-2003
07 | MO | LAKE ST. LOUIS, CITY OF | 29183C0220F | 17-MAR-2003
07 | MO | LAKE ST. LOUIS, CITY OF | 29183CIND0A** | 17-MAR-2003
07 | MO | MOSBY, CITY OF | 2900980001C | 16-APR-2003
07 | MO | NEW MELLE, VILLAGE OF | 29183CIND0A** | 17-MAR-2003
07 | MO | O'FALLON, CITY OF | 29183C0210F | 17-MAR-2003
07 | MO | O'FALLON, CITY OF | 29183C0220F | 17-MAR-2003
07 | MO | O'FALLON, CITY OF | 29183C0230F | 17-MAR-2003
07 | MO | O'FALLON, CITY OF | 29183CIND0A** | 17-MAR-2003
07 | MO | PEMISCOT COUNTY * | 2907790075C | 05-FEB-2003
07 | MO | PEMISCOT COUNTY * | 290779IND0A** | 05-FEB-2003
07 | MO | PORTAGE DES SIOUX, CITY OF | 29183CIND0A** | 17-MAR-2003
07 | MO | PRATHERSVILLE, VILLAGE OF | 2901010001B | 16-APR-2003
07 | MO | SMITHVILLE, CITY OF | 2952710005D | 16-APR-2003
07 | MO | SMITHVILLE, CITY OF | 2952710010D | 16-APR-2003
07 | MO | SMITHVILLE, CITY OF | 295271IND0A** | 16-APR-2003
07 | MO | ST. CHARLES COUNTY * | 29183C0210F | 17-MAR-2003
07 | MO | ST. CHARLES COUNTY * | 29183C0215F | 17-MAR-2003
07 | MO | ST. CHARLES COUNTY * | 29183C0220F | 17-MAR-2003
07 | MO | ST. CHARLES COUNTY * | 29183C0230F | 17-MAR-2003
07 | MO | ST. CHARLES COUNTY * | 29183CIND0A** | 17-MAR-2003
07 | MO | ST. CHARLES, CITY OF | 29183CIND0A** | 17-MAR-2003
07 | MO | ST. PAUL, CITY OF | 29183C0210F | 17-MAR-2003
07 | MO | ST. PAUL, CITY OF | 29183C0230F | 17-MAR-2003
07 | MO | ST. PAUL, CITY OF | 29183CIND0A** | 17-MAR-2003
07 | MO | ST. PETERS, CITY OF | 29183CIND0A** | 17-MAR-2003
07 | MO | WELDON SPRING HEIGHTS, TOWN OF | 29183CIND0A** | 17-MAR-2003
07 | MO | WELDON SPRING, CITY OF | 29183CIND0A** | 17-MAR-2003
07 | MO | WENTZVILLE, CITY OF | 29183C0210F | 17-MAR-2003
07 | MO | WENTZVILLE, CITY OF | 29183C0215F | 17-MAR-2003
07 | MO | WENTZVILLE, CITY OF | 29183C0220F | 17-MAR-2003
07 | MO | WENTZVILLE, CITY OF | 29183CIND0A** | 17-MAR-2003
07 | MO | WEST ALTON, TOWN OF | 29183CIND0A** | 17-MAR-2003
08 | CO | ARVADA, CITY OF | 08059C0050E | 17-JUN-2003
08 | CO | ARVADA, CITY OF | 08059C0175E | 17-JUN-2003
08 | CO | ARVADA, CITY OF | 08059C0176E | 17-JUN-2003
08 | CO | ARVADA, CITY OF | 08059C0177E | 17-JUN-2003
08 | CO | ARVADA, CITY OF | 08059C0178E | 17-JUN-2003
08 | CO | ARVADA, CITY OF | 08059C0179E | 17-JUN-2003
08 | CO | ARVADA, CITY OF | 08059C0181E | 17-JUN-2003
08 | CO | ARVADA, CITY OF | 08059C0182E | 17-JUN-2003
08 | CO | ARVADA, CITY OF | 08059C0183E | 17-JUN-2003
08 | CO | ARVADA, CITY OF | 08059C0184E | 17-JUN-2003
08 | CO | ARVADA, CITY OF | 08059C0187E | 17-JUN-2003
08 | CO | ARVADA, CITY OF | 08059C0191E | 17-JUN-2003
08 | CO | ARVADA, CITY OF | 08059C0192E | 17-JUN-2003
08 | CO | ARVADA, CITY OF | 08059C0201E | 17-JUN-2003
08 | CO | ARVADA, CITY OF | 08059C0202E | 17-JUN-2003
08 | CO | ARVADA, CITY OF | 08059C0203E | 17-JUN-2003
08 | CO | ARVADA, CITY OF | 08059C0204E | 17-JUN-2003
08 | CO | ARVADA, CITY OF | 08059C0206E | 17-JUN-2003
08 | CO | ARVADA, CITY OF | 08059C0208E | 17-JUN-2003
08 | CO | ARVADA, CITY OF | 08059C0211E | 17-JUN-2003
08 | CO | ARVADA, CITY OF | 08059C0212E | 17-JUN-2003
08 | CO | ARVADA, CITY OF | 08059C0216E | 17-JUN-2003
08 | CO | ARVADA, CITY OF | 08059CIND0A** | 17-JUN-2003
08 | CO | BOW MAR, TOWN OF | 08059C0320E | 17-JUN-2003
08 | CO | BOW MAR, TOWN OF | 08059C0410E | 17-JUN-2003
08 | CO | BOW MAR, TOWN OF | 08059CIND0A** | 17-JUN-2003
08 | CO | EDGEWATER, CITY OF | 08059C0214E | 17-JUN-2003
08 | CO | EDGEWATER, CITY OF | 08059C0218E | 17-JUN-2003
08 | CO | EDGEWATER, CITY OF | 08059C0302E | 17-JUN-2003
08 | CO | EDGEWATER, CITY OF | 08059C0306E | 17-JUN-2003
08 | CO | EDGEWATER, CITY OF | 08059CIND0A** | 17-JUN-2003
08 | CO | GOLDEN, CITY OF | 08059C0188E | 17-JUN-2003
08 | CO | GOLDEN, CITY OF | 08059C0189E | 17-JUN-2003
08 | CO | GOLDEN, CITY OF | 08059C0276E | 17-JUN-2003
08 | CO | GOLDEN, CITY OF | 08059C0277E | 17-JUN-2003
08 | CO | GOLDEN, CITY OF | 08059C0279E | 17-JUN-2003
08 | CO | GOLDEN, CITY OF | 08059C0281E | 17-JUN-2003
08 | CO | GOLDEN, CITY OF | 08059C0285E | 17-JUN-2003
08 | CO | GOLDEN, CITY OF | 08059CIND0A** | 17-JUN-2003
08 | CO | JEFFERSON COUNTY * | 08059C0050E | 17-JUN-2003
08 | CO | JEFFERSON COUNTY * | 08059C0070E | 17-JUN-2003
08 | CO | JEFFERSON COUNTY * | 08059C0075E | 17-JUN-2003
08 | CO | JEFFERSON COUNTY * | 08059C0084E | 17-JUN-2003
08 | CO | JEFFERSON COUNTY * | 08059C0088E | 17-JUN-2003
08 | CO | JEFFERSON COUNTY * | 08059C0089E | 17-JUN-2003
08 | CO | JEFFERSON COUNTY * | 08059C0090E | 17-JUN-2003
08 | CO | JEFFERSON COUNTY * | 08059C0091E | 17-JUN-2003
08 | CO | JEFFERSON COUNTY * | 08059C0092E | 17-JUN-2003
08 | CO | JEFFERSON COUNTY * | 08059C0093E | 17-JUN-2003
08 | CO | JEFFERSON COUNTY * | 08059C0094E | 17-JUN-2003
08 | CO | JEFFERSON COUNTY * | 08059C0103E | 17-JUN-2003
08 | CO | JEFFERSON COUNTY * | 08059C0111E | 17-JUN-2003
08 | CO | JEFFERSON COUNTY * | 08059C0113E | 17-JUN-2003
08 | CO | JEFFERSON COUNTY * | 08059C0150E | 17-JUN-2003
08 | CO | JEFFERSON COUNTY * | 08059C0175E | 17-JUN-2003
08 | CO | JEFFERSON COUNTY * | 08059C0176E | 17-JUN-2003
08 | CO | JEFFERSON COUNTY * | 08059C0177E | 17-JUN-2003
08 | CO | JEFFERSON COUNTY * | 08059C0178E | 17-JUN-2003
08 | CO | JEFFERSON COUNTY * | 08059C0179E | 17-JUN-2003
08 | CO | JEFFERSON COUNTY * | 08059C0181E | 17-JUN-2003
08 | CO | JEFFERSON COUNTY * | 08059C0182E | 17-JUN-2003
08 | CO | JEFFERSON COUNTY * | 08059C0183E | 17-JUN-2003
08 | CO | JEFFERSON COUNTY * | 08059C0184E | 17-JUN-2003
08 | CO | JEFFERSON COUNTY * | 08059C0186E | 17-JUN-2003
08 | CO | JEFFERSON COUNTY * | 08059C0187E | 17-JUN-2003
08 | CO | JEFFERSON COUNTY * | 08059C0188E | 17-JUN-2003
08 | CO | JEFFERSON COUNTY * | 08059C0189E | 17-JUN-2003
08 | CO | JEFFERSON COUNTY * | 08059C0191E | 17-JUN-2003
08 | CO | JEFFERSON COUNTY * | 08059C0192E | 17-JUN-2003
08 | CO | JEFFERSON COUNTY * | 08059C0193E | 17-JUN-2003
08 | CO | JEFFERSON COUNTY * | 08059C0194E | 17-JUN-2003
08 | CO | JEFFERSON COUNTY * | 08059C0201E | 17-JUN-2003
08 | CO | JEFFERSON COUNTY * | 08059C0202E | 17-JUN-2003
08 | CO | JEFFERSON COUNTY * | 08059C0203E | 17-JUN-2003
08 | CO | JEFFERSON COUNTY * | 08059C0204E | 17-JUN-2003
08 | CO | JEFFERSON COUNTY * | 08059C0206E | 17-JUN-2003
08 | CO | JEFFERSON COUNTY * | 08059C0207E | 17-JUN-2003
08 | CO | JEFFERSON COUNTY * | 08059C0208E | 17-JUN-2003
08 | CO | JEFFERSON COUNTY * | 08059C0211E | 17-JUN-2003
08 | CO | JEFFERSON COUNTY * | 08059C0212E | 17-JUN-2003
08 | CO | JEFFERSON COUNTY * | 08059C0214E | 17-JUN-2003
08 | CO | JEFFERSON COUNTY * | 08059C0215E | 17-JUN-2003
08 | CO | JEFFERSON COUNTY * | 08059C0216E | 17-JUN-2003
08 | CO | JEFFERSON COUNTY * | 08059C0218E | 17-JUN-2003
08 | CO | JEFFERSON COUNTY * | 08059C0235E | 17-JUN-2003
08 | CO | JEFFERSON COUNTY * | 08059C0245E | 17-JUN-2003
08 | CO | JEFFERSON COUNTY * | 08059C0255E | 17-JUN-2003
08 | CO | JEFFERSON COUNTY * | 08059C0260E | 17-JUN-2003
08 | CO | JEFFERSON COUNTY * | 08059C0265E | 17-JUN-2003
08 | CO | JEFFERSON COUNTY * | 08059C0270E | 17-JUN-2003
08 | CO | JEFFERSON COUNTY * | 08059C0276E | 17-JUN-2003
08 | CO | JEFFERSON COUNTY * | 08059C0277E | 17-JUN-2003
08 | CO | JEFFERSON COUNTY * | 08059C0279E | 17-JUN-2003
08 | CO | JEFFERSON COUNTY * | 08059C0281E | 17-JUN-2003
08 | CO | JEFFERSON COUNTY * | 08059C0285E | 17-JUN-2003
08 | CO | JEFFERSON COUNTY * | 08059C0287E | 17-JUN-2003
08 | CO | JEFFERSON COUNTY * | 08059C0289E | 17-JUN-2003
08 | CO | JEFFERSON COUNTY * | 08059C0290E | 17-JUN-2003
08 | CO | JEFFERSON COUNTY * | 08059C0295E | 17-JUN-2003
08 | CO | JEFFERSON COUNTY * | 08059C0302E | 17-JUN-2003
08 | CO | JEFFERSON COUNTY * | 08059C0305E | 17-JUN-2003
08 | CO | JEFFERSON COUNTY * | 08059C0306E | 17-JUN-2003
08 | CO | JEFFERSON COUNTY * | 08059C0310E | 17-JUN-2003
08 | CO | JEFFERSON COUNTY * | 08059C0315E | 17-JUN-2003
08 | CO | JEFFERSON COUNTY * | 08059C0320E | 17-JUN-2003
08 | CO | JEFFERSON COUNTY * | 08059C0335E | 17-JUN-2003
08 | CO | JEFFERSON COUNTY * | 08059C0355E | 17-JUN-2003
08 | CO | JEFFERSON COUNTY * | 08059C0360E | 17-JUN-2003
08 | CO | JEFFERSON COUNTY * | 08059C0365E | 17-JUN-2003
08 | CO | JEFFERSON COUNTY * | 08059C0370E | 17-JUN-2003
08 | CO | JEFFERSON COUNTY * | 08059C0380E | 17-JUN-2003
08 | CO | JEFFERSON COUNTY * | 08059C0385E | 17-JUN-2003
08 | CO | JEFFERSON COUNTY * | 08059C0390E | 17-JUN-2003
08 | CO | JEFFERSON COUNTY * | 08059C0395E | 17-JUN-2003
08 | CO | JEFFERSON COUNTY * | 08059C0405E | 17-JUN-2003
08 | CO | JEFFERSON COUNTY * | 08059C0410E | 17-JUN-2003
08 | CO | JEFFERSON COUNTY * | 08059C0415E | 17-JUN-2003
08 | CO | JEFFERSON COUNTY * | 08059C0420E | 17-JUN-2003
08 | CO | JEFFERSON COUNTY * | 08059C0435E | 17-JUN-2003
08 | CO | JEFFERSON COUNTY * | 08059C0445E | 17-JUN-2003
08 | CO | JEFFERSON COUNTY * | 08059C0455E | 17-JUN-2003
08 | CO | JEFFERSON COUNTY * | 08059C0465E | 17-JUN-2003
08 | CO | JEFFERSON COUNTY * | 08059C0470E | 17-JUN-2003
08 | CO | JEFFERSON COUNTY * | 08059C0500E | 17-JUN-2003
08 | CO | JEFFERSON COUNTY * | 08059C0525E | 17-JUN-2003
08 | CO | JEFFERSON COUNTY * | 08059C0590E | 17-JUN-2003
08 | CO | JEFFERSON COUNTY * | 08059C0600E | 17-JUN-2003
08 | CO | JEFFERSON COUNTY * | 08059C0650E | 17-JUN-2003
08 | CO | JEFFERSON COUNTY * | 08059C0675E | 17-JUN-2003
08 | CO | JEFFERSON COUNTY * | 08059CIND0A** | 17-JUN-2003
08 | CO | LAKESIDE, TOWN OF | 08059C0216E | 17-JUN-2003
08 | CO | LAKESIDE, TOWN OF | 08059C0218E | 17-JUN-2003
08 | CO | LAKESIDE, TOWN OF | 08059CIND0A** | 17-JUN-2003
08 | CO | LAKEWOOD, CITY OF | 08059C0194E | 17-JUN-2003
08 | CO | LAKEWOOD, CITY OF | 08059C0214E | 17-JUN-2003
08 | CO | LAKEWOOD, CITY OF | 08059C0215E | 17-JUN-2003
08 | CO | LAKEWOOD, CITY OF | 08059C0279E | 17-JUN-2003
08 | CO | LAKEWOOD, CITY OF | 08059C0281E | 17-JUN-2003
08 | CO | LAKEWOOD, CITY OF | 08059C0285E | 17-JUN-2003
08 | CO | LAKEWOOD, CITY OF | 08059C0287E | 17-JUN-2003
08 | CO | LAKEWOOD, CITY OF | 08059C0295E | 17-JUN-2003
08 | CO | LAKEWOOD, CITY OF | 08059C0302E | 17-JUN-2003
08 | CO | LAKEWOOD, CITY OF | 08059C0305E | 17-JUN-2003
08 | CO | LAKEWOOD, CITY OF | 08059C0306E | 17-JUN-2003
08 | CO | LAKEWOOD, CITY OF | 08059C0310E | 17-JUN-2003
08 | CO | LAKEWOOD, CITY OF | 08059C0315E | 17-JUN-2003
08 | CO | LAKEWOOD, CITY OF | 08059C0320E | 17-JUN-2003
08 | CO | LAKEWOOD, CITY OF | 08059C0405E | 17-JUN-2003
08 | CO | LAKEWOOD, CITY OF | 08059CIND0A** | 17-JUN-2003
08 | CO | MORRISON, TOWN OF | 08059C0287E | 17-JUN-2003
08 | CO | MORRISON, TOWN OF | 08059C0289E | 17-JUN-2003
08 | CO | MORRISON, TOWN OF | 08059C0295E | 17-JUN-2003
08 | CO | MORRISON, TOWN OF | 08059C0380E | 17-JUN-2003
08 | CO | MORRISON, TOWN OF | 08059CIND0A** | 17-JUN-2003
08 | CO | MOUNTAIN VIEW, TOWN OF | 08059C0218E | 17-JUN-2003
08 | CO | MOUNTAIN VIEW, TOWN OF | 08059CIND0A** | 17-JUN-2003
08 | CO | WESTMINSTER, CITY OF | 08059C0070E | 17-JUN-2003
08 | CO | WESTMINSTER, CITY OF | 08059C0084E | 17-JUN-2003
08 | CO | WESTMINSTER, CITY OF | 08059C0088E | 17-JUN-2003
08 | CO | WESTMINSTER, CITY OF | 08059C0089E | 17-JUN-2003
08 | CO | WESTMINSTER, CITY OF | 08059C0090E | 17-JUN-2003
08 | CO | WESTMINSTER, CITY OF | 08059C0091E | 17-JUN-2003
08 | CO | WESTMINSTER, CITY OF | 08059C0092E | 17-JUN-2003
08 | CO | WESTMINSTER, CITY OF | 08059C0093E | 17-JUN-2003
08 | CO | WESTMINSTER, CITY OF | 08059C0094E | 17-JUN-2003
08 | CO | WESTMINSTER, CITY OF | 08059C0103E | 17-JUN-2003
08 | CO | WESTMINSTER, CITY OF | 08059C0111E | 17-JUN-2003
08 | CO | WESTMINSTER, CITY OF | 08059C0113E | 17-JUN-2003
08 | CO | WESTMINSTER, CITY OF | 08059C0181E | 17-JUN-2003
08 | CO | WESTMINSTER, CITY OF | 08059C0182E | 17-JUN-2003
08 | CO | WESTMINSTER, CITY OF | 08059C0201E | 17-JUN-2003
08 | CO | WESTMINSTER, CITY OF | 08059C0202E | 17-JUN-2003
08 | CO | WESTMINSTER, CITY OF | 08059C0204E | 17-JUN-2003
08 | CO | WESTMINSTER, CITY OF | 08059C0206E | 17-JUN-2003
08 | CO | WESTMINSTER, CITY OF | 08059C0207E | 17-JUN-2003
08 | CO | WESTMINSTER, CITY OF | 08059C0208E | 17-JUN-2003
08 | CO | WESTMINSTER, CITY OF | 08059CIND0A** | 17-JUN-2003
08 | CO | WHEAT RIDGE, CITY OF | 08059C0192E | 17-JUN-2003
08 | CO | WHEAT RIDGE, CITY OF | 08059C0194E | 17-JUN-2003
08 | CO | WHEAT RIDGE, CITY OF | 08059C0211E | 17-JUN-2003
08 | CO | WHEAT RIDGE, CITY OF | 08059C0212E | 17-JUN-2003
08 | CO | WHEAT RIDGE, CITY OF | 08059C0214E | 17-JUN-2003
08 | CO | WHEAT RIDGE, CITY OF | 08059C0215E | 17-JUN-2003
08 | CO | WHEAT RIDGE, CITY OF | 08059C0216E | 17-JUN-2003
08 | CO | WHEAT RIDGE, CITY OF | 08059C0218E | 17-JUN-2003
08 | CO | WHEAT RIDGE, CITY OF | 08059CIND0A** | 17-JUN-2003
08 | ND | LANGDON, CITY OF | 3800250394C | 05-MAY-2003
08 | ND | LANGDON, CITY OF | 3800250413C | 05-MAY-2003
08 | ND | LANGDON, CITY OF | 380025IND0A** | 05-MAY-2003
08 | SD | MINNEHAHA COUNTY * | 4600570025C | 05-MAY-2003
08 | SD | MINNEHAHA COUNTY * | 4600570050C | 05-MAY-2003
08 | SD | MINNEHAHA COUNTY * | 4600570055C | 05-MAY-2003
08 | SD | MINNEHAHA COUNTY * | 4600570060C | 05-MAY-2003
08 | SD | MINNEHAHA COUNTY * | 4600570065C | 05-MAY-2003
08 | SD | MINNEHAHA COUNTY * | 4600570070C | 05-MAY-2003
08 | SD | MINNEHAHA COUNTY * | 4600570100C | 05-MAY-2003
08 | SD | MINNEHAHA COUNTY * | 4600570105C | 05-MAY-2003
08 | SD | MINNEHAHA COUNTY * | 4600570110C | 05-MAY-2003
08 | SD | MINNEHAHA COUNTY * | 4600570115C | 05-MAY-2003
08 | SD | MINNEHAHA COUNTY * | 4600570120C | 05-MAY-2003
08 | SD | MINNEHAHA COUNTY * | 4600570150C | 05-MAY-2003
08 | SD | MINNEHAHA COUNTY * | 4600570155C | 05-MAY-2003
08 | SD | MINNEHAHA COUNTY * | 4600570160C | 05-MAY-2003
08 | SD | MINNEHAHA COUNTY * | 4600570165C | 05-MAY-2003
08 | SD | MINNEHAHA COUNTY * | 4600570170C | 05-MAY-2003
08 | SD | MINNEHAHA COUNTY * | 4600570200C | 05-MAY-2003
08 | SD | SPEARFISH, CITY OF | 4600460004E | 05-FEB-2003
08 | SD | SPEARFISH, CITY OF | 4600460005E | 05-FEB-2003
08 | SD | SPEARFISH, CITY OF | 4600460009E | 05-FEB-2003
08 | WY | LINCOLN COUNTY * | 5600320100C** | 17-JUN-2003
08 | WY | LINCOLN COUNTY * | 5600320250C** | 17-JUN-2003
08 | WY | LINCOLN COUNTY * | 5600321370C | 17-JUN-2003
08 | WY | LINCOLN COUNTY * | 5600321485C | 17-JUN-2003
08 | WY | LINCOLN COUNTY * | 5600321495C | 17-JUN-2003
08 | WY | LINCOLN COUNTY * | 5600321610C | 17-JUN-2003
08 | WY | LINCOLN COUNTY * | 5600321620C | 17-JUN-2003
08 | WY | LINCOLN COUNTY * | 5600321640C | 17-JUN-2003
08 | WY | LINCOLN COUNTY * | 5600321755C | 17-JUN-2003
08 | WY | LINCOLN COUNTY * | 560032IND0A** | 17-JUN-2003
09 | AZ | COCHISE COUNTY* | 0400121075C | 02-APR-2003
09 | AZ | COCHISE COUNTY* | 0400121090D | 02-APR-2003
09 | AZ | COCHISE COUNTY* | 0400121232D | 02-APR-2003
09 | AZ | COCHISE COUNTY* | 0400121234D | 02-APR-2003
09 | AZ | COCHISE COUNTY* | 0400121251E | 02-APR-2003
09 | AZ | COCHISE COUNTY* | 0400121253E | 02-APR-2003
09 | AZ | COCHISE COUNTY* | 0400121261C | 02-APR-2003
09 | AZ | COCHISE COUNTY* | 0400121275D | 02-APR-2003
09 | AZ | COCHISE COUNTY* | 040012IND0A** | 02-APR-2003
09 | AZ | SIERRA VISTA, CITY OF | 0400170005D | 02-APR-2003
09 | AZ | SIERRA VISTA, CITY OF | 0400170010D | 02-APR-2003
09 | AZ | SIERRA VISTA, CITY OF | 0400170015D | 02-APR-2003
09 | AZ | SIERRA VISTA, CITY OF | 040017IND0A** | 02-APR-2003
09 | CA | COLUSA COUNTY * | 06011C0075F | 15-MAY-2003
09 | CA | COLUSA COUNTY * | 06011C0100F | 15-MAY-2003
09 | CA | COLUSA COUNTY * | 06011C0125F | 15-MAY-2003
09 | CA | COLUSA COUNTY * | 06011C0150F | 15-MAY-2003
09 | CA | COLUSA COUNTY * | 06011C0175F | 15-MAY-2003
09 | CA | COLUSA COUNTY * | 06011C0200F | 15-MAY-2003
09 | CA | COLUSA COUNTY * | 06011C0275F | 15-MAY-2003
09 | CA | COLUSA COUNTY * | 06011C0300F | 15-MAY-2003
09 | CA | COLUSA COUNTY * | 06011C0310F | 15-MAY-2003
09 | CA | COLUSA COUNTY * | 06011C0320F | 15-MAY-2003
09 | CA | COLUSA COUNTY * | 06011C0325F | 15-MAY-2003
09 | CA | COLUSA COUNTY * | 06011C0330F | 15-MAY-2003
09 | CA | COLUSA COUNTY * | 06011C0337F | 15-MAY-2003
09 | CA | COLUSA COUNTY * | 06011C0339F | 15-MAY-2003
09 | CA | COLUSA COUNTY * | 06011C0340F | 15-MAY-2003
09 | CA | COLUSA COUNTY * | 06011C0341F | 15-MAY-2003
09 | CA | COLUSA COUNTY * | 06011C0343F | 15-MAY-2003
09 | CA | COLUSA COUNTY * | 06011C0350F | 15-MAY-2003
09 | CA | COLUSA COUNTY * | 06011C0375F | 15-MAY-2003
09 | CA | COLUSA COUNTY * | 06011C0400F | 15-MAY-2003
09 | CA | COLUSA COUNTY * | 06011C0450F | 15-MAY-2003
09 | CA | COLUSA COUNTY * | 06011C0475F | 15-MAY-2003
09 | CA | COLUSA COUNTY * | 06011C0500F | 15-MAY-2003
09 | CA | COLUSA COUNTY * | 06011C0516F | 15-MAY-2003
09 | CA | COLUSA COUNTY * | 06011C0517F | 15-MAY-2003
09 | CA | COLUSA COUNTY * | 06011C0518F | 15-MAY-2003
09 | CA | COLUSA COUNTY * | 06011C0525F | 15-MAY-2003
09 | CA | COLUSA COUNTY * | 06011C0535F | 15-MAY-2003
09 | CA | COLUSA COUNTY * | 06011C0550F | 15-MAY-2003
09 | CA | COLUSA COUNTY * | 06011C0555F | 15-MAY-2003
09 | CA | COLUSA COUNTY * | 06011C0575F | 15-MAY-2003
09 | CA | COLUSA COUNTY * | 06011C0600F | 15-MAY-2003
09 | CA | COLUSA COUNTY * | 06011C0625F | 15-MAY-2003
09 | CA | COLUSA COUNTY * | 06011C0645F | 15-MAY-2003
09 | CA | COLUSA COUNTY * | 06011C0650F | 15-MAY-2003
09 | CA | COLUSA COUNTY * | 06011C0664F | 15-MAY-2003
09 | CA | COLUSA COUNTY * | 06011C0665F | 15-MAY-2003
09 | CA | COLUSA COUNTY * | 06011C0668F | 15-MAY-2003
09 | CA | COLUSA COUNTY * | 06011C0669F | 15-MAY-2003
09 | CA | COLUSA COUNTY * | 06011C0670F | 15-MAY-2003
09 | CA | COLUSA COUNTY * | 06011C0675F | 15-MAY-2003
09 | CA | COLUSA COUNTY * | 06011C0688F | 15-MAY-2003
09 | CA | COLUSA COUNTY * | 06011C0700F | 15-MAY-2003
09 | CA | COLUSA COUNTY * | 06011C0725F | 15-MAY-2003
09 | CA | COLUSA COUNTY * | 06011C0750F | 15-MAY-2003
09 | CA | COLUSA COUNTY * | 06011C0775F | 15-MAY-2003
09 | CA | COLUSA COUNTY * | 06011C0800F | 15-MAY-2003
09 | CA | COLUSA COUNTY * | 06011C0802F | 15-MAY-2003
09 | CA | COLUSA COUNTY * | 06011C0805F | 15-MAY-2003
09 | CA | COLUSA COUNTY * | 06011C0810F | 15-MAY-2003
09 | CA | COLUSA COUNTY * | 06011C0825F | 15-MAY-2003
09 | CA | COLUSA COUNTY * | 06011C0850F | 15-MAY-2003
09 | CA | COLUSA COUNTY * | 06011C0875F | 15-MAY-2003
09 | CA | COLUSA COUNTY * | 06011CIND0A** | 15-MAY-2003
09 | CA | COLUSA, CITY OF | 06011C0555F | 15-MAY-2003
09 | CA | COLUSA, CITY OF | 06011CIND0A** | 15-MAY-2003
09 | CA | TEHAMA COUNTY* | 0650640457C | 05-MAY-2003
09 | CA | TEHAMA COUNTY* | 0650640475C | 05-MAY-2003
09 | CA | TEHAMA COUNTY* | 0650640476E | 05-MAY-2003
09 | CA | TEHAMA COUNTY* | 0650640480E** | 05-MAY-2003
09 | CA | TEHAMA COUNTY* | 065064IND0A** | 05-MAY-2003
09 | CA | WILLIAMS, CITY OF | 06011C0517F | 15-MAY-2003
09 | CA | WILLIAMS, CITY OF | 06011C0518F | 15-MAY-2003
09 | CA | WILLIAMS, CITY OF | 06011C0550F | 15-MAY-2003
09 | CA | WILLIAMS, CITY OF | 06011CIND0A** | 15-MAY-2003
10 | ID | ADA COUNTY * | 16001C0130H | 19-FEB-2003
10 | ID | ADA COUNTY * | 16001C0139H | 19-FEB-2003
10 | ID | ADA COUNTY * | 16001C0140H | 19-FEB-2003
10 | ID | ADA COUNTY * | 16001C0143H | 19-FEB-2003
10 | ID | ADA COUNTY * | 16001C0144H | 19-FEB-2003
10 | ID | ADA COUNTY * | 16001C0156H | 19-FEB-2003
10 | ID | ADA COUNTY * | 16001C0157H | 19-FEB-2003
10 | ID | ADA COUNTY * | 16001C0160H | 19-FEB-2003
10 | ID | ADA COUNTY * | 16001C0176H | 19-FEB-2003
10 | ID | ADA COUNTY * | 16001C0178H | 19-FEB-2003
10 | ID | ADA COUNTY * | 16001C0180H | 19-FEB-2003
10 | ID | ADA COUNTY * | 16001C0231H | 19-FEB-2003
10 | ID | ADA COUNTY * | 16001C0232H | 19-FEB-2003
10 | ID | ADA COUNTY * | 16001C0234H | 19-FEB-2003
10 | ID | ADA COUNTY * | 16001C0250H | 19-FEB-2003
10 | ID | ADA COUNTY * | 16001C0251H | 19-FEB-2003
10 | ID | ADA COUNTY * | 16001C0253H | 19-FEB-2003
10 | ID | BOISE, CITY OF | 16001C0160H | 19-FEB-2003
10 | ID | BOISE, CITY OF | 16001C0178H | 19-FEB-2003
10 | ID | KUNA, CITY OF | 16001C0250H | 19-FEB-2003
10 | ID | MERIDIAN, CITY OF | 16001C0139H | 19-FEB-2003
10 | ID | MERIDIAN, CITY OF | 16001C0143H | 19-FEB-2003
10 | ID | MERIDIAN, CITY OF | 16001C0144H | 19-FEB-2003
10 | ID | MERIDIAN, CITY OF | 16001C0231H | 19-FEB-2003
10 | ID | MERIDIAN, CITY OF | 16001C0232H | 19-FEB-2003
10 | ID | MERIDIAN, CITY OF | 16001C0234H | 19-FEB-2003
10 | ID | MERIDIAN, CITY OF | 16001C0250H | 19-FEB-2003
10 | ID | MERIDIAN, CITY OF | 16001C0251H | 19-FEB-2003
10 | ID | MERIDIAN, CITY OF | 16001C0253H | 19-FEB-2003
10 | ID | STAR, CITY OF | 16001C0130H | 19-FEB-2003
10 | ID | STAR, CITY OF | 16001C0140H | 19-FEB-2003
10 | ID | WARDNER, CITY OF | 1601300019C | 17-JUN-2003
10 | ID | WARDNER, CITY OF | 1601300038C | 17-JUN-2003
10 | ID | WARDNER, CITY OF | 160130IND0A** | 17-JUN-2003
10 | OR | MARION COUNTY* | 41047C0333H | 02-JAN-2003
10 | OR | MARION COUNTY* | 41047C0334H | 02-JAN-2003
10 | OR | MARION COUNTY* | 41047C0341H | 02-JAN-2003
10 | OR | MARION COUNTY* | 41047C0342H | 02-JAN-2003
10 | OR | MARION COUNTY* | 41047C0344H | 02-JAN-2003
10 | OR | MARION COUNTY* | 41047C0361H | 02-JAN-2003
10 | OR | MARION COUNTY* | 41047C0363H | 02-JAN-2003
10 | OR | MARION COUNTY* | 41047C0364H | 02-JAN-2003
10 | OR | MARION COUNTY* | 41047C0676H | 02-JAN-2003
10 | OR | MARION COUNTY* | 41047C0677H | 02-JAN-2003
10 | OR | SALEM, CITY OF | 41047C0333H | 02-JAN-2003
10 | OR | SALEM, CITY OF | 41047C0334H | 02-JAN-2003
10 | OR | SALEM, CITY OF | 41047C0341H | 02-JAN-2003
10 | OR | SALEM, CITY OF | 41047C0342H | 02-JAN-2003
10 | OR | SALEM, CITY OF | 41047C0344H | 02-JAN-2003
10 | OR | SALEM, CITY OF | 41047C0361H | 02-JAN-2003
10 | OR | SALEM, CITY OF | 41047C0363H | 02-JAN-2003
10 | OR | SALEM, CITY OF | 41047C0364H | 02-JAN-2003
10 | OR | SALEM, CITY OF | 41047C0676H | 02-JAN-2003
10 | OR | SALEM, CITY OF | 41047C0677H | 02-JAN-2003
10 | OR | TURNER, CITY OF | 41047C0677H | 02-JAN-2003
10 | WA | CONCONULLY, TOWN OF | 5301180001B | 02-JAN-2003
10 | WA | OKANOGAN COUNTY * | 5301170725C | 02-JAN-2003

[FR Doc. 03-21002 Filed 8-19-03; 8:45am]

BILLING CODE 6718-04-F